SECURITIES AND EXCHANGE COMMISSION

17 CFR Parts 240 and 249

[Release No. 34-71958; File No. S7-05-14]

RIN 3235-AL45

Recordkeeping and Reporting Requirements for Security-Based Swap Dealers, Major Security-Based Swap Participants, and Broker-Dealers; Capital Rule for Certain Security-Based Swap Dealers

AGENCY: Securities and Exchange Commission.

ACTION: Proposed rule.

SUMMARY: In accordance with the Dodd-Frank Wall Street Reform and Consumer Protection Act (“Dodd-Frank Act”), the Securities and Exchange Commission (“Commission”), pursuant to the Securities Exchange Act of 1934 (“Exchange Act”), is proposing recordkeeping, reporting, and notification requirements applicable to security-based swap dealers (“SBSDs”) and major security-based swap participants (“MSBSPs”), securities count requirements applicable to certain SBSDs, and additional recordkeeping requirements applicable to broker-dealers to account for their security-based swap and swap activities. The Commission also is proposing an additional capital charge provision that would be added to the proposed capital rule for certain SBSDs. Finally, the Commission is proposing technical amendments to the broker-dealer recordkeeping, reporting, and notification requirements.

DATES: Comments should be received on or before July 1, 2014.

ADDRESSES: Comments may be submitted by any of the following methods:

Electronic Comments

• Use the Commission's Internet comment form (http://www.sec.gov/rules/proposed.shtml); or

• Send an email to rule-comments@sec.gov. Please include File Number S7-05-14 on the subject line; or

• Use the Federal eRulemaking Portal (http://www.regulations.gov). Follow the instructions for submitting comments.

Paper Comments

• Send paper comments to Kevin M. O'Neill, Deputy Secretary, Securities and Exchange Commission, 100 F Street NE., Washington, DC 20549-1090.

All submissions should refer to File Number S7-05-14. This file number should be included on the subject line if email is used. To help the Commission process and review your comments more efficiently, please use only one method. The Commission will post all comments on the Commission's Internet Web site (http://www.sec.gov/rules/proposed.shtml). Comments also are available for Web site viewing and printing in the Commission's Public Reference Room, 100 F Street NE., Washington, DC 20549, on official business days between the hours of 10:00 a.m. and 3:00 p.m. All comments received will be posted without change; the Commission does not edit personal identifying information from submissions. You should submit only information that you wish to make publicly available.

FOR FURTHER INFORMATION CONTACT: Michael A. Macchiaroli, Associate Director, at (202) 551-5525; Thomas K. McGowan, Associate Director, at (202) 551-5521; Randall W. Roy, Assistant Director, at (202) 551-5522; Denise Landers, Senior Special Counsel, at (202) 551-5544; Raymond A. Lombardo, Branch Chief, at (202) 551-5755; Timothy C. Fox, Special Counsel at (202) 551-5687; or Valentina Minak Deng, Special Counsel, at (202) 551-5778, Division of Trading and Markets, Securities and Exchange Commission, 100 F Street NE., Washington, DC 20549-7010.

SUPPLEMENTARY INFORMATION:

Table of Contents

I. Background

II. Proposed Rules and Rule Amendments

A. Recordkeeping

1. Introduction

2. Records To Be Made and Kept Current

3. Record Maintenance and Preservation Requirements

B. Reporting

1. Introduction

2. Periodic Filing of Proposed Form SBS

3. Filing of Annual Audited Financial Reports and Other Reports

C. Notification

1. Introduction

2. Amendments to Rule 17a-11 and Proposed Rule 18a-8

3. Additional Proposed Amendments to Rule 17a-11

D. Quarterly Securities Count and Capital Charge for Unresolved Securities Differences

1. Introduction

2. Proposed Rule 18a-9

3. Capital Charge

III. General Request for Comment

IV. Paperwork Reduction Act

A. Summary of Collections of Information Under the Proposed Rules and Proposed Rule Amendments

1. Proposed Amendments to Rule 17a-3 and Proposed Rule 18a-5

2. Proposed Amendments to Rule 17a-4 and Proposed Rule 18a-6

3. Proposed Amendments to Rule 17a-5 and Proposed Rule 18a-7

4. Proposed Amendments to Rule 17a-11 and Proposed Rule 18a-8

5. Proposed Rule 18a-9

B. Proposed Use of Information

C. Respondents

D. Total Initial and Annual Recordkeeping and Reporting Burden

1. Proposed Amendments to Rule 17a-3 and Proposed Rule 18a-5

2. Proposed Amendments to Rule 17a-4 and Proposed Rule 18a-6

3. Proposed Amendments to Rule 17a-5 and Proposed Rule 18a-7

4. Proposed Amendments to Rule 17a-11 and Proposed Rule 18a-8

5. Proposed Rule 18a-9

E. Collection of Information Is Mandatory

G. Retention Period for Recordkeeping Requirements

H. Request for Comment

V. Economic Analysis

A. Introduction

B. Baseline of Economic Analysis

1. OTC Derivatives Market

2. OTC Derivatives Market Participants and Broker-Dealers

C. Analysis of the Proposed Program and Alternatives

1. Overview—The Proposed Recordkeeping, Reporting, Notification, and Securities Count Program

2. Alternatives to the Proposed Recordkeeping, Reporting, Notification, and Securities Count Rules

3. Requirements To Make and Keep Records

4. Requirements To Preserve Records

5. Reporting

6. Notification Requirements

7. Quarterly Securities Count

D. Impact on Efficiency, Competition, and Capital Formation

E. Implementation Considerations

VI. Regulatory Flexibility Act Certification

VII. Small Business Regulatory Enforcement Fairness Act

VIII. Statutory Basis and Text of the Proposed Amendments and New Rules

I. Background

On July 21, 2010, President Obama signed the Dodd-Frank Act into law.¹ Title VII of the Dodd-Frank Act (“Title VII”) established a new regulatory framework for the over-the-counter (“OTC”) derivatives markets.² In this regard, Title VII was enacted, among other reasons, to reduce risk, increase transparency, and promote market integrity within the financial system by, among other things: (1) Providing for the registration and regulation of SBSDs and MSBSPs; (2) imposing clearing and trade execution requirements on swaps and security-based swaps, subject to certain exceptions; (3) creating recordkeeping and real-time reporting regimes; and (4) enhancing the Commission's rulemaking and enforcement authorities with respect to all registered entities and intermediaries subject to the Commission's oversight.³

¹ See Dodd-Frank Wall Street Reform and Consumer Protection Act of 2010, Public Law 111-203, 124 Stat. 1376 (2010).

² Pursuant to section 701 of the Dodd-Frank Act, Title VII may be cited as the “Wall Street Transparency and Accountability Act of 2010.” See Public Law 111-203, 701. The Dodd-Frank Act assigns responsibility for the oversight of the U.S. OTC derivatives markets to the Commission, the Commodity Futures Trading Commission (“CFTC”), and certain prudential regulators. The term prudential regulator is defined in section 1(a)(39) of the Commodity Exchange Act (“CEA”) (7 U.S.C. 1(a)(39)) and that definition is incorporated by reference in section 3(a)(74) of the Exchange Act (15 U.S.C. 78c(a)(74)). Pursuant to the definition, the Board of Governors of the Federal Reserve System (“Federal Reserve”), the Office of the Comptroller of the Currency (“OCC”), the Federal Deposit Insurance Corporation (“FDIC”), the Farm Credit Administration, or the Federal Housing Finance Agency (collectively, the “prudential regulators”) is the prudential regulator of an SBSD, MSBSP, swap participant, or major swap participant if the entity is directly supervised by that agency. The Commission has oversight authority with respect to a security-based swap as defined in section 3(a)(68) of the Exchange Act (15 U.S.C. 78c(a)(68)), including to implement a registration and oversight program for a security-based swap dealer as defined in section 3(a)(71) of the Exchange Act (15 U.S.C. 78c(a)(71)) and a major security-based swap participant as defined in section 3(a)(67) of the Exchange Act (15 U.S.C. 78c(a)(67)). The CFTC has oversight authority with respect to a swap as defined in section 1(a)(47) of the CEA (7 U.S.C. 1(a)(47)), including to implement a registration and oversight program for a swap dealer as defined in section 1(a)(49) of the CEA (7 U.S.C. 1(a)(49)) and a major swap participant as defined in section 1(a)(33) of the CEA (7 U.S.C. 1(a)(33)). The Commission and the CFTC jointly have adopted rules to further define, among other things, the terms swap, swap dealer, major swap participant, security-based swap, security-based swap dealer, and major security-based swap participant. See Further Definition of “Swap,” “Security-Based Swap,” and “Security-Based Swap Agreement”; Mixed Swaps; Security-Based Swap Agreement Recordkeeping, Exchange Act Release No. 67453 (July 18, 2012), 77 FR 48208 (Aug. 13, 2012) (joint Commission/CFTC final rule); Further Definition of “Swap Dealer,” “Security-Based Swap Dealer,” “Major Swap Participant,” “Major Security-Based Swap Participant” and “Eligible Contract Participant”, Exchange Act Release No. 66868 (Apr. 27, 2012), 77 FR 30596 (May 23, 2012) (joint Commission/CFTC final rule).

³ See Public Law 111-203, 701 through 774.

Section 764 of the Dodd-Frank Act added section 15F to the Exchange Act.⁴ Section 15F(f)(2) provides that the Commission shall adopt rules governing reporting and recordkeeping for SBSDs and MSBSPs.⁵ Section 15F(f)(1)(A) provides that SBSDs and MSBSPs shall make such reports as are required by the Commission, by rule or regulation, regarding the transactions and positions and financial condition of the SBSD or MSBSP.⁶ Section 15F(f)(1)(B)(ii) provides that SBSDs and MSBSPs without a prudential regulator (respectively, “nonbank SBSDs” and “nonbank MSBSPs”) shall keep books and records in such form and manner and for such period as may be prescribed by the Commission by rule or regulation.⁷ Section 15F(f)(1)(B)(i) provides that SBSDs and MSBSPs for which there is a prudential regulator (respectively, “bank SBSDs” and “bank MSBSPs”) shall keep books and records of all activities related to their business as an SBSD or MSBSP in such form and manner and for such period as may be prescribed by the Commission by rule or regulation.⁸ Section 15F(g) of the Exchange Act requires SBSDs and MSBSPs to maintain daily trading records with respect to security-based swaps and provides that the Commission shall adopt rules governing daily trading records for SBSDs and MSBSPs.⁹ Finally, section 15F(i)(2) of the Exchange Act provides that the Commission shall adopt rules governing documentation standards for SBSDs and MSBSPs.¹⁰

⁴ See Public Law 111-203, 764; 15 U.S.C. 78o-10.

⁵ See 15 U.S.C. 78o-10(f)(2).

⁶ See 15 U.S.C. 78o-10(f)(1).

⁷ See 15 U.S.C. 78o-10(f)(1)(B)(ii). A nonbank SBSD or nonbank MSBSP could be dually registered with the Commission as a broker-dealer (respectively, a “broker-dealer SBSD” or “broker-dealer MSBSP”) or registered with the Commission only as an SBSD or MSBSP (respectively, a “stand-alone SBSD” or “stand-alone MSBSP”). Any of these registrants or a bank SBSD or bank MSBSP also could register with the CFTC as a futures commission merchant (“FCM”), swap dealer, or major swap participant.

⁸ See 15 U.S.C. 78o-10(f)(1)(B)(i).

⁹ See 15 U.S.C. 78o-10(g).

¹⁰ See 15 U.S.C. 78o-10(i).

The Commission anticipates that a number of broker-dealers will register as SBSDs (broker-dealer SBSDs) or potentially as MSBSPs (“broker-dealer MSBSPs).¹¹ Further, the Commission expects that some broker-dealers that are not registered as an SBSD or an MSBSP nonetheless will engage in security-based swap and swap activities.¹² The Commission has authority under section 17(a)(1) of the Exchange Act to adopt rules requiring broker-dealers—which would include broker-dealer SBSDs and broker-dealer MSBSPs—to make and keep for prescribed periods such records, furnish such copies thereof, and make and disseminate such reports as the Commission, by rule, prescribes as necessary or appropriate in the public interest, for the protection of investors, or otherwise in furtherance of the purposes of the Exchange Act.¹³ The Commission also is proposing largely technical amendments to the broker-dealer recordkeeping, reporting, and notification rules.¹⁴

¹¹ While it is anticipated that some broker-dealers and banks will register as SBSDs in order to engage in security-based swap activities, it is unclear whether broker-dealers or banks will register as MSBSPs. For example, a broker-dealer or bank may be required to register as an MSBSP because of the nature of its security-based swap activities. See 15 U.S.C. 78a(c)(67) (defining the term major security-based swap participant); Further Definition of “Swap Dealer,” “Security-Based Swap Dealer,” “Major Swap Participant,” “Major Security-Based Swap Participant” and “Eligible Contract Participant”, 77 FR 30596 (further defining the term major security-based swap participant). In this case, the broker-dealer or bank may conclude that it is more efficient to register as an SBSD in order to engage in security-based swap activities permitted of an SBSD but not of an MSBSP. Nonetheless, because a broker-dealer or bank could register as an MSBSP, the proposed rules and the discussion in this release contemplate these categories of registrants. A broker-dealer MSBSP would be subject to all the securities laws applicable to a broker-dealer, including capital, margin, segregation, recordkeeping, reporting, notification, and securities count requirements, and to any additional requirements that would be applicable only to MSBSPs. Similarly, a bank MSBSP would be subject to all laws and regulations applicable to a bank and to any additional requirements that would be applicable only to MSBSPs.

¹² The term security-based swap dealer is defined in section 3(a)(71) of the Exchange Act. See 15 U.S.C. 78c(a)(71). The definition excludes an entity that enters into security-based swaps agreements for its own account, either individually or in a fiduciary capacity, but not as a part of a regular business. See 15 U.S.C. 78c(a)(71)(C). Further, section 3(a)(71)(D) provides that the Commission shall exempt from designation as an SBSD an entity that engages in a de minimis quantity of security-based swap dealing in connection with transactions with or on behalf of its customers and that the Commission shall promulgate regulations to establish factors with respect to the making of any determination to exempt. See 15 U.S.C. 78c(a)(71)(D). The Commission has adopted Rule 3a71-2 to establish a de minimis exception under section 3(a)(71)(D) of the Exchange Act. See 17 CFR 240.3a71-2; Further Definition of “Swap Dealer,” “Security-Based Swap Dealer,” “Major Swap Participant,” “Major Security-Based Swap Participant” and “Eligible Contract Participant”, 77 FR 30635-30643.

¹³ See 15 U.S.C. 78q(a)(1). Section 771 of the Dodd-Frank Act states that unless otherwise provided by its terms, Subtitle B of Title VII (relating to the regulation of the security-based swap markets) does not divest any appropriate Federal banking agency, the Commission, the CFTC, or any other Federal or State agency, of any authority derived from any other provision of applicable law. See Public Law 111-203, 771.

¹⁴ See 17 CFR 240.17a-3 (“Rule 17a-3”); 17 CFR 240.17a-4 (“Rule 17a-4”); 17 CFR 240.17a-5 (“Rule 17a-5”); 17 CFR 240.17a-11 (“Rule 17a-11”). The Dodd-Frank Act amended the definition of security in section 3(a)(10) of the Exchange Act to include a security-based swap. See Public Law 111-203, 761(a)(2); 15 U.S.C. 78c(a)(10). Therefore, the term security as used in Rules 17a-3, 17a-4, 17a-5, and 17a-11 includes a security-based swap, and any requirement in those rules relating to a security applies to a security-based swap. The Commission, however, has issued temporary exemptive relief to address the effect that the amendment to the definition of security would have on requirements in Exchange Act provisions and rules that did not otherwise apply specifically to security-based swaps prior to the amendment. See Order Granting Temporary Exemptions under the Securities Exchange Act of 1934 in Connection with the Pending Revision of the Definition of “Security” to Encompass Security-Based Swaps, and Request for Comment, Exchange Act Release No. 64795 (July 1, 2011), 76 FR 39927 (July 7, 2011) (“[R]egistered broker-dealers will solely be exempt from those provisions and rules to the extent that those provisions or rules do not apply to the broker's or dealer's security-based swap positions or activities as of July 15, 2011—the day before the effectiveness of the change to the “security” definition. In other words, during the exemptive period the application of current law will remain unchanged, and those particular Exchange Act requirements will continue to apply to registered broker-dealers' security-based swap activities and positions to the same extent they apply currently. This approach is intended to help avoid undue market disruptions resulting from the change to the “security” definition, while at the same time preserving the current application of those particular provisions or rules to security-based swap activity by registered broker-dealers. Thus, under this approach of preserving the status quo, no exemption will be provided in connection with the [requirements in Exchange Act sections 17(a) and 17(b) and Rules 17a-3, 17a-4, 17a-5, 17a-8, and 17a-13] under the Exchange Act to the extent that those requirements currently apply to registered broker-dealer activities or positions involving instruments that will be security-based swaps (but registered broker-dealers will be exempted in connection with those requirements to the extent that the requirements do not already apply to activities or positions involving those instruments.”); Order Extending Temporary Exemptions under the Securities Exchange Act of 1934 in Connection with the Revision of the Definition of “Security” to Encompass Security-Based Swaps, and Request for Comment, Exchange Act Release No. 68864 (Feb. 7, 2013), 78 FR 10218 (Feb. 13, 2013) (extending exemptive relief through February 11, 2014); Order Extending Temporary Exemptions under the Securities Exchange Act of 1934 in Connection with the Revision of the Definition of “Security” to Encompass Security-Based Swaps, and Request for Comment, Exchange Release No. 71485 (Feb. 5, 2014) (extending exemptive relief with respect to Rules 17a-3, 17a-4, 17a-5, 17a-11, and 17a-13 until the earliest compliance date set forth in any final rules regarding recordkeeping and reporting requirements for SBSDs and MSBSPs). The Commission expects that the adoption of the amendments contemplated herein would eliminate the need for temporary exemptive relief from section 17(a) and section 17(b) of the Exchange Act and Rules 17a-3, 17a-4, 17a-5, 17a-11, and 17a-13 thereunder.

Pursuant to sections 15F and 17(a) of the Exchange Act, the Commission is proposing to amend Rules 17a-3, 17a-4, 17a-5, and 17a-11 to establish a recordkeeping, reporting, and notification program for broker-dealer SBSDs and broker-dealer MSBSPs. The amendments to Rules 17a-3 and 17a-4 would establish additional recordkeeping requirements applicable to broker-dealers that are not dually registered as an SBSD or MSBSP to the extent they engage in security-based swap or swap activities.

Pursuant to section 15F of the Exchange Act, the Commission is proposing new Rules 18a-5 through 18a-9.¹⁵ These new rules would establish a recordkeeping, reporting, and notification program for stand-alone SBSDs, stand-alone MSBSPs, bank SBSDs, and bank MSBSPs, and securities count requirements for stand-alone SBSDs.¹⁶ In addition, pursuant to sections 15F and 17(a) of the Exchange Act, the Commission is proposing new FOCUS Report Form SBS (“Form SBS”) that would be used by all types of SBSDs and MSBSPs to report financial and operational information and, in the case of broker-dealer SBSDs and broker-dealer MSBSPs, replace their use of Part II, Part IIA, Part IIB, or Part II CSE of the Financial and Operational Combined Uniform Single Report (“FOCUS Report”).¹⁷

¹⁵ The Commission has proposed new Rules 18a-1 through 18a-4 to establish capital and margin requirements for SBSDs and MSBSPs, segregation requirements for SBSDs, and notification requirements with respect to segregation for SBSDs and MSBSPs. See Capital, Margin, and Segregation Requirements for Security-Based Swap Dealers and Major Security-Based Swap Participants and Capital Requirements for Broker-Dealers, Exchange Act Release No. 68071 (Oct. 18, 2012), 77 FR 70213 (Nov. 23, 2012).

¹⁶ The Commission is not proposing securities count requirements for stand-alone MSBSPs or bank SBSDs. Broker-dealer SBSDs and broker-dealer MSBSPs would be subject to the existing securities count rule applicable to broker-dealers—Rule 17a-13. 17 CFR 240.17a-13. The Commission is not proposing amendments to Rule 17a-13. While in this release Rule 17a-11 is referred to as a notification rule and Rule 17a-13 is referred to as a securities count rule, Rule 17a-11 can be viewed as a reporting rule and Rule 17a-13 can be viewed as a recordkeeping rule. See Prompt Notice of Net Capital or Recordkeeping Violations, Exchange Act Release No. 9268 (July 29, 1971), 36 FR 14725 (Aug. 11, 1971) (adopting Rule 17a-11, in part, under section 17(a) of Exchange Act, which, as discussed above, requires a broker-dealer to make and keep for prescribed periods such records, furnish such copies thereof, and make and disseminate such reports as the Commission, by rule, prescribes as necessary or appropriate in the public interest, for the protection of investors, or otherwise in furtherance of the Exchange Act); Quarterly Securities Counts by Certain Exchange Members, Brokers and Dealers, Exchange Act Release No. 9376 (Oct. 29, 1971), 36 FR 21178 (Nov. 4, 1971) (similarly adopting Rule 17a-13, in part, under section 17(a) of Exchange Act).

¹⁷ A broker-dealer must file the FOCUS Report Part II, Part IIA, Part IIB, or Part II CSE depending on the type of broker-dealer. A more detailed discussion of the FOCUS Report appears below in section II.B.2. of this release.

The proposed new rules are modeled on broker-dealer Rules 17a-3, 17a-4, 17a-5, 17a-11, and 17a-13, and on the FOCUS Report. Specifically: (1) Proposed Rules 18a-5 and 18a-6 (the new recordkeeping rules) are modeled on Rules 17a-3 and 17a-4, respectively (the broker-dealer recordkeeping rules); ¹⁸ (2) proposed Rule 18a-7 and proposed Form SBS (the new reporting rules) are modeled on Rule 17a-5 and on the FOCUS Report, respectively (the broker-dealer reporting rules); ¹⁹ (3) proposed Rule 18a-8 (the new notification rule) is modeled on Rule 17a-11 (the broker-dealer notification rule); ²⁰ and (4) proposed Rule 18a-9 (the new securities count rule) is modeled on the Rule 17a-13 (the broker-dealer securities count rule).²¹

¹⁸ Compare proposed Rule 18a-5, with 17 CFR 240.17a-3; compare proposed Rule 18a-6, with 17 CFR 240.17a-4.

¹⁹ Compare proposed Rule 18a-7, with 17 CFR 240.17a-5; compare proposed Form SBS, with the FOCUS Report.

²⁰ Compare proposed Rule 18a-8, with 17 CFR 240.17a-11.

²¹ Compare proposed Rule 18a-9, with 17 CFR 240.17a-13.

The broker-dealer recordkeeping, reporting, notification, and security count requirements served as the model for the proposals because SBSDs and MSBSPs are expected to operate in financial markets and effect financial transactions that are similar to the financial markets in which broker-dealers operate and the financial transactions that broker-dealers effect.²² In addition, as discussed below, the objectives of these broker-dealer requirements are similar to the objectives underlying the proposals regarding security-based swaps. Moreover, the broker-dealer requirements have existed for many years and have established a system of recordkeeping for securities transactions that reflect and support prudent business practices and accountability of broker-dealers and have facilitated the ability of securities regulators to review and monitor compliance with securities laws.²³ Consequently, the Commission preliminarily believes the broker-dealer requirements provide an appropriate template on which to model a recordkeeping, reporting, and notification program for SBSDs and MSBSPs and a securities count program for SBSDs. Furthermore, as discussed above, it is expected that some nonbank SBSDs will dually register as broker-dealers in order to be able to offer customers a broader range of securities-based services than would be permitted of a nonbank SBSD.²⁴ Therefore, establishing consistent requirements could avoid potential competitive disparities between stand-alone SBSDs and broker-dealer SBSDs with respect to their security-based swap business.

²² See Capital, Margin, and Segregation Requirements for Security-Based Swap Dealers and Major Security-Based Swap Participants and Capital Requirements for Broker-Dealers, 77 FR 70216 (stating a similar rationale for basing the proposed capital, margin, and segregation requirements for SBSDs on the broker-dealer capital, margin, and segregation requirements).

²³ See, e.g., Commission Guidance to Broker-Dealers on the Use of Electronic Storage Media Under the Electronic Signatures in Global and National Commerce Act of 2000 With Respect to Rule 17a-4(f), Exchange Act Release No. 44238 (May 1, 2001), 66 FR 22916 (May 7, 2001).

²⁴ Although a broker-dealer SBSD would be able to offer customers a broader range of securities-based services than a bank SBSD, bank SBSDs are not expected to register as broker-dealers because of the regulatory burden associated with complying with the requirements applicable to all three types of entities.

Additionally, in accordance with Title VII, the Commission recently proposed, among other things, capital and margin requirements applicable to nonbank SBSDs and nonbank MSBSPs, and segregation requirements applicable to SBSDs.²⁵ The capital, margin, and segregation proposals that would be applicable to SBSDs were modeled on the capital, margin, and segregation requirements that are applicable to broker-dealers.²⁶ The broker-dealer capital, margin, segregation, recordkeeping, reporting, notification, and securities count requirements are known collectively as the broker-dealer financial responsibility rules.²⁷ The financial responsibility rules collectively establish a comprehensive regulatory program designed to promote the prudent operation of broker-dealers and the safeguarding of customer securities and funds held by broker-dealers. The recordkeeping, reporting, notification, and securities count requirements applicable to broker-dealers are an integral part of the financial responsibility rules as they are designed to provide transparency into the business activities of broker-dealers and to assist the Commission and other securities regulators in reviewing and monitoring compliance with the capital, margin, and segregation requirements. Similarly, the proposed recordkeeping, reporting, notification, and securities count requirements applicable to SBSDs and MSBSPs along with the proposed capital, margin, and segregation requirements for these registrants are designed to establish a comprehensive financial responsibility program for SBSDs and MSBSPs. Like the broker-dealer rules, the proposed recordkeeping, reporting, notification, and securities count requirements applicable to SBSDs and MSBSPs are designed to provide transparency into the business activities of SBSDs and MSBSPs and assist the Commission in reviewing and monitoring compliance with the proposed capital, margin, and segregation requirements applicable to SBSDs and MSBSPs.

²⁵ See Capital, Margin, and Segregation Requirements for Security-Based Swap Dealers and Major Security-Based Swap Participants and Capital Requirements for Broker-Dealers, 77 FR 70213.

²⁶ Id. See also 17 CFR 240.15c3-1 (the broker-dealer capital rule); FINRA Rules 4210 through 4240 (certain broker-dealer margin rules); 17 CFR 240.15c3-3 (the broker-dealer segregation rule).

²⁷ See 17 CFR 240.3a40-1.

While the proposed recordkeeping, reporting, notification, and securities count rules are modeled on the broker-dealer rules, stand-alone SBSDs and stand-alone MSBSPs will not engage in the same range of activities permitted of broker-dealers. For example, broker-dealers are permitted to act as dealers with respect to all types of securities, whereas stand-alone SBSDs would be permitted to act as dealers only with respect to security-based swaps and stand-alone MSBSPs would not be permitted to act as dealers with respect to any types of securities. Consequently, the proposed requirements in the new rules applicable to stand-alone SBSDs and stand-alone MSBSPs reflect these differences and are narrower in scope than those applicable to broker-dealer SBSDs and broker-dealer MSBSPs. Further, the proposed requirements applicable to bank SBSDs and bank MSBSPs are narrower in scope than those applicable to stand-alone SBSDs and stand-alone MSBSPs for three reasons. First, as noted above, the recordkeeping and reporting requirements for bank SBSDs and bank MSBSPs—unlike those for nonbank SBSDs and nonbank MSBSPs—must be related to their business as an SBSD or MSBSP.²⁸ Second, as banks, these registrants are subject to existing recordkeeping and reporting requirements administered by the prudential regulators and therefore to avoid potentially duplicative or conflicting requirements, the Commission has proposed fewer requirements for these entities. Third, the prudential regulators—rather than the Commission—will administer the capital, margin, and other prudential requirements applicable to bank SBSDs and bank MSBSPs and, as noted above, one of the purposes of the proposed recordkeeping requirements is to assist the Commission in reviewing and monitoring compliance with the proposed capital and margin rules applicable to nonbank SBSDs and nonbank MSBSPs, which the Commission will administer.²⁹

²⁸ Compare 15 U.S.C. 78o-10(f)(1)(B)(i), with 15 U.S.C. 78o-10(f)(1)(B)(ii) and 15 U.S.C. 78q(a). As noted above, section 15F(f)(1)(B)(i) of the Exchange Act provides that each bank SBSD and bank MSBSP shall keep books and records of all activities related to the business as an SBSD or MSBSP in such form and manner and for such period as may be prescribed by the Commission by rule or regulation (emphasis added). See 15 U.S.C. 78o-10(f)(1)(B)(i). Whereas, section 15F(f)(1)(B)(ii) of the Exchange Act provides that each nonbank SBSD and nonbank MSBSP shall keep books and records in such form and manner and for such period as may be prescribed by the Commission by rule or regulation. See 15 U.S.C. 78o-10(f)(1)(B)(ii). Further, section 17(a) of the Exchange Act provides that broker-dealers shall make and keep for prescribed periods such records, furnish such copies thereof, and make and disseminate such reports as the Commission, by rule, prescribes as necessary or appropriate in the public interest, for the protection of investors, or otherwise in furtherance of the purposes of the Exchange Act. See 15 U.S.C. 78q(a).

²⁹ Section 15F(e)(1)(A) of the Exchange Act provides that the prudential regulators shall prescribe capital and margin requirements for bank SBSDs and bank MSBSPs, and section 4s(e)(1)(A) of the CEA provides that the prudential regulators shall prescribe capital and margin requirements for swap dealers and major swap participants for which there is a prudential regulator (“bank swap dealers” and “bank swap participants”). See 15 U.S.C. 78o-10(e)(1)(A); 7 U.S.C. 6s(e)(1)(A). The prudential regulators have proposed capital and margin requirements for bank swap dealers, bank SBSDs, bank swap participants, and bank MSBSPs. See Margin and Capital Requirements for Covered Swap Entities, 76 FR 27564 (May 11, 2011).

The Commission recognizes that there may be alternative recordkeeping, reporting, notification, and securities count programs that could be used as a model to design a recordkeeping, reporting, notification, and securities count program for SBSDs and MSBSPs. Accordingly, in response to the requests for comment in this release, interested parties are encouraged to consider whether alternative approaches would be appropriate for SBSDs and MSBSPs generally as well as for each type of potential registrant—broker-dealer SBSD, broker-dealer MSBSP, stand-alone SBSD, stand-alone MSBSP, bank SBSD, and bank MSBSP—taking into account the unique characteristics and activities of each type of potential registrant.

Some of the current rules that are proposed to be amended and the proposed new rules prescribe recordkeeping or reporting requirements based on requirements in other rules that have been proposed but not yet adopted. For example, Rules 17a-3 and 17a-4, as proposed to be amended, and proposed Rules 18a-5 and 18a-6 would directly or indirectly cross-reference requirements in proposed Rule 901 of Regulation SBSR and proposed Rules 15Fh-1 through 15Fh-6 and proposed Rule 15Fk-1.³⁰ Similarly, Rules 17a-3, 17a-4, 17a-5, and 17a-11, as proposed to be amended, and proposed Rules 18a-5, 18a-6, 18a-7, and 18a-8 cross-reference requirements in the proposed capital, margin, and segregation requirements for SBSDs and MSBSPs.³¹ If a cross-referenced rule is modified from the proposal when adopted, the Commission intends to make any necessary corresponding modifications to the rules proposed in this release when they are adopted.

³⁰ See section II.A. of this release.

³¹ See Capital, Margin, and Segregation Requirements for Security-Based Swap Dealers and Major Security-Based Swap Participants and Capital Requirements for Broker-Dealers, 77 FR 70213.

Finally, the Commission also is proposing to add a capital charge provision to proposed Rule 18a-1.³² Proposed Rule 18a-1 would establish net capital requirements for stand-alone SBSDs and is modeled on Rule 15c3-1 under the Exchange Act (the broker-dealer net capital rule) (“Rule 15c3-1”).³³ The capital charge provision that would be added to proposed Rule 18a-1, which is modeled on a provision in Rule 15c3-1, was inadvertently omitted from proposed Rule 18a-1 when originally proposed. The Commission preliminarily believes that proposed Rule 18a-1 should include a provision that parallels the capital charge in Rule 15c3-1.

³² This proposal is discussed below in greater detail in section II.D.3. of this release.

³³ See Capital, Margin, and Segregation Requirements for Security-Based Swap Dealers and Major Security-Based Swap Participants and Capital Requirements for Broker-Dealers, 77 FR 70217-70257.

The Commission staff consulted with staff from the prudential regulators and the CFTC in drafting the proposals discussed in this release.³⁴ In addition, the proposals of the CFTC were considered in developing the Commission's proposed recordkeeping, reporting, notification and securities count rules for SBSDs and MSBSPs.

³⁴ See Public Law 111-203, 712(a)(2). The CFTC has adopted recordkeeping and reporting rules for swap dealers and major swap participants. See Swap Dealer and Major Swap Participant Recordkeeping, Reporting, and Duties Rules; Futures Commission Merchant and Introducing Broker Conflicts of Interest Rules; and Chief Compliance Officer Rules for Swap Dealers, Major Swap Participants, and Futures Commission Merchants, 77 FR 20128 (Apr. 3, 2012).

Request for Comment

The Commission requests comment on the general approach that would require SBSDs and MSBSPs to comply with recordkeeping, reporting, notification, and securities count rules modeled on the broker-dealer recordkeeping, reporting, notification, and securities count rules. In addition, the Commission requests comment, including empirical data in support of comments, in response to the following questions:

1. Will the entities that register as nonbank SBSDs engage in a securities business with respect to security-based swaps that is similar to the securities business conducted by broker-dealers? If not, describe how the securities activities of nonbank SBSDs will differ from the securities activities of broker-dealers.

2. Will the entities that register as bank SBSDs engage in a securities business with respect to security-based swaps that is similar to the securities business conducted by broker-dealers? If not, describe how the securities activities of bank SBSDs will differ from the securities activities of broker-dealers.

3. How many broker-dealers will register as SBSDs? Describe the types of broker-dealers that will register as SBSDs and the types of activities these broker-dealers currently engage in? How many banks will register as SBSDs? Describe the types of banks that will register as SBSDs and the types of activities these banks currently engage in?

4. How many entities will register as MSBSPs? What types of entities? How many broker-dealers will register as MSBSPs? How many banks will register as MSBSPs?

5. Are there requirements in these proposed rules applicable to broker-dealer SBSDs and broker-dealer MSBSPs but currently not applicable to stand-alone SBSDs or stand-alone MSBSPs that should be applicable to standalone SBSDs or stand-alone MSBSPs, or vice versa?

6. Are there requirements in these proposed rules applicable to broker-dealer SBSDs and broker-dealer MSBSPs but currently not applicable to bank SBSDs or bank MSBSPs that should be applicable to bank SBSDs or bank MSBSPs, or vice versa?

7. Are there provisions in the rules that the CFTC adopted governing recordkeeping and reporting obligations of swap dealers and major swap participants that the Commission should consider incorporating into the recordkeeping and reporting requirements for SBSDs and MSBSPs? If so, please identify the specific provision and explain why the Commission should incorporate it.

8. In the release adopting a further definition of major security-based swap participant, the Commission stated that an entity's security-based swap positions in general would be attributed to a parent, other affiliate, or guarantor for purposes of the MSBSP analysis to the extent that the counterparties to those positions would have recourse to that other entity in connection with the position.³⁵ The Commission further stated that an entity that becomes an MSBSP by virtue of security-based swaps directly entered into by others must be responsible for compliance with all applicable requirements with respect to those security-based swaps (and must be liable for failures to comply), but may delegate operational compliance with transaction-focused requirements to entities that directly are party to the transactions.³⁶ The Commission stated its preliminary belief that the same approach should apply in the cross-border context when the guarantor and the guaranteed persons are located in different jurisdictions.³⁷ The Commission preliminarily believes that certain of the recordkeeping requirements that would be applicable to MSBSPs under the proposed amendments are transaction-focused and, therefore, that an MSBSP may delegate operational compliance with them to the entities that are directly a party to the transaction.³⁸ For example, the Commission preliminarily believes that the proposed requirements discussed below in section II.A.2. of this release under which MSBSPs would need to make and keep current memoranda of proprietary orders, confirmations, accountholder information, and records relating to certain business conduct standards are transaction-focused. Similarly, the proposed requirements to retain communications relating to the MSBSP's “business as such” are transaction-focused. On the other hand, the Commission preliminarily believes that other recordkeeping requirements proposed for MSBSPs are entity-level requirements and, therefore an MSBSP would not be permitted to delegate operational compliance with respect to these requirements to other entities. For example, the Commission preliminarily believes that the proposed requirement that an MSBSP make and keep current a general ledger (or other records) reflecting all assets and liabilities, income and expense, and capital accounts is an entity-level requirement. Commenters are asked to identify which of the recordkeeping requirements applicable to MSBSPs in proposed new Rules 18a-5 and 18a-6 that they believe are transaction-focused and to explain their reasons for identifying them as such. Commenters also are asked to identify any operational compliance challenges with respect to the proposed recordkeeping requirements raised by attributing guaranteed security-based swap positions to an MSBSP.

³⁵ See Further Definition of “Swap Dealer,” “Security-Based Swap Dealer,” “Major Swap Participant,” “Major Security-Based Swap Participant” and “Eligible Contract Participant”, 77 FR 30689.

³⁶ Id.

³⁷ See Cross-Border Security-Based Swap Activities; Re-Proposal of Regulation SBSR and Certain Rules and Forms Relating to the Registration of Security-Based Swap Dealers and Major Security-Based Swap Participants, Exchange Act Release No. 69490 (May 1, 2013), 78 FR 30968, 31034 (May 23, 2013).

³⁸ The Commission preliminarily believes that the proposed reporting and notification requirements that would be applicable to MSBSPs are not transaction-focused and, therefore, the MSBSP could not delegate operation compliance with respect to these requirements to other entities.

II. Proposed Rules and Rule Amendments

A. Recordkeeping

1. Introduction

As discussed above in section I. of this release, section 15F(f)(2) of the Exchange Act provides that the Commission shall adopt rules governing recordkeeping for SBSDs and MSBSPs.³⁹ The Commission also has concurrent authority under section 17(a)(1) of the Exchange Act to prescribe recordkeeping requirements for broker-dealers.⁴⁰ Further, section 15F(f)(1)(B)(i) of the Exchange Act provides that each bank SBSD and bank MSBSP shall keep books and records of all activities related to its business as an SBSD or MSBSP in such form and manner and for such period as may be prescribed by the Commission by rule or regulation.⁴¹ Section 15F(f)(1)(B)(ii) provides that each nonbank SBSD and nonbank MSBSP shall keep books and records in such form and manner and for such period as may be prescribed by the Commission by rule or regulation.⁴²

³⁹ See 15 U.S.C. 78o-10(f)(2).

⁴⁰ See 15 U.S.C. 78q(a)(1).

⁴¹ See 15 U.S.C. 78o-10(f)(1)(B)(i).

⁴² See 15 U.S.C. 78o-10(f)(1)(B)(ii).

Section 15F(g) of the Exchange Act prescribes statutory recordkeeping requirements applicable to SBSDs and MSBSPs and requires the Commission to adopt rules with respect to these statutory requirements.⁴³ In particular, section 15F(g)(1) provides that each registered SBSD and MSBSP shall maintain daily trading records of the security-based swaps of the registered SBSD and MSBSP and all related records (including related cash or forward transactions) and recorded communications, including electronic mail, instant messages, and recordings of telephone calls, for such period as may be required by the Commission by rule or regulation.⁴⁴ Section 15F(g)(2) provides that the daily trading records shall include such information as the Commission shall require by rule or regulation.⁴⁵ Section 15F(g)(3) provides that each registered SBSD and MSBSP shall maintain daily trading records for each counterparty in a manner and form that is identifiable with each security-based swap transaction.⁴⁶ Section 15F(g)(4) provides that each registered SBSD and MSBSP shall maintain a complete audit trail for conducting comprehensive and accurate trade reconstructions.⁴⁷ Finally, section 15F(g)(5) provides that the Commission shall adopt rules governing daily trading records for SBSDs and MSBSPs.⁴⁸

⁴³ See 15 U.S.C. 78o-10(g).

⁴⁴ See 15 U.S.C. 78o-10(g)(1).

⁴⁵ See 15 U.S.C. 78o-10(g)(2).

⁴⁶ See 15 U.S.C. 78o-10(g)(3).

⁴⁷ See 15 U.S.C. 78o-10(g)(4).

⁴⁸ See 15 U.S.C. 78o-10(g)(5).

Section 15F(i)(1) of the Exchange Act provides that each registered SBSD and MSBSP shall conform with such standards as may be prescribed by the Commission, by rule or regulation, that relate to timely and accurate confirmation, processing, netting, documentation, and valuation of all security-based swaps.⁴⁹ Section 15F(i)(2) provides that the Commission shall adopt rules governing documentation standards for SBSDs and MSBSPs.⁵⁰

⁴⁹ See 15 U.S.C. 78o-10(i)(1).

⁵⁰ See 15 U.S.C. 78o-10(i)(2). Pursuant to section 15F(i) of the Exchange Act, the Commission has proposed Rule 15Fi-1 that would prescribe standards related to timely and accurate confirmation and documentation of security-based swaps. See Trade Acknowledgment and Verification of Security-Based Swap Transactions, Exchange Act Release No. 63727 (Jan. 14, 2011), 76 FR 3859 (Jan. 21, 2011).

After considering the anticipated business activities of SBSDs and MSBSPs, the Commission is proposing to establish a recordkeeping program for these registrants under sections 15F and 17(a) of the Exchange Act that is modeled on the recordkeeping program for broker-dealers codified in Rules 17a-3 and 17a-4.⁵¹ Rules 17a-3 and 17a-4 specify requirements with respect to the records that a broker-dealer must make and keep current, as well as how long and, the manner in which, these records and other records relating to a broker-dealer's business must be maintained and preserved.⁵²

⁵¹ See 17 CFR 240.17a-3; 17 CFR 240.17a-4.

⁵² See 17 CFR 240.17a-3; 17 CFR 240.17a-4.

In particular, Rule 17a-3 requires a broker-dealer to make and keep current certain books and records.⁵³ The required records include, among other records: Blotters containing an itemized daily record of all purchases and sales of securities; ledgers reflecting all assets and liabilities, income and expense, and capital accounts; a securities record or ledger reflecting separately for each security as of the clearance dates all “long” or “short” positions; a memorandum of each brokerage order; a memorandum of each purchase or sale of a security for the account of the broker-dealer; and copies of confirmations.⁵⁴

⁵³ See 17 CFR 240.17a-3.

⁵⁴ Id. As noted above in section I. of this release, the Dodd-Frank Act amended the definition of security in section 3(a)(10) of the Exchange Act to include a security-based swap. See Public Law 111-203, 761(a)(2); 15 U.S.C. 78c(a)(10). Therefore, each reference in Rules 17a-3 and 17a-4 to a security includes a security-based swap. The Commission, however, has issued temporary exemptive relief excluding security-based swaps from the definition of security to the extent Commission rules did not otherwise apply specifically to security-based swaps prior to the amendment. See Order Granting Temporary Exemptions under the Securities Exchange Act of 1934 in Connection with the Pending Revision of the Definition of “Security” to Encompass Security-Based Swaps, and Request for Comment, 76 FR 39927.

Rule 17a-4 requires a broker-dealer to preserve additional records if the broker-dealer makes or receives the type of record.⁵⁵ The categories of records include, among other records, check books, bank statements, bills receivable or payable, communications relating to the broker-dealer's business as such, and written agreements.⁵⁶ The rule also establishes retention periods for all records required to be made and kept current under Rule 17a-3 and preserved under Rule 17a-4, and prescribes, among other things, how the records must be retained, including requirements for firms that preserve their records electronically.⁵⁷

⁵⁵ See 17 CFR 240.17a-4.

⁵⁶ Id.

⁵⁷ Id.

The recordkeeping program codified in Rules 17a-3 and 17a-4 is designed, among other things, to promote the prudent operation of broker-dealers and assist the Commission, self-regulatory organizations (“SROs”), and state securities regulators in conducting effective examinations of broker-dealers.⁵⁸ As the Commission has stated,

⁵⁸ See, e.g., See Commission Guidance to Broker-Dealers on the Use of Electronic Storage Media under the Electronic Signatures in Global and National Commerce Act of 2000 with Respect to Rule 17a-4(f), 66 FR 22916; Books and Records Requirements for Brokers and Dealers Under the Securities Exchange Act of 1934, Exchange Act Release No. 44992 (Oct. 26, 2001), 66 FR 55818 (Nov. 2, 2001) (“The Commission has required that broker-dealers create and maintain certain records so that, among other things, the Commission, [SROs], and State Securities Regulators . . . may conduct effective examinations of broker-dealers.”) (footnote omitted).

In combination, Rules 17a-3 and 17a-4 require broker-dealers to create, and preserve in an accessible manner, a comprehensive record of each securities transaction they effect and of their securities business in general. These rules impose minimum recordkeeping requirements that are based on standards a prudent broker-dealer should follow in the normal course of business. The requirements are an integral part of the investor protection function of the Commission, and other securities regulators, in that the preserved records are the primary means of monitoring compliance with applicable securities laws, including antifraud provisions and financial responsibility standards.⁵⁹

⁵⁹ See Commission Guidance to Broker-Dealers on the Use of Electronic Storage Media under the Electronic Signatures in Global and National Commerce Act of 2000 with Respect to Rule 17a-4(f), 66 FR 22917.

Under the proposed recordkeeping program for SBSDs and MSBSPs, broker-dealer SBSDs and broker-dealer MSBSPs—as broker-dealers—would be subject to Rules 17a-3 and 17a-4.⁶⁰ The Commission is proposing amendments to these rules to account for the security-based swap and swap activities of broker-dealers, including broker-dealers registered as SBSDs and MSBSPs, as well as to implement the specific recordkeeping requirements mandated under the Dodd-Frank Act.⁶¹ Stand-alone SBSDs, stand-alone MSBSPs, bank SBSDs, and bank MSBSPs would be subject to proposed Rules 18a-5 and 18a-6, which are modeled on Rules 17a-3 and 17a-4, respectively, as these rules are proposed to be amended.

⁶⁰ See 17 CFR 240.17a-3; 17 CFR 240.17a-4.

⁶¹ As discussed in more detail below, the Commission also is proposing additional largely technical amendments to Rules 17a-3 and 17a-4.

Proposed Rules 18a-5 and 18a-6 would not include a parallel requirement for every requirement in Rules 17a-3 and 17a-4 because some of the requirements in Rules 17a-3 and 17a-4 relate to activities that are not expected or permitted of SBSDs and MSBSPs. Further, the proposed recordkeeping requirements that would be applicable to bank SBSDs and bank MSBSPs are more limited in scope because, as discussed above in section I. of this release: (1) The Commission's authority under section 15F(f)(1)(B)(i) of the Exchange Act is tied to activities related to the conduct of business as an SBSD or MSBSP; (2) bank SBSDs and bank MSBSPs are subject to recordkeeping requirements applicable to banks; and (3) the prudential regulators—rather than the Commission—are responsible for capital, margin, and other prudential requirements applicable to bank SBSDs and bank MSBSPs. For these reasons, the proposed recordkeeping requirements that would be applicable to bank SBSDs and bank MSBSPs are designed to be tailored more specifically to their security-based swap activities as an SBSD or an MSBSP.⁶²

⁶² As discussed below in section II.B.2. of this release, the Commission is proposing that bank SBSDs and bank MSBSPs be subject to a limited reporting program of general information about their overall financial condition based on discrete elements of the reporting program the prudential regulators have established for banks.

2. Records To Be Made and Kept Current

As discussed above, Rule 17a-3 requires a broker-dealer to make and keep current certain records.⁶³ The Commission is proposing to amend this rule to account for the security-based swap and swap activities of broker-dealers, including broker-dealer SBSDs and broker-dealer MSBSPs.⁶⁴ The Commission also is proposing additional largely technical amendments to Rule 17a-3.⁶⁵ With respect to stand-alone SBSDs, stand-alone MSBSPs, bank SBSDs, and bank MSBSPs, the Commission is proposing new Rule 18a-5—which is modeled on Rule 17a-3, as proposed to be amended—to require these registrants to make and keep current certain records.⁶⁶ For the reasons discussed above, proposed Rule 18a-5 does not include a parallel requirement for every requirement in Rule 17a-3.⁶⁷ In addition, paragraph (a) of proposed Rule 18a-5 contains one set of recordkeeping requirements applicable to stand-alone SBSDs and stand-alone MSBSPs and paragraph (b) of proposed Rule 18a-5 contains a separate set of recordkeeping requirements applicable to bank SBSDs and bank MSBSPs that are more limited in scope.⁶⁸

⁶³ See 17 CFR 240.17a-3.

⁶⁴ Broker-dealer SBSDs and broker-dealer MSBSPs would be required to make and keep current all the records required of broker-dealers under Rule 17a-3, as proposed to be amended, plus the additional records required specifically of an SBSD or MSBSP.

⁶⁵ The proposed technical amendments are discussed below in section II.A.2.b. of this release.

⁶⁶ See proposed Rule 18a-5.

⁶⁷ The Commission is not proposing to include in proposed Rule 18a-5 requirements that would parallel requirements in paragraphs (a)(4), (a)(13), (a)(14), (a)(15), and (a)(16) of Rule 17a-3. These paragraphs require broker-dealers to make and keep current records with respect to activities that stand-alone SBSDs and stand-alone MSBSPs would not be expected or permitted to engage in or would not relate to a bank's business as an SBSD or MSBSP, or relate to rules that would not apply to stand-alone SBSDs, stand-alone MSBSPs, bank SBSDs, and bank MSBSPs. Further, the Commission is not proposing to include in proposed Rule 18a-5 requirements that would parallel requirements in paragraphs (a)(17), (a)(18), (a)(19), and (a)(20) of Rule 17a-3. These requirements are designed to enhance the ability of regulators, particularly State securities regulators, to conduct effective and efficient sales practice examinations. See Books and Records Requirements for Brokers and Dealers Under the Securities Exchange Act of 1934, 66 FR 55818. By adopting these requirements, the Commission enabled States to adopt and enforce similar rules on the State level under the National Securities Market Improvement Act of 1996. See National Securities Markets Improvement Act of 1996, Public Law 104-290, 110 Stat. 3416 (1996). As discussed below, the Commission has proposed external business conduct rules for SBSDs and MSBSPs and, as discussed below, the Commission is proposing recordkeeping requirements to support examinations for compliance with these proposed external business conduct rules.

⁶⁸ Compare paragraph (a), with paragraph (b) of proposed new Rule 18a-5.

As discussed above, section 15F(g) of the Exchange Act provides, among other things, that each registered SBSD and MSBSP shall maintain: (1) Daily trading records of the security-based swaps of the registered SBSD and MSBSP; (2) daily trading records for each counterparty in a manner and form that is identifiable with each security-based swap transaction; and (3) a complete audit trail for conducting comprehensive and accurate trade reconstructions.⁶⁹ Further, section 15F(g)(2) provides that the daily trading records shall include such information as the Commission shall require by rule or regulation.⁷⁰ To implement section 15F(g) of the Exchange Act, Rule 17a-3, as proposed to be amended, and proposed Rule 18a-5 include provisions that, among other things, are designed to require information that would facilitate a comprehensive and accurate trade reconstruction for each security-based swap transaction.

⁶⁹ See 15 U.S.C. 78o-10(g)(1), (3), and (4).

⁷⁰ See 15 U.S.C. 78o-10(g)(2).

In this regard, the amendments to Rule 17a-3 and proposed Rule 18a-5 would require broker-dealers, SBSDs, and MSBSPs to make and keep current daily trading records,⁷¹ ledger accounts,⁷² a securities record,⁷³ memoranda of brokerage orders,⁷⁴ and/or memoranda of proprietary trades ⁷⁵ with respect to security-based swap activity. The Commission has proposed Rule 901 of Regulation SBSR, which would require market participants, including broker-dealers, SBSDs, and MSBSPs, to report certain data elements to security-based swap data repositories.⁷⁶

⁷¹ See paragraph (a)(1) of Rule 17a-3, as proposed to be amended; paragraphs (a)(1) and (b)(1) of proposed Rule 18a-5.

⁷² See paragraph (a)(3) of Rule 17a-3, as proposed to be amended; paragraphs (a)(3) and (b)(2) of proposed Rule 18a-5.

⁷³ See paragraph (a)(5)(ii) of Rule 17a-3, as proposed to be amended; paragraphs (a)(4)(ii) and (b)(3)(ii) of proposed Rule 18a-5.

⁷⁴ See paragraph (a)(6)(ii) of Rule 17a-3, as proposed to be amended; paragraph (b)(4) of proposed Rule 18a-5.

⁷⁵ See paragraph (a)(7)(ii) of Rule 17a-3, as proposed to be amended; paragraphs (a)(5) and (b)(5) of proposed Rule 18a-5.

⁷⁶ See Regulation SBSR—Reporting and Dissemination of Security-Based Swap Information, Securities Exchange Act Release No. 63346 (Nov. 19, 2010), 75 FR 75207 (Dec. 2, 2010). See also Cross-Border Security-Based Swap Activities; Re-Proposal of Regulation SBSR and Certain Rules and Forms Relating to the Registration of Security-Based Swap Dealers and Major Security-Based Swap Participants, 78 FR 30968 (re-proposing certain aspects of Regulation SBSR).

The following data elements that would be required to be reported under proposed Rule 901 also would need to be documented in the daily trading records, ledger accounts, memoranda of brokerage orders, and/or memoranda of proprietary trades of security-based swap transactions required under the proposed amendments to Rule 17a-3 and proposed Rule 18a-5: (1) The type of security-based swap; ⁷⁷ (2) the reference security, index, or obligor; ⁷⁸ (3) the date and time of execution; ⁷⁹ (4) the effective date; ⁸⁰ (5) the termination or maturity date; ⁸¹ (6) the notional amount; ⁸² (7) the unique transaction identifier; ⁸³ and (8) the unique counterparty identifier.⁸⁴ The following data elements that would be required to be reported under proposed Rule 901 would also need to be documented in the securities record of security-based swap transactions required under the proposed amendments to Rule 17a-3 and proposed Rule 18a-5: (1) The reference security, index, or obligor; ⁸⁵ (2) the unique transaction identifier; ⁸⁶ (3) the unique counterparty identifier; ⁸⁷ (4) whether the security-based swap is cleared or not cleared; ⁸⁸ and (5) if cleared, identification of the clearing agency where the security-based swap is cleared.⁸⁹ In addition, the securities record for security-based swaps would parallel the securities record for securities by requiring a record of whether the security-based swap is a “long” or “short” position.⁹⁰

⁷⁷ Regulation SBSR—Reporting and Dissemination of Security-Based Swap Information, 75 FR 75213 (discussing the requirement in paragraph (c)(1) of proposed Rule 901 to report the asset class of the security-based swap).

⁷⁸ See id. at 75214 (discussing the requirement in paragraph (c)(2) of proposed Rule 901 to report the specific assets or issuers of any securities upon which the security-based swap is based).

⁷⁹ See id. at 75213 (discussing the requirement in paragraph (c)(4) of proposed Rule 901 to report the time and date of execution of the security-based swap).

⁸⁰ See id. at 75214 (discussing the requirement in paragraph (c)(5) of proposed Rule 901 to report the effective date of the security-based swap).

⁸¹ See id. at 75214 (discussing the requirement in paragraph (c)(6) to of proposed Rule 901 to report the scheduled termination date of the security-based swap).

⁸² See id. at 75214 (discussing the requirement in paragraph (c)(3) of proposed Rule 901 to report the notional amount of the security-based swap).

⁸³ See id. at 75221 (discussing the requirement in paragraph (g) of proposed Rule 901 to report the unique transaction identifier for the security-based swap).

⁸⁴ See id. at 75217-75218, 75221-75222 (discussing the requirement in paragraph (d) of proposed Rule 901 to report the unique identifier of the counterparty to the security-swap transaction).

⁸⁵ See id. at 75214 (discussing the requirement in paragraph (c)(2) of proposed Rule 901 to report the specific assets or issuers of any securities upon which the security-based swap is based).

⁸⁶ See id. at 75221 (discussing the requirement in paragraph (g) of proposed Rule 901 to report the unique transaction identifier for the security-based swap).

⁸⁷ See id. at 75217-75218, 75221-75222 (discussing the requirement in paragraph (d)(1)(i) of proposed Rule 901 to report the participant ID of the counterparty to the security-swap transaction).

⁸⁸ See id. at 75214 (discussing the requirement in paragraph (c)(9) of proposed Rule 901 to report the whether or not the security-based swap will be cleared by a clearing agency).

⁸⁹ See id. at 75218 (discussing the requirement in paragraph (d)(1)(vi) of proposed Rule 901 to report the name of the clearing agency if the security-based swap will be cleared).

⁹⁰ Compare 17 CFR 240.17a-3(a)(5), with paragraph (a)(5)(ii) of Rule 17a-3, as proposed to be amended, and paragraphs (a)(4)(ii) and (b)(3)(ii) of proposed Rule 18a-5.

Where a data element that would need to be documented in the daily trading records of security-based swap transactions under the proposed amendments to Rule 17a-3 or proposed Rule 18a-5 is substantively the same as a data element that would need to be reported under proposed Rule 901, the Commission preliminarily believes that the type of information that would need to be documented in the daily trading records could be the same data element reported under proposed Rule 901.⁹¹

⁹¹ Proposed Rule 901 may be modified when adopted, which could include changing or eliminating certain data elements required to be reported under the rule. Any such modifications to the data elements could change the Commission's preliminary view on the comparability of the information to be recorded in the daily trading records and the information to be reported pursuant to proposed Rule 901.

a. Amendments to Rule 17a-3 and Proposed Rule 18a-5

Undesignated Introductory Paragraph

Rule 17a-3, as proposed to be amended, would contain an undesignated introductory paragraph explaining that the rule applies to a broker-dealer, including a broker-dealer dually registered with the Commission as an SBSD or MSBSP.⁹² The note further explains that an SBSD or MSBSP that is not dually registered as a broker-dealer (i.e., a stand-alone SBSD, stand-alone MSBSP, bank SBSD, or bank MSBSP) is subject to the books and records requirements under proposed Rule 18a-5.⁹³

⁹² See undesignated introductory paragraph of Rule 17a-3, as proposed to be amended.

⁹³ Id.

Similarly, proposed Rule 18a-5 would contain an undesignated introductory paragraph explaining that the rule applies to an SBSD or an MSBSP that is not dually registered as a broker-dealer.⁹⁴ The note further explains that a broker-dealer that is dually registered as an SBSD or MSBSP is subject to the books and records requirements under Rule 17a-3.⁹⁵

⁹⁴ See undesignated introductory paragraph of proposed Rule 18a-5.

⁹⁵ Id.

Trade Blotters

Paragraph (a)(1) of Rule 17a-3 requires broker-dealers to make and keep current trade blotters (or other records of original entry) containing an itemized daily record of all transactions in securities, all receipts and deliveries of securities, all receipts and disbursements of cash, and all other debits and credits.⁹⁶ The Commission is proposing to amend paragraph (a)(1) of Rule 17a-3 to require that the blotters specifically account for security-based swaps, and proposing to include parallel blotter requirements in paragraphs (a)(1) and (b)(1) of proposed Rule 18a-5 that are modeled on paragraph (a)(1) of Rule 17a-3, as proposed to be amended.⁹⁷ In particular, paragraph (a)(1) of Rule 17a-3, as proposed to be amended, would require broker-dealers, including broker-dealer SBSDs and broker-dealer MSBSPs, to make and keep current blotters containing an itemized daily record of all transactions in securities, including security-based swaps, all receipts and deliveries of securities, all receipts and disbursements of cash, and all other debits and credits.⁹⁸ In order to document the attributes of security-based swaps, the proposed amendments also would require that such records show the contract price of the security-based swap, and include for each purchase and sale, the following information: (1) The type of security-based swap; (2) the reference security, index, or obligor; (3) the date and time of execution; (4) the effective date; (5) the termination or maturity date; (6) the notional amount; (7) the unique transaction identifier; and (8) the unique counterparty identifier.⁹⁹

⁹⁶ See 17 CFR 240.17a-3(a)(1).

⁹⁷ See paragraph (a)(1) of Rule 17a-3, as proposed to be amended; paragraphs (a)(1) and (b)(1) of proposed Rule 18a-5.

⁹⁸ See paragraph (a)(1) of Rule 17a-3, as proposed to be amended.

⁹⁹ See id.

Paragraph (a)(1) of proposed Rule 18a-5 mirrors paragraph (a)(1) of Rule 17a-3, as proposed to be amended, and therefore, stand-alone SBSDs and stand-alone MSBSPs would be required to make and keep current the same types of blotters as broker-dealers.¹⁰⁰ Paragraph (b)(1) of proposed Rule 18a-5 similarly would require bank SBSDs and bank MSBSPs to make and keep current the same types of blotters but only with respect to their security-based swap activities.¹⁰¹

¹⁰⁰ Compare paragraph (a)(1) of Rule 17a-3, as proposed to be amended, with paragraph (a)(1) of proposed Rule 18a-5.

¹⁰¹ See paragraph (b)(1) of proposed Rule 18a-5.

General Ledger

Paragraph (a)(2) of Rule 17a-3 requires broker-dealers to make and keep current ledgers (or other records) reflecting all assets and liabilities, income and expense, and capital accounts.¹⁰² These records reflect the overall financial condition of the broker-dealer and in the Commission's view can incorporate security-based swap activities without the need for a clarifying amendment. Because the overall financial condition of stand-alone SBSDs and stand-alone MSBSPs is a matter of regulatory concern for the Commission, the Commission is proposing to include a parallel provision in paragraph (a)(2) of proposed Rule 18a-5 that mirrors paragraph (a)(2) of Rule 17a-3.¹⁰³ Consequently, stand-alone SBSDs and stand-alone MSBSPs would be required to make and keep current the same types of general ledgers.¹⁰⁴

¹⁰² See 17 CFR 240.17a-3(a)(2).

¹⁰³ Compare 17 CFR 240.17a-3(a)(2), with paragraph (a)(2) of proposed Rule 18a-5.

¹⁰⁴ See paragraph (a)(2) of proposed Rule 18a-5.

Ledgers for Customer and Non-Customer Accounts

Paragraph (a)(3) of Rule 17a-3 requires broker-dealers to make and keep current certain ledger accounts (or other records) relating to securities and commodities transactions in customer and non-customer cash and margin accounts.¹⁰⁵ The Commission is proposing to amend paragraph (a)(3) of Rule 17a-3 to require that the ledgers (or other records) specifically account for security-based swaps, and to include parallel ledger requirements in paragraphs (a) and (b) of proposed Rule 18a-5 that are modeled on paragraph (a)(3) of Rule 17a-3, as proposed to be amended.¹⁰⁶ In particular, paragraph (a)(3) of Rule 17a-3 would be amended to include a requirement that broker-dealers, including broker-dealer SBSDs and broker-dealer MSBSPs, make and keep current ledger accounts (or other records) itemizing separately as to each security-based swap: (1) The type of security-based swap; (2) the reference security, index, or obligor; (3) date and time of execution; (4) the effective date; (5) the termination or maturity date; (6) the notional amount; (7) the unique transaction identifier; and (8) the unique counterparty identifier.¹⁰⁷

¹⁰⁵ See 17 CFR 240.17a-3(a)(3).

¹⁰⁶ See paragraph (a)(3) of Rule 17a-3, as proposed to be amended; paragraphs (a)(3) and (b)(2) of proposed Rule 18a-5.

¹⁰⁷ See paragraph (a)(3) of Rule 17a-3, as proposed to be amended.

Paragraph (a)(3) of Rule 18a-5 is modeled on paragraph (a)(3) of Rule 17a-3, as proposed to be amended, and therefore, stand-alone SBSDs and stand-alone MSBSPs would be required to make and keep current the same types of ledgers (or other records).¹⁰⁸ Unlike paragraph (a)(3) of Rule 17a-3, paragraph (a)(3) of proposed Rule 18a-5 would not refer to “cash and margin accounts” as these types of accounts involve activities that would not be permitted of stand-alone SBSDs and stand-alone MSBSPs because they are not registered as broker-dealers.¹⁰⁹ Paragraph (b)(2) of proposed Rule 18a-5 similarly would require bank SBSDs and bank MSBSPs to make and keep current ledger accounts (or other records) relating to securities and commodity transactions but only with respect to their security-based swap customers and non-customers.¹¹⁰

¹⁰⁸ Compare paragraph (a)(3) of Rule 17a-3, as proposed to be amended, with paragraph (a)(3) of proposed Rule 18a-5.

¹⁰⁹ See id.

¹¹⁰ See paragraph (b)(2) of proposed Rule 18a-5. The Commission has proposed a definition of security-based swap customer for the purposes of proposed Rule 18a-4. See Capital, Margin, and Segregation Requirements for Security-Based Swap Dealers and Major Security-Based Swap Participants and Capital Requirements for Broker-Dealers, 77 FR 70278. Proposed Rule 18a-4—which is modeled on Rule 15c3-3—would establish segregation requirements for SBSDs with respect to their security-based swap customers. Id. at 70274-70288. The term security-based swap customer would be defined in proposed Rule 18a-4 to mean any person from whom or on whose behalf the SBSD has received or acquired or holds funds or other property for the account of the person with respect to a cleared or non-cleared security-based swap transaction. Id. at 70278. The definition would exclude a person to the extent that person has a claim for funds or other property which by contract, agreement or understanding, or by operation of law, is part of the capital of the SBSD or is subordinated to all claims of security-based swap customers of the SBSD. Id.

Stock Record

Paragraph (a)(5) of Rule 17a-3 requires broker-dealers to make and keep current a securities record (also referred to as a “stock record”).¹¹¹ This is a record of the broker-dealer's custody and movement of securities. The “long” side of the record accounts for the broker-dealer's responsibility as a custodian of securities and shows, for example, the securities the firm has received from customers and securities owned by the broker-dealer. The “short” side of the record shows where the securities are located such as at a securities depository.

¹¹¹ See 17 CFR 240.17a-3(a)(5).

The Commission is proposing to amend paragraph (a)(5) of Rule 17a-3 to require that the securities record specifically account for security-based swaps, and to include parallel securities record requirements in paragraphs (a) and (b) of proposed Rule 18a-5 that are modeled on paragraph (a)(5) of Rule 17a-3, as proposed to be amended.¹¹² Paragraph (a)(5) of Rule 17a-3, as proposed to be amended, would contain separate provisions: One for securities other than security-based swaps and one for security-based swaps.¹¹³ Specifically, paragraph (a)(5)(i) would apply to securities other than security-based swaps and largely mirror the current text of paragraph (a)(5) of Rule 17a-3.¹¹⁴ Paragraph (a)(5)(ii) would apply to security-based swaps.¹¹⁵ This paragraph would require a broker-dealer, including a broker-dealer SBSD and broker-dealer MSBSP, to make and keep current a securities record or ledger reflecting separately for each security-based swap: (1) The reference security, index, or obligor; (2) the unique transaction identifier; (3) the unique counterparty identifier; (4) whether it is a “long” or “short” position in the security-based swap; (5) whether the security-based swap is cleared or not cleared; and (6) if cleared, identification of the clearing agency where the security-based swap is cleared.¹¹⁶

¹¹² See paragraph (a)(5) of Rule 17a-3, as proposed to be amended; paragraphs (a)(4) and (b)(3) of proposed Rule 18a-5.

¹¹³ See paragraphs (a)(5)(i)-(ii) of Rule 17a-3, as proposed to be amended.

¹¹⁴ Compare 17 CFR 240.17a-3(a)(5), with paragraph (a)(5)(i) of Rule 17a-3, as proposed to be amended.

¹¹⁵ See paragraph (a)(5)(ii) of Rule 17a-3, as proposed to be amended.

¹¹⁶ See id.

Paragraph (a)(4) of proposed Rule 18a-5 mirrors paragraph (a)(5) of Rule 17a-3 as proposed to be amended, and therefore, stand-alone SBSDs and stand-alone MSBSPs would be required to make and keep current the same type of securities record.¹¹⁷ Paragraph (b)(3) of proposed Rule 18a-5 similarly would require bank SBSDs and bank MSBSPs to make and keep current a securities record of the firm's securities positions but only with respect to positions related to their business as an SBSD or MSBSP.¹¹⁸

¹¹⁷ Compare paragraph (a)(5) of Rule 17a-3, as proposed to be amended, with paragraph (a)(4) of proposed Rule 18a-5.

¹¹⁸ See paragraph (b)(3) of proposed Rule 18a-5.

Memoranda of Brokerage Orders

Paragraph (a)(6) of Rule 17a-3 requires broker-dealers to make and keep current a memorandum of each brokerage order, and of any other instruction, given or received for the purchase or sale of a security. The memorandum must show the terms and conditions of each brokerage order.¹¹⁹ The Commission is proposing to amend paragraph (a)(6) of Rule 17a-3 to require broker-dealers, including broker-dealer SBSDs and broker-dealer MSBSPs, to make and keep current a memorandum of each brokerage order, given or received for the purchase or sale of a security-based swap.¹²⁰ The Commission is not proposing to include a parallel provision in paragraph (a) of proposed Rule 18a-5 applicable to stand-alone SBSDs and stand-alone MSBSPs because these registrants would not be permitted to engage in the business of effecting brokerage orders in security-based swaps without registering as a broker-dealer or a bank.¹²¹ The Commission is proposing to include a parallel provision that would be applicable to bank SBSDs and bank MSBSPs in paragraph (b) of proposed Rule 18a-5 that is modeled on paragraph (a)(6) of Rule 17a-3, as proposed to be amended.¹²²

¹¹⁹ See 17 CFR 240.17a-3(a)(6).

¹²⁰ See paragraph (a)(6) of Rule 17a-3, as proposed to be amended.

¹²¹ Generally, persons engaged in brokerage activities are required to register as brokers under section 15(b) of the Exchange Act. See 15 U.S.C. 78o(b). Banks are permitted to engage in certain limited securities brokerage activities. Specifically, section 3(a)(4) of the Exchange Act provides eleven exceptions to broker-dealer registration for banks. See 15 U.S.C. 78c(a)(4). In addition, the Commission and the Federal Reserve promulgated joint rules establishing further exemptions permitting banks to engage in certain securities brokerage activities without registering as a broker-dealer. See Definitions of Terms and Exemptions Relating to the “Broker” Exceptions for Banks, Exchange Act Release No. 56501 (Sept. 24, 2007), 72 FR 56514 (Oct. 3, 2007); 17 CFR 247.100-781. These exceptions and exemptions permit a bank to act as a broker or agent in securities transactions provided they satisfy certain conditions. Section 716 of the Dodd-Frank Act (“Swap Push-Out Provision”) generally prohibits providing certain types of federal assistance, including FDIC insurance, to SBSDs and MSBSPs with respect to any swap, security-based swap, or other activity of the SBSD or MSBSP. See Public Law 111-203, 716. The Swap Push-Out Provision excludes MSBSPs that are insured depository institutions. See Public Law 111-203, 716(b)(2)(B). Further, SBSDs that are insured depository institutions are permitted to engage in certain swap and security-based swap activities under certain conditions and still qualify for federal assistance. See Public Law 111-203, 716(d) through (f). Thus, a bank SBSD or bank MSBSP may act as a broker or agent in a security-based swap transaction. In such instances, the brokerage order record requirements of paragraph (b)(4) of proposed Rule 18a-5 would apply.

¹²² See paragraph (b)(4) of proposed Rule 18a-5.

Paragraph (a)(6) of Rule 17a-3, as proposed to be amended, would contain separate provisions: One for brokerage orders involving securities other than security-based swaps and one for brokerage orders involving security-based swaps.¹²³ Specifically, proposed paragraphs (a)(6)(i)(A) and (B) would apply to securities other than security-based swaps and largely mirror the current text of paragraph (a)(6) of Rule 17a-3.¹²⁴ Proposed paragraph (a)(6)(ii) would apply to brokerage orders involving security-based swaps.¹²⁵ This paragraph would require a broker-dealer, including a broker-dealer SBSD and broker-dealer MSBSP, to make and keep current a memorandum of each brokerage order, and of any other instruction, given or received for the purchase or sale of a security-based swap, whether executed or unexecuted. The memorandum would need to include information that is similar to the information currently required under Rule 17a-3 for brokerage orders.¹²⁶ In addition, to account for the attributes of security-based swaps, the memorandum would need to include: (1) The type of security-based swap; (2) the reference security, index, or obligor; (3) the date and time of execution; (4) the effective date; (5) the termination or maturity date; (6) the notional amount; (7) the unique transaction identifier; and (8) the unique counterparty identifier.¹²⁷

¹²³ See paragraph (a)(6) of Rule 17a-3, as proposed to be amended. Rule 17a-3 currently contains paragraphs (a)(6)(i) and (ii). See 17 CFR 240.17a-3(a)(6)(i) and (ii). Under the amendments, paragraph (a)(6)(i) of Rule 17a-3 would be redesignated as paragraph (a)(6)(i)(A) and paragraph (a)(6)(ii) would be redesignated as paragraph (a)(6)(i)(B). The new requirement to make and keep current a memorandum of each security-based swap brokerage order would be contained in paragraph (a)(6)(ii) of Rule 17a-3, as proposed to be amended.

¹²⁴ Compare 17 CFR 240.17a-3(a)(6)(i) and (ii), with paragraphs (a)(6)(i)(A) and (B) of Rule 17a-3, as proposed to be amended.

¹²⁵ See paragraph (a)(6)(ii) of Rule 17a-3, as proposed to be amended.

¹²⁶ Compare 17 CFR 240.17a-3(a)(6)(i), with paragraph (a)(6)(ii) of Rule 17a-3, as proposed to be amended.

¹²⁷ See paragraph (a)(6)(ii) of Rule 17a-3, as proposed to be amended.

Paragraph (b)(4) of proposed Rule 18a-5 similarly would require bank SBSDs and bank MSBSPs to document key terms of brokerage orders but only with respect to security-based swaps.¹²⁸ Consequently, proposed paragraph (b)(4) would not contain a provision for securities that are not security-based swaps.¹²⁹ Instead, the entire paragraph mirrors paragraph (a)(6)(ii) of Rule 17a-3, as proposed to be amended, which, as discussed above, relates solely to security-based swaps.¹³⁰

¹²⁸ See paragraph (b)(4) of proposed Rule 18a-5.

¹²⁹ See id.

¹³⁰ Compare paragraph (a)(6)(ii) of Rule 17a-3, as proposed to be amended, with paragraph (b)(4) of proposed Rule 18a-5.

Memoranda of Proprietary Orders

Paragraph (a)(7) of Rule 17a-3 requires broker-dealers to make and keep current a memorandum of each purchase and sale for the account of the broker-dealer.¹³¹ Generally, paragraph (a)(7) of Rule 17a-3 requires broker-dealers to document the terms of securities transactions where they are acting as a dealer or otherwise trading for their own account. The Commission is proposing to amend paragraph (a)(7) of Rule 17a-3 to require the terms of security-based swap transactions to be documented, and to include parallel memorandum requirements in paragraphs (a) and (b) of proposed Rule 18a-5 that are modeled on paragraph (a)(7) of Rule 17a-3, as proposed to be amended.¹³² Paragraph (a)(7) of Rule 17a-3, as proposed to be amended, would contain two separate provisions: One for securities other than security-based swaps and one for security-based swaps.¹³³ Specifically, proposed paragraph (a)(7)(i) would apply to securities other than security-based swaps and largely would mirror the current text of paragraph (a)(7) of Rule 17a-3.¹³⁴ Paragraph (a)(7)(ii) would apply to security-based swaps.¹³⁵ This paragraph would require broker-dealers, including broker-dealer SBSDs and broker-dealer MSBSPs, to make and keep current a memorandum documenting each security-based swap transaction for the account of the broker-dealer. The memorandum would need to include certain information regarding the purchase or sale of a security-based swap for the account of the broker-dealer that is similar to the information currently required under paragraph (a)(7) of Rule 17a-3.¹³⁶ In addition, to account for the attributes of security-based swaps, the memorandum would need to include: (1) The type of security-based swap; (2) the reference security, index, or obligor; (3) the date and time of execution; (4) the effective date; (5) the termination or maturity date; (6) the notional amount; (7) the unique transaction identifier; and (8) the unique counterparty identifier.¹³⁷

¹³¹ See 17 CFR 240.17a-3(a)(7).

¹³² See paragraph (a)(7) of Rule 17a-3, as proposed to be amended; paragraphs (a)(5) and (b)(5) of proposed Rule 18a-5.

¹³³ See paragraphs (a)(7)(i) and (ii) of Rule 17a-3, as proposed to be amended.

¹³⁴ Compare 17 CFR 240.17a-3(a)(7), with paragraph (a)(7)(i) of Rule 17a-3, as proposed to be amended.

¹³⁵ See paragraph (a)(7)(ii) of Rule 17a-3, as proposed to be amended.

¹³⁶ Compare 17 CFR 240.17a-3(a)(7), with paragraph (a)(7)(ii) of Rule 17a-3, as proposed to be amended.

¹³⁷ See paragraph (a)(7)(ii) of Rule 17a-3, as proposed to be amended.

Paragraph (a)(5) of proposed Rule 18a-5 would require stand-alone SBSDs and stand-alone MSBSPs to make memoranda of proprietary transactions but only with respect to security-based swaps.¹³⁸ This is because a stand-alone SBSD or a stand-alone MSBSP would need to be registered as a broker-dealer (and therefore would be subject to Rule 17a-3) (or, in certain circumstances, a bank) to deal in securities other than security-based swaps. Paragraph (b)(5) of proposed Rule 18a-5 would require bank SBSDs and bank MSBSPs to make memoranda of proprietary transactions but also only with respect to security-based swaps.¹³⁹

¹³⁸ See paragraph (a)(5) of proposed Rule 18a-5.

¹³⁹ See paragraph (b)(5) of proposed Rule 18a-5.

Confirmations

Paragraph (a)(8) of Rule 17a-3 requires broker-dealers to make and keep current copies of confirmations of purchases and sales of securities.¹⁴⁰ The Commission is proposing to amend paragraph (a)(8) to require that confirmations of security-based swaps be documented, and to include analogous confirmation requirements in paragraphs (a) and (b) of proposed Rule 18a-5 that are modeled on paragraph (a)(8) of Rule 17a-3, as proposed to be amended.¹⁴¹ Paragraph (a)(8) of Rule 17a-3, as proposed to be amended, would contain separate provisions: One for securities other than security-based swaps and one for security-based swaps.¹⁴² Specifically, proposed paragraph (a)(8)(i) would apply to confirmations of securities transactions other than security-based swap transactions and largely mirror the current text of paragraph (a)(8) of Rule 17a-3.¹⁴³ Proposed paragraph (a)(8)(ii) would apply to confirmations of security-based swap transactions.¹⁴⁴ As discussed above, section 15F(i)(2) of the Exchange Act provides that the Commission shall adopt rules governing documentation standards for SBSDs and MSBSPs.¹⁴⁵ Pursuant to section 15F(i)(2), the Commission proposed Rule 15Fi-1 under the Exchange Act (“Rule 15Fi-1”) to prescribe standards related to timely and accurate confirmation and documentation of security-based swaps.¹⁴⁶ Under this proposed rule, SBSDs and MSBSPs would be required to acknowledge and, thereafter, verify security-based swap transactions.¹⁴⁷ Consequently, paragraph (a)(8)(ii) of Rule 17a-3 would require broker-dealers, including broker-dealer SBSDs and broker-dealer MSBSPs, to make and keep current copies of the security-based swap trade acknowledgments and verifications made pursuant to proposed Rule 15Fi-1.¹⁴⁸

¹⁴⁰ See 17 CFR 240.17a-3(a)(8). See also 17 CFR 240.10b-10 (a requirement that broker-dealers disclose specified information to customers at or before completion of a securities transaction).

¹⁴¹ See paragraph (a)(8) of Rule 17a-3, as proposed to be amended; paragraphs (a)(6) and (b)(6) of proposed Rule 18a-5.

¹⁴² See paragraphs (a)(8)(i) and (a)(8)(ii) of Rule 17a-3, as proposed to be amended.

¹⁴³ Compare paragraph (a)(8)(i) of Rule 17a-3, as proposed to be amended, with 17 CFR 240.17a-3(a)(8).

¹⁴⁴ See paragraph (a)(8)(ii) of Rule 17a-3, as proposed to be amended.

¹⁴⁵ See 15 U.S.C. 78o-10(i)(2).

¹⁴⁶ See Trade Acknowledgment and Verification of Security-Based Swap Transactions, 76 FR 3859.

¹⁴⁷ Id.

¹⁴⁸ See paragraph (a)(8)(ii) of Rule 17a-3, as proposed to be amended.

Paragraph (a)(6) of proposed Rule 18a-5 would require stand-alone SBSDs and stand-alone MSBSPs to make and keep current copies of confirmations of all purchases or sales of securities, which would include securities other than security-based swaps.¹⁴⁹ Paragraph (a)(6) also would specify that, for security-based swap transactions, stand-alone SBSDs and stand-alone MSBSPs would need to make and keep current copies of the security-based swap trade acknowledgments and verifications made pursuant to proposed Rule 15Fi-1.¹⁵⁰ Paragraph (b)(6) would require bank SBSDs and bank MSBSPs to make and keep current copies of all confirmations of purchases and sales of securities but only if related to their business as an SBSD or MSBSP.¹⁵¹ This would require a bank SBSD or bank MSBSP to make and keep current copies of confirmations relating to transactions in securities, other than security-based swaps, if the transaction was related to their business as an SBSD or MSBSP. For example, this requirement would apply if the bank SBSD or bank MSBSP entered into a transaction in the security underlying a security-based swap to hedge the risk of the security-based swap. Paragraph (b)(6) also would specify that, for security-based swap transactions, bank SBSDs and bank MSBSPs would need to make and keep current copies of the security-based swap trade acknowledgments and verifications made pursuant to proposed Rule 15Fi-1.¹⁵²

¹⁴⁹ See paragraph (a)(6) of proposed Rule 18a-5.

¹⁵⁰ Id.

¹⁵¹ See paragraph (b)(6) of proposed Rule 18a-5.

¹⁵² Id.

Accountholder Information

Paragraph (a)(9) of Rule 17a-3 requires broker-dealers to make and keep current certain information with respect to each securities accountholder.¹⁵³ The Commission is proposing to amend paragraph (a)(9) to require certain information with respect to security-based swap accountholders, and to include similar requirements in paragraphs (a) and (b) of proposed Rule 18a-5.¹⁵⁴ The amendments to Rule 17a-3 would add a new paragraph (a)(9)(iv).¹⁵⁵ This paragraph would require broker-dealers, including broker-dealer SBSDs and broker-dealer MSBSPs, to make and keep current, in the case of a security-based swap account: (1) A record of the unique counterparty identifier of the accountholder; (2) the name and address of accountholder; and (3) the signature of each person authorized to transact business in the security-based swap account.¹⁵⁶ Consequently, in the case of accounts of legal entities (e.g., a corporation, partnership, or trust), signatures would be required from persons authorized by the entity to transact business in the account.

¹⁵³ See 17 CFR 240.17a-3(a)(9).

¹⁵⁴ See paragraph (a)(9) of Rule 17a-3, as proposed to be amended; paragraphs (a)(7) and (b)(7) of proposed Rule 18a-5.

¹⁵⁵ See paragraph (a)(9)(iv) of Rule 17a-3, as proposed to be amended.

¹⁵⁶ Id.

Paragraphs (a)(7) and (b)(7) of proposed Rule 18a-5 mirror paragraph (a)(9)(iv) of Rule 17a-3, as proposed to be amended.¹⁵⁷ Consequently, stand-alone SBSDs, stand-alone MSBSPs, bank SBSDs, and bank MSBSPs would be required to make and keep current the same types of records with respect to security-based swap accountholders.

¹⁵⁷ Compare paragraph (a)(9)(iv) of Rule 17a-3, as proposed to be amended, with paragraphs (a)(7) and (b)(7) of proposed Rule 18a-5.

Options Positions

Paragraph (a)(10) of Rule 17a-3 requires broker-dealers to make and keep current a record of all options positions.¹⁵⁸ The Commission is not proposing to amend paragraph (a)(10) of Rule 17a-3 to account for security-based swaps.¹⁵⁹ In addition, because the records required under this paragraph are not specific to security-based swaps, the Commission is not proposing to include an analogous provision in paragraph (b) applicable to bank SBSDs and bank MSBSPs. However, in order to facilitate the monitoring of the financial condition of stand-alone SBSDs and stand-alone MSBSPs, the Commission is proposing to include a parallel provision in paragraph (a)(8) of proposed Rule 18a-5 applicable to stand-alone SBSDs and stand-alone MSBSPs.¹⁶⁰ Consequently, under the proposed rule, these registrants would be required to make and keep current the same type of records broker-dealers must keep: A record of all puts, calls, spreads, straddles, and other options in which the stand-alone SBSD or stand-alone MSBSP has any direct or indirect interest or which the stand-alone SBSD or stand-alone MSBSP has granted or guaranteed, containing, at a minimum, an identification of the security and the number of units involved.¹⁶¹

¹⁵⁸ See 17 CFR 240.17a-3(a)(10).

¹⁵⁹ As discussed below in section II.A.2.b. of this release, the Commission is proposing technical amendments to paragraph (a)(10) of Rule 17a-3.

¹⁶⁰ See paragraph (a)(8) of proposed Rule 18a-5. The second sentence of paragraph (a)(10) of Rule 17a-3 applies only to a special class of broker-dealers that limit their activities to dealing in OTC derivatives (“OTC derivatives dealers”). See 17 CFR 240.17a-3(a)(10); OTC Derivatives Dealers, Exchange Act Release No. 40594 (Oct. 23, 1998), 63 FR 59362 (Nov. 3, 1998). Consequently, it is not included in paragraph (a)(8) of proposed Rule 18a-5.

¹⁶¹ See paragraph (a)(8) of proposed Rule 18a-5.

Trial Balances and Computation of Net Capital

Paragraph (a)(11) of Rule 17a-3 requires broker-dealers to make and keep current a record of the proof of money balances of all ledger accounts in the form of trial balances and certain records relating to the computation of aggregate indebtedness and net capital under Rule 15c3-1.¹⁶² The Commission is not proposing to amend paragraph (a)(11) to account for security-based swaps because the impact of security-based swaps on those computations is reflected in the amendments to the capital rules that have been proposed by the Commission to apply to broker-dealer SBSDs and stand-alone SBSDs.¹⁶³ In addition, because the records required under the rule are not specific to security-based swaps and because bank SBSDs and bank MSBSPs will be subject to capital requirements administered by the prudential regulators, the Commission is not proposing to include a parallel provision in paragraph (b) of proposed Rule 18a-5 applicable to these types of registrants.

¹⁶² See 17 CFR 240.17a-3(a)(11).

¹⁶³ See Capital, Margin, and Segregation Requirements for Security-Based Swap Dealers and Major Security-Based Swap Participants and Capital Requirements for Broker-Dealers, 77 FR 70217-70257. As discussed below in section II.A.2.b. of this release, the Commission is proposing technical amendments to paragraph (a)(11) of Rule 17a-3.

The Commission, however, is proposing to include a parallel requirement in paragraph (a)(9) of proposed Rule 18a-5 applicable to stand-alone SBSDs and stand-alone MSBSPs because the types of records required under paragraph (a)(11) of Rule 17a-3 would facilitate the review and monitoring of the financial condition and regulatory capital of stand-alone SBSDs and stand-alone MSBSPs. As noted above, the Commission will administer the capital rules applicable to stand-alone SBSDs and stand-alone MSBSPs.¹⁶⁴ Under Paragraph (a)(9) of proposed Rule 18a-5, stand-alone SBSDs and stand-alone MSBSPs would be required to make and keep current similar records to those required under paragraph (a)(11) of Rule 17a-3 but in relation to the proposed capital rules for these entities: (1) Proposed Rule 18a-1 in the case of stand-alone SBSDs; and (2) proposed Rule 18a-2 in the case of stand-alone MSBSPs.¹⁶⁵ Specifically, paragraph (a)(9) would require stand-alone SBSDs and stand-alone MSBSPs to make and keep current a record of the proof of money balances of all ledger accounts in the form of trial balances, and a record as of the trial balance date of the computation of net capital pursuant to proposed Rule 18a-1 or the computation of tangible net worth pursuant to proposed Rule 18a-2. The trial balances and computations would need to be prepared at least once a month in relation to the financial reporting on Form SBS that the Commission is proposing for these registrants under proposed Rule 18a-7.¹⁶⁶

¹⁶⁴ See paragraph (a)(9) of proposed Rule 18a-5.

¹⁶⁵ See id. See also Capital, Margin, and Segregation Requirements for Security-Based Swap Dealers and Major Security-Based Swap Participants and Capital Requirements for Broker-Dealers, 77 FR 70213 (proposing Rule 18a-1 applicable to stand-alone SBSDs and Rule 18a-2 applicable to nonbank MSBSPs that would establish capital standards for these registrants).

¹⁶⁶ The proposed requirements to file Form SBS are discussed below in section II.B.2. of this release.

Associated Persons

Paragraph (a)(12) of Rule 17a-3 requires broker-dealers to make and keep current records of information about associated persons of the broker-dealer.¹⁶⁷ This requirement will apply to broker-dealer SBSDs and broker-dealer MSBSPs and, therefore, the Commission is not proposing to amend paragraph (a)(12) to account for security-based swaps.¹⁶⁸ The Commission, however, is proposing to include parallel provisions in paragraphs (a) and (b) of proposed Rule 18a-5.¹⁶⁹ Consequently, stand-alone SBSDs, stand-alone MSBSPs, bank SBSDs, and bank MSBSPs would be required to make and keep current a questionnaire or application for employment for each associated person, which must include the associated person's identifying information, business affiliations for the past ten years, relevant disciplinary history, relevant criminal record, and place of business, among other things.¹⁷⁰

¹⁶⁷ See 17 CFR 240.17a-3(a)(12).

¹⁶⁸ As discussed below in section II.A.2.b. of this release, the Commission is proposing technical amendments to paragraph (a)(12) of Rule 17a-3.

¹⁶⁹ Compare 17 CFR 240.17a-3(a)(12), with paragraphs (a)(10) and (b)(8) of proposed Rule 18a-5.

¹⁷⁰ See paragraph (a)(10) and (b)(8) of proposed Rule 18a-5. Unlike paragraph (a)(12) of Rule 17a-3, paragraphs (a)(10) and (b)(8) do not permit applications of registration made by the associated person to an SRO to satisfy the requirements because the Dodd-Frank Act did not establish SROs for SBSDs and MSBSPs. Compare 17 CFR 240.17a-3(a)(12), with paragraph (a)(10) and (b)(8) of proposed Rule 18a-5.

Further, the Commission is proposing to amend the definition of associated person in Rule 17a-3 to include in the definition a person associated with an SBSD or MSBSP as defined under section 3(a)(70) of the Exchange Act.¹⁷¹ Section 761 of the Dodd-Frank Act added section 3(a)(70) to the Exchange Act to define the terms person associated with a security-based swap dealer or major security-based swap participant and associated person of a security-based swap dealer or major security-based swap participant.¹⁷² Paragraph (c)(1) of proposed Rule 18a-5 similarly would provide that the term associated person means for the purposes of proposed Rule 18a-5 a person associated with an SBSD or MSBSP as defined under section 3(a)(70) of the Exchange Act.¹⁷³ Paragraph (c)(2) of proposed Rule 18a-5 would limit the definition of the term associated person for purposes of the rule and with respect to bank SBSDs and bank MSBSPs to persons whose activities relate to the conduct of business as an SBSD or MSBSP.¹⁷⁴

¹⁷¹ See paragraph (f)(4) of Rule 17a-3, as proposed to be amended; 15 U.S.C. 78c(a)(70).

¹⁷² See Public Law 111-203, 761; 15 U.S.C. 78c(a)(70).

¹⁷³ See paragraph (c)(1) of proposed Rule 18a-5.

¹⁷⁴ See paragraph (c)(2) of proposed Rule 18a-5.

Liquidity Stress Test

Funding liquidity risk has been defined as the risk that a firm will not be able to efficiently meet both expected and unexpected current and future cash flow and collateral needs without adversely impacting either the daily operations or the financial condition of the firm.¹⁷⁵ The financial crisis of 2008 demonstrated that the funding liquidity risk management practices of certain individual financial institutions were not sufficient to handle a liquidity stress event of that magnitude.¹⁷⁶ In particular, it has been observed that the stress tests utilized at the time by financial institutions had weaknesses ¹⁷⁷ and the amount of contingent liquidity they maintained to replace external sources of funding was insufficient to cover the institutions' liquidity needs.¹⁷⁸

¹⁷⁵ See Joint Forum, Bank for International Settlements, The management of liquidity risk in financial groups, 1 n.1 (May 2006), available at http://www.bis.org/publ/joint16.pdf. See also Basel Committee on Banking Supervision, Bank for International Settlements, Principles for Sound Liquidity Risk Management and Supervision, n.2 (Sept. 2008), available at http://www.bis.org/publ/bcbs144.pdf (“Funding liquidity risk is the risk that the firm will not be able to meet efficiently both expected and unexpected current and future cash flow and collateral needs without affecting either daily operations or the financial condition of the firm. Market liquidity risk is the risk that a firm cannot easily offset or eliminate a position at the market price because of inadequate market depth or market disruption.”); Amendments to Financial Responsibility Rules for Broker-Dealers, Exchange Act Release No. 55432 (Mar. 9, 2007), 72 FR 12862, 12870 n.72 (Mar. 19, 2007) (“Liquidity risk includes the risk that a firm will not be able to unwind or hedge a position or meet cash demands as they become due.”); Enhanced Prudential Standards and Early Remediation Requirements for Covered Companies, Federal Reserve, 77 FR 594 (Jan. 5, 2012) (proposing a rule to require certain large financial institutions to conduct liquidity stress testing at least monthly).

¹⁷⁶ See Senior Supervisors Group, Risk Management Lessons from the Global Bank Crisis of 2008, (Oct. 21, 2009), available at http://www.sec.gov/news/press/2009/report102109.pdf.

¹⁷⁷ Id. at 14 (“Market conditions and the deteriorating financial state of firms exposed weaknesses in firms' approaches to liquidity stress testing, particularly with respect to secured borrowing and contingent funding needs. These deteriorating conditions underscored the need for greater consideration of the overlap between systemic and firm-specific events and longer time horizons, and the connection between stress tests and business-as-usual liquidity management.”).

¹⁷⁸ Id. at 15 (“Interviewed firms typically calculated and maintained a measurable funding cushion, such as `months of coverage,' which is conceptually similar to rating agencies' twelve-month liquidity alternatives analyses. Some institutions were required to maintain a liquidity cushion that could withstand the loss of unsecured funding for one year. Many institutions found that this metric did not capture important elements of stress that the organizations faced, such as the loss of secured funding and demands for collateral to support clearing and settlement activity and to mitigate the risks of accepting novations.”) (emphasis in the original).

The Commission has proposed that certain broker-dealers, including broker-dealer SBSDs, and certain stand-alone SBSDs be subject to liquidity stress test requirements.¹⁷⁹ In particular, the Commission has proposed amendments to Rule 15c3-1 that would establish liquidity stress test requirements for broker-dealers that have been approved to use internal models to calculate market and credit risk charges when computing net capital (“ANC broker-dealers”), which would include broker-dealer SBSDs approved to use internal models for this purpose (“ANC broker-dealer SBSDS”).¹⁸⁰ The Commission has proposed identical liquidity stress test requirements for stand-alone SBSDs that are approved to use internal models to calculate market and credit risk charges when computing net capital under proposed Rule 18a-1 (“stand-alone ANC SBSDs”).¹⁸¹ Under the proposed liquidity stress test requirements, ANC broker-dealers and stand-alone ANC SBSDs would be required, among other things, to conduct a liquidity stress test at least monthly that takes into account certain assumed conditions lasting for thirty consecutive days and to establish a written contingency funding plan.

¹⁷⁹ See Capital, Margin, and Segregation Requirements for Security-Based Swap Dealers and Major Security-Based Swap Participants and Capital Requirements for Broker-Dealers, 77 FR 70252-70254 (proposing funding liquidity stress test requirements).

¹⁸⁰ Id. Rule 15c3-1 requires that a broker-dealer perform two calculations: (1) A computation of the minimum amount of net capital the firm must maintain; and (2) a computation of the amount of net capital the firm is maintaining. See 17 CFR 240.15c3-1. In computing net capital, a broker-dealer must, among other things, make certain adjustments to net worth such as deducting illiquid assets and taking other capital charges and adding qualifying subordinated loans. See 17 CFR 240.15c3-1(c)(2)(i) through (xiii). The amount remaining after these deductions is defined as tentative net capital. See 17 CFR 240.15c3-1(c)(15). The final step in computing net capital is to take prescribed percentage deductions (“standardized haircuts”) from the mark-to-market value of the proprietary positions (e.g., securities, money market instruments, and commodities) that are included in tentative net capital. See 17 CFR 240.15c3-1(c)(2)(vi). The standardized haircuts are designed to account for the market risk inherent in these positions and to create a buffer of liquidity to protect against other risks associated with the securities business. ANC broker-dealers and OTC derivatives dealers are permitted, with Commission approval, to calculate net capital using internal models as the basis for taking market risk and credit risk charges in lieu of the standardized haircuts for classes of positions for which they have been approved to use models. See 17 CFR 240.15c3-1(a)(5) and (a)(7); 17 CFR 240.15c3-1e; 17 CFR 240.15c3-1f. Broker-dealer SBSDs that seek to use internal models to calculate market and credit risk charges when computing net capital would need to be approved to operate as ANC broker-dealers. See Capital, Margin, and Segregation Requirements for Security-Based Swap Dealers and Major Security-Based Swap Participants and Capital Requirements for Broker-Dealers, 77 FR 70217-70256. Theoretically, a broker-dealer MSBSP could be authorized to operate as an ANC broker-dealer, in which case it would be subject to the liquidity stress test requirement.

¹⁸¹ See Capital, Margin, and Segregation Requirements for Security-Based Swap Dealers and Major Security-Based Swap Participants and Capital Requirements for Broker-Dealers, 77 FR 70252-70254.

To promote compliance with these proposed requirements and the risk management practices of ANC broker-dealers, the Commission is proposing to amend Rule 17a-3 to add a requirement that ANC broker-dealers, including ANC broker-dealer SBSDs, make and keep current a report of the results of the monthly liquidity stress test, a record of the assumptions underlying the liquidity stress test, and the liquidity funding plan required under the proposed amendments to Rule 15c3-1.¹⁸² The Commission is not proposing to include a similar provision in paragraph (b) of proposed Rule 18a-5 applicable to bank SBSDs because these registrants would not be subject to the Commission's capital requirements, including the funding liquidity stress test requirement. However, the Commission is proposing to include a parallel provision applicable to stand-alone SBSDs in paragraph (a) of proposed Rule 18a-5 that is modeled on the requirement that would be added to Rule 17a-3, as proposed to be amended.¹⁸³ Consequently, stand-alone ANC SBSDs would be required to make and keep current a report of the results of the monthly liquidity stress test, a record of the assumptions underlying the liquidity stress test, and the liquidity funding plan.¹⁸⁴

¹⁸² See paragraph (a)(24) of Rule 17a-3, as proposed to be amended.

¹⁸³ Compare paragraph (a)(24) of Rule 17a-3, as proposed to be amended, with paragraph (a)(11) of proposed Rule 18a-5.

¹⁸⁴ See paragraph (a)(11) of proposed Rule 18a-5.

Account Equity and Margin Calculations Under Proposed Rule 18a-3

The Commission has proposed Rule 18a-3, which would establish margin requirements with respect to non-cleared security-based swaps applicable to nonbank SBSDs and nonbank MSBSPs.¹⁸⁵ Proposed Rule 18a-3 would require nonbank SBSDs, among other things, to perform two daily calculations for each security-based swap account: The amount of equity in the account and a margin amount for the account.¹⁸⁶ Nonbank MSBSPs would be required to calculate only the equity in the account.¹⁸⁷ The Commission is proposing to require that nonbank SBSDs and nonbank MSBSPs make and keep current a record of the daily calculations that would be required under Rule 18a-3 by amending Rule 17a-3 and including a parallel provision in paragraph (a) of proposed Rule 18a-5.¹⁸⁸ The objective of these requirements is to promote compliance with proposed Rule 18a-3, to require records to assist nonbank SBSDs and nonbank MSBSPs in managing their credit risk to security-based swap counterparties, and to assist Commission examiners in reviewing compliance with those rule requirements.¹⁸⁹

¹⁸⁵ See Capital, Margin, and Segregation Requirements for Security-Based Swap Dealers and Major Security-Based Swap Participants and Capital Requirements for Broker-Dealers, 77 FR 70257-70274.

¹⁸⁶ Id. at 70260-70262.

¹⁸⁷ Id. at 70262-70263.

¹⁸⁸ See paragraph (a)(25) of Rule 17a-3, as proposed to be amended; paragraph (a)(12) of proposed Rule 18a-5. See also Capital, Margin, and Segregation Requirements for Security-Based Swap Dealers and Major Security-Based Swap Participants and Capital Requirements for Broker-Dealers, 77 FR 70257-70274.

¹⁸⁹ As discussed above in section I. of this release, section 15F(e)(1)(A) of the Exchange Act provides that the prudential regulators shall prescribe capital and margin requirements for bank SBSDs and bank MSBSPs. See 15 U.S.C. 78o-10(e)(1)(A).

Possession or Control Requirements Under Proposed Rule 18a-4

Rule 15c3-3 under the Exchange Act (“Rule 15c3-3”) requires a broker-dealer that carries customer securities or cash (a “carrying broker-dealer”) to maintain physical possession or control over customers' fully paid and excess margin securities.¹⁹⁰ Physical possession or control means the carrying broker-dealer must hold these securities in one of several locations specified in Rule 15c3-3 and free of liens or any other interest that could be exercised by a third party to secure an obligation of the broker-dealer.¹⁹¹ Permissible locations include a bank, as defined in section 3(a)(6) of the Exchange Act, and a clearing agency.¹⁹² The Commission has proposed Rule 18a-4 to establish security-based swap customer protection requirements that are modeled on the requirements in Rule 15c3-3.¹⁹³ Paragraph (b)(1) of proposed Rule 18a-4 would require an SBSD to promptly obtain and thereafter maintain physical possession or control of all excess securities collateral carried for the accounts of security-based swap customers.¹⁹⁴ The physical possession or control requirement of paragraph (b)(1) of proposed Rule 18a-4 would prohibit SBSDs from lending or hypothecating excess securities collateral of security-based swap customers, and would require SBSDs to either physically hold excess securities collateral or to custody the collateral in a satisfactory control location.¹⁹⁵ Paragraph (b)(2) of proposed new Rule 18a-4 would identify five satisfactory control locations for excess securities collateral.¹⁹⁶ Paragraph (b)(3) of Rule 18a-4 would require that each business day the SBSD must determine from its books and records the quantity of excess securities collateral that the firm had in its possession or control as of the close of the previous business day and the quantity of excess securities collateral the firm did not have in its possession or control on that day.¹⁹⁷ The paragraph would provide further that the SBSD must take steps to retrieve excess securities collateral from certain specifically identified non-control locations if securities and money market instruments of the same issue and class are at these locations.¹⁹⁸

¹⁹⁰ See 17 CFR 240.15c3-3(d). The term fully paid securities includes all securities carried for the account of a customer in a special cash account as defined in Regulation T promulgated by the Federal Reserve, as well as margin equity securities within the meaning of Regulation T which are carried for the account of a customer in a general account or any special account under Regulation T during any period when section 8 of Regulation T (12 CFR 220.8) specifies that margin equity securities shall have no loan value in a general account or special convertible debt security account, and all such margin equity securities in such account if they are fully paid: provided, however, that the term fully paid securities shall not apply to any securities which are purchased in transactions for which the customer has not made full payment. See 17 CFR 240.15c3-3(a)(3). The term margin securities means those securities carried for the account of a customer in a general account as defined in Regulation T, as well as securities carried in any special account other than the securities referred to in paragraph (a)(3) of Rule 15c3-3. See 17 CFR 240.15c3-3(a)(4). The term excess margin securities means those securities referred to in paragraph (a)(4) of Rule 15c3-3 carried for the account of a customer having a market value in excess of 140% of the total of the debit balances in the customer's account or accounts encompassed by paragraph (a)(4) of Rule 15c3-3 which the broker-dealer identifies as not constituting margin securities. See 17 CFR 240.15c3-3(a)(5).

¹⁹¹ See 17 CFR 240.15c3-3(c). Customer securities held by the carrying broker-dealer are not assets of the firm. Rather, the carrying broker-dealer holds them in a custodial capacity and the possession or control requirement is designed to ensure that the carrying broker-dealer treats them in a manner that allows for their prompt return.

¹⁹² Id.

¹⁹³ See Capital, Margin, and Segregation Requirements for Security-Based Swap Dealers and Major Security-Based Swap Participants and Capital Requirements for Broker-Dealers, 77 FR 70274-70288. As broker-dealers, broker-dealer SBSDs and broker-dealer MSBSPs would be subject to Rule 15c3-3 with respect to customers that are not security-based swap customers and, in the case of a broker-dealer SBSD, Rule 18a-4 with respect to security-based swap customers. Id. at 70277 (“A broker-dealer SBSD would need to treat security-based swap accounts separately from other securities accounts and, consequently, would need to perform separate possession or control and reserve account computations for security-based swap accounts and other securities accounts. The former would be subject to the possession or control and reserve account requirements in proposed new Rule 18a-4 and the latter would continue to be subject to the analogous requirements in Rule 15c3-3. This would keep separate the segregated customer property related to security-based swaps from customer property related to other securities, including property of retail securities customers.”).

¹⁹⁴ Under proposed Rule 18a-4, the term excess securities collateral would be defined to mean securities and money market instruments carried for the account of a security-based swap customer that have a market value in excess of the current exposure of the SBSD to the customer, excluding, under certain specified conditions, securities or money market instruments used to meet a margin requirement of a registered security-based swap clearing agency or of another SBSD. See Capital, Margin, and Segregation Requirements for Security-Based Swap Dealers and Major Security-Based Swap Participants and Capital Requirements for Broker-Dealers, 77 FR 70279. As noted above, the term security-based swap customer would be defined to mean any person from whom or on whose behalf the SBSD has received or acquired or holds funds or other property for the account of the person with respect to a cleared or non-cleared security-based swap transaction. Id. at 70278. The definition would exclude a person to the extent that person has a claim for funds or other property which by contract, agreement or understanding, or by operation of law, is part of the capital of the SBSD or is subordinated to all claims of security-based swap customers of the SBSD. Id.

¹⁹⁵ See Capital, Margin, and Segregation Requirements for Security-Based Swap Dealers and Major Security-Based Swap Participants and Capital Requirements for Broker-Dealers, 77 FR 70278.

¹⁹⁶ Id. at 70280-70281.

¹⁹⁷ Id. at 70281-70282.

¹⁹⁸ Id. at 70281.

The Commission is proposing to require that all SBSDs make and keep current a record of compliance with the possession or control requirement under proposed Rule 18a-4 by amending Rule 17a-3 to add this new requirement and including parallel requirements in paragraphs (a) and (b) of proposed Rule 18a-5.¹⁹⁹ Consequently, this new recordkeeping requirement would apply to broker-dealer SBSDs, stand-alone SBSDs, and bank SBSDs.²⁰⁰ The records required under this proposal would need to document that each business day the firm took the steps required under paragraph (b) of proposed Rule 18a-3 described above. The objective of this new recordkeeping requirement would be to promote compliance with the possession or control requirements of proposed Rule 18a-4 and to assist Commission examiners in reviewing compliance.

¹⁹⁹ See paragraph (a)(26) of Rule 17a-3, as proposed to be amended; paragraphs (a)(13) and (b)(9) of proposed Rule 18a-5.

²⁰⁰ See id.

Customer Reserve Requirements Under Proposed Rule 18a-4

Rule 15c3-3 requires a carrying broker-dealer to maintain a reserve of funds or qualified securities in an account at a bank that is at least equal in value to the net cash owed to customers.²⁰¹ The amount of net cash owed to customers is computed pursuant to a formula set forth in Exhibit A to Rule 15c3-3.²⁰² The Commission has proposed a parallel requirement in proposed Rule 18a-4.²⁰³ Proposed Rule 18a-4 would require an SBSD, among other things, to maintain a security-based swap customer reserve account at an unaffiliated bank separate from any other bank account of the SBSD.²⁰⁴ Further, it would provide that the SBSD must at all times maintain in the security-based swap customer reserve account cash and/or qualified securities in amounts computed daily in accordance with Exhibit A to proposed Rule 18a-4.²⁰⁵

²⁰¹ See 17 CFR 240.15c3-3(e). The term qualified security is defined in Rule 15c3-3 to mean a security issued by the U.S. or a security in respect of which the principal and interest are guaranteed by the U.S. See 17 CFR 240.15c3-3(a)(6).

²⁰² See 17 CFR 240.15c3-3a.

²⁰³ See Capital, Margin, and Segregation Requirements for Security-Based Swap Dealers and Major Security-Based Swap Participants and Capital Requirements for Broker-Dealers, 77 FR 70282-70287. As noted above, broker-dealer SBSDs and broker-dealer MSBSPs would be subject to Rule 15c3-3 with respect to customers that are not security-based swap customers and, in the case of a broker-dealer SBSD, Rule 18a-4 with respect to security-based swap customers.

²⁰⁴ Id.

²⁰⁵ Id.

The Commission is proposing to require that all types of SBSDs make and keep current a record of their reserve computations under proposed Rule 18a-4 by amending Rule 17a-3 to add the requirement and to include parallel requirements in paragraphs (a) and (b) of proposed Rule 18a-5.²⁰⁶ The objective of this requirement would be to promote SBSD compliance with the customer reserve computation requirement and to assist Commission examiners in reviewing compliance.

²⁰⁶ See paragraph (a)(27) of Rule 17a-3, as proposed to be amended; paragraphs (a)(14) and (b)(10) of proposed Rule 18a-5.

Unverified Transactions

Prudent practice requires counterparties to promptly confirm the terms of executed OTC derivatives transactions.²⁰⁷ Consequently, the Commission proposed Rule 15Fi-1 to promote the efficient operation of the security-based swap market and to facilitate market participants' management of the risk of trading in security-based swaps.²⁰⁸ Among other things, proposed Rule 15Fi-1 would require broker-dealers, SBSDs, and MSBSPs to provide trade acknowledgments containing the details of a security-based swap transaction within prescribed timeframes and to establish, maintain, and enforce written policies and procedures that are reasonably designed to obtain prompt verification of the terms of the trade acknowledgments.²⁰⁹

²⁰⁷ See Trade Acknowledgment and Verification of Security-Based Swap Transactions, 76 FR 3860.

²⁰⁸ Id. at 3861.

²⁰⁹ Id. at 3861-3867.

To promote compliance with proposed Rule 15Fi-1 and the risk management practices of broker-dealers, SBSDs, and MSBSPs, the Commission is proposing to amend Rule 17a-3 to add a requirement to make a record of each security-based swap trade acknowledgment that is not verified within five business days of execution and to include parallel provisions in paragraphs (a) and (b) of proposed Rule 18a-5.²¹⁰ Consequently, all types of SBSDs and MSBSPs would be required to make and keep current these records. While the Commission did not prescribe a timeframe in proposed Rule 15Fi-1 within which security-based swap trade acknowledgements would need to be verified, the proposed rule does require procedures reasonably designed to obtain “prompt verification.” ²¹¹ The proposed requirement to make a record of security-based swap trade acknowledgments that are not verified within five business days is not intended to establish a maximum timeframe within which verification should be obtained under proposed Rule 15Fi-1. The five business day threshold is designed to require SBSDs and MSBSPs to make a record of transactions that have gone unverified for a significant length of time.²¹² This could indicate a deficiency in the controls established to verify transactions or the existence of a disagreement with the counterparty as to the terms of the transaction.

²¹⁰ See paragraph (a)(28) of Rule 17a-3, as proposed to be amended; paragraphs (a)(15) and (b)(11) of proposed Rule 18a-5.

²¹¹ See Trade Acknowledgment and Verification of Security-Based Swap Transactions, 76 FR 3866.

²¹² Proposed Rule 15Fi-1 requires registered entities to verify the terms of security-based swap transactions with the counterparty. However, a party that is not a registered entity is not required to verify a security-based swap transaction. Registered entities must have procedures to verify security-based swap transactions with unregistered entities. Id. at 3866-3867.

Records Relating to Business Conduct Standards

The Commission has proposed Rules 15Fh-1 through 15Fh-6 and Rule 15Fk-1 to establish external business conduct requirements for SBSDs and MSBSPs.²¹³ As currently proposed, the requirements in these rules, would address (among other things):

²¹³ See Business Conduct Standards for Security-Based Swap Dealers and Major Security-Based Swap Participants, Exchange Act Release No. 64766 (June 29, 2011), 76 FR 42396 (July 18, 2011).

• Verification of the status of the counterparty;

• Certain disclosures related to the daily mark and its calculation;

• Disclosures regarding material incentives, conflicts of interest, material risks, and characteristics of the security-based swap, and certain clearing rights;

• Certain “know your counterparty” and suitability obligations for SBSDs;

• Supervisory requirements including written policies and procedures;

• Certain requirements regarding interactions with special entities;

• Provisions intended to prevent SBSDs and independent representatives of special entities from engaging in certain “pay to play” activities; and

• Certain minimum requirements relating to chief compliance officers.

To promote compliance with these external business conduct standards, the Commission is proposing amendments to Rule 17a-3 and to include parallel provisions in paragraphs (a) and (b) of proposed Rule 18a-5.²¹⁴ First, the Commission is proposing that all types of SBSDs be required to make and keep current a record that demonstrates their compliance with proposed Rule 15Fh-6 (regarding political contributions by certain security-based swap dealers).²¹⁵ Second, the Commission is proposing that all types of SBSDs and MSBSPs be required to make and keep current a record that demonstrates their compliance with proposed Rules 15Fh-1 through 15Fh-5 and Rule 15Fk-1, as applicable.²¹⁶ These paragraphs would require covered firms to keep supporting documents evidencing their compliance with the business conduct standards; a mere attestation of compliance would not be sufficient. To the extent that the rules require providing or receiving written disclosures or written representations, the SBSD or MSBSP would be required to retain a copy of such disclosure or representation.²¹⁷

²¹⁴ See paragraphs (a)(29) and (a)(30) of Rule 17a-3, as proposed to be amended; paragraphs (a)(16), (a)(17), (b)(12) and (b)(13) of proposed Rule 18a-5.

²¹⁵ See paragraph (a)(29) of Rule 17a-3, as proposed to be amended; paragraphs (a)(16) and (b)(12) of proposed Rule 18a-5.

²¹⁶ See paragraph (a)(30) of Rule 17a-3, as proposed to be amended; paragraphs (a)(17) and (b)(13) of proposed Rule 18a-5. Paragraph (b)(2) of proposed Rule 15Fk-1 would require chief compliance officers of SBSDs and MSBSPs to establish, maintain and review written policies and procedures reasonably designed to achieve compliance with section 15F of the Act and the rules and regulations thereunder, by the SBSDs and MSBSPs.

²¹⁷ See paragraph (a)(14) of Rule 17a-4, as proposed to be amended; paragraphs (b)(1)(xii) and (b)(2)(vii) of proposed Rule 18a-6.

Request for Comment

The Commission generally requests comment on the proposals to require broker-dealers, SBSDs, and MSBSPs to make and keep current certain types of records. In addition, the Commission requests comment, including empirical data in support of comments, in response to the following questions:

1. Are the provisions in Rule 17a-3 that would be included as parallel provisions in paragraph (a) of proposed Rule 18a-5 appropriate for stand-alone SBSDs and stand-alone MSBSPs? If not, explain why not. Are there alternative provisions the Commission should consider? If so, describe them. Are there provisions in Rule 17a-3 that are not being included as parallel provisions in paragraph (a) of proposed Rule 18a-5 that would be appropriate for stand-alone SBSDs and stand-alone MSBSPs? If so, explain why.

2. Are the provisions in Rule 17a-3 that would be included as parallel provisions in paragraph (b) of proposed Rule 18a-5 appropriate for bank SBSDs and bank MSBSPs? If not, explain why not. Are there alternative provisions the Commission should consider? If so, describe them. Are there provisions in Rule 17a-3 that are not being included as parallel provisions in paragraph (b) of proposed Rule 18a-5 that would be appropriate for bank SBSDs and bank MSBSPs? If so, explain why.

3. Are the recordkeeping provisions that would be added to paragraph (a) of Rule 17a-3 appropriate for broker-dealers, including broker-dealer SBSDs and broker-dealer MSBSPs? If not, explain why not. Are there alternative provisions the Commission should consider? If so, describe them.

4. Paragraph (a)(23) of Rule 17a-3, as recently amended, requires certain broker-dealers to make and keep current a record documenting the broker-dealer's credit, market, and liquidity risk management controls.²¹⁸ Should an analogous requirement be added to Rule 18a-5? Explain why or why not.

²¹⁸ See Financial Responsibility Rules for Broker-Dealers, 78 FR 51907.

5. Is the five business day time frame for triggering the unverified transaction record requirement an appropriate length of time? Should the time frame be shorter (e.g., three days)? Should the time frame be longer (e.g., seven or ten days)?

6. How do the types of records that would need to be made under Rule 17a-3, as proposed to be amended, and proposed Rule 18a-5 align with the types of records that an FCM or a swap dealer would be required to make? Commenters are asked to identify and explain requirements that they believe would result in a dually registered entity (e.g., a broker-dealer/FCM or an SBSD/swap dealer) needing to make two sets of records that address the same matter or information as opposed to a single record that includes information that would satisfy requirements of both recordkeeping programs.

7. As noted above, certain data elements that would need to be documented under the proposed amendments to Rule 17a-3 or proposed Rule 18a-5 are substantively the same as certain data elements that would need to be reported under proposed Rule 901. Should any additional data elements required to be reported under proposed Rule 901 be required to be recorded in the daily trading records under the proposed amendments to Rule 17a-3 or proposed Rule 18a-5? Are any of the data elements that would be required to be recorded in the daily trading records not appropriate for such records? If so, identify them and explain why. Are there any data elements that should be required to be recorded even though they are not required by proposed Rule 901? If so, identify them and explain why.

8. Can the data elements with respect to security-based swaps that would be required to be recorded in the daily trading records under the proposed amendments to Rule 17a-3 and proposed Rule 18a-5 be stored in, and retrieved from, a single database in order to generate the various types of records that would need to be made (e.g., ledger accounts, securities record, memoranda of brokerage orders, and memoranda of proprietary trades)? If not, explain why not. If so, describe any system changes that would need to be made and identify, estimate, and quantify the burden(s) associated with such system changes.

9. Paragraph (a)(29) of Rule 17a-3, as proposed to be amended, and paragraphs (a)(16) and (b)(12) of proposed Rule 18a-5 require broker-dealer SBSDs, stand-alone SBSDs, and bank SBSDs, respectively, to make and keep a record that demonstrates they complied with the business conduct standards required under proposed Rule 15Fh-6. Should these paragraphs also require these entities to make and keep specified records pertaining to proposed Rule 15Fh-6 to help in evaluating compliance? Explain why or why not. For example, based on the provisions of proposed Rule 15Fh-6, should the following rule text be used in paragraphs (a)(29) and (a)(30) of Rule 17a-3, as proposed to be amended (and in paragraphs (a)(16) and (a)(17), and paragraphs (b)(12) and (b)(13) of proposed Rule 18a-5):

“(29) A record with respect to § 240.15Fh-6 [as proposed at 76 FR 42396, July 18, 2011] containing the following information:

(i) The names, titles, and business and residence addresses of all covered associates of the broker or dealer;

(ii) All municipal entities to which a broker or dealer has provided services in connection with the solicitation or entry into security-based swaps or trading strategies involving security-based swaps in the past five years, but not before six months prior to the effective date of § 240.15Fh-6 [as proposed at 76 FR 42396, July 18, 2011]; and

(iii) In chronological order, all direct or indirect contributions made by the broker or dealer or any of its covered associates (including contributions made up to six months prior to becoming a covered associate) to an official of a municipal entity, or direct or indirect payments to a political party of a state or political subdivision thereof, or to a political action committee, including:

(A) The name and title of each contributor;

(B) The name and title, including the city, county, state, or other political subdivision, of each recipient of a contribution or payment;

(C) Whether the contributor was entitled to vote for the recipient at the time of the contribution;

(D) The amount and date of each contribution and payment; and

(E) Whether any such contribution was the subject of the exception for certain returned contributions pursuant to § 240.15Fh-6(d) or (e) [as proposed at 76 FR 42396, July 18, 2011]; and

(iv) The name and business address of each municipal advisor to whom the broker or dealer provides or agrees to provide, directly or indirectly, payment to solicit a municipal entity for services on its behalf; and, for purposes of this paragraph, the terms contribution, covered associates, municipal entity, official of municipal entity, payment and solicit will have the same meaning as set forth in § 240.15Fh-6(a) [as proposed at 76 FR 42396, July 18, 2011].

(30) A record that demonstrates the broker or dealer has complied with the business conduct standards as required under § 240.15Fh-1 through § 240.15Fh-6 and § 240.15Fk-1 [as proposed at 76 FR 42396, July 18, 2011].”?

If this rule text should be used, explain why. If this rule text should not be used, explain why not. Is there alternative rule text that should be used? If so, explain why alternative rule text should be used?

b. Additional Proposed Amendments to Rule 17a-3

The Commission is proposing several amendments to Rule 17a-3 to eliminate obsolete text, improve readability, and modernize terminology. Reference is made throughout Rule 17a-3 to “members” of a national securities exchange as a distinct class of registrant in addition to “brokers” and “dealers”. The Commission is proposing to remove these references to “members” given that the rule applies to brokers-dealers, which would include members of a national securities exchange that are brokers-dealers.²¹⁹ The Commission is proposing a second global change that would replace the word “shall” in the rule with the word “must” or “will” where appropriate.²²⁰ Similarly, when defining terms, the Commission is proposing to replace the phrase “shall mean” with the word “means”.²²¹ The Commission also proposes to make certain stylistic, corrective, and punctuation amendments to improve the rule's readability.²²²

²¹⁹ The proposed amendments would delete the word “member” from the title and from the following paragraphs of Rule 17a-3, as proposed to be amended: (a), (a)(3), (a)(5)(i), (a)(6)(i), (a)(7)(i), (a)(8)(i), (a)(9), (a)(10), (a)(11), (a)(12), (a)(17)(i), (a)(18), (a)(19), (a)(20), (a)(22), (b), (e), (f)(2), and (f)(4). See Rule 17a-3, as proposed to be amended.

²²⁰ The proposed amendments would replace the word “shall” with the word “must” or “will” in the following paragraphs of Rule 17a-3, as proposed to be amended: (a), (a)(6)(i)(A), (a)(7)(i), (a)(10), (a)(11), (a)(12)(i), (a)(16)(ii), (a)(17)(i), (a)(18)(i), (a)(19)(i), (b), (d), (e), and (f)(4). See Rule 17a-3, as proposed to be amended.

²²¹ The proposed amendments would replace the phrase “shall mean” with the word “means” in the following paragraphs of Rule 17a-3, as proposed to be amended: (a)(6)(i)(A), (a)(16)(ii)(A), and (a)(16)(ii)(B). See Rule 17a-3, as proposed to be amended.

²²² The Commission proposes the following stylistic and corrective changes to Rule 17a-3, as proposed to be amended: (1) Adding to paragraph (a)(1) the phrase “such securities were”; (2) adding to paragraph (a)(4)(vi) the word “and” after the semicolon; (3) replacing the word “of” with the word “or” in paragraph (a)(5), resulting in the phrase “for its account or for the account of its customers or partners”; (4) replacing the phrase “purchase or sale of securities” with the phrase “purchase or sale of a security” in the first sentence of paragraph (a)(6)(i); (5) replacing the word “and” with the word “or” in paragraph (a)(7), resulting in the phrase “A memorandum of each purchase or sale”; (6) replacing the phrase “in respect of” to with the phrase “with respect to” in paragraph (a)(9); (7) adding the phrase “, as applicable:” after the word “indicating” in paragraph (a)(9); (8) including the word “and” between the second-to-last and last subparagraphs of paragraph (a)(9) (instead of after every subparagraph); (9) replacing cross-reference in paragraph (a)(12) to “paragraph (h)(4)” with a cross-reference to “paragraph (f)(4)” due to the proposed deletion of two paragraphs; (10) amending paragraph (a)(12)(i)(G) to refer to a “broker or dealer” instead of a “broker-dealer”; and (11) replacing the superfluous “or” with a comma in the phrase “wrongful taking of property or bribery” in paragraph (a)(12)(i)(G).

The Commission is proposing to simplify the text in paragraph (a) of Rule 17a-3 to state that Rule 17a-3 applies to “every broker or dealer”, since the undesignated introductory paragraph already provides sufficient detail as to the types of registrants to which the rule applies.²²³

²²³ See undesignated introductory paragraph of Rule 17a-3, as proposed to be amended.

In recognition of the fact that broker-dealers may execute orders for non-customers, the Commission is proposing to amend paragraph (a)(6) of Rule 17a-3 to specify that a broker-dealer must maintain a copy of the customer's or non-customer's subscription agreement.

The Commission is proposing to restructure paragraph (a)(11) of Rule 17a-3 to eliminate paragraphs (a)(11)(i)-(ii).²²⁴ Under these amendments, the text of paragraph (a)(11)(i) of Rule 17a-3 would be set forth in the second sentence of paragraph (a)(11) of Rule 17a-3, as proposed to be amended, and the text of paragraph (a)(11)(ii) would be deleted from the rule.²²⁵

²²⁴ See paragraph (a)(11) of Rule 17a-3, as proposed to be amended.

²²⁵ Id.

The Commission is proposing to amend the “Provided, however” paragraph in paragraph (a)(12) of Rule 17a-3 that follows paragraph (a)(12)(i)(H) by replacing the list of SROs and exchanges with the term “a self-regulatory organization.” ²²⁶ Thus, rather than naming specific SROs, the paragraph would use the generic term “a self-regulatory organization.”

²²⁶ See paragraph (a)(12) of Rule 17a-3, as proposed to be amended.

The Commission also is proposing amendments to paragraph (b) of Rule 17a-3. Paragraph (b)(1) is designed to avoid duplication and prevent an introducing broker-dealer from having to make and keep current the same records that would customarily be made by the firm's clearing broker-dealer. However, the language in paragraph (b)(1) beginning with the phrase “Provided, That” is outdated insofar is it references a capital standard that has been superseded. In revising paragraph (b)(1), the intent of the provision—to avoid the duplicative creation of records related to transactions introduced by one broker or dealer and cleared by a different broker or dealer—remains the same. However, the Commission is proposing to clarify the provision and eliminate the outdated capital standard reference.²²⁷ The Commission also is proposing to delete paragraph (b)(2) as it would be redundant of paragraph (b) of Rule 17a-3, as proposed to be amended.

²²⁷ Paragraph (b) of Rule 17a-3, as proposed to be amended, would read as follows: “A broker or dealer registered pursuant to section 15 of the Act, that introduces accounts on a fully-disclosed basis, is not required to make or keep such records of transactions cleared for such broker or dealer as are made and kept by a clearing broker or dealer pursuant to the requirements of § 240.17a-3 and § 240.17a-4. Nothing herein will be deemed to relieve such broker or dealer from the responsibility that such books and records be accurately maintained and preserved as specified in § 240.17a-3 and § 240.17a-4.”

The Commission is proposing to remove paragraphs (c) and (d) of Rule 17a-3. Paragraph (c) is outdated and references instruments such as U.S. Defense Savings Stamps and U.S. Defense Savings Bonds that are no longer widely circulated and thus a specific carve-out for these instruments from the general rule set forth in paragraph (a) of Rule 17a-3 is antiquated.²²⁸ Paragraph (d) provides a de minimis exception from paragraph (a) of Rule 17a-3 for any cash transaction of $100 or less involving only subscription rights or warrants which by their terms expire within 90 days after the issuance thereof. This exemption was adopted in 1953 to reduce the burden and expense of making accounting entries for these rights transactions. The Commission preliminarily believes that the burden associated with these accounting entries is no longer significant in light of the technological advances in recordkeeping systems since 1953.²²⁹ In addition, the Commission preliminarily believes the removal of this exemption would affect a small number of transactions.

²²⁸ The Defense Savings Bond initiated by the U.S. Treasury and the U.S. Defense Savings Stamps introduced by the U.S. Postal Service were measures to finance the U.S. effort in World Wars I and II. The bonds matured in 10 years from the date of issuance. The Defense Savings Bonds were replaced by Series E savings bonds, which ceased to be issued as of June 1980. Today, these instruments are not widely held and are valued more as collectibles than for their face value. See information available at www.Treasurydirect.gov.

²²⁹ See Preservation of Records and Reports of Certain Stabilizing Activities, 18 FR 2879 (May 19, 1953) (“It has been pointed out to the Commission that the accounting entries appropriate in the case of the usual securities transaction are unnecessarily burdensome and expensive as to these rights transactions because of the small sums involved and because in many cases there is no continuing relationship between the customer and the firm”).

As a consequence of the proposed removal of current paragraphs (c) and (d) from Rule 17a-3, current paragraphs (e), (f), (g), and (h) would be redesignated as paragraphs (c), (d), (e), and (f), respectively.

Current paragraph (e) references Municipal Securities Rulemaking Board (“MSRB”) Rule G-8 and states that compliance with such rule will be deemed to be compliance with this section. The proposed amendments would add the phrase “or any successor rule” to the reference to Rule G-8 so that the cross-reference does not become superseded over time.

Request for Comment

The Commission generally requests comment on these additional proposed amendments to Rule 17a-3, including comment on whether any of the proposed amendments would result in substantive changes to the requirements applicable to broker-dealers. In addition, the Commission requests comment, including empirical data in support of comments, in response to the following questions:

1. Paragraphs (a)(12)(i)(E) through (G) of Rule 17a-3 currently require broker-dealers to retain certain records with regard to certain actions taken against their associated persons when they were associated with a broker-dealer. Should these requirements be expanded to include actions taken when they were associated with other types of entities (e.g., SBSDs, MSBSPs, FCMs, investment advisers)? If so, which entities should be covered? Please explain. Also identify, estimate, and quantify any associated burdens with expanding these requirements to include actions taken when broker-dealers are associated with these other types of entities.

2. Do broker-dealers still rely on the exemptions provided in paragraphs (b)(2), (c), and/or (d) of Rule 17a-3? If so, quantify the extent to which these exemptions are relied on, and the burden associated with the Commission's proposal to eliminate these exemptions. In addition, would any system changes be needed if the exemptions provided in paragraphs (b)(2), (c), and/or (d) of Rule 17a-3 were eliminated? If so, identify, estimate, and quantify the burden(s) associated with such system changes.

3. Record Maintenance and Preservation Requirements

As discussed above, Rule 17a-4 requires a broker-dealer to preserve certain types of records if it makes or receives them. The rule also prescribes the period of time these records and the records required to be made and kept current under Rule 17a-3 must be preserved and the manner in which they must be preserved. The Commission is proposing amendments to Rule 17a-4 that are designed to account for the security-based swap activities of broker-dealers, including broker-dealer SBSDs and broker-dealer MSBSPs.²³⁰ The Commission also is proposing additional largely technical amendments to Rule 17a-4. With respect to stand-alone SBSDs, stand-alone MSBSPs, bank SBSDs, and bank MSBSPs, the Commission is proposing new Rule 18a-6—which is modeled on Rule 17a-4, as proposed to be amended—to establish record maintenance and preservation requirements for these types of registrants.

²³⁰ Broker-Dealer SBSDs and broker-dealer MSBSPs would be subject to all the record maintenance and preservation requirements applicable to broker-dealers under Rule 17a-4, as proposed to be amended, plus the additional requirements specifically applicable only to SBSDs and MSBSPs.

For the reasons discussed above in sections I. and II.A.1. of this release, proposed Rule 18a-6 does not include a parallel requirement for every requirement in Rule 17a-4.²³¹ In addition, for the reasons described in section I. of this release, the recordkeeping requirements in proposed Rule 18a-6 applicable to bank SBSDs and bank MSBSPs are more limited in scope than the requirements in the rule applicable to stand-alone SBSDs and stand-alone MSBSPs.

²³¹ The Commission is not proposing to include in proposed Rule 18a-6 requirements that would parallel the requirements in paragraphs (b)(11), (g), (h), (k), and (l) of Rule 17a-4. These requirements relate to activities that the Commission preliminarily believes would not be relevant to stand-alone SBSDs or stand-alone MSBSPs. Other requirements in Rule 17a-4 that would not be included as parallel requirements in proposed Rule 18a-6 are discussed below.

The proposed amendments to Rule 17a-4 and proposed Rule 18a-6 are discussed in more detail below.

a. Amendments to Rule 17a-4 and Proposed Rule 18a-6

Undesignated Introductory Paragraph

Rule 17a-4, as proposed to be amended, would contain an undesignated introductory paragraph explaining that the rule applies to a broker-dealer, including a broker-dealer dually registered with the Commission as an SBSD or MSBSP.²³² The note further explains that an SBSD or MSBSP that is not dually registered as a broker-dealer (i.e., a stand-alone SBSD, stand-alone MSBSP, bank SBSD, or bank MSBSP) is subject to the record maintenance and preservation requirements under proposed Rule 18a-6.²³³

²³² See undesignated introductory paragraph of Rule 17a-4, as proposed to be amended.

²³³ Id.

Similarly, proposed Rule 18a-6 would contain an undesignated introductory paragraph explaining that the rule applies to an SBSD or MSBSP that is not registered as a broker-dealer.²³⁴ The note further explains that a broker-dealer that is dually registered as an SBSD or MSBSP is subject to the record maintenance and preservation requirements under Rule 17a-4.²³⁵

²³⁴ See undesignated introductory paragraph of proposed Rule 18a-6.

²³⁵ Id.

Six Year Preservation Requirement for Certain Rule 17a-3 and Rule 18a-5 Records

Paragraph (a) of Rule 17a-4 provides that brokers-dealers subject to Rule 17a-3 must preserve for a period of not less than six years, the first two years in an easily accessible place, certain categories of records required to be made and kept current under Rule 17a-3 (the “six year preservation requirement”).²³⁶ Specifically, the six year preservation requirement applies to records required under the following paragraphs of Rule 17a-3, as proposed to be amended: Paragraph (a)(1) (trade blotters); paragraph (a)(2) (general ledgers); paragraph (a)(3) (ledgers of customer and non-customer accounts); paragraph (a)(5) (stock record); paragraph (a)(21) (person who can explain records at each office); paragraph (a)(22) (principal responsible for establishing compliance procedures); and paragraph (d) (security future product records).²³⁷ Consequently, broker-dealer SBSDs and broker-dealer MSBSPs would be required to preserve for six years the same categories of records as broker-dealers not registered as SBSDs or MSBSPs.²³⁸

²³⁶ See 17 CFR 240.17a-4(a).

²³⁷ Id. As discussed below in section II.A.3.b. of this release, the Commission is proposing technical amendments to paragraph (a) of Rule 17a-4.

²³⁸ See paragraph (a) of Rule 17a-4, as proposed to be amended.

As discussed above in section II.A.2.a. of this release, paragraphs (a) and (b) of proposed Rule 18a-5 would contain certain recordkeeping requirements that are parallel to existing requirements in Rule 17a-3. Under these parallel requirements, stand-alone SBSDs, stand-alone MSBSPs, bank SBSDs, and bank MSBSPs would need to make and keep current certain categories of records that broker-dealers must maintain under the six year preservation requirement in Rule 17a-4. Consequently, paragraph (a) of proposed Rule 18a-6 similarly would require that these categories of records must be preserved for a period of not less than six years, the first two years in an easily accessible place.²³⁹ Further, similar to paragraphs (a) and (b) of proposed Rule 18a-5, paragraph (a) of proposed Rule 18a-6 contains one set of six year preservation requirements applicable to stand-alone SBSDs and stand-alone MSBSPs and a separate set applicable to bank SBSDs and bank MSBSPs.²⁴⁰

²³⁹ See paragraph (a) of proposed Rule 18a-6.

²⁴⁰ Id.

In particular, paragraph (a)(1) of proposed Rule 18a-6 would apply to stand-alone SBSDs and stand-alone MSBSPs.²⁴¹ These registrants would be required to preserve for at least six years, the first two years in an easily accessible place, the records required to be made and kept current under the following paragraphs of proposed Rule 18a-5: Paragraph (a)(1) (trade blotters); paragraph (a)(2) (general ledgers); paragraph (a)(3) (ledgers of customer and non-customer accounts); and paragraph (a)(4) (stock record).²⁴² Paragraph (a)(2) of proposed Rule 18a-6 would apply to bank SBSDs and bank MSBSPs.²⁴³ These registrants would be required to preserve for at least six years, the first two years in an easily accessible place, the records required under the following paragraphs of proposed Rule 18a-5: Paragraph (b)(1) (trade blotters); paragraph (b)(2) (ledgers of security-based swap customers and non-customers); and paragraph (b)(3) (stock record).²⁴⁴

²⁴¹ See paragraph (a)(1) of proposed Rule 18a-6 (providing that it applies to SBSDs and MSBSPs subject to paragraph (a) of proposed Rule 18a-5).

²⁴² See paragraph (a)(1) of proposed Rule 18a-6.

²⁴³ See paragraph (a)(2) of proposed Rule 18a-6 (providing that it applies to SBSDs and MSBSPs subject to paragraph (b) of proposed Rule 18a-5).

²⁴⁴ See paragraph (a)(2) of proposed Rule 18a-6.

Three Year Preservation Requirement for Certain Rule 17a-3 and Rule 18a-5 Records

Paragraph (b) of Rule 17a-4 provides that broker-dealers subject to Rule 17a-3 must preserve for at least three years, the first two years in an easily accessible place, certain records required to be made and kept current under Rule 17a-3 (the “three year preservation requirement”).²⁴⁵ Specifically, paragraph (b)(1) of Rule 17a-4 imposes the three year preservation requirement on the records required to be made and kept current under the following paragraphs of Rule 17a-3, as proposed to be amended: Paragraph (a)(4) (certain ledgers); paragraph (a)(6) (memoranda of brokerage orders); paragraph (a)(7) (memoranda of proprietary orders); paragraph (a)(8) (confirmations); paragraph (a)(9) (accountholder information); paragraph (a)(10) (options positions); paragraph (a)(16) (internal broker-dealer system); paragraph (a)(18) (associated person complaints); paragraph (a)(19) (associated person compensation); paragraph (a)(20) (advertisement and sales literature compliance); and paragraph (e) (records of each broker-dealer office).²⁴⁶

²⁴⁵ See 17 CFR 240.17a-4(b).

²⁴⁶ Id. Currently, Rule 17a-4 does not cross-reference paragraph (a)(11) of Rule 17a-3 (trial balances and computation of net capital). See 17 CFR 240.17a-3(a)(11); 17 CFR 240.17a-4. The Commission is proposing to correct this omission by adding a cross reference to paragraph (a)(11) of Rule 17a-3 in paragraph (b)(1) of Rule 17a-4, as proposed to be amended. This would require broker-dealers to preserve these records for three years, the first two years in an easily accessible place. Based on staff experience, the Commission believes that broker-dealers have been preserving these records in a manner consistent with this proposed requirement.

The Commission is not proposing to amend or change any of the existing cross-references to Rule 17a-3 in paragraph (b)(1) of Rule 17a-4.²⁴⁷ The Commission is, however, proposing to add cross-references to certain new paragraphs that would be added to Rule 17a-3 to address security-based swap activities of broker-dealers, including broker-dealer SBSDs and broker-dealer MSBSPs. Specifically, paragraph (b)(1) of Rule 17a-4, as proposed to be amended, would apply the three year preservation requirement to the records required under the following paragraphs of Rule 17a-3, as proposed to be amended: Paragraph (a)(24) (liquidity stress test); paragraph (a)(25) (proposed Rule 18a-3 calculations); paragraph (a)(26) (compliance with proposed Rule 18a-4 possession or control requirements); paragraph (a)(27) (proposed Rule 18a-4 reserve account computations); paragraph (a)(28) (unverified transactions); paragraph (a)(29) (political contributions); and paragraph (a)(30) (compliance with external business conduct requirements).²⁴⁸

²⁴⁷ See paragraph (b)(1) of Rule 17a-4, as proposed to be amended.

²⁴⁸ Id.

As discussed above in section II.A.2.a. of this release, paragraphs (a) and (b) of proposed Rule 18a-5 would require stand-alone SBSDs, stand-alone MSBSPs, bank SBSDs, and bank MSBSPs to make and keep current certain categories of records that broker-dealers are required to make and keep current under Rule 17a-3 and certain categories of records the Commission is proposing broker-dealers be required to make and keep current under amendments to Rule 17a-3. Under these parallel requirements, stand-alone SBSDs, stand-alone MSBSPs, bank SBSDs, and bank MSBSPs would need to make and keep current certain categories of records that currently are subject to the three year preservation requirement in Rule 17a-4 or, with respect to the new categories of records, are proposed to be subject to the three year preservation requirement. Consequently, paragraph (b) of proposed Rule 18a-6 would similarly require that these categories of records be preserved for a period of not less than three years, the first two years in an easily accessible place.²⁴⁹ Further, similar to paragraph (a) of proposed Rule 18a-6, paragraph (b) would contain two sets of provisions.²⁵⁰

²⁴⁹ See paragraph (b) of proposed Rule 18a-6.

²⁵⁰ Id.

Paragraph (b)(1)(i) of proposed Rule 18a-6 would apply to stand-alone SBSDs and stand-alone MSBSPs.²⁵¹ These registrants would be required to preserve for a period of not less than three years, the first two years in an easily accessible place, the records required to be made and kept current under the following paragraphs of proposed Rule 18a-5, as applicable: Paragraph (a)(5) (memoranda of proprietary orders); paragraph (a)(6) (confirmations); paragraph (a)(7) (accountholder information); paragraph (a)(8) (options positions); paragraph (a)(9) (trial balances and computation of net capital or tangible net worth); paragraph (a)(11) (liquidity stress test); paragraph (a)(12) (proposed Rule 18a-3 calculations); paragraph (a)(13) (compliance with proposed Rule 18a-4 possession or control requirements); paragraph (a)(14) (proposed Rule 18a-4 reserve account computations); paragraph (a)(15) (unverified transactions); paragraph (a)(16) (political contributions); and paragraph (a)(17) (compliance with external business conduct requirements).²⁵²

²⁵¹ See paragraph (b)(1)(i) of proposed Rule 18a-6 (providing that it applies to SBSDs and MSBSPs subject to paragraph (a) of proposed Rule 18a-5).

²⁵² See paragraph (b)(1)(i) of proposed Rule 18a-6.

Paragraph (b)(2) of proposed Rule 18a-6 would apply to bank SBSDs and bank MSBSPs.²⁵³ These registrants would be required to preserve for a period of not less than three years, the first two years in an easily accessible place, the records required to be made and kept current under the following paragraphs of proposed Rule 18a-5, as applicable: Paragraph (b)(4) (memoranda of brokerage orders); paragraph (b)(5) (memoranda of proprietary orders); paragraph (b)(6) (confirmations); paragraph (b)(7) (accountholder information); paragraph (b)(9) (compliance with proposed Rule 18a-4 possession or control requirements); paragraph (b)(10) (proposed Rule 18a-4 reserve account computations); paragraph (b)(11) (unverified transactions); paragraph (b)(12) (political contributions); and paragraph (b)(13) (compliance with external business conduct requirements).²⁵⁴

²⁵³ See paragraph (b)(2) of proposed Rule 18a-6 (providing that it applies to SBSDs and MSBSPs subject to paragraph (b) of proposed Rule 18a-5).

²⁵⁴ See paragraph (b)(2)(i) of proposed Rule 18a-6.

Three Year Preservation Requirement for Certain Other Records

Paragraph (b) of Rule 17a-4 also provides that a broker-dealer subject to Rule 17a-3 must preserve for a period of not less than three years, the first two years in an easily accessible place, other categories of records if the broker-dealer makes or receives the record.²⁵⁵ These are not categories of records a broker-dealer is required to make and keep current under Rule 17a-3 but rather types of records that a broker-dealer may make or receive in the ordinary course of business.²⁵⁶

²⁵⁵ See 17 CFR 240.17a-4(b)(2) through (12).

²⁵⁶ Id.

As discussed in detail below, the Commission is proposing amendments to these provisions in paragraph (b) of Rule 17a-4 to account for security-based swaps, and is proposing amendments requiring that broker-dealers, including broker-dealer SBSDs and broker-dealer MSBSPs, preserve certain additional records related to security-based swap activities. Further, the Commission is proposing in paragraph (b) of proposed Rule 18a-6 that stand-alone SBSDs, stand-alone MSBSPs, bank SBSDs, and bank MSBSPs be required to preserve similar records.

In addition, paragraphs (b)(3), (b)(4), (b)(5), and (b)(7) of Rule 17a-4 require the preservation of certain types of records if they relate to the broker-dealer's business as such (i.e., as a broker-dealer).²⁵⁷ Security-based swap activities of a broker-dealer that is not registered as an SBSD or MSBSP would be part of the broker-dealer's business as such for the purposes of Rule 17a-4 just like activities relating to other types of securities. In the case of a broker-dealer SBSD or broker-dealer MSBSP, the Commission is proposing to amend paragraph (m) of Rule 17a-4 to make clear that the business as such of a broker-dealer dually registered as an SBSD or MSBSP would include the firm's business as an SBSD or MSBSP.²⁵⁸

²⁵⁷ See 17 CFR 240.17a-4(b)(3) through (5) and (b)(7).

²⁵⁸ See paragraph (m)(5) of Rule 17a-4, as proposed to be amended.

The following is a discussion of the proposed amendments to Rule 17a-4 with respect to certain other records that would be subject to the three year preservation requirement and parallel provisions that would be included in proposed Rule 18a-6.

Bank Records. Paragraph (b)(2) of Rule 17a-4 requires broker-dealers to preserve all check books, bank statements, cancelled checks, and cash reconciliations.²⁵⁹ The Commission is not proposing to amend paragraph (b)(2) of Rule 17a-4 to specifically account for security-based swaps. However, the Commission is proposing to include a parallel requirement in paragraph (b)(1) of Rule 18a-6 that would mirror paragraph (b)(2) of Rule 17a-4.²⁶⁰ In particular, paragraph (b)(1)(ii) would require stand-alone SBSDs and stand-alone MSBSPs to preserve these types of bank records.²⁶¹

²⁵⁹ See 17 CFR 240.17a-4(b)(2).

²⁶⁰ Compare paragraph (b)(1)(ii) of proposed Rule 18a-6, with 17 CFR 240.17a-4(b)(2).

²⁶¹ See paragraph (b)(1)(ii) of proposed Rule 18a-6.

Bills. Paragraph (b)(3) of Rule 17a-4 requires broker-dealers, which would include broker-dealer SBSDs and broker-dealer MSBSPs, to preserve all bills receivable or payable, paid or unpaid, relating to the business of the member, broker, or dealer.²⁶² The Commission is proposing to include a parallel requirement in paragraph (b)(1) of proposed Rule 18a-6 that would mirror paragraph (b)(3) of Rule 17a-4.²⁶³ In particular, paragraph (b)(1)(iii) of proposed Rule 18a-6 would require stand-alone SBSDs and stand-alone MSBSPs to preserve these types of bills.²⁶⁴

²⁶² See 17 CFR 240.17a-4(b)(3).

²⁶³ Compare paragraph (b)(1)(iii) of proposed Rule 18a-6, with 17 CFR 240.17a-4(b)(3).

²⁶⁴ See paragraph (b)(1)(iii) of proposed Rule 18a-6.

Communications. Paragraph (b)(4) of Rule 17a-4 requires broker-dealers to preserve originals of all communications received and copies of all communications sent (and any approvals thereof) by the broker-dealer (including inter-office memoranda and communications) relating to its business as such, including all communications which are subject to rules of an SRO of which the broker-dealer is a member regarding communications with the public.²⁶⁵ The Commission is proposing amendments to paragraph (b)(4) to account for security-based swap activities and to include parallel requirements in paragraphs (b)(1) and (b)(2) of proposed Rule 18a-6 that are modeled on paragraph (b)(4) of Rule 17a-4, as proposed to be amended.²⁶⁶

²⁶⁵ See 17 CFR 240.17a-4(b)(4). Paragraph (b)(4) of Rule 17a-4 further provides the term communications as used in the paragraph includes sales scripts. Id.

²⁶⁶ Compare paragraphs (b)(1)(iv) and (b)(2)(ii) of proposed Rule 18a-6, with paragraph (b)(4) of Rule 17a-4, as proposed to be amended.

The proposed amendments to paragraph (b)(4) of Rule 17a-4 also would implement section 15F(g)(1) of the Exchange Act.²⁶⁷ Section 15F(g)(1) provides that each registered SBSD and MSBSP shall maintain daily trading records of the security-based swaps of the registered SBSD and MSBSP and all related records (including related cash or forward transactions) and recorded communications, including electronic mail, instant messages, and recordings of telephone calls, for such period as may be required by the Commission by rule or regulation.²⁶⁸ The term communications, as used in paragraph (b)(4) of Rule 17a-4, includes all electronic communications (e.g., emails and instant messages).²⁶⁹ Moreover, communications related to daily trading of security-based swaps would be communications relating to the business as such of a broker-dealer, including a broker-dealer SBSD and broker-dealer MSBSP. Consequently, the Commission need not amend paragraph (b)(4) of Rule 17a-4 to establish a retention period applicable to broker-dealers, including broker-dealer SBSDs and broker-dealer MSBSPs, with respect to electronic mail and instant messages relating to their trading in security-based swaps.

²⁶⁷ See 15 U.S.C. 78o-10(g)(1).

²⁶⁸ Id.

²⁶⁹ See, e.g., Use of Electronic Media by Broker-Dealers, Transfer Agents, and Investment Advisers for Delivery of Information; Additional Examples Under the Securities Act of 1933, Securities Exchange Act of 1934, and Investment Company Act of 1940, Exchange Act Release No. 37182 (May 9, 1996), 61 FR 24644 (May 15, 1996), at n. 32 (“Broker-dealers also are subject to recordkeeping requirements that would be applicable to all electronic communications received and sent by the firm relating to its business”); Reporting Requirements for Brokers or Dealers Under the Securities Exchange Act of 1934, Exchange Act Release No. 38245 (Feb. 5, 1997), 62 FR 6469 (Feb. 12, 1997); Books and Records Requirements for Brokers and Dealers Under the Securities Exchange Act of 1934, 66 FR 55818, 55825 (“Paragraph (b)(4) of Rule 17a-4 previously required that each broker-dealer keep originals of all communications received and copies of all communications sent by the firm relating to its business as a broker-dealer, including inter-office memoranda and communications. With respect to memoranda, including email messages, the Commission has stated that the content and audience of the message determine whether a copy must be preserved, regardless of whether the message was sent on paper or sent electronically”).

However, the Commission has not previously interpreted the term communications to include telephonic communications. Therefore, to implement section 15F(g)(1) of the Exchange Act, the Commission is proposing to amend the preservation requirement in paragraph (b)(4) of Rule 17a-4 to include “recordings of telephone calls required to be maintained pursuant to section 15F(g)(1) of the Exchange Act.” ²⁷⁰ Under this proposed requirement, a broker-dealer SBSD or a broker-dealer MSBSP would be required to preserve for three years telephone calls that it chooses to record to the extent the calls are required to be maintained pursuant to section 15F(g)(1) of the Exchange Act.²⁷¹

²⁷⁰ See paragraph (b)(4) of Rule 17a-4, as proposed to be amended.

²⁷¹ See 15 U.S.C. 78o-10(g)(1).

The Commission is proposing to include parallel communication preservation requirements for stand-alone SBSDs, stand-alone MSBSPs, bank SBSDs, and bank MSBSPs modeled on paragraph (b)(4) of Rule 17a-4, as proposed to be amended.²⁷² The provision applicable to bank SBSDs and bank MSBSPs would limit the requirement to communications that relate to the business of an SBSD or MSBSP.²⁷³

²⁷² Compare paragraphs (b)(1)(iv) and (b)(2)(ii) of proposed Rule 18a-6, with paragraph (b)(4) of Rule 17a-4, as proposed to be amended.

²⁷³ See paragraph (b)(2)(ii) of proposed Rule 18a-6.

Trial balances. Paragraph (b)(5) of Rule 17a-4 requires broker-dealers, which would include broker-dealer SBSDs and broker-dealer MSBSPs, to preserve all trial balances, computations of aggregate indebtedness and net capital (and working papers in connection therewith), financial statements, branch office reconciliations, and internal audit working papers, relating to the firm's business as a broker-dealer.²⁷⁴ The Commission is proposing to include a parallel requirement in paragraph (b)(1) of proposed Rule 18a-6 applicable to stand-alone SBSDs and stand-alone MSBSPs that is modeled on paragraph (b)(5) of Rule 17a-4.²⁷⁵ In particular, paragraph (b)(1)(v) of proposed Rule 18a-6 would require stand-alone SBSDs and stand-alone MSBSPs to preserve similar types of records.²⁷⁶ In contrast to paragraph (b)(5) of Rule 17a-4, the provision would not refer to computations of “aggregate indebtedness” because this type of computation would not be part of the capital rule for stand-alone SBSDs or stand-alone MSBSPs.²⁷⁷ Further, to account for the proposed capital standard for stand-alone MSBSPs, the paragraph would refer to tangible net worth.²⁷⁸

²⁷⁴ See 17 CFR 240.17a-4(b)(5). As discussed below in section II.A.3.b. of this release, the Commission is proposing technical amendments to paragraph (b)(5) of proposed Rule 18a-6.

²⁷⁵ Compare paragraph (b)(1)(v) of proposed Rule 18a-6, with 17 CFR 240.17a-4(b)(5).

²⁷⁶ See paragraph (b)(1)(v) of proposed Rule 18a-6.

²⁷⁷ See paragraph (b)(1)(v) of proposed Rule 18a-6. See also Capital, Margin, and Segregation Requirements for Security-Based Swap Dealers and Major Security-Based Swap Participants and Capital Requirements for Broker-Dealers, 77 FR 70217-70256.

²⁷⁸ See paragraph (b)(1)(v) of proposed Rule 18a-6. See also Capital, Margin, and Segregation Requirements for Security-Based Swap Dealers and Major Security-Based Swap Participants and Capital Requirements for Broker-Dealers, 77 FR 70256-70257 (proposing a tangible net worth capital standard for nonbank MSBSPs). A broker-dealer MSBSP would be subject to the net capital requirements in Rule 15c3-1.

Account Documents. Paragraph (b)(6) of Rule 17a-4 requires broker-dealers, which would include broker-dealer SBSDs and broker-dealer MSBSPs, to preserve all guarantees of accounts and all powers of attorney and other evidence of the granting of any discretionary authority given in respect of any account, and copies of resolutions empowering an agent to act on behalf of a corporation.²⁷⁹ The Commission is proposing to include parallel requirements in paragraphs (b)(1) and (b)(2) of proposed Rule 18a-6 modeled on paragraph (b)(6) of Rule 17a-4.²⁸⁰ In particular, paragraphs (b)(1)(vi) and (b)(2)(iii) of proposed Rule 18a-6 would require stand-alone SBSDs, stand-alone MSBSPs, bank SBSDs, and bank MSBSPs, respectively, to preserve similar types of records, but only with respect to security-based swap accounts.²⁸¹ For example, under the proposal, bank SBSDs and bank MSBSPs would not be required to maintain these records with respect to accounts involving exclusively banking related services.

²⁷⁹ See 17 CFR 240.17a-4(b)(6).

²⁸⁰ Compare paragraphs (b)(1)(vi) and (b)(2)(iii) of proposed Rule 18a-6, with 17 CFR 240.17a-4(b)(6).

²⁸¹ See paragraphs (b)(1)(vi) and (b)(2)(iii) of proposed Rule 18a-6.

Written Agreements. Paragraph (b)(7) of Rule 17a-4 requires a broker-dealer to preserve all written agreements (or copies thereof) entered into by such broker-dealer relating to its business as such, including agreements with respect to any account.²⁸² The Commission is proposing amendments to paragraph (b)(7) of Rule 17a-4 to account for security-based swaps and to include parallel requirements in paragraphs (b)(1) and (b)(2) of proposed Rule 18a-6 modeled on paragraph (b)(7) of Rule 17a-4, as proposed to be amended.²⁸³ The amendments to paragraph (b)(7) of Rule 17a-4 would establish a preservation requirement that written agreements with respect to a security-based swap customer or non-customer, including governing documents or any document establishing the terms and conditions of such person's securities-based swaps, must be maintained with such person's account records.²⁸⁴ This provision is designed to facilitate the examination of the broker-dealer by requiring it to maintain these records together.

²⁸² See 17 CFR 240.17a-4(b)(7).

²⁸³ Compare paragraphs (b)(1)(vii) and (b)(2)(iv) of proposed Rule 18a-6, with paragraph (b)(7) of Rule 17a-4, as proposed to be amended.

²⁸⁴ See paragraph (b)(7) of Rule 17a-4, as proposed to be amended.

The parallel requirements in proposed Rule 18a-6 would require stand-alone SBSDs, stand-alone MSBSPs, bank SBSDs, and bank MSBSPs to preserve similar types of records and include the same preservation requirement.²⁸⁵ The provision applicable to bank SBSDs and bank MSBSPs would limit the preservation requirement to written agreements relating to the registrant's business as an SBSD or MSBSP.²⁸⁶

²⁸⁵ See paragraphs (b)(1)(vii) and (b)(2)(iv) of proposed Rule 18a-6.

²⁸⁶ See paragraph (b)(2)(iv) of proposed Rule 18a-6.

Information Supporting Financial Reports. Paragraph (b)(8) of Rule 17a-4 requires a broker-dealer to preserve records containing various types of information that support amounts included in the broker-dealer's FOCUS Report prepared as of the broker-dealer's audit date and amounts in the annual audited financial statements the broker-dealer is required to file under Rule 17a-5 or Rule 17a-12, as applicable.²⁸⁷ The paragraph specifically identifies the types of supporting information that needs to be preserved, including money balances, securities positions, futures positions, commodity positions, and options positions, among other things.²⁸⁸ The Commission is proposing amendments to paragraph (b)(8) of Rule 17a-4 to account for swap and security-based swap activities of broker-dealers, including broker-dealer SBSDs and broker-dealer MSBSPs, and to include parallel requirements applicable to stand-alone SBSDs and stand-alone MSBSPs in paragraph (b)(1) of proposed Rule 18a-6 modeled on paragraph (b)(8) of Rule 17a-4, as proposed to be amended.²⁸⁹

²⁸⁷ See 17 CFR 240.17a-4(b)(8); 17 CFR 240.17a-5; 17 CFR 240.17a-12. Rule 17a-12 prescribes reporting requirements for OTC derivatives dealers that are similar to the reporting requirements in Rule 17a-5 applicable to broker-dealers. Compare 17 CFR 240.17a-12, with 17 CFR 240.17a-5.

²⁸⁸ See 17 CFR 240.17a-4(b)(8)(i) through (xv).

²⁸⁹ Compare paragraph (b)(1)(viii) of proposed Rule 18a-6, with paragraph (b)(8) of Rule 17a-4, as proposed to be amended.

The amendments to paragraph (b)(8) of Rule 17a-4 would add a reference to proposed Form SBS in the introductory text after references to certain parts of the FOCUS Report.²⁹⁰ Thus, broker-dealer SBSDs and broker-dealer MSBSPs—which would file proposed Form SBS rather than the FOCUS Report—would need to preserve information in support of proposed Form SBS. Further, the amendments to paragraph (b)(8) of Rule 17a-4 would add the phrase “or swaps” after the phrase “commodity contracts” and the phrase “and swap” after the term “commodity” wherever they appear in the paragraph.²⁹¹ This would require broker-dealers, including broker-dealer SBSDs and broker-dealer MSBSPs, to preserve the same type of supporting information with respect to swap positions as is required with respect to commodity positions.

²⁹⁰ See paragraph (b)(8) of Rule 17a-4, as proposed to be amended.

²⁹¹ See paragraphs (b)(8)(v) through (viii) of Rule 17a-4, as proposed to be amended.

Paragraph (b)(8)(xiii) of Rule 17a-4 requires broker-dealers to preserve records containing detail relating to information for possession or control requirements under Rule 15c3-3 and reported on a schedule to certain parts of the FOCUS Report.²⁹² As noted above in section II.A.2.a. of this release, Rule 15c3-3 requires a carrying broker-dealer to maintain physical possession or control over customers' fully paid and excess margin securities.²⁹³ The Commission has proposed a parallel requirement in proposed Rule 18a-4 that would apply to SBSDs with respect to their security-based swap customers.²⁹⁴ Moreover, as discussed below in section II.B.2.b. of this release, the Commission is proposing that SBSDs report information relating to possession or control requirements in proposed Form SBS. Consequently, the Commission is proposing to amend paragraph (b)(8) of Rule 17a-4 by adding a new paragraph that is modeled on paragraph (b)(8)(xiii) of Rule 17a-4 but that relates to the possession or control requirements in proposed Rule 18a-4 instead of the possession or control requirements in Rule 15c3-3.²⁹⁵ Thus, broker-dealer SBSDs would be required to preserve records that contain detail relating to information for possession or control requirements under Rule 18a-4 and reported on proposed Form SBS.

²⁹² See 17 CFR 240.17a-4(b)(8)(xiii).

²⁹³ See 17 CFR 240.15c3-3.

²⁹⁴ See Capital, Margin, and Segregation Requirements for Security-Based Swap Dealers and Major Security-Based Swap Participants and Capital Requirements for Broker-Dealers, 77 FR 70278-70282.

²⁹⁵ Compare paragraph (b)(8)(xiii) of Rule 17a-4, as proposed to be amended, with 17 CFR 240.17a-4(b)(8)(xiii).

Finally, the Commission's proposed capital requirements for nonbank SBSDs would require these registrants to maintain minimum net capital of not less than the greater of a fixed-dollar amount or a ratio amount.²⁹⁶ The ratio amount for a broker-dealer SBSD would be the sum of the current ratio amount prescribed in Rule 15c3-1 and an amount equal to 8% of the firm's risk margin amount (“8% margin factor”).²⁹⁷ The ratio amount for a stand-alone SBSD would be an amount equal to the 8% margin factor.²⁹⁸ The term risk margin amount would be defined as the sum of: (1) The greater of the total margin required to be delivered by the nonbank SBSD with respect to security-based swap transactions cleared for security-based swap customers at a clearing agency or the amount of the deductions that would apply to the cleared security-based swap positions of the security-based swap customers pursuant to paragraph (c)(1)(vi) of Rule 18a-1; and (2) the total margin amount calculated by the stand-alone SBSD with respect to non-cleared security-based swaps pursuant to proposed new Rule 18a-3.²⁹⁹ Accordingly, to determine its minimum net capital requirement, a nonbank SBSD would need to calculate the amount equal to the 8% margin factor.³⁰⁰ The Commission is proposing to amend paragraph (b)(8) of Rule 17a-4 by adding a new paragraph that would require a broker-dealer SBSD to preserve records that contain detail relating to the calculation of the risk margin amount.³⁰¹

²⁹⁶ See Capital, Margin, and Segregation Requirements for Security-Based Swap Dealers and Major Security-Based Swap Participants and Capital Requirements for Broker-Dealers, 77 FR 70221-70229. The fixed-dollar amount applicable to nonbank SBSDs, other than ANC broker-dealer SBSDs, would be $20 million. The fixed dollar amount applicable to ANC broker-dealer SBSDs would be $1 billion. Id. In addition, stand-alone ANC SBSDs would be subject to a $100 million minimum tentative net capital requirement and ANC broker-dealer SBSDs would be subject to a $5 billion minimum tentative net capital requirement. Id.

²⁹⁷ Id. Rule 15c3-1 prescribes two financial ratio requirements. See 17 CFR 240.15c3-1(a)(1). The first financial ratio requirement provides that a broker-dealer must not permit its aggregate indebtedness to all other persons to exceed 1500% of its net capital (i.e., a 15-to-1 aggregate indebtedness to net capital requirement). See 17 CFR 240.15c3-1(a)(1)(i). Stated another way, the broker-dealer must maintain, at a minimum, an amount of net capital equal to 1/15th (or 6.67%) of its aggregate indebtedness. This financial ratio generally is used by smaller broker-dealers that do not hold customer securities and cash and is the default financial ratio requirement that all broker-dealers must apply unless they affirmatively elect to be subject to the second financial ratio requirement by notifying their designated examining authority (“DEA”) of the election. See 17 CFR 240.15c3-1(a)(1)(i) and (ii). The second financial ratio requirement provides that a broker-dealer must not permit its net capital to be less than 2% of aggregate debit items (i.e., customer-related obligations to the broker-dealer). See 17 CFR 240.15c3-1(a)(1)(ii). Customer debit items—computed pursuant to Rule 15c3-3—consist of, among other things, margin loans to customers and securities borrowed by the broker-dealer to effectuate deliveries of securities sold short by customers. See 17 CFR 240.15c3-3; 17 CFR 240.15c3-3a. This ratio generally is used by larger broker-dealers that hold customer securities and funds.

²⁹⁸ See Capital, Margin, and Segregation Requirements for Security-Based Swap Dealers and Major Security-Based Swap Participants and Capital Requirements for Broker-Dealers, 77 FR 70221-70229. Neither the 15-to-1 aggregate indebtedness to net capital ratio nor the 2% of aggregate debit items ratio would be applicable to stand-alone SBSDs. Id.

²⁹⁹ Id. at 70223.

³⁰⁰ Id. at 70221-70229.

³⁰¹ See paragraph (b)(8)(xvi) of Rule 17a-4, as proposed to be amended.

As indicated above, the Commission is proposing to include a parallel requirement in paragraph (b)(1) of proposed Rule 18a-6, which is modeled on paragraph (b)(8) of Rule 17a-4, as proposed to be amended.³⁰² Thus, stand-alone SBSDs and stand-alone MSBSPs would be required to preserve similar types of records, as applicable, containing information supporting their financial reports.³⁰³

³⁰² Compare paragraph (b)(1)(viii) of proposed Rule 18a-6, with paragraph (b)(8) of Rule 17a-4, as proposed to be amended. More specifically: (1) Paragraph (b)(1)(viii)(A) of proposed Rule 18a-6 would be modeled on paragraph (b)(8)(i) of Rule 17a-4, as proposed to be amended, except the former would refer to security-based swap customers rather than customers and not contain a reference to cash accounts; (2) paragraph (b)(1)(viii)(B) of proposed Rule 18a-6 would be modeled on paragraph (b)(8)(ii) of Rule 17a-4, as proposed to be amended, except the former would refer to security-based swap non-customers instead of non-customers and to security-based swap accounts instead of securities accounts, and not contain a reference to cash accounts; (3) paragraph (b)(1)(viii)(C) of proposed Rule 18a-6 would mirror paragraph (b)(8)(iii) of Rule 17a-4, as proposed to be amended; (4) paragraph (b)(1)(viii)(D) of proposed Rule 18a-6 would mirror paragraph (b)(8)(v) of Rule 17a-4, as proposed to be amended; (5) paragraph (b)(1)(viii)(E) of proposed Rule 18a-6 would mirror paragraph (b)(8)(vi) of Rule 17a-4, as proposed to be amended; (6) paragraph (b)(1)(viii)(F) of proposed Rule 18a-6 would mirror paragraph (b)(8)(vii) of Rule 17a-4, as proposed to be amended; (7) paragraph (b)(1)(viii)(G) of proposed Rule 18a-6 would mirror paragraph (b)(8)(viii) of Rule 17a-4, as proposed to be amended; (8) paragraph (b)(1)(viii)(H) of proposed Rule 18a-6 would mirror paragraph (b)(8)(ix) of Rule 17a-4, as proposed to be amended; (9) paragraph (b)(1)(viii)(I) of proposed Rule 18a-6 would mirror paragraph (b)(8)(x) of Rule 17a-4, as proposed to be amended; (10) paragraph (b)(1)(viii)(J) of proposed Rule 18a-6 would mirror paragraph (b)(8)(xi) of Rule 17a-4, as proposed to be amended; (11) paragraph (b)(1)(viii)(K) of proposed Rule 18a-6 would be modeled on paragraph (b)(8)(xii) of Rule 17a-4, as proposed to be amended, except the former would refer to proposed Rule 18a-1 (the proposed capital rule for stand-alone SBSDs) rather than Rule 15c3-1 (the broker-dealer capital rule); (12) paragraph (b)(1)(viii)(L) of proposed Rule 18a-6 would mirror paragraph (b)(8)(xiv) of Rule 17a-4, as proposed to be amended; (13) paragraph (b)(1)(viii)(M) of proposed Rule 18a-6 would be modeled on paragraph (b)(8)(xv) of Rule 17a-4, as proposed to be amended, except the former would refer to proposed Rule 18a-1 and proposed Rule 18a-2 (the proposed tangible net worth rule for nonbank MSBSPs) rather than Rule 15c3-1; (14) paragraph (b)(1)(viii)(N) of proposed Rule 18a-6 would be modeled on paragraph (b)(8)(xvi) of Rule 17a-4, as proposed to be amended, except the former would refer to proposed Rule 18a-1 rather than Rule 15c3-1; and (15) paragraph (b)(1)(viii)(O) of proposed Rule 18a-6 would be modeled on paragraph (b)(8)(xvii) of Rule 17a-4, as proposed to be amended, except the former would refer to proposed Rule 18a-7 (the proposed reporting rule for nonbank SBSDs and nonbank MSBSPs) rather than Rule 17a-5 (the broker-dealer reporting rule) and Rule 17a-12 (the OTC derivatives dealer reporting rule). The Commission is not proposing to include in paragraph (b)(1)(viii) of proposed Rule 18a-6 provisions that would be analogous to paragraphs (b)(8)(iv) and (b)(8)(xiii) of Rule 17a-4, as proposed to be amended. Paragraph (b)(8)(iv) relates to a provision in Rule 15c3-1 for which there is not a parallel provision in proposed Rule 18a-1. See Capital, Margin, and Segregation Requirements for Security-Based Swap Dealers and Major Security-Based Swap Participants and Capital Requirements for Broker-Dealers, 77 FR 70255-70256. Paragraph (b)(8)(xiii) relates to Rule 15c3-3, which does not apply to stand-alone SBSDs or stand-alone MSBSPs. Id. at 70274-70288.

³⁰³ See paragraphs (b)(1)(vii) and (b)(2)(iv) of proposed Rule 18a-6.

The Commission is proposing a preservation requirement for bank SBSDs that would require these registrants to preserve the same types of records related to Rule 18a-4 that broker-dealer SBSDs would need to preserve under paragraph (b)(8)(xiv) of Rule 17a-4, as proposed to be amended, and that stand-alone SBSDs would be required to preserve under paragraph (b)(1)(viii)(L) of proposed Rule 18a-6.³⁰⁴ Specifically, bank SBSDs would be required to preserve records containing detail relating to information for possession or control requirements under proposed Rule 18a-4 and reported on proposed Form SBS that is in support of amounts included in the report prepared as of the audit date on proposed Form SBS and in annual audited financial statements required by proposed Rule 18a-7.³⁰⁵

³⁰⁴ Compare paragraph (b)(2)(v) of proposed Rule 18a-6, with paragraph (b)(8)(xiv) of Rule 17a-4, as proposed to be amended, and paragraph (b)(1)(viii)(L) of proposed Rule 18a-6.

³⁰⁵ See paragraph (b)(2)(v) of proposed Rule 18a-6.

Rule 15c3-4 Risk Management Records. OTC derivatives dealers and ANC broker-dealers are required to comply with Rule 15c3-4.³⁰⁶ This rule requires these types of broker-dealers to establish, document, and maintain a system of internal risk management controls to assist in managing the risks associated with the firm's business activities, including market, credit, leverage, liquidity, legal, and operational risks.³⁰⁷ The rule also requires periodic reviews (which may be performed by internal audit staff) and annual reviews (which must be conducted by independent certified public accountants) of the firm's risk management systems.³⁰⁸ Paragraph (b)(10) of Rule 17a-4 requires broker-dealers subject to Rule 15c3-4 (i.e., OTC derivatives dealers and ANC broker-dealers) to preserve the records required to be made under the rule and the results of the periodic reviews required to be conducted under the rule.³⁰⁹ The Commission has proposed that nonbank SBSDs and nonbank MSBSPs be required to comply with Rule 15c3-4.³¹⁰ Consequently, nonbank SBSDs and nonbank MSBSPs should be required to preserve the same types of records relating to Rule 15c3-4 as ANC broker-dealers and OTC derivatives dealers.³¹¹

³⁰⁶ See 17 CFR 240.15c3-4. See also OTC Derivatives Dealers, 63 FR 59362; Alternative Net Capital Requirements for Broker-Dealers That Are Part of Consolidated Supervised Entities, and Exchange Act Release No. 49830 (June 8, 2004), 69 FR 34428 (June 21, 2004).

³⁰⁷ See 17 CFR 240.15c3-4.

³⁰⁸ See 17 CFR 240.15c3-4(c)(3). The annual review must be conducted in accordance with procedures agreed to by the firm and the independent public accountant conducting the review.

³⁰⁹ See 17 CFR 240.17a-4(b)(10).

³¹⁰ See Capital, Margin, and Segregation Requirements for Security-Based Swap Dealers and Major Security-Based Swap Participants and Capital Requirements for Broker-Dealers, 77 FR 70250-70251.

³¹¹ See paragraph (b)(1)(ix) of proposed Rule 18a-6.

Paragraph (b)(10) of Rule 17a-4 applies the preservation requirements for records relating to Rule 15c3-4 to broker-dealers, which includes broker-dealer SBSDs and broker-dealer MSBSPs.³¹² The Commission is proposing to include a parallel requirement in paragraph (b)(1) of proposed Rule 18a-6 applicable to stand-alone SBSDs and stand-alone MSBSPs that would mirror paragraph (b)(10) of Rule 17a-4.³¹³ In particular, paragraph (b)(1)(ix) of proposed Rule 18a-6 would require stand-alone SBSDs and stand-alone MSBSPs to preserve the records required to made under Rule 15c3-4 and the results of the periodic reviews required to be conducted under the rule.³¹⁴ The Commission did not propose that bank SBSDs and bank MSBSPs comply with Rule 15c3-4.³¹⁵ Consequently, the Commission is not proposing a parallel record preservation requirement for these registrants.

³¹² See 17 CFR 240.17a-4(b)(10).

³¹³ Compare 17 CFR 240.17a-4(b)(10), with paragraph (b)(1)(ix) of proposed Rule 18a-6.

³¹⁴ See paragraph (b)(1)(ix) of proposed Rule 18a-6.

³¹⁵ See 15 U.S.C. 78o-10(d)(2)(A) (providing that the Commission may not prescribe rules imposing prudential requirements on SBSDs and MSBSPs for which there is a prudential regulator).

Credit Risk Determinations. Under Appendix E to Rule 15c3-1, ANC broker-dealers are permitted to add back to net worth uncollateralized receivables from counterparties arising from OTC derivatives transactions when computing net capital.³¹⁶ Instead of the 100% deduction that applies to most unsecured receivables under Rule 15c3-1, ANC broker-dealers are permitted to take a credit risk charge based on the uncollateralized credit exposure to the counterparty.³¹⁷ In most cases, the credit risk charge is significantly less than a 100% deduction, since it is a percentage of the amount of the receivable that otherwise would be deducted in full. The Commission has proposed that this treatment be narrowed under proposed amendments to the capital requirements for ANC broker-dealers so that it would apply only to uncollateralized receivables from commercial end users arising from security-based swaps (i.e., uncollateralized receivables from other types of counterparties would be subject to the 100% deduction from net worth).³¹⁸ In addition, the proposed capital requirements for nonbank SBSDs permitted to use internal models to calculate market and credit risk charges when computing net capital (i.e., ANC broker-dealer SBSDs and stand-alone ANC SBSDs) similarly would allow these registrants to take credit risk charges with respect to uncollateralized receivables but only from commercial end users arising from security-based swaps.³¹⁹

³¹⁶ See 17 CFR 240.15c3-1e(c). OTC derivatives dealers are permitted to treat such uncollateralized receivables in a similar manner. See 17 CFR 240.15c3-1f.

³¹⁷ See 17 CFR 240.15c3-1(a)(7); 17 CFR 240.15c3-1e(c).

³¹⁸ See Capital, Margin, and Segregation Requirements for Security-Based Swap Dealers and Major Security-Based Swap Participants and Capital Requirements for Broker-Dealers, 77 FR 70240-70245.

³¹⁹ See id.

The method for computing the credit risk charge is set forth in Appendix E of Rule 15c3-1.³²⁰ Among other things, the amount of the credit risk charge is based on the creditworthiness of the counterparty.³²¹ Paragraphs (c)(4)(vi)(D) and (E) of Appendix E of Rule 15c3-1 require ANC broker-dealers to make and keep current records relating to the bases of their internal credit assessments of counterparties for purposes of the credit risk charge.³²² The Commission has proposed a parallel requirement for stand-alone ANC SBSDs.³²³ Paragraph (b)(12) of Rule 17a-4 requires ANC broker-dealers—and would require ANC broker-dealer SBSDs—to preserve the records required under paragraphs (c)(4)(vi)(D) and (E) of Appendix E of Rule 15c3-1 in accordance with Rule 17a-4.³²⁴ The Commission is proposing to include a parallel requirement in paragraph (b)(1) of proposed Rule 18a-6 applicable to stand-alone ANC SBSDs that is modeled on paragraph (b)(12) of Rule 17a-4.³²⁵ Consequently, stand-alone ANC SBSDs would be required to preserve the same types of records required to be made under proposed Rule 18a-1.

³²⁰ See 17 CFR 240.15c3-1e(c).

³²¹ See id. Consistent with section 939A of the Dodd-Frank Act, the Commission recently adopted amendments eliminating the use of credit ratings of nationally recognized statistical rating organizations for the purposes of determining the credit risk charges under Appendix E. See Public Law 111-203, 939A; Removal of Certain References to Credit Ratings Under the Securities Exchange Act of 1934, Exchange Act Release No. 71194 (Dec. 27, 2013), 79 FR 1522 (Jan. 8, 2014). Consequently, an ANC broker-dealer must use internal credit assessments to determine the credit risk charges (as would an ANC broker-dealer SBSD). See also Capital, Margin, and Segregation Requirements for Security-Based Swap Dealers and Major Security-Based Swap Participants and Capital Requirements for Broker-Dealers, 77 FR 70240-70245 (proposing that stand-alone ANC SBSDs must use internal credit assessments for purposes of determining credit risk changes).

³²² See 17 CFR 240.15c3-1e(c)(4)(vi)(D) and (E).

³²³ See Capital, Margin, and Segregation Requirements for Security-Based Swap Dealers and Major Security-Based Swap Participants and Capital Requirements for Broker-Dealers, 77 FR 70340 (setting forth the text of paragraphs (e)(2)(iv)(F)(1) and (2) of proposed Rule 18a-1).

³²⁴ See 17 CFR 240.17a-4(b)(12).

³²⁵ See paragraph (b)(1)(x) of proposed Rule 18a-6.

Regulation SBSR. Section 13A(a)(1) of the Exchange Act provides that all security-based swaps that are not accepted for clearing shall be subject to regulatory reporting.³²⁶ Section 13(m)(1)(G) of the Exchange Act ³²⁷ provides that each security-based swap (whether cleared or uncleared) shall be reported to a registered swap data repository, and section 13(m)(1)(C) of the Exchange Act ³²⁸ generally provides that transaction, volume, and pricing data of all security-based swaps shall be publicly disseminated in real time, except in the case of block trades.³²⁹ On November 19, 2010, the Commission proposed Regulation SBSR to implement these requirements.³³⁰ On May 1, 2013, the Commission re-proposed Regulation SBSR as part of its release on cross-border security-based swap activities.³³¹

³²⁶ See 15 U.S.C. 78m-1(a)(1).

³²⁷ See 15 U.S.C. 78m(m)(1)(G).

³²⁸ See 15 U.S.C. 78m(m)(1)(C).

³²⁹ Section 13(m)(1)(E) of the Exchange Act provides, among other things, that, with respect to cleared security-based swaps, the rule promulgated by the Commission related to public dissemination shall contain provisions that specify the criteria for determining what constitutes a large notional security-based swap transaction (block trade) for particular markets and contracts and specify the appropriate time delay for reporting large notional security-based swap transactions (block trades) to the public. 15 U.S.C. 78m(m)(1)(E).

³³⁰ See Regulation SBSR—Reporting and Dissemination of Security-Based Swap Information, 75 FR 75208.

³³¹ See Cross-Border Security-Based Swap Activities, Re-Proposal of Regulation SBSR and Certain Rules and Forms Relating to the Registration of Security-Based Swap Dealers and Major Security-Based Swap Participants, 78 FR 30968.

Re-proposed Regulation SBSR would assign to one side of a security-based swap transaction the duty to report the transaction to a registered swap data repository.³³² Although any type of counterparty could in theory become a reporting side, re-proposed Regulation SBSR includes a reporting hierarchy that would assign the duty primarily to SBSDs and MSBSPs. In addition, re-proposed Regulation SBSR would require SBSDs and MSBSPs to establish, maintain, and enforce written policies and procedures that are reasonably designed to ensure that such entities comply with any security-based swap transaction reporting obligations.³³³

³³² See Regulation SBSR—Reporting and Dissemination of Security-Based Swap Information, 75 FR 75208.

³³³ See id.

The Commission is proposing to amend paragraph (b) of Rule 17a-4 to add a requirement that broker-dealers, including broker-dealer SBSDs and broker-dealer MSBSPs, preserve the information they are required to submit to a registered swap data repository under Regulation SBSR.³³⁴ In addition, the Commission is proposing to include parallel requirements in paragraphs (b)(1) and (b)(2) of proposed Rule 18a-6.³³⁵ Consequently, stand-alone SBSDs, stand-alone MSBSPs, bank SBSDs, and bank MSBSPs would be required to preserve the same types of records.³³⁶

³³⁴ See paragraph (b)(14) of Rue 17a-4, as proposed to be amended.

³³⁵ Compare paragraph (b)(14) of Rule 17a-4, as proposed to be amended, with paragraphs (b)(1)(xi) and (b)(2)(vi) of proposed Rule 18a-6.

³³⁶ See paragraphs (b)(1)(xi) and (b)(2)(vi) of proposed Rule 18a-6.

Records Relating to Business Conduct Standards. As discussed above in section II.A.2.a. of this release, the Commission has proposed Rules 15Fh-1 through 15Fh-6 and Rule 15Fk-1.³³⁷ These rules, among other things, would require SBSDs and MSBSPs to make certain disclosures, provide certain notices, and make other records.³³⁸ The Commission is proposing to amend paragraph (b) of Rule 17a-4 to add a requirement that broker-dealer SBSDs and broker-dealer MSBSPs preserve copies of documents, communications, and notices related to business conduct standards as required under Rules 15Fh-1 through 15Fh-6 and Rule 15Fk-1.³³⁹ In addition, the Commission is proposing to include parallel requirements in paragraphs (b)(1) and (b)(2) of proposed Rule 18a-6.³⁴⁰ Consequently, stand-alone SBSDs, stand-alone MSBSPs, bank SBSDs, and bank MSBSPs would be required to preserve the same types of records.³⁴¹

³³⁷ See Business Conduct Standards for Security-Based Swap Dealers and Major Security-Based Swap Participants, 76 FR 42396.

³³⁸ See id.

³³⁹ See paragraph (b)(15) of Rule 17a-4, as proposed to be amended.

³⁴⁰ Compare paragraph (b)(15) of Rule 17a-4, as proposed to be amended, with paragraphs (b)(1)(xii) and (b)(2)(vii) of proposed Rule 18a-6.

³⁴¹ See paragraphs (b)(1)(xii) and (b)(2)(vii) of proposed Rule 18a-6.

Section 15F(h)(4)(C) of the Exchange Act imposes duties on SBSDs that act as advisors to special entities.³⁴² Proposed Rule 15Fh-2(a) would provide an exclusion to the definition of acting as an advisor to a special entity.³⁴³ To fall within the exclusion, the SBSD would be required to obtain a written representation from the special entity that it will not rely on recommendations provided by the SBSD, and that the special entity will rely on advice from a qualified independent representative (as defined in proposed Rule 15F-5(a)).³⁴⁴ The SBSD also would be required to have a reasonable basis to believe that the special entity is advised by a qualified independent representative (as defined in proposed Rule 15F-5(a)), and the SBSD would be required to disclose to the special entity that it is not undertaking to act in the best interest of the special entity as otherwise required by section 15F(h)(4) of the Exchange Act.³⁴⁵

³⁴² See 15 U.S.C. 78o-10(h)(4)(C).

³⁴³ See Business Conduct Standards for Security-Based Swap Dealers and Major Security-Based Swap Participants, 76 FR 42424.

³⁴⁴ See id.

³⁴⁵ See id.

If an SBSD is acting as an advisor to a special entity, section 15F(h)(4)(C) and proposed Rule 15Fh-4(b) would require the SBSD to make reasonable efforts to obtain such information as it considers necessary to make a reasonable determination that a security-based swap or trading strategy involving a security-based swap is in the best interests of the special entity.³⁴⁶ The information that would be required to be collected to make this determination includes, but is not limited to: The authority of the special entity to enter into the transaction; the financial status and future funding needs of the special entity; the tax status of the special entity; the investment or financing objectives of the special entity; the experience of the special entity with respect to security-based swap transactions generally and of the type and complexity being recommended; whether the special entity has the financial capability to withstand changes in market conditions during the term of the security-based swap; and other relevant information.³⁴⁷

³⁴⁶ See 15 U.S.C. 78o-10(h)(4)(C); Business Conduct Standards for Security-Based Swap Dealers and Major Security-Based Swap Participants, 76 FR 42423-42424.

³⁴⁷ See Business Conduct Standards for Security-Based Swap Dealers and Major Security-Based Swap Participants, 76 FR 42423-42424.

Section 15F(h)(5)(A) and proposed Rule 15Fh-5 would require an SBSD or MSBSP that is acting as a counterparty to a special entity to have a reasonable basis to believe that the special entity has an independent representative that is independent of the SBSD or MSBSP and that meets certain specified qualifications, including that the independent representative:

• Has sufficient knowledge to evaluate the transaction and related risks;

• is not subject to a statutory disqualification;

• undertakes a duty to act in the best interests of the special entity;

• makes appropriate and timely disclosures to the special entity of material information concerning the security-based swap;

• will provide written representations to the special entity regarding fair pricing and appropriateness of the security-based swap;

• in the case of employee benefit plans subject to the Employee Retirement Income Security Act of 1974 (“ERISA”), is a fiduciary as defined in section 3(21) of ERISA; and

• in the case of a State, State agency, city, county, municipality, other political subdivision of a State, or governmental plan, is subject to restrictions on certain political contributions.³⁴⁸

³⁴⁸ See id. at 42428, n. 224.

The Commission is proposing to amend paragraph (b) of Rule 17a-4 to add a requirement that broker-dealer SBSDs and broker-dealer MSBSPs preserve records relating to the determinations made pursuant to section 15F(h)(4)(C) and section 15F(h)(5)(A) of the Exchange Act.³⁴⁹ In addition, the Commission is proposing to include parallel requirements in paragraphs (b)(1) and (b)(2) of proposed Rule 18a-6.³⁵⁰ Consequently, stand-alone SBSDs, stand-alone MSBSPs, bank SBSDs, and bank MSBSPs would be required to preserve the same types of records.³⁵¹

³⁴⁹ See paragraph (b)(16) of Rue 17a-4, as proposed to be amended.

³⁵⁰ Compare paragraph (b)(16) of Rule 17a-4, as proposed to be amended, with paragraphs (b)(1)(xiii) and (b)(2)(viii) of proposed Rule 18a-6.

³⁵¹ See paragraphs (b)(1)(xiii) and (b)(2)(viii) of proposed Rule 18a-6.

Corporate Documents

Paragraph (d) of Rule 17a-4 requires broker-dealers to preserve during the life of the enterprise corporate documents such as articles of incorporation, minute books, and stock certificate books.³⁵² It also requires broker-dealers to preserve during the life of the enterprise registration and licensing information such as all Forms BD, Forms BDW, and licenses or other documentation showing registration with a securities regulatory authority.³⁵³ The Commission is proposing to amend paragraph (d) of Rule 17a-4 to add references to proposed Form SBSE-BD and proposed Form SBSE-W.³⁵⁴ Forms SBSE and SBSE-W are the registration and withdrawal of registration forms, respectively, the Commission has proposed for broker-dealer SBSDs and broker-dealer MSBSPs.³⁵⁵

³⁵² See 17 CFR 240.17a-4(d).

³⁵³ See id.

³⁵⁴ See paragraph (d) of Rule 17a-4, as proposed to be amended.

³⁵⁵ See Registration of Security-Based Swap Dealers and Major Security-Based Swap Participants, Exchange Act Release No. 65543 (Oct. 12, 2011), 76 FR 65784 (Oct. 24, 2011).

The Commission is proposing to include a parallel requirement in paragraph (c) of proposed Rule 18a-6 that is modeled on paragraph (d) of Rule 17a-4, as proposed to be amended.³⁵⁶ This would require stand-alone SBSDs, stand-alone MSBSPs, bank SBSDs, and bank MSBSPs to preserve the same types of records during the life of the enterprise.³⁵⁷ Paragraph (c) of proposed Rule 18a-6 would reference proposed Form SBSE and proposed Form SBSE-A rather than proposed Form SBSE-BD because these are the registration forms that the Commission has proposed for SBSDs and MSBSPs that are not dually registered as broker-dealers.³⁵⁸

³⁵⁶ Compare paragraph (d) of Rule 17a-4, as proposed to be amended, with paragraph (c) of proposed Rule 18a-6.

³⁵⁷ See paragraph (c) of proposed Rule 18a-6.

³⁵⁸ See Registration of Security-Based Swap Dealers and Major Security-Based Swap Participants, 76 FR 65802-65807.

Associated Persons

As discussed above in section II.A.2.a. of this release, paragraph (a)(12) of Rule 17a-3 requires broker-dealers, which would include broker-dealer SBSDs and broker-dealer MSBSPs, to make and keep current records of information about associated persons of the broker-dealer.³⁵⁹ The Commission is proposing to include parallel requirements in Rule 18a-5 to require stand-alone SBSDs, stand-alone MSBSPs, bank SBSDs, and bank MSBSPs to make and keep current the same types of records.³⁶⁰ Paragraph (e)(1) of Rule 17a-4 requires broker-dealers to maintain and preserve these records in an easily accessible place until at least three years after the associated person's employment and any other connection with the broker-dealer has terminated.³⁶¹ The Commission is proposing to include a parallel record maintenance and preservation requirement in proposed Rule 18a-6 that would apply to the associated person records that stand-alone SBSDs, stand-alone MSBSPs, bank SBSDs, and bank MSBSPs would be required to make and keep current.³⁶²

³⁵⁹ See 17 CFR 240.17a-3(a)(12). As discussed below in section II.A.3.b. of this release, the Commission is proposing technical amendments to this paragraph.

³⁶⁰ See paragraphs (a)(10) and (b)(8) of proposed Rule 18a-5.

³⁶¹ See 17 CFR 240.17a-4(e)(1).

³⁶² Compare 17 CFR 240.17a-4(e)(1), with paragraph (d)(1) of proposed Rule 18a-6. Paragraph (h)(2) of proposed Rule 18a-6 would define the term associated person to have the same meaning as that term is defined in paragraph (c) of proposed Rule 18a-5.

Regulatory Authority Reports

Paragraph (e)(6) of Rule 17a-4 requires broker-dealers, which would include broker-dealer SBSDs and broker-dealer MSBSPs, to maintain and preserve in an easily accessible place each report that a securities regulatory authority has requested or required the firm to make and furnish to it pursuant to an order of settlement, and each regulatory exam report until three years after the date of the report.³⁶³ The Commission is proposing to include parallel record maintenance and preservation requirements in proposed Rule 18a-6.³⁶⁴ Specifically, paragraph (d)(2)(i) of proposed Rule 18a-6 would require stand-alone SBSDs and stand-alone MSBSPs to maintain and preserve in an easily accessible place each report which a regulatory authority has requested or required the firm to make and furnish to it pursuant to an order or settlement, and each regulatory authority examination report until three years after the date of the report.³⁶⁵ Paragraph (d)(2)(ii) of proposed Rule 18a-6 would require bank SBSDs and bank MSBSPs to maintain and preserve the same types of records for the same period of time, but only if the records relate to security-based swap activities.³⁶⁶

³⁶³ See 17 CFR 240.17a-4(e)(6). Paragraph (m)(3) of Rule 17a-4 defines the term security regulatory authority to have the meaning set forth in paragraph (h)(3) of Rule 17a-3. See 17 CFR 240.17a-4(m)(3). Paragraph (h)(3) of Rule 17a-3 defines the term securities regulatory authority to mean the Commission, any self-regulatory organization, or any securities commission (or any agency or office performing like functions) of the States. See 17 CFR 240.17a-3(h)(3). The Commission is proposing to amend this definition to include the CFTC and a prudential regulator to the extent the prudential regulator oversees security-based swap activities. See paragraph (f)(3) of Rule 17a-3, as proposed to be amended. Paragraph (h)(1) of proposed Rule 18a-6 would define the term securities regulatory authority in the same way as that term would be defined in paragraph (f)(3) of Rule 17a-3, as proposed to be amended. Compare paragraph (f)(3) of Rule 17a-3, as proposed to be amended, with paragraph (h)(1) of proposed Rule 18a-6. As discussed below in section II.A.3.b. of this release, the Commission is proposing technical amendments to paragraph (h)(3) of Rule 17a-3.

³⁶⁴ Compare 17 CFR 240.17a-4(e)(6), with paragraphs (d)(2)(i) and (ii) of proposed Rule 18a-6.

³⁶⁵ See paragraph (d)(2)(i) of proposed Rule 18a-6.

³⁶⁶ See paragraph (d)(2)(ii) of proposed Rule 18a-6.

Compliance, Supervisory, and Procedures Manuals

Paragraph (e)(7) of Rule 17a-4 requires broker-dealers, which would include broker-dealer SBSDs and broker-dealer MSBSPs, to maintain and preserve in an easily accessible place each compliance, supervisory, and procedures manual, including any updates, modifications, and revisions to the manual, describing the policies and practices of the broker-dealer with respect to compliance with applicable laws and rules, and supervision of the activities of each natural person associated with the broker-dealer until three years after the termination of the use of the manual.³⁶⁷ The Commission is proposing to include parallel record maintenance and preservation requirements in proposed Rule 18a-6.³⁶⁸ Specifically, paragraph (d)(3)(i) of proposed Rule 18a-6 would require stand-alone SBSDs and stand-alone MSBSPs to maintain and preserve in an easily accessible place each compliance, supervisory, and procedures manual, including any updates, modifications, and revisions to the manual, describing the policies and practices of the firm with respect to compliance with applicable laws and rules, and supervision of the activities of each natural person associated with the firm until three years after the termination of the use of the manual.³⁶⁹ Paragraph (d)(3)(ii) of proposed Rule 18a-6 would require bank SBSDs and bank MSBSPs to maintain and preserve the same types of compliance, supervisory, and procedures manuals for the same period of time, but only if the manuals involve compliance with applicable laws and rules relating to security-based swap activities.³⁷⁰

³⁶⁷ See 17 CFR 240.17a-4(e)(7). As discussed below in section II.A.3.b. of this release, the Commission is proposing technical amendments to this paragraph.

³⁶⁸ Compare 17 CFR 240.17a-4(e)(7), with paragraphs (d)(3)(i) and (ii) of proposed Rule 18a-6.

³⁶⁹ See paragraph (d)(3)(i) of proposed Rule 18a-6.

³⁷⁰ See paragraph (d)(3)(ii) of proposed Rule 18a-6.

Electronic Storage

Paragraph (f) of Rule 17a-4 provides that the records a broker-dealer, which would include a broker-dealer SBSD or a broker-dealer MSBSP, is required to maintain and preserve under Rule 17a-3 and Rule 17a-4 may be immediately produced or reproduced on micrographic media or by means of electronic storage media.³⁷¹ The rule defines the term micrographic media to mean microfilm or microfiche, or any similar medium.³⁷² The term electronic storage media is defined to mean any digital storage medium or system that meets the requirements set forth in paragraph (f) of Rule 17a-4.³⁷³ Paragraph (f)(2) of Rule 17a-4 prescribes requirements that are specific to the use of electronic storage media and paragraph (f)(3) prescribes requirements that apply to micrographic media and electronic storage media.³⁷⁴ These requirements are designed to ensure ready access to, and the reliability and permanence of, records a broker-dealer maintains and preserves using micrographic or electronic storage media.³⁷⁵ Thus, the requirements, among other things, include safeguards against data erasure, provisions for immediate verification of stored material, and requirements for back-up facilities.³⁷⁶

³⁷¹ See 17 CFR 240.17a-4(f). As discussed below in section II.A.3.b. of this release, the Commission is proposing technical amendments to this paragraph.

³⁷² See 17 CFR 240.17a-4(f)(1)(i).

³⁷³ See 17 CFR 240.17a-4(f)(1)(ii). See also Electronic Storage of Broker-Dealer Records, 68 FR 25281 (Commission interpretation of electronic storage requirements in paragraph (f) of Rule 17a-4).

³⁷⁴ See 17 CFR 240.17a-4(f)(2) and (3).

³⁷⁵ See Reporting Requirements for Brokers or Dealers Under the Securities Exchange Act of 1934, 62 FR 6469-6470.

³⁷⁶ See id.

The Commission is proposing to include a parallel record maintenance and preservation requirement in proposed Rule 18a-6, but only with respect to electronic storage media.³⁷⁷ The Commission preliminarily believes that SBSDs and MSBSPs that are not dually registered as broker-dealers would not use micrographic media to maintain and preserve records because electronic storage media is more technologically advanced and offers greater flexibility in managing records.³⁷⁸ However, the Commission is seeking comment below on whether proposed Rule 18a-6 should permit micrographic media as an option.

³⁷⁷ Compare 17 CFR 240.17a-4(f), with paragraph (e) of proposed Rule 18a-6.

³⁷⁸ The Commission preliminarily believes that most broker-dealers use electronic storage media rather than micrographic media for the same reasons.

Paragraph (e) of proposed Rule 18a-6 would permit stand-alone SBSDs, stand-alone MSBSPs, bank SBSDs, and bank MSBSPs to use electronic storage media to maintain and preserve the records required to be maintained and preserved under the rule.³⁷⁹ The paragraph would prescribe requirements for using electronic storage media that parallel the requirements in paragraph (f) of Rule 17a-4, which, as discussed above, are designed to ensure ready access to, and the reliability and permanence of, the records.³⁸⁰

³⁷⁹ See paragraph (e) of proposed Rule 18a-6.

³⁸⁰ Compare 17 CFR 240.17a-4(f)(2) and (3), with paragraphs (e)(2) and (3) of proposed Rule 18a-6.

Prompt Production of Records

Rule 17a-4 contains provisions designed to ensure that the records a broker-dealer, including a broker-dealer SBSD or broker-dealer MSBSP, is required to maintain and preserve under the rule will be promptly produced to the Commission and other security-regulators. In this regard, paragraph (i) of Rule 17a-4 contains provisions that apply when a broker-dealer uses a third party to prepare or maintain the records required to be maintained and preserved pursuant to Rules 17a-3 and 17a-4.³⁸¹ In particular, the paragraph requires the third-party to file with the Commission a written undertaking in a form acceptable to the Commission, signed by a duly authorized person, to the effect that such records are the property of the broker-dealer and will be surrendered promptly on request of the broker-dealer and including the following representation:

³⁸¹ See 17 CFR 240.17a-4(i). As discussed below in section II.A.3.b. of this release, the Commission is proposing technical amendments to this paragraph.

With respect to any books and records maintained or preserved on behalf of [broker-dealer], the undersigned hereby undertakes to permit examination of such books and records at any time or from time to time during business hours by representatives or designees of the Securities and Exchange Commission, and to promptly furnish to said Commission or its designee true, correct, complete and current hard copy of any or all or any part of such books and records.³⁸²

³⁸² Id.

The Commission is proposing to include a parallel requirement in proposed Rule 18a-6 that would apply when a stand-alone SBSD, stand-alone MSBSP, bank SBSD, or bank MSBSP uses a third party to prepare or maintain records required pursuant to Rules 18a-5 and 18a-6.³⁸³ Consequently, the third party would be required to file with the Commission an undertaking in which it agrees, among other things, to furnish to the Commission or its designee true, correct, complete, and current hard copy of any or all or any part of such books and records.³⁸⁴

³⁸³ Compare 17 CFR 240.17a-4(i), with paragraph (f) of proposed Rule 18a-6.

³⁸⁴ See paragraph (f) of proposed Rule 18a-6.

Paragraph (j) of Rule 17a-4 requires a broker-dealer, which would include a broker-dealer SBSD or broker-dealer MSBSP, to furnish promptly to a representative of the Commission legible, true, complete, and current copies of those records of the broker-dealer that are required to be preserved under Rule 17a-4, or any other records of the broker-dealer subject to examination under section 17(b) of the Exchange Act that are requested by the representative of the Commission.³⁸⁵ The Commission is proposing to include a parallel requirement in proposed Rule 18a-6.³⁸⁶ Specifically, paragraph (g) of proposed Rule 18a-6 would require SBSDs and MSBSPs to furnish promptly to a representative of the Commission legible, true, complete, and current copies of those records of the SBSD or MSBSP that are required to be to be preserved under the rule, or any other records of the SBSD or MSBSP subject to examination or required to be made or maintained pursuant to section 15F of the Exchange Act, which are requested by a representative of the Commission.³⁸⁷

³⁸⁵ See 17 CFR 240.17a-4(j). Section 17(b) of the Exchange Act provides, among other things, that all records of a broker-dealer are subject at any time, or from time to time, to such reasonable, periodic, special, or other examinations by representatives of the Commission and the appropriate regulatory agency of the broker-dealer as the Commission or the appropriate regulatory agency deems necessary or appropriate in the public interest, for the protection of investors, or otherwise in furtherance of the purposes of the Exchange Act. See 15 U.S.C. 78q(b). As discussed below in section II.A.3.b. of this release, the Commission is proposing technical amendments to this paragraph.

³⁸⁶ Compare 17 CFR 240.17a-4(j), with paragraph (g) of proposed Rule 18a-6. Section 15F(f)(1)(C) of the Exchange Act provides that SBSDs and MSBSPs shall keep books and records described in sections 15F(f)(1)(B)(i) and (ii) open to inspection and examination by any representative of the Commission. See 15 U.S.C. 78o-10(f)(1)(C). In addition, section 15F(j) of the Exchange Act imposes duties on SBSDs and MSBSPs with respect to monitoring of trading, risk management procedures, disclosing information to the Commission and the prudential regulators, obtaining information, conflicts of interest, and antitrust considerations. See 15 U.S.C. 78o-10(j). With respect to disclosing information, section 15F(j)(3) provides that an SBSD and MSBSP shall disclose to the Commission and to the prudential regulator for the SBSD or MSBSP, as applicable, information concerning: (1) Terms and conditions of its security-based swaps; (2) security-based swap trading operations, mechanisms, and practices; (3) financial integrity protections relating to security-based swaps; and (4) other information relevant to its trading in security-based swaps. See 15 U.S.C. 78o-10(j)(3).

³⁸⁷ See paragraph (g) of proposed Rule 18a-6.

Request for Comment

The Commission generally requests comment on the proposals to require broker-dealers, SBSDs, and MSBSPs to maintain and preserve certain records. In addition, the Commission requests comment, including empirical data in support of comments, in response to the following questions:

1. Are the Commission's proposals regarding the records SBSDs and MSBSPs must maintain and preserve under Rule 17a-4, as proposed to be amended, and proposed Rule 18a-6 comprehensive enough to capture all records relating to their activities as SBSDs and MSBSPs, including records that must be made and/or maintained pursuant to provisions in section 15F of the Exchange Act that are not otherwise covered by Rule 17a-4, as proposed to be amended, and proposed Rule 18a-6? Conversely, are these proposals too broad? Explain why or why not. For example, should the Commission establish a catch-all record maintenance and preservation requirement in Rule 17a-4 and proposed Rule 18a-6 that applies to any record relating to the registrant's activities as an SBSD or MSBSP or required to be made and/or maintained pursuant to section 15F of the Exchange Act? Explain why or why not.

2. Are the provisions in Rule 17a-4 that would be included as parallel provisions in proposed Rule 18a-6 applicable to stand-alone SBSDs and stand-alone MSBSPs appropriate for these types of registrants? If not, explain why not. Are there alternative provisions the Commission should consider? If so, describe them. Are there provisions in Rule 17a-4 that are not being included as parallel provisions in proposed Rule 18a-6 applicable to stand-alone SBSDs and stand-alone MSBSPs that would be appropriate for these types of registrants? If so, explain why.

3. Are the provisions in Rule 17a-4 that would be included as parallel provisions in proposed Rule 18a-6 applicable to bank SBSDs and bank MSBSPs appropriate for these types of registrants? If not, explain why not. Are there alternative provisions the Commission should consider? If so, describe them. Are there provisions in Rule 17a-4 that are not being included as parallel provisions in proposed Rule 18a-6 applicable to bank SBSDs and bank MSBSPs that would be appropriate for these types of registrants? If so, explain why.

4. Are the recordkeeping provisions that would be added to Rule 17a-4 appropriate for broker-dealers, including broker-dealer SBSDs and broker-dealer MSBSPs? If not, explain why not. Are there alternative provisions the Commission should consider? If so, describe them.

5. Should proposed Rule 18a-6 include a record storage provision that permits the use of micrographic media? If so, explain why.

6. The Commission proposes to establish a retention period for recordings of telephone calls related to security-based swaps that must be maintained in accordance with section 15F(g) of the Exchange Act. Should the Commission require broker-dealers, SBSDs, and/or MSBSPs to make recordings of telephone calls relating to security-based swaps? Should the Commission require broker-dealers, SBSDs, and/or MSBSPs to retain recordings of telephone calls relating to any topic? Explain why or why not.

7. Should the retention period for recorded telephone calls be different than the proposed three year period? For example, should it be a longer or shorter time frame? If the retention period should be different than three years, explain how long such recordings should be kept and why that different retention period would be more appropriate.

8. Are there recordkeeping requirements currently not included in these proposed rules that should be applied to ANC broker-dealer SBSDs? If so, please describe them.

9. Are there additional requirements that should be included in these proposed rules to promote compliance with the external business conduct standards for SBSDs and MSBSPs? If so, please describe them.

10. Are there additional requirements to promote the disaggregation by the reporting entities of composite security-based swap transactions into segments based on risk as opposed to limiting the data collected to the transaction documents? If so, please describe them.

b. Additional Proposed Amendments to Rule 17a-4

The Commission is proposing several amendments to Rule 17a-4 to eliminate obsolete text, improve readability, and modernize terminology. Reference is made throughout Rule 17a-4 to “members” of a national securities exchange as a distinct class of registrant in addition to brokers-dealers. The Commission is proposing to remove these references to “members” given that the rule applies to brokers-dealers, which would include members of a national securities exchange that are brokers-dealers.³⁸⁸ The Commission is proposing a second global change that would replace the phrase “Every broker and dealer” with “Every broker or dealer”.³⁸⁹

³⁸⁸ The proposed amendments would delete the word “member” from the title and from the following paragraphs of Rule 17a-4, as proposed to be amended: (a), (b), (b)(3), (b)(4), (b)(5), (b)(7), (c), (d), (e), (e)(1), (e)(6), (e)(7), (e)(8), (f)(2), (f)(3), (i), (j), (k)(1), (k)(2), and (l). See Rule 17a-4, as proposed to be amended.

³⁸⁹ The proposed amendments would replace the phrase “Every broker and dealer” with the phrase “Every broker or dealer” in the following paragraphs of Rule 17a-4, as proposed to be amended: (a), (b), (c), (d), (e), and (j). See Rule 17a-4, as proposed to be amended.

The Commission is proposing a global change that would replace the use of the word “shall” in the rule with the word “must” or “will” where appropriate.³⁹⁰ In paragraph (m) of Rule 17a-4 the Commission would replace the words “shall have” with the word “has”.³⁹¹ The Commission also proposes to make certain stylistic, corrective, and punctuation amendments to improve the readability of Rule 17a-4.³⁹²

³⁹⁰ The proposed amendments would replace the word “shall” with the word “must” or “will” in the following paragraphs of Rule 17a-4, as proposed to be amended: (a), (b), (b)(11), (c), (d), (e), (e)(8), (f)(2), (f)(3), (g), (i), (j), (k)(1), and (l). See Rule 17a-4, as proposed to be amended.

³⁹¹ The proposed amendments would replace the phrase “shall have” with the word “has” in the following paragraphs of Rule 17a-4, as proposed to be amended: (m)(1), (m)(2), (m)(3), and (m)(4). See Rule 17a-4, as proposed to be amended.

³⁹² The Commission proposes the following stylistic and corrective changes to Rule 17a-4, as proposed to be amended: (1) In paragraph (a), replacing the phrases “paragraphs § ” and “paragraph § ” with the symbols “§§ ” and “§ ”, respectively; (2) adding the word “and” between phrase “money balance” and the word “position” in paragraph (b)(8)(i) of Rule 17a-4 for consistency with paragraph (b)(8)(ii) of Rule 17a-4; (3) replacing the phrase “out of the money options” with the phrase “out-of-the-money options” in paragraph (b)(8)(ix) of Rule 17a-4; (4) replacing the phrase “paragraph (a)(12) of § 240.17a-3” with the phrase “§ 240.17a-3(a)(12)” in paragraph (e)(1); (5) replacing the phrase “paragraph (a)(13) of § 240.17a-3” with the phrase “§ 240.17a-3(a)(13)” in paragraph (e)(2); (6) replacing the phrase “paragraph (a)(15) of § 240.17a-3” with the phrase “§ 240.17a-3(a)(15)” in paragraph (e)(3); (7) replacing the phrase “for the life” with the phrase “during the life” in paragraph (e)(3) of Rule 17a-4; (8) replacing the phrase “paragraph (a)(14) of § 240.17a-13” with “§ 240.17a-13(a)(14)” in paragraph (e)(4); (9) replacing the phrase “this paragraph” with the phrase “this section” in paragraph (f); (10) replacing the phrase “each index” with the phrase “the index” in paragraph (f)(3)(iv)(B); (11) replacing the phrase “the self-regulatory organizations” with the phrase “any self-regulatory organization” in paragraph (f)(3)(vi); (12) in paragraph (f)(3)(vii), adding quotation marks around the phrase “the undersigned” to clarify that the phrase is a defined term; (13) replacing the phrase “Rule 17a-4” with the phrase “§ 240.17a-4” in paragraph (f)(3)(vii); and (14) in paragraph (g), replacing the phrase “section 15 of the Securities Exchange Act of 1934 as amended (48 Stat. 895, 49 Stat. 1377; 15 U.S.C. 78o)” with the phrase “section 15 of the Act (15 U.S.C. 78o”.

Further, as discussed above in section II.A.2.b. of this release, the Commission is proposing to eliminate the requirements in current paragraphs (c) and (d) of Rule 17a-3 and, as a consequence current paragraphs (e), (f), (g), and (h) would be redesignated as paragraphs (c), (d), (e), and (f), respectively. The Commission proposes to amend Rule 17a-4 to make corresponding changes to cross-references to these paragraphs of Rule 17a-3.

Proposed amendments to paragraph (a)(8) would replace the phrase “annual audited financial statements” with the phrase “the annual financial statements” to reflect the broader range of documents required by Rule 17a-5. Due to the insertion of paragraphs (a)(8)(xiv) and (a)(8)(xvi) to Rule 17a-4, as discussed above, the Commission proposes to redesignate paragraphs (a)(8)(xiv) and (a)(8)(xv) as paragraphs (a)(8)(xv) and (a)(8)(xvii), respectively.

Proposed amendments to paragraph (h) would add after the phrase “Rule G-9 of the Municipal Securities Rulemaking Board” the phrase “or any successor rule” to address the possibility of a future change in how the MSRB's rules are designated.

Request for Comment

The Commission generally requests comment on these additional proposed amendments to Rule 17a-4, including comment on whether any of the proposed amendments would result in substantive changes to the requirements applicable to broker-dealers.

B. Reporting

1. Introduction

As discussed above, section 764 of the Dodd-Frank Act added section 15F to the Exchange Act.³⁹³ Section 15F(f)(2) provides that the Commission shall adopt rules governing reporting for SBSDs and MSBSPs.³⁹⁴ Further, section 15F(f)(1)(A) provides that SBSDs and MSBSPs shall make such reports as are required by the Commission, by rule or regulation, regarding the transactions and positions and financial condition of the SBSD or MSBSP.³⁹⁵ In addition, the Commission has concurrent authority under section 17(a)(1) of the Exchange Act to prescribe reporting requirements for broker-dealers.³⁹⁶

³⁹³ See Public Law 111-203, 764; 15 U.S.C. 78o-10.

³⁹⁴ See 15 U.S.C. 78o-10(f)(2).

³⁹⁵ See 15 U.S.C. 78o-10(f)(1)(A).

³⁹⁶ See 15 U.S.C. 78q(a)(1).

After considering the anticipated business activities of SBSDs and MSBSPs, the Commission is proposing to establish a reporting program for these registrants under sections 15F and 17(a) of the Exchange Act that is modeled on the reporting program for broker-dealers codified in Rule 17a-5.³⁹⁷ Rule 17a-5—which was recently amended ³⁹⁸—has two main elements: (1) A requirement that broker-dealers file periodic unaudited reports containing information about their financial and operational condition on a FOCUS Report; and (2) a requirement that broker-dealers annually file financial statements and certain reports and a report covering the financial statements and reports prepared by an independent public accountant registered with the Public Company Accounting Oversight Board (“PCAOB”) in accordance with PCAOB standards.³⁹⁹

³⁹⁷ See 17 CFR 240.17a-5; 17 CFR 249.617.

³⁹⁸ The recent amendments to Rule 17a-5 are discussed below. See Broker-Dealer Reports, Exchange Act Release No. 70073 (July 30, 2013), 78 FR 51910 (Aug. 21, 2013). These amendments will not be fully effective until June 1, 2014. This release refers to these amendments as the recently adopted amendments or recently adopted requirements of Rule 17a-5.

³⁹⁹ See id. These requirements are described in more detail below.

The reporting program established under Rule 17a-5 is designed, among other things, to promote compliance with Rules 15c3-1 and 15c3-3 and to assist the Commission, SROs, and state securities regulators in conducting effective examinations of broker-dealers. As the Commission has stated, the reporting requirements, “together with the Commission's inspection powers, [are] an integral element in the arsenal for protection of customers against the risks involved in leaving securities with their broker-dealer.” ⁴⁰⁰ The broker-dealer reporting requirements promote transparency of the financial and operational condition of the broker-dealer to the Commission, the firm's DEA, and, in the case of a portion of the annual reports, to the public.⁴⁰¹ In the release adopting Rule 17a-5, the Commission stated its intention to periodically review the reporting requirements “in order to continue modifying and updating the financial and operational reporting systems to keep pace with the changing securities industry.” ⁴⁰²

⁴⁰⁰ See Commission, Study of Unsafe and Unsound Practices of Brokers and Dealers, H.R. Doc. No. 231, 92d Cong., 1st Sess. 6 (1971) at 24.

⁴⁰¹ As discussed below in section II.B.3.a. of this release, paragraph (d) of Rule 17a-5 requires broker-dealers to file certain audited annual reports with the Commission. A portion of these reports is made public.

⁴⁰² See Exchange Act Release No. 11935 (Dec. 17, 1975), 40 FR 59706, 59707 (Dec. 30, 1975).

Under the proposed reporting program for SBSDs and MSBSPs, broker-dealer SBSDs and broker-dealer MSBSPs—as broker-dealers—would be subject to Rule 17a-5.⁴⁰³ The Commission is proposing amendments to this rule to account for broker-dealers that are dually registered as an SBSD or MSBSP.⁴⁰⁴ Stand-alone SBSDs, stand-alone MSBSPs, bank SBSDs, and bank MSBSPs would be subject to proposed Rule 18a-7, which is modeled on Rule 17a-5, as proposed to be amended. Proposed Rule 18a-7 would not include a parallel requirement for every requirement in Rule 17a-5 because some of the requirements in Rule 17a-5 relate to activities that are not expected or permitted of SBSDs and MSBSPs. Similarly, while all types of SBSDs and MSBSPs would use proposed Form SBS, broker-dealer SBSDs and broker-dealer MSBSPs would be required to provide more information than stand-alone SBSDs and stand-alone MSBSPs.

⁴⁰³ Except for the requirement to file one of the parts of the FOCUS Report, broker-dealer SBSDs and broker-dealer MSBSPs would be subject to all the reporting requirements applicable to broker-dealers under Rule 17a-5, as proposed to be amended, plus the additional requirements specifically applicable to an SBSD or MSBSP. As discussed below in section II.B.2. of this release, a broker-dealer SBSD or broker-dealer MSBSP would file proposed Form SBS rather than one of the parts of the FOCUS Report.

⁴⁰⁴ As discussed below in section II.B.3.b. of this release, the Commission also is proposing technical amendments to Rule 17a-5.

Further, the reporting requirements in proposed Rule 18a-7 and proposed Form SBS applicable to bank SBSDs and bank MSBSPs are more limited in scope because, as discussed above in section I. of this release, bank SBSDs and bank MSBSPs are subject to reporting requirements applicable to banks. Further, the prudential regulators—rather than the Commission—are responsible for capital, margin, and other prudential requirements applicable to bank SBSDs and bank MSBSPs. For these reasons, the proposed reporting requirements for bank SBSDs and bank MSBSPs generally are designed to be tailored specifically to their activities as an SBSD or an MSBSP (as opposed to their activities as banks). However, as discussed below, the Commission is proposing that bank SBSDs and bank MSBSPs report certain general financial information that banks are required to report pursuant to requirements of the prudential regulators. Bank SBSDs and bank MSBSPs would be able to use the same information reported under the requirements of the prudential regulators to comply with the proposed reporting requirements applicable to bank SBSDs and bank MSBSPs. The objective is to provide the Commission with a means to monitor the financial condition of bank SBSDs and bank MSBSPs without requiring these entities to report information not already reported to their prudential regulators.

2. Periodic Filing of Proposed Form SBS

a. Amendments to Rule 17a-5 and Proposed Rule 18a-7

Undesignated Introductory Paragraph

Rule 17a-5, as proposed to be amended, would contain an undesignated introductory paragraph explaining that the rule applies to a broker-dealer, including a broker-dealer dually registered with the Commission as an SBSD or MSBSP.⁴⁰⁵ The note further explains that an SBSD or MSBSP that is not dually registered as a broker-dealer (i.e., a stand-alone SBSD, stand-alone MSBSP, bank SBSD, or bank MSBSP) is subject to the reporting requirements under proposed Rule 18a-7.⁴⁰⁶ Further, the Commission is proposing to remove paragraph (a)(1) of Rule 17a-5, which provides that paragraph (a) shall apply to every broker-dealer registered pursuant to section 15 of the Exchange Act.⁴⁰⁷ This text would be redundant of the undesignated introductory paragraph of Rule 17a-5, as proposed to be amended.⁴⁰⁸

⁴⁰⁵ See undesignated introductory paragraph of Rule 17a-5, as proposed to be amended.

⁴⁰⁶ See id.

⁴⁰⁷ See 17 CFR 240.17a-5(a).

⁴⁰⁸ See undesignated introductory paragraph of Rule 17a-5, as proposed to be amended.

Similarly, proposed Rule 18a-7 would contain an undesignated introductory paragraph explaining that the rule applies to an SBSD or MSBSP that is not dually registered as a broker-dealer.⁴⁰⁹ The note further explains that a broker-dealer dually registered as an SBSD or MSBSP is subject to the reporting requirements under Rule 17a-5.⁴¹⁰

⁴⁰⁹ See undesignated introductory paragraph of proposed Rule 18a-7.

⁴¹⁰ See id.

Requirement To File Proposed Form SBS

Broker-dealers periodically report information about their financial and operational condition on the FOCUS Report Part II, Part IIA, Part IIB, or Part II CSE. Each version of the report is designed for a particular type of broker-dealer and the information to be reported is tailored to the type of broker-dealer. Specifically: (1) The FOCUS Report Part IIA is designed to be used by a broker-dealer that does not hold customer funds or securities; ⁴¹¹ (2) the FOCUS Report Part II is designed to be used by a broker-dealer that holds customer funds or securities; ⁴¹² (3) the FOCUS Report Part IIB is designed to be used by an OTC derivatives dealer; ⁴¹³ and (4) the FOCUS Report Part II CSE is designed to be used by an ANC broker-dealer.⁴¹⁴ The FOCUS Report Part II CSE elicits the most detailed information of the four parts, including the most detail about a firm's derivatives activities.

⁴¹¹ The FOCUS Report Part IIA is available at http://www.sec.gov/about/forms/formx-17a-5_2f.pdf.

⁴¹² The FOCUS Report Part II is available at http://www.sec.gov/about/forms/formx-17a-5_2.pdf.

⁴¹³ The FOCUS Report Part IIB is available at http://www.sec.gov/about/forms/formx-17a-5_2b.pdf.

⁴¹⁴ The FOCUS Report Part II CSE was developed by the New York Stock Exchange, Inc. (“NYSE”). See Exhibit 3 to Self-Regulatory Organizations; New York Stock Exchange, Inc.; Notice of Filing of Proposed Rule Change To Require Members That Use Appendix E To Calculate Net Capital To File Supplemental and Alternative Reports, Exchange Act Release No. 51980 (July 6, 2005), 70 FR 40767 (July 14, 2005). See also Self-Regulatory Organizations; New York Stock Exchange, Inc.; Order Approving Proposed Rule Change to Require Members That Use Appendix E to Calculate Net Capital to File Supplemental and Alternative Reports, Exchange Act Release No. 52269 (Aug. 16, 2005), 70 FR 49349 (Aug. 23, 2005).

Paragraph (a) of Rule 17a-5 requires a broker-dealer, other than an OTC derivatives dealer, to file the FOCUS Report Part II or Part IIA.⁴¹⁵ The Commission is proposing to amend this paragraph so that it would require a broker-dealer that is dually registered as an SBSD or MSBSP to file proposed Form SBS rather than the FOCUS Report Part II or Part IIA and to add a parallel requirement in proposed Rule 18a-7 to require stand-alone SBSDs, stand-alone MSBSPs, bank SBSDs, and bank MSBSPs to periodically file proposed Form SBS.⁴¹⁶

⁴¹⁵ See 17 CFR 240.17a-5(a). The requirement that an OTC derivatives dealer file the FOCUS Report Part IIB is set forth in paragraph (a) of Rule 17a-12. See 17 CFR 240.17a-12(a). While an ANC broker-dealer is required under paragraph (a) of Rule 17a-5 to file the FOCUS Report Part IIA, FINRA Rule 4521(b) provides that ANC broker-dealers must file supplemental and alternative reports as may be prescribed by FINRA. Under this rule, FINRA requires ANC broker-dealers to file the FOCUS Report Part II CSE in lieu of the FOCUS Report Part IIA. See also Self-Regulatory Organizations; New York Stock Exchange, Inc.; Order Approving Proposed Rule Change to Require Members That Use Appendix E to Calculate Net Capital to File Supplemental and Alternative Reports, 70 FR 49349 (Commission approval of amendments to NYSE Rule 418 requiring ANC broker-dealers to file Part II CSE).

⁴¹⁶ Compare paragraph (a)(1)(iv) of Rule 17a-5, as proposed to be amended, with paragraphs (a)(1) and (2) of proposed Rule 18a-7. As a consequence of the proposed removal of paragraph (a)(1) of Rule 17a-5, paragraphs (a)(2)(i), (a)(2(ii), and (a)(2)(iii) would be redesignated paragraphs (a)(1)(i), (a)(1)(ii), and (a)(1)(iii), respectively. Further, as discussed below, the Commission is proposing to add a new paragraph (a)(1)(iv) to Rule 17a-5. As a consequence of the removal of paragraph (a)(1) and the addition of paragraph (a)(1)(iv), paragraph (a)(2)(iv) would be redesignated paragraph (a)(1)(v). Further, as a consequence of the removal of paragraph (a)(1), paragraphs (a)(3), (a)(4), (a)(5), (a)(6), and (a)(7) of Rule 17a-5 would be redesignated paragraphs (a)(2), (a)(3), (a)(4), (a)(5), and (a)(6), respectively.

Currently, paragraph (a)(2) of Rule 17a-5 provides that a broker-dealer must file the FOCUS Report Part II if it clears transactions or carries customer accounts or the FOCUS Report Part IIA if it does not clear transactions or carry customer accounts.⁴¹⁷ The paragraph further provides that these reports must be filed within seventeen business days after the end of the quarter and within seventeen business days after the end of the fiscal year of the broker-dealer if the date of the fiscal year end is not the end of a calendar quarter.⁴¹⁸ Paragraph (a)(3) provides that reports required to be filed with the Commission under paragraph (a) (which includes the reports required under paragraph (a)(2)) shall be considered filed when received at the Commission's principal office in Washington, DC, and the regional office of the Commission for the region in which the broker-dealer has its principal place of business.⁴¹⁹ Paragraph (a)(3) further provides that all reports filed pursuant to paragraph (a) shall be deemed to be confidential.⁴²⁰

⁴¹⁷ See 17 CFR 240.17a-5(a)(2)(ii) and (iii).

⁴¹⁸ See id.

⁴¹⁹ See 17 CFR 240.17a-5(a)(3).

⁴²⁰ See id.

Notwithstanding these requirements, substantially all broker-dealers file the FOCUS Report directly with their SROs pursuant to plans established by the SROs under paragraph (a)(4) of Rule 17a-5 (rather than filing them directly with the Commission).⁴²¹ Generally, the reporting requirements under the SRO's plans are consistent with, or more rigorous than, the requirements in paragraph (a)(2) of Rule 17a-5 in terms of the part of the FOCUS Report a broker-dealer must file and the frequency of filing.⁴²² Thus, while most broker-dealers do not file the FOCUS Report pursuant to paragraphs (a)(2) and (a)(3) of Rule 17a-5, these provisions establish a baseline for SROs in designing their plans, which must be declared effective by the Commission.

⁴²¹ Specifically, paragraph (a)(4) of Rule 17a-5 contains an exception from the requirement to file the FOCUS Report directly with the Commission applicable to brokers-dealers that are members of a national securities exchange or a registered national securities association if the exchange or association maintains records containing the information required by the FOCUS Report and transmits such information to the Commission pursuant to a plan that has been submitted to, and declared effective by, the Commission (“FOCUS filing plan” or “Plan”). See 17 CFR 240.17a-5(a)(4). FINRA and other SROs have had FOCUS filing plans in effect since the 1970s under this exception. See, e.g., Self-Regulatory Organizations; Notice of Filing and Order Granting Accelerated Approval of Proposed Rule Change by the National Association of Securities Dealers, Inc. Relating to the Association's FOCUS Filing Plan, Exchange Act Release No. 36780, (Jan. 26, 1996), 61 FR 3743 (Feb. 1, 1996).

⁴²² Currently, FINRA's plan (which applies to most broker-dealers) requires monthly filing of the FOCUS Report Part II for members that are subject to the requirements of paragraph (e) of Rule 15c3-3, or that conduct a business in accordance with paragraph (k)(2)(i) of Rule 15c3-3, or that are subject to paragraphs (a)(2)(i) through (iii) of Rule 15c3-1. See 17 CFR 240.15c3-1(a)(2)(i) through (iii); 17 CFR 240.15c3-3(e) and (k)(2)(i). FINRA's plan requires quarterly filing of the FOCUS Report Part IIA for members that conduct a business in accordance with the provisions of paragraph (k)(1)(i) through (iii), (k)(2)(ii), and (k)(3) of Rule 15c3-3 and are not subject to paragraphs (a)(2)(i) through (iii) of Rule 15c3-1, and for members that conduct a business in accordance with paragraphs (a)(6) through (8) of Rule 15c3-1. See 17 CFR 240.15c3-1(a)(2)(i) through (iii) and (a)(6) through (8); 17 CFR 240.15c3-3(k)(1)(i) through (iii), (k)(2)(ii), and (k)(3). These firms generally are non-carrying broker-dealers and firms that do not meet the definition of dealer under Rule 15c3-1. Further, as noted above, ANC broker-dealers file the FOCUS Report Part II CSE pursuant to FINRA Rule 4521(b) rather than the FOCUS Report Part II.

The Commission is proposing to amend paragraph (a)(2) of Rule 17a-5 to account for the fact that some broker-dealers likely will be registered as an SBSD or potentially as an MSBSP and, therefore, these categories of registrants would be subject to the reporting requirements under Rule 17a-5.⁴²³ The proposed amendments would require broker-dealer SBSDs and broker-dealer MSBSPs to file proposed Form SBS rather than the FOCUS Report Part II or Part IIA. Specifically, the amendments would specify that the requirement to file the FOCUS Report Part II or Part IIA directly with the Commission in paragraph (a) applies only to broker-dealers that are not dually registered as an SBSD or MSBSP.⁴²⁴ In addition, the Commission proposes to add a new paragraph (a)(1)(iv) to Rule 17a-5.⁴²⁵ This paragraph would provide that a broker-dealer dually registered as an SBSD or MSBSP must file proposed Form SBS with the Commission within seventeen business days of the end of the month.⁴²⁶ Thus, the paragraph would require broker-dealer SBSDs and broker-dealer MSBSPs to file proposed Form SBS on a monthly basis. This would be consistent with the plans of the SROs, which generally require carrying broker-dealers and broker-dealers that act as dealers to file the FOCUS Report Part II on a monthly (rather than quarterly) basis.⁴²⁷

⁴²³ As noted above, the Commission is proposing to redesignate paragraph (a)(2) of Rule 17a-5 as paragraph (a)(1).

⁴²⁴ See paragraphs (a)(1)(ii) and (iii) of Rule 17a-5, as proposed to be amended.

⁴²⁵ See paragraph (a)(1)(iv) of Rule 17a-5, as proposed to be amended.

⁴²⁶ See id.

⁴²⁷ Because this would be a monthly filing requirement, the Commission is not proposing to require broker-dealer SBSDs and broker-dealer MSBSPs to also file proposed Form SBS within 17 business days after the end of the fiscal year of the firm where that date is not the end of a calendar quarter as is required under paragraphs (a)(2)(ii) and (iii) of Rule 17a-5 (which require quarterly filing of the FOCUS Report Part II and Part IIA, respectively). Compare 17 CFR 240.17a-5(a)(2)(ii) and (iii), with paragraph (a)(1)(iv) of Rule 17a-5, as proposed to be amended.

The Commission is proposing to include a parallel requirement in paragraph (a)(1) of proposed Rule 18a-7 that is modeled on paragraph (a)(1)(iv) of Rule 17a-5, as proposed to be amended, that would apply to stand-alone SBSDs and stand-alone MSBSPs.⁴²⁸ Under this paragraph, these registrants would be required to file proposed Form SBS with the Commission or its designee within seventeen business days after the end of each month.⁴²⁹ The reference to a Commission designee is intended to provide the Commission with the option of requiring that these registrants file proposed Form SBS with a third party.⁴³⁰

⁴²⁸ Compare paragraph (a)(1)(iv) of Rule 17a-5, as proposed to be amended, with paragraph (a)(1) of proposed Rule 18a-7.

⁴²⁹ See paragraph (a)(1) of proposed Rule 18a-7.

⁴³⁰ As discussed above, generally all broker-dealers file the FOCUS Report with their SROs rather than directly with the Commission.

Paragraph (a)(2) of proposed Rule 18a-7 would apply to bank SBSDs and bank MSBSPs and require these registrants to file proposed Form SBS with the Commission or its designee within seventeen business days after the end of each calendar quarter (instead of each month).⁴³¹ The Commission would require quarterly financial reporting for bank SBSDs and bank MSBSPs, instead of monthly reporting, because the prudential regulators currently require banks to file reports of financial and operational condition known as call reports on a quarterly basis.⁴³² As discussed below in section II.B.3.a. of this release, the information that would be reported by bank SBSDs and bank MSBSPs on proposed Form SBS largely would be information that banks are required to provide in the call reports.

⁴³¹ See paragraph (a)(2) of proposed Rule 18a-7.

⁴³² See Consolidated Reports of Condition and Income for a Bank with Domestic and Foreign Offices—FFIEC 031 (“FFIEC Form 031” or “call report”). See also 12 U.S.C. 161; 12 U.S.C. 324; 12 U.S.C. 1464; 12 U.S.C. 1817.

Paragraph (a)(3) of proposed Rule 18a-7 would apply to SBSDs authorized by the Commission to compute net capital using internal models pursuant to paragraph (d) of proposed Rule 18a-1. The Commission would require these registrants to file most of the required documents within 17 business days after the end of each month.⁴³³ However, to correspond with the timing requirement in paragraph (d)(9)(i)(C)(1)-(2) of proposed Rule 18a-1,⁴³⁴ these registrants would be required to file the following reports within seventeen business days after the end of each calendar quarter (instead of each month): A report identifying the number of business days for which actual daily net trading loss exceeded the corresponding daily value at risk (“VaR”); and the results of backtesting of all internal models used to compute allowable capital, indicating the number of backtesting exceptions.⁴³⁵

⁴³³ See paragraph (a)(3)(i)-(vii) of proposed Rule 18a-7.

⁴³⁴ See Capital, Margin, and Segregation Requirements for Security-Based Swap Dealers and Major Security-Based Swap Participants and Capital Requirements for Broker-Dealers, 77 FR 70337.

⁴³⁵ See paragraph (a)(3)(viii)-(ix) of proposed Rule 18a-7.

The Commission also is proposing amendments to paragraphs (a)(1)(ii), (a)(1)(iii), (a)(1)(iv), and (a)(1)(v) of Rule 17a-5 that would make explicit the requirement that the FOCUS Report or Form SBS filed by a broker-dealer must be “executed.” ⁴³⁶ Additionally, paragraphs (a)(1) and (a)(2) of proposed Rule 18a-7 would contain parallel language requiring that a Form SBS filed by a stand-alone SBSD, stand-alone MSBSP, bank SBSD, or bank MSBSP must be executed.

⁴³⁶ See paragraphs (a)(1)(ii)-(iv) of Rule 17a-5, as proposed to be amended. Part II, Part IIA, Part IIB, and Part II CSE of the FOCUS Report each has a section for the filer to execute the form.

Finally, as noted above, paragraph (a)(4) of Rule 17a-5 contains an exception from the requirement to file a FOCUS Report directly with the Commission applicable to broker-dealers that are members of a national securities exchange or a registered national securities association if that exchange or association maintains records containing the information required by the FOCUS Report and transmits such information to the Commission pursuant to a plan that has been submitted to, and declared effective by, the Commission.⁴³⁷ The Commission proposes to add a reference to proposed Form SBS to this provision so that SROs could include the filing of Form SBS in their plans.⁴³⁸ If incorporated into the plans, broker-dealer SBSDs and broker-dealer MSBSPs would file proposed Form SBS with their SRO (rather than directly with the Commission). The Commission preliminarily expects that the reporting requirements under an SRO's plan with respect to proposed Form SBS would need to be at least as rigorous as the requirements in paragraph (a)(1)(iv) of Rule 17a-5, as proposed to be amended, to be declared effective by the Commission.

⁴³⁷ See 17 CFR 240.17a-5(a)(4).

⁴³⁸ See paragraph (a)(3) of Rule 17a-5, as proposed to be amended. Further, paragraph (a)(5) of Rule 17a-5 requires broker-dealers to file Form Custody (17 CFR 249.1900) with their DEAs within 17 business days after the end of each calendar quarter and within 17 business days after the end of the fiscal year of the broker-dealer where that date is not the end of a calendar quarter. See 17 CFR 240.17a-5(a)(5). The DEA must maintain the information obtained through the filing of Form Custody and must promptly transmit that information to the Commission at such time as it transmits the applicable part of the FOCUS Report pursuant to a plan. See id. The Commission is proposing to amend this provision to include a reference to proposed Form SBS to account for the fact that broker-dealer SBSDs and broker-dealer MSBSPs would file proposed Form SBS with their DEAs along with Form Custody (rather than the FOCUS Report) if the SROs incorporate the filing of Form SBS in their plans. See paragraph (a)(4) of Rule 17a-5, as proposed to be amended.

b. Information Elicited in Form SBS

As discussed above, all categories of SBSDs and MSBSPs would be required to file proposed Form SBS. This form is modeled on the FOCUS Report, particularly the FOCUS Report Part II CSE.⁴³⁹ The FOCUS Report Part II CSE served as the template for designing proposed Form SBS because it is designed to account for the use of internal models by ANC broker-dealers and elicits more detailed information about derivatives positions and exposures than the FOCUS Report Part II and Part IIA.⁴⁴⁰ Based on staff experience, including experience monitoring ANC broker-dealers, the Commission anticipates that most SBSDs will use internal models to compute their net capital.⁴⁴¹

⁴³⁹ Compare proposed Form SBS, with the FOCUS Report Part II CSE.

⁴⁴⁰ The FOCUS Report Part IIB elicits similar information about derivatives positions and exposures but otherwise is more limited than the FOCUS Report Part II CSE because OTC derivatives dealers are permitted to engage in only a narrow range of activities. See 17 CFR 240.3b-12; 17 CFR 240.15a-1. Specifically, Rule 3b-12, defining the term OTC derivatives dealer, provides, among other things, that an OTC derivatives dealer's securities activities must be limited to engaging in dealer activities in eligible OTC derivative instruments (as defined in the rule) that are securities; issuing and reacquiring securities that are issued by the dealer, including warrants on securities, hybrid securities, and structured notes; engaging in cash management securities activities (as defined in Rule 3b-14 (17 CFR 240.3b-14); engaging in ancillary portfolio management securities activities (as defined in the rule); and engaging in such other securities activities that the Commission designates by order. See 17 CFR 240.3b-12. Rule 15a-1, governing the securities activities of OTC derivatives dealers, provides that an OTC derivatives dealer must effect transactions in OTC derivatives with most types of counterparties through an affiliated Commission-registered broker-dealer that is not an OTC derivatives dealer. See 17 CFR 240.15a-1.

⁴⁴¹ See Capital, Margin, and Segregation Requirements for Security-Based Swap Dealers and Major Security-Based Swap Participants and Capital Requirements for Broker-Dealers, 77 FR 70293.

The FOCUS Report elicits financial and operational information about a broker-dealer through sections consisting of uniquely numbered line items. The information (e.g., a number or dollar amount) is entered into the line items.⁴⁴² Generally, a line item that is common to Part II, Part IIA, Part IIB, and Part II CSE of the FOCUS Report shares the same unique number, which facilitates aggregating information and comparing reported information across broker-dealers.⁴⁴³ Proposed Form SBS similarly would elicit information about the financial and operational condition of an SBSD or MSBSP through sections consisting of uniquely numbered line items. Line items on proposed Form SBS that correspond to line items on the FOCUS Report would share the same unique number and require the entry of the same type of information.⁴⁴⁴ Proposed Form SBS would not include a parallel line item for each line item on the FOCUS Report because not all of the information required on the FOCUS Report is relevant for SBSDs and MSBSPs.⁴⁴⁵ Further, proposed Form SBS would have lines and corresponding line items that are not on the FOCUS Report. The additional lines and line items would elicit more detail about the security-based swap and swap activities of the SBSD and MSBSP filers.⁴⁴⁶

⁴⁴² As used in this release, the term line refers to the lines in the left column on the FOCUS Report and proposed Form SBS that describe the type of entries to be made on that line. The term line item refers to the fields into which information is entered. For example, Line 1 of the statement of financial condition section on Form SBS is cash and Line Item 200 is the field to enter the dollar amount of cash and Line Item 750 is the field to enter the total dollar amount of cash.

⁴⁴³ For example, Line Item 200 is the field to enter the dollar amount of cash and Line Item 750 is the field to enter the total dollar amount of cash in the statement of financial condition section for each part of the FOCUS Report. The FOCUS Report Part IIB and Part II CSE share certain common sections that have common entries but the line items for the entries are assigned different numbers. Proposed Form SBS would use the numbers assigned to the line items in Part II CSE.

⁴⁴⁴ For example, Line Item 200 is the field to enter the dollar amount of cash and Line Item 750 is the field to enter the total dollar amount of cash in the statement of financial condition section on proposed Form SBS.

⁴⁴⁵ The FOCUS Report Part II CSE has the most line items of the four parts of the FOCUS Report and, consequently, generally will serve as the means of comparing proposed Form SBS with the FOCUS Report for purposes of the discussion in this release. Proposed Form SBS would not include line items from Part II CSE that are obsolete, inapplicable, or redundant of the additional line items on proposed Form SBS. Specifically, proposed Form SBS would not include Line Item 18 (box checked if FOCUS Part II CSE is filed pursuant to Rule 17a-11 under the Exchange Act); Line Item 98 (SEC File No.); Line Item 99 (As of date the for statement of financial condition); Line Item 291 (Derivatives Receivable—Allowable); Line Item 801 (Derivatives Payable—Total); Line Item 3635 (Total Market Risk Exposure); Line Item 3679 (Total Credit Risk Exposure); Line Item 3931 (Number of months included in this statement); Line Item 3932 (For the period from); Line Item 3933 (For the period to); Line Item 4070 (Interest Expense, Includes interest on accounts subject to subordination agreements); and Line Items 5000-5350 (Financial and operational data).

⁴⁴⁶ Line items that are unique to proposed Form SBS are identified on the Form by the number 99, 999, 9999, or 99999 for the purposes of this proposing release.

As discussed below, broker-dealer SBSDs and broker-dealer MSBSPs would be required to report the most information on proposed Form SBS because it would elicit information about their activities as a broker-dealer and as an SBSD or MSBSP. Stand-alone SBSDs and stand-alone MSBSPs would be required to report information similar to that required of broker-dealer SBSDs and broker-dealer MSBSPs. The information elicited from bank SBSDs and bank MSBSPs would: (1) Derive largely from the information they report on the call reports; and (2) focus on their business as an SBSD or MSBSP.⁴⁴⁷

⁴⁴⁷ See 15 U.S.C. 78o-10(f)(1)(B)(i).

Proposed Form SBS is divided into five parts. Part 1 would apply to nonbank SBSDs and nonbank MSBSPs (i.e., broker-dealer SBSDs, broker-dealer MSBSPs, stand-alone SBSDs, and stand-alone MSBSPs) and is similar to the FOCUS Report Part II CSE, but includes additional sections and line items to elicit more detail about security-based swap and swap activities. Part 2 would apply to bank SBSDs and bank MSBSPs and elicit certain financial information that these classes of registrants—as banks—would need to report in the call reports plus certain additional information about security-based swap and swap activities. Part 3 would apply to an SBSD or MSBSP that is dually registered as an FCM and elicit information about the firm's net capital computation and segregation of customer assets under CFTC rules. Part 4 would apply to nonbank SBSDs and nonbank MSBSPs and elicit detailed information about a firm's security-based swap and swap positions, counterparties, and exposures. Part 5 would apply to bank SBSDs and bank MSBSPs and also elicit detailed information about a firm's security-based swap and swap positions, but on a more limited basis than Part 4.

Proposed Form SBS would have a cover page that largely is in the same format as the cover page of the FOCUS Report, but includes line items to indicate the type of registrant filing Form SBS: (1) A stand-alone SBSD; (2) a stand-alone MSBSP; (3) a broker-dealer SBSD; (4) a broker-dealer MSBSP; (5) a bank MSBSP; or (6) a bank MSBSP. The heading at the top of each remaining page of proposed Form SBS would identify the type of registrant that must enter the information to be reported on the page.

A general description of each Part of proposed Form SBS appears below, including a more detailed description of the components of Form SBS for which there are not parallel components in the FOCUS Report. In addition to proposed Form SBS, the Commission is proposing instructions for Form SBS to provide further guidance on the information to be entered into certain line items.⁴⁴⁸ The instructions are modeled on the instructions to the FOCUS Report Part II, but with more instructions to cover the additional line items and sections that are not on the FOCUS Report Part II.⁴⁴⁹

⁴⁴⁸ See instructions to proposed Form SBS.

⁴⁴⁹ Compare instructions to proposed Form SBS, with instructions to the FOCUS Report Part II. The instructions to the FOCUS Report Part IIA are available at http://www.sec.gov/about/forms/formx-17a-5_2a.pdf.

i. Part 1 of Proposed Form SBS

Part 1 of proposed Form SBS would apply to nonbank SBSDs and nonbank MSBSPs. This part of Form SBS is modeled on the FOCUS Report, particularly the FOCUS Report Part II CSE, but includes additional sections and line items to report more detail about security-based swap and swap activities.⁴⁵⁰ Like the FOCUS Report Part II CSE, Part 1 of proposed Form SBS would require the filer to enter information into the following sections, as applicable: (1) A statement of financial condition; ⁴⁵¹ (2) a computation of net capital; ⁴⁵² (3) a computation of minimum net capital required; ⁴⁵³ (4) a statement of income (loss); ⁴⁵⁴ (5) a statement of capital withdrawals, a statement of changes in ownership equity, and a statement of changes in liabilities subordinated to claims of creditors; ⁴⁵⁵ (6) certain financial and operational data; ⁴⁵⁶ (7) a customer reserve account computation under Rule 15c3-3; ⁴⁵⁷ (8) information for possession or control requirements under Rule 15c3-3; ⁴⁵⁸ and (9) a computation for the determination of reserve requirements for proprietary accounts of broker-dealers (“PAB”).⁴⁵⁹ Part 1 of proposed Form SBS includes additional line items in certain of these sections to elicit more detail about security-based swap and swap activities.⁴⁶⁰ Further, Part 1 has the following additional sections: (1) a computation of tangible net worth under proposed Rule 18a-2; ⁴⁶¹ (2) a reserve account computation under proposed Rule 18a-4; ⁴⁶² and (3) information for possession or control requirements under proposed Rule 18a-4.⁴⁶³ The additional line items and sections are discussed below.

⁴⁵⁰ Compare Part 1 proposed Form SBS, with the FOCUS Report Part II CSE. As discussed below, the FOCUS Report has a number of sections that are common to all the parts thereof. Generally, a section on the FOCUS Report Part II CSE elicits information that is as detailed, if not more detailed, than the parallel section on the FOCUS Report Part II, Part IIA, or Part IIB.

⁴⁵¹ Each part of the FOCUS Report has a section to provide a statement of financial condition that elicits detail about the assets, liabilities and ownership equity of the broker-dealer. Part 1 of proposed Form SBS similarly has a section to provide a statement of financial condition. See Part 1 of proposed Form SBS, Statement of Financial Condition. This section would need to be completed by nonbank SBSDs and nonbank MSBSPs. As discussed below, the statement of financial condition section on proposed Form SBS has additional line items that are not on the FOCUS Report.

⁴⁵² Each part of the FOCUS Report has a section to provide a computation of net capital under Rule 15c3-1. Part 1 of proposed Form SBS similarly has sections to provide a computation of net capital that would need to be completed by nonbank SBSDs (i.e., broker-dealer SBSDs and stand-alone SBSDs) and broker-dealer MSBSPs (all of which would be subject to a net capital rule). See Part 1 of proposed Form SBS, Computation of Net Capital (Filer Authorized to use Models) and Computation of Net Capital (Filer Not Authorized to use Models). As discussed below, proposed Form SBS has two net capital computation sections: one for firms that are authorized to use models and one for firms that are not authorized to use models. Further, these sections have additional line items that are not on the FOCUS Report.

⁴⁵³ Each part of the FOCUS Report has a section to provide a computation of minimum required net capital under Rule 15c3-1. Part 1 of proposed Form SBS similarly has sections to provide a required minimum net capital computation that would need to be completed by nonbank SBSDs and broker-dealer MSBSPs. See Part 1 of proposed Form SBS, Computation of Minimum Regulatory Capital Requirements (Broker-Dealer) and Computation of Minimum Regulatory Capital Requirements (Non-Broker-Dealer). As discussed below, proposed Form SBS has two minimum net capital computation sections: one for broker-dealer filers (i.e., broker-dealer SBSDs and broker-dealer MSBSPs) and one for stand-alone SBSDs. Further, these sections have additional line items that are not on the FOCUS Report.

⁴⁵⁴ Each part of the FOCUS Report has a section to provide a statement of income (loss) that elicits detail about the revenue and expenses of the broker-dealer during the reporting period. Part 1 of proposed Form SBS similarly has a statement of income (loss) section that would need to be completed by nonbank SBSDs and nonbank MSBSPs. See Part 1 of proposed Form SBS, Statement of Income (Loss). As discussed below, the statement of income (loss) section on proposed Form SBS is modeled on a supplemental statement of income form promulgated by FINRA. The proposed Form SBS section has additional line items that are not on FINRA's form.

⁴⁵⁵ The FOCUS Report Part II, Part IIB, and Part II CSE have sections to provide a statement of capital withdrawals, a statement of changes in ownership equity, and a statement of changes in liabilities subordinated to claims of general creditors. The FOCUS Report Part IIA has sections to provide a statement of changes in ownership equity and a statement of changes in liabilities subordinated to claims of general creditors. In the statement of capital withdrawals section, a broker-dealer must report information about the firm's ownership equity and subordinated liabilities maturing or proposed to be withdrawn within the next six months and accruals that have not been deducted in the computation of net capital. In the statements of changes in ownership equity and liabilities subordinated to claims of general creditors sections, a broker-dealer must report the amount of such equity and liability balances, respectively, as of the beginning of the reporting period and as of the end of the reporting period and provide detail with respect to changes in the balances. The information reported in all these statements is designed to assist securities regulators in monitoring the financial condition of the broker-dealer and the firm's compliance with the net capital rule. For example, under Rule 15c3-1, broker-dealers are subject to debt-to-equity ratio requirements, limitations governing the withdrawal of equity capital, and requirements with respect to subordinated loans that qualify to be added back to net worth when computing net capital. See 17 CFR 240.15c3-1d ; 17 CFR 240.15c3-3(d) and (e). Nonbank SBSDs and broker-dealer MSBSPs would be subject to similar requirements and limitations. See Capital, Margin, and Segregation Requirements for Security-Based Swap Dealers and Major Security-Based Swap Participants and Capital Requirements for Broker-Dealers, 77 FR 70254-70256. Consequently, Part 1 of proposed Form SBS has sections to provide a statement of capital withdrawals, a statement of changes in ownership equity, and a statement of changes in liabilities subordinated to claims of creditors that would need to be completed by nonbank SBSDs and broker-dealer MSBSPs. See Part 1 of proposed Form SBS, Capital Withdrawals and Capital Withdrawals Recap. These sections on proposed Form SBS have the same line items as the parallel sections on the FOCUS Report Part II CSE and there are no additional line items.

⁴⁵⁶ Each part of the FOCUS Report has a section to report certain financial and operational data. The FOCUS Report Part II CSE has additional sections to report operational charges deducted from net capital under Rule 15c3-1 and potential operational charges. Broker-dealers must report information on these sections about, among other things, the number of income and non-income producing personnel, fails, security concentrations, lease and rentals payables, money suspense and balancing differences, and securities differences. Certain of these items—including securities differences—result in charges when computing net capital. See 17 CFR 240.15c3-1(c)(2)(v). Securities regulators use this information to monitor, among other things, whether the broker-dealer is processing securities transactions in a timely manner and properly accounting for the securities it holds. Part 1 of proposed Form SBS similarly has sections to report this type of financial and operational data that would need to be completed by nonbank SBSDs and broker-dealer MSBSPs. See Part 1 of proposed Form SBS, Financial and Operational Data. The sections of the form have the same line items as the parallel sections in the FOCUS Report Part II CSE and there are no additional line items.

⁴⁵⁷ The FOCUS Report Part II and Part II CSE have a section to provide a computation of the customer reserve requirement under Rule 15c3-3. As discussed above in section II.A.2.a. of this release, Rule 15c3-3 requires a carrying broker-dealer to maintain a reserve of funds or qualified securities in an account at a bank that is at least equal in value to the net cash owed to customers. See 17 CFR 240.15c3-3(e). The amount of net cash owed to customers is computed pursuant to a formula set forth in Exhibit A to Rule 15c3-3. See 17 CFR 240.15c3-3a. Part 1 of proposed Form SBS similarly has a section to provide a computation of the customer reserve requirement under Rule 15c3-3 that would need to be completed by broker-dealer SBSDs and broker-dealer MSBSPs that hold funds and securities for customers that are not security-based swap customers. See Part 1 of proposed Form SBS, Computation for Determination of Reserve Requirements. This section has the same line items as the parallel section on the FOCUS Report Part II CSE and there are no additional line items. Further, as discussed below, proposed Form SBS has a section to provide a separate computation for the security-based swap customer reserve account requirement under proposed Rule 18a-4. In addition, the FOCUS Report Part IIA has a section to claim an exemption under Rule 15c3-3. In this section, a broker-dealer claiming an exemption under Rule 15c3-3 must identify whether it is relying on paragraph (k)(1), (k)(2)(A), (k)(2)(B), or (k)(3) of Rule 15c3-3. Part 1 of proposed Form SBS similarly has a section in which a broker-dealer SBSD or broker-dealer MSBSP could claim an exemption from Rule 15c3-3. See Part 1 of proposed Form SBS, Exemptive Provision under Rule 15c3-3.

⁴⁵⁸ The FOCUS Report Part II and Part II CSE have a section to report information relating to the possession or control requirement under Rule 15c3-3. As discussed above in section II.A.2.a. of this release, Rule 15c3-3 requires a carrying broker-dealer to maintain physical possession or control over customers' fully paid and excess margin securities. See 17 CFR 240.15c3-3(d). Physical possession or control means the carrying broker-dealer must hold these securities in one of several locations specified in Rule 15c3-3 and free of liens or any other interest that could be exercised by a third party to secure an obligation of the broker-dealer. See 17 CFR 240.15c3-3(c). Part 1 of proposed Form SBS similarly has a section to report the same information about the possession or control requirement under Rule 15c3-3 as is required in the FOCUS Report Part II and Part II CSE. See Part 1 of proposed Form SBS, Computation for Determination of Reserve Requirements. This section would need to be completed by broker-dealer SBSDs and broker-dealer MSBSPs that hold funds and securities for customers that are not security-based swap customers. This section has the same line items as the parallel section on the FOCUS Report Part II CSE and there are no additional line items. Further, as discussed below, proposed Form SBS has a section to report the same type of information about the possession or control requirement relating to security-based swap customers under proposed Rule 18a-4.

⁴⁵⁹ The FOCUS Report Part II CSE has a section to provide the computation of the reserve requirement for proprietary accounts of broker-dealers. This computation is a result of a broker-dealer not being a customer as that term is defined in Rule 15c3-3. See 17 CFR 240.15c3-3(a)(1). Accordingly, a carrying broker-dealer that holds the account of another broker-dealer is not required to maintain possession or control of the fully paid and excess margin securities of the other the broker-dealer or include credit and debit items associated with the account of the other broker-dealer in its customer reserve computation. The absence of a requirement to protect the other broker-dealer's cash under Rule 15c3-3 raised a question of whether the other broker-dealer could treat cash held by the carrying broker-dealer as an allowable asset under Rule 15c3-1. In response, the Commission staff issued a no-action letter stating that the staff would not recommend enforcement action to the Commission if a broker-dealer treated cash held by another broker-dealer as an allowable asset under Rule 15c3-1, provided the other broker-dealer agreed to: (1) perform a reserve computation for broker-dealer accounts; (2) establish a separate special reserve bank account, and; (3) maintain cash or qualified securities in the reserve account equal to the computed reserve requirement. See Letter from Michael A. Macchiaroli, Associate Director, Division of Market Regulation, Commission, to Raymond J. Hennessy, Vice President, NYSE, and Thomas Cassella, Vice President, NASD regulation, Inc. (Nov. 10, 1998). The Commission recently codified this letter through amendments to Rule 15c3-3. See Financial Responsibility Rules for Broker-Dealers, Exchange Act Release No. 70072 (July 30, 2013); 78 FR 51824 (Aug. 21, 2013). Part 1 of proposed Form SBS similarly has a section to provide a computation of PAB reserve requirements. See Part 1 of proposed Form SBS, Computation for Determination of PAB Requirements. This section would need to be completed by broker-dealer SBSDs and broker-dealer MSBSPs. The section has the same line items as the parallel section on the FOCUS Report Part II CSE and there are no additional line items.

⁴⁶⁰ As noted above, additional line items are identified on proposed Form SBS by the number 99, 999, 9999, or 99999 for the purposes of this proposing release.

⁴⁶¹ Proposed Rule 18a-2 would require stand-alone MSBSPs to maintain positive tangible net worth. See Capital, Margin, and Segregation Requirements for Security-Based Swap Dealers and Major Security-Based Swap Participants and Capital Requirements for Broker-Dealers, 77 FR 70256-70257. Under proposed Rule 18a-2, tangible net worth would be defined to mean the MSBSP's net worth as determined in accordance with generally accepted accounting principles in the U.S., excluding goodwill and other intangible assets.

⁴⁶² As discussed above in section II.A.2.a. of this release, proposed Rule 18a-4 would require an SBSD, among other things, to maintain a security-based swap customer reserve account at a bank separate from any other bank account of the SBSD. See Capital, Margin, and Segregation Requirements for Security-Based Swap Dealers and Major Security-Based Swap Participants and Capital Requirements for Broker-Dealers, 77 FR 70282-70287. Further, it would provide that the SBSD must at all times maintain in the security-based swap customer reserve account cash and/or qualified securities in amounts computed daily in accordance with Exhibit A to proposed Rule 18a-4. See id.

⁴⁶³ As discussed above in section II.A.2.a. of this release, proposed Rule 18a-4 would require an SBSD to promptly obtain and thereafter maintain physical possession or control of all excess securities collateral carried for the accounts of security-based swap customers. See Capital, Margin, and Segregation Requirements for Security-Based Swap Dealers and Major Security-Based Swap Participants and Capital Requirements for Broker-Dealers, 77 FR 70278-70282.

Statement of Financial Condition

The line items in the statement of financial condition section on proposed Form SBS are largely the same line items in the statement of financial condition section on the FOCUS Report Part II CSE.⁴⁶⁴ However, as discussed below, the proposed Form SBS section has additional line items that are not in the Part II CSE section.

⁴⁶⁴ Compare Part 1 of proposed Form SBS, Statement of Financial Condition, with the FOCUS Report Part II CSE, Statement of Financial Condition.

First, a broker-dealer must enter detail in the FOCUS Report Part II CSE section about the dollar amount of receivables from other broker-dealers and clearing organizations.⁴⁶⁵ The detail includes the amount of such receivables includible in the reserve computation under Rule 15c3-3.⁴⁶⁶ The proposed Form SBS section requires the same detail about these receivables.⁴⁶⁷ Additionally, it requires detail about the dollar amount of the receivables includible in the reserve computation under proposed Rule 18a-4.⁴⁶⁸

⁴⁶⁵ See FOCUS Report Part II CSE, Statement of Financial Condition, Lines 3A-3E.

⁴⁶⁶ See FOCUS Report Part II CSE, Statement of Financial Condition, Lines 3A1, 3B1, 3C1, and 3D1.

⁴⁶⁷ See Part 1 of proposed Form SBS, Statement of Financial Condition, Lines 3A-3E.

⁴⁶⁸ See Part 1 of proposed Form SBS, Statement of Financial Condition, Lines 3A2, 3B2, 3C2, and 3D2. As discussed in section II.A.2.a. of this release, proposed Rule 18a-4 is modeled on Rule 15c3-3. See Capital, Margin, and Segregation Requirements for Security-Based Swap Dealers and Major Security-Based Swap Participants and Capital Requirements for Broker-Dealers, 77 FR 70274-70288.

Second, a broker-dealer must enter detail in the FOCUS Report Part II CSE section about the dollar amount of payables to other broker-dealers and clearing organizations.⁴⁶⁹ The detail includes the amount of such payables includible in the reserve computation under Rule 15c3-3.⁴⁷⁰ The proposed Form SBS section requires the same detail about these payables.⁴⁷¹ Additionally, it requires detail about the dollar amount of the payables includible in the reserve computation under proposed Rule 18a-4.⁴⁷²

⁴⁶⁹ See FOCUS Report Part II CSE, Statement of Financial Condition, Lines 21A-21E.

⁴⁷⁰ See FOCUS Report Part II CSE, Statement of Financial Condition, Lines 21A1, 21B1, 21C1, and 21D1.

⁴⁷¹ See Part 1 of proposed Form SBS, Statement of Financial Condition, Lines 20A-20E.

⁴⁷² See Part 1 of proposed Form SBS, Statement of Financial Condition, Lines 20A2, 20B2, 20C2, and 20D2.

Third, a broker-dealer must enter detail in the FOCUS Report Part II CSE section about the dollar amount of payables to securities and commodities customers.⁴⁷³ The broker-dealer also must provide the dollar amount of the payable to securities customers representing free credit balances.⁴⁷⁴ The proposed Form SBS section requires the same detail about payables to securities and commodities customers.⁴⁷⁵ Additionally, it requires detail about the dollar amount of payables to security-based swap customers, including the amount of the payables representing free credits, and the amount of payables to swap customers.⁴⁷⁶

⁴⁷³ See FOCUS Report Part II CSE, Statement of Financial Condition, Lines 22A-22B.

⁴⁷⁴ See FOCUS Report Part II CSE, Line Item 950.

⁴⁷⁵ See Part 1 of proposed Form SBS, Statement of Financial Condition, Lines 21A-21B.

⁴⁷⁶ See Part 1 of proposed Form SBS, Statement of Financial Condition, Lines 21C-21D.

Fourth, a broker-dealer must enter into the FOCUS Report Part II CSE section the dollar amount of payables to securities and commodities non-customers.⁴⁷⁷ The proposed Form SBS section requires the entry of the same information.⁴⁷⁸ Additionally, it requires the entry of the dollar amount of the payables to security-based swap and swap non-customers.⁴⁷⁹

⁴⁷⁷ See FOCUS Report Part II CSE, Statement of Financial Condition, Lines 23A-23B.

⁴⁷⁸ See Part 1 of proposed Form SBS, Statement of Financial Condition, Lines 22A-22B.

⁴⁷⁹ See Part 1 of proposed Form SBS, Statement of Financial Condition, Lines 22C-22D.

Computation of Net Capital

Nonbank SBSDs and broker-dealer MSBSPs would need to complete a computation of net capital section on proposed Form SBS.⁴⁸⁰ Unlike the FOCUS Report Part II CSE, there are two sections on proposed Form SBS: One applicable to filers that are authorized to use internal models; and one applicable to filers that are not authorized to use internal models.⁴⁸¹

⁴⁸⁰ Broker-dealer SBSDs and broker-dealer MSBSPs—as broker-dealers—would be subject to Rule 15c3-1 and, therefore, would be required to compute net capital as that term is defined in the rule. See 17 CFR 240.15c3-1(c)(2). Stand-alone MSBSPs would be subject to a tangible net worth capital standard pursuant to proposed Rule 18a-2, and therefore, would not compute net capital. See Capital, Margin, and Segregation Requirements for Security-Based Swap Dealers and Major Security-Based Swap Participants and Capital Requirements for Broker-Dealers, 77 FR 70256-70257. The Commission has proposed that stand-alone SBSDs be subject to a net capital requirement in proposed Rule 18a-1 that is modeled on Rule 15c3-1. See id. at 70217-70257. Under proposed Rule 18a-1, stand-alone SBSDs would be required to compute net capital as defined in proposed Rule 18a-1. See id. The definition in proposed Rule 18a-1 is modeled on the definition in Rule 15c3-1 and, consequently, proposed Form SBS does not have separate net capital computation sections for broker-dealer filers and stand-alone SBSD filers.

⁴⁸¹ All broker-dealers that file the FOCUS Report Part II CSE have been approved to use models. Accordingly, it does not need to have a computation for broker-dealers not approved to use models.

Computation for Filers Authorized to use Models. The line items in the net capital computation section on proposed Form SBS applicable to filers authorized to use models are largely the same line items in the computation of net capital section on the FOCUS Report Part II CSE.⁴⁸² However, as discussed below, the proposed Form SBS section has additional line items that are not on the FOCUS Report Part II CSE section.

⁴⁸² Compare Part 1 of proposed Form SBS, Computation of Net Capital (Filer Authorized to Use Models), with FOCUS Report Part II CSE, Computation of Net Capital.

First, a broker-dealer must enter detail in the Part II CSE section about deductions and other charges that the firm must subtract from net worth, including the total dollar amount of non-allowable assets from the Statement of Financial Condition.⁴⁸³ The detail includes charges for under-margined securities accounts of customers and non-customers,⁴⁸⁴ and under-margined accounts of commodities customers and non-customers.⁴⁸⁵ The proposed Form SBS section would require the same detail about these deductions.⁴⁸⁶ In addition, the section would require detail about the amount of deductions for under-margined accounts of security-based swap customers and non-customers,⁴⁸⁷ and under-margined accounts of swap customers and non-customers.⁴⁸⁸

⁴⁸³ See FOCUS Report Part II CSE, Computation of Net Capital, Line 6A.

⁴⁸⁴ See FOCUS Report Part II CSE, Computation of Net Capital, Line 6A1. Paragraph (c)(2)(xii) of Rule 15c3-1 requires a broker-dealer to deduct the amount of cash required in each customer's or non-customer's account to meet the maintenance margin requirements of the DEA for the broker-dealer, after application of calls for margin, marks to the market or other required deposits which are outstanding five business days or less. See 17 CFR 240.15c3-1(c)(2)(xii). Broker-dealers are subject to maintenance margin requirements in rules promulgated by their DEAs. See, e.g., FINRA Rules 4210 through 4240.

⁴⁸⁵ See FOCUS Report Part II CSE, Computation of Net Capital Line 6A2. Paragraphs (a)(3)(xii) and (a)(3)(xiii) of Appendix B to Rule 15c3-1 prescribe capital deductions for under-margined customer and non-customer commodity accounts. See 17 CFR 240.15c3-1b(a)(3)(xii) and (xiii).

⁴⁸⁶ See Part 1 of proposed Form SBS, Computation of Net Capital (Filer Authorized to Use Models), Lines 6A1-6A2.

⁴⁸⁷ See Part 1 of proposed Form SBS, Computation of Net Capital (Filer Authorized to Use Models), Line 6A3. The Commission has proposed that nonbank SBSDs be required to deduct the amount of cash required in the account of each security-based swap customer to meet the margin requirements of a clearing agency, DEA, or the Commission, after application of calls for margin, marks to the market, or other required deposits which are outstanding one business day or less and to take certain capital charger in lieu of collecting margin from certain types of entities or with respect to certain types of accounts. See Capital, Margin, and Segregation Requirements for Security-Based Swap Dealers and Major Security-Based Swap Participants and Capital Requirements for Broker-Dealers, 77 FR 70245-70248. In addition, as discussed above in section II.A.2.a. of this release, the Commission has proposed margin requirements for nonbank SBSDs and nonbank MSBSPs with respect to non-cleared security-based swaps. See id. at 70257-70274. Security-based swap clearing agencies require their clearing members to post margin for proprietary and customer positions of the member cleared by the clearing agency. See Process for Submissions for Review of Security-Based Swaps for Mandatory Clearing and Notice Filing Requirements for Clearing Agencies; Technical Amendments to Rule 19b-4 and Form 19b-4 Applicable to All Self-Regulatory Organizations, Exchange Act Release No. 67286 (June 28, 2012), 77 FR 41602, 41603 (July 13, 2012). They also may require their clearing members to collect margin from their security-based swap customers. See id.

⁴⁸⁸ See Part 1 of proposed Form SBS, Computation of Net Capital (Authorized to Use Models), Line 6A4. Derivatives clearing organizations require their clearing members to post margin for proprietary and customer swaps positions of the member cleared by the clearing organization. See Process for Submissions for Review of Security-Based Swaps for Mandatory Clearing and Notice Filing Requirements for Clearing Agencies; Technical Amendments to Rule 19b-4 and Form 19b-4 Applicable to All Self-Regulatory Organizations, 77 FR 41603. They also may require their clearing members to collect margin from their swaps customers. See id.

Second, an ANC broker-dealer must provide detail on a schedule to the FOCUS Report Part II CSE about the credit risk charges it takes as part of its capital computation.⁴⁸⁹ Specifically, the FOCUS Report Part II CSE schedule requires the ANC broker-dealer to provide detail with respect to the three components of the credit risk charge, namely: (1) The aggregate counterparty exposure charge; (2) the aggregate counterparty concentration charge; and (3) the portfolio concentration charge.⁴⁹⁰ Proposed Form SBS would require the same detail about these components of the credit risk charge but require that it be reported in the net capital computation section rather than on a separate schedule.⁴⁹¹ The proposed Form also would require additional detail about the first component of the credit risk charge: the counterparty exposure charge.⁴⁹² Under the proposed capital requirements for nonbank SBSDs, a firm authorized to use models would need to calculate a counterparty exposure charge for a commercial end user in the same manner as an ANC broker-dealer.⁴⁹³ Specifically, the exposure charge for a commercial end user that is insolvent, in a bankruptcy proceeding, or in default of an obligation on its senior debt would be the net replacement value of the security-based swaps with the end user.⁴⁹⁴ The counterparty exposure charge for all other commercial end users would be the credit equivalent amount of the firm's exposure to the end user multiplied by an applicable credit risk weight factor and then multiplied by 8%.⁴⁹⁵ Proposed Form SBS would have line items to enter the aggregate counterparty exposure charge for these two categories of commercial end users (i.e., (1) end users that are insolvent, in a bankruptcy proceeding, or in default of an obligation on their senior debt; and (2) all other end users and to enter the sum of the two categories).⁴⁹⁶

⁴⁸⁹ See FOCUS Report Part II CSE, Schedule 1—FINRA Supplementary Capital Information, Lines 6A-6C. As discussed above in section II.B.3.a. of this release, ANC broker-dealers are permitted to add back to net worth uncollateralized receivables from counterparties arising from OTC derivatives transactions when computing net capital. See 17 CFR 240.15c3-1e(c). Instead of the 100% deduction that applies to most unsecured receivables under Rule 15c3-1, ANC broker-dealers are permitted to take the credit risk charge. See 17 CFR 240.15c3-1(a)(7); 17 CFR 240.15c3-1e(c).

⁴⁹⁰ See Part II CSE, Schedule 1—FINRA Supplementary Capital Information, Lines 6A-6C.

⁴⁹¹ See Part 1 of proposed Form SBS, Computation of Net Capital (Filer Authorized to Use Models), Lines 15A-15C. As discussed above in section II.B.3.a. of this release, the Commission has proposed that ANC broker-dealers be permitted to add back to net worth uncollateralized receivables and take the corresponding credit risk charge but only with respect to receivables from counterparties that are commercial end users as that term would be defined in proposed amendments to Rule 15c3-1 and only with respect to security-based swaps. See Capital, Margin, and Segregation Requirements for Security-Based Swap Dealers and Major Security-Based Swap Participants and Capital Requirements for Broker-Dealers, 77 FR 70240-70245. In addition, the proposed capital requirements for ANC broker-dealer SBSDs and stand-alone ANC SBSDs similarly would allow these registrants to take credit risk charges with respect to uncollateralized receivables but only from commercial end users arising from security-based swaps. See id. Under these proposals, the firms would take a credit risk charge that consists of the three components identified above: (1) A counterparty exposure charge; (2) a concentration charge if the current exposure to a single counterparty exceeds certain thresholds; and (3) a portfolio concentration charge if aggregate current exposure to all counterparties exceeds certain thresholds. See id.

⁴⁹² See Part 1 of proposed Form SBS, Computation of Net Capital (Authorized to Use Models), Line 15A.

⁴⁹³ See Capital, Margin, and Segregation Requirements for Security-Based Swap Dealers and Major Security-Based Swap Participants and Capital Requirements for Broker-Dealers, 77 FR 70240-70245.

⁴⁹⁴ See id.

⁴⁹⁵ See id. The credit equivalent amount is the sum of the firm's: (1) Maximum potential exposure (“MPE”) to the commercial end user multiplied by a backtesting determined factor; and (2) current exposure to the commercial end user. The MPE amount would be a charge to address potential future exposure and would be calculated using the firm's VaR model as applied to the commercial end user's positions after giving effect to a netting agreement with the end user, taking into account collateral received from the end user, and taking into account the current replacement value of the end user's positions. See id. The current exposure amount would be the current replacement value of the commercial end user's positions after giving effect to a netting agreement with the counterparty and taking into account collateral received from the counterparty. See id.

⁴⁹⁶ See Part 1 of proposed Form SBS, Computation of Net Capital (Filer Authorized to Use Models), Lines 15A, 15A1, and 15A2.

Computation for filers not authorized to use models. The line items in the net capital computation section on proposed Form SBS applicable to filers not authorized to use models are largely the same line items in the computation of net capital section on the FOCUS Report Part II.⁴⁹⁷ However, as discussed below, the proposed Form SBS section has additional line items that are not in the Part II section.

⁴⁹⁷ Compare Part 1 of proposed Form SBS, Computation of Net Capital (Filer Not Authorized to Use Models), with the FOCUS Report Part II, Computation of Net Capital. The FOCUS Report Part II is used by broker-dealers that have not been approved to use internal models as part of their net capital computation.

First, as discussed above, the computation section applicable to filers authorized to use models includes line items to enter charges with respect to under-margined security-based swap and swap accounts. The computation section applicable to filers not authorized to use models similarly would require detail about the amount of charges relating to under-margined accounts of security-based swap customers and non-customers,⁴⁹⁸ and under-margined accounts of swap customers and non-customers.⁴⁹⁹

⁴⁹⁸ See Part 1 of proposed Form SBS, Computation of Net Capital (Filer Not Authorized to Use Models), Line 6A3.

⁴⁹⁹ See Part 1 of proposed Form SBS, Computation of Net Capital (Filer Not Authorized to Use Models), Line 6A4.

Second, a broker-dealer that is not authorized to use models is required to enter in the FOCUS Report Part II net capital computation section detail about the dollar amount of the standardized haircuts it takes on various categories of proprietary securities positions.⁵⁰⁰ The proposed Form SBS section requires the same detail about standardized haircuts.⁵⁰¹ The section also requires additional entries for the amount of the standardized haircuts applied to security-based swap ⁵⁰² and swap positions.⁵⁰³

⁵⁰⁰ See FOCUS Report Part II, Computation of Net Capital, Lines 9A-9E.

⁵⁰¹ See Part 1 of proposed Form SBS, Computation of Net Capital (Filer Not Authorized to Use Models), Lines 9A-9E.

⁵⁰² See Part 1 of proposed Form SBS, Computation of Net Capital (Filer Not Authorized to Use Models), Line 10. The proposed capital rules for nonbank SBSDs would prescribe standardized haircuts for security-based swaps. See Capital, Margin, and Segregation Requirements for Security-Based Swap Dealers and Major Security-Based Swap Participants and Capital Requirements for Broker-Dealers, 77 FR 70231-70237.

⁵⁰³ See Part 1 of proposed Form SBS, Computation of Net Capital (Filer Not Authorized to Use Models), Line 11. The proposed capital rules for nonbank SBSDs would prescribe standardized haircuts for swaps. See Capital, Margin, and Segregation Requirements for Security-Based Swap Dealers and Major Security-Based Swap Participants and Capital Requirements for Broker-Dealers, 77 FR 70248-70250.

Computation of Minimum Regulatory Capital Requirements

Proposed Form SBS has two sections for computing minimum required net capital: One for broker-dealer filers (i.e., broker-dealer SBSDs and broker-dealer MSBSPs) and one for stand-alone SBSDs.⁵⁰⁴ As discussed above in section II.A.3.a. of this release, Rule 15c3-1, as proposed to be amended, and proposed Rule 18a-1 would prescribe minimum net capital requirements applicable to nonbank SBSDs as the greater of a fixed-dollar amount and a ratio amount.⁵⁰⁵ The ratio amount applicable to a broker-dealer SBSD would be the sum of the current ratio amount prescribed in Rule 15c3-1 (the 15-to-1 aggregate indebtedness to net capital ratio or the 2% of aggregate debit items ratio) and an amount equal to the 8% margin factor.⁵⁰⁶ The ratio amount applicable to a stand-alone SBSD would be an amount equal solely to the 8% margin factor.⁵⁰⁷ Because the minimum net capital requirement computation that would be applicable to a broker-dealer filer differs from the computation that would be applicable to a stand-alone SBSD, proposed Form SBS would contain a separate section for each type of filer. The line items in the minimum net capital requirement section on proposed Form SBS applicable to broker-dealer filers are largely the same line items in the minimum net capital requirement section on the FOCUS Report Part II.⁵⁰⁸ The computation section applicable to stand-alone SBSDs is a substantially scaled down version of the parallel FOCUS Report Part II section. As discussed below, both sections on proposed Form SBS have additional line items that are not on the Part II section.

⁵⁰⁴ See Part 1 of proposed Form SBS, Broker-Dealer Computation of Minimum Regulatory Capital Requirements and Non-Broker-Dealer Computation of Minimum Regulatory Capital Requirements. As noted above, broker-dealer MSBSPS—as broker-dealers—would be subject to Rule 15c3-1, and therefore would be subject to a minimum net capital requirement. See 17 CFR 140.15c3-1(a). Stand-alone MSBSPs would be subject to a tangible net worth standard pursuant to proposed Rule 18a-2, and therefore would not be subject to a minimum net capital requirement. See Capital, Margin, and Segregation Requirements for Security-Based Swap Dealers and Major Security-Based Swap Participants and Capital Requirements for Broker-Dealers, 77 FR 70256-70257.

⁵⁰⁵ See Capital, Margin, and Segregation Requirements for Security-Based Swap Dealers and Major Security-Based Swap Participants and Capital Requirements for Broker-Dealers, 77 FR 70221-70229.

⁵⁰⁶ See id.

⁵⁰⁷ See id. Neither the 15-to-1 aggregate indebtedness to net capital ratio nor the 2% of aggregate debit items ratio would apply to stand-alone SBSDs. See id.

⁵⁰⁸ Compare Part 1 of proposed Form SBS, Computation of Minimum Regulatory Capital Requirements (Broker-Dealer), with the FOCUS Report Part II, Computation of Basic Net Capital Requirement, Computation of Aggregate Indebtedness, Computation of Alternate Net Capital Requirement, and Other Ratios.

First, both sections require the entry of detail about the amount of excess tentative net capital held by the firm.⁵⁰⁹ The proposed capital requirements for nonbank SBSDs prescribe minimum tentative net capital requirements for ANC broker-dealer SBSDs and stand-alone ANC SBSDs.⁵¹⁰ These filers would need to indicate in proposed Form SBS: (1) The amount of tentative net capital they maintain; (2) their minimum tentative net capital requirement; ⁵¹¹ (3) their excess tentative net capital; ⁵¹² and (4) the amount of tentative net capital in excess of 120% of their minimum tentative net capital requirement.⁵¹³

⁵⁰⁹ See Part 1 of proposed Form SBS, Computation of Minimum Regulatory Capital Requirements (Broker-Dealer), Lines 1-4; Part 1 of proposed Form SBS, Computation of Minimum Regulatory Capital Requirements (Non-Broker-Dealer), Lines 1-4.

⁵¹⁰ See Capital, Margin, and Segregation Requirements for Security-Based Swap Dealers and Major Security-Based Swap Participants and Capital Requirements for Broker-Dealers, 77 FR 70226-70227. Tentative net capital would be the amount of net capital maintained by the firm before applying standardized haircuts or using internal models to determine deductions on the mark-to-market value of proprietary positions to arrive at the broker-dealer's amount of net capital. See id. The minimum tentative net capital requirement is designed to account for the fact that VaR models, while more risk sensitive than standardized haircuts, tend to substantially reduce the amount of the deductions to tentative net capital in comparison to the standardized haircuts because the models recognize more offsets between related positions (i.e., positions that show historical correlations) than the standardized haircuts. See id.

⁵¹¹ Under the proposed capital requirements, an ANC broker-dealer SBSD would be required to maintain minimum tentative net capital of $5 billion and a stand-alone ANC SBSD would be required to maintain minimum tentative net capital of $100 million. See Capital, Margin, and Segregation Requirements for Security-Based Swap Dealers and Major Security-Based Swap Participants and Capital Requirements for Broker-Dealers, 77 FR 70226-70227.

⁵¹² The amount of excess tentative net capital would be the amount that the tentative net capital exceeds the amount of required tentative net capital.

⁵¹³ As discussed below in section II.C.2. of the release, Rule 17a-11, as proposed to be amended, and proposed Rule 18a-8 would require an ANC broker-dealer SBSD and a stand-alone ANC SBSD to file a regulatory notice if the firm's tentative net capital falls below 120% of its required minimum tentative net capital.

Second, both sections would have line items to enter the amount of the 8% margin factor. As discussed above, the minimum net capital requirement for a nonbank SBSD would be the greater of a fixed-dollar amount and a ratio amount. The ratio amount for a broker-dealer SBSD would be the sum of the existing ratio requirement and the 8% margin factor. Consequently, the computation section for broker-dealer filers has line items to enter amounts for (as applicable): (1) The 15-to-1 aggregate indebtedness to net capital ratio; (2) the 2% of aggregate debit items ratio; and (3) the 8% margin factor.⁵¹⁴ The section for stand-alone SBSDs has a line item to enter the 8% margin factor.⁵¹⁵

⁵¹⁴ See Part 1 of proposed Form SBS, Computation of Minimum Regulatory Capital Requirements (Broker-Dealer), Lines 4A-4C.

⁵¹⁵ See Part 1 of proposed Form SBS, Computation of Minimum Regulatory Capital Requirements (Non-Broker-Dealer), Line 4.

Third, a broker-dealer must provide detail in the FOCUS Report Part II CSE section about the dollar amount of net capital in excess of the greater of: (1) 5% of combined aggregate debit items; and (2) 120% of the firm's minimum net capital requirement.⁵¹⁶ The proposed Form SBS sections would require a broker-dealer SBSD, broker-dealer MSBSP, and stand-alone SBSD to enter the amount of net capital in excess of 120% of the minimum net capital requirement.⁵¹⁷

⁵¹⁶ See FOCUS Report Part II CSE, Computation of Net Capital Requirement, Line 15. As discussed below in section II.C.2. of the release, Rule 17a-11 requires a broker to give notification when its net capital falls below 5% of aggregate debit items and when its net capital falls below 120% of the minimum net capital requirement. See 17 CFR 240.17a-11(c)(2)-(3).

⁵¹⁷ See Part 1 of proposed Form SBS, Computation of Minimum Regulatory Capital Requirements (Broker-Dealer), Line 9A. See also Part 1 of proposed Form SBS, Computation of Minimum Regulatory Capital Requirements (Non-Broker-Dealer), Line 9A. As noted above, Rule 17a-11 requires a broker dealer to give notification when its net capital computation performed pursuant to Rule 15c3-1 shows that its total net capital is less than 120% of the broker-dealer's required minimum net capital. See 17 CFR 240.17a-11(c)(3). As discussed below in section II.C.2. of the release, proposed Rule 18a-8 would require a stand-alone SBSD to notify the Commission when its net capital computation shows that its total net capital is less than 120% of the SBSD's required minimum net capital.

Statement of Income (Loss)

FINRA has adopted Form SSOI with the Commission's approval “to magnify the data from the Statement of Income (Loss) page of the FOCUS Report.” ⁵¹⁸ The statement of income (loss) section on proposed Form SBS is modeled on Form SSOI and uses the same line items to report information about categories of revenues and expenses.⁵¹⁹ However, as discussed below, the proposed Form SBS section has additional line items that are not on Form SSOI.

⁵¹⁸ Self-Regulatory Organizations; Financial Industry Regulatory Authority, Inc.; Notice of Filing of Amendment No. 2 and Order Granting Accelerated Approval of a Proposed Rule Change, as Modified By Amendment No. 2, Adopting FINRA Rule 4524 (Supplemental FOCUS Information) and Proposed Supplementary Schedule to the Statement of Income (Loss) Page of FOCUS Reports, Exchange Act Release No. 66364 (Feb. 9, 2012), 77 FR 8938 (Feb. 15, 2012). (Form SSOI “is intended to capture more granular detail of a firm's revenue and expense information. The lack of more specific revenue and expense categories for certain business activities on the Statement of Income (Loss) Page has led many firms to report much of their revenue and expenses as `other' (miscellaneous), a very general categorization that provides FINRA limited visibility into revenue and expense trends.”) Form SSOI is available at http://www.finra.org/web/groups/industry/@ip/@reg/@notice/documents/industry/p125702.pdf.

⁵¹⁹ Compare Part 1 of proposed Form SBS, Statement of Income (Loss), with Form SSOI.

First, a broker-dealer is required to enter into Form SSOI detail about the amount of revenue attributable to fees or commissions with respect to various categories of securities.⁵²⁰ The statement of income (loss) section on proposed Form SBS would require a nonbank SBSD or nonbank MSBSP to enter the same information.⁵²¹ In addition, the section would elicit information about commissions and fees attributable to security-based swaps, mixed swaps, and swaps.⁵²²

⁵²⁰ See FINRA Form SSOI, Lines 1A-1M.

⁵²¹ See Part 1 of proposed Form SBS, Statement of Income (Loss), Lines 1A-1P.

⁵²² See Part 1 of proposed Form SBS, Statement of Income (Loss), Lines 1M-1O.

Second, a broker-dealer is required to enter into Form SSOI detail about the amount of revenue attributable to gains or losses on principal trades with respect to various categories of financial instruments, including security-based swaps and swaps.⁵²³ The statement of income (loss) section on proposed Form SBS would require an SBSD or MSBSP to enter the same information, except that it would require additional detail about gains or losses with respect to security-based swaps and swaps.⁵²⁴ Specifically, the section would require entries for gains and losses with respect to the following categories of security-based swaps: (1) Debt security-based swaps (other than credit default swaps); (2) equity security-based swaps, (3) credit default swaps; and (4) other security-based swaps.⁵²⁵ It further would require entries for gains and losses with respect to mixed swaps ⁵²⁶ and the following categories of swaps: (1) Interest rate swaps; (2) foreign exchange swaps; (3) commodity swaps; (4) debt index swaps (other than credit default swaps); (5) equity index swaps; (6) credit default swaps; and (7) other swaps.⁵²⁷

⁵²³ See FINRA Form SSOI, Lines 5A-5O.

⁵²⁴ See Part 1 of proposed Form SBS, Statement of Income (Loss), Lines 5A-5P.

⁵²⁵ See Part 1 of proposed Form SBS, Statement of Income (Loss), Lines 5L1-5L4.

⁵²⁶ See Part 1 of proposed Form SBS, Statement of Income (Loss), Line 5M.

⁵²⁷ See Part 1 of proposed Form SBS, Statement of Income (Loss), Lines 5N1-5N7.

Third, a broker-dealer is required to enter into the statement of income (loss) section on the FOCUS Report Part II detail about the amount of gains or losses on the firm's securities investment accounts.⁵²⁸ Specifically, the section requires: (1) The dollar amount of the realized gains or losses; (2) the dollar amount of the unrealized gains or losses; and (3) the total dollar amount of the gains or losses.⁵²⁹ Form SSOI requires the total dollar amount of gains or losses on firm investments but not the detail on the realized and unrealized gains or losses that must be reported on the FOCUS Report Part II.⁵³⁰ The statement of income (loss) section on proposed Form SBS would require an SBSD or MSBSP to report the same detail about capital gains and losses on investment accounts as the FOCUS Report Part II.⁵³¹

⁵²⁸ See FOCUS Report Part II Lines 3a-3c.

⁵²⁹ See id.

⁵³⁰ See FINRA Form SSOI, Line 6.

⁵³¹ See Part 1 of proposed Form SBS, Statement of Income (Loss), Lines 6A-6C.

Computation of Tangible Net Worth

Proposed Rule 18a-2 would require stand-alone MSBSPs to maintain positive tangible net worth.⁵³² Under proposed Rule 18a-2, tangible net worth would be defined to mean the MSBSP's net worth, as determined in accordance with GAAP in the U.S., excluding goodwill and other intangible assets.⁵³³ Part 1 of proposed Form SBS has a computation of tangible net worth section that would need to be completed by an MSBSP.⁵³⁴ In separate lines, the MSBSP would enter: (1) Total ownership equity; and (2) goodwill and other intangible assets.⁵³⁵ The difference between those two line items would be entered in a third line to indicate the MSBSP's tangible net worth.⁵³⁶

⁵³² See Capital, Margin, and Segregation Requirements for Security-Based Swap Dealers and Major Security-Based Swap Participants and Capital Requirements for Broker-Dealers, 77 FR 70256-70257.

⁵³³ See id.

⁵³⁴ See Part 1 of proposed Form SBS, Computation of Tangible Net Worth.

⁵³⁵ See Part 1 of proposed Form SBS, Computation of Tangible Net Worth, Lines 1 and 2.

⁵³⁶ See Part 1 of proposed Form SBS, Computation of Tangible Net Worth, Line 3.

Reserve Account Computation Under Proposed Rule 18a-4

Proposed Rule 18a-4 would require an SBSD, among other things, to maintain a security-based swap customer reserve account at a bank separate from any other bank account of the SBSD.⁵³⁷ Further, proposed Rule 18a-4 would provide that the SBSD must at all times maintain in the security-based swap customer reserve bank account cash and/or qualified securities in amounts computed daily in accordance with a formula set forth in Exhibit A to proposed Rule 18a-4.⁵³⁸ The formula in Exhibit A to proposed Rule 18a-4 is modeled closely on the formula in Exhibit A to Rule 15c3-3.⁵³⁹ Consequently, the steps necessary to compute the reserve account deposit requirement under proposed Rule 18a-4 are, for the most part, the same steps necessary to compute the reserve account deposit requirement under Rule 15c3-3.

⁵³⁷ See Capital, Margin, and Segregation Requirements for Security-Based Swap Dealers and Major Security-Based Swap Participants and Capital Requirements for Broker-Dealers, 77 FR 70282-70287. As noted above, broker-dealer SBSDs and broker-dealer MSBSPs would be subject to Rule 15c3-3 with respect to customers that are not security-based swap customers and, in the case of a broker-dealer SBSD, Rule 18a-4 with respect to security-based swap customers. Proposed Rule 18a-4 would provide that the SBSD must at all times maintain in the security-based swap customer reserve account cash and/or qualified securities in amounts computed daily in accordance with Exhibit A to proposed Rule 18a-4.

⁵³⁸ See Capital, Margin, and Segregation Requirements for Security-Based Swap Dealers and Major Security-Based Swap Participants and Capital Requirements for Broker-Dealers, 77 FR 70282-70287.

⁵³⁹ See id.

Part 1 of proposed Form SBS has a section on which a broker-dealer SBSD or stand-alone SBSD would provide a computation of the deposit requirement for the security-based swap customer reserve account.⁵⁴⁰ The section is modeled on the sections in the FOCUS Report Part II and Part II CSE on which broker-dealers provide a computation of the reserve account deposit requirement under Rule 15c3-3.⁵⁴¹ The computation section on proposed Form SBS has two line items that are not on the FOCUS Report Part II CSE or Part II section to account for two additional debit items that are part of the formula in Appendix A to proposed Rule 18a-4.⁵⁴²

⁵⁴⁰ See Part 1 of proposed Form SBS, Computation for Determination of the Amount to be Maintained in the Special Account for the Exclusive Benefit of Security-Based Swap Customers—Rule 18a-4, Exhibit A. Part 2 of proposed Form SBS has an identical section that a bank SBSD would complete.

⁵⁴¹ Compare Part 1 of proposed Form SBS, Computation for Determination of the Amount to be Maintained in the Special Account for the Exclusive Benefit of Security-Based Swap Customers—Rule 18a-4, Exhibit A, with FOCUS Report Part II CSE, Computation for the Determination of Reserve Requirements for Broker-Dealers under Rule 15c3-3, and FOCUS Report Part II, Computation for the Determination of Reserve Requirements for Broker-Dealers under Rule 15c3-3.

⁵⁴² See Part 1 of proposed Form SBS, Computation for Determination of the Amount to be Maintained in the Special Account for the Exclusive Benefit of Security-Based Swap Customers—Rule 18a-4, Exhibit A, Lines 17 and 18. The line items on these lines require the entry of the amount of margin required and on deposit related to cleared and non-cleared security-based swaps. See also Capital, Margin, and Segregation Requirements for Security-Based Swap Dealers and Major Security-Based Swap Participants and Capital Requirements for Broker-Dealers, 77 FR 70282-70287.

Information for Possession or Control Requirements Under Proposed Rule 18a-4

Proposed Rule 18a-4 would require an SBSD to promptly obtain and thereafter maintain physical possession or control of all excess securities collateral carried for the accounts of security-based swap customers.⁵⁴³ Part 1 of proposed Form SBS has a section on which a broker-dealer SBSD or a stand-alone SBSD would enter information related to the possession or control requirements of Rule 18a-4.⁵⁴⁴ The section is modeled on the sections in the FOCUS Report Part II and Part II CSE on which broker-dealers report information related to the possession or control requirements of Rule 15c3-3.⁵⁴⁵

⁵⁴³ Under proposed Rule 18a-4, the term excess securities collateral would be defined to mean securities and money market instruments carried for the account of a security-based swap customer that have a market value in excess of the current exposure of the SBSD to the customer, excluding, under certain specified conditions, securities or money market instruments used to meet a margin requirement of a registered security-based swap clearing agency or of another SBSD. See Capital, Margin, and Segregation Requirements for Security-Based Swap Dealers and Major Security-Based Swap Participants and Capital Requirements for Broker-Dealers, 77 FR 70279. The term security-based swap customer would be defined to mean any person from whom or on whose behalf the SBSD has received or acquired or holds funds or other property for the account of the person with respect to a cleared or non-cleared security-based swap transaction. See id. at 70278. The definition would exclude a person to the extent that person has a claim for funds or other property which by contract, agreement or understanding, or by operation of law, is part of the capital of the SBSD or is subordinated to all claims of security-based swap customers of the SBSD. See id.

⁵⁴⁴ See Part 1 of proposed Form SBS, Information for Possession or Control Requirements under Rule 18a-4. Part 2 of proposed Form SBS has an identical section that a bank SBSD would complete.

⁵⁴⁵ Compare Part 1 of proposed Form SBS, Computation for Determination of the Amount to be Maintained in the Special Account for the Exclusive Benefit of Security-Based Swap Customers—Rule 18a-4, Exhibit A, with FOCUS Report Part II CSE, Computation for the Determination of Reserve Requirements for Broker-Dealers under Rule 15c3-3, and FOCUS Report Part II, Computation for the Determination of Reserve Requirements for Broker-Dealers under Rule 15c3-3.

ii. Part 2 of Proposed Form SBS

As discussed above, the proposed reporting requirements for bank SBSDs and bank MSBSPs generally are designed to be tailored specifically to their activities as an SBSD or an MSBSP. However, in order to be able to monitor the financial condition of bank SBSDs and bank MSBSPs, the Commission is proposing a limited program of reporting certain general financial information by these registrants, which is based on the reporting requirements of the prudential regulators. Specifically, banks are required to file quarterly reports on FFIEC Form 031.⁵⁴⁶ Like the FOCUS Report, FFIEC Form 031 elicits financial and operational information about a bank, which is entered into uniquely numbered line items. Part 2 of proposed Form SBS would require a bank SBSD or a bank MSBSP to report certain of the information reported on FFIEC Form 031.⁵⁴⁷ Specifically, Part 2 has: (1) A balance sheet section that largely mirrors Schedule RC to FFIEC Form 031; (2) a statement of regulatory capital section that is a scaled down version of Schedule RC-R to FFIEC Form 031; and (3) an income statement section that is a scaled down version of Schedule RI to FFIEC Form 031. Line items on proposed Form SBS that correspond to line items on FFIEC Form 031 would require the entry of the same type of information.⁵⁴⁸

⁵⁴⁶ See 12 U.S.C. 161; 12 U.S.C. 324; 12 U.S.C. 1464; and 12 U.S.C. 1817. FFIEC Form 031 is available at http://www.ffiec.gov/pdf/FFIEC_forms/FFIEC031_201303_f.pdf.

⁵⁴⁷ Obtaining a bank's FFIEC Form 031 information through Form SBS will allow Commission staff to easily and efficiently retrieve and transfer the information into a database where values can be compared over time and with other firms. For example, broker-dealers submit FOCUS Reports electronically to FINRA through a user-interactive portal known as “eFOCUS.” This allows FINRA and Commission staff to easily and efficiently retrieve firm-specific data as well as aggregate data across firms.

⁵⁴⁸ The identifying number of each Line Item on proposed Form SBS shares the same first four characters as the corresponding Line Item on FFIEC Form 031. However, the Form SBS line items end with an additional “b” character. For example, Line Item 0081 on FFIEC Form 031 is Line Item 0081b on proposed Form SBS. The additional “b” accounts for the fact that some of the line items on FFIEC Form 031 have the same unique numbers as line items on the FOCUS Report.

Part 2 of proposed Form SBS also has sections for: (1) A reserve account computation under proposed Rule 18a-4; and (2) information for possession or control requirements under proposed Rule 18a-4. The sections of Part 2 are discussed below.

Balance Sheet

A bank must report detail about its assets, liabilities, and equity capital on Schedule RC to FFIEC Form 031.⁵⁴⁹ Schedule RC also has a “Memoranda” section that elicits information about the bank's external auditors and fiscal year end date.⁵⁵⁰ Bank SBSDs and bank MSBSPs would be required to report detail about their assets, liabilities, and equity capital on a balance sheet section on Part 2 of proposed Form SBS.⁵⁵¹ The balance sheet section would have the same line items as Schedule RC to FFIEC Form 031, except it would not include line items from the “Memoranda” section.⁵⁵² Consequently, bank SBSDs and bank MSBSPs would be required to report in proposed Form SBS the same information about assets, liabilities, and equity capital that they report in Schedule RC (excluding the Memoranda information).

⁵⁴⁹ See FFIEC Form 031, Schedule RC, Balance Sheet, Lines 1-29.

⁵⁵⁰ See FFIEC Form 031, Schedule RC, Balance Sheet, Memoranda, Lines 1-2.

⁵⁵¹ See Part 2 of proposed Form SBS, Balance Sheet (Information As Reported On FFIEC Form 031—Schedule RC), Lines 1-29.

⁵⁵² Compare Part 2 of proposed Form SBS, Balance Sheet (Information As Reported On FFIEC Form 031—Schedule RC), Lines 1-29, with FFIEC Form 031, Schedule RC, Balance Sheet, Lines 1-29.

Regulatory Capital

A bank must report detail about its regulatory capital on Schedule RC-R to FFIEC Form 031.⁵⁵³ Schedule RC-R also has a “Memoranda” section that elicits detail about derivatives.⁵⁵⁴ The information elicited on Schedule RC-R is designed to facilitate an analysis of the bank's regulatory capital. As discussed above in section II.A.1. of this release, the prudential regulators are responsible for administering capital requirements for bank SBSDs and bank MSBSPs.⁵⁵⁵ The prudential regulators have proposed capital rules that would require a bank SBSD or bank MSBSP to comply with the capital rules applicable to banks.⁵⁵⁶

⁵⁵³ See FFIEC Form 031, Schedule RC-R, Regulatory Capital, Lines 1-62.

⁵⁵⁴ See FFIEC Form 031, Schedule RC-R, Regulatory Capital, Memoranda, Lines 1-2.

⁵⁵⁵ See 15 U.S.C. 78o-10(e)(2).

⁵⁵⁶ See Margin and Capital Requirements for Covered Swap Entities, 76 FR 27564.

Bank SBSDs and bank MSBSPs would be required to report detail about their regulatory capital on a section on Part 2 of proposed Form SBS.⁵⁵⁷ The regulatory capital section would include certain—but not all—of the line items on Schedule RC-R.⁵⁵⁸ The included line items require a bank to enter total amounts of the components of bank regulatory capital (e.g., total Tier 1, Tier 2, or Tier 3 capital) and other summary measures. The objective is to require high level reporting of key elements of the regulatory capital of a bank SBSD or bank MSBSP to obtain a profile of the firm's regulatory capital position. Thus, the information elicited in Part 2 of proposed Form SBS would not involve the level of detail required by the prudential regulators on Schedule RC-R.

⁵⁵⁷ See Part 2 of Proposed Form SBS, Regulatory Capital (Information As Reported On FFIEC Form 031—Schedule RC-R), Lines 1-10.

⁵⁵⁸ See Line Items 3210, 8274, 5311, 1395, 3792, A223, L138, 7204, 7206, 7205, 7273, 7274, and 7275 of FFIEC Form 031 and proposed Form SBS.

Income Statement

A bank must report detail about its income (loss) and expenses on Schedule RI to FFIEC Form 031.⁵⁵⁹ Schedule RI also has a “Memoranda” section that elicits further detail about income (loss).⁵⁶⁰ Bank SBSDs and bank MSBSPs would be required to report detail about their income (loss) and expenses on an income section on Part 2 of proposed Form SBS.⁵⁶¹ However, the level of detail would be significantly less than is required in Schedule RI. Specifically, to focus the reporting on summary information and information relevant to securities and derivatives activities, the income section only includes line items from Schedule RI that require the entry of: (1) Total amounts for categories of income, expense, and loss; ⁵⁶² (2) detail about gains and losses on securities positions; ⁵⁶³ (3) detail about trading revenues; ⁵⁶⁴ and (4) detail about gains and losses on derivatives.⁵⁶⁵

⁵⁵⁹ See FFIEC Form 031, Schedule RI, Income Statement, Lines 1-14.

⁵⁶⁰ See FFIEC Form 031, Schedule RI, Income Statement, Memoranda, Lines 1-14.

⁵⁶¹ See Part 2 of Proposed Form SBS, Income Statement (Information As Reported On FFIEC Form 031—Schedule RI), Lines 1-11.

⁵⁶² See Line Items 4107, 4073, 4079, 4093, 4301, and 4340 of FFIEC Form 031 and proposed Form SBS.

⁵⁶³ See Line Items 3521 and 3196 of FFIEC Form 031 and proposed Form SBS.

⁵⁶⁴ See Line Items 8757, 8758, 8759, 8760, F186, K090, and K094 of FFIEC Form 031 and proposed Form SBS.

⁵⁶⁵ See Line Items C889, C890, and A251 of FFIEC Form 031 and proposed Form SBS.

Reserve Account Computation Under Proposed Rule 18a-4

As discussed above, Part 1 of proposed Form SBS has a section on which a broker-dealer SBSD or stand-alone SBSD would provide a computation of the deposit requirement for the security-based swap customer reserve account.⁵⁶⁶ This section is modeled on the sections of the FOCUS Report Part II and Part II CSE on which broker-dealers provide a computation of the customer reserve account deposit requirement under Rule 15c3-3.⁵⁶⁷ Part 2 of proposed Form SBS has an identical section that would be completed by a bank SBSD.⁵⁶⁸

⁵⁶⁶ See Part 1 of proposed Form SBS, Computation for Determination of the Amount to be Maintained in the Special Account for the Exclusive Benefit of Security-Based Swap Customers—Rule 18a-4, Exhibit A.

⁵⁶⁷ Compare Part 1 of proposed Form SBS, Computation for Determination of the Amount to be Maintained in the Special Account for the Exclusive Benefit of Security-Based Swap Customers—Rule 18a-4, Exhibit A, with the FOCUS Report Part II CSE, Computation for the Determination of Reserve Requirements for Broker-Dealers under Rule 15c3-3 and the FOCUS Report Part II, Computation for the Determination of Reserve Requirements for Broker-Dealers under Rule 15c3-3.

⁵⁶⁸ See Part 1 of proposed Form SBS, Computation for Determination of the Amount to be Maintained in the Special Account for the Exclusive Benefit of Security-Based Swap Customers—Rule 18a-4, Exhibit A.

Information for Possession or Control Requirements Under Proposed Rule 18a-4

As discussed above, Part 1 of proposed Form SBS has a section on which a broker-dealer SBSD or a stand-alone SBSD would enter information related to the possession or control requirements of Rule 18a-4.⁵⁶⁹ The section is modeled on the sections of the FOCUS Report Part II and Part II CSE on which broker-dealers provide information related to the possession or control requirements of Rule 15c3-3.⁵⁷⁰ Part 2 of proposed Form SBS has an identical section that would be completed by a bank SBSD.⁵⁷¹

⁵⁶⁹ See Part 1 of proposed Form SBS, Information for Possession or Control Requirements under Rule 18a-4.

⁵⁷⁰ Compare Part 1 of proposed Form SBS, Computation for Determination of the Amount to be Maintained in the Special Account for the Exclusive Benefit of Security-Based Swap Customers—Rule 18a-4, Exhibit A, with the FOCUS Report Part II CSE, Computation for the Determination of Reserve Requirements for Broker-Dealers under Rule 15c3-3 and the FOCUS Report Part II, Computation for the Determination of Reserve Requirements for Broker-Dealers under Rule 15c3-3.

⁵⁷¹ See Part 2 of proposed Form SBS, Information for Possession or Control Requirements under Rule 18a-4.

iii. Part 3 of Proposed Form SBS

FCMs are required to periodically file with the CFTC and their designated SRO Form 1-FR-FCM.⁵⁷² Like the FOCUS Report and FFIEC Form 031, Form 1-FR-FCM elicits financial and operational information about an FCM, which is entered into uniquely numbered line items. To account for ANC broker-dealers that are dually registered as FCMs, the FOCUS Report Part II CSE incorporates, substantially in the same format, the following from Form 1-FR FCM: ⁵⁷³ (1) A section to show a statement of segregation requirements and funds in segregation for customers trading on U.S. commodity exchanges; ⁵⁷⁴ (2) a section to show a statement of segregation requirements and funds in segregation for customers' dealer options account; ⁵⁷⁵ (3) a section to show a summary statement of secured amounts and funds held in separate accounts for foreign futures and foreign options customers pursuant to CFTC Regulation 30.7; ⁵⁷⁶ (4) a section to show a statement of secured amounts and funds held in separate accounts for foreign futures and foreign options customers pursuant to CFTC Regulation 30.7; ⁵⁷⁷ and (5) a section to show a computation of the firm's minimum capital requirement.⁵⁷⁸ An ANC broker-dealer dually registered as an FCM can file the FOCUS Report Part II CSE rather than Form 1-FR-FCM.⁵⁷⁹

⁵⁷² See 17 CFR 1.10. See also Form 1-FR-FCM, available at http://www.nfa.futures.org/NFA-registration/templates-and-forms/form1FR-fcm.HTML.

⁵⁷³ The FOCUS Report Part II CSE assigns different numbers to the line items.

⁵⁷⁴ See FOCUS Report Part II CSE, Statement of Segregation Requirements and Funds in Segregation for Customers Trading on U.S. Commodity Exchanges, Lines 1-14. Section 4d of the CEA requires each FCM to segregate from its own assets all money, securities and other property deposited by futures customers to margin, secure, or guarantee futures contracts and options on futures contracts traded on designated contract markets. It further requires an FCM to treat and deal with futures customer funds as belonging to the futures customer, and prohibits an FCM from using the funds deposited by the futures customer to margin or extend credit to any person other than the futures customer that deposited the funds. 7 U.S.C. 6d. The CFTC has adopted Rules 1.20 through 1.30 to implement section 4d. See 17 CFR 1.20 through 1.30. The Statement of Segregation Requirements and Funds in Segregation for Customers Trading on U.S. Commodity Exchanges generally indicates the total amount of funds held by the FCM in segregated accounts, the total amount of funds that the FCM must hold in segregated accounts to meet its regulatory obligations to futures customers, and whether the firm holds excess segregated funds in the segregated accounts as of the reporting date.

⁵⁷⁵ See FOCUS Report Part II CSE, Statement of Segregation Requirements and Funds in Segregation for Customers' Dealer Options Accounts, Lines 1-3. Rule 1.32 requires an FCM to prepare a daily computation which shows: (1) The amount of funds that an FCM is required to segregate for customers who are trading on U.S. commodity exchanges pursuant to the CEA and CFTC rules; (2) the amount of funds the FCM actually has in segregated accounts; and (3) the amount, if any, of the FCM's residual interest in the customer funds segregated. See 17 CFR 1.32.

⁵⁷⁶ See FOCUS Report Part II CSE, Statement of Secured Amounts and Funds Held in Separate Accounts for Foreign Futures and Foreign Options Customers Pursuant to Commission Regulation 30.7, Foreign Futures and Foreign Options Secured Amount: Summary, Lines I-II, 1-3. Section 4(b) of the CEA provides that the CFTC may adopt rules and regulations proscribing fraud and requiring minimum financial standards, the disclosure of risk, the filing of reports, the keeping of books and records, the safeguarding of the funds deposited by persons for trading on foreign markets, and registration with the CFTC by any person located in the U.S. who engages in the offer or sale of any contract of sale of a commodity for future delivery that is made subject to the rules of a board of trade located outside of the U.S. See 7 U.S.C. 6. Pursuant to section 4(b), the CFTC adopted Part 30 of its regulations to address foreign futures and foreign option transactions. See 17 CFR 30.1 through 30.13. Rule 30.7 provides that an FCM may deposit the funds belonging to foreign futures or foreign options customer in an account or accounts maintained at a bank or trust company located in the U.S., a bank or trust company located outside the U.S. that has in excess of $1 billion of regulatory capital, an FCM registered with the CFTC, a derivatives clearing organization, a member of a foreign board of trade, a foreign clearing organization, or a depository selected by the member of a foreign board of trade or foreign clearing organization. See 17 CFR 30.7.

⁵⁷⁷ See FOCUS Report Part II CSE, Statement of Secured Amounts and Funds Held in Separate Accounts for Foreign Futures and Foreign Options Customers Pursuant to Commission Regulation 30.7, Funds Deposited In Separate 17 CFR § 30.7 Accounts, Lines 1-8. This statement generally indicates the total amount of funds held by the FCM in secured accounts, the total amount of funds that the FCM must hold in secured accounts to meet its regulatory obligations to foreign futures or foreign options customers, and whether the firm holds excess secured funds in the secured accounts as of the reporting date.

⁵⁷⁸ See FOCUS Report Part II CSE, Computation of CFTC Minimum Net Capital Requirement, Lines A-C. A broker-dealer dually registered as an FCM is required to maintain net capital in an amount at least equal to the greater of: (1) The minimum amount required of a broker-dealer under Rule 15c3-1; and (2) the minimum amount required of an FCM under CFTC Rule 1.17. See 17 CFR 1.17; 17 CFR 240.15c3-1.

⁵⁷⁹ See 17 CFR 1.10(h) (allowing broker-dealers to file the FOCUS Report instead of Form 1-FR-FCM so long as all information required to be furnished on and submitted with Form 1-FR-FCM is provided with the FOCUS Report). See also instructions to Form 1-FR-FCM, available at http://www.cftc.gov/ucm/groups/public/@iointermediaries/documents/file/1fr-fcminstructions.pdf; Enhancing Protections Afforded Customers and Customer Funds Held by Futures Commission Merchants and Derivatives Clearing Organizations, 78 FR 68506, 68513 (Nov. 14, 2013).

The CFTC recently adopted amendments to Form 1-FR-FCM that change the format of the sections identified in items (1), (3), and (4) above to enhance customer protections, risk management programs, internal monitoring and controls, capital and liquidity standards, customer disclosures, and auditing and examination programs for FCMs.⁵⁸⁰ The format of these sections in proposed Form SBS are substantively the same as the format of these recently amended sections of Form 1-FR-FCM.⁵⁸¹

⁵⁸⁰ See Enhancing Protections Afforded Customers and Customer Funds Held by Futures Commission Merchants and Derivatives Clearing Organizations, 78 FR 68512.

⁵⁸¹ One of the objectives of including the Form 1-FR-FCM sections in proposed Form SBS is to permit a filer that is dually registered as an FCM to be able to use proposed Form SBS to comply with reporting requirements of the CFTC, subject to approval by the CFTC. This objective could be defeated if the format of the sections on proposed Form SBS is substantively different than the format of the sections on Form 1-FR-FCM. See 17 CFR 1.10(h) (allowing broker-dealers to file the FOCUS Report instead of Form 1-FR-FCM so long as all information required to be furnished on and submitted with Form 1-FR-FCM is provided with the FOCUS Report).

In addition, the CFTC adopted a new section for Form 1-FR-FCM that requires an FCM to provide detail about segregation requirements and funds in cleared swap customer accounts.⁵⁸² This new section is comparable to the section on which an FCM provides a Statement of Segregation Requirements and Funds in Segregation for Customers Trading on U.S. Commodity Exchanges.⁵⁸³ The purpose of the new section is to provide an FCM that carries accounts for customers that maintain cleared swap positions with a means to document and to demonstrate its compliance with its obligation to treat, and deal with all money, securities, and property of any swap customer received to margin, guarantee, or secure a swap cleared by or through a derivatives clearing organization (including money, securities, or property accruing to swap customers as the result of such a swap) as belonging to the FCM's swap customers as required by section 4d of the CEA.⁵⁸⁴

⁵⁸² See Enhancing Protections Afforded Customers and Customer Funds Held by Futures Commission Merchants and Derivatives Clearing Organizations, 78 FR 68514.

⁵⁸³ See Enhancing Protections Afforded Customers and Customer Funds Held by Futures Commission Merchants and Derivatives Clearing Organizations, 78 FR 68513.

⁵⁸⁴ See id. at 68507. See also 7 U.S.C. 6d.

Consistent with the CFTC's recent amendment, proposed Form SBS would include a section requiring an FCM filer to report detail about segregation requirements and funds in cleared swap customer accounts.⁵⁸⁵ The format of the section mirrors the format of the section adopted by the CFTC to be included on Form 1-FR-FCM.

⁵⁸⁵ See Part 3 of proposed Form SBS, Statement of Cleared Swaps Customer Segregation Requirements and Funds in Cleared Swaps Customer Accounts under Section 4D(F) of the Commodity Exchange Act, Lines 1-16.

iv. Part 4 of Proposed Form SBS

Part 4 of proposed Form SBS would apply to nonbank SBSDs and nonbank MSBSPs. Part 4 consists of four schedules that elicit detailed information about a firm's security-based swap and swap positions, counterparties, and exposures. As discussed below, certain of the schedules are modeled on schedules to the FOCUS Report.

The schedules in Part 4 of proposed Form SBS would require filers to report information relating to their exposures resulting from over-the-counter derivatives exposures (including exposures relating to security-based swaps and swaps). The instructions to proposed Form SBS would define terms that are used to indicate the type of information to be entered about the exposures. Specifically, the terms are: (1) Gross replacement value also referred to as gross replacement value—receivable; ⁵⁸⁶ (2) gross replacement value—payable; ⁵⁸⁷ (3) net replacement value; ⁵⁸⁸ (4) current net exposure; ⁵⁸⁹ (5) total exposure; ⁵⁹⁰ and (6) margin collected.⁵⁹¹

⁵⁸⁶ The instructions to proposed Form SBS would define the terms gross replacement value and gross replacement value—receivable as the amount that would need to be paid to enter into identical contracts with respect to derivatives positions that have a positive mark-to-market value to the firm (i.e., are receivable positions of the firm), without applying any netting or collateral. See the Definitions section of the instructions to proposed Form SBS. Applicable netting and collateral rules would include Appendix E to Rule 15c3-1 that prescribes, and proposed Rule 18a-1 that would prescribe, requirements for when netting agreements and collateral can be taken into account for purposes of calculating credit risk charges as part of computing net capital. See 17 CFR 240.15c3-1e(c)(4)(iv) and (v); Capital, Margin, and Segregation Requirements for Security-Based Swap Dealers and Major Security-Based Swap Participants and Capital Requirements for Broker-Dealers, 77 FR 70240-70245. In addition, proposed Rule 18a-3 would prescribe when netting agreements and collateral can be taken into account for purposes calculating margin requirements for non-cleared security-based swaps. See Capital, Margin, and Segregation Requirements for Security-Based Swap Dealers and Major Security-Based Swap Participants and Capital Requirements for Broker-Dealers, 77 FR 70260-70265. The CFTC also has requirements for netting agreements and collateral for the purposes of the proposed capital requirements for swap dealers and major swap participants. See Enhancing Protections Afforded Customers and Customer Funds Held by Futures Commission Merchants and Derivatives Clearing Organizations, 78 FR 68506. Similarly, the prudential regulators have proposed requirements for netting agreements and collateral for the purposes of their proposed capital and margin requirements for bank SBSDs, bank MSBSPs, bank swap dealers, and bank major swap participants. See Margin and Capital Requirements for Covered Swap Entities, 76 FR 27564.

⁵⁸⁷ The instructions to proposed Form SBS would define the term gross replacement value—payable as the amount that would need to be paid to enter into identical contracts with respect to derivatives positions that have a negative mark-to-market value to the firm (i.e., are payable positions of the firm), without applying any netting or collateral. See the Definitions section of the instructions to proposed Form SBS.

⁵⁸⁸ The instructions to proposed Form SBS would define the term net replacement value as the amount of the “gross replacement value—receivable” minus the amount of the “gross replacement value—payable” that may be netted for each counterparty in accordance with applicable rules. See the Definitions section of the instructions to proposed Form SBS.

⁵⁸⁹ The instructions to proposed Form SBS would define the term current net exposure as the net replacement value minus the fair market value of collateral collected that may be applied under applicable rules (e.g., taking into account haircuts to the fair market value of the collateral required under applicable rules). See the Definitions section of the instructions to proposed Form SBS.

⁵⁹⁰ The instructions to proposed Form SBS would define the term total exposure as the sum of the following (as applicable): (1) The current net exposure; (2) the amount of initial margin for cleared security-based swaps and swaps required by a clearing agency or derivatives clearing organization (regardless of whether the margin has been collected); (3) the margin amount for uncleared security-based swaps calculated under paragraph (c) of proposed Rule 18a-3; (4) the initial margin for non-cleared swaps calculated under the CFTC's rules (regardless of whether the margin has been collected); and (5) maximum potential exposure as defined in 17 CFR §§ 240.15c3-1 or 18a-1, as applicable, for any over-the-counter derivatives not included above. See the Definitions section of the instructions to proposed Form SBS.

⁵⁹¹ The instructions to proposed Form SBS would define the term margin collected as the amount of initial margin collateral collected that can be applied against the firm's total exposure under applicable rules. See the Definitions section of the instructions to proposed Form SBS.

Schedule 1

ANC broker-dealers are required to complete a schedule on the FOCUS Report Part II CSE to report the dollar amount of the aggregate long and short positions in various categories of financial instruments held by the firm.⁵⁹² The categories include, for example, U.S. treasury securities, foreign debt securities, foreign equity securities, and corporate obligations. The schedule has a single line for derivatives.⁵⁹³ Schedule 1 to Part 4 of proposed Form SBS has a subsection that elicits the dollar amount of the aggregate long and short positions in the same categories of non-derivative financial instruments as the FOCUS Report Part II CSE section.⁵⁹⁴

⁵⁹² See FOCUS Report Part II CSE, Aggregate Securities and OTC Derivatives Positions, Lines 1-15. OTC derivatives dealers are required to provide similar information in a section on the FOCUS Report Part IIB. See FOCUS Report Part IIB, Schedule VI, Aggregate Securities and Commodities Positions, Lines 1-15.

⁵⁹³ See FOCUS Report Part II CSE, Aggregate Securities and OTC Derivatives Positions, Line 11.

⁵⁹⁴ See Part 4 of proposed Form SBS, Schedule 1, Aggregate Securities, Commodities, and Swaps Positions, Lines 1-18.

Schedule 1 elicits more detail about security-based swap, mixed swap, and swap positions than the parallel FOCUS Report Part II CSE section.⁵⁹⁵ Specifically, it would require the filer to enter the aggregate long and short positions for cleared and non-cleared: (1) Debt security-based swaps (other than credit default swaps); (2) equity security-based swaps, (3) credit default security-based swaps; and (4) other security-based swaps.⁵⁹⁶ It further would require the same information with respect to mixed swaps ⁵⁹⁷ and the following categories of swaps: (1) Interest rate swaps; (2) foreign exchange swaps; (3) commodity swaps; (4) debt index swaps (other than credit default swaps); (5) equity index swaps; (6) credit default swaps; and (7) other swaps.⁵⁹⁸ The instructions to proposed Form SBS would direct firms to report the month-end gross replacement value for cleared and non-cleared receivables in the long column, and report the month-end gross replacement value for cleared and non-cleared receivables in the short column.⁵⁹⁹

⁵⁹⁵ In addition to the differences discussed below, for increased clarity, Line 2 of the proposed Form SBS schedule would read “U.S. government agency and U.S. government-sponsored enterprises” instead of “U.S. government agency and government-sponsored entities”. Compare FOCUS Report Part II CSE, Aggregate Securities and OTC Derivatives Positions, Line 2 with Part 4 of proposed Form SBS, Schedule 1, Aggregate Securities, Commodities, and Swaps Positions, Line 2. Moreover, the proposed Form SBS schedule would elicit detail with respect to two categories of U.S. government agency securities and U.S. government sponsored enterprise securities: debt securities and mortgage-backed securities. Finally, for increased clarity, Line 17 would read “Securities with no ready market” instead of “Investments with no ready market”. Compare FOCUS Report Part II CSE, Aggregate Securities and OTC Derivatives Positions, Line 13 with Part 4 of proposed Form SBS, Schedule 1, Aggregate Securities, Commodities, and Swaps Positions, Line 17. See also Letter from Howard Spindel, Senior Managing Director, and Cassondra E. Joseph, Managing Director, Integrated Management Solutions USA LLC to FINRA (Feb. 25, 2013), available at http://www.finra.org/web/groups/industry/@ip/@reg/@notice/documents/noticecomments/p213401.pdf (suggesting such a modification).

⁵⁹⁶ See Part 4 of proposed Form SBS, Schedule 1, Aggregate Securities, Commodities, and Swaps Positions, Lines 12A-12D.

⁵⁹⁷ See Part 4 of proposed Form SBS, Schedule 1, Aggregate Securities, Commodities, and Swaps Positions, Line 13.

⁵⁹⁸ See Part 4 of proposed Form SBS, Schedule 1, Aggregate Securities, Commodities, and Swaps Positions, Lines 14A-14G.

⁵⁹⁹ See instructions to proposed Form SBS for Part 4, Schedule 1.

Schedule 2

ANC broker-dealers are required to provide detail on Schedule III to the FOCUS Report Part II CSE about the fifteen counterparties to which they have the largest credit exposures in derivatives.⁶⁰⁰ The FOCUS Report Part II CSE specifies that an ANC broker-dealer must provide for each of the fifteen counterparties: (1) A counterparty identifier; (2) the counterparty's country; (3) the counterparty's industry segment; (4) the counterparty's credit rating; (5) the gross replacement value of the receivables from and payables to the counterparty; (6) the net replacement value of the transactions with the counterparty; (7) the current net exposure to the counterparty; (8) the total credit exposure to the counterparty; and (9) the aggregate maximum potential exposure to the counterparty.⁶⁰¹ It also requires total amounts for items (5) through (9) above (i.e., the sum of the amounts for the fifteen counterparties).⁶⁰²

⁶⁰⁰ See FOCUS Report Part II CSE, Schedule III, Credit-Concentration Report for Fifteen Largest Net Exposures in Derivatives. OTC derivatives dealers are required to provide similar information in a section on the FOCUS Report Part IIB. See FOCUS Report Part IIB, Schedule I, Credit-Concentration Report for Twenty Largest Current Net Exposures.

⁶⁰¹ See FOCUS Report Part II CSE, Schedule III, Credit-Concentration Report for Fifteen Largest Net Exposures in Derivatives.

⁶⁰² See FOCUS Report Part II CSE Line Items 7810, 7811, 7812, 7813, 7814, and 7815.

Schedule 2 to Part 4 of proposed Form SBS has two tables that are modeled on Schedule III to the FOCUS Report Part II CSE.⁶⁰³ The first table would require a nonbank SBSD or a nonbank MSBSP to identify in the first column the fifteen counterparties to which the firm has the largest current net exposure in the order from the largest to the smallest current net exposure.⁶⁰⁴ The second table would require the filer to identify in the first column the fifteen counterparties to which the firm as the largest total exposure in the order from the largest to the smallest total exposure.⁶⁰⁵ For each counterparty, the filer would need to enter into the tables the following information: (1) The counterparty's unique identifier; (2) the counterparty's internal credit rating assigned by the SBSD or MSBSP; (3) the amount of the gross replacement value—receivables from the counterparty (gross gain); (4) the amount of the gross replacement value—payables to the counterparty (gross gain); (5) the amount of the net replacement value of the derivatives positions with the counterparty; (6) the current net exposure to the counterparty; (7) the total exposure to the counterparty; and (8) the margin collected from the counterparty.⁶⁰⁶ For items (3) through (8) above, the filer also would be required to provide the aggregate amounts for all counterparties other than the fifteen specifically reported counterparties.

⁶⁰³ Compare Part 4 of proposed Form SBS, Schedule 2, Credit Concentration Report for Fifteen Largest Exposures in Derivatives, with FOCUS Report Part II CSE, Schedule III, Credit-Concentration Report for Fifteen Largest Net Exposures in Derivatives.

⁶⁰⁴ See Part 4 of proposed Form SBS, Schedule 2, Credit Concentration Report for Fifteen Largest Exposures in Derivatives, Table I.

⁶⁰⁵ See Part 4 of proposed Form SBS, Schedule 2, Credit Concentration Report for Fifteen Largest Exposures in Derivatives, Table II.

⁶⁰⁶ See Part 4 of proposed Form SBS, Schedule 2, Credit Concentration Report for Fifteen Largest Exposures in Derivatives, Tables I and II. The Commission is proposing to add a line item to elicit the amount of margin collected from the counterparty in order to provide a means to monitor how much of the exposure to the counterparty is collateralized thereby mitigating the risk to the firm of the counterparty's default.

Schedule 3

ANC broker-dealers are required to provide detail on a table on Schedule IV to the FOCUS Report Part II CSE about their aggregate credit exposures to counterparties grouped by the internal credit rating assigned by the ANC broker-dealer to the counterparty.⁶⁰⁷ Specifically, for each notch in the ANC broker-dealer's rating scale, the firm must provide the following information aggregated across all counterparties rated at that notch: (1) The current net exposure to the counterparties; (2) the net replacement value of the transactions with the counterparties; (3) the gross replacement value of the receivables from and payables to the counterparties; and (4) the aggregate maximum potential exposure to the counterparties.⁶⁰⁸ It also requires total amounts for these items.⁶⁰⁹

⁶⁰⁷ See FOCUS Report Part II CSE, Schedule IV, Portfolio Summary of OTC Derivatives Exposures by Internal Credit Rating.

⁶⁰⁸ See id.

⁶⁰⁹ See FOCUS Report Part II CSE Line Items 7820, 7821, 7822, 7823, and 7824.

Schedule 3 to Part 4 of proposed Form SBS has a table that is modeled on Schedule IV to the FOCUS Report Part II CSE.⁶¹⁰ This table would require the filer to set forth its internal credit rating scale in the left hand column.⁶¹¹ For each notch in the rating scale, the filer would need to provide: (1) The amount of the gross replacement value—receivables from the counterparties rated at that notch; (2) the amount of the gross replacement value—payables to the counterparties rated at that notch; (3) the amount of the net replacement value of the derivatives positions with the counterparties rated at that notch; (4) the current net exposure to the counterparties rated at that notch; (5) the total exposure to the counterparties rated at that notch; and (6) the margin collected from the counterparties rated at that notch.⁶¹²

⁶¹⁰ See Part 4 of proposed Form SBS, Schedule 3, Portfolio Summary of OTC Derivatives Exposures by Internal Credit Rating.

⁶¹¹ The instructions to proposed Form SBS would provide that each category and notches within a category would constitute a “notch” in the rating scale. For example, the following symbols would each represent a notch in the rating scale in descending order: AAA, AA+, AA, AA−, A+, A, A−, BBB+, BBB, BBB−, BB+, BB, BB−, CCC+, CCC, CCC−, CC, C, and D.

⁶¹² See Part 4 of proposed Form SBS, Schedule 3, Portfolio Summary of OTC Derivatives Exposures by Internal Credit Rating. As noted above, the line item added to the schedule to elicit the amount of margin collected from the counterparties is intended to have a means to monitor how much of the exposure to the counterparties is collateralized thereby mitigating the risk to the firm of a counterparty's default.

Schedule 4

ANC broker-dealers are required to provide detail on a table on Schedule II to the FOCUS Report Part II CSE about their OTC derivatives exposures grouped by country.⁶¹³ Specifically, for each country, the firm must provide the following information aggregated across all counterparties located in that country and grouped by credit rating category: (1) The current net exposure to the counterparties; (2) the net replacement value of the transactions with the counterparties; and (3) the gross replacement value of the receivables from and payables to the counterparties.⁶¹⁴ It also requires total amounts for these items.⁶¹⁵

⁶¹³ See FOCUS Report Part II CSE, Schedule II, Geographic Distribution of OTC Derivatives Exposures for Ten Largest Countries. OTC derivatives dealers are required to provide similar information in a section on the FOCUS Report Part IIB. See FOCUS Report Part IIB, Schedule III, Geographic Distribution of OTC Derivatives Exposures.

⁶¹⁴ See id.

⁶¹⁵ See FOCUS Report Part II CSE Line Items 7901, 7902, 7903, and 7904.

Schedule 4 to Part 4 of proposed Form SBS has two tables that are modeled on Schedule II to the FOCUS Report Part II CSE.⁶¹⁶ The first table would require the filer to identify in the left column the ten largest countries in terms of the filer's aggregate current net exposure to counterparties located in the country in the order from the largest to the smallest current net exposure amounts.⁶¹⁷ The second table would require the filer to identify in the left column the ten largest countries in terms of the filer's aggregate total exposure to counterparties located in the country in the order from the largest to the smallest total exposure amounts.⁶¹⁸ For each country, the filer would need to enter into the tables the following information: (1) The amount of the gross replacement value—receivables from the counterparties located in the country; (2) the amount of the gross replacement value—payables to counterparties located in the country; (3) the amount of the net replacement value of the derivatives positions with the counterparties located in the country; (4) the current net exposure to counterparties located in the country; (5) the total exposure to counterparties located in the country; and (6) the amount of margin collected from counterparties located in the country.⁶¹⁹

⁶¹⁶ See Part 4 of proposed Form SBS, Schedule 4, Geographic Distribution of OTC Derivatives Exposures for Ten Largest Countries.

⁶¹⁷ See Part 4 of proposed Form SBS, Schedule 4, Geographic Distribution of OTC Derivatives Exposures for Ten Largest Countries, Table I.

⁶¹⁸ See Part 4 of proposed Form SBS, Schedule 4, Geographic Distribution of OTC Derivatives Exposures for Ten Largest Countries, Table II.

⁶¹⁹ See Part 4 of proposed Form SBS, Schedule 4, Geographic Distribution of OTC Derivatives Exposures for Ten Largest Countries, Tables I and II. Requiring nonbank SBSDs and nonbank MSBSPs to report their derivatives exposures by country allows Commission staff to monitor firms with concentrated exposures to a particular country, which can present risk if a localized event occurs (e.g., a sovereign downgrade). As noted above, the line item added to the schedule to elicit the amount of margin collected from the counterparties is intended to provide a means to monitor how much of the exposure to the counterparties is collateralized thereby mitigating the risk to the firm of a counterparty's default.

v. Part 5 of Proposed Form SBS

Part 5 of proposed Form SBS would apply to bank SBSDs and bank MSBSPs. Part 5 consists of one schedule that is a truncated version of Schedule 1 to Part 4 of proposed Form SBS.⁶²⁰ Specifically, Schedule 1 to Part 5 only would elicit detail about the filer's security-based swap, mixed-swap, and swap positions. In particular, Schedule 1 to Part 5 would require the filer to report the aggregate long and short positions for the following categories of cleared and non-cleared security-based swaps: (1) Debt security-based swaps (other than credit default swaps); (2) equity security-based swaps, (3) credit default security-based swaps; and (4) other security-based swaps.⁶²¹ It further would require the same information with respect to mixed swaps ⁶²² and the following categories of swaps: (1) Interest rate swaps; (2) foreign exchange swaps; (3) commodity swaps; (4) debt index swaps (other than credit default swaps); (5) equity index swaps; (6) credit default swaps; and (7) other swaps.⁶²³

⁶²⁰ See Part 5 of proposed Form SBS, Schedule 1, Aggregate Security-Based Swap and Swaps Positions.

⁶²¹ See Part 5 of proposed Form SBS, Schedule 1, Aggregate Security-Based Swap and Swaps Positions, Lines 1A-1D.

⁶²² See Part 5 of proposed Form SBS, Schedule 1, Aggregate Security-Based Swap and Swaps Positions, Line 2.

⁶²³ See Part 5 of proposed Form SBS, Schedule 1, Aggregate Security-Based Swap and Swaps Positions, Lines 3A-3G.

Request for Comment

The Commission generally requests comment on proposed Form SBS. In addition, the Commission requests comment, including empirical data in support of comments, in response to the following questions:

1. As proposed, a broker-dealer that is not dually registered as an SBSD or MSBSP would continue to file Part IIA, Part IIB, or Part II CSE of the FOCUS Report, as applicable, whereas SBSDs and MSBSPs (including broker-dealer SBSDs and broker-dealer MSBSPs) would file Form SBS. As an alternative, all broker-dealers, SBSDs, and MSBSPs could be required to file the same consolidated form—Form SBS, which could be re-titled the “FOCUS Report Part II” or some similar name. Under this alternative, broker-dealers not dually registered as an SBSD or MSBSP (“stand-alone broker-dealers”) would complete Parts 1 and 4 of Form SBS (and would also complete Part 3 if they are dually registered as an FCM). Should all broker-dealers, SBSDs, and MSBSPs file the same consolidated form? Explain why or why not, and quantify any estimated burdens associated with this alternative.

2. Does proposed Form SBS elicit the appropriate information for the various types of registrants that would be required to complete and file the form (e.g., stand-alone SBSDs, stand-alone MSBSPs, bank SBSDs, bank MSBSPs, broker-dealer SBSDs, and broker-dealer MSPSPs)? If not, how should proposed Form SBS be modified to address the information elicited from particular registrant(s)?

3. If stand-alone SBSDs and stand-alone MSBSPs are required to file Form SBS with the Commission (instead of with the Commission's designee), should the Commission require these firms to file Form SBS electronically? Explain why or why not. If Form SBS should be filed electronically, should it be filed using the Commission's EDGAR system, as an Excel spreadsheet, as a delimiter separated value (DSV) file, and/or using some other electronic format?

4. Are there any line items in proposed Form SBS that require further clarification or instruction? If so, identify the applicable line items and explain the needed clarification or instruction.

5. Proposed Form SBS consists of five parts. An SBSD or MSBSP would need to complete: (1) Parts 1 and 4 of Form SBS if it is a stand-alone SBSD, broker-dealer SBSD, stand-alone MSBSP, or broker-dealer MSBSP; or (2) Parts 2 and 5 of Form SBS if it is a bank SBSD or bank MSBSP. Should Parts 1 and 4 be consolidated into a single part? Should Parts 2 and 5 be consolidated into a single part? Explain why or why not.

6. Proposed Form SBS would include line items that are not on the FOCUS Report or CFTC Form 1-FR-FCM. Is it inappropriate to include any of these new line items on Form SBS? If so, identify the line item and explain why it would not be appropriate to include it. Should any new line items that are not currently included in proposed Form SBS be added? If so, describe the new line item and where it should be included on the form, provide accompanying instructions, and explain why it should be included.

7. Are there any line items that should not be included on proposed Form SBS because they are no longer relevant to broker-dealer activities or would not be relevant to SBSD or MSBSP activities? For example, are Line Items 150, 160, and 190 relevant to broker-dealer activities? Similarly, is Note B to the Financial and Operational Data section widely used? Explain why or why not. If a line item is not relevant to broker-dealer activities, should the Commission remove it from the FOCUS Report? Explain why or why not.

8. Should the Commission rely on the public call reports completed by bank SBSDs and bank MSBSPs to gather the information necessary to monitor the transactions, positions and financial condition of the bank SBSDs and bank MSBSPs, instead of requiring such firms to complete and file with the Commission Parts 2 and 5 of Form SBS? If so, explain why.

9. The instructions for proposed Form SBS define “total exposure” as the sum of several amounts, including “[t]he amount of initial margin for cleared security-based swaps and swaps required by a clearing agency or derivatives clearing organization (regardless of whether the margin has been collected).” Should the definition of “total exposure” instead include the capital charge that would apply to the positions under Rule 15c3-1 or proposed Rule 18a-1, as applicable? Explain why or why not.

10. According to the proposed instructions for proposed Form SBS, firms should report on Line Item 120 the market value of encumbered securities that the firm transferred to a creditor and that the creditor has the right to sell or re-pledge. Should this instruction instead direct firms to report any encumbered security, whether or not the creditor has the right to sell or re-pledge the collateral? If this instruction should be changed, should the instructions for the FOCUS Report relating to the corresponding line item also be changed? Explain why or why not.

11. With respect to Line Items 190, 650, 660, and 900 of proposed Form SBS, do broker-dealers continue to own exchange memberships as assets? If so, are their values, relative to the rest of a broker-dealer's assets, significant enough to continue collecting this information as a separate line item? Explain why or why not.

12. Should broker-dealer MSBSPs be required to complete the section entitled “Computation of Tangible Net Worth” in addition to the sections relating to the computation of net capital and minimum net capital requirement? Explain why or why not.

13. Schedule 1 of Part 4 and Schedule 1 of Part 5 of proposed Form SBS request information about four categories of security-based swaps: (1) Debt security-based swaps, (2) equity security-based swaps, (3) credit default security-based swaps, and (4) other security-based swaps. These schedules also request information about seven categories of swaps: (1) Interest rate swaps, (2) foreign exchange swaps, (3) commodity swaps, (4) debt index swaps, (5) equity index swaps, (6) credit default swaps, and (7) other swaps. Should different categories of security-based swaps and swaps be specified for purposes of the Form? Explain why or why not. If different categories should be specified, identify and define the alternative categories, and explain why these alternative categories should be specified.

14. Are there terms used in proposed Form SBS and/or its instructions that are not defined that should be defined? If so, identify the term and describe how it should be defined. For example, should the following terms in Schedule 1 of Part 4 and Schedule 1 of Part 5 of proposed Form SBS be defined: (1) Debt security-based swap; (2) equity security-based swap; (3) credit default security-based swap; (4) interest rate swap; (5) foreign exchange swap; (6) commodity swap; (7) debt index swap; (8) equity index swap; and/or (9) credit default swap? If so, how should these terms be defined?

15. Are there reporting requirements currently not included in these proposed rules that should be applied to ANC broker-dealer SBSDs? If so, please describe them.

16. Are there additional requirements to promote the reporting of composite security-based swap transactions into disaggregated data based on risk? If so, please describe them.

3. Filing of Annual Audited Financial Reports and Other Reports

Rule 17a-5 generally requires a broker-dealer to, among other things, annually file reports audited by a PCAOB-registered independent public accountant, disclose certain financial information to customers, and notify the Commission of a change of accountant.⁶²⁴ The rule also requires the independent public accountant to notify the broker-dealer if the accountant discovers an instance of non-compliance with certain broker-dealer rules or an instance of material weakness. As discussed above, the Commission is proposing to amend Rule 17a-5 to account for broker-dealers that are dually registered as SBSDs or MSBSPs. The Commission also is proposing certain largely technical amendments to Rule 17a-5. With respect to stand-alone SBSDs and stand-alone MSBSPs, the Commission is proposing to include in new Rule 18a-7 many requirements that would parallel requirements in Rule 17a-5, as proposed to be amended. However, proposed Rule 18a-7 does not include a parallel requirement for every requirement in Rule 17a-5.⁶²⁵ Further, the requirements in proposed Rule 18a-7, other than the requirement discussed above in section II.B.2. of this release to periodically file proposed Form SBS, would not apply to bank SBSDs and bank MSBSPs.

⁶²⁴ See 17 CFR 240.17a-5.

⁶²⁵ The Commission is not proposing to include in proposed Rule 18a-7 a requirement that is parallel to the Exemption Report requirement in paragraph (d)(4) of Rule 17a-5, as proposed to be amended, because all SBSDs would be subject to the segregation requirements in proposed Rule 18a-4. Proposed Rule 18a-7 also would not include requirements that parallel the requirements in paragraphs (d)(6) and (e)(4) of Rule 17a-5, as proposed to be amended, requiring broker-dealers to file certain reports with the Securities Investor Protection Corporation (“SIPC”) because stand-alone SBSDs and stand-alone MSBSPs would not be members of SIPC. In addition, proposed Rule 18a-7 would not include a requirement that parallels the requirement for a broker-dealer to file Form Custody with the firm's DEA. Additional differences between proposed Rule 18-7 and Rule 17a-5, as proposed to be amended, are discussed below.

a. Amendments to Rule 17a-5 and Proposed Rule 18a-7

Additional ANC Broker-Dealer Reports

Paragraph (a)(6) of Rule 17a-5 requires ANC broker-dealers to periodically file certain reports with the Commission.⁶²⁶ The reports contain information related to the ANC broker-dealer's use of internal models to calculate market and credit risk charges when computing net capital.⁶²⁷ Specifically, ANC broker-dealers must file on either a monthly or quarterly basis the following reports:

⁶²⁶ See 17 CFR 240.17a-5(a)(6).

⁶²⁷ See id.

• For each product for which the broker-dealer calculates a deduction for market risk other than in accordance with paragraphs (b)(1) or (b)(3) of Appendix E of Rule 15c3-1, the product category and the amount of the deduction for market risk (monthly report);

• A graph reflecting, for each business line, the daily intra-month VaR (monthly report);

• The aggregate VaR for the broker-dealer (monthly report);

• For each product for which the broker-dealer uses scenario analysis, the product category and the deduction for market risk (monthly report);

• Credit risk information on derivatives exposures, including: (1) Overall current exposure; (2) current exposure (including commitments) listed by counterparty for the 15 largest exposures; (3) the 10 largest commitments listed by counterparty; (4) the broker-dealer's maximum potential exposure listed by counterparty for the fifteen largest exposures; (5) the broker-dealer's aggregate maximum potential exposure; (6) a summary report reflecting the broker-dealer's current and maximum potential exposures by credit rating category; and (7) a summary report reflecting the broker-dealer's current exposure for each of the top ten countries to which the broker-dealer is exposed (by residence of the main operating group of the counterparty) (monthly report);

• Regular risk reports supplied to the broker-dealer's senior management in the format described in the application (monthly report);

• A report identifying the number of business days for which the actual daily net trading loss exceeded the corresponding daily VaR (quarterly report); and

• The results of backtesting of all internal models used to compute allowable capital, including VaR and credit risk models, indicating the number of backtesting exceptions (quarterly report).⁶²⁸

⁶²⁸ See id.

The Commission uses these reports to monitor the financial condition, internal risk management control system, and activities of an ANC broker-dealer.⁶²⁹

⁶²⁹ Alternative Net Capital Requirements for Broker-Dealers That Are Part of Consolidated Supervised Entities, 69 FR 34449.

As discussed above in section II.A.2.a. of this release, the Commission has proposed amendments to Rule 15c3-1 that would establish liquidity stress test requirements for ANC broker-dealers, which would include ANC broker-dealer SBSDs.⁶³⁰ Further, the Commission has proposed identical liquidity stress test requirements for stand-alone ANC SBSDs as part of the capital requirements for SBSDs.⁶³¹ Under the proposed liquidity stress test requirements, ANC broker-dealers and stand-alone ANC SBSDs would be required, among other things, to conduct a liquidity stress test at least monthly that takes into account certain assumed conditions lasting for 30 consecutive days.⁶³² The Commission is proposing to amend Rule 17a-5 to add a requirement that an ANC broker-dealer must file a monthly report with the Commission containing the results of the liquidity stress test.⁶³³

⁶³⁰ See Capital, Margin, and Segregation Requirements for Security-Based Swap Dealers and Major Security-Based Swap Participants and Capital Requirements for Broker-Dealers, 77 FR 70252-70254.

⁶³¹ See id.

⁶³² See id.

⁶³³ See paragraph (a)(5)(vii) of Rule 17a-5, as proposed to be amended.

The Commission also proposes to include a parallel reporting requirement in proposed Rule 18a-7 applicable to stand-alone ANC SBSDs that is modeled on the reporting requirement in Rule 17a-5, as proposed to be amended, applicable to ANC broker-dealers.⁶³⁴ Consequently, stand-alone ANC SBSDs would be required to file the same types of reports relating to their use of internal models and liquidity stress tests as ANC broker-dealers, including ANC broker-dealer SBSDs.

⁶³⁴ Compare paragraph (a)(5) of Rule 17a-5, as proposed to be amended, with paragraph (a)(3) of proposed Rule 18a-7.

Termination of Membership in an SRO

Paragraph (b) of Rule 17a-5 requires a broker-dealer to file with the Commission the FOCUS Report Part II or Part IIA, as applicable, within two business days after terminating its membership with a national securities exchange or national securities association.⁶³⁵ The Commission is proposing to amend paragraph (b) of Rule 17a-5 to provide that in either of these events the broker-dealer must file Part II, Part IIA or proposed Form SBS.⁶³⁶ This change is designed to account for broker-dealer SBSDs and broker-dealer MSBSPs, which, as discussed above, would use proposed Form SBS instead of the FOCUS Report Part II or Part IIA.

⁶³⁵ See 17 CFR 240.17a-5(b).

⁶³⁶ See paragraph (b) of Rule 17a-5, as proposed to be amended (emphasis added to highlight the modification). The Commission is not proposing to include a parallel requirement in proposed Rule 18a-7 applicable to stand-alone SBSDs, stand-alone MSBSPs, bank SBSDs, or bank MSBSPs because such SBSDs and MSBSPs would not be eligible for membership in a national securities exchange or national securities association.

Customer Statements

Paragraph (c) of Rule 17a-5 requires, among other things, that certain broker-dealers annually send their customers audited statements that must include, among other things: (1) A statement of financial condition with appropriate notes; (2) a footnote containing a statement of the amount of the firm's net capital and required net capital and other information, if applicable, related to the firm's net capital; ⁶³⁷ and (3) if, in connection with the most recent annual audit of the broker-dealer, the independent public accountant identified one or more material weaknesses, a statement by the broker-dealer that one or more material weaknesses have been identified and that a copy of the report of the independent public accountant is currently available for the customer's inspection.⁶³⁸ In addition, paragraph (c) requires these broker-dealers to send their customers unaudited statements dated six months from the date of the audited statements that contain: (1) A statement of financial condition with appropriate notes; and (2) a footnote about the firm's net capital as described above.⁶³⁹ Under paragraph (c)(5) of Rule 17a-5, a broker-dealer is exempt from sending the statement of financial condition to customers if the broker-dealer, among other things: (1) Sends its customers semi-annually the statements described above relating to the firm's net capital and, if applicable, the identification of a material weakness; and (2) makes the statement of financial condition described above available on the broker-dealer's Web site home page and maintains a toll-free number that customers can call to request a copy of the statement, which the broker-dealer must send promptly to the customer at no charge.⁶⁴⁰

⁶³⁷ The statement in the footnote must include summary financial statements of the broker-dealer's subsidiaries consolidated pursuant to Appendix C of Rule 15c3-1, where material, and the effect thereof on the net capital and required net capital of the broker-dealer. See 17 CFR 240.17a-5(c)(2)(ii). Appendix C to Rule 15c3-1 requires a broker-dealer in computing its net capital and aggregate indebtedness to consolidate in a single computation assets and liabilities of any subsidiary or affiliate for which it guarantees, endorses or assumes directly or indirectly obligations or liabilities. See 17 CFR 240.15c3-1c. The assets and liabilities of a subsidiary or affiliate whose liabilities and obligations have not been guaranteed, endorsed, or assumed directly or indirectly by the broker-dealer may also be consolidated. See id.

⁶³⁸ See 17 CFR 240.17a-5(c)(1) and (2). A material weakness is discussed below in more detail.

⁶³⁹ See 17 CFR 240.17a-5(c)(3).

⁶⁴⁰ See 17 CFR 240.17a-5(c)(5).

The Commission has stated that the information sent to a customer about the broker-dealer is “essential for a customer to have in order to judge” whether the broker-dealer is financially sound and able to efficiently and safely handle securities transactions, monies and securities.⁶⁴¹ The Commission preliminarily believes that it is not necessary to amend paragraph (c) of Rule 17a-5 to account for broker-dealers that are dually registered as an SBSD or MSBSP. These registrants will be required to send or disclose to their customers, including security-based swap customers, the information currently required to be sent or disclosed under paragraph (c).⁶⁴²

⁶⁴¹ See Reports to be Made by Certain Exchange Members, Brokers, and Dealers and Related Audit Requirements of Form X-17A-5, Exchange Act Release No. 9658 (June 30, 1972), 37 FR 14607, 14607 (July 21, 1972).

⁶⁴² See the broad definition of customer in paragraph (c)(4) of Rule 17a-5. See 17 CFR 240.17a-5(c)(4). As discussed below in section II.B.3.b. of this release, the Commission is proposing certain technical amendments to paragraph (c) of Rule 17a-5.

However, the Commission is proposing to include a parallel customer statement requirement in proposed Rule 18a-7 that is modeled on paragraph (c) of Rule 17a-5.⁶⁴³ Proposed Rule 18a-7, however, would require (rather than make optional) Web site disclosure of the mandated information.⁶⁴⁴ Specifically, stand-alone SBSDs and stand-alone MSBSPs would be required to disclose on their Internet Web sites an audited statement of financial condition with appropriate notes within ten business days after the date the firm is required to file its audited annual reports with the Commission.⁶⁴⁵ Web site disclosure generally provides customers with readily accessible information that can be easily viewed at any time. Further, this form of disclosure generally is less expensive and burdensome than other forms of disclosure. Consequently, the Commission preliminarily anticipates that firms would opt for Web site disclosure if given the choice.

⁶⁴³ Compare 17 CFR 240.17a-5(c), with paragraph (b) of proposed Rule 18a-7.

⁶⁴⁴ See paragraph (b) of proposed Rule 18a-7.

⁶⁴⁵ See paragraph (b)(1)(i) of proposed Rule 18a-7. As discussed in more detail below, the Commission is proposing to require nonbank SBSDs and nonbank MSBSPs to annually file audited financial reports with the Commission that would need to include, among other items, a statement of financial condition. Under paragraph (c)(2) of Rule 17a-5, a broker-dealer's audited statements must be sent to customers within 105 calendar days of the date of the broker-dealer's audited annual reports. See 17 CFR 240.17a-5(c)(2). Further, the broker-dealer's audited annual reports must be filed with the Commission within 60 calendar days after the end of the broker-dealer's fiscal year. See 17 CFR 240.17a-5(d)(5). Consequently, the broker-dealer has 45 calendar days after filing the audited annual reports with the Commission to send the audited financial statements to customers. The Commission is proposing a shorter timeframe (10 business days) in proposed Rule 18a-7 to make the web-based disclosures after filing the audited annual reports with the Commission because posting this information to the internet should take substantially less time than preparing mailings to be sent to all customers.

In addition to the audited statement of financial condition with appropriate notes, a stand-alone SBSD would be required to disclose on its Internet Web site at the same time: (1) A statement of the amount of the firm's net capital and required net capital and other information, if applicable, related to the firm's net capital; ⁶⁴⁶ and (2) if, in connection with the firm's most recent annual reports, the report of the independent public accountant identifies one or more material weaknesses, a copy of the report.⁶⁴⁷ Further, stand-alone SBSDs and stand-alone MSBSPs also would be required to disclose on their Web sites an unaudited statement of financial condition as of a date that is six months after the date of the most recent audited annual reports and the other information discussed above.⁶⁴⁸ This disclosure would need to be made within 30 calendar days of the date of the unaudited statement of financial condition.⁶⁴⁹ Finally, stand-alone SBSDs and stand-alone MSBSPs would be required to make the information required to be disclosed to customers on their Web sites under paragraph (b) of proposed Rule 18a-7 available in writing upon request of the customer and maintain a toll-free number to receive such requests.⁶⁵⁰

⁶⁴⁶ The statement would need to include summary financial statements of the broker-dealer's subsidiaries consolidated pursuant to Appendix C of Rule 15c3-1, where material, and the effect thereof on the net capital and required net capital of the SBSD. See paragraph (b)(1)(ii) of proposed Rule 18a-7.

⁶⁴⁷ See paragraph (b)(1)(iii) of proposed Rule 18a-7.

⁶⁴⁸ See paragraph (b)(2) of proposed Rule 18a-7.

⁶⁴⁹ The Commission is proposing a shorter time period (30 calendar days after the date of the unaudited financial statement as opposed to 65 calendar days) for the web-based disclosure of the unaudited financial statements and other statements, because, as discussed above, posting this information on a Web site should take less time than mailing documents. Compare paragraph (b)(2) of proposed Rule 18a-7, with 17 CFR 240.17a-5(c)(3).

⁶⁵⁰ See paragraph (b)(3) of proposed Rule 18a-7. While bank SBSDs and bank MSBSPs would not be subject to paragraph (b) of proposed Rule 18a-7, bank call reports are available at: http://www2.fdic.gov/Call_TFR_Rpts/. See 12 CFR 261.10(d)(3) and (4); 12 CFR 304.2; 12 CFR Pt. 3, Appendix C.

Annual Reports

Under the recent amendments to Rule 17a-5, paragraph (d) of the rule requires broker-dealers, among other things, to file with the Commission each year annual reports consisting of a financial report and either a compliance report or an exemption report, as well as reports that are prepared by an independent public accountant registered with the PCAOB covering the financial report and the compliance report or the exemption report in accordance with standards of the PCAOB.⁶⁵¹ The financial report must contain financial statements, including, among others, a statement of financial condition, a statement of income, and a statement of cash flows.⁶⁵² The financial report also must contain, as applicable, supporting schedules consisting of a computation of net capital under Rule 15c3-1, a computation of the reserve requirements under Rule 15c3-3, and information relating to the possession or control requirements under Rule 15c3-3.⁶⁵³

⁶⁵¹ See 17 CFR 240.17a-5(d). See also Broker-Dealer Reports, 78 FR 51910 (setting forth the effective dates for the amendments).

⁶⁵² See 17 CFR 240.17a-5(d)(2)(i).

⁶⁵³ See 17 CFR 240.17a-5(d)(2)(ii).

A broker-dealer that does not claim it was exempt from Rule 15c3-3 throughout the most recent fiscal year must file the compliance report, and a broker-dealer that does claim it was exempt from Rule 15c3-3 throughout the most recent fiscal year must file the exemption report.⁶⁵⁴ The compliance report must contain statements as to whether: (1) The broker-dealer has established and maintained Internal Control Over Compliance (a defined term); (2) the Internal Control Over Compliance of the broker-dealer was effective during the most recent fiscal year; (3) the Internal Control Over Compliance of the broker-dealer was effective as of the end of the most recent fiscal year; (4) the broker-dealer was in compliance with Rule 15c3-1 and paragraph (e) of Rule 15c3-3 as of the end of the most recent fiscal year; and (5) the information the broker-dealer used to state whether it was in compliance with Rule 15c3-1 and paragraph (e) of Rule 15c3-3 was derived from the books and records of the broker-dealer.⁶⁵⁵ Further, if applicable, the compliance report must contain a description of: (1) Each identified material weakness (a defined term) in the Internal Control Over Compliance during the most recent fiscal year; and (2) each instance of non-compliance with Rule 15c3-1 or paragraph (e) of Rule 15c3-3 as of the end of the most recent fiscal year.⁶⁵⁶ The exemption report must contain the following statements made to the best knowledge and belief of the broker-dealer: (1) A statement that identifies the provisions in paragraph (k) of Rule 15c3-3 under which the broker-dealer claimed an exemption from Rule 15c3-3; (2) a statement that the broker-dealer met the identified exemption provisions without exception or that it met the identified exemption provisions throughout the most recent fiscal year except as described in the exemption report; and (3) if applicable, a statement that identifies each exception during the most recent fiscal year in meeting the exemption provisions and that briefly describes the nature of each exception and the approximate date(s) on which the exception existed.⁶⁵⁷

⁶⁵⁴ See 17 CFR 240.17a-5(d)(1)(i)(B)(1) and (2).

⁶⁵⁵ See 17 CFR 240.17a-5(d)(3)(i)(A). The term Internal Control Over Compliance means internal controls that have the objective of providing the broker-dealer with reasonable assurance that non-compliance with Rule 15c3-1, Rule 15c3-3, Rule 17a-13, or any rule of the DEA of the broker-dealer that requires account statements to be sent to the customers of the broker-dealer (an “Account Statement Rule”) will be prevented or detected on a timely basis. See 17 CFR 240.17a-5(d)(3)(i).

⁶⁵⁶ See 17 CFR 240.17a-5(d)(3)(i)(B) and (C). A material weakness is a deficiency, or a combination of deficiencies, in Internal Control Over Compliance such that there is a reasonable possibility that non-compliance with Rule 15c3-1 or paragraph (e) of Rule 15c3-3 will not be prevented or detected on a timely basis or that non-compliance to a material extent with Rule 15c3-3, except for paragraph (e), Rule 17a-13, or any Account Statement Rule will not be prevented or detected on a timely basis. A deficiency in Internal Control Over Compliance exists when the design or operation of a control does not allow the management or employees of the broker-dealer, in the normal course of performing their assigned functions, to prevent or detect on a timely basis non-compliance with Rule 15c3-1, Rule 15c3-3, Rule 17a-13, or any Account Statement Rule.

⁶⁵⁷ See 17 CFR 240.17a-5(d)(4).

The Commission is proposing amendments to the requirements in paragraph (d) of Rule 17a-5 that require broker-dealers to file annual reports with the Commission and is proposing to include a parallel requirement in proposed Rule 18a-7 to require stand-alone SBSDs and stand-alone MSBSPs to file annual reports with the Commission.⁶⁵⁸ The amendments to paragraph (d) of Rule 17a-5 are designed to account for broker-dealers that are dually registered as an SBSD or MSBSP.

⁶⁵⁸ Compare paragraph (d) of Rule 17a-5, as proposed to be amended, with paragraph (c) of proposed Rule 18a-7.

First, under the proposals, all broker-dealer SBSDs would be required to file the compliance report. It is likely that a broker-dealer SBSD would carry funds and securities of customers and, therefore, would not be exempt from Rule 15c3-3. In this case, under the recently adopted requirements of Rule 17a-5, the broker-dealer SBSD would be required to file the compliance report. The Commission believes that a broker-dealer SBSD that has only security-based swap customers also should be required to file the compliance report because this report and the related report of the independent public accountant covering the compliance report would serve the same customer protection objectives in terms of promoting compliance with proposed Rule 18a-4 as these reports will serve in terms of promoting compliance with Rule 15c3-3.⁶⁵⁹ For this reason, the Commission is proposing to amend paragraph (d)(1)(i)(B)(1) of Rule 17a-5 to provide that a broker-dealer must file the compliance report if it did not claim it was exempt from Rule 15c3-3 throughout the most recent fiscal year or it is subject to proposed Rule 18a-4.⁶⁶⁰ Further, paragraph (d)(1)(i)(B)(2) of Rule 17a-5 would be amended to provide that a broker-dealer must file the exemption report if the broker-dealer did claim it was exempt from Rule 15c3-3 throughout the most recent fiscal year and it is not subject to proposed Rule 18a-4.⁶⁶¹

⁶⁵⁹ See Broker-Dealer Reports, 78 FR 51916-51920.

⁶⁶⁰ See paragraph (d)(1)(i)(B)(1) of Rule 17a-5, as proposed to be amended.

⁶⁶¹ See paragraph (d)(1)(i)(B)(2) of Rule 17a-5, as proposed to be amended.

Second, paragraph (d) of Rule 17a-5 provides that the financial statements in the financial report must be prepared in accordance with U.S. GAAP and must be in a format that is consistent with, and the supporting schedules must include information from, the FOCUS Report Part II or Part IIA.⁶⁶² Further, the supporting schedules must contain a reconciliation if the computation of net capital under Rule 15c3-1 or the customer reserve requirement under Rule 15c3-3 in the supporting schedule is materially different than computation in the broker-dealer's most recent FOCUS Report Part II or Part IIA.⁶⁶³ The amendments to the reporting requirements in paragraph (d) of Rule 17a-5 would add a reference to proposed Rule 18a-4 to be included with the existing references to Rules 15c3-1 and 15c3-3, and to proposed Form SBS to be included with each reference to the FOCUS Report Part II and Part IIA to account for broker-dealer SBSDs and broker-dealer MSBSPs that would use proposed Form SBS rather than the FOCUS Report Part II or Part IIA.⁶⁶⁴

⁶⁶² See 17 CFR 240.17a-5(d)(2)(i) and (ii).

⁶⁶³ See 17 CFR 240.17a-5(d)(2)(iii).

⁶⁶⁴ See paragraphs (d)(2)(i) through (iii) of Rule 17a-5, as proposed to be amended.

Third, as discussed above, the supporting schedules require a computation of the reserve requirements under Rule 15c3-3 and information relating to the possession or control requirements under Rule 15c3-3.⁶⁶⁵ Further, the statements required in the compliance report and the definitions of Internal Control Over Compliance and material weakness for the purposes of the compliance report make reference to Rule 15c3-3 or paragraph (e) of Rule 15c3-3.⁶⁶⁶ The proposed amendments would add references to proposed Rule 18a-4 generally or to specific parallel requirements in proposed Rule 18a-4 so that the supporting schedule and compliance report requirements would incorporate information relating to proposed Rule 18a-4 in addition to information relating to Rule 15c3-3.⁶⁶⁷

⁶⁶⁵ See 17 CFR 240.17a-5(d)(2)(ii).

⁶⁶⁶ See 17 CFR 240.17a-5(d)(3)(i) through (iii).

⁶⁶⁷ See paragraphs (d)(2)(ii) and (iii) and (d)(3)(i) through (iii) of Rule 17a-5, as proposed to be amended.

As indicated above, the Commission is proposing to include parallel annual reporting requirements in proposed Rule 18a-7 applicable to stand-alone SBSDs and stand-alone MSBSPs that are modeled on paragraph (d) of Rule 17a-5, as proposed to be amended.⁶⁶⁸ Under these proposed parallel requirements, stand-alone SBSDs and stand-alone MSBSPs would be required to annually file with the Commission a financial report.⁶⁶⁹ In addition, stand-alone SBSDs would be required to file a compliance report stating that the SBSD has established and maintains internal controls that have the objective of providing reasonable assurance that non-compliance with Rules 18a-1, 18a-4, and 18a-9 will be prevented or detected on a timely basis.⁶⁷⁰

⁶⁶⁸ Compare paragraphs (d)(1) through (3) of Rule 17a-5, as proposed to be amended, with paragraphs (c)(1) through (3) of proposed Rule 18a-7.

⁶⁶⁹ See paragraph (c)(1)(i)(A) of proposed Rule 18a-7.

⁶⁷⁰ See paragraph (c)(1)(i)(B) of proposed Rule 18a-7.

Further, stand-alone SBSDs and stand-alone MSBSPs would be required to file a report of an independent public accountant covering the financial report and the compliance report, as applicable.⁶⁷¹ The Commission is not proposing to include a requirement in proposed Rule 18a-7 that would parallel the exemption report requirement in Rule 17a-5 because there are no exemption provisions in proposed Rule 18a-4 that parallel the exemption provisions in Rule 15c3-3.⁶⁷²

⁶⁷¹ See paragraph (c)(1)(i)(C) of proposed Rule 18a-7.

⁶⁷² See Capital, Margin, and Segregation Requirements for Security-Based Swap Dealers and Major Security-Based Swap Participants and Capital Requirements for Broker-Dealers, 77 FR 70274-70288.

The financial report under Rule 18a-7 would need to contain the same types of financial statements as are required for the financial report under Rule 17a-5.⁶⁷³ Further, it also would need to contain the same types of supporting schedules and reconciliations as the financial report under Rule 17a-5, as proposed to be amended, except that the Rule 18a-7 financial report would require information relating to Rules 18a-1 and 18a-2, as applicable, rather than Rule 15c3-1.⁶⁷⁴ The financial report under Rule 17a-5, as proposed to be amended, and proposed Rule 18a-7 would require information relating to proposed Rule 18a-4.

⁶⁷³ Compare 17 CFR 240.17a-5(d)(2)(i), with paragraph (c)(2)(i) of proposed Rule 18a-7.

⁶⁷⁴ Compare Rule 17a-5, as proposed to be amended, with paragraph (c)(2)(ii) and (iii) of proposed Rule 18a-7.

Similar to the financial report, the compliance report under Rule 18a-7 would need to contain the same type of statements and information as the compliance report under Rule 17a-5, as proposed to be amended, except the Rule 18a-7 compliance report would require information relating to Rules 18a-1 and 18a-9 rather than Rules 15c3-1, Rule 15c3-3, Rule 17a-13, and the Account Statement Rules.⁶⁷⁵ The compliance report under Rule 17a-5, as proposed to be amended, and proposed Rule 18a-7 would require information relating to proposed Rule 18a-4.

⁶⁷⁵ Compare 17 CFR 240.17a-5(d)(3), with paragraph (c)(3) of proposed Rule 18a-7.

Timing and Location of Filing

Paragraph (d)(5) of Rule 17a-5 provides that a broker-dealer must file the annual reports with the Commission not more than sixty calendar days after the end of the fiscal year of the broker-dealer.⁶⁷⁶ The Commission is proposing to include a parallel requirement in proposed Rule 18a-7 that would mirror paragraph (d)(5) of Rule 17a-5.⁶⁷⁷ Consequently, stand-alone SBSDs and stand-alone MSBSPs would be required to file the annual reports required under proposed Rule 18a-7 within 60 calendar days after the end of their fiscal years.⁶⁷⁸

⁶⁷⁶ See 17 CFR 240.17a-5(d)(5).

⁶⁷⁷ Compare 17 CFR 240.17a-5(d)(5), with paragraph (c)(4) of proposed Rule 18a-7.

⁶⁷⁸ See paragraph (c)(4) of proposed Rule 18a-7.

Paragraph (d)(6) of Rule 17a-5 provides that a broker-dealer must file the annual reports: (1) At the office of the Commission for the region where the broker-dealer has its principal place of business; (2) at the Commission's principal office in Washington, DC; (3) at the principal office of the broker-dealer's DEA; and (4) with SIPC.⁶⁷⁹ The Commission is proposing to include a parallel requirement in proposed Rule 18a-7 that is modeled on paragraph (d)(5) of Rule 17a-5.⁶⁸⁰ In particular, paragraph (c)(5) of proposed Rule 18a-5 would require stand-alone SBSDs and stand-alone MSBSPs to file the annual reports at the regional office of the Commission for the region in which the SBSD or MSBSP has its principal place of business and the Commission's principal office in Washington, DC.⁶⁸¹

⁶⁷⁹ See 17 CFR 240.17a-5(d)(6). Paragraph (d)(6) further provides that the broker-dealer must provide copies of the reports to all SROs of which the broker-dealer is a member, unless the SRO by rule waives this requirement. See id.

⁶⁸⁰ Compare 17 CFR 240.17a-5(d)(6), with paragraph (c)(5) of proposed Rule 18a-7.

⁶⁸¹ See paragraph (c)(5) of proposed Rule 18a-7. There would be no requirement to file the reports with SIPC or a DEA because stand-alone SBSDs and stand-alone MSBSPs would not be members of SIPC and would not have a DEA.

Nature and Form of the Reports

Paragraph (e) of Rule 17a-5 among other things: (1) Provides certain exceptions from the requirement that a broker-dealer engage an independent public accountant to audit the annual reports, (2) requires the broker-dealer to attach an oath or affirmation to the financial reports; (3) provides that the annual reports are not confidential except that the broker-dealer can request confidentiality for all of the annual reports other than the statement of financial condition; and (4) requires a broker-dealer to file certain additional reports with SIPC.⁶⁸²

⁶⁸² See 17 CFR 240.17a-5(e).

Paragraph (e)(2) of Rule 17a-5 requires a broker-dealer to attach an oath or affirmation to its financial report indicating that the report is true and correct and that the broker-dealer does not have any proprietary interest in one of its customer accounts.⁶⁸³ Paragraph (e)(2) also requires that the oath or affirmation must be made before a person duly authorized to administer such oaths or affirmations and prescribes who must make the oath or affirmation on behalf of the broker-dealer.⁶⁸⁴ The Commission adopted the FOCUS Report Part III as the means for the broker-dealer to provide the oath or affirmation required under paragraph (e)(2).⁶⁸⁵ The FOCUS Report Part III elicits certain basic information about the broker-dealer and the independent public accountant (e.g., name and address), contains a checklist to indicate the statements and other information included in the annual reports, and sets forth the text of the oath or affirmation required under paragraph (e)(2) of Rule 17a-5.⁶⁸⁶

⁶⁸³ See 17 CFR 240.17a-5(e)(2).

⁶⁸⁴ See 17 CFR 240.17a-5(e)(2). If the broker or dealer is a sole proprietorship, the oath or affirmation must be made by the proprietor; if a partnership, by a general partner; if a corporation, by a duly authorized officer; or if a limited liability company or limited liability partnership, by the chief executive officer, chief financial officer, manager, managing member, or those members vested with management authority for the limited liability company or limited liability partnership. Id.

⁶⁸⁵ See 17 CFR 242.617. See also FOCUS Reporting System; Requirements for Financial Reporting, Exchange Act Release No. 14242 (Dec. 9, 1977), 42 FR 63883 (Dec. 21, 1977) (“The Commission proposed the facing page for the annual report based on its experience that the processing of the annual report would be greatly facilitated if the identification information were submitted in a consistent format. The proposed facing page requires basic identification information, including the . . . name and address of the broker or dealer and its accountant, the oath or affirmation, and the itemization of the materials included in the report.”). See also FOCUS Report Part III, available at http://www.sec.gov/about/forms/formx-17a-5_3.pdf.

⁶⁸⁶ See FOCUS Report Part III.

The Commission is proposing to amend paragraph (e)(2) of Rule 17a-5 to remove the text of the oath or affirmation because the text of oath or affirmation is set forth on the FOCUS Report Part III.⁶⁸⁷ The proposed amendments also would state explicitly in the text of Rule 17a-5 that a broker-dealer is required to attach a complete and executed FOCUS Report Part III to the confidential and non-confidential portions of the annual reports filed with the Commission.⁶⁸⁸

⁶⁸⁷ Compare 17 CFR 240.17a-5(e)(2), with paragraph (e)(2) of Rule 17a-5, as proposed to be amended.

⁶⁸⁸ See paragraph (e)(2) of Rule 17a-5, as proposed to be amended.

In addition, the Commission is proposing a number of amendments to the FOCUS Report Part III to accommodate use of the FOCUS Report Part III by OTC derivatives dealers, stand-alone SBSDs, and stand-alone MSBSPs.⁶⁸⁹ The Commission also proposes amendments to Part III of the FOCUS Report to address the recently adopted amendments to Rule 17a-5.⁶⁹⁰ Further, the Commission is proposing a number of technical changes to the FOCUS Report Part III.⁶⁹¹

⁶⁸⁹ These amendments would: (1) Add a reference to Rule 17a-12 and proposed Rule 18a-7 to the subtitle; (2) remove the phrase “Name of Broker-Dealer” and in its place add the phrase “Name of Firm” in section A; (3) add check boxes to section A for the filer to indicate whether it is registered as an OTC derivatives dealer, broker-dealer, SBSD, and/or MSBSP; (4) add to the check list at the end of the Form boxes to indicate whether the annual reports attached to the Form include: (i) A computation of net capital pursuant to proposed Rule 18a-1; (ii) a computation of tangible net worth under Rule 18a-2; (iii) a computation for determination of reserve requirements pursuant to proposed Rule 18a-4; (iv) information relating to possession or control requirements under proposed Rule 18a-4; (v) a reconciliation, including appropriate explanation of the computation of net capital under proposed Rule 18a-1; (vi) a reconciliation, including appropriate explanation of the computation of tangible net worth under proposed Rule 18a-2; (vii) a reconciliation, including appropriate explanation of the computation of reserve requirements under proposed Rule 18a-4; (viii) an independent public accountant's report based on an examination of the financial statements under Rule 17a-12; (ix) an independent public accountant's report based on an examination of the financial report under proposed Rule 18a-7; and (x) an independent public accountant's report based on an examination of the compliance report under proposed Rule 18a-7; and (5) replace the check box entitled “A Reconciliation, including appropriate explanation of the Computation of Net Capital Under Rule 15c3-1 and the Computation for Determination of the Reserve Requirements Under Exhibit A of Rule 15c3-3” with two check boxes entitled: (i) “A reconciliation, including appropriate explanation of the computation of net capital under 17 C.F.R. § 240.15c3-1”; and (ii) A reconciliation, including appropriate explanation of the computation of net capital under 17 C.F.R. § 240.15c3-3. See Part III of the FOCUS Report, as proposed to be amended. The proposals also would amend the instructions at the end of the Form with respect to seeking confidential treatment for portions of the annual reports by adding a reference to the provisions of proposed Rule 18a-7 governing how to request confidential treatment and replacing the phrase “For conditions of” with the phrase “To request.” Id.

⁶⁹⁰ See Broker-Dealer Reports, 78 FR 51910. These amendments would: (1) Add the phrase “PCAOB-Registered” before the phrase “Independent Public Accountant” in section B; (2) remove check boxes in section B to indicate whether the independent public accountant is certified, a public accountant, or an accountant not registered in the U.S.; (3) add to the check list at the end of the Form boxes to indicate whether the annual reports attached to the Form include: (i) The exemption report under Rule 17a-5; (ii) the compliance report under Rule 17a-5; (iii) the independent public accountant's report based on an examination of the financial report under Rule 17a-5; (iv) the independent public accountant's report based on the examination of the compliance report, as required by Rule 17a-5; or (v) the independent public accountant's report based on the review of the exemption report under Rule 17a-5. See Part III of the FOCUS Report, as proposed to be amended. The amendments also would remove from the checklist an item to indicate whether any material inadequacies under Rule 17a-5 were found to exist or found to have existed since the date of the previous audit. See id.

⁶⁹¹ The proposed technical amendments are as follows: (1) Removing the phrase “See Section 240.17a-5(e)(2)” in the instruction for broker-dealers that claim an exemption from the requirement that the annual report be covered by an opinion of an independent public accountant and in its place adding the phrase “See 17 CFR 240.17a-5(e)(1)(ii), if applicable.”; and (2) removing the “Statement of Changes in Financial Condition” from the checklist and in its place adding the phrase “Statement of cash flows”.

The Commission is proposing to add a reference to proposed Form SBS to the references to the FOCUS Report Part II and Part IIA in paragraph (e)(3) of Rule 17a-5 to account for broker-dealers that are dually registered as an SBSD or MSBSP and, therefore, would use proposed Form SBS instead of the FOCUS Report Part II or Part IIA.⁶⁹²

⁶⁹² See paragraph (e)(3) of Rule 17a-5, as proposed to be amended.

The Commission is proposing to include parallel provisions in proposed Rule 18a-7 to the provisions in paragraph (e) of Rule 17a-5, as proposed to be amended. Under these provisions, stand-alone SBSDs and stand-alone MSBSPs would be required to attach a completed and executed FOCUS Report Part III to the confidential and non-confidential portions of the annual report.⁶⁹³ In addition, paragraph (d)(2) of proposed Rule 18a-7 would provide that the annual reports are not confidential except that if the statement of financial condition is bound separately from the balance of the annual reports and each page of the balance of the annual reports is stamped “confidential”, then the balance of the annual reports will be deemed confidential to the extent permitted by law.⁶⁹⁴ Paragraph (d)(2) of proposed Rule 18a-7 would mirror the confidential treatment of broker-dealer annual reports under Rule 17a-5.⁶⁹⁵

⁶⁹³ Compare paragraph (e)(2) of Rule 17a-5, as proposed to be amended, with paragraph (d)(1) of proposed Rule 18a-7.

⁶⁹⁴ See paragraph (d)(2) of proposed Rule 18a-7.

⁶⁹⁵ Compare 17 CFR 240.17a-5(e)(3), with paragraph (d)(2) of proposed Rule 18a-7.

Qualification of the Independent Public Accountant

As discussed above, a broker-dealer is required to file with the Commission a report of a PCAOB-registered independent public accountant covering the annual reports.⁶⁹⁶ Paragraph (f) of Rule 17a-5: (1) Prescribes certain minimum qualifications for the independent public accountant; (2) requires the broker-dealer to file with the Commission a statement concerning the accountant; and (3) requires the broker-dealer to file a notice when replacing the independent public accountant.⁶⁹⁷

⁶⁹⁶ See 17 CFR 240.17a-5(d)(1)(i)(C).

⁶⁹⁷ See 17 CFR 240.17a-5(f).

More specifically, paragraph (f)(1) of Rule 17a-5 provides that the independent public accountant must be qualified and independent in accordance with the independence requirements of Rule 2-01 of Regulation S-X and registered with the PCAOB if required by the Sarbanes-Oxley Act of 2002.⁶⁹⁸

⁶⁹⁸ See 17 CFR 240.17a-5(f)(1). See also 15 U.S.C 78q(e)(1)(A); 17 CFR 210.2-01. Prior to the Sarbanes-Oxley Act, section 17(e)(1)(A) of the Exchange Act required that the annual financial statements a broker-dealer must file with the Commission be “certified by an independent public accountant.” The Sarbanes-Oxley Act established the PCAOB and amended section 17(e)(1)(A) to provide that the annual financial statements must be “certified by a registered [with the PCAOB] public accounting firm.” See Sarbanes-Oxley Act, Public Law 107-204, 101, 116 Stat. 745 (2002); 15 U.S.C 78q(e)(1)(A). Title I of the Sarbanes-Oxley Act prescribed specific PCAOB registration, standards-setting, inspection, investigation, disciplinary, foreign application, oversight, and funding programs in connection with audits of issuers. See Public Law 107-204 generally and, in particular, § 2(a)(7) (defining the term issuer as an issuer as defined in section 3 of the Exchange Act, the securities of which are registered under section 12 of the Exchange Act, or that files or has filed a registration statement that has not yet become effective under the Securities Act of 1933 and that it has not withdrawn). However, as originally enacted, the Sarbanes-Oxley Act did not expressly prescribe similar programs in connection with audits of broker-dealers that are not issuers. The Dodd-Frank Act amended the Sarbanes-Oxley Act to provide the PCAOB with explicit authority to, among other things, establish (subject to Commission approval) auditing and related attestation, quality control, ethics, and independence standards for registered public accounting firms with respect to their preparation of audit reports to be included in broker-dealer filings with the Commission, and the authority to conduct and require an inspection program of registered public accounting firms that audit broker-dealers. See Public Law 111-203, 982. Further, the Dodd-Frank Act amended section 17(e) of the Exchange Act to provide, among other things, that a broker-dealer must annually file with the Commission a balance sheet and income statement certified by an independent public accounting firm, or by a registered (with the PCAOB) public accounting firm if the firm is required to be registered (with the PCAOB) under the Sarbanes-Oxley Act of 2002. See Public Law 111-203, 982(e)(1); 15 U.S.C 78q(e)(1). Additionally, the Dodd-Frank Act added section 104(a)(2)(D) to the Sarbanes-Oxley Act, which provides that a public accounting firm is not required to register with the PCAOB if the public accounting firm is exempt from an inspection program established by the PCAOB. See id. To date, the PCAOB has not exempted the audits by independent public accountants of any class of broker-dealer from the PCAOB's permanent inspection program. See Public Company Accounting Oversight Board; Order Approving Proposed Temporary Rule for an Interim Program of Inspection Related to Audits of Brokers and Dealers, Exchange Act Release No. 65163 (Aug. 18, 2011), 76 FR 52996 (Aug. 24, 2011). At this time, there is no reason to expect that any types of broker-dealer audits will be exempt from the PCAOB permanent inspection program, and any PCAOB determination to exempt broker-dealer audits from the PCAOB's permanent inspection program must be approved by the Commission.

Paragraph (f)(2) requires a broker-dealer to annually file with the Commission no later than December 10 a statement regarding the independent public accountant engaged to audit its annual reports.⁶⁹⁹ The statement must contain, among other things: (1) The name, address, telephone number, and registration number of the broker-dealer; (2) the name, address, and telephone number of the independent public accountant; (3) the date of the fiscal year of the annual reports of the broker-dealer covered by the engagement; (4) whether the engagement is for a single year or is of a continuing nature; and (5) a representation that the independent public accountant has undertaken to prepare reports covering the annual reports as required by paragraph (g) of Rule 17a-5.⁷⁰⁰

⁶⁹⁹ See 17 CFR 240.17a-5(f)(2). Paragraph (f)(2) further provides that if the engagement of an independent public accountant is of a continuing nature, providing for successive engagements, no further filing is required after the original filing. See id. On the other hand, if the engagement is for a single year, or if the most recent engagement has been terminated or amended, a new statement must be filed by the required date. See id.

⁷⁰⁰ See 17 CFR 240.17a-5(f)(2). Under the recent amendments to Rule 17a-5, broker-dealers that clear transactions or carry customer accounts must include certain representations in the statement as well. See Broker-Dealer Reports, 78 FR 51992-51993.

Paragraph (f)(3) of Rule 17a-5 requires a broker-dealer to file a notice with the Commission if it replaces the independent public accountant engaged to prepare reports covering the annual reports.⁷⁰¹ The notice must contain, among other things: (1) The date of the notification of termination or the engagement of the new independent public accountant; (2) the details of any issues arising during the twenty-four months (or the period of the engagement, if less than twenty-four months) preceding the termination or new engagement relating to any matter of accounting principles or practices, financial statement disclosure, auditing scope or procedure, or compliance with applicable rules of the Commission; and (3) whether the accountant's report covering the annual reports for any of the past two fiscal years contained an adverse opinion or a disclaimer of opinion or was qualified as to uncertainties, audit scope, or accounting principles, and must describe the nature of each such adverse opinion, disclaimer of opinion, or qualification.⁷⁰²

⁷⁰¹ See 17 CFR 240.17a-5(f)(3). The notice must be received at the Commission's principal office in Washington, DC and at the applicable regional office of the Commission not more than fifteen days after: (1) The broker-dealer has notified the independent public accountant that provided the reports covering the annual reports for the most recent fiscal year that the independent public accountant's services will not be used in future engagements; (2) the broker-dealer has notified an independent public accountant that was engaged to provide the reports covering the annual reports that the engagement has been terminated; (3) an independent public accountant has notified the broker-dealer that the independent public accountant would not continue under an engagement to provide the reports covering the annual reports; or (4) a new independent public accountant has been engaged to provide the reports covering the annual reports without any notice of termination having been given to or by the previously engaged independent public accountant. See id.

⁷⁰² See 17 CFR 240.17a-5(f)(3).

Broker-dealer SBSDs and broker-dealer MSBSPs will be required to engage independent public accountants that meet the qualifications in Rule 17a-5 and file the statements and notices required by the rule. The Commission is proposing to include in proposed Rule 18a-7 parallel independent public accountant qualification, statement, and notice requirements applicable to stand-alone SBSDs and stand-alone MSBSPs that are modeled on the requirements in paragraph (f) of Rule 17a-5.⁷⁰³

⁷⁰³ Compare 17 CFR 240.17a-5(f), with paragraph (e) of proposed Rule 18a-7.

Paragraph (e)(1) of proposed Rule 18a-7 is modeled on paragraph (f)(1) of Rule 17a-5.⁷⁰⁴ Paragraph (e)(1) would provide that an independent public accountant engaged by a stand-alone SBSD or stand-alone MSBSP must be qualified and independent in accordance with Rule 2-01 of Regulation S-X and registered with the PCAOB.⁷⁰⁵ While the PCAOB's authority with respect to audits of stand-alone SBSDs and stand-alone MSBSPs would be more limited than its authority with respect to audits of issuers and broker-dealers, the Commission preliminarily believes that it would be appropriate to require stand-alone SBSDs and stand-alone MSBSPs to engage an independent public accountant that is registered with the PCAOB.⁷⁰⁶ In particular, the Commission has greater confidence in the quality of audits conducted by an independent public accountant registered with the PCAOB.⁷⁰⁷

⁷⁰⁴ Compare 17 CFR 240.17a-5(f)(1), with paragraph (e)(1) of proposed Rule 18a-7.

⁷⁰⁵ See paragraph (e)(1) of proposed Rule 18a-7. With respect to qualifications, paragraph (a) of Rule 2-01 provides that the Commission will not recognize any person as a certified public accountant who is not duly registered and in good standing as such under the laws of the place of the accountant's residence or principal office. See 17 CFR 210.2-01(a). Paragraph (a) further provides that the Commission will not recognize any person as a public accountant who is not in good standing and entitled to practice as such under the laws of the place of the accountant's residence or principal office. See id. With respect to independence, paragraph (b) of Rule 2-01 provides that the Commission will not recognize an accountant as independent, with respect to an audit client, if the accountant is not, or a reasonable investor with knowledge of all relevant facts and circumstances would conclude that the accountant is not, capable of exercising objective and impartial judgment on all issues encompassed within the accountant's engagement. See 17 CFR 210.2-01(b). Paragraph (b) further provides that in determining whether an accountant is independent, the Commission will consider all relevant circumstances, including all relationships between the accountant and the audit client, and not just those relating to reports filed with the Commission. See id. Paragraph (c) of Rule 2-01 sets forth a non-exclusive specification of circumstances inconsistent with independence as required under paragraph (b). See 17 CFR 210.2-01(c). For example, an accountant is prohibited from providing the following non-audit services, among others, to an audit client: (1) Bookkeeping or other services related to the accounting records or financial statements of the audit client; (2) financial information systems design and implementation; and (3) management functions or human resources. See id. Not all of the independence requirements in Rule 2-01 that are applicable to audits of issuers would be applicable to engagements under proposed Rule 18a-7. For example, the independent public accountants of stand-alone SBSDs and stand-alone MSBSPs that are not issuers would not be subject to the partner rotation requirements or the compensation requirements of Rule 2-01 because the statute mandating those requirements is limited to issuers. See 15 U.S.C. 78j-1(j); 17 CFR 210.2-01(c)(6). Additionally, the independent public accountants would not be subject to the cooling-off period requirements for employment or the audit committee pre-approval requirements because those requirements only reference issuers within the independence rules. See 17 CFR 210.2-01(c)(2) and (c)(7).

⁷⁰⁶ See Custody of Funds or Securities of Clients by Investment Advisers, Investment Advisers Act Release No. 2968 (Dec. 30, 2009), 75 FR 1456 (Jan. 11, 2010) (adopting rules requiring certain investment advisers to undergo annual surprise examinations performed by, and obtain internal control reports prepared by, independent public accountants registered with the PCAOB).

⁷⁰⁷ See id. at 1460.

Paragraph (e)(2) of proposed Rule 18a-7 is modeled on paragraph (f)(2) of Rule 17a-5.⁷⁰⁸ Under paragraph (e)(2), a stand-alone SBSD or stand-alone MSBSP would be required to annually file with the Commission no later than December 10 a statement regarding the independent public accountant engaged to audit its annual reports.⁷⁰⁹ The statement would need to contain similar information as is required in the statement under paragraph (f)(2) of Rule 17a-5.⁷¹⁰

⁷⁰⁸ Compare 17 CFR 240.17a-5(f)(2), with paragraph (e)(2) of proposed Rule 18a-7.

⁷⁰⁹ See paragraph (e)(2) of proposed Rule 18a-7. Like paragraph (f)(2) of Rule 17a-5, paragraph (e)(2) of proposed Rule 18a-7 would provide that if the engagement of an independent public accountant is of a continuing nature, providing for successive engagements, no further filing would be required. See id. Further, if the engagement is for a single year, or if the most recent engagement has been terminated or amended, a new statement would need to be filed by the required date. See id.

⁷¹⁰ Compare 17 CFR 240.17a-5(f)(2), with paragraph (e)(2) of proposed Rule 18a-7.

Paragraph (e)(3) of proposed Rule 18a-7 is modeled on paragraph (f)(3) of Rule 17a-5.⁷¹¹ Under paragraph (e)(3), a stand-alone SBSD or stand-alone MSBSP would be required to file a notice with the Commission if the firm replaces the independent public accountant engaged to prepare the reports covering the annual reports.⁷¹² The notice would need to contain the same information as is required in the notice under paragraph (f)(3) of Rule 17a-5.⁷¹³

⁷¹¹ Compare 17 CFR 240.17a-5(f)(3), with paragraph (e)(3) of proposed Rule 18a-7.

⁷¹² See paragraph (e)(3) of proposed Rule 18a-7. Like paragraph (f)(3) of Rule 17a-5, paragraph (e)(3) of proposed Rule 18a-7 would require that the notice must be received at the Commission's principal office in Washington, DC and at the applicable regional office of the Commission not more than 15 days after: (1) The stand-alone SBSD or stand-alone MSBSP has notified the independent public accountant that provided the reports covering the annual reports for the most recent fiscal year that the independent public accountant's services will not be used in future engagements; (2) the stand-alone SBSD or stand-alone MSBSP has notified an independent public accountant that was engaged to provide the reports covering the annual reports that the engagement has been terminated; (3) an independent public accountant has notified the stand-alone SBSD or stand-alone MSBSP that the independent public accountant would not continue under an engagement to provide the reports covering the annual reports; or (4) a new independent public accountant has been engaged to provide the reports covering the annual reports without any notice of termination having been given to or by the previously engaged independent public accountant. See id.

⁷¹³ Compare 17 CFR 240.17a-5(f)(3), with paragraph (e)(3) of proposed Rule 18a-7.

Engagement of the Independent Public Accountant

Under the recent amendments to Rule 17a-5, paragraph (g) of the rule provides that the independent public accountant engaged by the broker-dealer to provide the reports covering the annual reports must, as part of the engagement, undertake to prepare the following reports, as applicable, in accordance with PCAOB standards: (1) A report based on an examination of the financial report; and (2) either a report based on an examination of certain statements in the compliance report or a report based on a review of the exemption report.⁷¹⁴ As broker-dealers, dually registered broker-dealer SBSDs and broker-dealer MSBSPs will be required to engage their independent public accountants to undertake an examination of their financial report and compliance report.

⁷¹⁴ See 17 CFR 240.17a-5(g). The PCAOB recently adopted, and the Commission approved, standards for examinations of compliance reports of broker-dealers and reviews of exemption reports of broker-dealers and for audits of supplemental information accompanying financial statements. See Public Company Accounting Oversight Board; Order Granting Approval of Proposed Rules, Standards for Attestation Engagements Related to Broker and Dealer Compliance or Exemption Reports Required by the U.S. Securities and Exchange Commission and Related Amendments to PCAOB Standards, Exchange Act Release No. 71524 (Feb. 12, 2014). See also PCAOB, Standards for Attestation Engagements Related to Broker and Dealer Compliance or Exemption Reports Required by the U.S. Securities and Exchange Commission, PCAOB Release No. 2013-007 (Oct. 10, 2013), available at http://pcaobus.org/Rules/Rulemaking/Docket035/PCAOB_Release_2013_007.pdf; PCAOB. The PCAOB also recently adopted, and the Commission approved Auditing Standard No. 17, which applies when the auditor of a company's financial statements is engaged to perform audit procedures and report on supplemental information that accompanies financial statements, including supporting schedules that broker-dealers are required to file pursuant to Rule 17a-5 under the Exchange Act. See Public Company Accounting Oversight Board; Order Granting Approval of Proposed Rules, Auditing Standard No. 17, Auditing Supplemental Information Accompanying Audited Financial Statements, and Related Amendments to PCAOB Standards, Exchange Act Release No. 71525 (Feb. 12, 2014). See also, PCAOB, Auditing Standard No. 17: Auditing Supplemental Information Accompanying Audited Financial Statements and Related Amendments to PCAOB Standards, PCAOB Release No. 2013-008 (Oct. 10, 2013), available at http://pcaobus.org/Rules/Rulemaking/Docket036/PCAOB_Release_2013_008.pdf.

The Commission is proposing to include parallel engagement of accountant requirements in proposed Rule 18a-7 that would be applicable to stand-alone SBSDs and stand-alone MSBSPs that are modeled on the requirements in paragraph (g) of Rule 17a-5.⁷¹⁵ Specifically, paragraph (f) of proposed Rule 18a-7 would provide that the independent public accountant engaged by a stand-alone SBSD or stand-alone MSBSP must, as part of the engagement, undertake to prepare a report based on an examination of the financial report and, in the case of the SBSD, a report based on an examination of certain statements in the compliance report.⁷¹⁶ There would not be a provision relating to an exemption report because, as explained above, broker-dealer SBSDs and stand-alone SBSDs would be required to file the compliance report (and would not be permitted to file the exemption report in lieu of the compliance report).

⁷¹⁵ Compare 17 CFR 240.17a-5(g), with paragraph (f) of proposed Rule 18a-7.

⁷¹⁶ See paragraph (f) of proposed Rule 18a-7.

Notification of Non-Compliance or Material Weakness

Under the recent amendments to Rule 17a-5, paragraph (h) of the rule provides that the independent public accountant engaged to prepare reports covering the annual reports must immediately notify the broker-dealer if the accountant determines during the course of preparing the reports that the broker-dealer is not in compliance with Rule 15c3-1, Rule 15c3-3, Rule 17a-13, or an Account Statement Rule or if the accountant determines that any material weakness exists in the broker-dealer's Internal Control Over Compliance.⁷¹⁷ If the notice from the accountant concerns an instance of non-compliance that would require a broker-dealer to provide a notification under Rule 15c3-1, Rule 15c3-3, or Rule 17a-11, or if the notice concerns a material weakness, the broker-dealer must provide a notification in accordance with Rule 15c3-1, Rule 15c3-3, or Rule 17a-11, as applicable, and provide a copy of the notification to the independent public accountant.⁷¹⁸ If the independent public accountant does not receive the notification within one business day, or if the independent public accountant does not agree with the statements in the notification, then the independent public accountant must notify the Commission and the DEA within one business day.⁷¹⁹ The report from the independent public accountant must, if the broker-dealer failed to file a notification, describe any instances of non-compliance that required a notification under Rule 15c3-1, Rule 15c3-3, or Rule 17a-11, or any material weaknesses.⁷²⁰ If the broker-dealer filed a notification, the report from the accountant must detail the aspects of the notification of the broker-dealer with which the accountant does not agree.⁷²¹

⁷¹⁷ See 17 CFR 240.17a-5(h). The term material weakness is defined with regard to the compliance report and, therefore, applies only to a broker-dealer that files a compliance report

⁷¹⁸ See 17 CFR 240.17a-5(h). See also 17 CFR 240.15c3-1(a)(6)(iv)(B), (a)(6)(v), (a)(7)(ii), (c)(2)(x)(C)(1), and (e); 17 CFR 240.15c3-1d(c)(2); 17 CFR 240.15c3-3(i); 17 CFR 240.17a-11. Notifications under Rule 17a-11 also must be filed with the CFTC if the broker-dealer is registered dually registered as a futures commission merchant with the CFTC. See 17 CFR 240.17a-11(g).

⁷¹⁹ See 17 CFR 240.17a-5(h).

⁷²⁰ See id.

⁷²¹ See id.

The Commission is proposing to amend paragraph (h) of Rule 17a-5 to add references to proposed Rule 18a-4 to the references to Rule 15c3-1, Rule 15c3-3, and Rule 17a-13.⁷²² Thus, the independent public accountant would need to notify the broker-dealer if the accountant determines the broker-dealer is not in compliance with proposed Rule 18a-4.⁷²³ Depending on the nature of the noncompliance, the broker-dealer may need to provide notification to the Commission in accordance with Rule 17a-11.⁷²⁴

⁷²² See paragraph (h) of Rule 17a-5, as proposed to be amended.

⁷²³ See id.

⁷²⁴ See id. As discussed below in section II.C.2. of this release, the Commission is proposing to amend Rule 17a-11 to require notification to the Commission if a broker-dealer SBSD fails to make a required deposit into its reserve account under paragraph (c) of proposed Rule 18a-4.

The Commission is proposing to include parallel notification requirements in proposed Rule 18a-7 applicable to stand-alone SBSDs and stand-alone MSBSPs that are modeled on paragraph (h) of Rule 17a-5, as proposed to be amended.⁷²⁵ Because stand-alone SBSDs and stand-alone MSBSPs would be subject to different rules, paragraph (g) of proposed Rule 18a-7 would contain separate provisions for each type of registrant.⁷²⁶

⁷²⁵ Compare paragraph (h) of Rule 17a-5, as proposed to be amended, with paragraph (g) of proposed Rule 18a-7.

⁷²⁶ See paragraphs (g)(1)-(2) of proposed Rule 18a-7.

Paragraph (g)(1) would apply to stand-alone SBSDs.⁷²⁷ Under this paragraph, the independent public accountant of a stand-alone SBSD would be required to notify the SBSD if the accountant determines that the SBSD is not in compliance with proposed Rules 18a-1, 18a-4, or 18a-9 or that any material weaknesses exist.⁷²⁸ Consequently, the independent public accountant would need to provide notice to a stand-alone SBSD regarding noncompliance with requirements that parallel the requirements for which an independent public accountant must provide notice to a broker-dealer under paragraph (h) of Rule 17a-5.⁷²⁹ Further, the independent public accountant would need to provide notice of a material weakness just as a broker-dealer's independent public accountant must provide notice of a material weakness.⁷³⁰ Like Rule 17a-5, the receipt by a stand-alone SBSD of a notice would trigger the requirement for the SBSD to notify the Commission if the noncompliance requires notification under Rule 18a-8 or if the notice concerns a material weakness and to provide a copy of the notice to the accountant.⁷³¹ Further, the accountant would be required to notify the Commission if the accountant does not receive a copy of the notice or if the accountant disagrees with the notice.⁷³²

⁷²⁷ See paragraph (g)(1) of proposed Rule 18a-7.

⁷²⁸ See id.

⁷²⁹ Compare 17 CFR 240.17a-5(h), with paragraph (g)(1) of proposed Rule 18a-7. As discussed above, proposed Rules 18a-1 and 18a-4 are modeled on Rules 15c3-1 and 15c3-3, respectively. Capital, Margin, and Segregation Requirements for Security-Based Swap Dealers and Major Security-Based Swap Participants and Capital Requirements for Broker-Dealers, 77 FR 70217-70257, 70274-70288. As discussed below in section II.C.2. of this release, proposed Rule 18a-8 is modeled on Rule 17a-11 (the broker-dealer notification rule). Stand-alone SBSDs would not be subject to an Account Statement Rule.

⁷³⁰ Compare 17 CFR 240.17a-5(h), with paragraph (g)(1) of proposed Rule 18a-7. As discussed above, the definition of the term material weakness in proposed Rule 18a-7 is modeled on the definition of the term material weakness in Rule 17a-5. Compare 17 CFR 240.17a-5(d)(3)(iii), with paragraph (c)(3)(iii) of proposed Rule 18a-7.

⁷³¹ Compare 17 CFR 240.17a-5(h), with paragraph (g)(1) of proposed Rule 18a-7.

⁷³² See paragraph (g)(1) of proposed Rule 18a-7.

Paragraph (g)(2) of proposed Rule 18a-7 would apply to stand-alone MSBSPs.⁷³³ Because the Commission is not proposing that MSBSPs be subject to proposed Rule 18a-4, proposed Rule 18a-9, or the requirement to file a compliance report, the notification triggers in paragraph (g)(2) would be limited to noncompliance with the proposed Rule 18a-2 (the proposed tentative net worth standard for stand-alone MSBSPs).⁷³⁴ Like Rule 17a-5 and paragraph (g)(1) of proposed Rule 18a-7, the receipt by a stand-alone MSBSP of a notice of noncompliance with proposed Rule 18a-2 would trigger the requirement for the MSBSP to notify the Commission under Rule 18a-8 and to provide a copy of the notice to the independent public accountant.⁷³⁵ Further, the accountant would be required to notify the Commission if the accountant does not receive a copy of the notice or if the accountant disagrees with the notice.⁷³⁶

⁷³³ See paragraph (g)(2) of proposed Rule 18a-7.

⁷³⁴ See id. As discussed above, the concept of material weakness applies in the context of the filing of the compliance report and the report of the independent public accountant covering the compliance report.

⁷³⁵ See paragraph (g)(2) of proposed Rule 18a-7. As discussed below in section II.C.2. of this release, proposed Rule 18a-8 would require a stand-alone MSBSP to provide notice to the Commission if the firm receives notice of noncompliance with proposed Rule 18a-2 or determines that it is not in compliance with proposed Rule 18a-2.

⁷³⁶ See paragraph (g)(2) of proposed Rule 18a-7.

Reports of the Independent Public Accountant

Under the recent amendments to Rule 17a-5, Paragraph (i) of the rule prescribes requirements for the reports of the independent public accountant covering the broker-dealer's annual reports, including: (1) Technical requirements; ⁷³⁷ (2) required representations; ⁷³⁸ (3) the opinions or conclusions to be expressed in the accountant's reports; ⁷³⁹ and (4) requirements related to matters to which the accountant takes exception.⁷⁴⁰

⁷³⁷ See 17 CFR 240.17a-5(i)(1). Paragraph (i)(1) of Rule 17a-5 provides that the report of the independent public accountant must: (1) Be dated; (2) be signed manually; (3) indicate the city and state where issued; and (iv) identify without detailed enumeration the items covered by the report. See id.

⁷³⁸ See 17 CFR 240.17a-5(i)(2). Paragraph (i)(2) provides that the report of the independent public accountant must: (1) State whether the examinations or review, as applicable, were made in accordance with standards of the PCAOB; and (2) identify any examination and, if applicable, review procedures deemed necessary by the independent public accountant under the circumstances of the particular case that have been omitted and the reason for their omission. See id. The paragraph further provides that nothing in Rule 17a-5 may be construed to imply authority for the omission of any procedure that independent public accountants would ordinarily employ in the course of an examination or review made for the purpose of expressing the opinions or conclusions required under Rule 17a-5. See id.

⁷³⁹ See 17 CFR 240.17a-5(i)(3). Paragraph (i)(3) provides that the report of the independent public accountant must state clearly: (1) The opinion of the independent public accountant with respect to the financial report and the accounting principles and practices reflected in that report; (2) the opinion of the independent public accountant with respect to the financial report as to the consistency of the application of the accounting principles, or as to any changes in those principles, that have a material effect on the financial statements; and (3)(i) the opinion of the independent public accountant with respect to certain statements in the compliance report; or (ii) the conclusion of the independent public accountant with respect to certain statements in the exemption report. See id.

⁷⁴⁰ See 17 CFR 240.17a-5(i)(4). Paragraph (i)(4) provides that any matters to which the independent public accountant takes exception must be clearly identified, the exceptions must be specifically and clearly stated, and, to the extent practicable, the effect of each such exception on any related items contained in the annual reports must be given.

As broker-dealers dually registered as SBSDs or MSBSPs, the independent public accountants of these registrants will need to prepare reports covering the registrant's financial report and compliance report pursuant to the requirements prescribed in paragraph (i) of Rule 17a-5.

The Commission is proposing to include parallel independent public accountant report requirements in proposed Rule 18a-7 applicable to stand-alone SBSDs and stand-alone MSBSPs that are modeled on paragraph (i) of Rule 17a-5.⁷⁴¹ Specifically, paragraph (h) of proposed Rule 18a-7 prescribes parallel requirements for the reports of the independent public accountant covering the stand-alone SBSD's or stand-alone MSBSP's annual reports, namely: (1) Technical requirements; ⁷⁴² (2) required representations; ⁷⁴³ (3) the opinions or conclusions to be expressed in the accountant's reports; ⁷⁴⁴ and (4) requirements related to matters to which the accountant takes exception.⁷⁴⁵ The requirements in paragraph (h) of proposed Rule 18a-7 would not include the requirements relating to the review engagement with respect to the exemption report because, as discussed above, stand-alone SBSDs and stand-alone MSBSPs would not file exemption reports as part of their annual reports.⁷⁴⁶

⁷⁴¹ Compare 17 CFR 240.17a-5(i), with paragraph (h) of proposed Rule 18a-7.

⁷⁴² Compare 17 CFR 240.17a-5(i)(1), with paragraph (h)(1) of proposed Rule 18a-7.

⁷⁴³ Compare 17 CFR 240.17a-5(i)(2), with paragraph (h)(2) of proposed Rule 18a-7.

⁷⁴⁴ Compare 17 CFR 240.17a-5(i)(3), with paragraph (h)(3) of proposed Rule 18a-7.

⁷⁴⁵ Compare 17 CFR 240.17a-5(i)(4), with paragraph (h)(4) of proposed Rule 18a-7.

⁷⁴⁶ See paragraph (h) of proposed Rule 18a-7.

Extensions and Exemptions

Paragraph (m) of Rule 17a-5 governs the granting of extensions of time to comply with the requirements of Rule 17a-5 and the granting of exemptions from complying with the requirements of the rule, and also provides two self-executing exemptions from complying with Rule 17a-5 for certain types of broker-dealers.⁷⁴⁷ As broker-dealers, dually registered SBSDs or MSBSPs will be able to seek extensions and exemptions under the provisions of paragraph (m).

⁷⁴⁷ See 17 CFR 240.17a-5(m). Paragraph (m)(1) of Rule 17a-5 provides that a broker-dealer's DEA may extend the period for filing the annual reports and requires the DEA to maintain a record of each granted extension. See 17 CFR 240.17a-5(m)(1). Paragraph (m)(2) exempts from the requirements of Rule 17a-5 entities that are: (1) banks or insurance companies as those terms defined in the Exchange Act; (2) are registered as broker-dealers to sell variable contracts; and (3) are exempt from Rule 15c3-1. See 17 CFR 240.17a-5(m)(2). Paragraph (m)(3) of Rule 17a-5 provides that the Commission may grant an extension of time or an exemption, upon written request of a national securities exchange, registered national securities association or the broker-dealer, from any of the requirements of Rule 17a-5 either unconditionally or on specified terms and conditions. See 17 CFR 240.17a-5(m)(3). Paragraph (m)(4) of Rule 17a-5 exempts from the requirements of Rule 17a-5 entities registered as broker-dealers under section 15(b)(11)(A) of the Exchange Act the purpose of effecting transactions in security futures products. See 17 CFR 240.17a-5(m)(4).

The Commission is proposing to include a parallel extension and exemption provision in proposed Rule 18a-7 applicable to stand-alone SBSDs, stand-alone MSBSPs, bank SBSDs, and bank MSBSPs that is modeled on paragraph (m) of Rule 17a-5, but that only provides that the Commission may grant extensions or exemptions.⁷⁴⁸ Specifically, paragraph (i) of proposed Rule 18a-7 would provide that upon written application by a stand-alone SBSD or stand-alone MSBSP to the Commission or on its own motion, the Commission may grant an extension of time or an exemption from any of the requirements of proposed Rule 18a-7 either unconditionally or on specified terms and conditions.⁷⁴⁹

⁷⁴⁸ Compare 17 CFR 240.17a-5(m), with paragraph (i) of proposed Rule 18a-7. As discussed above in section II.B.2. of this release, bank SBSDs and bank MSBSPs would be required to file proposed Form SBS on a quarterly basis. These types of registrants would be able to use the provisions of paragraph (i) of proposed Rule 18a-7 to seek extensions and exemptions from the provisions of the rule relating to the filing of proposed Form SBS.

⁷⁴⁹ See paragraph (i) of proposed Rule 18a-7. Paragraph (i) of proposed Rule 18a-7 does not include the self-executing exemption in paragraph (m)(2) of Rule 17a-5 (applicable to banks and insurance companies registered as broker-dealers to sell variable contracts) and in paragraph (m)(4) of Rule 17a-5 (applicable to broker-dealers only effecting transactions in security futures products). Stand-alone SBSDs and stand-alone MSBSPs would not qualify for these exemptions because, among other things, they would engage in a broader range of activities than those permitted of entities that may use the exemptions.

Notification of Change of Fiscal Year

Paragraph (n)(1) of Rule 17a-5 requires a broker-dealer to notify the Commission and its DEA of a change of its fiscal year.⁷⁵⁰ Paragraph (n)(2) requires that the notice contain a detailed explanation for the reasons for the change and requires that changes in the filing period for the annual reports must be approved in writing by the broker-dealer's DEA.⁷⁵¹ As broker-dealers, dually registered broker-dealer SBSDs and broker-dealer MSBSPs will be required to file the notices of changes in fiscal years and obtain approvals from their DEAs as prescribed in paragraph (n).

⁷⁵⁰ See 17 CFR 240.17a-5(n)(1).

⁷⁵¹ See 17 CFR 240.17a-5(n)(2).

The Commission is proposing to include a parallel change in fiscal year requirement in proposed Rule 18a-7 applicable to stand-alone SBSDs and stand-alone MSBSPs that is modeled on paragraph (n) of Rule 17a-5, but that only provides that the Commission may approve a change in the filing period for the annual reports.⁷⁵² Specifically, paragraph (j)(1) of proposed Rule 18a-7 would provide that, in the event any stand-alone SBSD or stand-alone MSBSP finds it necessary to change its fiscal year, it must file, with the Commission's principal office in Washington, DC and the regional office of the Commission for the region in which the SBSD or MSBSP has its principal place of business, a notice of such change.⁷⁵³ Paragraph (j)(2) would provide that the notice must contain a detailed explanation of the reasons for the change and that any change in the filing period for the annual reports must be approved in writing by the Commission.⁷⁵⁴

⁷⁵² Compare 17 CFR 240.17a-5(n), with paragraph (j) of proposed Rule 18a-7.

⁷⁵³ See paragraph (j)(1) of proposed Rule 18a-7.

⁷⁵⁴ See paragraph (j)(2) of proposed Rule 18a-7.

Filing Requirements

Paragraph (o) of Rule 17a-5 provides that a filing pursuant to the rule is deemed to be accomplished when it is received by the Commission's principal office with duplicates filed simultaneously at the locations prescribed in other parts of Rule 17a-5.⁷⁵⁵ As broker-dealers, dually registered broker-dealer SBSDs and broker-dealer MSBSPs will be required to comply with the filing requirements prescribed in paragraph (o).

⁷⁵⁵ See 17 CFR 240.17a-5(o).

The Commission is proposing to include a parallel filing requirement in proposed Rule 18a-7 applicable to stand-alone SBSDs, stand-alone MSBSPs, bank SBSDs, and bank MSBSPs that mirrors paragraph (o) of Rule 17a-5.⁷⁵⁶ Specifically, paragraph (k) of proposed Rule 18a-7 would provide that for purposes of the filing requirements in the rule, filing will be deemed to have been accomplished upon receipt at the Commission's principal office in Washington, DC, with duplicate originals simultaneously filed at the locations prescribed in the particular paragraph of the rule which is applicable.⁷⁵⁷

⁷⁵⁶ Compare 17 CFR 240.17a-5(o), with paragraph (k) of proposed Rule 18a-7.

⁷⁵⁷ See paragraph (k) of proposed Rule 18a-7.

Request for Comment

The Commission generally requests comment on the proposed amendments to Rule 17a-5 and proposed Rule 18a-7. In addition, the Commission requests comment, including empirical data in support of comments, in response to the following questions:

1. Will the majority of stand-alone SBSDs apply to use internal models to calculate net capital? If not, what portion of stand-alone SBSDs will apply to use internal models?

2. Paragraph (j)(2) of proposed Rule 18a-7 would require the Commission to approve a change in the fiscal year of a stand-alone SBSD or stand-alone MSBSP. Should the rule instead provide that a stand-alone SBSD or stand-alone MSBSP may provide notice to the Commission of a change in fiscal year and that the notice will be deemed approved by the Commission unless the Commission rejects the change within a prescribed period of time such as 30, 60, or 90 days? Are there any other alternative approval mechanisms the Commission should consider?

3. Under the recently adopted amendments to Rule 17a-5, paragraphs (f)(2)(ii)(F) and (G) require each clearing broker-dealer to include a representation in its statement regarding its independent public accountant that the broker-dealer agrees to allow Commission and DEA examination staff to review the audit documentation associated with its annual audit reports required under Rule 17a-5 and to allow its independent public accountant to discuss findings relating to the audit reports with Commission and DEA examination staff if requested for the purposes of an examination of the broker-dealer. Should this requirement apply to stand-alone SBSDs? Explain why or why not.

4. Will entities already registered with the Commission as investment advisers, but not as broker-dealers, also register with the Commission as SBSDs? If so, would the compliance report and the independent public accountant's report based on an examination of the compliance report be sufficient to satisfy the requirement that certain investment advisers obtain an internal control report pursuant to Rule 206(4)-2 under the Investment Advisers Act of 1940?

5. Could there be broker-dealer SBSDs that claim an exemption from Rule 15c3-3, but that would be subject to Rule 18a-4? Please provide data to support the answer. If there would be a broker-dealer SBSD that claims an exemption from Rule 15c3-3 but would be subject to Rule 18a-4, should the firm submit an exemption report under paragraph (d)(1)(i)(B)(2) relating to its exemption from Rule 15c3-3 and also submit a compliance report under paragraph (d)(1)(i)(B)(1) of Rule 17a-5 relating to its compliance with Rule 18a-4? Please explain why or why not.

6. Paragraph (b)(1) of proposed Rule 18a-7 would require each nonbank stand-alone SBSD and nonbank stand-alone MSBSP to make certain documents publicly available on its Web site within ten business days after the date the firm is required to file its annual reports with the Commission. Should firms be given more or less time than ten business days to post the requisite documents on their Web sites? Explain why or why not.

7. Paragraph (b)(2) of proposed Rule 18a-7 would require each nonbank stand-alone SBSD and nonbank stand-alone MSBSP to make publicly available on its Web site unaudited statements as of the date that is six months after the date of the most recent audited statements filed with the Commission. These reports would need to be made publicly available within thirty calendar days of the date of the statements. Should firms be given more or less time than thirty calendar days to post their unaudited financial statements on their Web sites? Explain why or why not.

b. Additional Proposed Amendments to Rule 17a-5

The Commission is proposing several amendments to Rule 17a-5 to eliminate obsolete text, improve readability, and modernize terminology. The Commission is proposing a global change that would replace the use of the word “shall” in the rule with the word “must” or “will” where appropriate.⁷⁵⁸ The Commission also proposes to make certain stylistic, corrective, and punctuation amendments to improve Rule 17a-5's readability.⁷⁵⁹

⁷⁵⁸ The proposed amendments would replace the word “shall” with the word “must” or “will” in the following paragraphs of Rule 17a-5, as proposed to be amended: (a)(1)(v), (a)(2), (a)(3), (a)(6), (b)(1), (b)(3), (b)(4), (b)(5), (c)(1), (c)(2), (c)(2)(i), (c)(2)(ii), (c)(3), (c)(4)(iii), (e)(3), note to paragraph (h), (k), (l), (m)(1), (m)(2), (m)(4), (n)(2), and (o). See Rule 17a-5, as proposed to be amended.

⁷⁵⁹ The Commission proposes the following stylistic and corrective changes to Rule 17a-5, as proposed to be amended: (1) Clarifying in paragraph (a)(5) that ANC broker-dealers must file additional reports “with the Commission”; (2) replacing “monthly” with “on a monthly basis” in paragraph (a)(1)(v); (3) replacing “10 largest commitments” with “ten largest commitments” in paragraph (a)(5)(v)(C); (4) replacing “broker or dealer's” with “broker's or dealer's” in paragraphs (a)(5)(v)(D)-(G); (5) cross-referencing “paragraphs (c)(1) and (c)(2)” and “paragraphs (c)(2)(i) and (c)(2)(ii)” instead of “paragraphs (c)(1) and (2)” and “paragraphs (c)(2)(i) and (ii)” in paragraph (c)(3); (6) cross-referencing “paragraphs (c)(2)(iii) and (c)(2)(iv)” instead of “paragraphs (c)(2)(iii) and (iv)” in paragraph (c)(5)(i)(C); (9) eliminating the quotation marks around the defined term “customer” in paragraph (c)(4), and instead italicizing the defined term if it is not already italicized; (7) replacing the phrase “Home page” with the phrase “home page” in paragraph (c)(5)(iii)(C); (8) referring to a broker-dealer's annual report in the singular instead of the plural in paragraph (e)(1)(ii) by replacing the phrase “annual reports”, and the words “are”, and “reports” with the phrase “an annual report”, the word “is”, and the phrase “a report”, respectively; (9) adding the word “the” before the phrase “independent public accountant does not agree” in paragraph (f)(3)(v)(B); (10) removing the phrase “by telegram” in the last sentence of the Note to paragraph (h); (11) adding the word “Reserved” in brackets in paragraph (j); (12) replacing the phrase “Division of Market Regulation” with the phrase “Division of Trading and Markets” in paragraph (k); (13) replacing the phrase “Securities Exchange Act of 1934” with the word “Act” in paragraph (l); (14) removing the U.S.C. citations from paragraphs (m)(2) and (m)(4), since the rule already cites to the applicable section of the Exchange Act; and (15) replacing the phrase “§ 240.17a-5” with the phrase “this section” in paragraph (o).

As a consequence of the proposed deletion of current paragraph (a)(1) of Rule 17a-5, paragraphs (a)(2)(i), (a)(2)(ii), and (a)(2)(iii) would be redesignated paragraphs (a)(1)(i), (a)(1)(ii), and (a)(1)(iii), respectively (and the cross-references to these paragraphs would also be updated accordingly). Further, as discussed above, the Commission is proposing to add a new paragraph (a)(1)(iv) to Rule 17a-5. As a consequence of the proposed deletion of paragraph (a)(1) and addition of paragraph (a)(1)(iv), paragraph (a)(2)(iv) would be redesignated paragraph (a)(1)(v). Further, as a consequence of the deletion of paragraph (a)(1), paragraphs (a)(3), (a)(4), (a)(5), (a)(6), and (a)(7) of Rule 17a-5 would be redesignated paragraphs (a)(2), (a)(3), (a)(4), (a)(5), and (a)(6), respectively (and the cross-references to these paragraphs would also be updated accordingly).

The Commission is proposing to amend paragraph (a)(4) of Rule 17a-5 to specify that a DEA “must promptly transmit that information” obtained through the filing of Form Custody, instead of merely requiring that the DEA “transmit the information” obtained through the Form Custody filing. Pursuant to this amendment, the DEA must provide this information promptly to the Commission after it is obtained from the broker-dealers, which would facilitate the Commission's monitoring of broker-dealer custody practices.

Instead of grouping the ANC reports required by paragraph (a)(5) by the applicable timeframe, the Commission is proposing to specify the applicable timeframe in each paragraph requiring an ANC report to be filed. As a result, the numbering within paragraph (a)(5) of Rule 17a-5, as proposed to be amended, would be largely restructured due to the consolidation of paragraph (a)(5)(i)(A) into paragraph (a)(5)(i), and due to the elimination of certain sublevels to improve the paragraph's organization.

As discussed above, the Commission is proposing to add to paragraph (e)(2) of Rule 17a-5 a reference to Part III of Form X-17A-5, which contains the required oath or affirmation. Thus, the Commission does not believe it is necessary to identify the content of the oath or affirmation, and proposes to remove the required text of the oath or affirmation in the rule text. The Commission also proposes to add clarity by specifying that the oath or affirmation is “made in Part III of Form X-17A-5”.

Since the recently adopted amendments to Rule 17a-5 require a more diverse range of annual filings, the Commission is proposing to amend paragraph (e)(2) of Rule 17a-5 to reference “the annual reports” instead of “the financial report”.

Reference is made in paragraph (e)(3) to a “member” of a national securities exchange as a distinct class of registrant in addition to a “broker” and “dealer”. The Commission is proposing to remove this reference to a “member” given that the rule applies to brokers-dealers, which would include a member of a national securities exchange that is a broker-dealer.

Request for Comment

The Commission generally requests comment on these additional proposed amendments to Rule 17a-5, including comment on whether any of the proposed amendments would result in substantive changes to the requirements applicable to broker-dealers.

C. Notification

1. Introduction

As discussed above, section 764 of the Dodd-Frank Act added section 15F to the Exchange Act.⁷⁶⁰ Section 15F(f)(2) provides that the Commission shall adopt rules governing reporting for SBSDs and MSBSPs.⁷⁶¹ Further, section 15F(f)(1)(A) provides that SBSDs and MSBSPs shall make such reports as are required by the Commission, by rule or regulation, regarding the transactions and positions and financial condition of the SBSD or MSBSP.⁷⁶² In addition, the Commission also has concurrent authority under section 17(a)(1) of the Exchange Act to prescribe reporting requirements for broker-dealers.⁷⁶³

⁷⁶⁰ See Public Law 111-203, 764; 15 U.S.C. 78o-10.

⁷⁶¹ See 15 U.S.C. 78o-10(f)(2).

⁷⁶² See 15 U.S.C. 78o-10(f)(1)(A).

⁷⁶³ See 15 U.S.C. 78q(a)(1).

After considering the anticipated business activities of SBSDs and MSBSPs, the Commission is proposing to establish a notification program for these registrants under sections 15F(f) and 17(a) of the Exchange Act that is modeled on the notification program for broker-dealers codified in Rule 17a-11.⁷⁶⁴ Rule 17a-11 specifies the circumstances under which a broker-dealer must notify the Commission and other regulators about its financial or operational condition, as well as the form that the notice must take.⁷⁶⁵

⁷⁶⁴ See 17 CFR 240.17a-11. As discussed below, the Commission also is proposing a parallel notification requirement applicable to stand-alone SBSDs that is modeled on a broker-dealer notification requirement in paragraph (i) of Rule 15c3-3. See 17 CFR 240.15c3-3(i).

⁷⁶⁵ See 17 CFR 240.17a-11.

Rule 17a-11 was promulgated in the aftermath of the securities industry “paper work crisis” of 1967-1970.⁷⁶⁶ This crisis prompted the Commission to undertake a study of unsafe and unsound practices of brokers and dealers.⁷⁶⁷ The study found, among other things, that early warning signals required of broker-dealers at the time were inadequate to foretell financial and operational difficulties in a reliable and timely manner.⁷⁶⁸ This diminished the Commission's ability to take effective proactive steps to respond when a broker-dealer was experiencing or was likely to experience financial difficulty.⁷⁶⁹ In response, the Commission adopted Rule 17a-11.⁷⁷⁰ This rule requires a broker-dealer to notify the Commission when, among other things, its net capital falls below 120% of the minimum required amount or below the minimum required amount, or when the firm fails to make and keep current the books and records required by Commission rules.⁷⁷¹

⁷⁶⁶ See Study of Unsafe and Unsound Practices of Brokers and Dealers.

⁷⁶⁷ See id.

⁷⁶⁸ See id. at 2.

⁷⁶⁹ See id. at 12.

⁷⁷⁰ See Prompt Notice of Net Capital or Recordkeeping Violations, 36 FR 14725. See also Prompt Notice of Net Capital or Record Keeping Violations, Exchange Act Release No. 9128 (Apr. 20, 1971), 36 FR 7972 (Apr. 28, 1971) (proposing Rule 17a-11) (“Experience during the past 3 years has demonstrated that neither the Commission nor any self-regulatory body is receiving an adequate and timely flow of information on the financial and operational condition of broker-dealers. Accordingly, there is a need for a Commission rule which would impose upon firms (and, secondarily, upon the self-regulatory bodies themselves) a duty to report net capital and operational problems.”).

⁷⁷¹ See 17 CFR 240.17a-11.

The Commission is proposing to establish notification requirements applicable to SBSDs and MSBSPs in order to require the timely notification to the Commission of information about potential problems at these registrants. The Commission would use the notifications to respond, when necessary, to financial or operational problems at a particular SBSD or MSBSP by, for example, heightening its supervision of the firm.

Under the proposed notification program for SBSDs and MSBSPs, broker-dealer SBSDs and broker-dealer MSBSPs—as broker-dealers—would be subject to Rule 17a-11.⁷⁷² The Commission is proposing amendments to this rule to account for a broker-dealer that is dually registered as an SBSD or MSBSP. Stand-alone SBSDs, stand-alone MSBSPs, bank SBSDs, and bank MSBSPs would be subject to proposed Rule 18a-8, which is modeled on Rule 17a-11, as proposed to be amended. Proposed Rule 18a-8 would not include a parallel requirement for every requirement in Rule 17a-11.⁷⁷³

⁷⁷² See id.

⁷⁷³ The Commission is not proposing to include in proposed Rule 18a-8 notice requirements that would parallel the notice requirements in paragraphs (c)(1) and (2) of Rule 17a-11 because these requirements relate to ratios in Rule 15c3-1 (the capital rule for broker-dealers) that are not incorporated into proposed Rule 18a-1 (the proposed capital standard for stand-alone SBSDs) or proposed Rule 18a-2 (the proposed capital standard for stand-alone MSBSPs). The Commission is not proposing to include in proposed Rule 18a-8 a notice requirement that would parallel the notice requirement in paragraph (f) of Rule 17a-11 because this requirement generally arises in the context of an Exchange's supervision of a broker-dealer as an SRO of the firm. The Commission is not proposing to include in proposed Rule 18a-8 a provision that would parallel the provision in paragraph (h) of Rule 17a-11 because this provision cross-references notice requirements in other Commission rules that would not apply to a stand-alone SBSD or stand-alone MSBSP. Finally, the Commission is not proposing to include in proposed Rule 18a-8 a provision that would parallel the provision in paragraph (i) of Rule 17a-11 because this provision establishes an exemption for a special class of broker-dealer.

For the reasons discussed above in section I. of this release, the proposed notification requirements for bank SBSDs and bank MSBSPs are substantially narrower in scope than the notification requirements for broker-dealer SBSDs, broker-dealer MSBSPs, stand-alone SBSDs, and stand-alone MSBSPs. Moreover, the proposed notification requirements applicable to bank SBSDs and bank MSBSPs, in one case, parallel a notification requirement the prudential regulators have established for banks.⁷⁷⁴ Thus, bank SBSDs and bank MSBSPs would be able to use the same information reported to the prudential regulators to comply with the proposed requirement.

⁷⁷⁴ See paragraph (c) of proposed Rule 18a-8.

2. Amendments to Rule 17a-11 and Proposed Rule 18a-8

Undesignated Introductory Paragraph

Rule 17a-11, as proposed to be amended, would contain an undesignated introductory paragraph explaining that the rule applies to a broker-dealer, including a broker-dealer dually registered with the Commission as an SBSD or MSBSP.⁷⁷⁵ The note further explains that an SBSD or MSBSP that is not dually registered as a broker-dealer (i.e., a stand-alone SBSD, stand-alone MSBSP, bank SBSD, or bank MSBSP) is subject to the notification requirements under proposed Rule 18a-8.⁷⁷⁶ Further, the Commission is proposing to delete paragraph (a) of Rule 17a-11, which provides that the rule shall apply to every broker-dealer registered pursuant to section 15 of the Exchange Act.⁷⁷⁷ This text would be redundant, given the proposed undesignated introductory paragraph of Rule 17a-5.⁷⁷⁸

⁷⁷⁵ See undesignated introductory paragraph of Rule 17a-11, as proposed to be amended.

⁷⁷⁶ See id.

⁷⁷⁷ See 17 CFR 240.17a-11(a). As a consequence of this deletion, paragraphs (b), (c), (d), and (e) of Rule 17a-11 would be redesignated paragraphs (a), (b), (c), and (d), respectively. Further, as discussed below, the Commission is proposing to add two new notification provisions to Rule 17a-11 that would be codified in paragraphs (e) and (f) of the rule, as proposed to be amended. As a consequence of the deletion of paragraph (a) and addition of the two new provisions, paragraphs (f), (g), (h), and (i) would be redesignated paragraphs (g), (h), (i), and (j), respectively.

⁷⁷⁸ See undesignated introductory paragraph of Rule 17a-11, as proposed to be amended.

Similarly, proposed Rule 18a-8 would contain an undesignated introductory paragraph explaining that the rule applies to an SBSD or an MSBSP that is not registered as a broker-dealer.⁷⁷⁹ The note further explains that a broker-dealer that is dually registered as an SBSD or MSBSP is subject to the notification requirements under Rule 17a-11.⁷⁸⁰

⁷⁷⁹ See undesignated introductory paragraph of proposed Rule 18a-8.

⁷⁸⁰ See id.

Failure To Meet Minimum Capital Requirements

Paragraph (b) of Rule 17a-11 requires a broker-dealer to notify the Commission if the firm's net capital or, if applicable, tentative net capital declines below the minimum amount required under Rule 15c3-1.⁷⁸¹ Specifically, paragraph (b)(1) requires notification to the Commission when a broker-dealer's net capital falls below the required level the same day it discovers or is notified by the Commission or its DEA of the net capital deficiency.⁷⁸² If the broker-dealer disagrees with the Commission or the DEA that a net capital deficiency exists, the firm can indicate in the notice the reasons for disagreeing. Paragraph (b)(2) of Rule 17a-11 requires an OTC derivatives dealer or an ANC broker-dealer to also notify the Commission when its tentative net capital falls below the minimum required for these types of broker-dealers.⁷⁸³ In either case, the notice must specify the broker-dealer's net capital or tentative net capital requirement and its current amount of net capital or tentative net capital.⁷⁸⁴ As broker-dealers, dually registered SBSDs and MSBSPs will be required to comply with the existing notification requirements.

⁷⁸¹ See 17 CFR 240.17a-11(b).

⁷⁸² See 17 CFR 240.17a-11(b)(1) . Rule 15c3-1 requires broker-dealers to maintain a minimum level of net capital (meaning highly liquid capital) at all times. See 17 CFR 240.15c3-1. The rule requires that a broker-dealer perform two calculations: (1) A computation of the minimum amount of net capital the broker-dealer must maintain; and (2) a computation of the amount of net capital the broker-dealer is maintaining. See 17 CFR 240.15c3-1(a) and (c)(2). As discussed above in sections II.A. and II.B.2.b. of this release, the minimum net capital requirement is the greater of a fixed-dollar amount specified in the rule and an amount determined by applying one of two financial ratios: The 15-to-1 aggregate indebtedness to net capital ratio or the 2% of aggregate debit items ratio. See 17 CFR 240.15c3-1(a).

⁷⁸³ See 17 CFR 240.17a-11(b)(2).

⁷⁸⁴ See 17 CFR 240.17a-11(b)(1) and (2). As discussed above, paragraph (b) of Rule 17a-11 would be redesignated paragraph (a). Further, as discussed below in section II.C.3. of this release, the Commission is proposing certain technical amendments to the text in paragraph (b), which would be contained in paragraph (a) of Rule 17a-11, as proposed to be amended.

The Commission is proposing to include parallel capital deficiency notification requirements in proposed Rule 18a-8 applicable to stand-alone SBSDs and stand-alone MSBSPs that are modeled on the requirements in paragraph (b) of Rule 17a-5.⁷⁸⁵ Specifically, paragraph (a)(1)(i) of proposed Rule 18a-8 would require a stand-alone SBSD to give notice to the Commission on the same day if the firm's net capital declines below the minimum amount required pursuant to proposed Rule 18a-1 or if the Commission informs the stand-alone SBSD that it is or has been in violation of proposed Rule 18a-1.⁷⁸⁶ The notice would need to specify the stand-alone SBSD's net capital requirement and its current amount of net capital.⁷⁸⁷ Further, if the notice is triggered by the Commission informing the stand-alone SBSD that it is or has been in violation of proposed Rule 18a-1 and the SBSD disagrees, the SBSD could specify the reasons for the disagreement in the notice.⁷⁸⁸

⁷⁸⁵ Compare 17 CFR 240.17a-11(b), with paragraph (a) of proposed Rule 18a-8.

⁷⁸⁶ See paragraph (a)(1)(i) of proposed Rule 18a-8. Proposed Rule 18a-1—which is modeled on Rule 15c3-1—would specify minimum net capital requirements for stand-alone SBSDs. See Capital, Margin, and Segregation Requirements for Security-Based Swap Dealers and Major Security-Based Swap Participants and Capital Requirements for Broker-Dealers, 77 FR 70221-70230.

⁷⁸⁷ See paragraph (a)(1)(i) of proposed Rule 18a-8.

⁷⁸⁸ See id.

Paragraph (a)(1)(ii) of proposed Rule 18a-8 would require a stand-alone ANC SBSD to give notice to the Commission on the same day if its tentative net capital declines below the minimum amount required pursuant to proposed Rule 18a-1 or if the Commission informs the stand-alone ANC SBSD that is or has been in violation of proposed Rule 18a-1.⁷⁸⁹ The notice would need to specify the stand-alone ANC SBSD's tentative net capital requirement and its current amount of tentative net capital.⁷⁹⁰ Further, if the notice is triggered by the Commission informing the stand-alone ANC SBSD that it is or has been in violation of proposed Rule 18a-1 and the SBSD disagrees, the SBSD could specify the reasons for the disagreement in the notice.⁷⁹¹

⁷⁸⁹ See paragraph (a)(1)(ii) of proposed Rule 18a-8. Proposed Rule 18a-1 would specify minimum tentative net capital requirements for stand-alone ANC SBSDs. See Capital, Margin, and Segregation Requirements for Security-Based Swap Dealers and Major Security-Based Swap Participants and Capital Requirements for Broker-Dealers, 77 FR 70226-70227.

⁷⁹⁰ See paragraph (a)(1)(ii) of proposed Rule 18a-8.

⁷⁹¹ See id.

Paragraph (a)(2) of proposed Rule 18a-8 would require a stand-alone MSBSP to give notice to the Commission on the same day if it fails to maintain a positive tangible net worth pursuant to proposed Rule 18a-2 or if the Commission informs the stand-alone MSBSP that it is or has been in violation of proposed Rule 18a-2.⁷⁹² The notice would need to specify the extent to which the firm has failed to maintain positive tangible net worth. Further, if the notice is triggered by the Commission informing the stand-alone MSBSP that it is or has been in violation of proposed Rule 18a-2 and the MSBSP disagrees, the MSBSP could specify the reasons for the disagreement in the notice.

⁷⁹² See paragraph (a)(2) of proposed Rule 18a-8. Proposed Rule 18a-2 would require stand-alone MSBSPs to maintain positive tangible net worth. See Capital, Margin, and Segregation Requirements for Security-Based Swap Dealers and Major Security-Based Swap Participants and Capital Requirements for Broker-Dealers, 77 FR 70256-70257. Under proposed Rule 18a-2, tangible net worth would be defined to mean the stand-alone MSBSP's net worth as determined in accordance with generally accepted accounting principles in the U.S., excluding goodwill and other intangible assets. See id.

Early Warning of Potential Capital or Model Problem

Paragraph (c) of Rule 17a-11 specifies four events that, if they occur, trigger a requirement that a broker-dealer send notice promptly (but within twenty-four hours) to the Commission.⁷⁹³ These notices are designed to provide the Commission with “early warning” that the broker-dealer may experience financial difficulty. The events triggering the early warning notification requirements are:

⁷⁹³ See 17 CFR 240.17a-11(c).

• The computation of a broker-dealer subject to the aggregate indebtedness standard of Rule 15c3-1 shows that its aggregate indebtedness is in excess of 1,200% of its net capital;⁷⁹⁴

⁷⁹⁴ See 17 CFR 240.17a-11(c)(1). As discussed above, the minimum net capital requirement for certain types of broker-dealers is the greater of a fixed-dollar amount specified in the rule and an amount determined by applying a 15-to-1 aggregate indebtedness to net capital ratio. See 17 CFR 240.15c3-1(a)(1)(i). Consequently, requiring notification when a broker-dealer has a 12-to-1 aggregate indebtedness to net capital ratio provides notice before the firm reaches the minimum 15-to-1 requirement.

• The computation of a broker-dealer which has elected to use the alternative standard of calculating net capital under Rule 15c3-1 shows that the firm's net capital is less than 5% of aggregate debit items computed in accordance with Appendix A of Rule 15c3-3;⁷⁹⁵

⁷⁹⁵ See 17 CFR 240.17a-11(c)(2). As discussed above, the minimum net capital requirement for certain types of broker-dealers is the greater of a fixed-dollar amount specified in the rule and an amount determined by applying a 2% of aggregate debit items ratio. See 17 CFR 240.15c3-1(a)(1)(ii). Consequently, requiring notification when a broker-dealer has net capital equal to 5% of aggregate debit items provides notice before the firm reaches the 2% minimum requirement.

• A broker-dealer's net capital computation shows that its total net capital is less than 120% of its required minimum level of net capital or of its required minimum level of tentative net capital, in the case of an OTC derivatives dealer;⁷⁹⁶

⁷⁹⁶ See 17 CFR 240.17a-11(c)(3).

• With respect to an OTC derivatives dealer, the occurrence of the fourth and each subsequent backtesting exception under Appendix F of Rule 15c3-1 during any 250 business day measurement period.⁷⁹⁷

⁷⁹⁷ See 17 CFR 240.17a-11(c)(4). OTC derivatives dealers (and ANC broker-dealers) take market risk charges when computing net capital that are determined using the VaR models instead of applying standardized haircuts. The amount of the VaR measure computed by the model must be multiplied by a factor of at least three but potentially a greater factor based on the number of exceptions to the measure resulting from quarterly backtesting exercises. A backtesting exception occurs when the ANC broker-dealer's actual one-day loss exceeds the amount estimated by its VaR model. Multiple backtesting exceptions can indicate a problem with the VaR model. See, e.g., Basel Committee on Banking Supervision, Supervisory framework for the use of “backtesting” in conjunction with the internal models approach to market risk capital requirements (Jan. 1996), available at http://www.bis.org/publ/bcbs22.pdf (“The essence of all backtesting efforts is the comparison of actual trading results with model-generated risk measures. If this comparison is close enough, the backtest raises no issues regarding the quality of the risk measurement model. In some cases, however, the comparison uncovers sufficient differences that problems almost certainly must exist, either with the model or with the assumptions of the backtest. In between these two cases is a grey area where the test results are, on their own, inconclusive.”).

As broker-dealers, dually registered SBSDs and MSBSPs will be required to comply with the existing notification requirements.⁷⁹⁸ The Commission is proposing to add a new notification requirement in paragraph (c) applicable to broker-dealer MSBSPs. Specifically, paragraph (c)(5) of Rule 17a-3, as proposed to be amended, would require a broker-dealer MSBSP to notify the Commission when its level of tangible net worth falls below $20 million.⁷⁹⁹

⁷⁹⁸ As discussed above, paragraph (c) of Rule 17a-11 would be redesignated paragraph (b). Further, as discussed below in section II.C.3. of this release, the Commission is proposing certain largely technical amendments to the text in paragraph (c), which would be contained in paragraph (b) of Rule 17a-5, as proposed to be amended.

⁷⁹⁹ See paragraph (b)(6) of Rule 17a-11, as proposed to be amended. As discussed above, proposed Rule 18a-2 would require nonbank MSBSP to maintain a positive tangible net equity. See Capital, Margin, and Segregation Requirements for Security-Based Swap Dealers and Major Security-Based Swap Participants and Capital Requirements for Broker-Dealers, 77 FR 70256-70257. The Commission, however, did not propose that a nonbank MSBSP be required to a minimum amount of positive net equity. See id. The CFTC proposed a $20 million fixed-dollar “tangible net equity” minimum requirement for swap dealers and major swap participants that are not FCMs and are not affiliated with a U.S. bank holding company. See Capital Requirements of Swap Dealers and Major Swap Participants, 78 FR 27827. Further, OTC derivatives dealers are required to maintain minimum net capital of $20 million. See 17 CFR 240.15c3-1(a)(5). In addition, the Commission has proposed a $20 million fixed-dollar minimum net capital requirement for stand-alone SBSDs. See Capital, Margin, and Segregation Requirements for Security-Based Swap Dealers and Major Security-Based Swap Participants and Capital Requirements for Broker-Dealers, 77 FR 70221-70227. The proposed $20 million early warning threshold for broker-dealer MSBSPs is based on these proposals and requirements.

The Commission also is proposing to include parallel early warning notification requirements in proposed Rule 18a-8 applicable to stand-alone SBSDs and stand-alone MSBSPs that are modeled on the requirements in paragraph (c) of Rule 17a-5.⁸⁰⁰ Specifically, paragraph (b)(1) of proposed Rule 18a-8 would require a stand-alone SBSD to notify the Commission promptly (but within twenty-four hours) when the SBSD's net capital falls below 120% of the SBSD's required minimum tentative net capital.⁸⁰¹ Paragraph (b)(2) of proposed Rule 18a-8 would require a stand-alone ANC SBSD to notify the Commission when the SBSD's tentative net capital falls below 120% of the SBSD's required minimum net capital.⁸⁰² Paragraph (b)(3) of proposed Rule 18a-8 would require a stand-alone MSBSP to notify the Commission when its level of tangible net worth falls below $20 million.⁸⁰³ Finally, paragraph (b)(4) of proposed Rule 18a-8 would require a stand-alone ANC SBSD to report the occurrence of the fourth and any subsequent backtesting exception performed pursuant to paragraph (d) of Rule 18a-1 during any 250 business day measurement period.⁸⁰⁴

⁸⁰⁰ Compare 17 CFR 240.17a-11(c), with paragraph (b) of proposed Rule 18a-8.

⁸⁰¹ See paragraph (b)(1) of proposed Rule 18a-8.

⁸⁰² See paragraph (b)(2) of proposed Rule 18a-8.

⁸⁰³ See paragraph (b)(3) of proposed Rule 18a-8.

⁸⁰⁴ See paragraph (b)(4) of proposed Rule 18a-8.

Notice of Adjustment of Reported Capital Category

Prudential regulators have established five capital categories that are used to describe a bank's capital strength: well capitalized, adequately capitalized, undercapitalized, significantly undercapitalized, and critically undercapitalized.⁸⁰⁵ The definition of each capital category is based on capital measures under the bank capital standard and other factors.⁸⁰⁶ A bank is required to notify its appropriate prudential regulator of adjustments to the bank's capital category that may have occurred that would put the bank into a lower capital category from the category previously assigned to it. Following the notice, the prudential regulator determines whether the bank needs to adjust its capital category.⁸⁰⁷ Because these notices may indicate that a bank is in or approaching financial difficulty, the Commission is proposing to include a notification requirement in proposed Rule 18a-8 that would require a bank SBSD or a bank MSBSP to give notice to the Commission when it files an adjustment of reported capital category with its prudential regulator by transmitting a copy of the notice to the Commission.⁸⁰⁸

⁸⁰⁵ See 12 CFR 325.103; 12 CFR 6.4; 12 CFR 208.43.

⁸⁰⁶ See id.

⁸⁰⁷ See 12 CFR 6.3(c); 12 CFR 208.42(c); 12 CFR 325.102(c).

⁸⁰⁸ See paragraph (b) of proposed Rule 18a-8.

Failure To Make and Keep Current Books and Records

Paragraph (d) of Rule 17a-11 requires a broker-dealer that fails to make and keep current the books and records required under Rule 17a-3 to notify the Commission of this fact on the same day that the failure arises.⁸⁰⁹ The notice must specify the books and records which have not been made or which are not current.⁸¹⁰ In addition, a broker-dealer is required to report to the Commission within forty-eight hours of the original notice a report stating what the broker or dealer has done or is doing to correct the situation.⁸¹¹ As broker-dealers, dually registered SBSDs and MSBSPs will be required to comply with the existing notification requirements in paragraph (d).⁸¹²

⁸⁰⁹ See 17 CFR 240.17a-11(d).

⁸¹⁰ See id.

⁸¹¹ See id.

⁸¹² As discussed above, paragraph (d) of Rule 17a-11 would be redesignated paragraph (c). Further, as discussed below in section II.C.3. of this release, the Commission is proposing certain technical amendments to the text in paragraph (d), which would be contained in paragraph (c) of Rule 17a-5, as proposed to be amended.

The Commission is proposing to include a parallel books and records notification requirement in proposed Rule 18a-7 applicable to stand-alone SBSDs, stand-alone MSBSPs, bank SBSDs, and bank MSBSPs that is modeled on the requirement in paragraph (d) of Rule 17a-5.⁸¹³ Specifically, paragraph (d) of proposed Rule 18a-8 would require a stand-alone SBSD, stand-alone MSBSP, bank SBSD, or bank MSBSP that fails to make and keep current the books and records required under proposed Rule 18a-5 to give notice of this fact that same day and specify in the notice the books and records which have not been made or which are not current.⁸¹⁴ Further, these registrants would be required to transmit a report within 48 hours of the notice stating what the registrant has done or is doing to correct the situation.⁸¹⁵

⁸¹³ Compare 17 CFR 240.17a-11(d), with paragraph (d) of proposed Rule 18a-8.

⁸¹⁴ See paragraph (d) of proposed Rule 18a-8. As discussed above in section II.A.2.a. of this release, proposed Rule 18a-5—which is modeled on Rule 17a-3—would require stand-alone SBSDs, stand-alone MSBSPs, bank SBSDs, and bank MSBSPs to make and keep current certain records.

⁸¹⁵ See paragraph (d) of proposed Rule 18a-8.

Material Weakness

The recently adopted amendments to paragraph (e) of Rule 17a-11 require a broker-dealer to provide notification about a material weakness as that term is defined in Rule 17a-5.⁸¹⁶ Specifically, paragraph (e) provides that, whenever a broker-dealer discovers or is notified by an independent public accountant of a material weakness as defined in Rule 17a-5, the broker-dealer must: (1) give notice to the Commission within twenty-four hours of the discovery or notification of the material weakness; and (2) transmit a report within forty-eight hours of the notice stating what the broker-dealer has done or is doing to correct the situation.⁸¹⁷ As broker-dealers, dually registered broker-dealer SBSDs and broker-dealer MSBSPs will be required to comply with the existing notification requirements in paragraph (e).⁸¹⁸

⁸¹⁶ See Broker-Dealer Reports, 78 FR 51993. As discussed above in section II.B.3.a. of this release, under the recently adopted amendments to Rule 17a-5, the concept of material weakness is used for the purposes of the compliance report and the report of the independent public accountant covering the compliance report. See 17 CFR 240.17a-5(d)(3). A material weakness is defined in Rule 17a-5 to mean a deficiency, or a combination of deficiencies, in Internal Control Over Compliance (as that term is defined in the rule) such that there is a reasonable possibility that non-compliance with Rule 15c3-1 or paragraph (e) of Rule 15c3-3 will not be prevented or detected on a timely basis or that non-compliance to a material extent with Rule 15c3-3, except for paragraph (e), Rule 17a-13, or any Account Statement Rule will not be prevented or detected on a timely basis. See 17 CFR 240.17a-5(d)(3)(iii). The recently amended rule further provides that a deficiency in Internal Control Over Compliance exists when the design or operation of a control does not allow the management or employees of the broker or dealer, in the normal course of performing their assigned functions, to prevent or detect on a timely basis non-compliance with Rule 15c3-1, Rule 15c3-3, Rule.17a-13, or any Account Statement Rule. See id. The term Internal Control Over Compliance means internal controls that have the objective of providing the broker-dealer with reasonable assurance that non-compliance with Rule 15c3-1, Rule 15c3-3, Rule 17a-13, or any Account Statement Rule will be prevented or detected on a timely basis. See 17 CFR 240.17a-5(d)(3)(ii).

⁸¹⁷ See Broker-Dealer Reports, 78 FR 51993. Paragraph (i) of Rule 17a-12 requires an OTC derivatives dealer to take the same steps when it discovers or is notified of a material inadequacy as defined in Rule 17a-12. Rule 17a-12—the reporting rule for OTC derivatives dealers—is similar to Rule 17a-5. See 17 CFR 240.17a-12. However, rather than using the concept of material weakness, Rule 17a-12 uses the concept of material inadequacy. See id. The Commission replaced the use of material inadequacy with material weakness in Rule 17a-5 through the recent amendments to the rule, which were designed, among other things, to (1) increase the focus of carrying broker-dealers and their independent public accountants on compliance, and internal control over compliance, with certain financial and custodial requirements; and (2) strengthen and clarify broker-dealer audit and reporting requirements in order to facilitate consistent compliance with these requirements. See Broker-Dealer Reports, 78 FR 51911. As discussed above in section II.B.3.a. of this release, the Commission is proposing to use the concept of material weakness in proposed Rule 18a-7.

⁸¹⁸ As discussed above, paragraph (e) of Rule 17a-11 would be redesignated paragraph (d). Further, as discussed below in section II.C.3. of this release, the Commission is proposing certain largely technical amendments to the text in paragraph (e), which would be contained in paragraph (d) of Rule 17a-5, as proposed to be amended.

The Commission is proposing to include a parallel material weakness notification requirement in proposed Rule 18a-7 applicable to stand-alone SBSDs that is modeled on paragraph (e) of Rule 17a-11. ⁸¹⁹ Specifically, paragraph (e) of Rule 18a-8 would provide that, whenever a stand-alone SBSD discovers or is notified by an independent public accountant of a material weakness as defined in Rule 18a-7, the SBSD must: (1) give notice to the Commission within twenty-four hours of the discovery or notification of the material weakness; and (2) transmit a report within forty-eight hours of the notice indicating what the SBSD has done or is doing to correct the situation.⁸²⁰

⁸¹⁹ Compare 17 CFR 240.17a-11(e), with paragraph (e) of proposed Rule 18a-8. As discussed above in section II.B.3.a. of this release, stand-alone MSBSPs would not be required to file with the Commission a compliance report or a report of the independent public accountant covering the compliance report. Consequently, as the concept of material weakness is used in the context of these reports, the material weakness notification requirement would not apply or be relevant to stand-alone MSBSPs. Further, as discussed above in section II.B.3.a. of this release, bank SBSDs and bank MSBSPs would not be subject to the requirements in proposed Rule 18a-7 to file annual reports with the Commission. Consequently, the material weakness notification requirement would not apply or be relevant to these registrants.

⁸²⁰ See paragraph (e) of proposed Rule 18a-8.

Insufficient Liquidity Reserves

As discussed above in section II.A. of this release, the Commission has proposed amendments to Rule 15c3-1 that would establish liquidity stress test requirements for ANC broker-dealers, which would include ANC broker-dealer SBSDs.⁸²¹ Further, the Commission has proposed identical liquidity stress test requirements for stand-alone ANC SBSDs as part of the capital requirements for SBSDs.⁸²² Under the proposed liquidity stress test requirements, ANC broker-dealers, including ANC broker-dealer SBSDs, and stand-alone ANC SBSDs would be required, among other things, to: (1) perform a liquidity stress test at least monthly that takes into account certain assumed conditions lasting for thirty consecutive days; and (2) maintain at all times liquidity reserves based on the results of the liquidity stress test comprised of unencumbered cash or U.S. government securities.⁸²³

⁸²¹ See Capital, Margin, and Segregation Requirements for Security-Based Swap Dealers and Major Security-Based Swap Participants and Capital Requirements for Broker-Dealers, 77 FR 70252-70254.

⁸²² See id.

⁸²³ See id.

Given the importance to the health of a financial institution of maintaining adequate liquidity, the Commission is proposing a new notification requirement that would apply to ANC broker-dealers, including ANC broker-dealer SBSDs.⁸²⁴ Specifically, paragraph (e) of Rule 17a-5, as proposed to be amended, would require an ANC broker-dealer to give immediate notice in writing if the liquidity stress test conducted pursuant to Rule 15c3-1, as proposed to be amended, indicates that the amount of the firm's liquidity reserve is insufficient.⁸²⁵ The Commission is proposing to include a parallel liquidity notification requirement in proposed Rule 18a-8 applicable to stand-alone ANC SBSDs.⁸²⁶ The proposed liquidity notification requirements are designed to provide the Commission with notice of a liquidity shortfall at an ANC broker-dealer or stand-alone ANC SBSD that could impair the ability of the firm to withstand a liquidity crisis.

⁸²⁴ See paragraph (e) of Rule 17a-5, as proposed to be amended. As discussed above, current paragraph (e) of Rule 17a-5 would be redesignated paragraph (d).

⁸²⁵ See paragraph (e) of Rule 17a-11, as proposed to be amended. Current paragraph (f) of Rule 17a-11 provides that every national securities exchange or national securities association that learns that a member broker-dealer has failed to send notice or transmit a report as required by paragraphs (b), (c), (d), or (e) of Rule 17a-11, even after being advised by the securities exchange or the national securities association to send notice or transmit a report, shall immediately give notice of such failure in accordance with paragraph (g) of Rule 17a-11. See 17 CFR 240.17a-11(f). As discussed above, the Commission is proposing to redesignate current paragraph (f) as paragraph (g). Further, the Commission is proposing to replace the specific reference to “paragraphs (b), (c), (d), or (e)” of Rule 17a-11 in current paragraph (f) with a reference to “this section”. This would incorporate all the notices required under Rule 17a-11, including notices that would be required under the new liquidity notification requirement. See paragraph (g) of Rule 17a-11, as proposed to be amended.

⁸²⁶ Compare paragraph (e) of Rule 17a-11, as proposed to be amended, with paragraph (f) of proposed Rule 18a-8.

Failure To Make a Required Reserve Deposit

As discussed above in section II.A. of this release, Rule 15c3-3 requires a carrying broker-dealer to maintain a reserve of funds or qualified securities in an account at a bank that is at least equal in value to the net cash owed to customers, and proposed Rule 18a-4 would include a parallel requirement with respect to security-based swap customers applicable to SBSDs, including broker-dealer SBSDs.⁸²⁷ Under paragraph (i) of Rule 15c3-3, a broker-dealer is required to notify the Commission and its DEA if it fails to make a required deposit into its customer reserve account under Rule 15c3-3.⁸²⁸ Since a broker-dealer SBSD would be required to maintain a separate reserve account for its security-based swap customers under Rule 18a-4, the Commission is proposing a new notification requirement in Rule 17a-11 that would be triggered if a broker-dealer fails to make a required deposit into its security-based swap customer reserve account.⁸²⁹ In addition, the Commission is proposing to include a parallel reserve account notification requirement in proposed Rule 18a-8 applicable to stand-alone SBSDs and bank SBSDs.⁸³⁰

⁸²⁷ See Capital, Margin, and Segregation Requirements for Security-Based Swap Dealers and Major Security-Based Swap Participants and Capital Requirements for Broker-Dealers, 77 FR 70282-70287.

⁸²⁸ See 17 CFR 240.15c3-3(i).

⁸²⁹ See paragraph (f) of Rule 17a-11, as proposed to be amended. As discussed above, current paragraph (f) of Rule 17a-5 would be redesignated paragraph (g).

⁸³⁰ Compare paragraph (h) of Rule 17a-11, as proposed to be amended, with paragraph (g) of proposed Rule 18a-8.

Manner of Notification

Paragraph (g) of Rule 17a-11 provides that every notice or report required to be given or transmitted by the rule shall be given or transmitted to the principal office of the Commission in Washington, DC, the regional office of the Commission for the region in which the broker-dealer has its principal place of business, the DEA of which such broker-dealer is a member, and the CFTC if the broker-dealer is registered as an FCM.⁸³¹

⁸³¹ See 17 CFR 240.17a-11(g).

Paragraph (g) further provides that for the purposes of Rule 17a-11, notice shall be given or transmitted by telegraphic notice or facsimile transmission and that a report about how the broker-dealer is addressing a failure to make and keep current books and records or a material weakness may be transmitted by overnight delivery.⁸³² The Commission is proposing to amend this paragraph to no longer permit notice by telegraphic transmission, and instead to only allow notice by facsimile transmission.⁸³³ This proposal recognizes that telegrams are no longer widely used in the U.S.,⁸³⁴ and that Commission staff no longer receive Rule 17a-11 notices by telegram. As broker-dealers, dually registered broker-dealer SBSDs and broker-dealer MSBSPs will be required to give notice or transmit the notices and reports, including the proposed new notices, pursuant to the requirements specified in paragraph (g).⁸³⁵

⁸³² See id.

⁸³³ See paragraph (h) of Rule 17a-11, as proposed to be amended.

⁸³⁴ See Tom Standage, No Morse, L.A. Times, Feb. 8, 2006, at B15 (noting that Western Union discontinued its telegram services effective January 27, 2006).

⁸³⁵ As discussed above, paragraph (g) of Rule 17a-11 would be redesignated paragraph (h). Further, as discussed below in section II.C.3. of this release, the Commission is proposing certain largely technical amendments to the text in paragraph (g), which would be contained in paragraph (h) of Rule 17a-5, as proposed to be amended.

The Commission is proposing to include a parallel manner of notification requirement in proposed Rule 18a-8 that is modeled on paragraph (g) of Rule 17a-11. ⁸³⁶ Specifically, paragraph (i) of proposed Rule 18a-8 would provide that a stand-alone SBSD, stand-alone MSBSP, bank SBSD, or bank MSBSP required to give notice or transmit a report under the rule would need to do so in the same manner as a broker-dealer under paragraph (g) of Rule 17a-11, except there would be no requirement to give notice or provide a report to a DEA as these registrants would not have DEAs.⁸³⁷

⁸³⁶ Compare 17 CFR 240.17a-11(g), with paragraph (h) of proposed Rule 18a-8.

⁸³⁷ See paragraph (h) of proposed Rule 18a-8.

Request for Comment

The Commission generally requests comment on the proposed amendments to Rule 17a-11 and proposed Rule 18a-9. In addition, the Commission requests comment, including empirical data in support of comments, in response to the following question:

1. Should paragraph (f) of Rule 17a-11 be amended to require a broker-dealer's DEA (in addition to a broker-dealer's national securities exchange or national securities association) to transmit notice to the Commission upon learning that a broker-dealer failed to send notice in accordance with Rule 17a-11? If so, explain why. If not, explain why not. For example, given the responsibilities of a DEA, is a DEA more likely to learn if a broker-dealer for which it serves as DEA has failed to send notice in accordance with Rule 17a-11 than a national securities exchange or national securities association of which the broker-dealer is a member? Commenters are asked to provide information and data about the costs and benefits of requiring the DEA to provide notice.

2. Rule 17a-11 is proposed to be amended to include new notification requirements applicable to broker-dealers (e.g., requiring notice if the broker-dealer's liquidity stress test indicates that the amount of its liquidity reserve is insufficient). Consequently, this would expand the types of instances in which a national securities exchange or national securities association would be required to give notice under paragraph (g) of Rule 17a-11, as proposed to be amended, if the exchange or association learns that a broker-dealer has failed to do so under Rule 17a-11. Would this expansion materially increase the number of notices that would need to be sent by national securities exchanges and national securities associations under Rule 17a-11? If so, please explain why and quantify the increased burden resulting from the increased number of notices that would need to be sent.

3. Additional Proposed Amendments to Rule 17a-11

The Commission is proposing several amendments to Rule 17a-11 to eliminate obsolete text, improve readability, and modernize terminology. The Commission is proposing a global change to Rule 17a-11 that would replace the use of the word “shall” in the rule with the word “must” or “will” where appropriate.⁸³⁸ The Commission also proposes to make certain stylistic, corrective, and punctuation amendments to improve Rule 17a-11's readability.⁸³⁹

⁸³⁸ The proposed amendments would replace the word “shall” with the word “must” or “will” in the following paragraphs of Rule 17a-11, as proposed to be amended: (a)(1), (a)(2), (b), (c), (g), (h), and (j). See Rule 17a-11, as proposed to be amended.

⁸³⁹ The Commission proposes the following stylistic and corrective changes to Rule 17a-11, as proposed to be amended: (1) Replacing the phrase “this § 240.17a-11” with the phrase “this section” in paragraph (a)(1); (2) replacing the phrase “Every broker or dealer who” with the phrase “Every broker or dealer that” in paragraph (c); (3) replacing the phrase “such discovery or notification of the material inadequacy or the material weakness” with the phrase “the discovery or notification of the material inadequacy or material weakness” in paragraph (d)(1); and (4) removing the U.S.C. citations from paragraph (j) since the rule already cites to the applicable section of the Exchange Act.

As a consequence of the proposed deletion of paragraph (a), paragraphs (b), (c), (d), and (e) of Rule 17a-11 would be redesignated paragraphs (a), (b), (c), and (d), respectively. Further, as discussed above, the Commission is proposing to add two new notification provisions to Rule 17a-11 that would be codified in paragraphs (e) and (f) of the rule, as proposed to be amended. As a consequence of the deletion of paragraph (a) and the addition of the two new provisions, paragraphs (f), (g), (h), and (i) would be redesignated paragraphs (g), (h), (i), and (j), respectively. Similarly, due to the proposed addition and deletion of paragraphs, the Commission is proposing a global change that would replace the cross-references to “paragraph (g)” of Rule 17a-11 with “paragraph (h)” of Rule 17a-11.⁸⁴⁰

⁸⁴⁰ The proposed amendments would replace the phrase “paragraph (g)” with the phrase “paragraph (h)” in the following paragraphs of Rule 17a-11, as proposed to be amended: (a)(1), (b), (c), (d)(1), (d)(2), and (g). See Rule 17a-11, as proposed to be amended.

Reference is made in paragraph (g) to a “member” of a national securities exchange as a distinct class of registrant in addition to a “broker” and “dealer”. The Commission is proposing to remove this reference to a “member” given that the rule applies to brokers-dealers, which would include a member of a national securities exchange that is a broker-dealer.

The Commission is also proposing to replace a specific reference to the notices required under “paragraphs (b), (c), (d), or (e)” of Rule 17a-11 in current paragraph (f) with a reference to “this section”. This would incorporate all the notices required under Rule 17a-11, including notices that would be required under the new security-based swap customer reserve account notification requirement.

Finally, the Commission proposes to amend paragraph (i) to reference “§ 240.15c3-1, § 240.15c3-1d, § 240.15c3-3, § 240.17a-5, and § 240.17a-12” instead of “§ 240.15c3-1(a)(6)(iv)(B), § 240.15c3-1(a)(6)(v), § 240.15c3-1(a)(7)(ii), § 240.15c3-1(c)(2)(x)(B)(1), § 240.15c3-1(e), § 240.15c3-1d(c)(2), § 240.15c3-3(i), § 240.17a-5(h)(2), and § 240.17a-12(f)(2)”. This proposed amendment corrects certain cross-references that are outdated due to the recently adopted amendments to some of these rules.⁸⁴¹ It also eliminates cross-references to specific paragraphs in the event of future amendments to these cross-referenced rules.

⁸⁴¹ See Broker-Dealer Reports, 78 FR 51910; Financial Responsibility Rules for Broker-Dealers, 78 FR 51824.

Request for Comment

The Commission generally requests comment on these additional proposed amendments to Rule 17a-11, including comment on whether any of the proposed amendments would result in substantive changes to the requirements applicable to broker-dealers.

D. Quarterly Securities Count and Capital Charge for Unresolved Securities Differences

1. Introduction

As discussed above, section 764 of the Dodd-Frank Act added section 15F to the Exchange Act.⁸⁴² Section 15F(f)(2) provides that the Commission shall adopt rules governing reporting and recordkeeping for SBSDs and MSBSPs.⁸⁴³ Further, section 15F(f)(1)(A) provides that SBSDs and MSBSPs shall make such reports as are required by the Commission, by rule or regulation, regarding the transactions and positions and financial condition of the SBSD or MSBSP.⁸⁴⁴ In addition, section 15F(f)(1)(B)(ii) provides that nonbank SBSDs and nonbank MSBSPs shall keep books and records in such form and manner and for such period as may be prescribed by the Commission by rule or regulation.⁸⁴⁵

⁸⁴² See Public Law 111-203, 764; 15 U.S.C. 78o-10.

⁸⁴³ See 15 U.S.C. 78o-10(f)(2).

⁸⁴⁴ See 15 U.S.C. 78o-10(f)(1)(A).

⁸⁴⁵ See 15 U.S.C. 78o-10(f)(1)(B)(ii).

After considering the anticipated business activities of nonbank SBSDs, the Commission is proposing to establish a securities count program for these registrants under sections 15F that is modeled on the securities count program for broker-dealers codified in Rule 17a-13.⁸⁴⁶ Rule 17a-13 requires certain broker-dealers (generally, broker-dealers that hold funds and securities) to examine and count the securities they physically hold, account for the securities that are subject to their control or direction but are not in their physical possession, verify the locations of securities under certain circumstances, and compare the results of the count and verification with their records.⁸⁴⁷

⁸⁴⁶ See 17 CFR 240.17a-13.

⁸⁴⁷ See id. As noted in section I. of this release, the Dodd-Frank Act amended the definition of security in section 3(a)(10) of the Exchange Act to include a security-based swap. See Public Law 111-203, 761(a)(2); 15 U.S.C. 78c(a)(10). Therefore, each reference in Rule 17a-13 to a security in the Exchange Act includes a security-based swap. The Commission, however, has issued temporary exemptive relief excluding security-based swaps from the definition of security to the extent Commission rules did not otherwise apply specifically to security-based swaps prior to the amendment. See Order Granting Temporary Exemptions under the Securities Exchange Act of 1934 in Connection with the Pending Revision of the Definition of “Security” to Encompass Security-Based Swaps, and Request for Comment, 76 FR 39927.

Like Rule 17a-11, Rule 17a-13 was adopted in the aftermath of the securities industry “paper work” crisis of 1967-1970.⁸⁴⁸ At that time, the Commission identified several factors contributing to the crisis, including, that securities were not checked and counted frequently enough nor controlled tightly enough.⁸⁴⁹ The Commission also identified corrective measures to counter these conditions in the future,⁸⁵⁰ including requiring broker-dealers to conduct quarterly security counts as part of the effort to eliminate the “deficiencies in broker-dealers' internal controls and procedures for safeguarding securities reflected by material amounts of unresolved security differences, suspense balances and unverified transfer items.”⁸⁵¹ As the Commission stated when proposing Rule 17a-13,

⁸⁴⁸ See Quarterly Securities Counts by Certain Exchange Members, Brokers and Dealers, Exchange Act Release No. 9140 (Apr. 19, 1971), 36 FR 7974 (Apr. 28, 1971); Net Capital Requirements for Brokers and Dealers; Amended Rules, Exchange Act Release No. 18417 (Jan. 13, 1982), 47 FR 3512 (Jan. 25, 1982).

⁸⁴⁹ See Study of Unsafe and Unsound Practices of Brokers and Dealers at 2.

⁸⁵⁰ See id. at 3-5.

⁸⁵¹ Id. at 30.

One of a broker-dealer's major functions is that of moving funds from buyer to seller in exchange for securities. The movement of these funds and securities is monitored and directed by the books and records of the broker-dealers involved in the various transactions. To the extent that a firm's records do not accurately reflect the movement and location of funds and securities, the ability of that firm to operate efficiently and even its continued viability come into question. The insolvency of many broker-dealers in the past few years is attributable to a large extent to their loss of operational control. Once a firm's operations reach a certain level of errors, it is a Herculean task, requiring extraordinary sums of capital, to reverse the process and to resolve past errors so that the firm's present records accurately reflect its position. That part of the broker-dealer's operations dealing with the movement and location of securities has, in the past, been subject only to the once-a-year check of the X-17A-5 audit. The accounting record for the location and movement of securities is the stock record. The annual audit may disclose differences between positions reflected in the stock record and the results of a physical count of securities and verification of securities positions outside the firm. Many accountants have advised and urged their clients to make regular periodic box counts, but this advice has not always been followed. Furthermore, some firms have failed to research and resolve promptly stock record differences.⁸⁵²

⁸⁵² Quarterly Securities Counts by Certain Exchange Members, Brokers and Dealers, 36 FR 7974.

Rule 17a-13 continues to play an important role today, given the volume of securities transactions and the resulting movement of securities between control locations and broker-dealers.

Under the proposed securities count program for SBSDs, broker-dealer SBSDs and broker-dealer MSBSPs—as broker-dealers—would be subject to Rule 17a-13. Consequently, they will be required to comply with the existing securities count requirements in the rule.

Stand-alone SBSDs would be subject to proposed Rule 18a-9, which is modeled on Rule 17a-13. Proposed Rule 18a-9 would not include a parallel requirement for every requirement in Rules 17a-13.⁸⁵³ In addition, proposed Rule 18a-9 would not apply to stand-alone MSBSPs because the customer protection rationale for Rule 17a-13 and proposed Rule 18a-9 is not as pertinent to stand-alone MSBSPs. For example, the Commission preliminarily does not anticipate that stand-alone MSBSPs will engage in securities operations involving the movement of funds and securities from buyer to seller that are as complex as the operations of dealers in securities such as broker-dealers and SBSDs. Finally, for the reasons discussed above in section I. of this release, proposed Rule 18a-9 would not apply to bank SBSDs and bank MSBSPs.

⁸⁵³ The Commission is not proposing to include in proposed Rule 18a-9 provisions that would parallel the provisions in paragraphs (a)(1), (a)(2), (a)(3), and (e) of Rule 17a-13. These paragraphs of Rule 17a-13 provide exemptions from complying with Rule 17a-13 for certain types of broker-dealers. See 17 CFR 240.17a-13(a)(1), (a)(2), (a)(3), and (e). The Commission preliminarily believes that SBSDs will not limit their activities to the types of activities in which the exempt broker-dealers engage. However, the Commission is requesting comment below on this question.

2. Proposed Rule 18a-9

Undesignated Introductory Paragraph

Proposed Rule 18a-9 contains an undesignated introductory paragraph explaining that the rule applies only to an SBSD that is not dually registered as a broker-dealer (i.e., a stand-alone SBSD), provided, however, that the rule does not apply to an SBSD with a prudential regulator (i.e., a bank SBSD).⁸⁵⁴ The note further explains that a broker-dealer, including a broker-dealer that is dually registered as an SBSD, is subject to the securities count requirements under Rule 17a-13.⁸⁵⁵

⁸⁵⁴ See undesignated introductory paragraph of proposed Rule 18a-9.

⁸⁵⁵ See id.

Requirement To Perform a Securities Count

Paragraph (b) of Rule 17a-13 prescribes the requirement to perform a quarterly securities count and specifies the steps a broker-dealer must take in performing a count. Specifically, it requires a broker-dealer to at least once in each calendar quarter:

• Physically examine and count all securities held including securities that are the subjects of repurchase or reverse repurchase agreements;⁸⁵⁶

⁸⁵⁶ See 17 CFR 240.17a-13(b)(1).

• Account for all securities in transfer, in transit, pledged, loaned, borrowed, deposited, failed to receive, failed to deliver, subject to repurchase or reverse repurchase agreements or otherwise subject to the broker-dealer's control or direction but not in the broker-dealer's physical possession by examination and comparison of the supporting detail records with the appropriate ledger control accounts;⁸⁵⁷

⁸⁵⁷ See 17 CFR 240.17a-13(b)(2).

• Verify all securities in transfer, in transit, pledge, loaned, borrowed, deposited, failed to receive, failed to deliver, subject to repurchase or reverse repurchase agreements or otherwise subject to the broker-dealer's control or direction but not in the broker-dealer's physical possession, where such securities have been in said status for longer than thirty days;⁸⁵⁸

⁸⁵⁸ See 17 CFR 240.17a-13(b)(3).

• Compare the results of the count and verification with the broker-dealer's records; ⁸⁵⁹ and

⁸⁵⁹ See 17 CFR 240.17a-13(b)(4).

• Record on the books and records of the broker-dealer all unresolved differences setting forth the security involved and date of comparison in a security count difference account no later than seven business days after the date of each required quarterly security examination, count, and verification in accordance with the requirements provided in paragraph (c) of the Rule.⁸⁶⁰

⁸⁶⁰ See 17 CFR 240.17a-13(b)(5). This paragraph further provides that no examination, count, verification, and comparison for the purpose of the rule shall be within two months of or more than four months following a prior examination, count, verification, and comparison made hereunder. See id.

In general terms, the rule requires a broker-dealer to physically examine, count and verify all securities positions (e.g., equities, corporate bonds, and government securities, and, after the Commission's exemptive relief expires, security-based swaps), and to compare the results of the count and verification with the firm's records at least once each calendar quarter. A securities count difference results when the count reflects positions different than those reflected in the firm's books and records. As discussed above in section II.A.2.a. of this release, a broker-dealer's securities record consists of a “long” side and a “short” side. The “long” side of the record accounts for the broker-dealer's responsibility as a custodian of securities and shows, for example, the securities the firm has received from customers and securities owned by the broker-dealer. The “short” side of the record shows where the securities are located such as at a securities depository. A short securities difference occurs when the amount of securities on the “long” side of the securities record are greater than the amount of securities on the “short” side of the securities. A long securities difference occurs when the opposite is true. The rule requires the firm to record on its books and records any unresolved differences within seven business days after the date of each required count. The seven business days should be measured from the date of the commencement of the count. A broker-dealer must take a capital charge for short securities differences outstanding seven business days or more and for long securities differences where the securities have been sold before they are adequately resolved.⁸⁶¹

⁸⁶¹ See 17 CFR 240.15c3-1(c)(2)(v).

The Commission is proposing to include parallel securities count requirements in proposed Rule 18a-9 that would mirror the requirements in paragraph (b) of Rule 17a-13.⁸⁶² Consequently, a stand-alone SBSD would be required to perform a securities count each quarter following steps specified in paragraph (a) of Rule 18a-9 that are identical to the steps specified in paragraph (b) of Rule 17a-13.⁸⁶³ Moreover, a securities count would need to be performed no sooner than two months after the last count and no later than four months after the last count.⁸⁶⁴

⁸⁶² Compare 17 CFR 240.17a-13(b), with paragraph (a) of proposed Rule 18a-9.

⁸⁶³ See paragraph (a) of proposed Rule 18a-9.

⁸⁶⁴ See id.

Date of the Count

Paragraph (c) of Rule 17a-13 provides that: (1) The examination, count, verification, and comparison may be made either as of a date certain or on a cyclical basis covering the entire list of securities; (2) in either case the recordation shall be effected within seven business days subsequent to the examination, count, verification, and comparison of a particular security; (3) in the event that an examination, count, verification, and comparison is made on a cyclical basis, it shall not extend over more than one calendar quarter-year; and (4) no security shall be examined, counted, verified, or compared for the purpose of the rule less than two months or more than four months after a prior examination, count, verification, and comparison.⁸⁶⁵ This permits a broker-dealer to perform the securities count on a rolling basis throughout the quarter as opposed to all in one day. For example, on day one the broker-dealer could perform the count with respect to securities of ABC Corporation, on day two the broker-dealer could perform the count with respect to securities of DEF Corporation, and on day three the broker-dealer could perform the count with respect to securities of GHI Corporation.

⁸⁶⁵ See 17 CFR 240.17a-13(c).

The Commission is proposing to include a parallel securities count requirement in proposed Rule 18a-9 that would mirror the requirement in paragraph (c) of Rule 17a-13.⁸⁶⁶ Consequently, a stand-alone SBSD could perform the securities count as of a date certain or on a cyclical basis subject conditions that are identical to the conditions in paragraph (c) of Rule 17a-13.⁸⁶⁷

⁸⁶⁶ Compare 17 CFR 240.17a-13(c), with paragraph (b) of proposed Rule 18a-9.

⁸⁶⁷ See paragraph (b) of proposed Rule 18a-9.

Separation of Duties

Paragraph (d) of Rule 17a-13 provides that the examination, count, verification, and comparison shall be made or supervised by persons whose regular duties do not require them to have direct responsibility for the proper care and protection of the securities or the making or preservation of the subject records.⁸⁶⁸ Thus, the rule requires a separation of duties as a control to promote the integrity of the securities count process.⁸⁶⁹

⁸⁶⁸ See 17 CFR 240.17a-13(d).

⁸⁶⁹ See id.

The Commission is proposing to include a parallel separation of duties requirement in proposed Rule 18a-9 that would mirror the requirement in paragraph (d) of Rule 17a-13.⁸⁷⁰ Consequently, a stand-alone SBSD would need to assign responsibility for making or supervising the count to individuals whose regular duties do not require them to have direct responsibility for the proper care and protection of the securities or the making or preservation of the subject records.⁸⁷¹

⁸⁷⁰ Compare 17 CFR 240.17a-13(d), with paragraph (c) of proposed Rule 18a-9.

⁸⁷¹ See paragraph (c) of proposed Rule 18a-9.

Exemptions

Paragraph (f) of Rule 17a-13 provides that the Commission may, upon written request, exempt from the provisions of the rule, either unconditionally or on specified terms and conditions, any broker-dealer that satisfies the Commission it is not necessary in the public interest and for the protection of investors to subject the firm to certain or all of the provisions of the rule, because of the special nature of the firm's business, the safeguards the firm has established for the protection of customers' funds and securities, or such other reason as the Commission deems appropriate.⁸⁷²

⁸⁷² See 17 CFR 240.17a-13(f).

The Commission is proposing to include a parallel exemption provision in proposed Rule 18a-9 that would mirror the provision in paragraph (f) of Rule 17a-13.⁸⁷³ Consequently, a stand-alone SBSD could seek an exemption from proposed Rule 18a-9 or from a specific requirement in the rule.⁸⁷⁴ The standard for granting such requests would be the same standard as is used for granting exemptions from Rule 17a-13.

⁸⁷³ Compare 17 CFR 240.17a-13(f), with paragraph (d) of proposed Rule 18a-9.

⁸⁷⁴ See paragraph (d) of proposed Rule 18a-9.

Request for Comment

The Commission generally requests comment on proposed Rule 18a-9. In addition, the Commission requests comment, including empirical data in support of comments, in response to the following questions:

1. Are there any categories of stand-alone SBSDs to which proposed Rule 18a-9 should not apply? If so, explain why.

2. Should proposed Rule 18a-9 apply to stand-alone MSBSPs? If so, explain why. Should proposed Rule 18a-9 apply to bank SBSDs? If so, explain why. Should proposed Rule 18a-9 apply to bank MSBSPs? If so, explain why.

3. How should security-based swaps be treated with respect to the requirements in Rule 17a-13 and proposed Rule 18a-9 to examine and count the securities they physically hold, account for the securities that are subject to their control or direction but are not in their physical possession, verify the locations of securities under certain circumstances, and compare the results of the count and verification with their records?

3. Capital Charge

As discussed above, Rule 15c3-1 requires a broker-dealer to take a capital charge for short securities differences that are unresolved for seven days or longer and for long securities differences where the securities have been sold before they are adequately resolved.⁸⁷⁵ The Commission's proposed capital rule for stand-alone SBSDs is modeled closely on Rule 15c3-1 but the proposal did not include these types of capital charges.⁸⁷⁶ The failure to include these capital charges in proposed Rule 18a-1 was inadvertent and, consequently, the Commission is proposing to include them in the rule.

⁸⁷⁵ See 17 CFR 240.15c3-1(c)(2)(v).

⁸⁷⁶ See Capital, Margin, and Segregation Requirements for Security-Based Swap Dealers and Major Security-Based Swap Participants and Capital Requirements for Broker-Dealers, 77 FR 70214.

Request for Comment

The Commission generally requests comment on this proposed capital charge. In addition, the Commission requests comment, including empirical data in support of comments, in response to the following questions:

1. Is the proposed capital appropriate for stand-alone SBSDs? If not, explain why.

III. General Request for Comment

The Commission invites comment, including relevant data and analysis, regarding all aspects of the proposed rules. The Commission also requests comment on appropriate effective dates for the proposals, including whether it would be appropriate to stagger or delay the effective dates for the requirements based on the nature or characteristics of the activities or entities to which they would apply.

IV. Paperwork Reduction Act

Certain provisions of the rule amendments and new rules proposed in this release would contain a new “collection of information” within the meaning of the Paperwork Reduction Act of 1995 (“PRA”).⁸⁷⁷ The Commission is submitting the proposed rule amendments and proposed new rules to the Office of Management and Budget (“OMB”) for review and approval in accordance with the PRA. An agency may not conduct or sponsor, and a person is not required to respond to a collection of information unless it displays a currently valid OMB control number. The titles for the collections of information are:

⁸⁷⁷ See 44 U.S.C. 3501 et seq.; 5 CFR 1320.11.

(1) Rule 17a-3—Records to be made by certain brokers and dealers (OMB control number 3235-0033);

(2) Rule 17a-4—Records to be preserved by certain brokers and dealers (OMB control number 3235-0279);

(3) Rule 17a-5—Reports to be made by certain brokers and dealers (OMB control number 3235-0123);

(4) Rule 17a-11—Notification provisions for brokers and dealers (OMB control number 3235-0085);

(5) Rule 18a-5—Records to be made by certain security-based swap dealers and major security-based swap participants (a proposed new collection of information);

(6) Rule 18a-6—Records to be preserved by certain security-based swap dealers and major security-based swap participants (a proposed new collection of information);

(7) Rule 18a-7—Reports to be made by certain security-based swap dealers and major security-based swap participants (a proposed new collection of information);

(8) Rule 18a-8—Notification provisions for security-based swap dealers and major security-based swap participants (a proposed new collection of information);

(9) Rule 18a-9—Quarterly security counts to be made by certain security-based swap dealers (a proposed new collection of information); and

(10) Form SBS (a proposed new collection of information).

The burden estimates contained in this section do not include any other possible costs or economic effects beyond the burdens required to be calculated for PRA purposes.

A. Summary of Collections of Information Under the Proposed Rules and Proposed Rule Amendments

1. Proposed Amendments to Rule 17a-3 and Proposed Rule 18a-5

Section 764 of the Dodd-Frank Act added section 15F(f)(2) to the Exchange Act, which provides that the Commission shall adopt rules governing reporting and recordkeeping for SBSDs and MSBSPs.⁸⁷⁸ Rule 17a-3 requires a broker-dealer to make and keep current certain records.⁸⁷⁹ The Commission is proposing to amend this rule to account for the security-based swap and swap activities of broker-dealers, including broker-dealer SBSDs and broker-dealer MSBSPs. With respect to stand-alone SBSDs, stand-alone MSBSPs, bank SBSDs, and bank MSBSPs, the Commission is proposing new Rule 18a-5—which is modeled on Rule 17a-3, as proposed to be amended—to require these registrants to make and keep current certain records.⁸⁸⁰ Proposed Rule 18a-5 would not include a parallel requirement for every requirement in Rule 17a-3 because some of the requirements in Rule 17a-3 relate to activities that are not expected or permitted of SBSDs and MSBSPs. Further, the proposed recordkeeping requirements for bank SBSDs and bank MSBSPs are tailored specifically to their activities as an SBSD or an MSBSP because: (1) the Commission's authority under section 15F(f) of the Exchange Act is tied to activities related to the SBSD or MSBSP business; (2) bank SBSDs and bank MSBSPs are subject to recordkeeping requirements applicable to banks; and (3) the prudential regulators—rather than the Commission—establish and monitor capital, margin, and other prudential requirements applicable to bank SBSDs and bank MSBSPs.

⁸⁷⁸ See Public Law 111-203, 764; 15 U.S.C. 78o-10(f)(2).

⁸⁷⁹ See 17 CFR 240.17a-3.

⁸⁸⁰ See proposed Rule 18a-5.

The proposed amendments to Rule 17a-3 and proposed Rule 18a-5 would establish a number of new collections of information, as summarized in the table below.

| Non-SBSD/ MSBSP broker-dealers | Non-model broker-dealer SBSDs | ANC broker-dealer SBSDs | Broker-dealer MSBSPs | Non-model stand-alone SBSDs | ANC stand-alone SBSDs | Bank SBSDs | Stand-alone MSBSPs
Trade blotters | 17a-3(a)(1)* | 17a-3(a)(1)* | 17a-3(a)(1)* | 17a-3(a)(1)* | 18a-5(a)(1) | 18a-5(a)(1) | 18a-5(b)(1) | 18a-5(a)(1).
General ledger |  |  |  |  | 18a-5(a)(2) | 18a-5(a)(2) |  | 18a-5(a)(2).
Ledgers for customer and non-customer accounts | 17a-3(a)(3)* | 17a-3(a)(3)* | 17a-3(a)(3)* | 17a-3(a)(3)* | 18a-5(a)(3) | 18a-5(a)(3) | 18a-5(b)(2) | 18a-5(a)(3).
Stock record | 17a-3(a)(5)* | 17a-3(a)(5)* | 17a-3(a)(5)* | 17a-3(a)(5)* | 18a-5(a)(4) | 18a-5(a)(4) | 18a-5(b)(3) | 18a-5(a)(4).
Memoranda of brokerage orders | 17a-3(a)(6)* | 17a-3(a)(6)* | 17a-3(a)(6)* | 17a-3(a)(6)* |  |  | 18a-5(b)(4). |
Memoranda of proprietary orders | 17a-3(a)(7)* | 17a-3(a)(7)* | 17a-3(a)(7)* | 17a-3(a)(7)* | 18a-5(a)(5) | 18a-5(a)(5) | 18a-5(b)(5) | 18a-5(a)(5).
Confirmations | 17a-3(a)(8)* | 17a-3(a)(8)* | 17a-3(a)(8)* | 17a-3(a)(8)* | 18a-5(a)(6) | 18a-5(a)(6) | 18a-5(b)(6) | 18a-5(a)(6).
Accountholder information | 17a-3(a)(9)* | 17a-3(a)(9)* | 17a-3(a)(9)* | 17a-3(a)(9)* | 18a-5(a)(7) | 18a-5(a)(7) | 18a-5(b)(7) | 18a-5(a)(7).
Options positions |  |  |  |  | 18a-5(a)(8) | 18a-5(a)(8) |  | 18a-5(a)(8).
Trial balances and computation of net capital |  |  |  |  | 18a-5(a)(9) | 18a-5(a)(9) |  | 18a-5(a)(9).
Associated person's employment application |  |  |  |  | 18a-5(a)(10) | 18a-5(a)(10) | 18a-5(b)(8) | 18a-5(a)(10).
Liquidity stress test |  |  | 17a-3(a)(24) |  |  | 18a-5(a)(11). |  |
Account equity and margin calculations under proposed Rule 18a-3 |  | 17a-3(a)(25) | 17a-3(a)(25) | 17a-3(a)(25) | 18a-5(a)(12) | 18a-5(a)(12) |  | 18a-5(a)(12).
Possession or control requirements under proposed Rule 18a-4 |  | 17a-3(a)(26) | 17a-3(a)(26) |  | 18a-5(a)(13) | 18a-5(a)(13) | 18a-5(b)(9). |
Customer reserve requirements under proposed Rule 18a-4 |  | 17a-3(a)(27) | 17a-3(a)(27) |  | 18a-5(a)(14) | 18a-5(a)(14) | 18a-5(b)(10). |
Unverified transactions |  | 17a-3(a)(28) | 17a-3(a)(28) | 17a-3(a)(28) | 18a-5(a)(15) | 18a-5(a)(15) | 18a-5(b)(11) | 18a-5(a)(15).
Political contributions |  | 17a-3(a)(29) | 17a-3(a)(29) |  | 18a-5(a)(16) | 18a-5(a)(16) | 18a-5(b)(12). |
Compliance with external business conduct requirements |  | 17a-3(a)(30) | 17a-3(a)(30) | 17a-3(a)(30) | 18a-5(a)(17) | 18a-5(a)(17) | 18a-5(b)(13) | 18a-5(a)(17).
* Broker-dealers are currently required to comply with these paragraphs of Rule 17a-3, but the Commission proposes to amend these paragraphs to tailor the types of records that should be made and kept with respect to security-based swaps, and to make certain technical changes.

2. Proposed Amendments to Rule 17a-4 and Proposed Rule 18a-6

Section 764 of the Dodd-Frank Act added section 15F(f)(2) to the Exchange Act, which provides that the Commission shall adopt rules governing reporting and recordkeeping for SBSDs and MSBSPs.⁸⁸¹ Rule 17a-4 requires a broker-dealer to preserve certain records if it makes or receives them.⁸⁸² The Commission is proposing to amend this rule to account for the security-based swap and swap activities of broker-dealers, including broker-dealer SBSDs and broker-dealer MSBSPs. With respect to stand-alone SBSDs, stand-alone MSBSPs, bank SBSDs, and bank MSBSPs, the Commission is proposing new Rule 18a-6—which is modeled on Rule 17a-4, as proposed to be amended—to require these registrants to preserve certain records if they make or receive them.⁸⁸³ Proposed Rule 18a-6 would not include a parallel requirement for every requirement in Rule 17a-4 because some of the requirements in Rule 17a-4 relate to activities that are not expected or permitted of SBSDs and MSBSPs. In addition, the recordkeeping requirements for bank SBSDs and bank MSBSPs are tailored specifically to bank SBSD and bank MSBSP activities relating to operating as an SBSD or an MSBSP.

⁸⁸¹ See Public Law 111-203, 764; 15 U.S.C. 78o-10(f)(2).

⁸⁸² See 17 CFR 240.17a-4.

⁸⁸³ See proposed Rule 18a-6.

The proposed amendments to Rule 17a-4 and proposed Rule 18a-6 would establish a number of new collections of information, as summarized in the table below.

| Non-SBSD/ MSBSP broker- dealers | Non-model broker-dealer SBSDs | ANC broker-dealer SBSDs | Broker-dealer MSBSPs | Non-model stand-alone SBSDs | ANC stand-alone SBSDs | Bank SBSDs | Stand-alone MSBSPs
Records To Be Preserved for a Period of Not Less Than 6 Years
Trade blotters |  |  |  |  | 18a-6(a)(1) citing 18a-5(a)(1) | 18a-6(a)(1) citing 18a-5(a)(1) | 18a-6(a)(2) citing 18a-5(b)(1) | 18a-6(a)(1) citing 18a-5(a)(1).
General ledger |  |  |  |  | 18a-6(a)(1) citing 18a-5(a)(2) | 18a-6(a)(1) citing 18a-5(a)(2) |  | 18a-6(a)(1) citing 18a-5(a)(2).
Ledgers for customer and non-customer accounts |  |  |  |  | 18a-6(a)(1) citing 18a-5(a)(3) | 18a-6(a)(1) citing 18a-5(a)(3) | 18a-6(a)(2) citing 18a-5(b)(2) | 18a-6(a)(1) citing 18a-5(a)(3).
Stock record |  |  |  |  | 18a-6(a)(1) citing 18a-5(a)(4) | 18a-6(a)(1) citing 18a-5(a)(4) | 18a-6(a)(2) citing 18a-5(b)(3) | 18a-6(a)(1) citing 18a-5(a)(4).
Records To Be Preserved for a Period of Not Less Than 3 Years
Memoranda of brokerage orders |  |  |  |  |  |  | 18a-6(b)(2)(i) citing 18a-6(b)(4) |
Memoranda of proprietary orders |  |  |  |  | 18a-6(b)(1)(i) citing 18a-6(a)(5) | 18a-6(b)(1)(i) citing 18a-6(a)(5) | 18a-6(b)(2)(i) citing 18a-6(b)(5) | 18a-6(b)(1)(i) citing 18a-6(a)(5).
Confirmations |  |  |  |  | 18a-6(b)(1)(i) citing 18a-6(a)(6) | 18a-6(b)(1)(i) citing 18a-6(a)(6) | 18a-6(b)(2)(i) citing 18a-6(b)(6) | 18a-6(b)(1)(i) citing 18a-6(a)(6).
Accountholder information |  |  |  |  | 18a-6(b)(1)(i) citing 18a-6(a)(7) | 18a-6(b)(1)(i) citing 18a-6(a)(7) | 18a-6(b)(2)(i) citing 18a-6(b)(7) | 18a-6(b)(1)(i) citing 18a-6(a)(7).
Options positions |  |  |  |  | 18a-6(b)(1)(i) citing 18a-6(a)(8) | 18a-6(b)(1)(i) citing 18a-6(a)(8) |  | 18a-6(b)(1)(i) citing 18a-6(a)(8).
Trial balances and computation of net capital | 17a-4(b)(1) citing 17a-3(a)(11) | 17a-4(b)(1) citing 17a-3(a)(11) | 17a-4(b)(1) citing 17a-3(a)(11) | 17a-4(b)(1) citing 17a-3(a)(11) | 18a-6(b)(1)(i) citing 18a-6(a)(9) | 18a-6(b)(1)(i) citing 18a-6(a)(9) |  | 18a-6(b)(1)(i) citing 18a-6(a)(9).
Liquidity stress test |  |  | 17a-4(b)(1) citing 17a-3(a)(24) |  |  | 18a-6(b)(1)(i) citing 18a-6(a)(11). |  |
Account equity and margin calculations under proposed Rule 18a-3 |  | 17a-4(b)(1) citing 17a-3(a)(25) | 17a-4(b)(1) citing 17a-3(a)(25) | 17a-4(b)(1) citing 17a-3(a)(25) | 18a-6(b)(1)(i) citing 18a-6(a)(12) | 18a-6(b)(1)(i) citing 18a-6(a)(12) |  | 18a-6(b)(1)(i) citing 18a-6(a)(12).
Possession or control requirements under proposed Rule 18a-4 |  | 17a-4(b)(1) citing 17a-3(a)(26) | 17a-4(b)(1) citing 17a-3(a)(26) |  | 18a-6(b)(1)(i) citing 18a-6(a)(13) | 18a-6(b)(1)(i) citing 18a-6(a)(13) | 18a-6(b)(2)(i) citing 18a-6(b)(9). |
Customer reserve requirements under proposed Rule 18a-4 |  | 17a-4(b)(1) citing 17a-3(a)(27) | 17a-4(b)(1) citing 17a-3(a)(27) |  | 18a-6(b)(1)(i) citing 18a-6(a)(14) | 18a-6(b)(1)(i) citing 18a-6(a)(14) | 18a-6(b)(2)(i) citing 18a-6(b)(10) |
Unverified transactions |  | 17a-4(b)(1) citing 17a-3(a)(28) | 17a-4(b)(1) citing 17a-3(a)(28) | 17a-4(b)(1) citing 17a-3(a)(28) | 18a-6(b)(1)(i) citing 18a-6(a)(15) | 18a-6(b)(1)(i) citing 18a-6(a)(15) | 18a-6(b)(2)(i) citing 18a-6(b)(11) | 18a-6(b)(1)(i) citing 18a-6(a)(15).
Political contributions |  | 17a-4(b)(1) citing 17a-3(a)(29) | 17a-4(b)(1) citing 17a-3(a)(29) |  | 18a-6(b)(1)(i) citing 18a-6(a)(16) | 18a-6(b)(1)(i) citing 18a-6(a)(16) | 18a-6(b)(2)(i) citing 18a-6(b)(12) |
Compliance with external business conduct requirements |  | 17a-4(b)(1) citing 17a-3(a)(30) | 17a-4(b)(1) citing 17a-3(a)(30) | 17a-4(b)(1) citing 17a-3(a)(30) | 18a-6(b)(1)(i) citing 18a-6(a)(17) | 18a-6(b)(1)(i) citing 18a-6(a)(17) | 18a-6(b)(2)(i) citing 18a-6(b)(13) | 18a-6(b)(1)(i) citing 18a-6(a)(17).
Bank records |  |  |  |  | 18a-6(b)(1)(ii) | 18a-6(b)(1)(ii) |  | 18a-6(b)(1)(ii).
Bills |  |  |  |  | 18a-6(b)(1)(iii) | 18a-6(b)(1)(iii) |  | 18a-6(b)(1)(iii).
Communications | 17a-4(b)(4)* | 17a-4(b)(4)* | 17a-4(b)(4)* | 17a-4(b)(4)* | 18a-6(b)(1)(iv) | 18a-6(b)(1)(iv) | 18a-6(b)(2)(ii) | 18a-6(b)(1)(iv).
Trial balances |  |  |  |  | 18a-6(b)(1)(v) | 18a-6(b)(1)(v) |  | 18a-6(b)(1)(v).
Account documents |  |  |  |  | 18a-6(b)(1)(vi) | 18a-6(b)(1)(vi) | 18a-6(b)(2)(iii) | 18a-6(b)(1)(vi).
Written agreements | 17a-4(b)(7)* | 17a-4(b)(7)* | 17a-4(b)(7)* | 17a-4(b)(7)* | 18a-6(b)(1)(vii) | 18a-6(b)(1)(vii) | 18a-6(b)(2)(iv) | 18a-6(b)(1)(vii).
Information supporting financial reports | 17a-4(b)(8)* | 17a-4(b)(8)* | 17a-4(b)(8)* | 17a-4(b)(8)* | 18a-6(b)(1)(viii) | 18a-6(b)(1)(viii) | 18a-6(b)(2)(v) | 18a-6(b)(1)(viii).
Rule 15c3-4 risk management records (OTC derivatives dealers only) |  |  |  |  | 18a-6(b)(1)(ix) | 18a-6(b)(1)(ix) |  | 18a-6(b)(1)(ix).
Internal credit ratings |  |  |  |  |  | 18a-6(b)(1)(x) |  |
Regulation SBSR information | 17a-4(b)(14) | 17a-4(b)(14) | 17a-4(b)(14) | 17a-4(b)(14) | 18a-6(b)(1)(xi) | 18a-6(b)(1)(xi) | 18a-6(b)(2)(vi) | 18a-6(b)(1)(xi).
Records relating to business conduct standards |  | 17a-4(b)(15) | 17a-4(b)(15) | 17a-4(b)(15) | 18a-6(b)(1)(xii) | 18a-6(b)(1)(xii) | 18a-6(b)(2)(vii) | 18a-6(b)(1)(xii).
Special entity documents |  | 17a-4(b)(16) | 17a-4(b)(16) | 17a-4(b)(16) | 18a-6(b)(1)(xiii) | 18a-6(b)(1)(xiii) | 18a-6(b)(2)(viii) | 18a-6(b)(1)(xiii).
Associated person's employment application |  |  |  |  | 18a-6(d)(1) | 18a-6(d)(1) | 18a-6(d)(1) | 18a-6(d)(1).
Regulatory authority reports |  |  |  |  | 18a-6(d)(2)(i) | 18a-6(d)(2)(i) | 18a-6(d)(2)(ii) | 18a-6(d)(2)(i).
Compliance, supervisory, and procedures manuals |  |  |  |  | 18a-6(d)(3)(i) | 18a-6(d)(3)(i) | 18a-6(d)(3)(ii) | 18a-6(d)(3)(i).
Life of the enterprise and of any successor enterprise
Corporate documents | 17a-4(d)* | 17a-4(d)* | 17a-4(d)* | 17a-4(d)* | 18a-6(c) | 18a-6(c) |  | 18a-6(c).
* Broker-dealers are currently required to comply with these paragraphs of Rule 17a-4, but the Commission proposes to amend these paragraphs as required by the Dodd-Frank Act or to tailor to the types of records that should be preserved with respect to security-based swaps, and to make certain technical changes.

3. Proposed Amendments to Rule 17a-5 and Proposed Rule 18a-7

Section 764 of the Dodd-Frank Act added section 15F(f)(2) to the Exchange Act, which provides that the Commission shall adopt rules governing reporting for SBSDs and MSBSPs.⁸⁸⁴ Further, section 15F(f)(1)(A) provides that SBSDs and MSBSPs shall make such reports as are required by the Commission, by rule or regulation, regarding the transactions and positions and financial condition of the SBSD or MSBSP.⁸⁸⁵ The Commission has concurrent authority under section 17(a)(1) of the Exchange Act to prescribe reporting requirements for broker-dealers.⁸⁸⁶

⁸⁸⁴ See Public Law 111-203, 764; 15 U.S.C. 78o-10(f)(2).

⁸⁸⁵ See 15 U.S.C. 78o-10(f)(1)(A).

⁸⁸⁶ See 15 U.S.C. 78q(a)(1).

Rule 17a-5 requires a broker-dealer to annually file reports audited by a PCAOB-registered independent public accountant, disclose certain financial information to customers, file with the Commission a statement about its engagement of an independent public accountant, notify the Commission of a change of accountant, and to notify the Commission of the change in fiscal year.⁸⁸⁷ The rule also requires the independent public accountant to notify the broker-dealer if the accountant discovers an instance of non-compliance with certain broker-dealer rules or an instance of material weakness.⁸⁸⁸ Rule 17a-5 requires broker-dealers to file a financial report, compliance report, and/or exemption report with the Commission on an annual basis.⁸⁸⁹ ANC broker-dealers are required to file with the Commission additional information relating to market risk, credit risk, and the monthly liquidity stress test on a periodic basis.⁸⁹⁰

⁸⁸⁷ See 17 CFR 240.17a-5.

⁸⁸⁸ See 17 CFR 240.17a-5(h).

⁸⁸⁹ See 17 CFR 240.17a-5(d).

⁸⁹⁰ See 17 CFR 240.17a-5(a)(5).

The Commission is proposing amendments to Rule 17a-5 to account for the security-based swap activities of broker-dealer SBSDs and broker-dealer MSBSPs.⁸⁹¹ Proposed Rule 18a-7—which is modeled on Rule 17a-5, as proposed to be amended—would establish reporting requirements for stand-alone SBSDs, stand-alone MSBSPs, bank SBSDs, and bank MSBSPs.⁸⁹² Under Rule 17a-5, as proposed to be amended, and proposed Rule 18a-7, SBSDs and MSBSPs would be required to periodically file proposed Form SBS.⁸⁹³ Broker-dealer SBSDs and broker-dealer MSBSPs would file Form SBS instead of the applicable part of Form X-17A-5.⁸⁹⁴ Form SBS would include additional entries as compared to Part II CSE of Form X-17A-5 to account for the firm's security-based swap activities.

⁸⁹¹ See Rule 17a-5, as proposed to be amended. See also section II.B. of this release.

⁸⁹² See proposed Rule 18a-7.

⁸⁹³ See paragraph (a)(1)(iv) of Rule 17a-5, as proposed to be amended; paragraphs (a)(1) and (2) of proposed Rule 18a-7. Nonbank SBSDs and nonbank MSBSPs would be required to file Form SBS on a monthly basis, whereas bank SBSDs and bank MSBSPs would be required to file Form SBS on a quarterly basis. Compare paragraphs (a)(1)(iv) of Rule 17a-5, as proposed to be amended, with paragraph (a)(1) of proposed Rule 18a-7, and paragraph (a)(2) of proposed Rule 18a-7.

⁸⁹⁴ As described above, a broker-dealer is required to file with the Commission or the broker-dealer's DEA a different part of Form X-17A-5 (Part II, Part IIA, Part IIB, or Part II CSE), depending on the nature of its business.

Proposed Rule 18a-7 does not include a parallel requirement for every requirement in Rule 17a-5.⁸⁹⁵ Moreover, instead of requiring stand-alone SBSDs and stand-alone MSBSPs to make available to customers an audited statement of financial condition with appropriate notes and certain reports of the independent public accountant, the Commission proposes that stand-alone SBSDs and stand-alone MSBSPs make such information available on their public Web site.⁸⁹⁶ Further, for the reasons discussed above, the reporting requirements in proposed Rule 18a-7, other than the requirement to periodically file proposed Form SBS, would not apply to bank SBSDs and bank MSBSPs.

⁸⁹⁵ For example, as described in further detail above, the Commission is not proposing a requirement in Rule 18a-7 that is parallel to the exemption report requirement in Rule 17a-5 or the requirement to file certain reports with SIPC. See 17 CFR 240.17a-5(d)(4) and (e)(4).

⁸⁹⁶ Compare 17 CFR 240.17a-5(c), with paragraph (b) of proposed Rule 18a-7.

4. Proposed Amendments to Rule 17a-11 and Proposed Rule 18a-8

Section 764 of the Dodd-Frank Act added section 15F(f)(2) to the Exchange Act, which provides that the Commission shall adopt rules governing reporting for SBSDs and MSBSPs.⁸⁹⁷ Section 15F(f)(1)(A) provides that SBSDs and MSBSPs shall make such reports as are required by the Commission, by rule or regulation, regarding the transactions and positions and financial condition of the SBSD or MSBSP.⁸⁹⁸ In addition, the Commission has concurrent authority under section 17(a)(1) of the Exchange Act to prescribe reporting requirements for broker-dealers.⁸⁹⁹

⁸⁹⁷ See Public Law 111-203, 764; 15 U.S.C. 78o-10(f)(2).

⁸⁹⁸ See 15 U.S.C. 78o-10(f)(1)(A).

⁸⁹⁹ See 15 U.S.C. 78q(a)(1).

Rule 17a-11 specifies the circumstances under which a broker-dealer must notify the Commission and other securities regulators about its financial or operational condition, as well as the form that the notice must take.⁹⁰⁰ The Commission is proposing amendments to Rule 17a-11 to account for the security-based swap activities of broker-dealer SBSDs and broker-dealer MSBSPs.⁹⁰¹ Proposed Rule 18a-8—which is modeled on Rule 17a-11, as proposed to be amended—would establish notification requirements for stand-alone SBSDs, stand-alone MSBSPs, bank SBSDs, and bank MSBSPs.⁹⁰²

⁹⁰⁰ See 17 CFR 240.17a-11.

⁹⁰¹ See paragraphs (b)(5), (e), and (f) of Rule 17a-11, as proposed to be amended.

⁹⁰² See proposed Rule 18a-8.

Proposed Rule 18a-8 would not include a parallel requirement for every requirement in Rule 17a-11 because some of the Rule 17a-11 notices relate to calculations that would not be relevant to stand-alone SBSDs, stand-alone MSBSPs, bank SBSDs, and bank MSBSPs.⁹⁰³ Further, the notification requirements for bank SBSDs and bank MSBSPs are designed to be tailored specifically to their activities as an SBSD or an MSBSP.

⁹⁰³ See, e.g., 17 CFR 240.17a-11(b)(2) and (c)(1).

The proposed amendments to Rule 17a-11 and proposed Rule 18a-8 would establish a number of new collections of information, as summarized in the table below.

| Non-SBSD/ MSBSP broker-dealers | Non-model broker-dealer SBSDs | ANC broker-dealer SBSDs | Broker-dealer MSBSPs | ANC stand-alone SBSDs | Non-model stand-alone SBSDs | Bank SBSDs | Stand-alone MSBSPs
Net capital below minimum |  |  |  |  | 18a-8 (a)(1)(i) | 18a-8 (a)(1)(i). |  |
Tentative net capital below minimum |  |  |  |  | 18a-8 (a)(1)(ii). |  |  |
Tangible net worth below minimum |  |  |  |  |  |  |  | 18a-8 (a)(2).
Early warning of net capital |  |  |  |  | 18a-8(b)(1) | 18a-8(b)(1). |  |
Early warning of tentative net capital |  |  |  |  | 18a-8 (b)(2). |  |  |
Early warning of tangible net worth |  |  |  | 17a-11 (b)(6) |  |  |  | 18a-8(b)(3).
Backtesting exception |  |  |  |  | 18a-8(b)(4). |  |  |
Notice of adjustment of reported capital category |  |  |  |  |  |  | 18a-8(c). |
Failure to make and keep current books and records |  |  |  |  | 18a-8(d) | 18a-8(d) | 18a-8(d) | 18a-8(d).
Material weakness |  |  |  |  | 18a-8(e) | 18a-8(e). |  |
Insufficient liquidity reserves |  |  | 17a-11(e) |  | 18a-8(f). |  |  |
Failure to make a required reserve deposit | 17a-11(f) | 17a-11(f) | 17a-11(f) |  | 18a-8(g) | 18a-8(g) | 18a-8(g). |

5. Proposed Rule 18a-9

Section 764 of the Dodd-Frank Act added section 15F(f)(2) to the Exchange Act, which provides that the Commission shall adopt rules governing reporting for SBSDs.⁹⁰⁴ In addition, section 15F(f)(2)(B)(ii) provides that nonbank SBSDs shall keep books and records in such form and manner and for such period as may be prescribed by the Commission by rule or regulation.⁹⁰⁵

⁹⁰⁴ See Public Law 111-203, 764; 15 U.S.C. 78o-10(f)(2).

⁹⁰⁵ See 15 U.S.C. 78o-10(f)(1)(B)(ii).

Proposed Rule 18a-9, which is modeled on Rule 17a-13, would require stand-alone SBSDs to examine and count the securities they physically hold, account for the securities that are subject to their control or direction but are not in their physical possession, verify the locations of securities under certain circumstances, and compare the results of the count and verification with their records.⁹⁰⁶

⁹⁰⁶ Proposed Rule 18a-9 does not include the exceptions from applicability that Rule 17a-13 includes. See 17 CFR 240.17a-13(a) and (e).

B. Proposed Use of Information

Rule 17a-3, as proposed to be amended, and proposed Rule 18a-5 would require broker-dealers, SBSDs, and MSBSPs to make and keep current certain books and records. Rule 17a-4, as proposed to be amended, and proposed Rule 18a-6 would require broker-dealers, SBSDs, and MSBSPs to preserve certain records if the firm makes or receives the type of record. These rules are designed, among other things, to promote the prudent operation of broker-dealers, SBSDs, and MSBSPs and to assist the Commission, SROs, and state securities regulators in conducting effective examinations.⁹⁰⁷ Thus, the collections of information under the proposed amendments to Rules 17a-3 and 17a-4, and proposed Rules 18a-5 and 18a-6, would facilitate the examinations of broker-dealers, SBSDs, and MSBSPs.

⁹⁰⁷ See, e.g., Books and Records Requirements for Brokers and Dealers Under the Securities Exchange Act of 1934, 66 FR 55818 (“The Commission has required that broker-dealers create and maintain certain records so that, among other things, the Commission, [SROs], and State Securities Regulators . . . may conduct effective examinations of broker-dealers” (footnote omitted)).

Rule 17a-5, as proposed to be amended, and proposed Rule 18a-7 would establish reporting requirements for broker-dealers, SBSDs, and MSBSPs. Rule 17a-11, as proposed to be amended, and proposed Rule 18a-8 would require broker-dealers, SBSDs, and MSBSPs to notify the Commission of certain events related to their financial condition. The rules are designed to promote compliance with the proposed financial responsibility requirements for SBSDs and MSBSPs, facilitate regulators' oversight and examinations of such firms, and promote transparency of SBSDs' and MSBSPs' financial condition and operation.

Proposed Rule 18a-9 would require a stand-alone SBSD to physically examine, count and verify all securities positions (e.g., equities, corporate bonds, and government securities), and to compare the results of the count and verification with the firm's records at least once each calendar quarter. This proposed rule is designed to promote an SBSD's custody of securities and accurate accounting for securities.

C. Respondents

Consistent with prior releases, the Commission estimates that fifty or fewer entities ultimately may be required to register with the Commission as SBSDs.⁹⁰⁸

⁹⁰⁸ See Capital, Margin, and Segregation Requirements for Security-Based Swap Dealers and Major Security-Based Swap Participants and Capital Requirements for Broker-Dealers, 77 FR 70292; Further Definition of “Swap Dealer,” “Security-Based Swap Dealer,” “Major Swap Participant,” “Major Security-Based Swap Participant” and “Eligible Contract Participant”, 77 FR 30725.

In addition, consistent with prior releases, based on available data regarding the single-name credit default swap market—which the Commission believes will comprise the majority of security-based swaps—the Commission estimates that the number of MSBSPs likely will be five or fewer and, in actuality, may be zero.⁹⁰⁹ Therefore, to capture the likely number of MSBSPs that may be subject to the collections of information for purposes of this PRA, the Commission estimates for purposes of this PRA that five entities will register with the Commission as MSBSPs. Accordingly, for purposes of calculating PRA reporting burdens, the Commission estimates there will be fifty SBSDs and five MSBSPs.

⁹⁰⁹ See id.

Of the five MSBSPs, the Commission estimates that one firm also would be registered as a broker-dealer and an FCM.⁹¹⁰ By definition, an MSBSP's primary business is not engaging in security-based swap activity, so it would be rare for an MSBSP to qualify as a broker-dealer and/or FCM but not an SBSD. Such an MSBSP would be engaged in the business of effecting securities transactions,⁹¹¹ but not in the business of effecting security-based swap transactions ⁹¹² or commodities, securities futures products, or swaps ⁹¹³ and yet involved in enough security-based swap transactions to be required to register as an MSBSP.⁹¹⁴ However, the Commission estimates there will be one broker-dealer FCM MSBSP for the purposes of calculating PRA burdens, in recognition that broker-dealer MSBSPs and stand-alone MSBSPs are subject to different burdens under the proposed and amended rules in certain instances.⁹¹⁵

⁹¹⁰ See Registration of Security-Based Swap Dealers and Major Security-Based Swap Participants, 76 FR 65808.

⁹¹¹ See 15 U.S.C. 78c(a)(4) (generally defining broker as any person engaged in the business of effecting transactions in securities for the account of others).

⁹¹² See 15 U.S.C. 78c(a)(71) (generally defining security-based swap dealer as any person who holds himself out as a dealer in security-based swaps, makes a market in security-based swaps, regularly enters into security-based swaps with counterparties as an ordinary course of business for its own account, or engages in any other activity causing it to be commonly known in the trade as a dealer or market maker in security-based swaps).

⁹¹³ See 7 U.S.C. 1a(28) (generally defining futures commission merchant as a person engaged in soliciting or in accepting orders for the purchase or sale of a commodity for future delivery, a security futures product, or a swap).

⁹¹⁴ See 15 U.S.C. 78c(a)(67) (generally defining major security-based swap participant as any person who is not an SBSD but maintains a substantial position in security-based swaps for any of the major security-based swap categories, whose outstanding security-based swaps could have serious adverse effects on the financial stability of the U.S. banking system or financial markets, or is highly leveraged and maintains a substantial position in security-based swaps for any of the major security-based swap categories).

⁹¹⁵ The Commission believes that the broker-dealer MSBSP would register as an FCM, since the broker-dealer may find it beneficial to hedge security and security-based swap positions with futures contracts, options on futures, or swaps. See Registration of Security-Based Swap Dealers and Major Security-Based Swap Participants, 76 FR 65814.

The Commission previously estimated that sixteen broker-dealers would likely seek to register as SBSDs.⁹¹⁶ The Commission is retaining this estimate for purposes of this release. The Commission believes that all sixteen broker-dealer SBSDs also will be registered as FCMs, since SBSDs may find it beneficial to hedge security-based swap positions with futures contracts, options on futures, or swaps.⁹¹⁷ Accordingly, for purposes of calculating PRA reporting burdens, the Commission estimates there will be sixteen broker-dealer FCM SBSDs.

⁹¹⁶ See Capital, Margin, and Segregation Requirements for Security-Based Swap Dealers and Major Security-Based Swap Participants and Capital Requirements for Broker-Dealers, 77 FR 70292.

⁹¹⁷ See Registration of Security-Based Swap Dealers and Major Security-Based Swap Participants, 76 FR 65814.

For purposes of calculating PRA reporting burdens, the Commission estimates there would be twenty-five bank SBSDs and nine stand-alone SBSDs.⁹¹⁸ Because the Commission estimates that sixteen broker-dealers would likely register as SBSDs, there would be an estimated maximum of thirty-four non-broker-dealer SBSDs consisting of bank SBSDs and stand-alone SBSDs.⁹¹⁹ For business planning purposes, risk management purposes, potential regulatory requirements, and other reasons, some of these entities likely would register with the Commission as stand-alone SBSDs. Because many of the dealers that currently engage in OTC derivatives activities are banks, the Commission estimates that approximately 75% of the thirty-four non-broker-dealer SBSDs would register as bank SBSDs (i.e., twenty-five firms),⁹²⁰ and the remaining 25% would register as stand-alone SBSDs (i.e., nine firms).⁹²¹

⁹¹⁸ The Commission does not anticipate that any firms will be dually registered as a broker-dealer and a bank.

⁹¹⁹ 50 SBSDs − 16 broker-dealer SBSDs = 34 maximum non-broker-dealer SBSDs.

⁹²⁰ 34 maximum estimated non-broker-dealer SBSDs × 75% = 25.5, rounded to 25 bank SBSDs.

⁹²¹ 34 maximum estimated non-broker-dealer SBSDs × 25% = 8.5, rounded to 9 stand-alone FCM SBSDs.

The Commission believes that none of the bank SBSDS would register as FCMs, because of the burden associated with complying with three different supervisors' regulatory requirements.⁹²² However, the Commission believes that all of the stand-alone SBSDs would register as FCMs, since SBSDs may find it beneficial to hedge security-based swap positions with futures contracts, options on futures, or swaps.⁹²³

⁹²² In addition, the Commission understands that banks do not register as FCMs; rather, bank affiliates register as FCMs.

⁹²³ See Registration of Security-Based Swap Dealers and Major Security-Based Swap Participants, 76 FR 65814.

Of the nine stand-alone FCM SBSDs, the Commission estimates that, based on its experience with ANC broker-dealers and OTC derivatives dealers, the majority of stand-alone SBSDs would apply to use internal models.⁹²⁴ Consequently, the Commission is estimating that six of the nine stand-alone SBSDs would apply to operate as ANC stand-alone SBSDs, which would use internal models to compute net capital under proposed Rule 18a-1. Because the Commission estimates that there would be six ANC stand-alone SBSDs, the Commission estimates that three stand-alone SBSDs would not use internal models to compute net capital.⁹²⁵

⁹²⁴ VaR models, while more risk-sensitive than standardized haircuts, tend to substantially reduce the amount of the deductions to tentative net capital in comparison to the standardized haircuts because the models recognize more offsets between related positions than the standardized haircuts. Therefore, the Commission expects that stand-alone SBSDs that have the capability to use internal models to calculate net capital would choose to do so.

⁹²⁵ 9 stand-alone FCM SBSDs − 6 ANC stand-alone FCM SBSDs = 3 non-model stand-alone FCM SBSDs.

Of the sixteen broker-dealer FCM SBSDs, the Commission estimates that ten firms would operate as ANC broker-dealer SBSDs, which use internal models to compute net capital under Rule 15c3-1.⁹²⁶ Because the Commission estimates that ten broker-dealer SBSDs would be ANC broker-dealer SBSDs, it is estimated that six broker-dealer SBSDs would not use internal models to compute net capital.⁹²⁷

⁹²⁶ Currently, 6 broker-dealers are registered as ANC broker-dealers and 1 broker-dealer's application to register as an ANC broker-dealer is pending. The Commission has previously estimated that all current and future ANC broker-dealers will also register as SBSDs. See Capital, Margin, and Segregation Requirements for Security-Based Swap Dealers and Major Security-Based Swap Participants and Capital Requirements for Broker-Dealers, 77 FR 70293.

⁹²⁷ 16 broker-dealer FCM SBSDs − 10 ANC broker-dealer FCM SBSDs = 6 non-model broker-dealer FCM SBSDs.

As of April 1, 2013, there were 4,545 broker-dealers registered with the Commission. The Commission estimates that twenty-five registered broker-dealers will be engaged in security-based swap activities but would not be required to register as an SBSD or MSBSP. Other than OTC derivatives dealers, which are subject to significant limitations on their activities, broker-dealers historically have not participated in a significant way in security-based swap trading for at least two reasons.⁹²⁸ First, because the Exchange Act has not previously defined security-based swaps as “securities,” security-based swaps have not been required to be traded through registered broker-dealers.⁹²⁹ Second, a broker-dealer engaging in security-based swap activities is currently subject to existing regulatory requirements with respect to those activities, including capital, margin, segregation, and recordkeeping requirements. Specifically, the existing broker-dealer capital requirements make it relatively costly to conduct these activities in broker-dealers. As a result, security-based swap activities are mostly concentrated in

⁹²⁸ See Capital, Margin, and Segregation Requirements for Security-Based Swap Dealers and Major Security-Based Swap Participants and Capital Requirements for Broker-Dealers, 77 FR 70302.

⁹²⁹ See Public Law 111-203, 761 (amending definition of “security” in 15 U.S.C. 78c(a)(10)).

affiliates of broker-dealers, not broker-dealers themselves.⁹³⁰

⁹³⁰ See International Swaps and Derivatives Association (“ISDA”), Margin Survey 2012 (May 1, 2012) (“ISDA Margin Survey 2012”), at Appendix 1, available at http://www2.isda.org/attachment/NDM5MQ==/ISDA%20Margin%20Survey%202012%20FORMATTED.pdf. The ISDA Margin Survey is conducted annually to examine the state of collateral use and management among derivatives dealers and end-users. Appendix 1 to the survey lists firms that responded to the survey including broker-dealers. See id.

The Commission generally requests comment on all aspects of these estimates of the number of respondents. Commenters should provide specific data and analysis to support any comments they submit with respect to the number of respondents, including identifying any sources of industry information that could be used to estimate the number of respondents.

D. Total Initial and Annual Recordkeeping and Reporting Burden

1. Proposed Amendments to Rule 17a-3 and Proposed Rule 18a-5

The proposed amendments to Rule 17a-3 and proposed Rule 18a-5 would impose collection of information requirements that result in initial and annual time burdens for broker-dealers, SBSDs, and MSBSPs. Current Rule 17a-3 imposes an estimated annual burden of 539 hours per firm and $8,256 in costs and a total industry burden of 2,449,755 hours and $37,523,520 in costs.⁹³¹ The Commission estimates that the proposed amendments to Rule 17a-3 would impose the following initial and annual burdens:

⁹³¹ See Commission, Supporting Statement for the Paperwork Reduction Act Information Collection Submission for Rule 17a-3 (Mar. 28, 2011), available at http://www.reginfo.gov/public/do/DownloadDocument?documentID=238297&version=1.

Burden | Initial burden | Annual burden
New security-based swap records ⁹³² | Per firm: 30 hours Industry: 1,260 hours | Per firm: 42 hours. Industry: 1,764 hours.
New burdens applicable to broker-dealer SBSDs and broker-dealer MSBSPs ⁹³³ | Per firm: 60 hours Industry: 1,020 hours | Per firm: 75 hours. Industry: 1,275 hours.
New burdens applicable to broker-dealer SBSDs ⁹³⁴ | Per firm: 60 hours Industry: 960 hours | Per firm: 75 hours. Industry: 1,200 hours.
New burdens applicable to ANC broker-dealers ⁹³⁵ | Per firm: 20 hours Industry: 200 hours | Per firm: 25 hours. Industry: 250 hours.
Total—Proposed amendments to Rule 17a-3 | Industry: 3,440 hours | Industry: 4,489 hours.

The Commission estimates that proposed Rule 18a-5 would impose the following initial and annual burdens:

⁹³² See paragraphs (a)(1), (a)(3), (a)(5)(ii), (a)(6)(ii), (a)(7)(ii), (a)(8)(ii), and (a)(9)(iv) of Rule 17a-3, as proposed to be amended.

⁹³³ See paragraphs (a)(25), (a)(28), and (a)(30) of Rule 17a-3, as proposed to be amended.

⁹³⁴ See paragraphs (a)(26), (a)(27), and (a)(29) of Rule 17a-3, as proposed to be amended.

⁹³⁵ See paragraph (a)(24) of Rule 17a-3, as proposed to be amended.

Burden | Initial burden | Annual burden
Burdens applicable to stand-alone SBSDs and stand-alone MSBSPs ⁹³⁶ | Per firm: 260 hours and $1,000 Industry: 3,380 hours and $13,000 | Per firm: 325 hours and $4,650. Industry: 4,225 hours and $60,450.
Burdens applicable to stand-alone SBSDs ⁹³⁷ | Per firm: 60 hours Industry: 540 hours | Per firm: 75 hours. Industry: 675 hours.
Burdens applicable to ANC stand-alone SBSDs ⁹³⁸ | Per firm: 20 hours Industry: 120 hours | Per firm: 25 hours. Industry: 150 hours.
Burdens applicable to bank SBSDs and bank MSBSPs ⁹³⁹ | Per firm: 200 hours Industry: 5,000 hours | Per firm: 250 hours. Industry: 6,250 hours.
Burdens applicable to bank SBSDs ⁹⁴⁰ | Per firm: 60 hours Industry: 1,500 hours | Per firm: 75 hours. Industry: 1,875 hours.
Total—Proposed Rule 18a-5 | Industry: 10,540 hours and $13,000 | Industry: 13,175 hours and $60,450.

Estimated Ongoing Hours and Costs of Current Rule 17a-3

In the Supporting Statement accompanying the most recent extension of Rule 17a-3's collection, the estimated ongoing burden for a registered broker-dealer to make and keep current the books and records required by Rule 17a-3 averages out to 539 hours per year and $8,256 per year (after adjusting for increases in postage prices), although actual recordkeeping requirements vary depending on the broker-dealer's size and complexity.⁹⁴¹ Given that 4,545 broker-dealers were registered with the Commission as of April 1, 2013, current Rule 17a-3 creates an estimated industry-wide ongoing annual burden of 2,449,755 hours ⁹⁴² and $37,523,520.⁹⁴³

⁹³⁶ See paragraphs (a)(1) through (a)(10), (a)(12), (a)(15), and (a)(17) of proposed Rule 18a-5.

⁹³⁷ See paragraphs (a)(13), (a)(14), and (a)(16) of proposed Rule 18a-5.

⁹³⁸ See paragraph (a)(11) of proposed Rule 18a-5.

⁹³⁹ See paragraphs (b)(1) through (b)(8), (b)(11), and (b)(13) of proposed Rule 18a-5.

⁹⁴⁰ See paragraphs (b)(9), (b)(10), and (b)(12) of proposed Rule 18a-5.

⁹⁴¹ See Supporting Statement for the Paperwork Reduction Act Information Collection Submission for Rule 17a-3 at 9 (2,723,970 hours/year/5,057 registered broker-dealers = 539 hours/year per registered broker-dealer).

⁹⁴² 539 hours/year × 4,545 registered broker-dealers = 2,449,755 hours/year.

⁹⁴³ $8,256/year × 4,545 registered broker-dealers = $37,523,520/year.

Estimated Hours and Costs of Proposed Amendments to Rule 17a-3

Many of the proposed amendments to Rule 17a-3 are not expected to impose an initial burden. Most of the additional proposed amendments discussed in section II.A.2.b. of this release are largely clarifying changes that should not impose an hour burden or costs. With respect to the proposed new records required by the proposed amendments to Rule 17a-3, these are not expected to impose initial dollar costs because firms should already own or have established the requisite recordkeeping system software. Firms will likely need to program software to begin collecting additional records and may need to update their compliance manuals to reflect that certain paragraphs of Rule 17a-3 have been proposed to be re-numbered. The Commission expects these services to be performed in-house, and these hourly burdens are estimated below.

The Commission does not expect there to be a burden associated with its proposal to modify the definition of securities regulatory authority to include the CFTC and prudential regulators to the extent they oversee security-based swap activities, because the Commission does not expect any broker-dealers to dually register as banks and estimates that thirty-four broker-dealers would be dually registered as FCMs,⁹⁴⁴ swap dealers, and/or major swap participants.⁹⁴⁵ In the three instances that securities regulatory authority is mentioned, the broker-dealer must provide certain information to its securities regulatory authority if the firm does not make the required record or memorandum containing the information and the information is requested by the securities regulatory authority.⁹⁴⁶ The Commission understands that it is already industry practice to make the required record and memorandum of the information in these three instances (especially among more sophisticated entities dually registered with the Commission and the CFTC), and therefore the Commission does not believe that this proposed amendment would impose an additional burden.

⁹⁴⁴ The Commission estimates that 34 broker-dealers are dually registered as FCMs−17 non-SBSD/MSBSP broker-dealers, 16 broker-dealer SBSDs, and 1 broker-dealer MSBSP. As of March 31, 2013, 34 broker-dealers reported a positive value on Line Item 7060 of the FOCUS Report (amount required to be segregated under CFTC rules), which is a line item that is only filled in by FCMs.

⁹⁴⁵ The Commission estimates that all 17 estimated broker-dealer FCM SBSDs and broker-dealer FCM MSBSPs would also register as swap dealers or major swap participants. See Registration of Security-Based Swap Dealers and Major Security-Based Swap Participants, 76 FR 65814 (estimating that 35 SBSDs or MSBSPs would also be registered with the CFTC as swap dealers or major swap participants).

⁹⁴⁶ See paragraphs (a)(6)(i), (a)(7)(i), and (a)(19)(i) of Rule 17a-3, as proposed to be amended.

The Commission proposes to eliminate three exemptions from Rule 17a-3 which should not affect the burden of complying with Rule 17a-3. Paragraph (b)(2) exempts transactions cleared by a bank if the bank keeps the requisite records for the broker-dealer,⁹⁴⁷ but the Commission believes that this exemption is not relied on. Paragraph (c) exempts records of certain U.S. bond sales ⁹⁴⁸ and paragraph (d) exempts records of certain de minimis cash transactions,⁹⁴⁹ but the Commission believes these transactions are currently automatically recorded as a matter of practice because it likely takes more time to identify these transactions as exempt than to make and keep records of these transactions.

⁹⁴⁷ See 17 CFR 240.17a-3(b)(2).

⁹⁴⁸ See 17 CFR 240.17a-3(c).

⁹⁴⁹ See 17 CFR 240.17a-3(d).

The Commission proposes to amend paragraphs (a)(1), (a)(3), (a)(5), (a)(6), (a)(7), (a)(8), and (a)(9) of Rule 17a-3 to include a provision requiring broker-dealers to make and keep current various records for security-based swaps.⁹⁵⁰ The Commission estimates that the proposed amendments to paragraphs (a)(1), (a)(3), (a)(5), (a)(6), (a)(7), (a)(8), and (a)(9) of Rule 17a-3 would impose on each broker-dealer that engages in security-based swap activities an initial burden of thirty hours and an ongoing burden of approximately ten minutes per business day, or forty-two hours per year.⁹⁵¹ The Commission estimates that there are forty-two respondents—sixteen broker-dealer SBSDs, one broker-dealer MSBSP, and twenty-five non-SBSD/MSBSP broker-dealers engaged in security-based swap activities.⁹⁵² Thus, these proposed amendments would add to the industry an estimated initial burden of 1,260 hours ⁹⁵³ and an ongoing burden of 1,764 hours per year.⁹⁵⁴

⁹⁵⁰ The provision for securities other than security-based swaps would largely mirror the paragraph's current text. See paragraphs (a)(1), (a)(3), (a)(5)(i), (a)(6)(i), (a)(7)(i), (a)(8)(i), and (a)(9)(i) through (iii) of Rule 17a-3, as proposed to be amended. The provision for security-based swaps would tailor to security-based swaps the type of records the broker-dealer must make and keep current. See paragraphs (a)(1), (a)(3), (a)(5)(ii), (a)(6)(ii), (a)(7)(ii), (a)(8)(ii), and (a)(9)(iv) of Rule 17a-3, as proposed to be amended.

⁹⁵¹ (10 minutes/business day/60 minutes/hour) × 251 business days/year = 42 hours/year. There are 251 non-weekend days in 2013. The Commission does not include U.S. public holidays in estimating the number of business days per year, given that many broker-dealers trading security-based swaps operate internationally.

⁹⁵² 16 broker-dealer SBSDs + 1 broker-dealer MSBSP + 25 non-SBSD/MSBSP broker-dealers engaged in security-based swap activities = 42 broker-dealers engaged in security-based swap activities.

⁹⁵³ 30 hours/year × 42 broker-dealers engaged in security-based swap activities = 1,260 hours/year. These internal hours likely would be performed by a compliance manager.

⁹⁵⁴ 42 hours/year × 42 broker-dealers engaged in security-based swap activities = 1,764 hours/year. These internal hours likely would be performed by a compliance clerk.

The proposed amendments to Rule 17a-3 would require three additional types of records to be made and kept current by broker-dealer SBSDs and broker-dealer MSBSPs.⁹⁵⁵ Because the burden to run the applicable calculation or comply with the applicable standard is accounted for in the PRA estimates for proposed Rules 18a-3,⁹⁵⁶ 15Fi-1,⁹⁵⁷ 15Fh-1 through 15Fh-5, and 15Fk-1,⁹⁵⁸ the burden imposed by these new requirements is the requirement to make and keep current a written record of these tasks. The Commission estimates that paragraphs (a)(25), (a)(28), and (a)(30) of Rule 17a-3, as proposed to be amended, would impose an initial burden of 60 hours per firm and an ongoing annual burden of seventy-five hours per firm. The Commission estimates that there are seventeen respondents (sixteen broker-dealer SBSDs and one broker-dealer MSBSP), adding to the industry an initial burden of 1,020 hours ⁹⁵⁹ and an ongoing burden of 1,275 hours per year.⁹⁶⁰

⁹⁵⁵ See paragraphs (a)(25), (a)(28), and (a)(30) of Rule 17a-3, as proposed to be amended (proposing recordkeeping requirements for Rule 18a-3 calculations, unverified transactions, and compliance with external business conduct requirements, respectively).

⁹⁵⁶ See Capital, Margin, and Segregation Requirements for Security-Based Swap Dealers and Major Security-Based Swap Participants and Capital Requirements for Broker-Dealers, 77 FR 70297.

⁹⁵⁷ See Trade Acknowledgment and Verification of Security-Based Swap Transactions, 76 FR 3869-3870.

⁹⁵⁸ See Business Conduct Standards for Security-Based Swap Dealers and Major Security-Based Swap Participants, 76 FR 42443-42448.

⁹⁵⁹ 60 hours × 17 broker-dealer SBSDs and broker-dealer MSBSPs = 1,020 hours. These internal hours likely would be performed by a compliance manager.

⁹⁶⁰ 75 hours/year × 17 broker-dealer SBSDs and broker-dealer MSBSPs = 1,275 hours/year. These internal hours likely would be performed by a compliance clerk.

The proposed amendments to Rule 17a-3 would require three additional types of records to be made and kept current by broker-dealer SBSDs.⁹⁶¹ Because the burden to run the applicable calculation or comply with the applicable standard is accounted for in the PRA estimates for proposed Rules 18a-4 ⁹⁶² and 15Fh-6,⁹⁶³ the burden imposed by these new requirements is the requirement to make and keep current a written record of these tasks. The Commission estimates that paragraphs (a)(26), (a)(27), and (a)(29) of Rule 17a-3, as proposed to be amended, would impose an initial burden of sixty hours per firm and an ongoing annual burden of seventy-five hours per firm. The Commission estimates that there are sixteen broker-dealer SBSDs, adding to the industry an initial burden of 960 hours ⁹⁶⁴ and an ongoing burden of 1,200 hours per year.⁹⁶⁵

⁹⁶¹ See Rule 17a-3, as proposed to be amended (paragraph (a)(26) (compliance with proposed Rule 18a-4 possession or control requirements); paragraph (a)(27) (proposed Rule 18a-4 reserve account computations); and paragraph (a)(29) (political contributions)).

⁹⁶² See Capital, Margin, and Segregation Requirements for Security-Based Swap Dealers and Major Security-Based Swap Participants and Capital Requirements for Broker-Dealers, 77 FR 70297-70299.

⁹⁶³ See Business Conduct Standards for Security-Based Swap Dealers and Major Security-Based Swap Participants, 76 FR 42447.

⁹⁶⁴ 60 hours × 16 broker-dealer SBSDs = 960 hours. These internal hours likely would be performed by a compliance manager.

⁹⁶⁵ 75 hours/year × 16 broker-dealer SBSDs = 1,200 hours/year. These internal hours likely would be performed by a compliance clerk.

The Commission proposes to add paragraph (a)(24) to Rule 17a-3, which would require ANC broker-dealers to make and keep current certain records relating to the firm's monthly liquidity stress test.⁹⁶⁶ Because the burden of actually performing the liquidity stress test and creating a liquidity funding plan is already accounted for in the PRA estimate for Rule 15c3-1, as proposed to be amended,⁹⁶⁷ the burden imposed by paragraph (a)(24) of Rule 17a-3, as proposed to be amended, is the requirement to make and keep current a written record of these tasks. The Commission estimates that paragraph (a)(24) would impose on each ANC broker-dealer an initial burden of twenty hours and an ongoing burden of twenty-five hours per year. The Commission estimates that there are ten ANC broker-dealers (all of which are assumed to be dually registered as SBSDs), adding to the industry an initial burden of 200 hours ⁹⁶⁸ and an ongoing burden of 250 hours per year.⁹⁶⁹

⁹⁶⁶ See paragraph (a)(24) of Rule 17a-3, as proposed to be amended.

⁹⁶⁷ See Capital, Margin, and Segregation Requirements for Security-Based Swap Dealers and Major Security-Based Swap Participants and Capital Requirements for Broker-Dealers, 77 FR 70294.

⁹⁶⁸ 20 hours × 10 ANC broker-dealers = 200 hours. These internal hours likely would be performed by a compliance manager.

⁹⁶⁹ 25 hours/year × 10 ANC broker-dealers = 250 hours/year. These internal hours likely would be performed by a compliance clerk.

Estimated Hours and Costs of Proposed Rule 18a-5

Dollar Costs. The Commission estimates that proposed Rule 18a-5 would cause a stand-alone SBSD or stand-alone MSBSP to incur an initial dollar cost of approximately $1,000 to purchase recordkeeping system software and an ongoing dollar cost of $4,650 per year for associated equipment and systems development. The Commission estimates that there are thirteen respondents (nine stand-alone SBSDs and four stand-alone MSBSPs), resulting in an estimated industry-wide initial burden of $13,000 ⁹⁷⁰ and an industry-wide ongoing burden of $60,450 per year.⁹⁷¹

⁹⁷⁰ $1,000 × 13 stand-alone SBSDs and stand-alone MSBSPs = $13,000.

⁹⁷¹ $4,650/year × 13 stand-alone SBSDs and stand-alone MSBSPs = $60,450/year.

Proposed Rule 18a-5 is not expected to increase the initial and ongoing dollar costs that bank SBSDs and bank MSBSPs incur to purchase recordkeeping system software and for equipment and systems development. Banks are already subject to recordkeeping requirements by the prudential regulators,⁹⁷² so they already own or have established the requisite recordkeeping system software. Although bank SBSDs and bank MSBSPs may need to program the software to begin collecting additional records, the Commission expects these services to be performed in-house, and these hour burdens are estimated below.

⁹⁷² See, e.g., 12 CFR 12.3 (Department of Treasury); 12 CFR 219.21 et seq. (Federal Reserve); 12 CFR 344.4 (FDIC).

Hour Burden. Proposed Rule 18a-5 would require thirteen types of records to be made and kept current by stand-alone SBSDs and stand-alone MSBSPs.⁹⁷³ Proposed Rule 18a-5 imposes the burden to make and keep current these records, but does not require the firm to perform the underlying task.⁹⁷⁴ Therefore, after consideration of the estimated burdens under Rule 17a-3, as proposed to be amended, the Commission estimates that paragraphs (a)(1) through (a)(10), (a)(12), (a)(15), and (a)(17) of proposed Rule 18a-5 would impose on each firm an initial burden of 260 hours and an ongoing annual burden of 325 hours. The Commission estimates that there are thirteen respondents (nine stand-alone SBSDs and four stand-alone MSBSPs), resulting in an estimated industry-wide initial burden of 3,380 hours ⁹⁷⁵ and an industry-wide ongoing annual burden of 4,225 hours.⁹⁷⁶

⁹⁷³ See proposed Rule 18a-5 (paragraph (a)(1) (trade blotters); paragraph (a)(2) (general ledgers); paragraph (a)(3) (ledgers of customer and non-customer accounts); paragraph (a)(4) (stock record); paragraph (a)(5) (memoranda of proprietary orders); paragraph (a)(6) (confirmations); paragraph (a)(7) (accountholder information); paragraph (a)(8) (options positions); paragraph (a)(9) (trial balances and computation of net capital); paragraph (a)(10) (associated person's application); paragraph (a)(12) (proposed Rule 18a-3 calculations); paragraph (a)(15) (unverified transactions); paragraph (a)(17) (compliance with external business conduct standards)).

⁹⁷⁴ In estimating the burden associated with proposed Rules 18a-5 and 18a-6, the Commission recognizes that entities that would register stand-alone SBSDs and stand-alone MSBSPs likely make and keep some records today as a matter of routine business practice, but the Commission does not have information about the records that such entities currently keep. Therefore, the Commission is estimating the PRA burden for these entities based on the assumption that they currently keep no records.

⁹⁷⁵ 260 hours × 13 stand-alone SBSDs and stand-alone MSBSPs = 3,380 hours. These internal hours likely would be performed by a compliance manager.

⁹⁷⁶ 325 hours/year × 13 stand-alone SBSDs and stand-alone MSBSPs = 4,225 hours/year. These internal hours likely would be performed by a compliance clerk.

Proposed Rule 18a-5 would require three types of records to be made and kept current by stand-alone SBSDs.⁹⁷⁷ Because the burden to run the applicable calculation or comply with the applicable standard is accounted for in the PRA estimates for proposed Rules 18a-4 ⁹⁷⁸ and 15Fh-6, ⁹⁷⁹ the burden imposed by these new requirements is the requirement to make and keep current a written record of these tasks. The Commission estimates that paragraphs (a)(13), (a)(14), and (a)(16) of proposed Rule 18a-5 would impose an initial burden of sixty hours per firm and an ongoing annual burden of seventy-five hours per firm. The Commission estimates that there are nine stand-alone SBSDs, resulting in an industry-wide initial burden of 540 hours ⁹⁸⁰ and an industry-wide ongoing burden of 675 hours per year.⁹⁸¹

⁹⁷⁷ See proposed Rule 18a-5 (paragraph (a)(13) (compliance with proposed Rule 18a-4 possession or control requirements); paragraph (a)(14) (proposed Rule 18a-4 reserve account computations); and paragraph (a)(16) (political contributions)).

⁹⁷⁸ See Capital, Margin, and Segregation Requirements for Security-Based Swap Dealers and Major Security-Based Swap Participants and Capital Requirements for Broker-Dealers, 77 FR 70297-70299.

⁹⁷⁹ See Business Conduct Standards for Security-Based Swap Dealers and Major Security-Based Swap Participants, 76 FR 42447.

⁹⁸⁰ 60 hours × 9 stand-alone SBSDs = 540 hours. These internal hours likely would be performed by a compliance manager.

⁹⁸¹ 75 hours/year × 9 stand-alone SBSDs = 675 hours/year. These internal hours likely would be performed by a compliance clerk.

Paragraph (a)(11) of proposed Rule 18a-5 would require ANC stand-alone SBSDs to make and keep current certain records relating to the monthly liquidity stress test.⁹⁸² Because the burden of actually performing the liquidity stress test and creating a liquidity funding plan is already accounted for in the PRA estimate for proposed Rule 18a-1,⁹⁸³ the burden imposed by paragraph (a)(11) of proposed Rule 18a-5 is the requirement to make and keep current a written record of these tasks. The Commission estimates that paragraph (a)(11) would impose on each ANC broker-dealer an initial burden of twenty hours and an ongoing burden of twenty-five hours per year. The Commission estimates that there are six ANC stand-alone SBSDs, resulting in an industry-wide initial burden of 120 hours ⁹⁸⁴ and an industry-wide ongoing burden of 150 hours per year.⁹⁸⁵

⁹⁸² See paragraph (a)(11) of proposed Rule 18a-5.

⁹⁸³ See Capital, Margin, and Segregation Requirements for Security-Based Swap Dealers and Major Security-Based Swap Participants and Capital Requirements for Broker-Dealers, 77 FR 70294.

⁹⁸⁴ 20 hours × 6 ANC stand-alone SBSDs = 120 hours. These internal hours likely would be performed by a compliance manager.

⁹⁸⁵ 25 hours/year × 6 ANC stand-alone SBSDs = 150 hours/year. These internal hours likely would be performed by a compliance clerk.

Proposed Rule 18a-5 would require ten types of records to be made and kept current by bank SBSDs and bank MSBSPs, all of which are limited to the firm's business as an SBSD or MSBSP.⁹⁸⁶ Proposed Rule 18a-5 imposes the burden to make and keep current these records, but does not require the firm to perform the underlying task. Therefore, after consideration of the estimated burdens under Rule 17a-3, as proposed to be amended, the Commission estimates that paragraphs (b)(1) through (b)(8), (b)(11), and (b)(13) of proposed Rule 18a-5 would impose on each firm an initial burden of 200 hours per firm and an ongoing burden of 250 hours per firm. The Commission estimates that there are twenty-five respondents (twenty-five bank SBSDs and no bank MSBSPs), resulting in an estimated industry-wide initial burden of 5,000 hours ⁹⁸⁷ and an industry-wide ongoing burden of 6,250 hours per year.⁹⁸⁸

⁹⁸⁶ See proposed Rule 18a-5 (paragraph (b)(1) (trade blotters); paragraph (b)(2) (general ledgers); paragraph (b)(3) (stock record); paragraph (b)(4) (memoranda of brokerage orders); paragraph (b)(5) (memoranda of proprietary orders); paragraph (b)(6) (confirmations); paragraph (b)(7) accountholder information); paragraph (b)(8) (associated person's application); paragraph (b)(11) (unverified transactions); and paragraph (b)(13) (compliance with external business conduct requirements)).

⁹⁸⁷ 200 hours × 25 bank SBSDs = 5,000 hours. These internal hours likely would be performed by a compliance manager.

⁹⁸⁸ 250 hours/year × 25 bank SBSDs = 6,250 hours/year. These internal hours likely would be performed by a compliance clerk.

Proposed Rule 18a-5 would require three types of records to be made and kept current by bank SBSDs, all of which are limited to the firm's business as an SBSD.⁹⁸⁹ Because the burden to run the applicable calculation or comply with the applicable standard is accounted for in the PRA estimates for proposed Rules 18a-4⁹⁹⁰ and 15Fh-6,⁹⁹¹ the burden imposed by these new requirements is the requirement to make and keep current a written record of these tasks. The Commission estimates that paragraphs (b)(9), (b)(10), and (b)(12) of proposed Rule 18a-5 would impose an initial burden of sixty hours per firm and an ongoing annual burden of seventy-five hours per firm. The Commission estimates that there are twenty-five bank SBSDs, resulting in an industry-wide initial burden of 1,500 hours⁹⁹² and an industry-wide ongoing burden of 1,875 hours per year.⁹⁹³

⁹⁸⁹ See proposed Rule 18a-5 (paragraph (b)(9) (compliance with proposed Rule 18a-4 possession or control requirements); paragraph (b)(10) (proposed Rule 18a-4 reserve account computations); and paragraph (b)(12) (political contributions)).

⁹⁹⁰ See Capital, Margin, and Segregation Requirements for Security-Based Swap Dealers and Major Security-Based Swap Participants and Capital Requirements for Broker-Dealers, 77 FR 70297-70299.

⁹⁹¹ See Business Conduct Standards for Security-Based Swap Dealers and Major Security-Based Swap Participants, 76 FR 42447.

⁹⁹² 60 hours × 25 bank SBSDs = 1,500 hours. These internal hours likely would be performed by a compliance manager.

⁹⁹³ 75 hours/year × 25 bank SBSDs = 1,875 hours/year. These internal hours likely would be performed by a compliance clerk.

2. Proposed Amendments to Rule 17a-4 and Proposed Rule 18a-6

The proposed amendments to Rule 17a-4 and proposed Rule 18a-6 would impose collection of information requirements that result in initial and ongoing burdens for broker-dealers, SBSDs, MSBSPs, and certain third-party custodians. Current Rule 17a-4 imposes an estimated annual burden of 254 hours per firm and $5,000 and a total industry burden of 1,196,086 hours and $23,545,000.⁹⁹⁴ The Commission estimates that the proposed amendments to Rule 17a-4 would impose the following initial and annual burdens:

⁹⁹⁴ See Commission, Supporting Statement for the Paperwork Reduction Act Information Collection Submission for Rule 17a-4 (Sept. 12, 2013), available at http://www.reginfo.gov/public/do/DownloadDocument?documentID=422180&version=0.

Burden | Initial burden | Annual burden
Recorded telephone calls ⁹⁹⁵ | Per firm: 13 hours Industry: 221 hours | Per firm: 6 hours and $2,000 Industry: 102 hours and $34,000.
New burdens applicable to all broker-dealers ⁹⁹⁶ | Per firm: 39 hours Industry: 1,638 hours | Per firm: 18 hours and $360 Industry: 756 hours and $15,120.
New burdens applicable to broker-dealer SBSDs and broker-dealer MSBSPs ⁹⁹⁷ | Per firm: 65 hours Industry: 1,105 hours | Per firm: 30 hours and $600 Industry: 510 hours and $10,200.
New burdens applicable to broker-dealer SBSDs ⁹⁹⁸ | Per firm: 39 hours Industry: 624 hours | Per firm: 18 hours and $360 Industry: 288 hours and $5,760.
New burdens applicable to ANC broker-dealers ⁹⁹⁹ | Per firm: 13 hours Industry: 130 hours | Per firm: 6 hours and $120 Industry: 60 hours and $1,200.
Total—Proposed amendments to Rule 17a-4 | Industry: 3,718 hours | Industry: 1,716 hours and $66,280.

The Commission estimates that proposed Rule 18a-6 would impose the following initial and annual burdens:

⁹⁹⁵ See paragraph (b)(4) of Rule 17a-4, as proposed to be amended.

⁹⁹⁶ See paragraphs (b)(1), (b)(8)(v) through (viii), (b)(8)(xvi), and (b)(14) of Rule 17a-4, as proposed to be amended.

⁹⁹⁷ See paragraphs (b)(1), (b)(15), and (b)(16) of Rule 17a-4, as proposed to be amended.

⁹⁹⁸ See paragraph (b)(1) of Rule 17a-4, as proposed to be amended.

⁹⁹⁹ See paragraph (b)(1) of Rule 17a-4, as proposed to be amended.

Burden | Initial burden | Annual burden
Burdens applicable to stand-alone SBSDs and stand-alone MSBSPs ¹⁰⁰⁰ | Per firm: 364 hours Industry: 4,732 hours | Per firm: 280 hours and $5,720. Industry: 3,640 hours and $74,360.
Burdens applicable to stand-alone SBSDs ¹⁰⁰¹ | Per firm: 44 hours Industry: 396 hours | Per firm: 30 hours and $360. Industry: 270 hours and $3,240.
Burdens applicable to ANC stand-alone SBSDs ¹⁰⁰² | Per firm: 31 hours Industry: 186 hours | Per firm: 20 hours and $240. Industry: 120 hours and $1,440.
Burdens applicable to bank SBSDs and bank MSBSPs ¹⁰⁰³ | Per firm: 247 hours Industry: 6,175 hours | Per firm: 190 hours and $4,520. Industry: 4,750 hours and $113,000.
Burdens applicable to bank SBSDs ¹⁰⁰⁴ | Per firm: 57 hours Industry: 1,425 hours | Per firm: 40 hours and $480. Industry: 1,000 hours and $12,000.
Burdens applicable to third-party custodians ¹⁰⁰⁵ | Per firm: 0 hours Industry: 0 hours | Per firm: 2 hours. Industry: 38 hours.
Total—Proposed Rule 18a-6 | Industry: 12,914 hours | Industry: 9,818 hours and $204,078.

Estimated Hours and Costs of Current Rule 17a-4

¹⁰⁰⁰ See paragraphs (a)(1), (b)(1)(i) through (ix), (b)(1)(xi) through (xiii), (c), (d)(1), (d)(2)(i), and (d)(3)(i) of proposed Rule 18a-6.

¹⁰⁰¹ See paragraph (b)(1)(i) of proposed Rule 18a-6.

¹⁰⁰² See paragraphs (b)(1)(i) and (b)(1)(x) of proposed Rule 18a-6.

¹⁰⁰³ See paragraphs (a)(2), (b)(2)(i) through (iv), (b)(2)(vi) through (viii), (d)(1), (d)(2)(ii), and (d)(3)(ii) of proposed Rule 18a-6.

¹⁰⁰⁴ See paragraphs (b)(2)(i) and (b)(2)(v) of proposed Rule 18a-6.

¹⁰⁰⁵ See paragraph (f) of proposed Rule 18a-6.

The Supporting Statement accompanying the most recent extension of Rule 17a-4's collection estimates that each registered broker-dealer spends 254 hours to ensure it is in compliance with Rule 17a-4 and produce records promptly when required, and $5,000 each year on physical space and computer hardware and software to store the requisite documents and information.¹⁰⁰⁶ Given that 4,545 broker-dealers were registered with the Commission as of April 1, 2013, current Rule 17a-4 creates an estimated industry-wide ongoing annual cost of 1,154,430 hours ¹⁰⁰⁷ and $22,725,000.¹⁰⁰⁸

¹⁰⁰⁶ See Supporting Statement for the Paperwork Reduction Act Information Collection Submission for Rule 17a-4.

¹⁰⁰⁷ 254 hours/year × 4,545 registered broker-dealers = 1,154,430 hours/year.

¹⁰⁰⁸ $5,000/year × 4,545 registered broker-dealers = $22,725,000/year.

Estimated Hours and Costs of Proposed Amendments to Rule 17a-4

Many of the proposed amendments to Rule 17a-4 are not expected to change the estimated burden imposed by Rule 17a-4. Most of the additional proposed amendments discussed in section II.A.3.b. of this release are largely clarifying changes that do not affect the Commission's burden estimate. Similarly, paragraph (m)(5) of Rule 17a-4, as proposed to be amended, which adds a definition for business as such,¹⁰⁰⁹ is a clarifying amendment that should not affect the rule's burden.

¹⁰⁰⁹ See paragraph (m)(5) of Rule 17a-4, as proposed to be amended.

The Commission believes there is no burden associated with its proposal that a broker-dealer retain a record of the proof of money balances of all ledger accounts in the form of trial balances, and a record of the computation of aggregate indebtedness and net capital.¹⁰¹⁰ Since Rule 17a-3 requires broker-dealers to make these records, the Commission understands that it is already industry practice for broker-dealers to also keep these records. In addition, Rule 17a-4 already requires broker-dealers to keep records containing substantially similar information,¹⁰¹¹ so that the same record would likely also include the information required by this proposed amendment to Rule 17a-4.

¹⁰¹⁰ See paragraph (b)(1) of Rule 17a-4, as proposed to be amended (cross-referencing paragraph (a)(11) of Rule 17a-3, as proposed to be amended (proof of money balances)).

¹⁰¹¹ See Rule 17a-4, as proposed to be amended (paragraph (b)(5) (trial balances, computations of aggregate indebtedness and net capital); paragraph (b)(8)(i) (money balance and position in securities accounts payable to customers); paragraph (b)(8)(i) (money balance and position in securities accounts payable to non-customers)).

The Commission believes there is no burden associated with its proposal that a security-based swap customer or non-customer's written agreements be maintained with his or her account records,¹⁰¹² because the Commission understands that it is already industry practice to keep written agreements with the relevant person's account records.

¹⁰¹² See paragraph (b)(4) of Rule 17a-4, as proposed to be amended.

Certain proposed amendments to Rule 17a-4 would require broker-dealer SBSDs and broker-dealer MSBSPs to retain certain new records but would no longer require them to retain other records required to be kept by non-SBSD/MSBSP broker-dealers. Specifically, broker-dealer SBSDs and broker-dealer MSBSPs must preserve proposed Form SBS instead of Form X-17A-5,¹⁰¹³ possession or control information for security-based swap customers under proposed Rule 18a-4 instead of under Rule 15c3-3,¹⁰¹⁴ and Forms SBSE-BD and SBSE-W instead of Forms BD and BDW.¹⁰¹⁵ These proposed amendments are not expected to significantly change the number of documents that the broker-dealer must preserve, but simply the type of document that must be preserved—a factor that is not expected to affect Rule 17a-4's burden.

¹⁰¹³ See paragraph (b)(8) of Rule 17a-4, as proposed to be amended.

¹⁰¹⁴ See paragraph (b)(8)(xiv) of Rule 17a-4, as proposed to be amended.

¹⁰¹⁵ See paragraph (d) of Rule 17a-4, as proposed to be amended.

The Commission proposes to amend paragraph (b)(4) of Rule 17a-4 to require broker-dealer SBSDs and broker-dealer MSBSPs to retain telephone calls that have already been recorded and are related to the broker-dealer SBSD's and broker-dealer MSBSP's security-based swap business.¹⁰¹⁶ Paragraph (b)(4) of Rule 17a-4, as proposed to be amended, only requires the retention of telephonic recordings the broker-dealer SBSD or broker-dealer MSBSP voluntarily chooses to record, so the Commission's burden estimate does not include the cost of recording phone calls. Therefore, the burdens imposed by the proposed amendment would be to provide adequate physical space and computer hardware and software for storage. The Commission estimates that the proposed amendment to paragraph (b)(4) of Rule 17a-4 would impose an initial burden of 13 hours per firm. The Commission estimates that there are seventeen respondents (sixteen broker-dealer SBSDs and one broker-dealer MSBSP), resulting in an estimated industry-wide initial burden of 221 hours.¹⁰¹⁷

¹⁰¹⁶ See paragraph (b)(4) of Rule 17a-4, as proposed to be amended.

¹⁰¹⁷ 13 hours × 17 broker-dealer SBSDs and broker-dealer MSBSPs = 221 hours. These internal hours likely would be performed by a senior database administrator.

The Commission estimates that each firm would incur an annual burden of approximately six hours to confirm that telephonic communications are being retained in accordance with Rule 17a-4, and approximately $2,000 for server, equipment, and systems development costs. The Commission estimates that there are seventeen respondents (sixteen broker-dealer SBSDs and one broker-dealer MSBSP), resulting in an estimated industry-wide ongoing annual cost of 102 hours ¹⁰¹⁸ and $34,000.¹⁰¹⁹

¹⁰¹⁸ 6 hours × 17 broker-dealer SBSDs and broker-dealer MSBSPs = 102 hours. These internal hours likely would be performed by a compliance clerk.

¹⁰¹⁹ $2,000 × 17 broker-dealer SBSDs and broker-dealer MSBSPs = $34,000.

The proposed amendments to Rule 17a-4 would add three types of records to be preserved by broker-dealers.¹⁰²⁰ Because the burden to create these records is already accounted for in the PRA estimates for Rule 17a-3,¹⁰²¹ Rule 15c3-1,¹⁰²² or in proposed Regulation SBSR,¹⁰²³ the burdens imposed by these new requirements are to ensure there is adequate physical space and computer hardware and software for storage, ensure these records are preserved for the requisite time period, and produce them when requested. The Commission estimates that the proposed amendments to paragraphs (b)(8)(v)-(viii) and proposed paragraphs (b)(8)(xvi) and (b)(14) of Rule 17a-4 would impose an initial burden of thirty-nine hours per firm and an ongoing annual burden of eighteen hours and $360 per firm. The Commission estimates that there are forty-two respondents—sixteen broker-dealer SBSDs, one broker-dealer MSBSP, and twenty-five non-SBSD/MSBSP broker-dealers engaged in security-based swap activities.¹⁰²⁴ Thus, these proposed amendments would add to the industry an estimated initial burden of 1,638 hours ¹⁰²⁵ and an ongoing annual burden of 756 hours ¹⁰²⁶ and $15,120.¹⁰²⁷

¹⁰²⁰ See Rule 17a-4, as proposed to be amended (paragraph (b)(8)(v) through (viii) (identifying information about swaps); paragraph (b)(8)(xvi) (risk margin calculation); and paragraph (b)(14) (Regulation SBSR information)).

¹⁰²¹ See id. See also Supporting Statement for the Paperwork Reduction Act Information Collection Submission for Rule 17a-3.

¹⁰²² See Commission, Supporting Statement for the Paperwork Reduction Act Information Collection Submission for Rule 15c3-1 (July 1, 2010), available at http://www.reginfo.gov/public/do/DownloadDocument?documentID=184515&version=1.

¹⁰²³ See Regulation SBSR—Reporting and Dissemination of Security-Based Swap Information, 75 FR 75246-75250.

¹⁰²⁴ 16 broker-dealer SBSDs + 1 broker-dealer MSBSP + 25 non-SBSD/MSBSP broker-dealers engaged in security-based swap activities = 42 broker-dealers engaged in security-based swap activities.

¹⁰²⁵ 39 hours × 42 respondents = 1,638 hours. These internal hours likely would be performed by a senior database administrator.

¹⁰²⁶ 18 hours/year × 42 respondents = 756 hours/year. These internal hours likely would be performed by a compliance clerk.

¹⁰²⁷ $360 × 42 respondents = $15,120.

The proposed amendments to Rule 17a-4 would add five types of records to be preserved by broker-dealer SBSDs and broker-dealer MSBSPs.¹⁰²⁸ Because the burden to create these records is accounted for in the PRA estimates for Rule 17a-3,¹⁰²⁹ or proposed Rules 15Fh-1 through 15Fh-5 and 15Fk-1,¹⁰³⁰ the burdens imposed by these proposed amendments are to ensure there is adequate physical space and computer hardware and software for storage, ensure these records are preserved for the requisite time period, and produce them when requested. The Commission estimates that the proposed amendments to paragraph (b)(1) and proposed new paragraphs (b)(15) and (b)(16) of Rule 17a-4 would impose an initial burden of sixty-five hours per firm and an ongoing annual burden of thirty hours and $600 per firm. The Commission estimates that there are seventeen respondents (sixteen broker-dealer SBSDs and one broker-dealer MSBSP), adding to the industry an initial burden of 1,105 hours¹⁰³¹ and an ongoing annual burden of 510 hours ¹⁰³² and $10,200.¹⁰³³

¹⁰²⁸ See Rule 17a-4, as proposed to be amended (paragraph (b)(1), cross-referencing paragraph (a)(25) of Rule 17a-3, as proposed to be amended (proposed Rule 18a-3 calculations); paragraph (b)(1), cross-referencing paragraph (a)(28) of Rule 17a-3, as proposed to be amended (unverified transactions); paragraph (b)(1), cross-referencing paragraph (a)(30) of Rule 17a-3, as proposed to be amended (compliance with external business conduct standards); paragraph (b)(15) (documents and notices related to the external business conduct standards); and paragraph (b)(16) (special entity documents).

¹⁰²⁹ See Commission, Supporting Statement for the Paperwork Reduction Act Information Collection Submission for Rule 17a-3. See also section IV.D.1. of this release.

¹⁰³⁰ See Business Conduct Standards for Security-Based Swap Dealers and Major Security-Based Swap Participants, 76 FR 42443-42448.

¹⁰³¹ 65 hours × 17 broker-dealer SBSDs and broker-dealer MSBSPs = 1,105 hours. These internal hours likely would be performed by a senior database administrator.

¹⁰³² 30 hours/year × 17 broker-dealer SBSDs and broker-dealer MSBSPs = 510 hours/year. These internal hours likely would be performed by a compliance clerk.

¹⁰³³ $600 × 17 broker-dealer SBSDs and broker-dealer MSBSPs = $10,200.

The proposed amendments to Rule 17a-4 would add three types of records to be preserved by broker-dealer SBSDs.¹⁰³⁴ Because the burden to create these records is accounted for in the PRA estimate for Rule 17a-3, as proposed to be amended,¹⁰³⁵ the burdens imposed by these new requirements are to ensure there is adequate physical space and computer hardware and software for storage, ensure these records are preserved for the requisite time period, and produce them when requested. The Commission estimates that the proposed amendments to paragraph (b)(1) of Rule 17a-4 would impose an initial burden of thirty-nine hours per firm and an ongoing annual burden of eighteen hours and $360 per firm. The Commission estimates that there are 16 broker-dealer SBSDs, adding to the industry an initial burden of 624 hours¹⁰³⁶ and an ongoing annual burden of 288 hours¹⁰³⁷ and $5,760.¹⁰³⁸

¹⁰³⁴ See paragraph (b)(1) of Rule 17a-4, as proposed to be amended (cross-referencing paragraph (a)(26) of Rule 17a-3, as proposed to be amended (compliance with proposed Rule 18a-4 possession or control requirements); paragraph (a)(27) of Rule 17a-3, as proposed to be amended (proposed Rule 18a-4 reserve account computations); and paragraph (a)(29) of Rule 17a-3, as proposed to be amended (political contributions)).

¹⁰³⁵ See section IV.D.1. of this release.

¹⁰³⁶ 39 hours × 16 broker-dealer SBSDs = 624 hours. These internal hours likely would be performed by a senior database administrator.

¹⁰³⁷ 18 hours/year × 16 broker-dealer SBSDs = 288 hours/year. These internal hours likely would be performed by a compliance clerk.

¹⁰³⁸ $360 × 16 broker-dealer SBSDs = $5,760.

Paragraph (b)(1) of Rule 17a-4, as proposed to be amended, would require ANC broker-dealers to preserve certain records relating to the firm's monthly liquidity stress test.¹⁰³⁹ Because the burden to create this record is accounted for in the PRA estimate for Rule 17a-3, as proposed to be amended,¹⁰⁴⁰ the burdens this new requirement would impose on ANC broker-dealers are to ensure there is adequate physical space and computer hardware and software for storage, ensure these records are preserved for the requisite time period, and produce them when requested. The Commission estimates that the proposed amendment to paragraph (b)(1) of Rule 17a-4 would impose an initial burden of thirteen hours per firm and an ongoing annual burden of six hours and $120 per firm. The Commission estimates that there are ten ANC broker-dealers (all of which are assumed to be dually registered as SBSDs), adding to the industry an initial burden of 130 hours¹⁰⁴¹ and an ongoing annual burden of sixty hours¹⁰⁴² and $1,200.¹⁰⁴³

¹⁰³⁹ See paragraph (b)(1) of Rule 17a-4, as proposed to be amended (cross-referencing paragraph (a)(24) of Rule 17a-3, as proposed to be amended).

¹⁰⁴⁰ See section IV.D.1. of this release.

¹⁰⁴¹ 13 hours × 10 ANC broker-dealers = 130 hours. These internal hours likely would be performed by a compliance manager and a senior database administrator.

¹⁰⁴² 6 hours/year × 10 ANC broker-dealers = 60 hours/year. These internal hours likely would be performed by a compliance clerk.

¹⁰⁴³ $120 × 10 ANC broker-dealers = $1,200.

Estimated Hours and Costs of Proposed Rule 18a-6

Proposed Rule 18a-6 would require twenty-seven types of records to be preserved by stand-alone SBSDs and stand-alone MSBSPs.¹⁰⁴⁴ Proposed Rule 18a-6 does not require the firm to create these records or perform the underlying task, so the burdens imposed by these requirements would be to provide adequate physical space and computer hardware and software for storage, preserve these records for the requisite time period, and produce them when requested.¹⁰⁴⁵ The Commission estimates that the proposed record preservation requirements applicable to stand-alone SBSDs and stand-alone MSBSPs would impose an initial burden of 364 hours,¹⁰⁴⁶ and an ongoing annual burden of 280 hours and $5,720 per firm. The Commission estimates that there are thirteen respondents (nine stand-alone SBSDs and four stand-alone MSBSPs), resulting in an estimated industry-wide initial burden of 4,732 hours,¹⁰⁴⁷ and an industry-wide ongoing annual burden of 3,640 hours¹⁰⁴⁸ and $74,360.¹⁰⁴⁹

¹⁰⁴⁴ See proposed Rule 18a-6 (paragraph (a)(1), cross-referencing paragraph (a)(1) of proposed Rule 18a-5 (trade blotters); paragraph (a)(1), cross-referencing paragraph (a)(2) of proposed Rule 18a-5 (general ledgers); paragraph (a)(1), cross-referencing paragraph (a)(3) of proposed Rule 18a-5 (ledgers of customer and non-customer accounts); paragraph (a)(1), cross-referencing paragraph (a)(4) of proposed Rule 18a-5 (stock record); paragraph (a)(1), cross-referencing paragraph (a)(5) of proposed Rule 18a-5 (memoranda of proprietary orders); paragraph (a)(1), cross-referencing paragraph (a)(6) of proposed Rule 18a-5 (confirmations); paragraph (a)(1), cross-referencing paragraph (a)(7) of proposed Rule 18a-5 (accountholder information); paragraph (a)(1), cross-referencing paragraph (a)(8) of proposed Rule 18a-5 (options positions); paragraph (a)(1), cross-referencing paragraph (a)(9) of proposed Rule 18a-5 (trial balances and computation of net capital); paragraph (a)(1), cross-referencing paragraph (a)(12) of proposed Rule 18a-5 (proposed Rule 18a-3 calculations); paragraph (a)(1), cross-referencing paragraph (a)(15) of proposed Rule 18a-5 (unverified transactions); paragraph (a)(1), cross-referencing paragraph (a)(17) of proposed Rule 18a-5 (compliance with external business conduct standards); paragraph (b)(1)(ii) (bank records); paragraph (b)(1)(iii) (bills); paragraph (b)(1)(iv) (communications); paragraph (b)(1)(v) (trial balances); paragraph (b)(1)(vi) (account documents); paragraph (b)(1)(vii) (written agreements); paragraph (b)(1)(viii) (information supporting financial reports); paragraph (b)(1)(ix) (Rule 15c3-4 risk management records); paragraph (b)(1)(xi) (Regulation SBSR information); paragraph (b)(1)(xii) (records relating to business conduct standards); paragraph (b)(1)(xiii) (special entity documents); paragraph (c) (corporate documents); paragraph (d)(1) (associated person's employment application); paragraph (d)(2)(i) (regulatory authority reports); and paragraph (d)(3)(i) (compliance, supervisory, and procedures manuals)).

¹⁰⁴⁵ See supra note 974.

¹⁰⁴⁶ The Commission believes that any initial dollar cost associated with proposed Rule 18a-6 is already accounted for in the PRA estimate for proposed Rule 18a-5, which includes the cost of recordkeeping system software.

¹⁰⁴⁷ 364 hours × 13 stand-alone SBSDs and stand-alone MSBSPs = 4,732 hours. These internal hours likely would be performed by a senior database administrator.

¹⁰⁴⁸ 280 hours/year × 13 stand-alone SBSDs and stand-alone MSBSPs = 3,640 hours/year. These internal hours likely would be performed by a compliance clerk.

¹⁰⁴⁹ $5,720/year × 13 stand-alone SBSDs and stand-alone MSBSPs = $74,360/year.

Proposed Rule 18a-6 would require three types of records to be preserved by stand-alone SBSDs.¹⁰⁵⁰ Because the burden to create these records is accounted for in the PRA estimate for proposed Rule 18a-5,¹⁰⁵¹ the burdens imposed by these requirements are to ensure there is adequate physical space and computer hardware and software for storage, ensure these records are preserved for the requisite time period, and produce them when requested. The Commission estimates that the relevant portions of paragraph (b)(1)(i) of proposed Rule 18a-6 would impose an initial burden of forty-four hours per firm,¹⁰⁵² and an ongoing annual burden of thirty hours and $360 per firm. The Commission estimates that there are nine stand-alone SBSDs, resulting in an industry-wide initial burden of 396 hours¹⁰⁵³ and an industry-wide ongoing annual burden of 270 hours¹⁰⁵⁴ and $3,240.¹⁰⁵⁵

¹⁰⁵⁰ See paragraph (b)(1)(i) of proposed Rule 18a-6 (cross-referencing paragraph (a)(13) of proposed Rule 18a-5 (compliance with proposed Rule 18a-4 possession or control requirements); paragraph (a)(14) of proposed Rule 18a-5 (proposed Rule 18a-4 reserve account computations); and paragraph (a)(16) of proposed Rule 18a-5 (political contributions)).

¹⁰⁵¹ See section IV.D.1. of this release.

¹⁰⁵² The Commission believes that any initial dollar cost associated with proposed Rule 18a-6 is already accounted for in the PRA estimate for proposed Rule 18a-5, which includes the cost of recordkeeping system software.

¹⁰⁵³ 44 hours × 9 stand-alone SBSDs = 396 hours. These internal hours likely would be performed by a senior database administrator.

¹⁰⁵⁴ 30 hours/year × 9 stand-alone SBSDs = 270 hours/year. These internal hours likely would be performed by a compliance clerk.

¹⁰⁵⁵ $360/year × 9 stand-alone SBSDs = $3,240/year.

Proposed Rule 18a-6 would require two types of records to be preserved by ANC stand-alone SBSDs.¹⁰⁵⁶ Because the burden of actually performing the underlying task and creating the written record is already accounted for in the PRA estimates for proposed Rules 18a-1 ¹⁰⁵⁷ and 18a-5,¹⁰⁵⁸ the burden is the requirement to preserve these records for at least three years. The Commission estimates that paragraph (b)(1)(x) and paragraph (b)(1)(i)'s cross-reference to paragraph (a)(11) of proposed Rule 18a-5 would impose an initial burden of thirty-one hours ¹⁰⁵⁹ and an ongoing annual burden of twenty hours and $240 per ANC stand-alone SBSD. The Commission estimates that there are six ANC stand-alone SBSDs, resulting in an industry-wide initial burden of 186 hours ¹⁰⁶⁰ and an industry-wide ongoing annual burden of 120 hours ¹⁰⁶¹ and $1,440.¹⁰⁶²

¹⁰⁵⁶ See proposed Rule 18a-6 (paragraph (b)(1)(i), cross-referencing paragraph (a)(11) of proposed Rule 18a-5 (liquidity stress test); and paragraph (b)(1)(x) (credit risk determinations)).

¹⁰⁵⁷ See Capital, Margin, and Segregation Requirements for Security-Based Swap Dealers and Major Security-Based Swap Participants and Capital Requirements for Broker-Dealers, 77 FR 70294.

¹⁰⁵⁸ See section IV.D.1. of this release.

¹⁰⁵⁹ The Commission believes that any initial dollar cost associated with proposed Rule 18a-6 is already accounted for in the PRA estimate for proposed Rule 18a-5, which includes the cost of recordkeeping system software.

¹⁰⁶⁰ 31 hours × 6 ANC stand-alone SBSDs = 186 hours. These internal hours likely would be performed by a senior database administrator.

¹⁰⁶¹ 20 hours/year × 6 ANC stand-alone SBSDs = 120 hours/year. These internal hours likely would be performed by a compliance clerk.

¹⁰⁶² $240/year × 6 ANC stand-alone SBSDs = $1,440/year.

Proposed Rule 18a-6 would require eighteen types of records to be preserved by bank SBSDs and bank MSBSPs, all of which are limited to the firm's business as an SBSD or MSBSP.¹⁰⁶³ Proposed Rule 18a-6 does not require the firm to create these records or perform the underlying task, so the burdens imposed by these requirements are to ensure there is adequate physical space and computer hardware and software for storage, ensure these records are preserved for the requisite time period, and produce them when requested. Therefore, after consideration of the similar burdens imposed by Rule 17a-4, as proposed to be amended, the Commission estimates that proposed Rule 18a-6 would impose on bank SBSDs and bank MSBSPs an initial burden of 247 hours per firm ¹⁰⁶⁴ and an ongoing burden of 190 hours and $4,520 per firm. The Commission estimates that there are twenty-five respondents (twenty-five bank SBSDs and no bank MSBSPs), resulting in an estimated industry-wide initial burden of 6,175 hours ¹⁰⁶⁵ and an industry-wide ongoing annual burden of 4,750 hours ¹⁰⁶⁶ and $113,000.¹⁰⁶⁷

¹⁰⁶³ See proposed Rule 18a-6 (paragraph (a)(2), cross-referencing paragraph (b)(1) of proposed Rule 18a-5 (trade blotters); paragraph (a)(2), cross-referencing paragraph (b)(2) of proposed Rule 18a-5 (ledgers of security-based swap customers and non-customers); paragraph (a)(2), cross-referencing paragraph (b)(3) of proposed Rule 18a-5 (stock records); paragraph (b)(2)(i), cross-referencing paragraph (b)(4) of proposed Rule 18a-5 (memoranda of brokerage orders); paragraph (b)(2)(i), cross-referencing paragraph (b)(5) of proposed Rule 18a-5 (memoranda of proprietary orders); paragraph (b)(2)(i), cross-referencing paragraph (b)(6) of proposed Rule 18a-5 (confirmations); paragraph (b)(2)(i), cross-referencing paragraph (b)(7) of proposed Rule 18a-5 (accountholder information); paragraph (b)(2)(i), cross-referencing paragraph (b)(11) of proposed Rule 18a-5 (unverified transactions); paragraph (b)(2)(i), cross-referencing paragraph (b)(13) of proposed Rule 18a-5 (compliance with external business conduct requirements); paragraph (b)(2)(ii) (communications); paragraph (b)(2)(iii) (account documents); paragraph (b)(2)(iv) (written agreements); paragraph (b)(2)(vi) (Regulation SBSR information); paragraph (b)(2)(vii) (records relating to business conduct standards); paragraph (b)(2)(viii) (special entity documents); paragraph (d)(1) (associated person's employment application); paragraph (d)(2)(ii) (regulatory authority reports); paragraph (d)(3)(ii) (compliance, supervisory, and procedures manuals)).

¹⁰⁶⁴ The Commission believes that any initial dollar cost associated with proposed Rule 18a-6 is already accounted for in the PRA estimate for proposed Rule 18a-5, which includes the cost of recordkeeping system software.

¹⁰⁶⁵ 247 hours × 25 bank SBSDs = 6,175 hours. These internal hours likely would be performed by a senior database administrator.

¹⁰⁶⁶ 190 hours/year × 25 bank SBSDs = 4,750 hours/year. These internal hours likely would be performed by a compliance clerk.

¹⁰⁶⁷ $4,520/year × 25 bank SBSDs = $113,000/year.

Proposed Rule 18a-6 would require four types of records to be preserved by bank SBSDs, all of which are limited to the firm's business as an SBSD.¹⁰⁶⁸ Because the burden to perform the underlying task or create these records is accounted for in the PRA estimates for proposed Rule 18a-4 ¹⁰⁶⁹ and Rule 18a-5, as proposed to be amended,¹⁰⁷⁰ the burdens imposed by these new requirements are to ensure there is adequate physical space and computer hardware and software for storage, ensure these records are preserved for the requisite time period, and produce them when requested. The Commission estimates that paragraphs (b)(9), (b)(10), and (b)(12) of proposed Rule 18a-6 would impose an initial burden of fifty-seven hours per firm ¹⁰⁷¹ and an ongoing annual burden of forty hours and $480 per firm. The Commission estimates that there are twenty-five bank SBSDs, resulting in an industry-wide initial burden of 1,425 hours ¹⁰⁷² and an industry-wide ongoing annual burden of 1,000 hours ¹⁰⁷³ and $12,000.¹⁰⁷⁴

¹⁰⁶⁸ See proposed Rule 18a-6 (paragraph (b)(2)(i), cross-referencing paragraph (b)(9) (compliance with proposed Rule 18a-4 possession or control requirements) of proposed Rule 18a-5; paragraph (b)(2)(i), cross-referencing paragraph (b)(10) (proposed Rule 18a-4 reserve account computations) of proposed Rule 18a-5; paragraph (b)(2)(i), cross-referencing paragraph (b)(12) (political contributions) of proposed Rule 18a-5; and paragraph (b)(2)(v) (proposed Rule 18a-4 reserve account computations)).

¹⁰⁶⁹ See Capital, Margin, and Segregation Requirements for Security-Based Swap Dealers and Major Security-Based Swap Participants and Capital Requirements for Broker-Dealers, 77 FR 70297-70299.

¹⁰⁷⁰ See section IV.D.1. of this release.

¹⁰⁷¹ The Commission believes that any initial dollar cost associated with proposed Rule 18a-6 is already accounted for in the PRA estimate for proposed Rule 18a-5, which includes the cost of recordkeeping system software.

¹⁰⁷² 57 hours × 25 bank SBSDs = 1,425 hours. These internal hours likely would be performed by a compliance manager and a senior database administrator.

¹⁰⁷³ 40 hours/year × 25 bank SBSDs = 1,000 hours/year. These internal hours likely would be performed by a compliance clerk.

¹⁰⁷⁴ $480/year × 25 bank SBSDs = $12,000/year.

Paragraph (f) of proposed Rule 18a-6 would require third-party custodians for non-broker-dealer SBSDs and non-broker-dealer MSBSPs to file with the Commission a written undertaking and surrender the SBSD or MSBSP's records upon the Commission's request.¹⁰⁷⁵ The obligation to provide documents upon the Commission's request does not impose a new burden, since this requirement merely changes the respondent's identity rather than adding to the quantity of burdens. Thus, the burden is the requirement to prepare and file a written undertaking. The Commission estimates that 50% of the thirty-eight non-broker-dealer SBSDs and non-broker-dealer MSBSPs would retain a third-party custodian, resulting in nineteen written undertakings. The Commission estimates paragraph (f) of proposed Rule 18a-6 would impose an ongoing annual burden of two hours per written undertaking, resulting in an industry-wide ongoing burden of thirty-eight hours per year.¹⁰⁷⁶

¹⁰⁷⁵ See paragraph (f) of proposed Rule 18a-6.

¹⁰⁷⁶ 2 hours/year × 19 written undertakings = 38 hours/year. These internal hours likely would be performed by an attorney.

3. Proposed Amendments to Rule 17a-5 and Proposed Rule 18a-7

The proposed amendments to Rule 17a-5 and proposed Rule 18a-7 would impose collection of information requirements that result in annual time burdens for broker-dealers, SBSDs, and MSBSPs. The Commission estimates that the proposed amendments to Rule 17a-5 would impose the following initial and annual burdens:

Burden | Initial burden | Annual burden
Liquidity stress test ¹⁰⁷⁷ | Per firm: 0 hours Industry: 0 hours | Per firm: 12 hours. Industry: 120 hours.
Form SBS (ANC broker-dealer SBSDs) ¹⁰⁷⁸ | Per firm: 25 hours Industry: 250 hours | Per firm: 228 hours. Industry: 2,280 hours.
Form SBS (non-model broker-dealer SBSDs) ¹⁰⁷⁹ | Per firm: 50 hours Industry: 300 hours | Per firm: 240 hours. Industry: 1,440 hours.
Form SBS (broker-dealer MSBSPs) ¹⁰⁸⁰ | Per firm: 40 hours Industry: 40 hours | Per firm: 210 hours. Industry: 210 hours.
Total—Proposed amendments to Rule 17a-5 | Industry: 590 hours | Industry: 4,050 hours.

The Commission estimates that proposed Rule 18a-7 would impose the following initial and annual burdens:

¹⁰⁷⁷ See paragraph (a)(5)(vii) of Rule 17a-5, as proposed to be amended.

¹⁰⁷⁸ See paragraph (a)(1)(iv) of Rule 17a-5, as proposed to be amended.

¹⁰⁷⁹ See paragraph (a)(1)(iv) of Rule 17a-5, as proposed to be amended.

¹⁰⁸⁰ See paragraph (a)(1)(iv) of Rule 17a-5, as proposed to be amended.

Burden | Initial burden | Annual burden
Additional ANC reports ¹⁰⁸¹ | Per firm: 0 hours Industry: 0 hours | Per firm: 132 hours. Industry: 792 hours.
Customer statements ¹⁰⁸² | Per firm: 10 hours Industry: 130 hours | Per firm: 1 hours. Industry: 13 hours.
Annual report (stand-alone SBSDs) ¹⁰⁸³ | Per firm: 0 hours Industry: 0 hours | Per firm: 70 hours and $5.60 Industry: 630 hours and $50.40.
Annual report (stand-alone MSBSPs) ¹⁰⁸⁴ | Per firm: 0 hours Industry: 0 hours | Per firm: 10 hours and $5.60. Industry: 40 hours and $22.40.
Statement regarding accountant ¹⁰⁸⁵ | Per firm: 10 hours Industry: 130 hours | Per firm: 2 hours and 46. Industry: 26 hours and $5.98.
Engagement of accountant (stand-alone SBSDs) ¹⁰⁸⁶ | Per firm: 0 hours Industry: 0 hours | Per firm: $450,000. Industry: $4,050,000.
Engagement of accountant (stand-alone MSBSPs) ¹⁰⁸⁷ | Per firm: 0 hours Industry: 0 hours | Per firm: $300,000. Industry: $1,200,000.
Notice of change of fiscal year ¹⁰⁸⁸ | Per firm: 0 hours Industry: 0 hours | Per firm: 1 hour and 46. Industry: 1 hour and 46.
Form SBS (stand-alone SBSDs) ¹⁰⁸⁹ | Per firm: 160 hours Industry: 1,440 hours | Per firm: 192 hours. Industry: 1,728 hours.
Form SBS (stand-alone MSBSPs) ¹⁰⁹⁰ | Per firm: 40 hours Industry: 160 hours | Per firm: 48 hours. Industry: 192 hours.
Form SBS (bank SBSDs) ¹⁰⁹¹ | Per firm: 36 hours Industry: 900 hours | Per firm: 16 hours. Industry: 400 hours.
Total—Proposed Rule 18a-7 | Industry: 2,890 hours | Industry: 3,978 hours and $5,250,079.24.

Estimated Hours and Costs of Proposed Amendments to Rule 17a-5

¹⁰⁸¹ See paragraph (a)(3) of proposed Rule 18a-7.

¹⁰⁸² See paragraph (b) of proposed Rule 18a-7.

¹⁰⁸³ See paragraphs (c) and (d) of proposed Rule 18a-7.

¹⁰⁸⁴ See paragraphs (c) and (d) of proposed Rule 18a-7.

¹⁰⁸⁵ See paragraph (e) of proposed Rule 18a-7.

¹⁰⁸⁶ See paragraph (f) of proposed Rule 18a-7.

¹⁰⁸⁷ See paragraph (f) of proposed Rule 18a-7.

¹⁰⁸⁸ See paragraph (j) of proposed Rule 18a-7.

¹⁰⁸⁹ See paragraph (a)(1) of proposed Rule 18a-7.

¹⁰⁹⁰ See paragraph (a)(1) of proposed Rule 18a-7.

¹⁰⁹¹ See paragraph (a)(2) of proposed Rule 18a-7.

No Change in Estimated Burden. Many of the proposed amendments to Rule 17a-5 are not expected to change the estimated burden imposed by Rule 17a-5. Most of the additional proposed amendments discussed in section II.B.3.b. of this release are clarifying changes that should not affect the Commission's burden estimate.

The Commission is proposing that the financial report prepared by Form SBS filers include statements and supporting schedules from proposed Form SBS instead of from Form X-17A-5.¹⁰⁹² This is not so much a new burden as a different burden, since in the absence of this proposed amendment, these firms would be required to file statements and supporting schedules from Form X-17A-5 instead. In addition, the burden of preparing these statements and supporting schedules is already accounted for in the PRA burden for proposed Form SBS (discussed below).

¹⁰⁹² See paragraph (d)(2) of Rule 17a-5, as proposed to be amended.

The Commission does not estimate an additional burden associated with its proposal that the compliance report include statements as to a broker-dealer SBSD's compliance with proposed Rule 18a-4,¹⁰⁹³ because the burden to comply with proposed Rule 18a-4 is largely already accounted for in the PRA estimate for proposed Rule 18a-4.¹⁰⁹⁴ To the extent that the burden is not already accounted for in the PRA estimate for proposed Rule 18a-4, the Commission believes that broker-dealer SBSDs and broker-dealer MSBSPs would already have a system in place for confirming compliance with proposed Rule 18a-4, in accordance with best practices. In addition, the Commission believes that the sixteen broker-dealers expected to register as SBSDs should already have procedures in place for confirming compliance since they are already required to confirm compliance with analogous Rule 15c3-3 (which Rule 18a-4 is modeled on).

¹⁰⁹³ See paragraph (d)(3) of Rule 17a-5, as proposed to be amended.

¹⁰⁹⁴ See Capital, Margin, and Segregation Requirements for Security-Based Swap Dealers and Major Security-Based Swap Participants and Capital Requirements for Broker-Dealers, 77 FR 70297-70299.

The Commission is proposing to amend Rule 17a-5 to require that broker-dealers attach Part III of Form X-17A-5 to the annual report.¹⁰⁹⁵ However, the Commission does not expect this amendment to increase Rule 17a-5's burden, since broker-dealers currently file Part III with their audited annual report pursuant to staff guidance and Rule 617.¹⁰⁹⁶

¹⁰⁹⁵ See paragraph (e)(2) of Rule 17a-5, as proposed to be amended.

¹⁰⁹⁶ See 17 CFR 249.617; Commission, Division of Trading and Markets, Broker-Dealer Notices and Reports, available at http://www.sec.gov/divisions/marketreg/bdnotices.htm. In addition, Part III of Form X-17A-5, as proposed to be amended, would add a reference to Rule 17a-12, which applies to OTC derivatives dealers. Rule 17a-12 does not explicitly require OTC derivatives dealers to complete Part III of Form X-17A-5, but this proposed amendment to Part III of Form X-17A-5 is not expected to result in a burden increase since all [four] OTC derivatives dealers already voluntarily file Part III with their audited annual reports.

Liquidity Stress Test. The Commission proposes to add paragraph (a)(5)(vii) to Rule 17a-5, which would require ANC broker-dealers to file the results of the firm's monthly liquidity stress test with the Commission.¹⁰⁹⁷ Because the burden of actually performing the liquidity stress test and creating a liquidity funding plan is already accounted for in the PRA estimate for the proposed amendments to Rule 15c3-1,¹⁰⁹⁸ the burden imposed by proposed paragraph (a)(5)(vii) is the requirement to file a copy of the results with the Commission. The Commission estimates that paragraph (a)(5)(vii) to Rule 17a-5, as proposed to be amended, would impose an annual burden of twelve hours per ANC broker-dealer.¹⁰⁹⁹ The Commission estimates that there are ten ANC broker-dealers (all of which are assumed to be dually registered as SBSDs), resulting in an industry-wide ongoing burden of 120 hours per year.¹¹⁰⁰

¹⁰⁹⁷ See paragraph (a)(5)(vii) of Rule 17a-5, as proposed to be amended.

¹⁰⁹⁸ See Capital, Margin, and Segregation Requirements for Security-Based Swap Dealers and Major Security-Based Swap Participants and Capital Requirements for Broker-Dealers, 77 FR 70294.

¹⁰⁹⁹ 1 hour/filing × 12 months/year = 12 hours/year. These internal hours likely would be performed by a compliance manager.

¹¹⁰⁰ 12 hours/year × 10 ANC broker-dealers = 120 hours/year. These internal hours likely would be performed by a compliance manager.

Proposed Form SBS. Paragraph (a)(1)(iv) of Rule 17a-5, as proposed to be amended, would require broker-dealer SBSDs and broker-dealer MSBSPs to file proposed Form SBS monthly instead of filing the applicable part of Form X-17A-5 quarterly.¹¹⁰¹ Part II, Part IIA, and Part II CSE of Form X-17A-5 each impose a different burden on respondents due to their varying lengths and calculations, so the burden of filing proposed Form SBS depends on which part of Form X-17A-5 the firm is currently required to file.

¹¹⁰¹ Compare 17 CFR 240.17a-5(a)(3)(ii) and (iii), with paragraph (a)(4)(iv) of Rule 17a-5, as proposed to be amended.

ANC broker-dealer SBSDs would be required to file proposed Form SBS instead of Part II CSE of Form X-17A-5. Although proposed Form SBS is modeled on Part II CSE, the burden on ANC broker-dealer SBSDs would increase, because ANC broker-dealer SBSDs would file monthly instead of quarterly and would complete additional sections and line items eliciting more detail about their security-based swap and swap activities.¹¹⁰² In consideration of these additional requirements, the Commission estimates that the requirement for ANC broker-dealer SBSDs to file proposed Form SBS every month would add an initial burden of twenty-five hours per firm and an ongoing annual burden of 228 hours per firm. The Commission estimates that there are ten ANC broker-dealer SBSDs, adding to the industry an initial burden of 250 hours¹¹⁰³ and an ongoing burden of 2,280 hours per year.¹¹⁰⁴

¹¹⁰² ANC broker-dealer SBSDs would be required to complete the following new sections: (1) Computation for Determination of the Amount to be Maintained in the Special Account for the Exclusive Benefit of Security-Based Swap Customers—Rule 18a-4, Appendix A; (2) Information for Possession or Control Requirements under Rule 18a-4; (3) Schedule 1—Aggregate Securities, Commodities, and Swaps Positions; and (4) Schedule 4—Geographic Distribution of Derivatives Exposures for Ten Largest Countries.

¹¹⁰³ 25 hours × 10 ANC broker-dealer SBSDs = 250 hours. These internal hours likely would be performed by a compliance manager.

¹¹⁰⁴ 228 hours/year × 10 ANC broker-dealer SBSDs = 2,280 hours/year. These internal hours likely would be performed by a compliance manager.

Non-model broker-dealer SBSDs would be required to file proposed Form SBS instead of Part II or Part IIA of Form X-17A-5. Given that SBSDs are expected to be larger and relatively sophisticated firms, the Commission assumes that all non-model broker-dealer SBSDs are carrying firms that file Part II. Although sections of Part II are also found in proposed Form SBS, the burden on non-model broker-dealer SBSDs would increase (but not as much as for ANC broker-dealer SBSDs), because non-model broker-dealer SBSDs would file monthly instead of quarterly and would complete additional sections and line items eliciting more detail about their security-based swap and swap activities.¹¹⁰⁵ In consideration of these additional requirements, the Commission estimates that the requirement for non-model broker-dealer SBSDs to file proposed Form SBS every month would add an initial burden of fifty hours per firm and an ongoing annual burden of 240 hours per firm. The Commission estimates that there are six non-model broker-dealer SBSDs, adding to the industry an initial burden of 300 hours¹¹⁰⁶ and an ongoing burden of 1,440 hours per year.¹¹⁰⁷

¹¹⁰⁵ Non-model broker-dealer SBSDs would be required to complete the following new sections: (1) Financial and Operational Data—Operational Deductions from Capital—Note A; (2) Financial and Operational Data—Potential Operational Charges Not Deducted from Capital—Note B; (3) Computation for Determination of PAB Requirements; (4) Computation for Determination of the Amount to be Maintained in the Special Account for the Exclusive Benefit of Security-Based Swap Customers—Rule 18a-4, Appendix A; (5) Information for Possession or Control Requirements under Rule 18a-4; (6) Schedule 1—Aggregate Securities, Commodities, and Swaps Positions; (7) Schedule 2—Credit Concentration Report for Fifteen Largest Current Exposures in Derivatives; (8) Schedule 3—Portfolio Summary of Derivatives Exposures by Internal Credit Rating; and (9) Schedule 4—Geographic Distribution of Derivatives Exposures for Ten Largest Countries. In addition, non-model broker-dealer SBSDs also registered as FCMs would be required to file the following sections not included on Part II, but which the CFTC already requires or has proposed to require FCMs to file as part of Form 1-FR-FCM: (1) Computation of CFTC Minimum Capital Requirement; (2) Statement of Segregation Requirements and Funds in Segregation for Customers Trading on U.S. Commodity Exchanges; (3) Statement of Cleared Swaps Customer Segregation Requirements and Funds in Cleared Swaps Customer Accounts under Section 4d(f) of the Commodity Exchange Act; (4) Statement of Segregation Requirements and Funds in Segregation for Customers' Dealer Options Accounts; and (5) Statement of Secured Amounts and Funds Held in Separate Accounts for Foreign Futures and Foreign Options Customers Pursuant to CFTC Regulation 30.7. The Commission does not estimate a burden for these 5 sections from Form 1-FR-FCM, since the CFTC already requires FCMs to file these 5 sections on a monthly basis (17 CFR 1.10(b)(i)), and therefore, the hourly burden is already accounted for in the PRA estimate for the CFTC's Rule 1.10 (1 CFR 1.10). In addition, the Commission does not anticipate that FCMs will be required to file both the CFTC's Form 1-FR-FCM and the Commission's proposed Form SBS.

¹¹⁰⁶ 50 hours × 6 non-model broker-dealer SBSDs = 300 hours. These internal hours likely would be performed by a compliance manager.

¹¹⁰⁷ 240 hours/year × 6 non-model broker-dealer SBSDs = 1,440 hours/year. These internal hours likely would be performed by a compliance manager.

Broker-dealer MSBSPs would be required to file proposed Form SBS instead of Part II or Part IIA of Form X-17A-5. Given that MSBSPs are expected to be larger and relatively sophisticated firms, the Commission assumes that broker-dealer MSBSPs are carrying firms that file Part II. Although sections of Part II are also found in proposed Form SBS, the burden on broker-dealer MSBSPs would increase (but not as much as for broker-dealer SBSDs), because broker-dealer MSBSPs would file monthly instead of quarterly and would complete additional sections and line items eliciting more detail about their security-based swap and swap activities.¹¹⁰⁸ In consideration of these additional requirements, the Commission estimates that the requirement for broker-dealer MSBSPs to file proposed Form SBS every month would add an initial burden of forty hours per firm and an ongoing annual burden of 210 hours per firm. The Commission estimates that there would be one broker-dealer MSBSP, such that the estimated burden on the industry would be the same as for a single broker-dealer MSBSP.

¹¹⁰⁸ Broker-dealer MSBSPs would be required to complete the following new sections: (1) Computation of Tangible Net Worth (which is only 3 lines long); (2) Financial and Operational Data—Operational Deductions from Capital—Note A; (3) Financial and Operational Data—Potential Operational Charges Not Deducted from Capital—Note B; (4) Computation for Determination of PAB Requirements; (5) Schedule 1—Aggregate Securities, Commodities, and Swaps Positions; (6) Schedule 2—Credit Concentration Report for Fifteen Largest Exposures in Derivatives; (7) Schedule 3—Portfolio Summary of Derivatives Exposures by Internal Credit Rating; and (8) Schedule 4—Geographic Distribution of Derivatives Exposures for Ten Largest Countries. In addition, broker-dealer MSBSPs also registered as FCMs would be required to file the following sections not included on Part II, but which the CFTC already requires or has proposed to require FCMs to file as part of Form 1-FR-FCM: (1) Computation of CFTC Minimum Capital Requirement; (2) Statement of Segregation Requirements and Funds in Segregation for Customers Trading on U.S. Commodity Exchanges; (3) Statement of Cleared Swaps Customer Segregation Requirements and Funds in Cleared Swaps Customer Accounts under Section 4d(f) of the Commodity Exchange Act; (4) Statement of Segregation Requirements and Funds in Segregation for Customers' Dealer Options Accounts; and (5) Statement of Secured Amounts and Funds Held in Separate Accounts for Foreign Futures and Foreign Options Customers Pursuant to CFTC Regulation 30.7. The Commission does not estimate a burden for these 5 sections from Form 1-FR-FCM, since the CFTC already requires FCMs to file these 5 sections on a monthly basis (17 CFR 1.10(b)(i)), and therefore, the hourly burden is already accounted for in the PRA estimate for the CFTC's Rule 1.10 (1 CFR 1.10). In addition, the Commission does not anticipate that FCMs will be required to file both the CFTC's Form 1-FR-FCM and the Commission's proposed Form SBS.

Estimated Hours and Costs of Proposed Rule 18a-7

Proposed Rule 18a-7, which is modeled on Rule 17a-5, as proposed to be amended, would require non-broker-dealer SBSDs and non-broker-dealer MSBSPs to satisfy certain reporting requirements.¹¹⁰⁹

¹¹⁰⁹ See proposed Rule 18a-7.

Additional ANC reports. Paragraph (a)(3) of proposed Rule 18a-7 would require ANC stand-alone SBSDs to periodically file certain additional reports relating to their use of internal models to calculate net capital.¹¹¹⁰ After consideration of the Supporting Statement accompanying the most recent extension of Rule 17a-5, which estimates that the requirement to file additional ANC reports imposes a burden of 120 hours per respondent,¹¹¹¹ as well as the proposal to amend Rule 17a-5 to require ANC broker-dealers to file the results of their monthly liquidity stress tests with the additional ANC reports,¹¹¹² the Commission estimates that paragraph (a)(3) of proposed Rule 18a-7 would impose an annual burden of 132 hours per ANC stand-alone SBSD.¹¹¹³ The Commission estimates that there are six ANC stand-alone SBSDs, resulting in an industry-wide ongoing burden of 792 hours per year.¹¹¹⁴

¹¹¹⁰ See paragraph (a)(3) of proposed Rule 18a-7.

¹¹¹¹ See Supporting Statement for the Paperwork Reduction Act Information Collection Submission for Rule 17a-5 (4 hours/monthly report × 12 months/year + 8 hours/quarterly report × 4 quarters/year + 40 hours/annual report = 120 hours/year).

¹¹¹² See paragraph (a)(5)(vii) of Rule 17a-5, as proposed to be amended.

¹¹¹³ 120 hours/year + 1 hour/liquidity stress test filing × 12 months/year = 132 hours/year. These internal hours likely would be performed by a compliance manager.

¹¹¹⁴ 132 hours/year × 6 ANC stand-alone SBSDs = 792 hours/year. These internal hours likely would be performed by a compliance manager.

Customer Statements. Paragraph (b) of proposed Rule 18a-7 would require stand-alone SBSDs and stand-alone MSBSPs to disclose certain financial statements on their Internet Web sites.¹¹¹⁵ After consideration of the Supporting Statement accompanying the most recent extension of Rule 17a-5, which requires similar disclosures by mail instead of on the firm's Web site,¹¹¹⁶ the Commission staff's experience with burden estimates for similar collections of information, and the estimated initial web development costs, the Commission estimates that paragraph (b) of proposed Rule 18a-7 would impose an initial burden of ten hours per firm and an annual burden of one hour per firm. The Commission estimates that there are thirteen respondents (nine stand-alone SBSDs and four stand-alone MSBSPs), resulting in an industry-wide initial burden of 130 hours ¹¹¹⁷ and an industry-wide ongoing burden of thirteen hours per year.¹¹¹⁸

¹¹¹⁵ See paragraph (b) of proposed Rule 18a-7. The Commission does not anticipate a dollar cost to establish a Web site and a toll-free number under this paragraph, because the Commission believes firms that are large enough to register as an SBSD or MSBSP already maintain a toll-free number for their customers and already have an Internet Web site. See Broker-Dealer Exemption from Sending Certain Financial Information to Customers, Exchange Act Release No. 48272 (Aug. 1, 2003), 68 FR 46446, 46450 (Aug. 6, 2003).

¹¹¹⁶ See Supporting Statement for the Paperwork Reduction Act Information Collection Submission for Rule 17a-5. See section II.B.3.a. of this release for a discussion of the similarities between paragraph (c) of Rule 17a-5 and paragraph (b) of proposed Rule 18a-7.

¹¹¹⁷ 10 hours × 13 stand-alone SBSDs and stand-alone MSBSPs = 130 hours. These internal hours likely would be performed by a compliance manager.

¹¹¹⁸ 1 hour/year × 13 stand-alone SBSDs and stand-alone MSBSPs = 13 hours/year. These internal hours likely would be performed by a compliance clerk.

Annual Reports. Paragraph (c) of proposed Rule 18a-7 would require stand-alone SBSDs and stand-alone MSBSPs to file with the Commission an annual report consisting of certain financial reports.¹¹¹⁹ In addition, paragraph (d) of proposed Rule 18a-7 requires the filing firm to attach Part III of Form X-17A-5 to the annual report.¹¹²⁰ Part III must include an oath or affirmation, which implicitly requires a senior officer or a trusted delegate to review the annual report. Based on the Commission staff's experience with the burden imposed by current Rule 17a-5's annual report requirement and related postage costs,¹¹²¹ the Commission estimates that paragraphs (c) and (d) of proposed Rule 18a-7 would impose on stand-alone MSBSPs an annual burden of ten hours and $5.60 per firm. The Commission estimates that there are four stand-alone MSBSPs, resulting in an industry-wide ongoing burden of forty hours ¹¹²² and $22.40 per year.¹¹²³

¹¹¹⁹ See paragraph (c) of proposed Rule 18a-7.

¹¹²⁰ See paragraph (d) of proposed Rule 18a-7.

¹¹²¹ As of May 2013, a priority mail flat rate envelope costs $5.60, based on costs obtained on the U.S. Postal Service Web site at www.usps.gov.

¹¹²² 10 hours/year × 4 stand-alone MSBSPs = 40 hours/year. These internal hours likely would be performed by a senior accountant.

¹¹²³ $5.60/year × 4 stand-alone MSBSPs = $22.40/year.

Unlike stand-alone MSBSPs, stand-alone SBSDs would be required to include a compliance report with their annual reports.¹¹²⁴ Thus, after consideration of the Commission's recent release adopting amendments to Rule 17a-5, which estimates that each compliance report takes approximately sixty hours to prepare,¹¹²⁵ the Commission estimates that paragraphs (c) and (d) of proposed Rule 18a-7 would impose an annual burden of seventy hours and $5.60 per stand-alone SBSD. The Commission estimates that there are nine stand-alone SBSDs, resulting in an industry-wide ongoing burden of 630 hours ¹¹²⁶ and $50.40 per year. ¹¹²⁷

¹¹²⁴ See paragraph (c)(1)(i)(B) of proposed Rule 18a-7.

¹¹²⁵ See Broker-Dealer Reports, 78 FR 51960.

¹¹²⁶ 70 hours/year × 9 stand-alone SBSDs = 630 hours/year. These internal hours likely would be performed by a senior accountant.

¹¹²⁷ $5.60/year × 9 stand-alone SBSDs = $50.40/year.

Statement regarding Independent Public Accountant. Paragraph (e) of proposed Rule 18a-7 would require stand-alone SBSDs and stand-alone MSBSPs to file a statement regarding the independent public accountant engaged to audit the firm's annual reports.¹¹²⁸ In addition to postage costs, the Commission's recent release estimates that the parallel requirement in Rule 17a-5 would impose a two-hour burden on each introducing broker-dealer to file an updated statement, and a more significant ten-hour burden on each carrying broker-dealer, since the changes would require renegotiating the carrying broker-dealer's agreement with its independent public accountant.¹¹²⁹ Consistent with that release, the Commission estimates that paragraph (e) of proposed Rule 18a-7 would impose an initial burden of ten hours per firm and an annual burden of two hours and 46 cents per firm.¹¹³⁰ The Commission estimates that there are thirteen respondents (nine stand-alone SBSDs and four stand-alone MSBSPs), resulting in an industry-wide initial burden of 130 hours ¹¹³¹ and an industry-wide ongoing burden of twenty-six hours ¹¹³² and $5.98 per year.¹¹³³

¹¹²⁸ See paragraph (e) of proposed Rule 18a-7.

¹¹²⁹ See Broker-Dealer Reports, 78 FR 51962.

¹¹³⁰ It currently costs 46 cents to send a one ounce retail domestic first-class letter through the U.S. Postal Service. See U.S. Postal Service, First-Class Mail, https://www.usps.com/ship/first-class.htm (last visited Oct. 25, 2013).

¹¹³¹ 10 hours × 13 stand-alone SBSDs and stand-alone MSBSPs = 130 hours. These internal hours likely would be performed by a senior accountant.

¹¹³² 2 hours/year × 13 stand-alone SBSDs and stand-alone MSBSPs = 26 hours/year. These internal hours likely would be performed by a compliance clerk.

¹¹³³ 46/year × 13 stand-alone SBSDs and stand-alone MSBSPs = $5.98/year.

Engagement of the Independent Public Accountant. Paragraph (f) of proposed Rule 18a-7 would require stand-alone SBSDs and stand-alone MSBSPs to engage an independent public accountant to provide reports covering the firm's annual reports.¹¹³⁴ The Commission's recent release adopting amendments to Rule 17a-5 estimates that it would cost each carrying firm $300,000 to retain an independent public accountant to audit its financial statements and $150,000 to examine its compliance report.¹¹³⁵ Given that SBSDs and MSBSPs are expected to be larger and relatively sophisticated firms, the Commission assumes that they are carrying firms that would incur the $300,000 cost to audit their financial statements. However, since only stand-alone SBSDs are required to file a compliance report,¹¹³⁶ only they (and not stand-alone MSBSPs) would be required to retain an independent public accountant to review their compliance reports.

¹¹³⁴ See paragraph (f) of proposed Rule 18a-7.

¹¹³⁵ See Broker-Dealer Reports, 78 FR 51963.

¹¹³⁶ See paragraph (c)(1)(i)(B) of proposed Rule 18a-7.

Therefore, the Commission estimates that paragraph (f) of proposed Rule 18a-7 would impose an annual cost of $300,000 on each stand-alone MSBSP. The Commission estimates that there are four stand-alone MSBSPs, resulting in an industry-wide ongoing burden of $1,200,000 per year.¹¹³⁷ The Commission estimates that paragraph (f) of proposed Rule 18a-7 would impose on stand-alone SBSDs an annual cost of $450,000 per firm,¹¹³⁸ since both their financial statements and compliance report would need to be audited. The Commission estimates that there are nine stand-alone SBSDs, resulting in an industry-wide ongoing burden of $4,050,000 per year.¹¹³⁹

¹¹³⁷ $300,000/year × 4 stand-alone MSBSPs = $1,200,000/year.

¹¹³⁸ $300,000/year (financial statements) + $150,000/year (compliance report) = $450,000/year.

¹¹³⁹ $450,000/year × 9 stand-alone SBSDs = $4,050,000/year.

Notice of Change in Fiscal Year. Paragraph (j) of proposed Rule 18a-7 would require stand-alone SBSDs and stand-alone MSBSPs to notify the Commission of a change in fiscal year.¹¹⁴⁰ Based on the Commission staff's experience with the parallel requirement under Rule 17a-5, and the Supporting Statement accompanying the most recent extension of Rule 17a-11, which estimates that each financial notice takes approximately one hour to prepare and file with the Commission,¹¹⁴¹ the Commission estimates that paragraph (j) of proposed Rule 18a-7 would impose a burden of one hour and 46 cents on a firm planning to change its fiscal year. The Commission estimates that each year, one firm will change its fiscal year, such that the estimated burden on the industry would be one hour and 46 cents per year.

¹¹⁴⁰ See paragraph (j) of proposed Rule 18a-7.

¹¹⁴¹ See Commission, Supporting Statement for the Paperwork Reduction Act Information Collection Submission for Rule 17a-11 (June 29, 2012), available at http://www.reginfo.gov/public/do/DownloadDocument?documentID=332313&version=1.

Proposed Form SBS. Proposed Rule 18a-7 would require stand-alone SBSDs and stand-alone MSBSPs to file proposed Form SBS monthly,¹¹⁴² and would require bank SBSDs and bank MSBSPs to file proposed Form SBS quarterly.¹¹⁴³ Stand-alone SBSDs and stand-alone MSBSPs would be required to complete more sections of proposed Form SBS than bank SBSDs and bank MSBSPs, and would therefore experience a greater burden.

¹¹⁴² See paragraph (a)(1) of proposed Rule 18a-7.

¹¹⁴³ See paragraph (a)(2) of proposed Rule 18a-7.

Stand-alone SBSDs would be required to file proposed Form SBS on a monthly basis.¹¹⁴⁴ Proposed Form SBS includes eleven sections and five schedules applicable to stand-alone SBSDs.¹¹⁴⁵ Stand-alone SBSDs dually registered as FCMs would be required to complete five additional sections, all of which the CFTC already requires or has proposed to require FCMs to file as part of Form 1-FR-FCM.¹¹⁴⁶ In consideration of these additional requirements, the Commission estimates that the requirement for stand-alone SBSDs to file proposed Form SBS every month would impose an initial burden of 160 hours per firm and an ongoing annual burden of 192 hours per firm. The Commission estimates that there are nine stand-alone SBSDs, resulting in an industry-wide initial burden of 1,440 hours ¹¹⁴⁷ and an industry-wide ongoing burden of 1,728 hours per year.¹¹⁴⁸

¹¹⁴⁴ See paragraph (a)(1) of proposed Rule 18a-7.

¹¹⁴⁵ Stand-alone SBSDs would be required to complete the following sections and schedules: (1) Statement of Financial Condition; (2) either Computation of Net Capital (Filer Authorized to Use Models) or Computation of Net Capital (Filer Not Authorized to Use Models); (3) Computation of Minimum Regulatory Capital Requirements (Non-Broker-Dealer); (4) Statement of Income (Loss); (5) Capital Withdrawals; (6) Capital Withdrawals—Recap; (7) Financial and Operational Data; (8) Financial and Operational Data—Operational Deductions from Capital—Note A; (9) Financial and Operational Data—Potential Operational Charges Not Deducted from Capital—Note B; (10) Computation for Determination of the Amount to be Maintained in the Special Account for the Exclusive Benefit of Security-Based Swap Customers—Rule 18a-4, Appendix A; (11) Information for Possession or Control Requirements under Rule 18a-4; (12) Schedule 1—Aggregate Securities, Commodities, and Swaps Positions; (13) Schedule 2—Credit Concentration Report for Fifteen Largest Exposures in Derivatives; (14) Schedule 3—Portfolio Summary of Derivatives Exposures by Internal Credit Rating; and (15) Schedule 4 -Geographic Distribution of Derivatives Exposures for Ten Largest Countries.

¹¹⁴⁶ Stand-alone SBSDs also registered as FCMs would be required to file the following sections: (1) Computation of CFTC Minimum Capital Requirement; (2) Statement of Segregation Requirements and Funds in Segregation for Customers Trading on U.S. Commodity Exchanges; (3) Statement of Cleared Swaps Customer Segregation Requirements and Funds in Cleared Swaps Customer Accounts under Section 4d(f) of the Commodity Exchange Act; (4) Statement of Segregation Requirements and Funds in Segregation for Customers' Dealer Options Accounts; and (5) Statement of Secured Amounts and Funds Held in Separate Accounts for Foreign Futures and Foreign Options Customers Pursuant to CFTC Regulation 30.7. The Commission does not estimate a burden for these 5 sections, since the CFTC already requires FCMs to file these 5 sections on a monthly basis (17 CFR 1.10(b)(i)), and therefore, the hourly burden is already accounted for in the PRA estimate for the CFTC's Rule 1.10 (1 CFR 1.10). In addition, the Commission does not anticipate that FCMs will be required to file both the CFTC's Form 1-FR-FCM and the Commission's proposed Form SBS.

¹¹⁴⁷ 160 hours × 9 stand-alone SBSDs = 1,440 hours. These internal hours likely would be performed by a senior compliance manager.

¹¹⁴⁸ 192 hours/year × 9 stand-alone SBSDs = 1,728 hours/year. These internal hours likely would be performed by a senior compliance manager.

Stand-alone MSBSPs would be required to file proposed Form SBS on a monthly basis.¹¹⁴⁹ Proposed Form SBS includes three sections and five schedules applicable to stand-alone MSBSPs.¹¹⁵⁰ Stand-alone MSBSPs dually registered as FCMs would be required to complete five additional sections, all of which the CFTC already requires or has proposed to require FCMs to file as part of Form 1-FR-FCM.¹¹⁵¹ In consideration of these additional requirements, the Commission estimates that the requirement for stand-alone MSBSPs to file proposed Form SBS every month would impose an initial burden of forty hours per firm and an ongoing annual burden of sixty hours per firm. The Commission estimates that there are four stand-alone MSBSPs, resulting in an industry-wide initial burden of 160 hours ¹¹⁵² and an industry-wide ongoing burden of 192 hours per year.¹¹⁵³

¹¹⁴⁹ See paragraph (a)(1) of proposed Rule 18a-7.

¹¹⁵⁰ Stand-alone MSBSPs would be required to complete the following sections and schedules: (1) Statement of Financial Condition; (2) Computation of Tangible Net Worth; (3) Statement of Income (Loss); (4) Schedule 1—Aggregate Securities, Commodities, and Swaps Positions; (5) Schedule 2—Credit Concentration Report for Fifteen Largest Exposures in Derivatives; (6) Schedule 3—Portfolio Summary of Derivatives Exposures by Internal Credit Rating; and (7) Schedule 4 -Geographic Distribution of Derivatives Exposures for Ten Largest Countries.

¹¹⁵¹ Stand-alone MSBSPs also registered as FCMs would be required to file the following sections: (1) Computation of CFTC Minimum Capital Requirement; (2) Statement of Segregation Requirements and Funds in Segregation for Customers Trading on U.S. Commodity Exchanges; (3) Statement of Cleared Swaps Customer Segregation Requirements and Funds in Cleared Swaps Customer Accounts under Section 4d(f) of the Commodity Exchange Act; (4) Statement of Segregation Requirements and Funds in Segregation for Customers' Dealer Options Accounts; and (5) Statement of Secured Amounts and Funds Held in Separate Accounts for Foreign Futures and Foreign Options Customers Pursuant to CFTC Regulation 30.7. The Commission does not estimate a burden for these 5 sections, since the CFTC already requires FCMs to file these 5 sections on a monthly basis (17 CFR 1.10(b)(i)), and therefore, the hourly burden is already accounted for in the PRA estimate for the CFTC's Rule 1.10 (1 CFR 1.10). In addition, the Commission does not anticipate that FCMs will be required to file both the CFTC's Form 1-FR-FCM and the Commission's proposed Form SBS.

¹¹⁵² 40 hours × 4 stand-alone MSBSPs = 160 hours. These internal hours likely would be performed by a senior compliance manager.

¹¹⁵³ 48 hours/year × 4 stand-alone MSBSPs = 192 hours/year. These internal hours likely would be performed by a senior compliance manager.

Bank SBSDs would be required to file proposed Form SBS on a quarterly basis.¹¹⁵⁴ Proposed Form SBS includes five sections and one schedule applicable to bank SBSDs.¹¹⁵⁵ The Commission does not expect proposed Form SBS to impose a significant burden on bank SBSDs, because two of the five sections require the firm to file calculations already computed in accordance with proposed Rule 18a-3, and the other three sections either mirror or are scaled down versions of schedules to FFIEC Form 031, which banks are already required to file with their prudential regulator (although they would need to transpose this information from FFIEC Form 031 to Form SBS). Although bank SBSDs dually registered as FCMs would be required to complete 5 additional sections, the CFTC already requires or has proposed to require FCMs to file these schedules on Form 1-FR-FCM.¹¹⁵⁶ In consideration of these additional requirements, the Commission estimates that the requirement for bank SBSDs to file proposed Form SBS quarterly would impose an initial burden of 36 hours per firm and an ongoing annual burden of sixteen hours per firm. The Commission estimates that there are twenty-five bank SBSDs, resulting in an industry-wide initial burden of 900 hours¹¹⁵⁷ and an industry-wide ongoing burden of 400 hours per year.¹¹⁵⁸

¹¹⁵⁴ See paragraph (a)(2) of proposed Rule 18a-7.

¹¹⁵⁵ Bank SBSDs would be required to complete the following sections and schedules: (1) Balance Sheet (Information as Reported on FFIEC Form 031—Schedule RC); (2) Regulatory Capital (Information as Reported on FFIEC Form 031—Schedule RC-R); (3) Income Statement (Information as Reported on FFIEC Form 031—Schedule RI); (4) Computation for Determination of the Amount to be Maintained in the Special Account for the Exclusive Benefit of Security-Based Swap Customers—Rule 18a-4, Appendix A; (5) Information for Possession or Control Requirements under Rule 18a-4; and (6) Schedule 1 -Derivative Positions.

¹¹⁵⁶ Bank SBSDs also registered as FCMs would be required to file the following sections: (1) Computation of CFTC Minimum Capital Requirement; (2) Statement of Segregation Requirements and Funds in Segregation for Customers Trading on U.S. Commodity Exchanges; (3) Statement of Cleared Swaps Customer Segregation Requirements and Funds in Cleared Swaps Customer Accounts under Section 4d(f) of the Commodity Exchange Act; (4) Statement of Segregation Requirements and Funds in Segregation for Customers' Dealer Options Accounts; and (5) Statement of Secured Amounts and Funds Held in Separate Accounts for Foreign Futures and Foreign Options Customers Pursuant to CFTC Regulation 30.7. The Commission does not estimate a burden for these 5 sections, since the CFTC already requires FCMs to file these 5 sections on a monthly basis (17 CFR 1.10(b)(i)), and therefore, the hourly burden is already accounted for in the PRA estimate for the CFTC's Rule 1.10 (1 CFR 1.10). In addition, the Commission does not anticipate that FCMs will be required to file both the CFTC's Form 1-FR-FCM and the Commission's proposed Form SBS.

¹¹⁵⁷ 36 hours × 25 bank SBSDs = 900 hours. These internal hours likely would be performed by a senior compliance manager.

¹¹⁵⁸ 16 hours/year × 25 bank SBSDs = 400 hours/year. These internal hours likely would be performed by a senior compliance manager.

Bank MSBSPs would be required to file proposed Form SBS on a quarterly basis.¹¹⁵⁹ Proposed Form SBS includes three sections and one schedule applicable to bank MSBSPs.¹¹⁶⁰ Bank MSBSPs dually registered as FCMs would be required to complete five additional sections, all of which the CFTC already requires or has proposed to require FCMs to file as part of Form 1-FR-FCM.¹¹⁶¹ However, the Commission does not expect any banks to register with the Commission as MSBSPs and therefore does not anticipate these requirements to impose an additional burden.¹¹⁶²

¹¹⁵⁹ See paragraph (a)(2) of proposed Rule 18a-7.

¹¹⁶⁰ Bank MSBSPs would be required to complete the following sections and schedules: (1) Balance Sheet (Information as Reported on FFIEC Form 031—Schedule RC); (2) Regulatory Capital (Information as Reported on FFIEC Form 031—Schedule RC-R); (3) Income Statement (Information as Reported on FFIEC Form 031—Schedule RI); and (4) Schedule 1 -Derivative Positions.

¹¹⁶¹ Bank MSBSPs also registered as FCMs would be required to file the following sections: (1) Computation of CFTC Minimum Capital Requirement; (2) Statement of Segregation Requirements and Funds in Segregation for Customers Trading on U.S. Commodity Exchanges; (3) Statement of Cleared Swaps Customer Segregation Requirements and Funds in Cleared Swaps Customer Accounts under Section 4d(f) of the Commodity Exchange Act; (4) Statement of Segregation Requirements and Funds in Segregation for Customers' Dealer Options Accounts; and (5) Statement of Secured Amounts and Funds Held in Separate Accounts for Foreign Futures and Foreign Options Customers Pursuant to CFTC Regulation 30.7. The Commission does not estimate a burden for these 5 sections, since the CFTC already requires FCMs to file these 5 sections on a monthly basis (17 CFR 1.10(b)(i)), and therefore, the hourly burden is already accounted for in the PRA estimate for the CFTC's Rule 1.10 (1 CFR 1.10). In addition, the Commission does not anticipate that FCMs will be required to file both the CFTC's Form 1-FR-FCM and the Commission's proposed Form SBS.

¹¹⁶² The Commission estimates that the requirement for bank MSBSPs to file proposed Form SBS quarterly would impose an initial burden of 16 hours per firm and an ongoing annual burden of 8 hours per firm.

4. Proposed Amendments to Rule 17a-11 and Proposed Rule 18a-8

The proposed amendments to Rule 17a-11 and proposed Rule 18a-8 would impose collection of information requirements that result in annual time burdens for broker-dealers, SBSDs, and MSBSPs. Current Rule 17a-11 imposes an estimated annual burden of 1 hour per firm and a total industry burden of 443 hours.¹¹⁶³ The Commission estimates that the proposed amendments to Rule 17a-11 would impose the following initial and annual burdens:

¹¹⁶³ See Supporting Statement for the Paperwork Reduction Act Information Collection Submission for Rule 17a-11.

¹¹⁶⁴ See paragraph (e) of Rule 17a-11, as proposed to be amended.

¹¹⁶⁵ See paragraph (f) of Rule 17a-11, as proposed to be amended.

¹¹⁶⁶ See paragraph (g) of Rule 17a-11, as proposed to be amended.

Burden | Annual burden
New notice of insufficient liquidity reserve ¹¹⁶⁴ | Per notice: 1 hour Industry: 1 hour.
New notice of failure to deposit in Rule 18a-4 account ¹¹⁶⁵ | Per notice: 1 hour Industry: 100 hours.
New notices filed by exchanges and national securities associations ¹¹⁶⁶ | Per notice: 1 hour Industry: 10 hours.
Total—Proposed amendments to Rule 17a-11 | Industry: 111 hours.

The Commission estimates that proposed Rule 18a-8 would impose an annual burden of 4.6 hours per year.

Estimated Ongoing Hours and Costs of Current Rule 17a-11

In the Supporting Statement accompanying the most recent extension of Rule 17a-11's collection, the Commission estimates that it takes one hour to prepare and file a notice required under Rule 17a-11.¹¹⁶⁷ Given that 443 Rule 17a-11 notices were filed in 2012, current Rule 17a-11 creates an estimated industry-wide ongoing burden of 443 hours per year.¹¹⁶⁸

¹¹⁶⁷ See Supporting Statement for the Paperwork Reduction Act Information Collection Submission for Rule 17a-11.

¹¹⁶⁸ 1 hour/notice × 443 notices/year = 443 hours/year. These internal hours likely would be performed by a compliance manager.

Estimated Hours and Costs of Proposed Amendments to Rule 17a-11

The Commission proposes to add paragraph (b)(6) to Rule 17a-11, which would require broker-dealer MSBSPs to notify the Commission if their tangible net worth falls below $20 million.¹¹⁶⁹ Because the burden of actually calculating the firm's tangible net worth is already accounted for in the PRA estimate for proposed Rule 18a-2,¹¹⁷⁰ the burden imposed by paragraph (b)(6) of Rule 17a-11, as proposed to be amended, is the requirement to notify the Commission when the firm's tangible net worth falls to a certain level. However, the Commission does not expect to receive any notices under this provision, since the Commission expects only one broker-dealer MSBSP, which would already be subject to the more stringent net capital requirements applicable to broker-dealers. Thus, the Commission does not expect paragraph (b)(6) of Rule 17a-11, as proposed to be amended, to impose an additional burden.

¹¹⁶⁹ See paragraph (b)(6) of Rule 17a-11, as proposed to be amended.

¹¹⁷⁰ See Capital, Margin, and Segregation Requirements for Security-Based Swap Dealers and Major Security-Based Swap Participants and Capital Requirements for Broker-Dealers, 77 FR 70290.

The Commission proposes to add paragraph (e) to Rule 17a-11, which would require ANC broker-dealers to notify the Commission if the monthly liquidity stress test indicates that the firm's liquidity reserve is insufficient.¹¹⁷¹ Because the burden of actually performing the liquidity stress test is already accounted for in the PRA estimate for Rule 15c3-1,¹¹⁷² the burden imposed by paragraph (e) of Rule 17a-11, as proposed to be amended, is the requirement to notify the Commission of certain adverse test results. Given the similarity in the rules, the Commission estimates that each required notice would take one hour to prepare and file.¹¹⁷³ The Commission does not expect to receive many notices under paragraph (e) of Rule 17a-11, given that it did not receive any Rule 17a-11 notices from ANC broker-dealers in 2012. However, since the Commission estimates that 4 additional firms will register as ANC broker-dealers, the Commission estimates that one notice per year would be filed under paragraph (e) of Rule 17a-11, resulting in an industry-wide ongoing burden of one hour per year.¹¹⁷⁴

¹¹⁷¹ See paragraph (e) of Rule 17a-11, as proposed to be amended.

¹¹⁷² See Capital, Margin, and Segregation Requirements for Security-Based Swap Dealers and Major Security-Based Swap Participants and Capital Requirements for Broker-Dealers, 77 FR 70294.

¹¹⁷³ See Supporting Statement for the Paperwork Reduction Act Information Collection Submission for Rule 17a-11.

¹¹⁷⁴ 1 notice/year × 1 hour/notice = 1 hour/year. This internal hour likely would be performed by a compliance manager.

The Commission proposes to add paragraph (f) to Rule 17a-11, which requires broker-dealer SBSDs to notify the Commission if they fail to make a deposit required under proposed Rule 18a-4.¹¹⁷⁵ Because the burden to calculate the reserve amount is already accounted for in the PRA estimate for proposed Rule 18a-4,¹¹⁷⁶ the burden imposed by paragraph (f) of Rule 17a-11, as proposed to be amended, is the requirement to notify the Commission when the firm fails to act in accordance with proposed Rule 18a-4. Given the similarity in the rules, the Commission estimates that each required notice would take one hour to prepare and file.¹¹⁷⁷ Based on Commission experience with the number of notices filed under current Rule 17a-11,¹¹⁷⁸ the Commission estimates that 100 notices would be filed each year under paragraph (f) of Rule 17a-11, as proposed to be amended, resulting in an industry-wide ongoing burden of 100 hours per year.¹¹⁷⁹

¹¹⁷⁵ See paragraph (f) of Rule 17a-11, as proposed to be amended.

¹¹⁷⁶ See Capital, Margin, and Segregation Requirements for Security-Based Swap Dealers and Major Security-Based Swap Participants and Capital Requirements for Broker-Dealers, 77 FR 70297-70299.

¹¹⁷⁷ See Supporting Statement for the Paperwork Reduction Act Information Collection Submission for Rule 17a-11.

¹¹⁷⁸ See id. (noting that in 2011, the Commission received approximately 465 notices under Rule 17a-11).

¹¹⁷⁹ 100 notices/year × 1 hour/notice = 100 hours/year. These internal hours likely would be performed by a compliance manager.

The Commission proposes to redesignate paragraph (f) of Rule 17a-11 as paragraph (g) and to require a broker-dealer's national securities exchange (“NSE”) or national securities association (“NSA”) to notify the Commission if it learns that the broker-dealer failed to provide a notice required under any paragraph of Rule 17a-11 (instead of just paragraphs (b) through (e) of Rule 17a-11).¹¹⁸⁰ Thus, NSEs and NSAs would be subject to new burdens to file a delinquent broker-dealer's notices under new paragraphs (e) (liquidity stress test) and (f) (failure to deposit in Rule 18a-4 account). After considering the similar Rule 17a-11 requirement, the Commission estimates that each required notice would take one hour to prepare and file.¹¹⁸¹ Based on Commission experience with the number of notices currently filed by NSEs and NSAs, the Commission estimates that ten notices would be filed pursuant to the amendment to paragraph (g) of Rule 17a-11, as proposed to be amended, resulting in an estimated industry-wide ongoing burden of 10 hours per year.¹¹⁸²

¹¹⁸⁰ See paragraph (g) of Rule 17a-11, as proposed to be amended.

¹¹⁸¹ See Supporting Statement for the Paperwork Reduction Act Information Collection Submission for Rule 17a-11.

¹¹⁸² 10 notices/year × 1 hour/notice = 10 hours/year. These internal hours likely would be performed by a compliance manager.

Estimated Hours and Costs of Proposed Rule 18a-8

Proposed Rule 18a-8 would require non-broker-dealer SBSDs and non-broker-dealer MSBSPs to notify the Commission of certain indicia of their financial condition.¹¹⁸³ The Commission estimates that each Rule 18a-8 notice would take approximately fifty-five minutes to prepare and file, in contrast to its estimate that a Rule 17a-11 notice would take one hour to prepare and file,¹¹⁸⁴ because stand-alone SBSDs and stand-alone MSBSPs do not have a DEA with which to file a copy of the Rule 17a-11 notice and bank SBSDs and bank MSBSPs are not required to file the Rule 17a-11 notice with their prudential regulator.¹¹⁸⁵

¹¹⁸³ See proposed Rule 18a-8.

¹¹⁸⁴ See Supporting Statement for the Paperwork Reduction Act Information Collection Submission for Rule 17a-11.

¹¹⁸⁵ Compare paragraph (h) of Rule 17a-11, as proposed to be amended, with paragraph (h) proposed Rule 18a-8.

The Commission estimates that it would receive approximately five Rule 18a-8 notices per year, based on the substantially smaller pool of possible respondents, as compared with current Rule 17a-11. Under current Rule 17a-11, there are approximately 4,327 possible respondents—4,545 registered broker-dealers, minus 218 broker-dealers registered pursuant to section 15(b)(11)(A) of the Exchange Act.¹¹⁸⁶ In contrast, the Commission estimates that there would be thirty-eight non-broker-dealer SBSDs and non-broker-dealer MSBSPs (twenty-five bank SBSDs, nine stand-alone SBSDs, and four stand-alone MSBSPs). Assuming that each of the five Rule 18a-8 notices takes fifty-five minutes to prepare and file, the Commission estimates proposed Rule 18a-8 would result in an industry-wide ongoing burden of 4.6 hours per year.¹¹⁸⁷

¹¹⁸⁶ Rule 17a-11 does not apply to a broker-dealer registered pursuant to section 15(b)(11)(A) of the Exchange Act (15 U.S.C. 78o(b)(11)(A)) that is not a member of either a national securities exchange or a national securities association. See paragraph (j) of Rule 17a-11, as proposed to be amended. The Commission estimates that there are approximately 4,327 broker-dealers subject to Rule 17a-11 after consulting with the National Futures Association (4,545 registered broker-dealers—218 broker-dealers registered pursuant to section 15(b)(11)(A) of the Exchange Act = 4,327 Rule 17a-11 respondents).

¹¹⁸⁷ 5 notices/year × (55 minutes/notice/60 minutes/hour) = 4.6 hours/year. These internal hours likely would be performed by a compliance manager.

5. Proposed Rule 18a-9

Proposed Rule 18a-9, which is modeled on Rule 17a-13, would require stand-alone SBSDs to establish a securities count program.¹¹⁸⁸ As explained below, the Commission estimates that proposed Rule 18a-9 would impose an industry-wide initial burden of 225 hours and an industry-wide ongoing burden of 900 hours per year.

¹¹⁸⁸ See proposed Rule 18a-9.

The current approved PRA estimate for Rule 17a-13 estimates a securities count program imposes an average ongoing cost of 100 hours per year.¹¹⁸⁹ The Commission is using this estimate, and therefore estimates that proposed Rule 18a-9 would impose an ongoing annual burden of 100 hours per stand-alone SBSD. The Commission estimates that there are nine stand-alone SBSDs, resulting in an estimated industry-wide ongoing burden of 900 hours per year.¹¹⁹⁰

¹¹⁸⁹ See Commission, Supporting Statement for the Paperwork Reduction Act Information Collection Submission for Rule 17a-13 (May 3, 2011), available at http://www.reginfo.gov/public/do/DownloadDocument?documentID=245864&version=1.

¹¹⁹⁰ 100 hours/year × 9 stand-alone SBSDs = 900 hours/year. These internal hours likely would be performed by an operations specialist.

The Commission also estimates that proposed Rule 18a-9 would impose an initial burden of twenty-five hours per firm. The records required by proposed Rule 18a-9 should already be recorded by the systems implemented under proposed Rules 18a-5 and 18a-6, and accordingly, the resulting initial burden is largely already accounted for under these rules.¹¹⁹¹ However, the Commission estimates that the initial cost to establish procedures for conducting the securities count program, including identifying the persons involved in the program, would create an initial burden of approximately twenty-five hours per stand-alone SBSD, or 225 hours for the estimated nine stand-alone SBSDs.¹¹⁹²

¹¹⁹¹ However, the Commission assumes that stand-alone SBSDs and stand-alone MSBSPs do not currently have a securities count program in place.

¹¹⁹² 25 hours × 9 stand-alone SBSDs = 225 hours. These internal hours likely would be performed by a senior operations manager.

E. Collection of Information Is Mandatory

The collections of information pursuant to the proposed amendments and new rules are mandatory, as applicable, for broker-dealers, SBSDs, and MSBSPs.

F. Confidentiality

The broker-dealer annual reports filed with the Commission are not confidential, except that if the statement of financial condition is bound separately from the balance of the annual reports, and each page of the balance of the annual reports is stamped “confidential,” then the balance of the annual reports shall be deemed confidential to the extent permitted by law.¹¹⁹³ Subject to certain exceptions,¹¹⁹⁴ if there are material weaknesses, the accountant's report on the compliance report must be made available for customers' inspection and, consequently, it would not be deemed confidential.¹¹⁹⁵ Subject to certain exceptions,¹¹⁹⁶ a broker-dealer must furnish to its customers its unaudited financial statements,¹¹⁹⁷ and must provide annually a balance sheet with appropriate notes prepared in accordance with generally accepted accounting principles and which must be audited if the broker-dealer is required to file audited financial statements with the Commission.¹¹⁹⁸

¹¹⁹³ See paragraph (e)(3) of Rule 17a-5, as proposed to be amended.

¹¹⁹⁴ See paragraph (c)(1)(i) through (iii) of Rule 17a-5, as proposed to be amended.

¹¹⁹⁵ See paragraph (c)(2)(iv) of Rule 17a-5, as proposed to be amended.

¹¹⁹⁶ See paragraph (c)(1)(i)-(iii) of Rule 17a-5, as proposed to be amended.

¹¹⁹⁷ See paragraph (c)(3) of Rule 17a-5, as proposed to be amended.

¹¹⁹⁸ See paragraph (c)(2)(i) of Rule 17a-5, as proposed to be amended.

The stand-alone SBSD and stand-alone MSBSP annual reports filed with the Commission are not confidential, except that if the statement of financial condition is bound separately from the balance of the annual reports, and each page of the balance of the annual reports is stamped “confidential,” then the balance of the annual reports shall be deemed confidential to the extent permitted by law.¹¹⁹⁹ Stand-alone SBSDs and stand-alone MSBSPs must also make publicly available on their Web sites audited and unaudited financial statements, and also make these documents available in writing, upon request, to any person that has a security-based swap account.¹²⁰⁰ A stand-alone SBSD would also be required to disclose on its Web site at the same time: (1) a statement of the amount of the firm's net capital and required net capital and other information, if applicable, related to the firm's net capital;¹²⁰¹ and (2) if, in connection with the firm's most recent annual reports, the report of the independent public accountant identifies one or more material weaknesses, a copy of the report.¹²⁰²

¹¹⁹⁹ See paragraph (d)(2) of proposed Rule 18a-7.

¹²⁰⁰ See paragraph (b) of proposed Rule 18a-7.

¹²⁰¹ See paragraph (b)(1)(ii) of proposed Rule 18a-7.

¹²⁰² See paragraphs (b)(1)(iii) of proposed Rule 18a-7.

With respect to the other information collected under the proposed amendments and proposed rules, the firm can request the confidential treatment of the information.¹²⁰³ If such a confidential treatment request is made, the Commission anticipates that it will keep the information confidential subject to applicable law.¹²⁰⁴

¹²⁰³ See 17 CFR 200.83. Information regarding requests for confidential treatment of information submitted to the Commission is available on the Commission's Web site at http://www.sec.gov/foia/howfo2.htm#privacy.

¹²⁰⁴ See, e.g., 5 U.S.C. 552 et seq.; 15 U.S.C. 78x (governing the public availability of information obtained by the Commission).

G. Retention Period for Recordkeeping Requirements

Rule 17a-4, as proposed to be amended, specifies the required retention periods for a broker-dealer.¹²⁰⁵ Proposed Rule 18a-6 specifies the required retention periods for non-broker-dealer SBSDs and non-broker-dealer MSBSPs.¹²⁰⁶ Many of the required records must be retained for three years; certain other records must be retained for longer periods.¹²⁰⁷

¹²⁰⁵ See Rule 17a-4, as proposed to be amended.

¹²⁰⁶ See proposed Rule 18a-6.

¹²⁰⁷ See Rule 17a-4, as proposed to be amended; proposed Rule 18a-6.

H. Request for Comment

Pursuant to 44 U.S.C. 3306(c)(2)(B), the Commission requests comment on the proposed collections of information in order to:

• Evaluate whether the proposed collections of information are necessary for the proper performance of the functions of the Commission, including whether the information would have practical utility;

• Evaluate the accuracy of the Commission's estimates of the burden of the proposed collections of information;

• Determine whether there are ways to enhance the quality, utility, and clarity of the information to be collected; and

• Evaluate whether there are ways to minimize the burden of the collection of information on those who respond, including through the use of automated collection techniques or other forms of information technology.

In addition, the Commission requests comment, including empirical data in support of comments, in response to the following questions:

1. The Commission does not expect any banks to register with the Commission as MSBSPs. Is this expectation correct? If not, please provide a suggested estimate and empirical support for it.

2. The Commission estimates that 26 FCMs will register with the Commission as SBSDs or MSBSPs—16 broker-dealer SBSDs, 9 stand-alone SBSDs, and 1 broker-dealer MSBSP. Is this estimate accurate? If so, provide empirical support for the Commission's estimate. If not, please provide a suggested estimate and empirical support for it.

3. The Commission believes that broker-dealers do not rely on paragraph (b)(2) of Rule 17a-3, which exempts from Rule 17a-3 transactions cleared by a bank if the bank keeps the requisite records for the broker-dealer.¹²⁰⁸ Is this correct? If not, please provide the estimated burden associated with the Commission's proposal to eliminate paragraph (b)(2) of Rule 17a-3.

¹²⁰⁸ See 17 CFR 240.17a-3(b)(2).

4. Do stand-alone SBSDs and stand-alone MSBSPs already have record making, record preservation, and reporting systems in place? If so, please identify them so they can be taken into account in the Commission's burden estimates under proposed Rules 18a-5 through 18a-9.

5. The Commission believes there is no burden associated with its proposed amendment to paragraph (b)(1) of Rule 17a-4, which would add a cross-reference to paragraph (a)(11) of Rule 17a-3, as proposed to be amended (regarding proof of money balances). Is this estimate reasonable? Explain why or why not.

Persons submitting comments on the collection of information requirements should direct their comments to the Office of Management and Budget, Attention: Desk Officer for the Securities and Exchange Commission, Office of Information and Regulatory Affairs, Washington, DC 20503, and should also send a copy of their comments to Kevin M. O'Neill, Deputy Secretary, Securities and Exchange Commission, 100 F Street, NE., Washington, DC 20549-1090, and refer to File No. S7-05-14. OMB is required to make a decision concerning the collections of information between thirty and sixty days after publication of this document in the Federal Register; therefore, comments to OMB are best assured of having full effect if OMB receives them within thirty days of this publication. Requests for the materials submitted to OMB by the Commission with regard to these collections of information should be in writing, refer to File No. S7-05-14, and be submitted to the Securities and Exchange Commission, Records Management, Office of Filings and Information Services, 100 F Street, NE., Washington, DC 20549.

V. Economic Analysis

A. Introduction

The Commission is sensitive to the costs and benefits of its rules. Some of these costs and benefits stem from statutory mandates, while others are affected by the discretion exercised in implementing the mandates. The following economic analysis seeks to identify and consider the benefits and costs—including the effects on efficiency, competition, and capital formation—that would result from the proposed new recordkeeping, reporting, notification, and securities count rules for stand-alone SBSDs, stand-alone MSBSPs, bank SBSDs, and bank MSBSPs and from the proposed amendments to Rules 17a-3, 17a-4, 17a-5, and 17a-11. The costs and benefits considered in proposing these new rules and amendments are discussed below and have informed the policy choices described throughout this release.

As discussed more fully in section II. above, pursuant to sections 15F and 17(a) of the Exchange Act, the Commission is proposing to amend Rules 17a-3, 17a-4, 17a-5, and 17a-11 to establish recordkeeping, reporting, and notification requirements for broker-dealer SBSDs and broker-dealer MSBSPs to account for their security-based swap activities.¹²⁰⁹ Pursuant to section 15F(f) of the Exchange Act, the Commission is proposing new Rules 18a-5 through 18a-9 to establish recordkeeping, reporting, and notification requirements for stand-alone SBSDs, stand-alone MSBSPs, bank SBSDs, and bank MSBSPs, and securities count requirements for stand-alone SBSDs. Finally, pursuant to sections 15F(f) and 17(a) of the Exchange Act, the Commission is proposing new Form SBS that would be used by all types of SBSDs and MSBSPs to report financial information and, in the case of broker-dealer SBSDs and broker-dealer MSBSPs, replace their use of Part II, Part IIA, Part IIB, or Part II CSE of the FOCUS Report. The Commission believes these proposed rules and rule amendments will help regulators determine whether relevant market participants comply with the proposed capital, margin, and segregation requirements.¹²¹⁰ Additionally, the Commission is proposing technical amendments to Rules 17a-3, 17a-4, 17a-5, and 17a-11, which will apply to all registered broker-dealers.

¹²⁰⁹ In addition, paragraph (a)(5) of Rule 17a-5, as proposed to be amended, and paragraph (e) of Rule 17a-11, as proposed to be amended, would require ANC broker-dealers to make additional reports related to the liquidity stress test conducted pursuant to paragraph (f) of Rule 15c3-1. The Commission is also proposing certain other amendments to Rules 17a-3, 17a-4, 17a-5, and 17a-11, as discussed above.

¹²¹⁰ See Capital, Margin, and Segregation Requirements for Security-Based Swap Dealers and Major Security-Based Swap Participants and Capital Requirements for Broker-Dealers, 77 FR 70213.

With regard to the proposed rules and rule amendments relating to security-based swap recordkeeping and reporting, the baseline for the economic analysis is the OTC derivatives markets as they exist today. The baseline includes any recordkeeping and reporting rules currently applicable to participants in the OTC derivatives market including applicable rules previously adopted by the Commission ¹²¹¹ but excluding the rules proposed here. The current OTC derivatives market participants and the current reporting and recordkeeping regimes for those entities are discussed more fully below. With respect to the proposed technical amendments to Rules 17a-3, 17a-4, 17a-5, and 17a-11, the baseline for purposes of this economic analysis is the current recordkeeping and reporting regime for broker-dealers under such rules.¹²¹²

¹²¹¹ The Commission notes that it has temporarily excluded security-based swaps from the definition of “security.” See Order Granting Temporary Exemptions under the Securities Exchange Act of 1934 in Connection with the Pending Revision of the Definition of “Security” to Encompass Security-Based Swaps, and Request for Comment, 76 FR 39927; Order Extending Temporary Exemptions under the Securities Exchange Act of 1934 in Connection with the Pending Revision of the Definition of “Security” to Encompass Security-Based Swaps, and Request for Comment, 78 FR 10218 (extending exemptive relief through February 11, 2014). Thus, for purposes of the Commission's baseline analysis for broker-dealers, security-based swap activities would be excluded.

¹²¹² See 17 CFR 240.17a-3; 17 CFR 240.17a-4; 17 CFR 240.17a-5; 17 CFR 240.17a-11.

While the Commission does not have comprehensive information on the U.S. OTC derivatives markets, the Commission is using the limited data currently available in considering the effects of the proposals.¹²¹³ The Commission requests that commenters identify sources of data and information as well as provide data and information to assist the Commission in analyzing the economic consequences of the proposed rules. The Commission also requests comment on all aspects of this initial economic analysis, including on whether the analysis has: (1) identified all benefits and costs, including all effects on efficiency, competition, and capital formation; (2) given due consideration to each benefit and cost, including each effect on efficiency, competition, and capital formation; and (3) identified and considered reasonable alternatives to the proposed new rules and rule amendments.

¹²¹³ Information that is available for the purposes of this economic analysis includes an analysis of the market for single-name credit default swaps performed by the Commission's Division of Economic and Risk Analysis (f/k/a the “Division of Risk, Strategy, and Financial Innovation”). See Memorandum from Commission's Division of Risk, Strategy, and Financial Innovation to File (Mar. 15, 2012), available at http://www.sec.gov/comments/s7-39-10/s73910-154.pdf (“CDS Data Analysis”).

The sections below present an overview of the OTC derivatives markets, a discussion of the general costs and benefits of the proposed recordkeeping and reporting requirements, and a discussion of the costs and benefits of each proposed amendment and new rule. The Economic Analysis also includes a discussion of the potential effects of the proposed amendments and new rules on competition, efficiency, and capital formation. The final section of the Economic Analysis consists of a discussion of implementation considerations.

B. Baseline of Economic Analysis

1. OTC Derivatives Market

As stated above, to assess the costs and benefits of these rules, a baseline must be established against which the rules may be evaluated. For the purposes of this economic analysis, the baseline is the OTC derivatives markets ¹²¹⁴ as they exist today, including applicable rules adopted by the Commission but excluding the rules proposed here.¹²¹⁵ The markets as they exist today are dominated, both globally and domestically, by a small number of firms, generally entities affiliated with or within large commercial banks.¹²¹⁶

¹²¹⁴ OTC derivatives may include forwards, swaps, and options on foreign exchange, and interest rate, equity, and commodity derivatives.

¹²¹⁵ The baseline, however, for the proposed amendments to Rules 17a-3, 17a-4, 17a-5, and 17a-11 is the current recordkeeping and reporting regime for broker-dealers under these rules.

¹²¹⁶ See, e.g., Bank for International Settlements (“BIS”), Statistical Release: OTC derivatives statistics at end-June 2013 (November 2013), available at http://www.bis.org/publ/otc_hy1311.pdf. See also ISDA Margin Survey 2012.

The OTC derivatives markets have been described as opaque because, for example, transaction-level data about OTC derivatives trading generally is not publicly available.¹²¹⁷ This economic analysis is supported, where possible, by data currently available to the Commission from the Depository Trust & Clearing Corporation Trade Information Warehouse (“DTCC-TIW”). This evaluation takes into account data regarding the security-based swap market and especially data regarding the activity—including activity that may be suggestive of dealing behavior—of participants in the single-name credit default swap market.¹²¹⁸ While a large segment of the security-based swap market is comprised of credit default swaps, these derivatives do not comprise the entire security-based swap market.

¹²¹⁷ See Orice M. Williams, Director, Financial Markets and Community Investment, General Accountability Office, Systemic Risk: Regulatory Oversight and Recent Initiatives to Address Risk Posed by Credit Default Swaps, GAO-09-397T, 2, 5, 27 (Mar. 2009), available at http://www.gao.gov/new.items/d09397t.pdf. See also Robert E. Litan, The Brookings Institution, The Derivatives Dealers' Club and Derivatives Market Reform: A Guide for Policy Makers, Citizens and Other Interested Parties 15-20 (Apr. 7, 2010), available at http://www.brookings.edu/~/media/research/files/papers/2010/4/07%20derivatives%20litan/0407_derivatives_litan.pdf; Security-Based Swap Data Repository Registration, Duties, and Core Principles, Exchange Act Release No. 63347 (Nov. 19, 2010), 75 FR 77306, 77354 (Dec. 10, 2010); International Organization of Securities Commissions, The Credit Default Swap Market, Report FR05/12 (June 2012), available at http://www.iosco.org/library/pubdocs/pdf/IOSCOPD385.pdf (stating although the amount of public information on credit default swaps has increased over recent years, the credit default swap market is still quite opaque).

¹²¹⁸ See CDS Data Analysis.

Available information about the global OTC derivatives markets suggests that swap transactions, in contrast to security-based swap transactions, dominate trading activities, notional amounts, and market values.¹²¹⁹ For example, the BIS estimates that the total notional amounts outstanding and gross market value of global OTC derivatives were over $693 trillion and $20.2 trillion, respectively, as of the end of June 2013.¹²²⁰ Of these totals, the BIS estimates that foreign exchange contracts, interest rate contracts, and commodity contracts comprised approximately 95% of the total notional amount and 93% of the gross market value.¹²²¹ Credit default swaps, including index credit default swaps, comprised approximately 3.5% of the total notional amount and 3.6% of the gross market value. Equity-linked contracts, including forwards, swaps, and options, comprised approximately an additional 1.0% of the total notional amount and 3.5% of the gross market value.¹²²²

¹²¹⁹ See BIS Statistical Release: OTC derivatives statistics at end-June 2013 (reflecting data reported by central banks in thirteen countries: Australia, Belgium, Canada, France, Germany, Italy, Japan, the Netherlands, Spain, Sweden, Switzerland, the United Kingdom, and the U.S.).

¹²²⁰ Id. at 5.

¹²²¹ Id.

¹²²² Id. Similarly, the OCC has found that interest rate products comprised 81% of the total notional amount of OTC derivatives held by bank dealers whereas credit derivative contracts comprised 5%. See OCC, Quarterly Report on Bank Trading and Derivatives Activities, Third Quarter 2013, available at http://www.occ.gov/topics/capital-markets/financial-markets/trading/derivatives/dq313.pdf.

Security-based swaps represent a relatively small subset of the overall global OTC derivatives market.¹²²³ Consistent with the Commission's authority over this subset of the OTC derivatives market,¹²²⁴ the recordkeeping, reporting, and notification requirements under proposed Rules 18a-5 through 18a-9 would apply only to those firms that participate in the security-based swap markets (although some of these firms may be dually-registered with the CFTC or the prudential regulators and thus may be subject to the recordkeeping and reporting rules of the CFTC and the prudential regulators governing swaps generally).¹²²⁵ In addition, although the proposed recordkeeping, reporting, and notification requirements apply to all security-based swaps, not just single-name credit default swaps, the data on single-name credit default swaps are currently sufficiently representative of the market to help inform this economic analysis because when measured by notional value, single-name credit default swaps account for 95% of all SBS transactions.¹²²⁶ The majority of these single-name credit default swaps, both in terms of aggregate total notional amount and total volume by product type reference corporate and sovereign entities.¹²²⁷

¹²²³ For example, as of the end of June, 2013, BIS reports that the global notional amount outstanding of OTC derivatives was $692,908 billion. Interest rate contracts, which generally are not security-based swaps, comprised approximately 83.31% of the overall OTC derivatives market. Foreign exchange contracts, another type of OTC derivative which generally is not a security-based swap, comprised another 11.69% of the overall derivatives market. See BIS Statistical Release: OTC derivatives statistics at end-June 2013, p. 5.

¹²²⁴ See 15 U.S.C. 78o-10(f)(1) and (2).

¹²²⁵ See, e.g., Swap Data Recordkeeping and Reporting Requirements: Pre-Enactment and Transition Swaps (Final Rule), 77 FR 35200 (June 12, 2012); Swap Dealer and Major Swap Participant Recordkeeping, Reporting, and Duties Rules; Futures Commission Merchant and Introducing Broker Conflicts of Interest Rules; and Chief Compliance Officer Rules for Swap Dealers, Major Swap Participants, and Futures Commission Merchants, 77 FR 20128 (Apr. 3, 2012).

¹²²⁶ See Further Definition of “Swap Dealer,” “Security-Based Swap Dealer,” “Major Swap Participant,” “Major Security-Based Swap Participant” and “Eligible Contract Participant”, 77 FR 30636. See also Further Definition of “Swap,” “Security-Based Swap,” and “Security-Based Swap Agreement”; Mixed Swaps; Security-Based Swap Agreement Recordkeeping, 77 FR 48208.

¹²²⁷ Data compiled by the Commission's Division of Economic and Risk Analysis on credit default transactions from the DTCC-TIW from January 1, 2011 through December 31, 2011. See Capital, Margin, and Segregation Requirements for Security-Based Swap Dealers and Major Security-Based Swap Participants and Capital for Broker-Dealers, 77 FR 70301.

While the number of transactions in single-name credit default swaps is larger than the number of index credit default swaps, the aggregate total notional amount of index credit default swaps exceeds the notional amount of single-name credit default swaps.¹²²⁸ For example, the total aggregate notional amount for single-name credit default swaps was $6.2 trillion, while the aggregate total notional amount for index credit default swaps was $16.8 trillion over the sample period of January 1, 2011 through December 31, 2011. For the same sample period, however, single-name credit default swaps totaled 69% of transactional volume, while index credit default swaps comprised 31% of the total transactional volume.¹²²⁹ The majority of trades in both notional amount and volume for both single-name and index credit default swaps over the 2011 sample period were new trades in contrast to assignments, increases, terminations or exits.¹²³⁰ The analysis of the 2011 data further shows that, as measured by total notional amount and total volume, the majority of single-name and index credit default contracts have a tenor of five years.¹²³¹ In addition, the data from the sample period indicates that the geographical distribution of counterparties' parent country domiciles in single name contracts are concentrated in the U.S., United Kingdom, and Switzerland.¹²³²

¹²²⁸ Id. This data also shows the average mean and median single-name and index credit default swap notional transaction size is $6.47 million and $4.12 million, and $39.22 million and $14.25 million, respectively.

¹²²⁹ Id.

¹²³⁰ Id.

¹²³¹ Id.

¹²³² Id.

As described more fully in the CDS Data Analysis,¹²³³ based on 2011 transaction data, Commission staff identified entities currently transacting in the credit default swap market that may register as SBSDs by analyzing various criteria of their dealing activity. The results suggest that there is currently a high degree of concentration of potential dealing activity in the single-name credit default swap market. For example, using the criterion that dealers are likely to transact with many counterparties who themselves are not dealers, the analysis of the 2011 data shows that only 28 out of 1,084 market participants have three or more counterparties that themselves are not recognized as dealers by ISDA.¹²³⁴ In addition, the analysis suggests that dealers appear, based on the percentage of trades between buyer and seller principals, in the majority of all trades on either one or both sides in single-name and index credit default swaps.¹²³⁵ Additionally, according to the OCC, at the end of the first quarter of 2012, derivatives activity in the U.S. banking system continues to be dominated by a small group of large financial institutions. Four large commercial banks represent 93% of the total banking industry notional amounts and 81% of industry net current credit exposure.¹²³⁶

¹²³³ See CDS Data Analysis.

¹²³⁴ Id. at Table 3c. The analysis of this transaction data is imperfect as a tool for identifying dealing activity, given that the presence or absence of dealing activity ultimately turns upon the relevant facts and circumstances of an entity's security-based swap transactions, as informed by the dealer-trader distinction. Criteria based on the number of an entity's counterparties that are not recognized as dealers nonetheless appear to be useful for identifying apparent dealing activity in the absence of full analysis of the relevant facts and circumstances, given that engaging in security-based swap transactions with non-dealers would be consistent with the conduct of seeking to profit by providing liquidity to others, as anticipated by the dealer-trader distinction. See Further Definition of “Swap Dealer,” “Security-Based Swap Dealer,” “Major Swap Participant,” “Major Security-Based Swap Participant” and “Eligible Contract Participant”, 77 FR 30599 (discussing the dealer-trader distinction).

¹²³⁵ See CDS Data Analysis.

¹²³⁶ See OCC, Quarterly Report on Bank Trading and Derivatives Activities, Third Quarter 2013, p.1.

This concentration to a large extent appears to reflect the fact that those larger entities are well-capitalized and therefore possess competitive advantages in engaging in OTC security-based swap dealing activities by providing potential counterparties with adequate assurances of financial performance.¹²³⁷ Also, the high barriers to entry indicate that only a limited number of entities conduct business in this space.

¹²³⁷ See, e.g., Craig Pirrong, Rocket Science, Default Risk and The Organization of Derivatives Markets, Working Paper 17-18 (2006), available at http://www.cba.uh.edu/spirrong/Derivorg1.pdf (noting that counterparties seek to reduce risk of default by engaging in credit derivative transactions with well-capitalized firms). See also Further Definition of “Swap Dealer,” “Security-Based Swap Dealer,” “Major Swap Participant,” “Major Security-Based Swap Participant” and “Eligible Contract Participant”, 77 FR 30739-30742.

Other than OTC derivatives dealers, which are subject to significant limitations on their activities, broker-dealers historically have not participated in a significant way in security-based swap trading for at least two reasons. First, because the Exchange Act has not previously defined security-based swaps as “securities,” they have not been required to be traded through registered broker-dealers.¹²³⁸ And second, a broker-dealer engaging in security-based swap activities is currently subject to existing regulatory requirements, including capital, margin, segregation, recordkeeping, reporting, notification, and securities count requirements. Specifically, the existing broker-dealer capital requirements make it relatively costly to conduct these activities in broker-dealers.¹²³⁹ Instead of occurring at broker-dealers, security-based swap activities are currently mostly concentrated in entities that are affiliated with broker-dealers, but not in broker-dealers themselves.¹²⁴⁰

¹²³⁸ See 15 U.S.C. 78c(a)(10) and (a)(68) (defining “security” and “security-based swap”, respectively).

¹²³⁹ See Capital, Margin, and Segregation Requirements for Security-Based Swap Dealers and Major Security-Based Swap Participants and Capital Requirements for Broker-Dealers, 77 FR 70217-70257.

¹²⁴⁰ See ISDA Margin Survey 2012.

End users enter into OTC derivatives transactions to take investment positions or to hedge commercial and financial risk. These non-dealer end users of OTC derivatives are, for example, commercial companies, governmental entities, financial institutions, and investment vehicles.¹²⁴¹ Available data suggests that the largest end users of credit default swaps are, in descending order, hedge funds, asset managers, and banks, which may have a commercial need to hedge their credit exposures against a wide variety of entities or may take an active view on credit risk.¹²⁴² Based on the available data, the Commission further estimates that these end users currently participate in the security-based swap markets on a very limited basis.¹²⁴³ Finally, this baseline will be further discussed in the applicable sections of the release below.

¹²⁴¹ See Capital, Margin, and Segregation Requirements for Security-Based Swap Dealers and Major Security-Based Swap Participants and Capital for Broker-Dealers, 77 FR 70302.

¹²⁴² See CDS Data Analysis.

¹²⁴³ Id.

Request for Comment

The Commission generally requests comment about its preliminary estimates of the scale and composition of the OTC derivatives market, including the relative size of the security-based swap segment of that market. The Commission also requests comment on the Commission's understanding of which entities are engaged in the OTC derivatives market, as well as the business practices of broker-dealer, bank, and stand-alone SBSDs and MSBSPs currently engaged in the OTC derivatives markets. In addition, the Commission requests that commenters provide data and sources of data to quantify:

1. The average daily and annual volume of OTC derivatives transactions;

2. The volume of transactions in each class of OTC derivatives (e.g., interest rate swaps, index credit default swaps, single-name credit default swaps, currency swaps, commodity swaps, and equity-based swaps);

3. The total notional amount of all pending swap transactions;

4. The total gross exposure of all pending swap transactions;

5. The total notional amount of all pending security-based swap transactions;

6. The total gross exposure of all pending security-based swap transactions;

7. The types and numbers of dealers in OTC derivatives (e.g., banks, broker-dealers, unregulated entities);

8. The types and numbers of dealers in OTC derivatives that engage in both a swap and security-based swap business;

9. The types and numbers of dealers in OTC derivatives that engage only in a swap business;

10. The types and numbers of dealers in OTC derivatives that engage only in a security-based swap business;

11. The current recordkeeping practices with respect to security-based swap and swap transactions;

12. The current reporting practices with respect to swap transactions;

13. The current securities count practices with respect to OTC derivatives participants; and

14. The current financial reporting practices of OTC derivatives participants.

2. OTC Derivatives Market Participants and Broker-Dealers

The Commission has not promulgated final registration rules for SBSDs and MSBSPs. Therefore, there are no entities currently registered as SBSDs or MSBSPs. As discussed above, the Commission anticipates that certain entities (stand-alone firms, banks, and registered broker-dealers) may register as SBSDs or MSBSPs, but the number and type of these registrants is uncertain. Below, the Commission has summarized the current recordkeeping practices of these entities, although as noted below, the Commission does not have information regarding the practices of some of these entities. The Commission also has provided below an overview of the entities registered with the Commission as broker-dealers.

a. Stand-Alone SBSDs and Stand-Alone MSBSPs

Currently, there are firms that are neither banks nor broker-dealers that participate in the market for security-based swaps. For these firms, the economic baseline would be the reports and records these firms currently generate in the ordinary course of their business. The Commission believes that firms engaged in the security-based swap market would produce financial reports that are included in the financial reports it is proposing, such as a balance sheet and an income statement quarterly and at year end, as a part of ordinary prudent business practices. Such firms may not, however, produce annual audited financial statements. The Commission also believes that firms engaged in the security-based swap business would need, as a matter of prudent business practice, to maintain records documenting the firm's derivatives positions. Further, the Commission would expect that these firms would maintain these records for the duration they held a given position and for some period of time thereafter. However, the Commission does not believe that these firms would necessarily have any regulatory reporting activities. In sum, the baseline for nonbank and non-broker-dealer firms would be the recordkeeping, record retention, and financial reporting activities (if any) those firms currently undertake. Given that the Commission has not previously regulated these firms, the Commission does not have information regarding the recordkeeping and reporting costs these nonbank and non-broker-dealer firms would presently incur in the ordinary course of business. Moreover, while the Commission has estimated the current costs of recordkeeping and reporting for broker-dealer and banks below, the Commission does not believe these nonbank and non-broker-dealer firms are currently subject to analogous recordkeeping and reporting requirements. As noted above, the Commission believes that these firms would, however, as a matter of routine business practice maintain some records documenting their business activities. Any new costs imposed by the proposed rules would be incremental to costs currently being incurred by these entities. In order to help the Commission assess the costs associated with the proposed recordkeeping and reporting requirements, and the extent to which the proposed recordkeeping and reporting rules add costs above those already incurred by these firms in the ordinary course of business, the Commission requests comment. Specific cost estimates would be particularly helpful to the Commission's analysis.

b. Bank Security-Based Swap Dealers and Bank Major Security-Based Swap Participants

Banks are already subject to recordkeeping and retention requirements by the prudential regulators.¹²⁴⁴ In addition, banks must file financial statements and supporting schedules known as “call reports” with their prudential regulator.¹²⁴⁵ The Commission believes that the most common form of call report for a bank that would register as an SBSD or MSBSP is FFIEC Form 031.¹²⁴⁶ Like the FOCUS Report, FFIEC Form 031 elicits financial and operational information about a bank, which is entered into uniquely numbered line items. A bank must report detail about its assets, liabilities, and equity capital on Schedule RC to FFIEC Form 031.¹²⁴⁷ A bank must report detail about its regulatory capital on Schedule RC-R to FFIEC Form 031.¹²⁴⁸ The information elicited on Schedule RC-R is designed to facilitate an analysis of the bank's regulatory capital. A bank must report detail about its income (loss) and expenses on Schedule RI to FFIEC Form 031.¹²⁴⁹

¹²⁴⁴ See, e.g., 12 CFR 12.3 (Department of Treasury); 12 CFR 219.21 et seq. (FDIC); 12 CFR 344.4 (FDIC).

¹²⁴⁵ See 12 U.S.C. 324; 12 U.S.C. 1817; 12 U.S.C. 161; 12 U.S.C. 1464.

¹²⁴⁶ FFIEC Form 031 is filed by banks with domestic and foreign offices, which the Commission believes will characterize most bank SBSDs.

¹²⁴⁷ See FFIEC Form 031, Schedule RC, Balance Sheet, Lines 1-29. Schedule RC also has a “Memoranda” section that which elicits information about bank's external auditors and fiscal year end date. See FFIEC Form 031, Schedule RC, Balance Sheet, Memoranda, Lines 1-2.

¹²⁴⁸ See FFIEC Form 031, Schedule RC-R, Regulatory Capital, Lines 1-62. Schedule RC-R also has a “Memoranda” section that elicits detail about derivatives. See FFIEC Form 031, Schedule RC-R, Regulatory Capital, Memoranda, Lines 1-2.

¹²⁴⁹ See FFIEC Form 031, Schedule RI, Income Statement, Lines 1-14. Schedule RI also has a “Memoranda” section that elicits further detail about income (loss). See FFIEC Form 031, Schedule RI, Income Statement, Memoranda, Lines 1-14.

The Commission has estimated the cost of the existing recordkeeping, record retention, reporting, and notification requirements that are applicable to nationally chartered banks under existing regulations issued by the OCC. The Commission arrived at the estimate by examining the universe of existing PRA collections to which national banks are subject and selecting those collections which represent regulations that are analogous to the recordkeeping, record retention, reporting, and notification rules the Commission is proposing herein.¹²⁵⁰ The Commission then estimated that reporting burdens generate approximately $79/hour of cost for national banks and that recordkeeping burdens generate approximately $30/hour of cost for national banks.¹²⁵¹ The Commission estimates that national banks currently incur $54,120,368 of costs to comply with the OCC's financial reporting, notification and recordkeeping rules.¹²⁵² The OCC's rules generally relate to banking activities, not securities and security-based swap activities. The Commission thus recognizes that some of the costs reflected in the OCC's rules may not be analogous to costs that may be imposed by the Commission's proposed rules. Nonetheless, these cost estimates may help provide context and cost ranges with respect to the nationally chartered banks impacted by the Commission's proposed rules.

¹²⁵⁰ PRA collections for OCC-regulated national banks, together with PRA collections for other federal regulatory agency rules, are available at www.reginfo.gov/public/do/PRAMain.

¹²⁵¹ This assumption is derived from OCC staff's description of the hourly costs it estimates in connection with Paperwork Reduction Act burdens. For the purposes of this Economic Analysis, the Commission assumes that reporting burdens will be performed 5% by clerical staff at $20 an hour, 10% by managerial or technical staff at $40 an hour, 55% by senior management at $80 an hour, and 30% by legal counsel at $100 an hour, which, in the aggregate, equals $79 an hour. The Commission assumes that recordkeeping burdens will be performed 70% by clerical staff at $20 an hour, 20% by managerial or technical staff at $40 an hour, and 10% by senior management at $80 an hour, which in the aggregate, equals $30 an hour.

¹²⁵² The Commission derived the estimates of the hourly burden associated with these OCC rules from the number of hours approved for information collection purposes by the Office of Management and Budget. See the chart below for a representation of the calculation methodology:

Reporting/recordkeeping | Annual hourly industry burden | Compensation rate (per hour) | Estimated annual cost
Interagency Call Report (FFIEC 031 and 041) | 406,141 | $79 | $32,085,139
Foreign Branch Call Report (FFIEC 041) | 4,651 | 79 | 367,429
Country Exposure Report (FFIEC 009) | 8,384 | 79 | 662,336
Exchange Act Disclosures Reported to the OCC | 523 | 79 | 32,785
Recordkeeping Requirements for Securities Transactions | 6,944 | 30 | 208,320
Disclosure of Financial and Other Information | 669 | 79 | 52,851
Interagency Guidance on Asset Securitization Activities | 778 | 30 | 23,340
Advanced Capital Adequacy Framework Reporting | 137,500 | 79 | 10,862,500
Liquidity Risk Report | 43,992 | 79 | 3,475,368
General Reporting and Recordkeeping by Savings Associations | 61,362 | 30 | 1,840,860
Notice or Application for Capital Distributions | 546 | 79 | 43,134
Annual Stress Test Rule and Stress Test Reporting Templates | 73,876 | 79 | 5,836,204
Recordkeeping and Disclosure Provisions Associated with Stress Testing Guidance | 16,120 | 30 | 483,600
Total Costs |  |  | 55,614,969

c. Entities Registered as Broker-Dealers

As of April 1, 2013, there were 4,545 broker-dealers registered with the Commission. The broker-dealers registered with the Commission vary significantly in terms of their size, business activities, and the complexity of their operations.¹²⁵³ The Commission has previously estimated that as of December 31, 2011, nine broker-dealers dominate the broker-dealer industry, holding over half of all capital held by broker-dealers.¹²⁵⁴ However, other than OTC derivatives dealers, which are subject to significant limitations on their activities, broker-dealers historically have not participated in a significant way in security-based swap trading.¹²⁵⁵

¹²⁵³ See Broker-Dealer Reports, 78 FR 51967.

¹²⁵⁴ See Broker-Dealer Reports, 78 FR 51968.

¹²⁵⁵ See Capital, Margin, and Segregation Requirements for Security-Based Swap Dealers and Major Security-Based Swap Participants and Capital Requirements for Broker-Dealers, 77 FR 70302.

i. Rules 17a-3 and 17a-4

The Commission is proposing amendments to Rules 17a-3 and 17a-4 to establish additional recordkeeping requirements for broker-dealer SBSDs, broker-dealer MSBSPs,¹²⁵⁶ and broker-dealers that conduct security-based swap activities but are not registered as SBSDs.¹²⁵⁷ The baseline for this economic analysis with respect to the proposed amendments to Rules 17a-3 and 17a-4 is the broker-dealer recordkeeping regime as it exists today.

¹²⁵⁶ See section II.A.2. of this release.

¹²⁵⁷ The proposed amendments to the recordkeeping and reporting rules would apply to all broker-dealers that conduct security-based swap activities. The de minimis exception provided in Exchange Act Rule 3a71-2 applies solely to registration as an SBSD. See 17 CFR 240.3a71-2(a)(1) .

Under current Rule 17a-3, broker-dealers must make and keep certain books and records.¹²⁵⁸ The Commission estimates that current Rule 17a-3 imposes $191,858,085 of annual costs on broker-dealers.¹²⁵⁹ Current Rule 17a-4 requires that firms preserve the records made and kept under Rule 17a-3, as well as additional records, including written agreements, communications relating to its business as such, and records reflecting inputs into the FOCUS Report. The rule also establishes retention periods for all records required to be made under Rule 17a-3 and required to be preserved under Rule 17a-4, along with storage media requirements for those firms that preserve records electronically. The Commission estimates that current Rule 17a-4 imposes $95,454,090 of annual costs on broker-dealers.¹²⁶⁰

¹²⁵⁸ See 17 CFR 240.17a-3.

¹²⁵⁹ (2,449,755 hours × $63/hour national hourly rate for a compliance clerk) + $37,523,520 in external costs = $191,858,085. See supra section IV.D.1. (PRA estimate of the total initial and annual recordkeeping and reporting burden for current Rule 17a-3).

¹²⁶⁰ (1,154,430 hours × $63/hour national hourly rate for a compliance clerk) + $22,725,000 in external costs = $95,454,090. See supra section IV.D.2. (PRA estimate of the total initial and annual recordkeeping and reporting burden for current Rule 17a-4).

ii. Rule 17a-5

The existing broker-dealer financial reporting requirements appear in Rule 17a-5. The baseline for this economic analysis with respect to the proposed amendments to Rules 17a-5 is the broker-dealer financial reporting requirements as they exist today (as recently amended). The Commission estimates that current Rule 17a-5 imposes $210,776,086 of annual costs on broker-dealers.¹²⁶¹

¹²⁶¹ (734,294 hours × $269/hour national hourly rate for a compliance manager) + $13,251,000 in external costs = $210,776,086. See supra section IV.D.3. (PRA estimate of the total initial and annual recordkeeping and reporting burden for current Rule 17a-5).

Rule 17a-5, as recently amended, has two main elements: (1) broker-dealers must file periodic unaudited reports containing information about their financial and operational condition on a FOCUS Report; and (2) broker-dealers must annually file financial statements and certain reports and a report covering the financial statements and reports prepared by an independent public accountant registered with the PCAOB in accordance with PCAOB standards.¹²⁶² In addition to these two main elements, a few other aspects of Rule 17a-5 are described below.

¹²⁶² Id. These requirements are described in more detail below.

a. Periodic Reports

Broker-dealers periodically report information about their financial and operational condition on the FOCUS Report Part II, Part IIA, Part IIB, or Part II CSE. Each version of the report is designed for a particular type of broker-dealer and the information to be reported is tailored to the type of broker-dealer. Specifically: (1) a broker-dealer that does not hold customer funds or securities completes and files the FOCUS Report Part IIA; (2) a broker-dealer that holds customer funds or securities completes and files the FOCUS Report Part II; (3) an OTC derivatives dealer completes and files the FOCUS Report Part IIB; and (4) an ANC broker-dealer completes and files the FOCUS Report Part II CSE. The FOCUS Report Part II CSE elicits the most detailed information of the four versions, including the most detail about a firm's derivatives activities.

b. Annual Audited Reports and Related Notifications

Under the recently adopted amendments to Rule 17a-5, a broker-dealer is required to, among other things, annually file reports with the Commission that are audited by a PCAOB-registered independent public accountant, disclose certain financial information to customers, notify the Commission of a change of accountant, and notify the Commission of its DEA's approval of a change in its fiscal year.¹²⁶³ The recent rule amendments also require the independent public accountant to notify the broker-dealer if the accountant discovers an instance of non-compliance with certain broker-dealer rules or determines that any material weakness exists.¹²⁶⁴

¹²⁶³ See 17 CFR 240.17a-5(d), (g), and (n)(1). Paragraph (n)(2) of Rule 17a-5 requires that the notice contain a detailed explanation for the reasons for the change and requires that changes in the filing period for the annual reports be approved in writing by the broker-dealer's DEA.1

¹²⁶⁴ See Broker-Dealer Reports, 78 FR 51910.

c. Customer Statements

Paragraph (c) of Rule 17a-5 requires, among other things, that certain broker-dealers annually send their customers audited and unaudited statements regarding their financial condition. A broker-dealer is exempt from sending the statement of financial condition to customers if the broker-dealer, among other things: (1) sends its customers semi-annual statements relating to the firm's net capital and, if applicable, the identification of any material weaknesses; and (2) makes the statement of financial condition described above available on the broker-dealer's Web site home page and maintains a toll-free number that customers can call to request a copy of the statement.¹²⁶⁵

¹²⁶⁵ See 17 CFR 240.17a-5(c)(5).

d. Additional ANC Broker-Dealer Reports

Paragraph (a)(6) of Rule 17a-5 requires ANC broker-dealers to periodically file certain reports with the Commission.¹²⁶⁶ The reports contain information related to the ANC broker-dealer's use of internal models to calculate market and credit risk charges when computing net capital.¹²⁶⁷

¹²⁶⁶ See 17 CFR 240.17a-5(a)(6).

¹²⁶⁷ Id.

iii. Rule 17a-11

The existing broker-dealer notice requirements are contained in Rule 17a-11. The baseline for this economic analysis with respect to the proposed amendments to Rule 17a-11 is the broker-dealer notification requirements as they exist today. Rule 17a-11 specifies the circumstances under which a broker-dealer must notify the Commission and other securities regulators about its financial or operational condition, as well as the form that the notice must take.¹²⁶⁸ The Commission estimates that current Rule 17a-11 imposes $119,167 of annual costs on broker-dealers in the aggregate.¹²⁶⁹

¹²⁶⁸ See 17 CFR 240.17a-11.

¹²⁶⁹ 443hours × $269/hour national hourly rate for a compliance manager = $119,167. See supra section IV.D.4. (PRA estimate of the total initial and annual recordkeeping and reporting burden for current Rule 17a-11).

a. Failure to Meet Minimum Capital Requirements

Paragraph (b) of Rule 17a-11 requires a broker-dealer to notify the Commission if the firm's net capital or, if applicable, tentative net capital declines below the minimum amount required under Rule 15c3-1.¹²⁷⁰ Paragraph (b)(2) of Rule 17a-11 requires an OTC derivatives dealer or an ANC broker-dealer to also notify the Commission when its tentative net capital falls below the minimum required for these types of broker-dealers.¹²⁷¹

¹²⁷⁰ See 17 CFR 240.17a-11(b).

¹²⁷¹ See 17 CFR 240.17a-11(b)(2).

b. Early Warning of Potential Capital or Model Problem

Paragraph (b)(2) of Rule 17a-11 requires an OTC derivatives dealer or an ANC broker-dealer to also notify the Commission when its tentative net capital falls below the minimum required for these types of broker-dealers.¹²⁷² Paragraph (c) of Rule 17a-11 specifies four events that, if they occur, trigger a requirement that a broker-dealer send notice promptly (but within twenty-four hours) to the Commission.¹²⁷³ These notices are designed to provide the Commission with “early warning” that the broker-dealer may experience financial difficulty.¹²⁷⁴ The events triggering the early warning notification requirements are:

¹²⁷² Id.

¹²⁷³ See 17 CFR 240.17a-11(c).

¹²⁷⁴ See Early Warning Rule, Securities Exchange Act Release No. 32586 (July 7, 1993), 58 FR 37655 (July 13, 1993).

• The computation of a broker-dealer subject to the aggregate indebtedness standard of Rule 15c3-1 shows that the firm's aggregate indebtedness is in excess of 1,200% of its net capital; ¹²⁷⁵

¹²⁷⁵ See 17 CFR 240.17a-11(c)(1). As discussed above, for certain types of broker-dealers, the minimum net capital requirement is the greater of a fixed-dollar amount specified in the rule and an amount determined by applying a 15-to-1 aggregate indebtedness to net capital ratio. See 17 CFR 240.15c3-1(a)(1)(i). Consequently, requiring notification when a broker-dealer has a 12-to-1 aggregate indebtedness to net capital ratio provides notice before the firm reaches the minimum 15-to-1 requirement.

• The computation of a broker-dealer which has elected to use the alternative standard of calculating net capital under Rule 15c3-1 shows that the firm's net capital is less than 5% of aggregate debit items computed in accordance with Appendix A of Rule 15c3-3;¹²⁷⁶

¹²⁷⁶ See 17 CFR 240.17a-11(c)(2). As discussed above, for certain types of broker-dealers, the minimum net capital requirement is the greater of a fixed-dollar amount specified in the rule and an amount determined by applying a 2% of aggregate debit items ratio. See 17 CFR 240.15c3-1(a)(1)(ii). Consequently, requiring notification when a broker-dealer has net capital equal to 5% of aggregate debit items provides notice before the firm reaches the 2% minimum requirement.

• A broker-dealer's net capital computation shows that its total net capital is less than 120% of its required minimum level of net capital or of its required minimum level of tentative net capital, in the case of an OTC derivatives dealer; ¹²⁷⁷

¹²⁷⁷ See 17 CFR 240.17a-11(c)(3).

• With respect to an OTC derivatives dealer, the occurrence of the fourth and each subsequent backtesting exception under Appendix F of Rule 15c3-1 during any 250 business day measurement period.¹²⁷⁸

¹²⁷⁸ See 17 CFR 240.17a-11(c)(4).

c. Failure to Make and Keep Current Books and Records

Paragraph (d) of Rule 17a-11 requires a broker-dealer that fails to make and keep current the books and records required under Rule 17a-3 to notify the Commission of this fact on the same day that the failure arises.¹²⁷⁹ The notice must specify the books and records which have not been made or which are not current.¹²⁸⁰ A broker-dealer is required to report to the Commission within 48 hours of the original notice what the broker or dealer has done or is doing to correct the situation.¹²⁸¹

¹²⁷⁹ See 17 CFR 240.17a-11(d).

¹²⁸⁰ Id.

¹²⁸¹ Id.

d. Material Weakness

Paragraph (e) of Rule 17a-11 requires a broker-dealer to provide notification about a material weakness as that term is defined in Rule 17a-5.¹²⁸² Specifically, paragraph (e) provides that, whenever a broker-dealer discovers or is notified by an independent public accountant of a material weakness as defined in Rule 17a-5, the broker-dealer must: (1) give notice to the Commission within twenty-four hours of the discovery or notification of the material weakness; and (2) transmit a report within forty-eight hours of the notice indicating what the broker-dealer has done or is doing to correct the situation.¹²⁸³

¹²⁸² See 17 CFR 240.17a-11(e). See also 17 CFR 240.17a-5(g).

¹²⁸³ See 17 CFR 240.17a-11(e)(1) and (2). See also Broker-Dealer Reports, 78 FR 51939 (discussing amendment of material weakness standard in Rule 17a-5). As discussed above in section II.B.3.a. of this release, the Commission is proposing to use the concept of material weakness in proposed Rule 18a-7.

e. Failure to Make a Required Reserve Deposit

An additional broker-dealer notification is required under Exchange Act Rule 15c3-3, rather than Rule 17a-11. Specifically, under paragraph (i) of Rule 15c3-3, a broker-dealer is required to notify the Commission and its DEA if it fails to make a required deposit into its customer reserve account under Rule 15c3-3.¹²⁸⁴

¹²⁸⁴ See 17 CFR 240.15c3-3(i).

C. Analysis of the Proposed Program and Alternatives

1. Overview—The Proposed Recordkeeping, Reporting, Notification, and Securities Count Program

Generally, the proposed recordkeeping, reporting, notification, and securities count requirements are intended to update the recordkeeping, reporting, notification, and securities count requirements for broker-dealers, including broker-dealer SBSDs and broker-dealer MSBSPs, to account for their security-based swap activities. The proposal is also intended to establish recordkeeping, reporting, and notification requirements for SBSDs and MSBSPs that are not registered as broker-dealers as well as a securities count requirement for stand-alone SBSDs. The recordkeeping, reporting, notification, and securities count rules being proposed are based upon the comprehensive system of recordkeeping, reporting, notification, and securities count rules applicable to broker-dealers, as proposed to be modified to capture and document the security-based swap activities of broker-dealers, SBSDs, and MSBSPs. The recordkeeping, reporting, notification, and securities count rules and rule amendments being proposed today represent the manner in which SBSDs and MSBSPs will document, report, and retain evidence of their compliance with, among other things, the previously proposed capital, margin, and segregation rules. The Commission believes that these rules, by their nature, will have a more limited economic impact as compared to the Commission's capital, margin, and segregation proposals.¹²⁸⁵

¹²⁸⁵ See Capital, Margin, and Segregation Requirements for Security-Based Swap Dealers and Major Security-Based Swap Participants and Capital Requirements for Broker-Dealers, 77 FR 70213.

In proposing these requirements, the Commission is considering both the potential benefits of improving the oversight, transparency, risk documentation and management of security-based swap activities, and the potential costs to firms, the financial markets, and the U.S. financial system if broker-dealers, SBSDs, and MSBSPs are required to comply with the proposed rules.

The Commission notes that there are certain instances when it is difficult to quantify the potential benefits and costs of the proposed rules. For example, firms that choose to register in some capacity as an SBSD or MSBSP may not currently be subject to Commission, CFTC, or prudential regulation. For these firms, the Commission is not certain of such firms' current recordkeeping, reporting, notification, and securities count practices with respect to their security-based swap activities and thus it is difficult to reliably gauge the economic effect of the proposed rules and rules amendments on these firms. With regard to other classes of regulated entities, the Commission staff's experience with broker-dealers under the existing recordkeeping, reporting, notification, and securities count rules gives it a better understanding of the compliance-related costs (such as those related to retaining attorneys, accountants, and other professionals) and in such cases the Commission has prepared below a summary of its preliminary estimate of those costs.¹²⁸⁶

¹²⁸⁶ See infra section V.E.

As discussed in section II. of the release, the current broker-dealer recordkeeping, reporting, notification, and securities count requirements serve as the template for the proposals for several reasons. The financial markets in which SBSDs and MSBSPs are expected to operate are similar to the financial markets in which broker-dealers operate in that they are driven in significant part by dealers that buy and sell on a regular basis and that take principal risk. The Commission believes it should take a similar regulatory approach for similar markets.

The Commission also believes that in order to prevent regulatory arbitrage, and to help ensure appropriate accountability and oversight, security-based swap activity should be regulated in a similar manner irrespective of whether it is conducted by, for example, a broker-dealer or stand-alone SBSD. The proposals applicable to stand-alone SBSDs and stand-alone MSBSPs seek to regulate these firms' security-based swap activity consistent with the regulation of security-based swap activities conducted at broker-dealers, while reflecting the business model of such entities.¹²⁸⁷ The Commission is seeking to provide all security-based swap activity, irrespective of the entity within which such activity is conducted, a level regulatory playing field while being cognizant of the fact that firms with a more limited business should also be subject to an appropriately circumscribed set of regulations.

¹²⁸⁷ In this regard, the Commission notes the proposal excludes a number of recordkeeping requirements for bank SBSDs and bank MSBSPs. As discussed above in section I. of this release, section 15F(f)(1)(B) of the Exchange Act requires such institutions to keep only those books and records of all activities related to the conduct of business as an SBSD or MSBSP.

Moreover, the rules ultimately adopted, in conjunction with other requirements established under the Dodd-Frank Act, could have a substantial impact on international commerce and the relative competitive position of intermediaries operating in various, or multiple, jurisdictions. In particular, intermediaries operating in the U.S. and in other jurisdictions could be advantaged or disadvantaged if corresponding requirements are not established in other jurisdictions or if the Commission's rules are substantially more or less stringent than corresponding requirements in other jurisdictions. This could, among other potential impacts, affect the propensity of intermediaries and other market participants based in the U.S. to participate in non-U.S. markets and the propensity of non-U.S.-based intermediaries and other market participants to participate in U.S. markets. Accordingly, substantial differences between the U.S. and foreign jurisdictions in the costs of complying with the requirements established under the Dodd-Frank Act, including the reporting, recordkeeping, notification, and security count requirements for security-based swaps between U.S. and foreign jurisdictions, could have international implications.¹²⁸⁸

¹²⁸⁸ See Cross-Border Security-Based Swap Activities; Re-Proposal of Regulation SBSR and Certain Rules and Forms Relating to Registration of Security-Based Dealers and Major Security-Based Swap Participants, 78 FR 31034.

The Commission also preliminarily believes that there are cost and compliance benefits to be realized by utilizing an existing, well-known set of rules as a starting point. The Commission notes that the broker-dealer recordkeeping, notification, securities count, and reporting requirements have existed for many years and have facilitated the accountability and oversight of broker-dealers. From the perspective of trying to minimize regulatory costs and compliance concerns, the Commission would expect that broker-dealer SBSDs and broker-dealer MSBSPs would already be familiar with the structure and content of the recordkeeping and reporting requirements. The Commission believes that these compliance and cost benefits could be realized even by firms that are not currently registered as broker-dealers given that some of the new registrants would likely be part of larger financial firms that have a broker-dealer affiliate, thus providing a source of in-house experience with the Commission's broker-dealer rules. Even for those firms that have no source of such in-house expertise, the Commission expects that starting with the existing broker-dealer rules should require less expenditure than if the Commission created entirely new rules given that outside expertise with the current broker-dealer rules is readily available. Notwithstanding this belief, the Commission acknowledges that its proposals would likely still require new expenditures for these firms. In order to aid its analysis, the Commission requests comment on the use of the existing broker-dealer rules as a model. The Commission also requests comment on whether there are other existing rule sets that would be more appropriate.

In determining appropriate recordkeeping, reporting, notification, and securities count requirements, the Commission assesses and considers a number of different costs and benefits, and the determinations it ultimately makes can have a variety of economic consequences for the relevant firms, markets, and the financial system as a whole. The recordkeeping, reporting, notification, and securities count requirements in particular are broadly intended to facilitate effective oversight and improve internal risk management via requiring robust internal procedures for creating and retaining records central to the conduct of business as an SBSD or MSBSP. Requiring registered firms to comply with recordkeeping and reporting rules should help ensure more effective regulatory oversight. The proposed rules would help the Commission determine whether an SBSD or MSBSP is operating in compliance with the Exchange Act and the rules thereunder.

The Commission also believes that the proposed rules could promote technology improvements. Those SBSDs and MSBSPs that do not have the technology to store and maintain the information required by the proposed rules will need to invest in technology. The technology improvements could help SBSDs and MSBSPs, particularly those that conducted the security-based swap business outside of any regulated entity, more effectively track their trading and risk exposure in security-based swaps. To the extent that these firms can better track their risk, this should help them better manage risk.

The Commission also believes that the required annual audit of nonbank SBSDs' and nonbank MSBSPs' financial statements and the public availability of firms' Statement of Financial Condition would permit customers and counterparties to have access to financial information that would permit them to better assess the financial condition of the firm. While it is difficult to quantify the current level of market confidence in the security-based swap marketplace, the Commission staff's experience is that market participants' willingness to engage in activities increases when such participants are better able to understand the financial condition of other market participants and counterparties.

The Commission also recognizes that there will be costs associated with the proposal. Those costs include the costs of complying with the proposed rules, one-time and ongoing financial reporting costs, and costs associated with ongoing record maintenance.

2. Alternatives to the Proposed Recordkeeping, Reporting, Notification, and Securities Count Rules

The Commission recognizes that there may be other appropriate approaches to establishing recordkeeping, reporting, and notification requirements. In the course of preparing and considering the rules it is proposing today, Commission staff reviewed and analyzed analogous rule sets utilized by the Commission's fellow federal regulators, with a view towards determining whether there may be other practicable alternatives. In a number of instances, Commission staff also consulted with staff from its fellow regulators regarding the proposals herein.

The Commission believes the proposals herein are broadly consistent with the approach taken by the CFTC. The CFTC's proposed and ultimately final rules were modeled on an existing set of the rules.¹²⁸⁹ For existing broker-dealers and firms affiliated with existing broker-dealers, the Commission believes that starting with an existing and known set of rules offers practical benefits for both the regulator and the regulated entities, as compared with starting with a wholly new set of rules. The Commission acknowledges that the benefits of this approach would be much more limited for firms such as stand-alone entities that are not currently broker-dealers and are not affiliated with broker-dealers.

¹²⁸⁹ See Swap Dealer and Major Swap Participant Recordkeeping, Reporting, and Duties Rules; Futures Commission Merchant and Introducing Broker Conflicts of Interest Rules; and Chief Compliance Officer Rules for Swap Dealers, Major Swap Participants, and Futures Commission Merchants, 77 FR 20171 (stating swap dealer and major swap participant rules are modeled on existing rules as well as those of the Commission).

Although it is not possible to precisely compare rule sets across agencies, the Commission believes that the recordkeeping rules it is proposing are similar to those of the CFTC in terms of their level of prescriptiveness. For example, paragraph (a)(1) of Rule 17a-3 sets forth the requirement that a broker-dealer make and keep current a trade blotter. The Commission is also proposing very similar provisions in paragraphs (a)(1) and (b)(1) of proposed Rule 18a-5, designed to apply, respectively, to stand-alone SBSDs and stand-alone MSBSPs, as well as bank SBSDs and bank MSBSPs. Paragraph (a)(2) of the corresponding CFTC rule, Rule 202 (“Daily Trading Records”), prescribes that swap dealers and major swap participants shall make and keep trade execution records that are very similar.¹²⁹⁰

¹²⁹⁰ See 17 CFR 23.202(a)(2).

In considering whether there were other practicable regulatory alternatives, the Commission also examined rules of the prudential regulators. For example, the OCC has rules governing recordkeeping and confirmation requirements for securities transactions effected by national banks.¹²⁹¹ Paragraph (a)(1) of the OCC rule governing the record that a national bank effecting securities transactions for customers must maintain, Rule 12.3, appears broadly consistent with paragraph (a)(6) of Rule 17a-3, as proposed to be amended, as well as with paragraph (b)(7) of proposed Rule 18a-5.¹²⁹²

¹²⁹¹ See 12 CFR 12.3.

¹²⁹² Compare 12 CFR 12.3(a), with paragraph (a)(6) of Rule 17a-3, as proposed to be amended, and paragraph (b)(7) of proposed Rule 18a-5.

The Commission considered regulatory approaches outside of those utilized by other regulators. One alternative would be for all SBSDs and MSBSPs to keep and report the same records and other financial reports. While technically possible and arguably simpler to implement and administer, the Commission does not believe such a requirement would be justified given the different capital, margin, and segregation proposals that would apply to each participant. For example, since a stand-alone MSBSP would not be subject to a minimum net capital requirement under the proposed capital rules that would be applicable to SBSDs and MSBSPs (it would be subject to a positive tangible net worth standard instead),¹²⁹³ it may be unduly burdensome to require stand-alone MSBSPs to calculate and report in Form SBS the amount of net capital it holds. Hence, while the Commission considered such a simpler approach, the Commission preliminarily believes that such an approach would be confusing and unduly burdensome for firms required to complete and file Form SBS and would introduce significant compliance challenges beyond those imposed by the proposed rules and rule amendments.

¹²⁹³ See Capital, Margin, and Segregation Requirements for Security-Based Swap Dealers and Major Security-Based Swap Participants and Capital Requirements for Broker-Dealers, 77 FR 70213.

Another alternative to the rules the Commission is proposing would be rules that are less prescriptive. Under such rules, detailed record production and retention requirements could be replaced by more general references to the types of information the firm needs to document and retain for examination purposes. This approach could promote a consistent view and management of recordkeeping and reporting obligations within a large financial firm that has numerous subsidiaries. This approach would also have the advantage of likely being less costly, as the firm would be more able to conform its existing recordkeeping practices at the parent and the subsidiaries. While this approach has its benefits, the financial markets and transactions in which SBSDs and MSBSPs are expected to operate and engage in, respectively, are similar to the financial markets and transactions in which broker-dealers operate, and the Commission preliminarily believes these similarities argue for a consistent regulatory approach.¹²⁹⁴ In addition, as discussed above, the objectives of these broker-dealer requirements are similar to the objectives underlying the proposals regarding securities-based swaps.¹²⁹⁵ Notwithstanding its preliminary analysis of the issue, the Commission requests comment on whether there are existing alternative rule sets that could provide such a model, and the appropriateness of those alternatives relative to what the Commission has proposed.

¹²⁹⁴ See Capital, Margin, and Segregation Requirements for Security-Based Swap Dealers and Major Security-Based Swap Participants and Capital Requirements for Broker-Dealers, 77 FR 70216 (stating a similar rationale for basing the proposed capital, margin, and segregation requirements for SBSDs on the broker-dealer capital, margin, and segregation requirements).

¹²⁹⁵ See supra section I.

The Commission has also considered alternatives to the financial reporting rules being proposed. For example, with respect to bank SBSDs and bank MSBSPs, one alternative would be to permit these firms to use the existing financial reports made with their respective prudential regulators. This approach would allow the firms to avoid creating and filing an additional financial report with the Commission, and would likely result in fewer compliance-related costs. The Commission is aware of the burdens and costs associated with preparing an additional regulatory submission such as Form SBS, but the proposal is designed to ameliorate those burdens. Thus, while proposed Form SBS seeks specific transaction and position data regarding bank SBSDs' and bank MSBSPs' security-based swap activities, the other required financial data in Form SBS for bank SBSDs and bank MSBSPs come directly from the filings these firms currently make with their respective prudential regulators.¹²⁹⁶ The Commission invites comment on whether there are other ways of obtaining information regarding bank SBSDs' and bank MSBSPs' security-based swaps transactions and positions that would be less costly or burdensome and that would also facilitate Commission oversight of the transactions, positions, and financial condition of these firms.

¹²⁹⁶ See supra section II.B.2.b.

The Commission has also considered alternative financial reporting arrangements for stand-alone SBSDs or stand-alone MSBSPs. For example, the Commission is aware that the CFTC proposed that stand-alone swap dealers and stand-alone major swap participants be required to submit monthly unaudited financial statements within 17 business days of the end of the month, as well as GAAP financial statements within 90 days of the end of the fiscal year.¹²⁹⁷ The CFTC did not prescribe any additional forms such as what the Commission is proposing with Form SBS. The Commission preliminarily believes that that the information elicited by Form SBS should assist the Commission and the firms' DEAs to conduct effective examinations of broker-dealer SBSDs and broker-dealer MSBSPs. The broker-dealer SBSD and broker-dealer MSBSP reporting requirements would promote transparency of the financial and operational condition of the broker-dealer SBSD or broker-dealer MSBSP to the Commission and to the public. In order to aid its analysis of whether there are other more appropriate alternatives relative to what it has proposed, the Commission requests comment.

¹²⁹⁷ See Capital Requirements of Swap Dealers and Major Swap Participants, 76 FR 27813 (discussion of proposed CFTC Regulation 23.106).

The Commission has also considered alternatives to the notification and securities count proposals.¹²⁹⁸ An alternative to the proposed notification proposal would be to not have such a rule, or to have fewer events give rise to notification. Similarly, with respect to the quarterly securities count proposal, the Commission believes the alternative would be to specify a less frequent count or to omit a requirement for securities count.

¹²⁹⁸ See supra section II.D.1. (summarizing rationale underlying Rule 17a-13).

The Commission has proposed the notification and securities count proposals because it preliminarily believes that the rules are an appropriate component of its oversight of the financial responsibility of firms engaged in a security-based swap business. The broker-dealer recordkeeping, reporting, notification, and security count requirements are part of the broker-dealer financial responsibility rules.¹²⁹⁹ The financial responsibility rules are designed to work together to establish a comprehensive regulatory program designed to promote the prudent operation of broker-dealers and the safeguarding of customer securities and funds held by broker-dealers. In this regard, the notification and securities count proposals (in conjunction with the recordkeeping and reporting proposals) are designed to promote compliance with the capital, margin, and segregation requirements for broker-dealers. The proposed recordkeeping, reporting, notification, and securities count requirements applicable to SBSDs and MSBSPs along with the proposed capital, margin, and segregation requirements for these registrants, are designed to establish a comprehensive financial responsibility program for SBSDs and MSBSPs. Like the broker-dealer rules, the proposed recordkeeping, reporting, notification, and securities count requirements applicable to SBSDs and MSBSPs are designed to promote compliance with the proposed capital, margin, and segregation requirements applicable to SBSDs and MSBSPs. Omitting such proposals would create regulatory disparities between broker-dealers, banks, and stand-alone SBSDs and stand-alone MSBSPs. For these reasons, the Commission preliminarily believes that alternative approaches would not be as effective in helping to ensure compliance with the proposed capital, margin, and segregation requirements applicable to SBSDs and MSBSPs. However, in order to assist its analysis of the proposed notification and securities count proposals, as well whether there are more appropriate alternatives, the Commission requests comment.

¹²⁹⁹ See 17 CFR 240.3a40-1.

3. Requirements To Make and Keep Records

a. Rule 17a-3, as Proposed To Be Amended

Rule 17a-3 is proposed to be amended to account for security-based swap activities of broker-dealers, including broker-dealer SBSDs and broker-dealer MSBSPs.¹³⁰⁰ The Commission is also proposing to add new provisions to Rule 17a-3 that would relate to its recently proposed capital, margin, and segregation requirements applicable to SBSDs and MSBSPs.¹³⁰¹

¹³⁰⁰ See, e.g., paragraph (a)(1) of Rule 17a-3, as proposed to be amended (proposed addition of information that must be included in security-based swap purchase and sale blotters).

¹³⁰¹ See Capital, Margin, and Segregation Requirements for Security-Based Swap Dealers and Major Security-Based Swap Participants and Capital Requirements for Broker-Dealers, 77 FR 70257-70274 (proposed margin requirements applicable to SBSDs).

In addition, as discussed above, the Commission has proposed amendments to Rule 15c3-1 that would establish liquidity stress test requirements for ANC broker-dealers.¹³⁰² The Commission is proposing to amend Rule 17a-3 to include a requirement that ANC broker-dealers make and keep current a report of the results of the monthly liquidity stress test, a record of the assumptions underlying the liquidity stress test, and the liquidity funding plan required under the proposed amendments to Rule 15c3-1.¹³⁰³

¹³⁰² See paragraph (f) of Rule 15c3-1, as proposed to be amended. See also Capital, Margin, and Segregation Requirements for Security-Based Swap Dealers and Major Security-Based Swap Participants and Capital Requirements for Broker-Dealers, 77 FR 70252-70254.

¹³⁰³ See paragraph (a)(24) of Rule 17a-3, as proposed to be amended.

The Commission would also add new provisions to Rule 17a-3 that are designed to create a record of the broker-dealer's compliance with business conduct standards that the Commission proposed pursuant to Exchange Act section 15F(h), and with the designated compliance officer requirement in Exchange Act section 15F(k) and Rule 15Fk-1.¹³⁰⁴

¹³⁰⁴ See, e.g., paragraphs (a)(28) through (a)(30) of Rule 17a-3, as proposed to be amended. See also Business Conduct Standards for Security-Based Swap Dealers and Major Security-Based Swap Participants, 76 FR 42396.

The Commission is also proposing some changes that are designed to eliminate obsolete or rarely used provisions of Rule 17a-3.¹³⁰⁵ For example, the Commission is proposing to remove references in the rule to “members,” as a distinct class of registrant in addition to brokers and dealers.¹³⁰⁶ These references are redundant because the rule applies to brokers and dealers, which would include “members” of a national securities exchange since all such members are also broker-dealers.

¹³⁰⁵ See supra section II.A.2.b. (describing additional proposed amendments to Rule 17a-3).

¹³⁰⁶ See, e.g., paragraph (a)(3) of Rule 17a-3, as proposed to be amended.

Generally, the Commission would not expect the proposed changes to Rule 17a-3 to have a material economic effect, although as analyzed below the Commission does expect that there will be costs related to complying with the proposed rules.¹³⁰⁷ In order to assist its analysis the Commission generally requests comment about the general costs and benefits of the proposed rules. The Commission requests data to assess the costs and benefits of the proposals described above.

¹³⁰⁷ See infra section V.E.

b. Proposed Rule 18a-5

The Commission is proposing new Rule 18a-5—which is modeled on Rule 17a-3, as proposed to be amended—to require stand-alone SBSDs, stand-alone MSBSPs, bank SBSDs, and bank MSBSPs to make and keep current certain records.¹³⁰⁸ Not all of the provisions of Rule 17a-3 would be imported into proposed Rule 18a-5 because some of Rule 17a-3's provisions relate to activities that are not expected or permitted of stand-alone SBSDs and stand-alone MSBSPs. Further, and as described above,¹³⁰⁹ the proposed requirements for bank SBSDs and bank MSBSPs, which would be included in paragraph (b) of proposed Rule 18a-5, are more limited than the proposed requirements that would apply to stand-alone SBSDs and stand-alone MSBSPs, which would be included in paragraph (a) of proposed Rule 18a-5. More limited requirements would apply to bank SBSDs and bank MSBSPs because the Commission's authority under section 15F(f)(1)(B)(i) of the Exchange Act is tied to activities related to their business as an SBSD or MSBSP,¹³¹⁰ banks are already subject to the existing recordkeeping requirements from prudential regulators, and the prudential regulators are responsible for capital, margin, and other prudential requirements applicable to bank SBSDs and bank MSBSPs.

¹³⁰⁸ See supra section II.A.2.a. (describing proposed Rule 18a-5).

¹³⁰⁹ Id.

¹³¹⁰ See 15 U.S.C. 78o-10(f)(1)(B)(i).

The Commission believes proposed Rule 18a-5 would provide improved regulatory oversight of the security-based swap activities of stand-alone SBSDs, stand-alone MSBSPs, bank SBSDs, and bank MSBSPs. For reasons discussed above, the Commission preliminarily believes that the approach it has taken with respect to Rule 18a-5—basing it upon an existing rule (Rule 17a-3)—is a better approach than starting with a wholly new rule. The Commission believes that many non-broker-dealer SBSDs and non-broker-dealer MSBSPs will be affiliates of broker-dealers that already have familiarity with Rule 17a-3 upon which proposed Rule 18a-5 is modeled. Greater familiarity with the rule should ease compliance burdens and costs for those firms. The Commission acknowledges that with respect to firms not so affiliated, this approach would seem much less likely to ease compliance burdens. In order to aid the Commission's analysis of the effects on these unaffiliated firms, and whether there are better alternatives, the Commission requests comment.

As discussed in section V.C.1., above, the Commission believes that the proposed requirements to make and keep records could improve the regulatory oversight, risk documentation, and risk management of security-based swap activities.

The proposed requirements to make and keep records could also create costs to firms.¹³¹¹ These increased costs may cause firms to cease participating in the market, thereby potentially reducing efficiency due to loss of competition. In order to inform its analysis of the costs and benefits involved with the proposals, the Commission requests comment. Data to evaluate the costs and benefits of proposed Rule 18a-5 would be particularly useful to the Commission's analysis.

¹³¹¹ See infra section V.E. (discussing implementation considerations).

c. Request for Comment on Recordkeeping Provisions

The Commission also requests data to evaluate the impact of the proposals against the baseline. In addition, the Commission requests comment in response to the following questions:

1. In general terms, would the proposed rules result in effective documentation of the security-based swap transactions of broker-dealers, broker-dealer SBSDs, broker-dealer MSBSPs, stand-alone SBSDs, stand-alone MSBSPs, bank SBSDs, and bank MSBSPs? Please explain.

2. In general, would the proposed rules and rule amendments impact the capital of entities that would need to register as SBSDs or MSBSPs? For example, would the costs involved negatively impact the availability of funding to conduct the security-based swap activities? If so, what would be the extent of the impact to these entities?

3. How important is it that the recordkeeping and reporting rules for SBSDs and MSBSPs be analogous to the existing recordkeeping and reporting requirements for broker-dealers? How valuable or worthwhile are the benefits involved with this approach? How costly is such an approach?

4. To what extent would the proposed regulatory requirements impact the amount of liquidity provided for or required by security-based swap market participants, and to what extent will that affect the funding cost for the financial sector in particular and the economy in general? Please quantify.

5. Do the proposed record-making requirements provide a reasonable and workable solution for broker-dealers, SBSDs and MSBSPs? Please explain. Are there preferable alternatives? If so, describe those alternatives. Please specifically address why such alternatives are preferable and the nature to which they fulfill the Commission's need to ensure that the financial responsibility requirements applicable to broker-dealers, broker-dealer SBSDs, broker-dealer MSBSPs, stand-alone SBSDs, stand-alone MSBSPs, bank SBSDs, and bank MSBSPs are followed.

6. If an SBSD or MSBP currently already has sufficient technology to track its trading and risk exposure in security-based swaps, what additional costs, if any, would arise from the proposed rules?

4. Requirements To Preserve Records

As discussed above,¹³¹² Rule 17a-4 requires a broker-dealer to preserve certain types of records.¹³¹³ The rule also prescribes the time periods these records and the records required to be made and kept current under Rule 17a-3 must be preserved and the manner in which they must be preserved.¹³¹⁴ The Commission is proposing amendments to Rule 17a-4 to account for the security-based swap activities of broker-dealers, including broker-dealer SBSDs and broker-dealer MSBSPs, as well as certain technical amendments. With respect to stand-alone SBSDs, stand-alone MSBSPs, bank SBSDs, and bank MSBSPs, the Commission is proposing new Rule 18a-6—modeled on Rule 17a-4, as proposed to be amended—to establish record preservation requirements for stand-alone SBSDs, stand-alone MSBSPs, bank SBSDs, and bank MSBSPs.

¹³¹² See supra section II.A.3.a. (discussing Rule 17a-4 retention requirements).

¹³¹³ See 17 CFR 240.17a-5(b).

¹³¹⁴ See 17 CFR 240.17a-5(a) and 240.17a-5(b)(1). Generally, the three year and six year retention periods in Rule 17a-4 track the self-regulatory organization requirements and certain State regulations that were in effect prior to the adoption of the National Securities Market Improvements Act of 1996, and they largely represent a codification of prudent recordkeeping practices of many broker-dealers. Books and Records Requirements for Brokers and Dealers Under the Securities Exchange Act of 1934, 66 FR 55819; National Securities Market Improvements Act of 1996, Public Law 104-290, 104 Stat. 3416 (1996).

a. Rule 17a-4, as Proposed To Be Amended

As described above,¹³¹⁵ paragraph (a) of Rule 17a-4 provides that broker-dealers subject to Rule 17a-3 must preserve for a period of not less than six years, the first two in an easily accessible place, certain records required to be made and kept current under Rule 17a-3.

¹³¹⁵ See supra section II.A.3.a. (discussing Rule 17a-4 retention requirements).

Three-Year Preservation Requirement for Rule 17a-3 Records

As discussed above,¹³¹⁶ paragraph (b)(1) of Rule 17a-4 provides that broker-dealers must preserve for at least three years, the first two in an easily accessible place,¹³¹⁷ certain records required to be made and kept current under Rule 17a-3.¹³¹⁸ The Commission is proposing to add cross-references to certain new paragraphs that would be added to Rule 17a-3 to address security-based swap activities of broker-dealers, including broker-dealer SBSDs and broker-dealer MSBSPs.

¹³¹⁶ See supra section II.A.3.a. (discussing Rule 17a-4 retention requirements).

¹³¹⁷ The Commission has stated that “Rule 17a-4 seeks to address the tension between the need for quick production of specific records and the volume of records generated on a daily basis, by requiring that more current records be retained in an “easily accessible place,” which the Commission has not defined. See Commission Guidance to Broker-Dealers on the Use of Electronic Storage Media under the Electronic Signatures in Global and National Commerce Act of 2000 with Respect to Rule 17a-4(f), 66 FR 22916.

¹³¹⁸ See 17 CFR 240.17a-4(b)(1).

The Commission preliminarily believes that the majority of the economic effects, ranging from firm-specific costs to effects on the overall security-based swap market, will be associated with the requirement that broker-dealers, including broker-dealer SBSDs and broker-dealer MSBSPs, make and keep current certain records as set forth in Rule 17a-3, as proposed to be amended. However, in order to assist it in considering the full range of costs and any economic effects associated with the proposed recordkeeping rules, the Commission requests data to assess the costs and benefits of the proposals.

Three-Year Preservation Requirement for Certain Other Records Made or Received

Paragraph (b) of Rule 17a-4 also provides that broker-dealers must preserve for a period of not less than three years, the first two in an easily accessible place, other categories of records if the broker-dealer makes or receives the record.¹³¹⁹ As discussed above,¹³²⁰ the Commission is proposing amendments to these provisions in paragraph (b) of Rule 17a-4 to account for security-based swaps, and is proposing amendments that would require broker-dealers, including broker-dealer SBSDs and broker-dealer MSBSPs, to preserve certain additional records related to security-based swap activities. For example, the Commission is proposing to amend the preservation requirement in paragraph (b)(4) of Rule 17a-4 to include “recordings of telephone calls required to be maintained pursuant to section 15F(g)(1) of the [Exchange] Act.” The amendment would establish a preservation period for recorded telephonic communications that have been recorded and relate to security-based swap activity.

¹³¹⁹ See 17 CFR 240.17a-4(b)(2) through (12).

¹³²⁰ See supra section II.A.3.a. (discussing paragraph (b) of Rule 17a-4, as proposed to be amended).

As discussed above in section V.C.1. of this release, the Commission believes that the proposed amendments to Rule 17a-4 will result in benefits of improving the regulatory oversight, risk documentation, and risk management of security-based swap activities. The Commission anticipates that there will also be costs related to the proposal.¹³²¹ The Commission believes that the majority of the costs incurred by broker-dealer SBSDs and broker-dealer MSBSPs relating to recorded telephone calls would enhance the internal controls and procedures relating the treatment of security-based swap-related telephone calls recorded by the firm. The Commission requests comment on the costs or benefits that may accrue in connection with the proposal.

¹³²¹ See infra section V.E. (discussing implementation considerations).

b. Proposed Rule 18a-6

As described above, Rule 18a-6 is modeled on the retention requirements of Rule 17a-4, but modified to account for differences applicable to stand-alone SBSDs, stand-alone MSBSPs, bank SBSDs, and bank MSBSPs.¹³²²

¹³²² See supra section II.A.3.a. (discussing proposed amendments to Rules 17a-4 and 18a-6).

Six-Year Preservation Requirement

The Commission proposes that many, but not all, of the same recordkeeping requirements that would be applicable to broker-dealer SBSDs and broker-dealer MSBSPs under the proposed amendments to Rule 17a-4 would also apply to stand-alone SBSDs, stand-alone MSBSPs, bank SBSDs, and bank MSBSPs under proposed Rule 18a-6.

Paragraph (a) of Rule 18a-6 would require that certain records required to be created and maintained under Rule 18a-5 be preserved for a period of not less than six years, the first two in an easily accessible place. Further, paragraph (a)(1) of proposed Rule 18a-6 would apply to stand-alone SBSDs and stand-alone MSBSPs. Paragraph (a)(2) of proposed Rule 18a-6 would apply to bank SBSDs and bank MSBSPs.

Three-Year Preservation Requirement for Other Rule 18a-5 Records

As discussed above,¹³²³ paragraphs (a) and (b) of proposed Rule 18a-5 would require stand-alone SBSDs, stand-alone MSBSPs, bank SBSDs, and bank MSBSPs to make and keep current records that are modeled on the records required to be made and kept under Rule 17a-3. Paragraph (b)(1) of proposed Rule 18a-6 would require that records required to be made by stand-alone SBSDs and stand-alone MSBSPs under Rule 18a-5, be retained for three years, the first two years in an easily accessible place. Paragraph (b)(2) of proposed Rule 18a-6 would establish a three-year record retention period for certain delineated records, as well as the records required to be made by bank SBSDs and bank MSBSPs under Rule 18a-5.

¹³²³ See supra section II.A.2.a. (discussing paragraphs (a) and (b) of proposed Rule 18a-5).

Three-Year Preservation Requirement for Certain Other Records Made or Received

The Commission is also proposing in paragraph (b) of Rule 18a-6 that stand-alone SBSDs, stand-alone MSBSPs, bank SBSDs, and bank MSBSPs must preserve for a period of not less than three years, the first two years in an easily accessible place, other categories of records if the SBSD or MSBSP makes or receives the record.¹³²⁴

¹³²⁴ See supra section II.A.3.a. (discussing provision-by-provision retention provisions in Rules 17a-4 and proposed Rule 18a-6).

As discussed below, the Commission preliminarily believes that there will be costs stemming from the requirement that stand-alone SBSDs, stand-alone MSBSPs, bank SBSDs, and bank MSBSPs make and keep current certain records as set forth in proposed Rule 18a-5.¹³²⁵ As further discussed below, the Commission preliminarily believes that the requirement to retain these records, once made and kept current, should represent a marginal cost to registrants.¹³²⁶

¹³²⁵ See infra section V.E.

¹³²⁶ Id.

In order to assist its evaluation of the costs and benefits, as well as any larger economic effects associated with the proposal, the Commission requests comment.

5. Reporting

As stated above, Rule 17a-5 has two main elements: (1) a requirement that broker-dealers file periodic unaudited reports containing information about their financial and operational condition on a FOCUS Report; and (2) a requirement that broker-dealers annually file financial statements and certain reports and a report covering the financial statements and reports prepared by an independent public accountant registered with the PCAOB in accordance with PCAOB standards.¹³²⁷

¹³²⁷ Id. These requirements are described in more detail below.

The reporting program codified in Rule 17a-5 is designed, among other things, to promote compliance with Rules 15c3-1 and 15c3-3 and to assist the Commission, SROs, and state securities regulators in conducting effective examinations of broker-dealers. Those publicly available broker-dealer reporting requirements, such as the statement of financial condition, would promote transparency of the financial and operational condition of the broker-dealer to the Commission, the firm's DEA, and to the public.

The Commission preliminarily believes that the economic effects associated with the new reporting requirements would depend upon the nature of the filings such registrants make today based upon their registration status (e.g., broker-dealer vs. non-broker-dealer). The Commission preliminarily believes that the majority of the economic effects associated with the Title VII rulemakings will stem from the requirements relating to capital, margin, and segregation ¹³²⁸ as compared to the proposed rules in the instant rulemaking.

¹³²⁸ For example, the Commission anticipates substantial economic costs to arise as a result of the capital, margin, and segregation requirements that have been proposed to apply to SBSDs and MSBSPs. See Capital, Margin, and Segregation Requirements for Security-Based Swap Dealers and Major Security-Based Swap Participants and Capital Requirements for Broker-Dealers,77 FR 70299-70328.

The Commission is cognizant, however, that the proposed reporting requirements could create costs to firms, and indirectly to the financial markets. For example, the Commission recognizes that there will be new compliance and audit costs associated with the required financial report and compliance report. While the Commission is aware of these costs, section 15F(f) of the Exchange Act provides the Commission with authority to require each registered SBSD to make a report regarding, among other things, the financial condition of the firm. The Commission believes that it would be impractical to monitor the financial condition of SBSDs without periodic financial reports, including annual audited reports, that elicit detail about these firms' security-based swap activities.

The Commission notes that it has proposed steps to minimize costs where appropriate and consistent with its statutory mandate. For example and as described in more detail below,¹³²⁹ for stand-alone SBSDs, the Commission would not require the filing of several of the reports that are required to be filed by broker-dealers, such as the Form Custody or the information filed with SIPC by broker-dealers.¹³³⁰ Further, the decision to model Form SBS on the current FOCUS Report was made in part to reduce the uncertainty and additional compliance costs that would stem from devising an entirely new reporting form and rules. While the Commission understands that stand-alone SBSDs may not currently be registered as broker-dealers and thus may not currently be filing the FOCUS Report (and thus have no familiarity with it), many stand-alone SBSDs may be affiliated with or part of a larger financial firm that contains a broker-dealer, thus providing a source of experience, internal to the firm, with the FOCUS Report which in turn may reduce the compliance-related costs. Moreover, the accounting and legal communities are familiar with the FOCUS Report, so the Commission preliminarily believes that this familiarity should mitigate the compliance costs for stand-alone SBSDs insofar as outside assistance is well-versed with the FOCUS Report. At the same time, the Commission acknowledges that there may be stand-alone SBSDs affiliated with, for example, FCMs, and those firms would conceivably benefit from rules based upon or similar to CFTC rules.

¹³²⁹ See supra section II.B.2.b.

¹³³⁰ See 17 CFR 240.17a-5(a)(4) and (e)(4).

In order to aid its analysis of the economic effects relating to the proposed reporting requirements, the Commission requests comment. Comments setting forth specific costs related to the proposed reporting requirements, as well as benefits, would be particularly helpful to the Commission's analysis.

a. Broker-Dealer SBSDs and Broker-Dealer MSBSPs

Form SBS

As described above,¹³³¹ broker-dealer SBSDs and broker-dealer MSBSPs would file proposed Form SBS instead of a particular version of the FOCUS Report. An ANC broker-dealer that currently files FOCUS Part II CSE that registers with the Commission as an SBSD or MSBSP would experience the smallest marginal impact on its reporting obligations. This is the case because proposed Form SBS is modeled upon Part II CSE, but includes additional line items and sections to elicit more detail about security-based swap and swap activities.¹³³² Similarly, for dealers currently registered as OTC derivatives dealers, to the extent these firms decide to register as broker-dealer SBSDs or broker-dealer MSBSPs, the Commission preliminarily believes that the burdens involved would be similarly modest to those encountered by the ANC broker-dealers because Part IIB of the FOCUS Report contains many similar line items as Part II CSE.¹³³³

¹³³¹ See supra section II.B.2. (discussing broker-dealer SBSDs' and broker-dealer MSBSPs' use of proposed Form SBS).

¹³³² Id.

¹³³³ See supra section II.B.2.b.

The information elicited by Form SBS from the ANC broker-dealers and OTC derivatives dealers that decide to register as broker-dealer SBSDs or broker-dealer MSBSPs should assist the Commission and the firms' DEAs to conduct effective examinations of broker-dealer SBSDs and broker-dealer MSBSPs. The broker-dealer SBSD and broker-dealer MSBSP reporting requirements would promote transparency of the financial and operational condition of the broker-dealer SBSD or broker-dealer MSBSP to the Commission and to the public.

With respect to the economic effects associated with this aspect of the proposal, the Commission preliminarily believes that the scope of additional information requested in Form SBS, generally related to the firms' security-based swap activities, is relatively circumscribed relative to what these registrants report in Part II CSE or Part IIB of the FOCUS Report.

With respect to broker-dealers that currently do not file FOCUS Part II CSE or FOCUS Part IIB, the Commission believes the economic impact and, more specifically, the costs associated with complying with new Form SBS, may be more substantial. This is the case because, as described above,¹³³⁴ Form SBS elicits much of the same information as FOCUS Part II CSE and FOCUS Part IIB, but includes additional line items and sections to elicit more detail about security-based swap and swap activities. Accordingly, for those firms not currently filing FOCUS Part II CSE or FOCUS Part IIB, there will be a greater change, in terms of the amount of information that will be elicited on the form. These firms may incur greater compliance-related costs.

¹³³⁴ See supra section II.B.2.

The Commission has carefully considered Form SBS in light of its experience with broker-dealer regulation and in relation to its new statutory responsibilities under section 15F of the Exchange Act and preliminarily believes that Form SBS would promote compliance with Rules 15c3-1 and 15c3-3 and to assist the Commission, SROs, and state securities regulators in conducting effective examinations of broker-dealer SBSDs and broker-dealer MSBSPs. The proposed broker-dealer SBSD and broker-dealer MSBSP reporting requirements would promote transparency of the financial and operational condition of the broker-dealer to the Commission, the firm's DEA, and to the public.

The Commission has designed Form SBS to elicit the information that it believes it needs to effectively oversee the financial condition of broker-dealer SBSDs and broker-dealer MSBSPs. To aid its analysis of whether there are parts of Form SBS that could be curtailed or eliminated in order to lessen compliance-related costs, the Commission requests comment. To the extent that commenters believe that information the Commission has proposed to elicit is unnecessary, specific reasons for such a view would be particularly helpful. Moreover, if commenters object to certain sections of Form SBS, specific estimates of the costs to comply with those sections would also aid the Commission's analysis of regulatory necessity. Finally, in order to help it consider and evaluate the full range of effects associated with the proposal, the Commission requests data to assess the costs and benefits of the proposals with respect to the various classes of registrants (e.g., Part IIA filers, Part II filers, Part IIB filers, and Part II CSE filers).

Audited Annual Reports

As discussed below, the Commission anticipates that there may be costs associated with broker-dealer SBSDs or broker-dealer MSBSPs completing and filing the annual reports required under paragraph (d) of Rule 17a-5.¹³³⁵ Currently, as described in more detail above, broker-dealers are required to file on an annual basis a financial report that includes many parts of the FOCUS Report in a format consistent with the version of FOCUS Report filed by the broker-dealer.¹³³⁶ The proposed amendments to the financial report would include additional information about the broker-dealer's security-based swap activity not included in the financial report currently filed by broker-dealer.¹³³⁷ Moreover, the proposal would increase the cost of completing the annual compliance report filed by a broker-dealer SBSD because the compliance report for such firms would include statements about the firm's compliance with proposed Rule 18a-4, the proposed customer segregation rule that would apply to broker-dealer SBSDs.¹³³⁸

¹³³⁵ See infra section V.E. (relating to implementation considerations).

¹³³⁶ See 17 CFR 240.17a-5(d)(2).

¹³³⁷ Compare, e.g., FOCUS Report Part II CSE, Statement of Financial Condition, Line 4, with Form SBS, Statement of Financial Condition, Line 4.

¹³³⁸ See supra section II.B.3.a.; see infra section V.E.

The Commission also anticipates that the cost to audit the annual reports filed by broker-dealer SBSDs or broker-dealer MSBSPs would rise.¹³³⁹ Currently, and as described in more detail above, broker-dealers are required to engage a PCAOB-registered independent public accountant to conduct an annual audit of the broker-dealer's annual reports.¹³⁴⁰ The Commission believes the additional required components to the financial report and the compliance report would increase the costs of ongoing compliance as well as the annual audit.

¹³³⁹ Id.

¹³⁴⁰ See supra section II.B.1.

Liquidity Stress Test

As discussed above,¹³⁴¹ the Commission has proposed amendments to Rule 15c3-1 that would establish liquidity stress test requirements for ANC broker-dealers, which would include ANC broker-dealer SBSDs.¹³⁴² Under the proposed liquidity stress test requirements, ANC broker-dealers would be required, among other things, to: (1) Perform a liquidity stress test at least monthly that takes into account certain assumed conditions lasting for 30 consecutive days; and (2) maintain at all times liquidity reserves based on the results of the liquidity stress test comprised of unencumbered cash or U.S. government securities.¹³⁴³ The proposed liquidity stress test requirement is designed to provide an additional level of protection against disruptions in the firm's ability to obtain funding for a firm with significant proprietary positions in securities or derivatives.¹³⁴⁴

¹³⁴¹ See supra section II.A.2.a.

¹³⁴² See Capital, Margin, and Segregation Requirements for Security-Based Swap Dealers and Major Security-Based Swap Participants and Capital Requirements for Broker-Dealers, 77 FR 70252-70254. See also paragraph (f) of Rule 15c3-1, as proposed to be amended.

¹³⁴³ Id.

¹³⁴⁴ See Capital, Margin, and Segregation Requirements for Security-Based Swap Dealers and Major Security-Based Swap Participants and Capital Requirements for Broker-Dealers, 77 FR 70314.

The Commission is proposing that ANC broker-dealers report to the Commission the results of the liquidity stress test on a monthly basis.¹³⁴⁵ The Commission has discussed the economic effects associated with the liquidity stress test requirement and requested comment on those effects.¹³⁴⁶ As discussed below, the Commission preliminarily believes that paragraph (a)(5)(vii) of Rule 17a-5 would create a cost to file the report, but that such costs would not materially contribute to the economic effects associated with the liquidity stress test proposal.¹³⁴⁷

¹³⁴⁵ See paragraph (a)(5)(vii) of Rule 17a-5, as proposed to be amended.

¹³⁴⁶ See Capital, Margin, and Segregation Requirements for Security-Based Swap Dealers and Major Security-Based Swap Participants and Capital Requirements for Broker-Dealers, 77 FR 70314.

¹³⁴⁷ See infra section V.E.

As discussed above in section V.C.1. of this release, above, the Commission believes that the proposed reporting requirements will result in benefits of improving the oversight, transparency, and accountability of security-based swap activities.

In order to help it consider and evaluate the full range of effects associated with the proposal, the Commission requests comment on the anticipated benefits and costs of this portion of the proposed rule changes. Quantitative and qualitative data would be particularly useful to the Commission in helping it evaluate the proposals.

b. Stand-Alone SBSDs

Form SBS

As described in more detail above,¹³⁴⁸ stand-alone SBSDs would be required to file Form SBS with the Commission or its designee on a monthly basis.¹³⁴⁹ Given that stand-alone SBSDs are not broker-dealers, these firms would not have experience filing the FOCUS Report, and thus reporting on Form SBS could represent a significant undertaking. While the Commission expects that stand-alone SBSDs currently prepare financial statements that encompass their security-based swap activity, the reporting on Form SBS may require that firms establish new systems that facilitate the reporting of the required information.¹³⁵⁰ Relative to what these firms generate now, Form SBS would likely elicit greater detail about the registrant's security-based swap positions, which in turn would require the registrants to have additional details about the firm's security-based swap positions in order to be able to provide the security-based swap information elicited by Form SBS. Since many of the entities that the Commission expects will register as stand-alone SBSDs are currently not regulated, they are likely to be unaccustomed to completing and filing detailed reports with financial regulators. Therefore, and as discussed below, the Commission anticipates that stand-alone SBSDs will bear substantial costs in connection with completing and filing Form SBS.¹³⁵¹

¹³⁴⁸ See supra section II.B.2.

¹³⁴⁹ The Commission estimates that nine of the approximately fifty entities that it anticipates to register with the Commission as SBSDs will be stand-alone SBSDs.

¹³⁵⁰ For example, stand-alone SBSDs would be required to submit computations relating to the firm's level of net capital, net capital required, and amount required to be held in the special reserve account for the exclusive benefit of security-based swap customers. See supra section II.B.2.

¹³⁵¹ See infra section V.E.

Audited Annual Reports

In addition, stand-alone SBSDs would be required to generate and file its financial report and compliance report with the Commission on an annual basis.¹³⁵² While the Commission expects that stand-alone SBSDs currently prepare financial statements that encompass their security-based swap activity, under the proposed rules, stand-alone SBSDs would be required to prepare a financial report in a format consistent with Form SBS, which includes numerous entries, computations, and schedules that a stand-alone SBSD may not prepare on its own accord. The compliance report would contain several statements and descriptions related to the firm's compliance with the financial responsibility rules that would be entirely new for most stand-alone SBSD registrants. Stand-alone SBSDs would be required to hire a PCAOB-registered independent public accountant to prepare an audit report covering annual reports. As explained below, the Commission estimates that all stand-alone SBSDs would incur compliance-related costs engaging a PCAOB-registered accountant to perform the audit.¹³⁵³

¹³⁵² See paragraph (c) of proposed Rule 18a-7.

¹³⁵³ See infra section V.E.

Stand-Alone ANC SBSD Reporting Requirements

For stand-alone ANC SBSDs, there would be a number of additional monthly and quarterly reporting requirements, independent of those on Form SBS.¹³⁵⁴ The additional stand-alone ANC SBSD reports are modeled on parallel reporting requirements for ANC broker-dealers.¹³⁵⁵ Consequently, stand-alone ANC SBSDs would be required to file the same types of additional reports relating to their use of internal models and liquidity stress tests as ANC broker-dealers, including ANC broker-dealer SBSDs.

¹³⁵⁴ See supra section II.B.3.a. See also paragraph (a)(3) of proposed Rule 18a-7.

¹³⁵⁵ Compare paragraph (a)(3) of proposed Rule 18a-7, with paragraph (a)(5) of Rule 17a-5, as proposed to be amended.

As discussed below, the Commission preliminarily believes that stand-alone ANC SBSDs may incur compliance costs related to, among other things, preparing and filing the additional reports that would be required under the proposed rules.¹³⁵⁶ The Commission believes the additional reports that stand-alone ANC SBSDs would be required to file with the Commission would give rise to less substantial compliance costs relative to the other costs under the proposal because the additional reporting obligations for such firms are relatively few and are generally closely related to their use of internal models approved by the Commission to calculate market and credit risk. Stand-alone ANC SBSDs would incur the majority of costs associated with these internal models in designing and operating the models themselves rather than the reports arising from these models.

¹³⁵⁶ See infra section V.E. See also paragraph (a)(3) of proposed Rule 18a-7.

The Commission also preliminarily believes that utilizing the new reporting requirements would have the benefit of helping the Commission evaluate whether a stand-alone SBSD is operating in compliance with the Exchange Act and the rules thereunder. For stand-alone SBSDs that previously did not produce detailed financial statements, the proposal could require these firms to upgrade their technology to store and maintain the information they need to report on Form SBS. These upgrades would likely entail costs for the firms, discussed below, but also possibly help these firms more efficiently track their trading and risk exposure in security-based swaps.¹³⁵⁷ The Commission also preliminarily believes that the availability of Form SBS will greatly enhance the Commission's ability to oversee the financial condition of these registrants, and the public availability of a firm's audited Statement of Financial Condition and net capital computations will facilitate the public's evaluation of the financial health of a registrant.

¹³⁵⁷ See infra section V.E.

In order to assist its evaluation of any potential economic effects associated with the proposals, the Commission requests data to help it evaluate the costs and benefits commenters believe would result.

c. Stand-Alone MSBSPs

The Commission preliminarily believes the economic impact associated with the proposed reporting requirements on stand-alone MSBSPs would be significantly less than the effects upon stand-alone SBSDs. As with stand-alone SBSDs, the reporting requirement would be an entirely new obligation for stand-alone MSBSPs. However, there would be a number of important differences between the reporting requirements of stand-alone MSBSPs as compared to stand-alone SBSDs.

Form SBS

First, stand-alone MSBSPs would be required to complete a simpler Computation of Tangible Net Worth, compared to the much longer and complex Computation of Net Capital and Computation of Minimum Regulatory Capital Requirements sections in Part 1 of the form that stand-alone SBSDs are required to complete.¹³⁵⁸ The Commission believes that stand-alone SBSDs and stand-alone MSBSPs will incur costs completing those parts of Form SBS that are applicable to such entities, as discussed below.¹³⁵⁹ Moreover, stand-alone SBSDs would not be required to complete the sections in Part 1 of Form SBS that require firms to compute the amount that must be maintained in the security-based swap customer reserve account or the section relating to information for the possession or control requirements for security-based swap customers because stand-alone MSBSPs generally will not be subject to those requirements under proposed Rule 18a-4.¹³⁶⁰ Furthermore, stand-alone MSBSPs would not be required to complete and file a number of sections of Part 1 of the form that relate to the operational data related to the firm; specifically, they would not be required to complete and file the Capital Withdrawals, Capital Withdrawals Recap, and the Financial and Operational Data sections of Form SBS.¹³⁶¹

¹³⁵⁸ Compare Form SBS, Computation of Tangible Net Worth, with Form SBS, Computation of Net Capital (Filer Authorized to Use Models) and Form SBS, Computation of Minimum Regulatory Capital Requirements (Non-Broker-Dealer).

¹³⁵⁹ See infra section V.E.

¹³⁶⁰ See Capital, Margin, and Segregation Requirements for Security-Based Swap Dealers and Major Security-Based Swap Participants and Capital Requirements for Broker-Dealers, 77 FR 70274-70288.

¹³⁶¹ See Form SBS, Capital Withdrawals, Capital Withdrawals Recap, and Financial and Operational Data.

Audited Annual Reports

Stand-alone MSBSPs would be required to comply with the proposed requirements relating to the preparation, auditing, and filing of the annual reports.¹³⁶² As discussed below, the Commission estimates that all stand-alone MSBSPs would incur costs stemming from the requirement to engage a PCAOB-registered auditor.¹³⁶³ The Commission anticipates that stand-alone MSBSPs will incur fewer costs in complying with these requirements as compared to stand-alone SBSDs because stand-alone MSBSPs would not be required to file the compliance report or the exemption report.

¹³⁶² See supra section II.B.3.a.

¹³⁶³ See infra section V.E.

As discussed above in section V.C.1. of this release, the Commission believes that the proposed reporting requirements for stand-alone MSBSPs will result in benefits by improving the regulatory oversight of security-based swap activities. The Commission also recognizes that the proposed reporting requirements would create costs. Preliminarily, the Commission believes most of these costs would be compliance-related, as discussed in more detail below.¹³⁶⁴ In order to help it consider and evaluate the full range of costs and larger economic effects, if any, associated with the proposed requirement for stand-alone MSBSPs to complete and submit Form SBS, and to submit annual audited financial statements, the Commission requests comment. Data to assess the costs and benefits of the reporting requirements that would apply to stand-alone MSBSPs would be particularly useful.

¹³⁶⁴ See infra section V.E.

d. Bank SBSDs and Bank MSBSPs

As described above,¹³⁶⁵ bank SBSDs and bank MSBSPs would also have to periodically complete and file Form SBS with the Commission. However, relative to broker-dealer SBSDs, broker-dealer MSBSPs, stand-alone SBSDs, and stand-alone MSBSPs, banks would report less information on Form SBS. The financial information bank SBSDs and bank MSBSPs would provide in Part 2 of the Form is based on the “call report” banks file with the prudential regulators.¹³⁶⁶ Bank SBSDs and bank MSBSPs would also report, in Part 5 of Form SBS, information relating to their security-based swap activities, consistent with the directive in section 15F(f) of the Exchange Act. Bank SBSDs and bank MSBSPs would also be required to report on change of fiscal year, as well as if the registrant changes accountants. However, bank SBSDs and bank MSBSPs would not be required to complete and file the audited financial report. The Commission has limited the number of schedules that would be required to be completed and filed by bank SBSDs and bank MSBSPs within Part 5 of Form SBS to one schedule that elicits detailed information about the firm's security-based swap positions. This requirement in Part 5 would require the bank SBSD or bank MSBSP to create and maintain additional details about the firm's security-based swap positions in order to be able to disclose the necessary detail on Form SBS.

¹³⁶⁵ See supra section II.B.2.

¹³⁶⁶ See 12 U.S.C. 324; 12 U.S.C. 1817; 12 U.S.C. 161; 12 U.S.C. 1464.

As discussed in more detail below, the Commission preliminarily believes that bank SBSDs and bank MSBSPs will incur compliance costs related to reporting the information that would be required on Form SBS.¹³⁶⁷ However, the Commission has limited the number of schedules to be reported in Part 5 to one schedule that is generally derived from the bank SBSD's or bank MSBSP's call report. Thus, the Commission does not believe Part 2 would require substantial additional effort to complete.¹³⁶⁸

¹³⁶⁷ See infra section V.E.

¹³⁶⁸ Whenever possible, the Commission has proposed the same line item numbers as are used for the call report (but appended with the letter “b” in Form SBS) to facilitate a bank SBSD's or bank MSBSP's use of data from the call report.

The Commission preliminarily believes the reporting requirements for bank SBSDs and bank MSBSPs would help ensure that registrants follow applicable capital, margin, and segregation rules. The Commission believes that such capital, margin, and segregation rules are an integral part to ensuring that security-based swap activity is conducted in a financially responsible manner.

The Commission requests comment about its analysis of the costs and benefits of the proposal with respect to bank SBSDs and bank MSBSPs. The Commission requests data to assess the costs and benefits of the proposals for bank SBSDs and bank MSBSPs.

6. Notification Requirements

As discussed above,¹³⁶⁹ the Commission is proposing certain notification requirements for SBSDs and MSBSPs that are, in general, modeled on existing notification provisions that apply to broker-dealers pursuant to Rule 17a-11. As discussed below, the Commission has utilized its experience with broker-dealers utilizing Rule 17a-11 to prepare cost estimates of certain compliance-related expenses.¹³⁷⁰ As with the other proposals being considered, the Commission believes that the vast majority of the economic effects associated with registering as an SBSD or MSBSP would stem from the capital, margin, and segregation rules that the Commission proposed pursuant to Title VII of the Dodd-Frank Act.¹³⁷¹

¹³⁶⁹ See supra section II.C.1.

¹³⁷⁰ See infra section V.E.

¹³⁷¹ See Capital, Margin, and Segregation Requirements for Security-Based Swap Dealers and Major Security-Based Swap Participants and Capital Requirements for Broker-Dealers, 77 FR 70276.

a. Broker-Dealer SBSDs and Broker-Dealer MSBSPs

A broker-dealer SBSD would be required to notify the Commission when it fails to make a deposit in its security-based swap customer account, as required by proposed Rule 18a-4.¹³⁷² An ANC broker-dealer would be required to give immediate notice to the Commission if a liquidity stress test it performs indicates an insufficient amount of liquidity reserve.¹³⁷³ Finally, broker-dealer MSBSPs would be required to notify the Commission when their level of tangible net worth fell below $20 million.¹³⁷⁴

¹³⁷² See paragraph (f) of Rule 17a-11, as proposed to be amended.

¹³⁷³ See paragraph (e) of Rule 17a-11, as proposed to be amended.

¹³⁷⁴ See paragraph (b)(6) of Rule 17a-11, as proposed to be amended.

Outside of certain compliance-related costs, discussed below, the Commission does not believe that the notification requirements would have an economic impact.¹³⁷⁵ In each case, the notification requirement would be incidental to a related underlying substantive obligation that would be the primary source of economic impact.

¹³⁷⁵ See infra section V.E.

As discussed above in section V.C.1. of this release, the Commission believes that the proposed amendments to Rule 17a-11 would result in improving the Commission and DEA oversight of broker-dealer SBSDs and broker-dealer MSBSPs' security-based swap activities, including activities and financial conditions that suggest a material level of risk to the firm.

The Commission requests comment about its analysis of the costs and benefits of the proposal with respect to broker-dealer SBSDs and broker-dealer MSBSPs. The Commission requests data to assess the costs and benefits of the proposals for broker-dealer SBSDs and broker-dealer MSBSPs.

b. Stand-Alone SBSDs, Stand-Alone MSBSP's, Bank SBSDs, and Bank MSBSPs

The Commission is proposing to establish notification requirements in Rule 18a-8 for stand-alone SBSDs, stand-alone MSBSPs, bank SBSDs, and bank MSBSPs that are modeled closely upon the requirements applicable to broker-dealers. First, the Commission is proposing to include a net capital deficiency and tentative net capital deficiency notification requirement in paragraph (a)(1) of proposed Rule 18a-8 applicable to stand-alone SBSDs that is modeled on the notification requirements applicable to broker-dealers, over-the-counter derivatives dealers, and ANC broker-dealers that appear in paragraph (a) of Rule 17a-11, as proposed to be amended.¹³⁷⁶ Furthermore, a stand-alone MSBSP would be required to notify the Commission when it fails to maintain a positive tangible net worth.¹³⁷⁷ The Commission is also proposing to include “early warning” notification requirements in paragraph (b) of proposed Rule 18a-8 that would be applicable to stand-alone SBSDs and stand-alone MSBSPs that are modeled after the relevant early warning provisions applicable to broker-dealers in paragraph (b) of Rule 17a-11, as proposed to be amended.¹³⁷⁸ The Commission also is proposing a requirement for a stand-alone SBSD to notify the Commission in the event of the discovery of a material weakness, as is required for broker-dealers under paragraph (d) of Rule 17a-11, as proposed to be amended.¹³⁷⁹ Moreover, the proposed requirement for a stand-alone SBSD to notify the Commission if it fails to make a required deposit in its security-based swap customer reserve account is modeled on a similar proposed requirement applicable to broker-dealers for failure to make a required deposit into a security-based swap customer account.¹³⁸⁰

¹³⁷⁶ Compare paragraph (a)(1) of proposed Rule 18a-8, with paragraph (a) of Rule 17a-11, as proposed to be amended.

¹³⁷⁷ See paragraph (a)(2) of proposed Rule 18a-8.

¹³⁷⁸ Compare paragraph (b) of proposed Rule 18a-8, with paragraphs (b)(3), (b)(4), and (b)(6) of Rule 17a-11, as proposed to be amended.

¹³⁷⁹ Compare paragraph (e) of proposed Rule 18a-8, with paragraph (d) of Rule 17a-11, as proposed to be amended. The Commission notes that paragraph (d) of Rule 17a-11, as proposed to be amended, also requires notification of the discovery of a “material inadequacy” to an over-the-counter derivatives dealer.

¹³⁸⁰ Compare paragraph (g) of proposed Rule 18a-8, with paragraph (f) of Rule 17a-11, as proposed to be amended.

The proposed requirement for a bank SBSD, bank MSBSP, stand-alone SBSD, and stand-alone MSBSP to notify the Commission in the event that it fails to make and keep current its required books and records is modeled on a similar requirement for broker-dealers.¹³⁸¹ The proposed requirement for stand-alone ANC SBSDs to notify the Commission of an insufficient level of liquidity reserves is modeled after a similar requirement for ANC broker-dealer SBSDs.¹³⁸²

¹³⁸¹ Compare paragraph (d) of proposed Rule 18a-8, with paragraph (c) Rule 17a-11, as proposed to be amended.

¹³⁸² Compare paragraph (f) of proposed Rule 18a-8, with paragraph (e) Rule 17a-11, as proposed to be amended.

With respect to bank SBSDs and bank MSBSPs, the Commission is proposing to include a notification requirement in proposed Rule 18a-8 that would require these entities to give the Commission notice when they file an adjustment of its reported capital category with its prudential regulator by transmitting a copy of the notice to the Commission.¹³⁸³

¹³⁸³ See supra section II.C.2. See also paragraph (c) of proposed Rule 18a-8.

In general, the Commission preliminarily believes most of the costs stemming from the notification proposals would arise from preparing and filing the notices.¹³⁸⁴

¹³⁸⁴ See infra section V.E.

These notices serve an important role in the context of the reporting and recordkeeping rules for broker-dealers, broker-dealer SBSDs, broker-dealer MSBSPs, stand-alone SBSDs, stand-alone MSBSPs, bank SBSDs, and bank MSBSPs because they serve to alert the Commission to the fact that certain events are occurring at a registrant that are highly relevant to the registrant's overall ability to continue to meet its obligations to customers and counterparties. For example, a report of a capital deficiency would alert the Commission to the fact that a registrant may lack sufficient capital to continue to operate its business and meet its obligations to customers and counterparties. The notification requirements are thus critical to helping the Commission fulfill its statutory responsibility to monitor whether SBSDs and MSBSPs are operating in compliance with the Exchange Act and the rules thereunder.¹³⁸⁵

¹³⁸⁵ See 15 U.S.C. 78o-10(f).

In order to aid its analysis, the Commission generally requests comment about the general costs and benefits of the Rule 17a-11, as proposed to be amended, and proposed Rule 18a-8. The Commission requests data to evaluate the costs and benefits of the proposals.

7. Quarterly Securities Count

As discussed in greater detail above,¹³⁸⁶ the Commission is also proposing to establish a securities count program for SBSDs under sections 15F and 17(a) of the Exchange Act that is modeled on Rule 17a-13's securities count program for broker-dealers. More specifically, stand-alone SBSDs would be subject to proposed Rule 18a-9. For reasons explained above, proposed Rule 18a-9 would not apply to stand-alone MSBSPs, bank SBSDs, or bank MSBSPs.¹³⁸⁷

¹³⁸⁶ See supra section II.D.1.

¹³⁸⁷ Id.

Paragraph (b) of Rule 17a-13 prescribes the requirement to perform a quarterly securities count and specifies the steps a broker-dealer must take in performing a count. Paragraph (c) of Rule 17a-13 prescribes the timing of the count, permitting a broker-dealer to perform the securities count on a rolling basis throughout the quarter as opposed to all in one day. Paragraph (d) of Rule 17a-13 provides that the examination, count, verification, and comparison performed under the rule must be done by persons whose regular duties do not require them to have direct responsibility for the proper care and protection of the securities or the making or preservation of the subject records. Proposed Rule 18a-9 applies substantially all the same affirmative obligations to stand-alone SBSDs that apply to broker-dealers under Rule 17a-13.¹³⁸⁸

¹³⁸⁸ Compare proposed Rule 18a-9, with 17 CFR 240.17a-13. Proposed Rule 18a-9 omits the exemptions from applicability of the rule that appear in paragraphs (a)(1), (a)(2), (a)(3), and (e) of Rule 17a-13 because those exemptions relate to broker-dealer-specific functions and broker-dealer registration status. See 17 CFR 240.17a-13(a) and (e).

As was discussed above,¹³⁸⁹ Rule 17a-13, the model for proposed Rule 18a-9, arose in the aftermath of the 1967-1970 securities industry crisis where deficiencies in broker-dealers' internal controls and procedures for, among other things, failing to adequately check and count securities, created a serious “paper work crisis” in the securities markets.¹³⁹⁰ The Commission preliminarily believes that instituting a parallel provision could help to avoid a similar problem for stand-alone SBSDs. Moreover, the Commission preliminarily believes that to the extent a stand-alone SBSD has not invested in the technology necessary to help ensure that it can accurately track and safeguard securities, the proposed rule will require such investments to be made,¹³⁹¹ which could improve the quality of such tracking and safeguarding.

¹³⁸⁹ See supra section II.D.1.

¹³⁹⁰ Id.

¹³⁹¹ See infra section V.E.

The Commission preliminarily believes most of the negative economic effects stemming from the securities count proposal would arise from regulatory and compliance costs. The Commission believes that the costs involved, and any larger economic effects, should be similar to those associated with Rule 17a-13 and would be related primarily to the development and maintenance of internal procedures and controls and the investment in technology.¹³⁹²

¹³⁹² Id.

The Commission generally requests comment about its analysis of the general costs and benefits of the proposed securities count rules for stand-alone SBSDs. The Commission requests data to assess the costs and benefits of the proposals for the stand-alone SBSDs.

D. Impact on Efficiency, Competition, and Capital Formation

Section 3(f) of the Exchange Act provides that whenever the Commission engages in rulemaking under the Exchange Act and is required to consider or determine whether an action is necessary or appropriate in the public interest, the Commission shall also consider, in addition to the protection of investors, whether the action will promote efficiency, competition, and capital formation.¹³⁹³ In addition, section 23(a)(2) of the Exchange Act requires the Commission, when making rules under the Exchange Act, to consider the impact such rules would have on competition.¹³⁹⁴ Section 23(a)(2) of the Exchange Act also prohibits the Commission from adopting any rule that would impose a burden on competition not necessary or appropriate in furtherance of the purposes of the Exchange Act.¹³⁹⁵ As stated above, the Commission believes that the recordkeeping, reporting, notification, and securities count rules and rule amendments being proposed today address, among other things, the documentation, reporting, and evidence of compliance with the capital, margin, and segregation rules. Thus, the Commission believes that these rules, by their nature, will have a more limited economic impact as compared to the Commission's capital, margin, and segregation proposals.¹³⁹⁶ Thus, while the Commission would expect that the adoption of these proposed rules and rule amendments, and their attendant benefits and costs, would affect competition, efficiency, and capital formation, the Commission preliminarily believes that such impact will be more limited than the impact from the capital, margin, and segregation proposals. In most instances, the Commission believes the costs will consist of the implementation-related costs of the proposed rules and rule amendments and the benefits will be those that stem from enabling the Commission to evaluate whether SBSDs and MSBSPs are in compliance with the financial responsibility rules governing security-based swap activities. The Commission requests comment on its analysis and underlying assumptions in this regard.

¹³⁹³ See 15 U.S.C. 78c(f).

¹³⁹⁴ See 15 U.S.C. 78w(a)(2).

¹³⁹⁵ Id.

¹³⁹⁶ See Capital, Margin, and Segregation Requirements for Security-Based Swap Dealers and Major Security-Based Swap Participants and Capital Requirements for Broker-Dealers, 77 FR 70213.

In the aggregate, the proposed recordkeeping, reporting, and notification rules would be an integral part of the proposed financial responsibility rules governing security-based swaps. The rules are designed to provide greater regulatory transparency into the business activities of these firms and to assist the Commission and other regulators in reviewing and monitoring compliance with the capital, margin, and segregation requirements. In general, the Commission believes that the proposals would thus help ensure that firms that engage in security-based swap activity do so in a financially responsible manner. The Commission further believes that the proposed rules and rule amendments, by improving its ability to monitor the financial condition of these registrants, could contribute to confidence in the market and willingness of market participants to engage in activities. It is the Commission staff's experience that greater confidence in a market promotes greater participation, leading to increased competition and efficiency, which have a positive effect on capital formation in the security-based swap market.

The Commission is cognizant, however, that it must be sensitive to the costs and burdens imposed by its rules. For example, overly restrictive or costly recordkeeping requirements could reduce the willingness of firms to engage in such trading. This could, in turn, increase transaction costs for market participants and contribute to less liquidity in the market. Even if the cost of overly restrictive recordkeeping, reporting, notification, and securities count requirements were shouldered only by those market participants that are subject to them, the excess compliance costs incurred would not be available for potentially more efficient uses, which thereby could distort capital allocation and, in turn, adversely affect capital formation. The Commission preliminarily believes the proposed recordkeeping, reporting, securities count, and notification proposals are unlikely to materially increase the barriers to entry in this market.

As described in more detail above, broker-dealers historically have not participated in a significant way in security-based swap trading, in part, because the existing broker-dealer capital requirements make it relatively costly to conduct these activities in broker-dealers. As stated above, the Commission estimates that approximately seventeen broker-dealers will register as SBSDs or MSBSPs and approximately twenty-five registered broker-dealers will be engaged in security-based swap activities but would not be required to register as an SBSD or MSBSP.¹³⁹⁷ In addition, a broker-dealer may elect to register an affiliated entity as an SBSD or MSBSP, instead of registering the broker-dealer itself as an SBSD or MSBSP. A market participant unaffiliated with a broker-dealer, including a bank, which conducts security-based swap activity in the U.S. may also register as an SBSD or MSBSP. As stated above, the Commission estimates that approximately thirty-four such entities will register as SBSDs or MSBSPs.¹³⁹⁸ As discussed above, as of April 1, 2013, there were 4,545 broker-dealers registered with the Commission.

¹³⁹⁷ See supra section IV.C.

¹³⁹⁸ Id.

To the extent that the proposed rules are burdensome or costly, they may impact the incentives of market participants in terms of whether they seek to register as SBSDs or MSBSPs. If fewer firms register, this could adversely impact competition and the overall efficiency of the U.S. capital markets as fewer firms will conduct security-based swap activities in the U.S. For example, excessive costs could discourage firms from engaging in security-based swap trading, which would reduce competition among market participants, thereby leading to lower liquidity, impeded price discovery, and higher transaction costs, all of which are characteristics of reduced levels of efficiency in the market. Moreover, it is possible that cost increases could lead to certain broker-dealers ceasing to engage in security-based swap trading, which could then reduce competition and impose inefficiency costs on the security-based swap marketplace. At the same time, these market participants may seek to conduct the security-based swap business in jurisdictions where regulations are, or are perceived to be, less burdensome.

In order to assist its evaluation of the proposed rules and rule amendments' effects on efficiency, competition, and capital formation, the Commission requests comment. Commenters are asked to be as specific as possible in identifying those rule proposals that are particularly beneficial or problematic, as the case may be, and in identifying alternative approaches or other ways in which the harmful effect(s) of the proposals can be ameliorated or eliminated.

E. Implementation Considerations

The proposed new rules and rule amendments, as discussed above, would impose certain implementation burdens and related costs on SBSDs and MSBSPs, as well as broker-dealers. These costs may include start-up costs, including personnel and other costs, such as technology costs, to comply with the proposed new rules and rule amendments. The Commission understands that entities that will engage in security-based swap transactions currently incur costs during their normal business activities and the proposed new rules would impose incremental costs. While they are not negligible, the Commission preliminarily believes, as discussed above, that they are unlikely to materially increase costs.

Based on section IV.D. of this release, the Commission has estimated the related costs of these implementation requirements for SBSDs, MSBSPs, and broker-dealers.¹³⁹⁹ The Commission estimates for all SBSDs and MSBSPs, these initial implementation costs to be approximately $10 million and the ongoing costs of implementation to be approximately $9 million, as summarized in more detail below.¹⁴⁰⁰

¹³⁹⁹ See section IV.D. of this release (discussing total initial and annual recordkeeping and reporting burdens of the proposed rules and rule amendments).

¹⁴⁰⁰ The Commission has also proposed technical amendments which it estimates will not impose material additional costs.

Rule 17a-3, which requires broker-dealers to make and keep current certain records, would be amended to account for security-based swap activities of broker-dealers, including broker-dealer SBSDs and broker-dealer MSBSPs.¹⁴⁰¹ The Commission is also proposing to add new provisions to Rule 17a-3 that would relate to the recently proposed margin requirements applicable to SBSDs.¹⁴⁰² Across all types of broker-dealers, including broker-dealers not registered as SBSDs or MSBSPs, the requirements are estimated to impose a one-time and annual aggregate cost of approximately $925,360¹⁴⁰³ and $282,807, respectively.¹⁴⁰⁴

¹⁴⁰¹ See, e.g., paragraph (a)(1) of Rule 17a-3, as proposed to be amended (proposed addition of information that must be included in security-based swap purchase and sale blotters).

¹⁴⁰² See Capital, Margin, and Segregation Requirements for Security-Based Swap Dealers and Major Security-Based Swap Participants and Capital Requirements for Broker-Dealers, 77 FR 70257-70274 (proposed margin requirements applicable to SBSDs).

¹⁴⁰³ 3,440 hours x $269/hour national hourly rate for a compliance manager = $925,360. See supra section IV.D.1. (PRA estimate of the total initial and annual recordkeeping and reporting burden for proposed amendments to Rule 17a-3). The $269 per hour figure for a compliance manager is from SIFMA's Management & Professional Earnings in the Securities Industry 2012, as modified by Commission staff to account for an 1,800-hour work-year and multiplied by 5.35 to account for bonuses, firm size, employee benefits, and overhead.

¹⁴⁰⁴ 4,489 hours x $63/hour national hourly rate for a compliance clerk = $282,807. See supra section IV.D.1. (PRA estimate of the total initial and annual recordkeeping and reporting burden for proposed amendments to Rule 17a-3). The $63 per hour figure for a compliance clerk is from SIFMA's Management & Professional Earnings in the Securities Industry 2012, as modified by Commission staff to account for an 1,800-hour work-year and multiplied by 5.35 to account for bonuses, firm size, employee benefits, and overhead.

The Commission is proposing new Rule 18a-5—which is modeled on Rule 17a-3, as proposed to be amended—to require stand-alone SBSDs, stand-alone MSBSPs, bank SBSDs, and bank MSBSPs to make and keep current certain records.¹⁴⁰⁵ The Commission estimates that proposed Rule 18a-5 would result in total initial industry cost of $2,848,260 to SBSDs and MSBSPs not registered as broker-dealers.¹⁴⁰⁶ On an annual basis, the Commission estimates that proposed Rule 18a-5 would result in $890,475 of total industry costs to SBSDs and MSBSPs not registered as broker-dealers.¹⁴⁰⁷

¹⁴⁰⁵ See supra section II.A.2.a. (describing proposed Rule 18a-5).

¹⁴⁰⁶ (10,540 hours × $269/hour national hourly rate for a compliance manager) + $13,000 in external costs = $2,848,260. See supra section IV.D.1. (PRA estimate of the total initial and annual recordkeeping and reporting burden for proposed Rule 18a-5).

¹⁴⁰⁷ (13,175 hours × $63/hour national hourly rate for a compliance clerk) + $60,450 in external costs = $890,475. See supra section IV.D.1. (PRA estimate of the total initial and annual recordkeeping and reporting burden for proposed Rule 18a-5).

As discussed above, the Commission is proposing amendments to Rule 17a-4 to account for the security-based swap activities of broker-dealers, including broker-dealer SBSDs and broker-dealer MSBSPs, as well as certain largely non-substantive technical amendments.¹⁴⁰⁸ The Commission estimates that the proposed amendments to Rule 17a-4 would result in a total initial industry cost of $1,167,452 to broker-dealers.¹⁴⁰⁹ On an annual basis, the Commission estimates that the proposed amendments to Rule 17a-4 would result in $174,388 of total annual aggregate industry costs to broker-dealers.¹⁴¹⁰

¹⁴⁰⁸ See supra section II.A.3.a.

¹⁴⁰⁹ 3,718 hours × $314/hour national hourly rate for a senior database administrator = $1,167,452. See supra section IV.D.2. (PRA estimate of the total initial and annual recordkeeping and reporting burden for proposed amendments to Rule 17a-4). The $314 per hour figure for a senior database administrator is from SIFMA's Management & Professional Earnings in the Securities Industry 2012, as modified by Commission staff to account for an 1,800-hour work-year and multiplied by 5.35 to account for bonuses, firm size, employee benefits, and overhead.

¹⁴¹⁰ (1,716 hours × $63/hour national hourly rate for a compliance clerk) + $66,280 in external costs = $174,388. See supra section IV.D.2. (PRA estimate of the total initial and annual recordkeeping and reporting burden for proposed amendments to Rule 17a-4).

The Commission is proposing new Rule 18a-6—modeled on Rule 17a-4, as proposed to be amended—to establish record preservation requirements for stand-alone SBSDs, stand-alone MSBSPs, bank SBSDs, and bank MSBSPs. The Commission estimates proposed Rule 18a-6 would result in $4,054,996 of initial costs to the industry ¹⁴¹¹ and $1,038,660 of annual costs to the industry.¹⁴¹²

¹⁴¹¹ 12,914 hours × $314/hour national hourly rate for a senior database administrator = $4,054,996.

¹⁴¹² (9,780 hours × $63/hour national hourly rate for a compliance clerk) + (38 hours × $379/hour for national hourly rate for an attorney) + $204,078 in external costs = $1,038,660.

As stated above, the Commission is proposing to amend Rule 17a-5, to require broker-dealer SBSDs and broker-dealer MSBSPs to file proposed Form SBS, instead of a particular part of the FOCUS Report.¹⁴¹³ The Commission is also proposing amendments to Rule 17a-5 to require additional information about the broker-dealer's security-based swap activity in the financial report filed by broker-dealers,¹⁴¹⁴ and to require ANC broker-dealers to report to the Commission the results of the liquidity stress test on a monthly basis.¹⁴¹⁵ The Commission estimates that the amendments to Rule 17a-5 would result in an initial total cost of $158,710 to broker-dealers.¹⁴¹⁶ On an annual basis, the Commission estimates that the amendments to Rule 17a-5 would result in $1,089,450 of total annual costs to broker-dealers.¹⁴¹⁷

¹⁴¹³ See supra section II.B.2.b.

¹⁴¹⁴ Compare, e.g., FOCUS Report Part II CSE, Statement of Financial Condition, Line 22, with Form SBS, Statement of Financial Condition, Line 22.

¹⁴¹⁵ See paragraph (a)(5)(vii) of Rule 17a-5, as proposed to be amended.

¹⁴¹⁶ 590 hours × $269/hour national hourly rate for a compliance manager = $158,710. See supra section IV.D.3. (PRA estimate of the total initial and annual recordkeeping and reporting burden for proposed amendments to Rule 17a-5). The majority of costs that broker-dealers would incur as a result of the amendments to Rule 17a-5 are expected to result from the additional information elicited in Form SBS, as compared to the FOCUS Report. Because broker-dealers would be required to file Form SBS on an ongoing basis, it is characterized as an annual cost, rather than an initial cost.

¹⁴¹⁷ 4,050 hours × $269/hour national hourly rate for a compliance manager = $1,089,450. See supra section IV.D.3. (PRA estimate of the total initial and annual recordkeeping and reporting burden for proposed amendments to Rule 17a-5).

The Commission is proposing Rule 18a-7 to provide reporting requirements for stand-alone SBSDs, stand-alone MSBSPs, bank SBSDs, and bank MSBSPs that are analogous to the reporting requirements proposed for broker-dealer SBSDs and broker-dealer MSBSPs. Proposed Rule 18a-7 would also require stand-alone SBSDs and stand-alone MSBSPs to file with the Commission an audited annual report, as described above.¹⁴¹⁸ The Commission estimates that proposed Rule 18a-7 would result in an initial industry cost of $777,410.¹⁴¹⁹ The Commission estimates that proposed Rule 18a-7 would result in an annual industry cost of $5,500,693.24.¹⁴²⁰

¹⁴¹⁸ See supra section II.B.3. (filing of annual audited reports and other reports).

¹⁴¹⁹ 2,890 hours × $269/hour national hourly rate for a compliance manager = $777,410. See supra section IV.D.3. (PRA estimate of the total initial and annual recordkeeping and reporting burden for proposed amendments to Rule 17a-5 and proposed Rule 18a-7). The majority of costs SBSDs and MSBSPs would incur as a result of proposed Rule 18a-7 is expected to result from the information elicited in Form SBS and the required annual audit. Because the additional information in the Form SBS and the annual audit would be required on an ongoing basis, the Commission is characterizing them as ongoing costs.

¹⁴²⁰ (3,978 hours × $63/hour national hourly rate for a compliance clerk) + $5,250,079 in external costs = $5,500,693. See supra section IV.D.3. (PRA estimate of the total initial and annual recordkeeping and reporting burden for proposed amendments to Rule 17a-5 and proposed Rule 18a-7).

As described in more detail above, the Commission is proposing to establish notification requirements to require SBSDs and MSBSPs to timely notify the Commission of potential problems at these registrants.¹⁴²¹ The Commission is proposing to amend Rule 17a-11 to add certain notification requirements for broker-dealer SBSDs and broker-dealer MSBSPs. In the aggregate, the Commission expects the proposed amendments to Rule 17a-11 to result in an annual industry cost of $29,859 to broker-dealer SBSDs and broker-dealer MSBSPs.¹⁴²²

¹⁴²¹ See supra section II.C.2. (proposed amendments to Rule 17a-11 and proposed Rule 18a-7).

¹⁴²² (100 hours +10 hours + 1 hour) × $269/hour national hourly rate for a compliance manager = $29,859. See supra section IV.D.4. (PRA estimate of the total initial and annual recordkeeping and reporting burden for proposed amendments to Rule 17a-11 and proposed Rule 18a-8).

The Commission is also proposing Rule 18a-8 to establish reporting requirements for stand-alone SBSDs and stand-alone MSBSPs that are analogous to the reporting requirements for broker-dealer SBSDs and broker-dealer MSBSPs, as well as a separate notification requirement for bank SBSDs and bank MSBSPs. The Commission expects that proposed Rule 18a-8 would result in an annual industry cost of $1,237 to stand-alone SBSDs, stand-alone MSBSPs, bank SBSDs, and bank MSBSPs.¹⁴²³

¹⁴²³ 4.6 hours × $269/hour national hourly rate for a compliance manager = $1,237. See supra section IV.D.4. (PRA estimate of the total initial and annual recordkeeping and reporting burden for proposed amendments to Rule 17a-11 and proposed Rule 18a-8).

Proposed Rule 18a-9, which is modeled on Rule 17a-13, would require stand-alone SBSDs to establish a securities count program.¹⁴²⁴ The Commission estimates that proposed Rule 18a-9 would impose an initial industry-wide cost of $76,725¹⁴²⁵ and an industry-wide annual cost of $113,400 per year.¹⁴²⁶

¹⁴²⁴ See supra section II.D.

¹⁴²⁵ 225 hours × $341/hour national hourly rate for a senior operations manager = $76,725. See supra section IV.D.5. (PRA estimate of the total initial and annual recordkeeping and reporting burden for proposed Rule 18a-9). The $341 per hour figure for a senior operations manager is from SIFMA's Management & Professional Earnings in the Securities Industry 2012, as modified by Commission staff to account for an 1,800-hour work-year and multiplied by 5.35 to account for bonuses, firm size, employee benefits, and overhead.

¹⁴²⁶ 900 hours × $126/hour national hourly rate for an operations specialist = $113,400. See supra section IV.D.5. (PRA estimate of the total initial and annual recordkeeping and reporting burden for proposed Rule 18a-9). The $126 per hour figure for an operations specialist is from SIFMA's Management & Professional Earnings in the Securities Industry 2012, as modified by Commission staff to account for an 1,800-hour work-year and multiplied by 5.35 to account for bonuses, firm size, employee benefits, and overhead.

VI. Regulatory Flexibility Act Certification

The Regulatory Flexibility Act (“RFA”) ¹⁴²⁷ requires federal agencies, in promulgating rules, to consider the impact of those rules on small entities. Section 603(a) ¹⁴²⁸ of the Administrative Procedure Act,¹⁴²⁹ as amended by the RFA, generally requires the Commission to undertake a regulatory flexibility analysis of all proposed rules, or proposed rule amendments, to determine the impact of such rulemaking on “small entities”.¹⁴³⁰ Section 605(b) of the RFA states that this requirement shall not apply to any proposed rule or proposed rule amendment, which, if adopted, would not have a significant economic impact on a substantial number of small entities.¹⁴³¹

¹⁴²⁷ See 5 U.S.C. 601 et seq.

¹⁴²⁸ See 5 U.S.C. 603(a).

¹⁴²⁹ See 5 U.S.C. 551 et seq.

¹⁴³⁰ Although section 601(b) of the RFA defines the term “small entity,” the statute permits agencies to formulate their own definitions. The Commission has adopted definitions for the term “small entity” for the purposes of Commission rulemaking in accordance with the RFA. Those definitions, as relevant to this proposed rulemaking, are set forth in Rule 0-10, 17 CFR 240.0-10. See Statement of Management on Internal Accounting Control, Exchange Act Release No. 18451 (Jan. 28, 1982), 47 FR 5215 (Feb. 4, 1982).

¹⁴³¹ See 5 U.S.C. 605(b).

For purposes of Commission rulemaking in connection with the RFA, a small entity includes: (1) When used with reference to an “issuer” or a “person,” other than an investment company, an “issuer” or “person” that, on the last day of its most recent fiscal year, had total assets of $5 million or less,¹⁴³² or (2) a broker-dealer with total capital (net worth plus subordinated liabilities) of less than $500,000 on the date in the prior fiscal year as of which its audited financial statements were prepared pursuant to Rule 17a-5(d) under the Exchange Act,¹⁴³³ or, if not required to file such statements, a broker-dealer with total capital (net worth plus subordinated liabilities) of less than $500,000 on the last day of the preceding fiscal year (or in the time that it has been in business, if shorter); and is not affiliated with any person (other than a natural person) that is not a small business or small organization.¹⁴³⁴ Under the standards adopted by the Small Business Administration, small entities in the finance and insurance industry include the following: (1) for entities in credit intermediation and related activities,¹⁴³⁵ firms with $175 million or less in assets; (2) for non-depository credit intermediation and certain other activities,¹⁴³⁶ firms with $7 million or less in annual receipts; (3) for entities in financial investments and related activities,¹⁴³⁷ firms with $7 million or less in annual receipts; (4) for insurance carriers and entities in related activities,¹⁴³⁸ firms with $7 million or less in annual receipts; and (5) for funds, trusts, and other financial vehicles,¹⁴³⁹ firms with $7 million or less in annual receipts.¹⁴⁴⁰

¹⁴³² See 17 CFR 240.0-10(a).

¹⁴³³ See 17 CFR 240.17a-5(d).

¹⁴³⁴ See 17 CFR 240.0-10(c).

¹⁴³⁵ Including commercial banks, savings institutions, credit unions, firms involved in other depository credit intermediation, credit card issuing, sales financing, consumer lending, real estate credit, and international trade financing.

¹⁴³⁶ Including firms involved in secondary market financing, all other non-depository credit intermediation, mortgage and nonmortgage loan brokers, financial transactions processing, reserve and clearing house activities, and other activities related to credit intermediation.

¹⁴³⁷ Including firms involved in investment banking and securities dealing, securities brokerage, commodity contracts dealing, commodity contracts brokerage, securities and commodity exchanges, miscellaneous intermediation, portfolio management, providing investment advice, trust, fiduciary and custody activities, and miscellaneous financial investment activities.

¹⁴³⁸ Including direct life insurance carriers, direct health and medical insurance carriers, direct property and casualty insurance carriers, direct title insurance carriers, other direct insurance (except life, health and medical) carriers, reinsurance carriers, insurance agencies and brokerages, claims adjusting, third party administration of insurance and pension funds, and all other insurance related activities.

¹⁴³⁹ Including pension funds, health and welfare funds, other insurance funds, open-end investment funds, trusts, estates, and agency accounts, real estate investment trusts, and other financial vehicles.

¹⁴⁴⁰ See 13 CFR 121.201.

Based on available information about the security-based swap market, the market, while broad in scope, is largely dominated by entities such as those that would be covered by the SBSD and MSBSP definitions. Subject to certain exceptions, section 3(a)(71)(A) of the Exchange Act defines security-based swap dealer to mean any person who: (1) holds itself out as a dealer in security-based swaps; (2) makes a market in security-based swaps; (3) regularly enters into security-based swaps with counterparties as an ordinary course of business for its own account; or (4) engages in any activity causing it to be commonly known in the trade as a dealer or market maker in security-based swaps. Section 3(a)(67)(A) of the Exchange Act defines major security-based swap participant to be any person: (1) who is not an SBSD; and (2) who maintains a substantial position in security-based swaps for any of the major security-based swap categories, as such categories are determined by the Commission, excluding both positions held for hedging or mitigating commercial risk and positions maintained by any employee benefit plan (or any contract held by such a plan) as defined in paragraphs (3) and (32) of section 3 of the Employee Retirement Income Security Act of 1974 (29 U.S.C. 1002) for the primary purpose of hedging or mitigating any risk directly associated with the operation of the plan; whose outstanding security-based swaps create substantial counterparty exposure that could have serious adverse effects on the financial stability of the U.S. banking system or financial markets; or that is a financial entity that is highly leveraged relative to the amount of capital such entity holds and that is not subject to capital requirements established by an appropriate federal banking regulator; and maintains a substantial position in outstanding security-based swaps in any major security-based swap category, as such categories are determined by the Commission.¹⁴⁴¹

¹⁴⁴¹ See also Further Definition of “Swap Dealer,” “Security-Based Swap Dealer,” “Major Swap Participant,” “Major Security-Based Swap Participant” and “Eligible Contract Participant”, 77 FR 30743 (“The SEC continues to believe that the types of entities that would engage in more than a de minimis amount of dealing activity involving security-based swaps—which generally would be major banks—would not be `small entities' for purposes of the RFA. Similarly, the SEC continues to believe that the types of entities that may have security-based swap positions above the level required to be a `major security-based swap participant' would not be a `small entity' for purposes of the RFA. Accordingly, the SEC certifies that the final rules defining `security-based swap dealer' or `major security-based swap participant' would not have a significant economic impact on a substantial number of small entities for purposes of the RFA.”).

Based on feedback from industry participants about the security-based swap markets, entities that will qualify as SBSDs and MSBSPs, whether registered broker-dealers or not, will likely exceed the thresholds defining “small entities” set out above. Thus, it is unlikely that the requirements applicable to SBSD and MSBSPs that would be established under the proposed amendments to Rules 17a-3, 17a-4, 17a-5, and 17a-11, and proposed new Rules 18a-5, 18a-6, 18a-7 and 18a-8 and 18a-9, would have a significant economic impact on any small entity.

The Commission estimates that there are approximately 735 broker-dealers that were “small” for the purposes Rule 0-10.¹⁴⁴² The amendments to Rules 17a-3, 17a-4, and 17a-5 relating to making and keeping records that include details about security-based swaps and swaps and reporting information about security-based swaps and swaps would apply to all broker-dealers with such positions. These proposed amendments, therefore, would apply to all “small” broker-dealers in that they would be subject to the requirements in the proposed amendments. It is likely, however, that these proposed amendments would have no, or little, impact on “small” broker-dealers, since most, if not all, of these firms generally would not hold these types of positions. In addition, the technical amendments to Rules 17a-3, 17a-4, 17a-5, and 17a-11 would apply to all broker-dealers, including broker-dealers that are small. However, these amendments would have no impact on broker-dealers, including “small” broker-dealers, because they would not establish new substantive requirements.

¹⁴⁴² This estimate is based on the number of small broker-dealers as of December 31, 2012.

For the foregoing reasons, the Commission certifies that the proposed amendments to Rules 17a-3, 17a-4, 17a-5, and 17a-11, and new Rules 18a-5 through 18a-9, would not have a significant economic impact on any small entity for purposes of the RFA.

The Commission encourages written comments regarding this certification. The Commission requests that commenters describe the nature of any impact on small entities and provide empirical data to illustrate the extent of the impact.

VII. Small Business Regulatory Enforcement Fairness Act

Under the Small Business Regulatory Enforcement Fairness Act of 1996,¹⁴⁴³ a rule is considered “major” where, if adopted, it results or is likely to result in: (1) an annual effect on the economy of $100 million or more (either in the form of an increase or a decrease); (2) a major increase in costs or prices for consumers or individual industries; or (3) significant adverse effect on competition, investment, or innovation. The Commission requests comment on the potential impact of the proposed rule on the economy on an annual basis, any potential increase in costs or prices for consumers or individual industries, and any potential effect on competition, investment, or innovation. Commenters are requested to provide empirical data and other factual support for their view to the extent possible.

¹⁴⁴³ See Contract with America Advancement Act of 1996, Public Law 104-121, 110 Stat. 847 (1996) (codified in various sections of titles 5 and 15 of the U.S. Code, and as a note to 5 U.S.C. 601).

VIII. Statutory Basis and Text of the Proposed Amendments and New Rules

The Commission is proposing to revise Rules 17a-3, 17a-4, 17a-5, and 17a-11 under the Exchange Act (17 CFR 240.17a-3, 17 CFR 240.17a-4, 17 CFR 240.17a-5, and 17 CFR 240.17a-11), proposing to revise Rule 18a-1 under the Exchange Act (17 CFR 240.18a-1) [as proposed at 77 FR 70214, Nov. 23, 2012], and proposing to add new Rules 18a-5, 18a-6, 18a-7, and 18a-8 under the Exchange Act (17 CFR 240.18a-5, 17 CFR 240.18a-6, 17 CFR 240.18a-7, and 17 CFR 240.18a-8), and FOCUS Report Form SBS (17 CFR 249.617) pursuant to the authority conferred by the Exchange Act, including sections 15F, 17, 23(a) and 36.¹⁴⁴⁴

¹⁴⁴⁴ 15 U.S.C. 78o 10, 78q, 78w(a), and 78mm.

List of Subjects in 17 CFR Parts 240 and 249

Brokers, Confidential business information, Fraud, Reporting and recordkeeping requirements, Securities.

Text of the Amendments

For the reasons set out in the preamble, the Commission proposes to revise Title 17, Chapter II, of the Code of Federal Regulations as follows:

PART 240—GENERAL RULES AND REGULATIONS, SECURITIES EXCHANGE ACT OF 1934

1. The general authority citation for part 240 is revised to read, in part, as follows:

Authority: 15 U.S.C. 77c, 77d, 77g, 77j, 77s, 77z-2, 77z-3, 77eee, 77ggg, 77nnn, 77sss, 77ttt, 78c, 78c-3, 78c-5, 78d, 78e, 78f, 78g, 78i, 78j, 78j-1, 78k, 78k-1, 78l, 78m, 78n, 78n-1, 78o, 78o-4, 78o-10, 78p, 78q, 78q-1, 78s, 78u-5, 78w, 78x, 78ll, 78mm, 80a-20, 80a-23, 80a-29, 80a-37, 80b-3, 80b-4, 80b-11, 7201 et seq., and 8302; 7 U.S.C. 2(c)(2)(E); 12 U.S.C. 5221(e)(3); 18 U.S.C. 1350; and Pub. L. 111-203, 939A, 124 Stat. 1376 (2010), unless otherwise noted.

* * * * *

2. Section 240.17a-3 is amended by:

a. Revising the heading;

b. Adding an undesignated introductory paragraph;

c. Revising paragraphs (a) introductory text, (a)(1), (a)(3), (a)(4)(vi), (a)(4)(vii), (a)(5), (a)(6), (a)(7), (a)(8), (a)(9), (a)(10), (a)(11), (a)(12)(i) introductory text, (a)(12)(i)(A), (a)(12)(i)(E), (a)(12)(i)(F), (a)(12)(i)(G), (a)(12)(i)(H);

d. Removing the undesignated proviso paragraph at the end of paragraph (a)(12)(i);

e. Adding a note at the end of paragraph (a)(12)(i);

f. Revising paragraph (a)(12)(ii);

g. In paragraphs (a)(16)(ii)(A) and (B), removing the phrase “shall mean” and adding in its place “means”;

h. In paragraphs (a)(17)(i)(A), (B), (C) and (D), (a)(18), (a)(19), (a)(20) and (a)(22), removing “member,” wherever it appears;

i. In paragraphs (a)(17)(i)(A) and (B)(1), (a)(18)(i), and (a)(19)(i), removing the word “shall” and adding in its place “must” wherever it appears;

j. In paragraphs (a)(17)(i)(C) and (D), removing the word “shall” and adding in its place “will” wherever it appears;

k. Adding paragraphs (a)(24), (a)(25), (a)(26), (a)(27), (a)(28), (a)(29), and (a)(30);

l. Revising paragraph (b);

m. Removing paragraphs (c) and (d);

n. Redesignating paragraphs (e), (f), (g), and (h) as (c), (d), (e), and (f), respectively; and

o. Revising newly redesignated paragraphs (c), (d), (e), (f)(2), (f)(3), and (f)(4).

The additions and revisions read as follows:

§ 240.17a-3 Records to be made by certain brokers and dealers.

Section 240.17a-3 applies to a broker or dealer registered under section 15(b) of the Act (15 U.S.C. 78o(b)), including a broker or dealer also registered as a security-based swap dealer or major security-based swap participant under section 15F(b) of the Act (15 U.S.C. 78o-8(b)). A security-based swap dealer or major security-based swap participant registered under section 15F(b) of the Act that is not also registered as a broker or dealer under section 15(b) of the Act is subject to the books and records requirements under § 240.18a-5.

(a) Every broker or dealer must make and keep current the following books and records relating to its business:

(1) Blotters (or other records of original entry) containing an itemized daily record of all purchases and sales of securities (including security-based swaps), all receipts and deliveries of securities (including certificate numbers), all receipts and disbursements of cash and all other debits and credits. Such records must show the account for which each such purchase or sale was effected, the name and amount of securities, the unit and aggregate purchase or sale price (if any), the trade date, and the name or other designation of the person from whom such securities were purchased or received or to whom sold or delivered. For security-based swaps, such records must also show, for each purchase or sale, the type of security-based swap, the reference security, index, or obligor, the date and time of execution, the effective date, the termination or maturity date, the notional amount, the unique transaction identifier, and the unique counterparty identifier.

(2) * * *

(3) Ledger accounts (or other records) itemizing separately as to each cash, margin, or security-based swap account of every customer and of such broker or dealer and partners thereof, all purchases, sales, receipts and deliveries of securities (including security-based swaps) and commodities for such account, and all other debits and credits to such account; and, in addition, for a security-based swap, the type of security-based swap, the reference security, index, or obligor, the date and time of execution, the effective date, the termination or maturity date, the notional amount, the unique transaction identifier, and the unique counterparty identifier.

(4) * * *

(vi) All long and all short securities record differences arising from the examination, count, verification, and comparison pursuant to §§ 240.17a-5, 240.17a-12, and 240.17a-13 (by date of examination, count, verification, and comparison showing for each security the number of long or short count differences); and

(vii) Repurchase and reverse repurchase agreements.

(5) A securities record or ledger reflecting separately for each:

(i) Security, other than a security-based swap, as of the clearance dates all “long” or “short” positions (including securities in safekeeping and securities that are the subjects of repurchase or reverse repurchase agreements) carried by such broker or dealer for its account or for the account of its customers or partners, or others, and showing the location of all securities long and the offsetting position to all securities short, including long security count differences and short security count differences classified by the date of the physical count and verification in which they were discovered, and in all cases the name or designation of the account in which each position is carried.

(ii) Security-based swap, the reference security, index, or obligor, the unique transaction identifier, the unique counterparty identifier, whether it is a “long” or “short” position in the security-based swap, whether the security-based swap is cleared or not cleared, and if cleared, identification of the clearing agency where the security-based swap is cleared.

(6)(i) A memorandum of each brokerage order, and of any other instruction, given or received for the purchase or sale of a security, except for the purchase or sale of a security-based swap, whether executed or unexecuted.

(A) The memorandum must show the terms and conditions of the order or instructions and of any modification or cancellation thereof, the account for which entered, the time the order was received, the time of entry, the price at which executed, the identity of each associated person, if any, responsible for the account, the identity of any other person who entered or accepted the order on behalf of the customer, or, if a customer entered the order on an electronic system, a notation of that entry, and, to the extent feasible, the time of execution or cancellation. The memorandum need not show the identity of any person, other than the associated person responsible for the account, who may have entered or accepted the order if the order is entered into an electronic system that generates the memorandum and if that system is not capable of receiving an entry of the identity of any person other than the responsible associated person; in that circumstance, the broker or dealer must produce upon request by a representative of a securities regulatory authority a separate record which identifies each other person. An order entered pursuant to the exercise of discretionary authority by the broker or dealer, or associated person thereof, must be so designated. The term instruction must include instructions between partners and employees of a broker or dealer. The term time of entry means the time when the broker or dealer transmits the order or instruction for execution.

(B) The memorandum need not be made as to a purchase, sale or redemption of a security on a subscription way basis directly from or to the issuer, if the broker or dealer maintains a copy of the customer's or non-customer's subscription agreement regarding a purchase, or a copy of any other document required by the issuer regarding a sale or redemption.

(ii) A memorandum of each brokerage order, and of any other instruction, given or received for the purchase or sale of a security-based swap, whether executed or unexecuted. The memorandum must show the terms and conditions of the order or instructions and of any modification or cancellation thereof; the account for which entered; the time the order was received; the time of entry; the price at which executed; the identity of each associated person, if any, responsible for the account; the identity of any other person who entered or accepted the order on behalf of the customer, or, if a customer entered the order on an electronic system, a notation of that entry; and, to the extent feasible, the time of cancellation, if applicable. The memorandum also must include the type of the security-based swap, the reference security, index, or obligor, the date and time of execution, the effective date, the termination or maturity date, the notional amount, the unique transaction identifier, and the unique counterparty identifier. An order entered pursuant to the exercise of discretionary authority must be so designated.

(7)(i) A memorandum of each purchase or sale of a security, other than for the purchase or sale of a security-based swap, for the account of the broker or dealer showing the price and, to the extent feasible, the time of execution; and, in addition, where the purchase or sale is with a customer other than a broker or dealer, a memorandum of each order received, showing the time of receipt; the terms and conditions of the order and of any modification thereof; the account for which it was entered; the identity of each associated person, if any, responsible for the account; the identity of any other person who entered or accepted the order on behalf of the customer, or, if a customer entered the order on an electronic system, a notation of that entry. The memorandum need not show the identity of any person other than the associated person responsible for the account who may have entered the order if the order is entered into an electronic system that generates the memorandum and if that system is not capable of receiving an entry of the identity of any person other than the responsible associated person. In that circumstance, the broker or dealer must produce upon request by a representative of a securities regulatory authority a separate record that identifies each other person. An order with a customer other than a broker or dealer entered pursuant to the exercise of discretionary authority by the broker or dealer, or associated person thereof, must be so designated.

(ii) A memorandum of each purchase or sale of a security-based swap for the account of the broker or dealer showing the price; and, in addition, where the purchase or sale is with a customer other than a broker or dealer, a memorandum of each order received, showing the time of receipt; the terms and conditions of the order and of any modification thereof; the account for which it was entered; the identity of any other person who entered or accepted the order on behalf of the customer, or, if a customer entered the order on an electronic system, a notation of that entry. The memorandum must also include the type of security-based swap, the reference security, index, or obligor, the date and time of execution, the effective date, the termination or maturity date, the notional amount, the unique transaction identifier, and the unique counterparty identifier. An order entered pursuant to the exercise of discretionary authority must be so designated.

(8)(i) With respect to a security other than a security-based swap, copies of confirmations of all purchases and sales of securities, including all repurchase and reverse repurchase agreements, and copies of notices of all other debits and credits for securities, cash and other items for the account of customers and partners of such broker or dealer.

(ii) With respect to a security-based swap, copies of the security-based swap trade acknowledgement and verification made in compliance with § 240.15Fi-1 [previously proposed at 76 FR 3859, Jan. 21, 2011].

(9) A record with respect to each cash, margin, and security-based swap account with such broker or dealer indicating, as applicable:

(i) The name and address of the beneficial owner of such account,

(ii) Except with respect to exempt employee benefit plan securities as defined in § 240.14a-1(d), but only to the extent such securities are held by employee benefit plans established by the issuer of the securities, whether or not the beneficial owner of securities registered in the name of such brokers or dealers, or a registered clearing agency or its nominee objects to disclosure of his or her identity, address, and securities positions to issuers,

(iii) In the case of a margin account, the signature of such owner; Provided, That, in the case of a joint account or an account of a corporation, such records are required only in respect of the person or persons authorized to transact business for such account, and

(iv) In the case of a security-based swap account, a record of the unique counterparty identifier, the name and address of such counterparty, and the signature of each person authorized to transact business in the security-based swap account.

(10) A record of all puts, calls, spreads, straddles, and other options in which such broker or dealer has any direct or indirect interest or which such broker or dealer, has granted or guaranteed, containing, at least, an identification of the security, and the number of units involved. An OTC derivatives dealer must also keep a record of all eligible OTC derivative instruments as defined in § 240.3b-13 in which the OTC derivatives dealer has any direct or indirect interest or which it has written or guaranteed, containing, at a minimum, an identification of the security or other instrument, the number of units involved, and the identity of the counterparty.

(11) A record of the proof of money balances of all ledger accounts in the form of trial balances and a record of the computation of aggregate indebtedness and net capital, as of the trial balance date, pursuant to § 240.15c3-1. The computation need not be made by any broker or dealer unconditionally exempt from § 240.15c3-1 by paragraph § 240.15c3-1(b)(1) or (b)(3). Such trial balances and computations must be prepared currently at least once a month.

(12)(i) A questionnaire or application for employment executed by each associated person (as defined in paragraph (f)(4) of this section) of the broker or dealer, which questionnaire or application must be approved in writing by an authorized representative of the broker or dealer and must contain at least the following information with respect to the associated person:

(A) The associated person's name, address, social security number, and the starting date of the associated person's employment or other association with the broker or dealer;

* * * * *

(E) A record of any denial, suspension, expulsion, or revocation of membership or registration of any broker or dealer with which the associated person was associated in any capacity when such action was taken;

(F) A record of any permanent or temporary injunction entered against the associated person or any broker or dealer with which the associated person was associated in any capacity at the time such injunction was entered;

(G) A record of any arrest or indictment for any felony, or any misdemeanor pertaining to securities, commodities, banking, insurance or real estate (including, but not limited to, acting or being associated with a broker or dealer, investment company, investment adviser, futures sponsor, bank, or savings and loan association), fraud, false statements or omissions, wrongful taking of property, bribery, forgery, counterfeiting, or extortion, and the disposition of the foregoing; and

(H) A record of any other name or names by which the associated person has been known or which the associated person has used.

Note to paragraph (a)(12)(i). Provided, however, that if such associated person has been registered as a registered representative of such broker or dealer with, or the associated person's employment has been approved by a self-regulatory organization, then retention of a full, correct, and complete copy of any and all applications for such registration or approval will be deemed to satisfy the requirements of this paragraph.

(ii) A record listing every associated person of the broker or dealer which shows, for each associated person, every office of the broker or dealer, where the associated person regularly conducts the business of handling funds or securities or effecting any transactions in, or inducing or attempting to induce the purchase or sale of any security for the broker or dealer and the Central Registration Depository number, if any, and every internal identification number or code assigned to that person by the broker or dealer.

* * * * *

(24) A report of the results of the monthly liquidity stress test, a record of the assumptions underlying the liquidity stress test, and the liquidity funding plan required under § 240.15c3-1(f), if applicable.

(25) A record of the daily calculation of the amount of equity and, if applicable, the margin amount for each account of a counterparty required under § 240.18a-3(c) [previously proposed at 77 FR 70214, Nov. 23, 2012].

(26) A record of compliance with possession or control requirements under § 240.18a-4(b) [previously proposed at 77 FR 70214, Nov. 23, 2012].

(27) A record of the reserve computation required under § 240.18a-4(c) [previously proposed at 77 FR 70214, Nov. 23, 2012].

(28) A record of each security-based swap transaction that is not verified under § 240.15Fi-1 [previously proposed at 76 FR 3859, Jan. 21, 2011] within five business days of execution that includes, at a minimum, the unique transaction identifier and unique counterparty identifier.

(29) A record that demonstrates the broker or dealer has complied with the business conduct standards as required under § 240.15Fh-6 [previously proposed at 76 FR 42396, July 18, 2011].

(30) A record that demonstrates the broker or dealer has complied with the business conduct standards as required under § 240.15Fh-1 through § 240.15Fh-5 and § 240.15Fk-1 [previously proposed at 76 FR 42396, July 18, 2011].

(b) A broker or dealer registered pursuant to Section 15 of the Act (15 U.S.C. 78o), that introduces accounts on a fully-disclosed basis, is not required to make or keep such records of transactions cleared for such broker or dealer as are made and kept by a clearing broker or dealer pursuant to the requirements of §§ 240.17a-3 and 17a-4. Nothing herein contained will be deemed to relieve such broker or dealer from the responsibility that such books and records be accurately maintained and preserved as specified in §§ 240.17a-3 and 17a-4.

(c) For purposes of transactions in municipal securities by municipal securities brokers and municipal securities dealers, compliance with Rule G-8 of the Municipal Securities Rulemaking Board or any successor rule will be deemed to be in compliance with this section.

(d) Security futures products. The provisions of this section will not apply to security futures product transactions and positions in a futures account (as that term is defined in § 240.15c3-3(a)(15)); provided, that the Commodity Futures Trading Commission's recordkeeping rules apply to those transactions and positions.

(e) Every broker or dealer must make and keep current, as to each office, the books and records described in paragraphs (a)(1), (a)(6), (a)(7), (a)(12), (a)(17), (a)(18)(i), (a)(19), (a)(20), (a)(21), and (a)(22) of this section.

(f) * * *

(1) * * *

(2) The term principal means any individual registered with a registered national securities association as a principal or branch manager of a broker or dealer or any other person who has been delegated supervisory responsibility over associated persons by the broker or dealer.

(3) The term securities regulatory authority means the Commission, any self-regulatory organization, or any securities commission (or any agency or office performing like functions) of the States; the Commodities Futures Trading Commission and a prudential regulator to the extent the prudential regulator oversees security-based swap activities.

(4) The term associated person means a “person associated with a broker or dealer” or “person associated with a security-based swap dealer or major security-based swap participant” as defined in sections 3(a)(18) and 3(a)(70) of the Act (15 U.S.C. 78c(a)(18) and (a)(70)) respectively, but will not include persons whose functions are solely clerical or ministerial.

* * * * *

3. Section 240.17a-4 is amended by:

a. Revising the heading;

b. Adding an undesignated introductory paragraph;

c. Revising paragraphs (a), (b) introductory text, (b)(1), (b)(3), (b)(4), (b)(5), (b)(7), (b)(8) introductory text, (b)(8)(i), (b)(8)(v), (b)(8)(vi), (b)(8)(vii), (b)(8)(viii), and (b)(8)(xiii);

d. Adding paragraph (b)(8)(xvi);

e. Redesignating paragraph (b)(8)(xv) as paragraph (b)(8)(xvii);

f. Redesignating paragraph (b)(8)(xiv) as paragraph (b)(8)(xv);

g. Adding new paragraph (b)(8)(xiv);

h. Revising newly redesignated paragraph (b)(8)(xv);

i. In paragraph (b)(11), removing the word “shall” and adding in its place “must”;

j. Adding paragraphs (b)(14), (b)(15), and (b)(16);

k. Revising paragraphs (c), (d), (e) introductory text, and (e)(1), (e)(2), (e)(3), and (e)(4);

l. In paragraphs (e)(6), (e)(7), and (e)(8), removing “member,” wherever it appears;

m. In the last sentence of paragraph (e)(8), removing the word “shall” and adding in its place “must”;

n. In paragraph (f) introductory text, removing the word “paragraph,” and adding in its place “section”;

o. In paragraphs (f)(2) introductory text, (f)(2)(i), (f)(2)(ii)(D), and (f)(3) introductory text, removing “member, broker, or dealer” and adding in its place “broker or dealer” wherever it appears;

p. In paragraph (f)(3)(ii), removing “member, broker or dealer” and adding in its place “broker or dealer”;

q. In paragraphs (f)(3)(iv)(A), (f)(3)(v) introductory text, (f)(3)(v)(A), and (f)(3)(vi), removing “member, broker, or dealer” and adding in its place “broker or dealer” wherever it appears;

r. In paragraphs (f)(2) introductory text, (f)(3) introductory text, and (f)(3)(vii), removing the word “shall” and adding in its place “must”;

s. In paragraph (f)(3)(iv)(B), removing “each index.” and adding in its place “the index.”;

t. In paragraph (f)(3)(vi), removing the phrase “the self-regulatory organizations” and adding in its place “any self-regulatory organization”;

u. Revising paragraphs (f)(3)(vii) and (g);

v. In paragraph (h), adding the phrase “or any successor rule” after the word “Board”.

w. In paragraph (i), removing “member,” wherever it appears, in the first sentence removing the phrase “such outside entity shall” and adding in its place “such outside entity must”, and in the last sentence removing the phrase “Agreement with an outside entity shall” and adding in its place “Agreement with an outside entity will”;

x. In paragraph (j), removing “member,” wherever it appears, removing the phrase “broker and dealer” and adding in its place “broker or dealer”, and removing the word “shall” and adding in its place “must”;

y. In paragraph (k)(1), removing “member,” before “broker or dealer”, and removing the word “shall” and adding in its place “must” wherever it appears;

z. In paragraph (k)(2), removing “member,”;

aa. In paragraph (l) removing “member,” wherever it appears, and removing the phrase § 240.17a-3(g) and adding in its place § 240.17a-3(e);

bb. Revising paragraph (m)(1) through (m)(4); and

cc. Adding paragraph (m)(5).

The additions and revisions read as follows:

§ 240.17a-4 Records to be preserved by certain brokers and dealers.

Section 240.17a-4 applies to a broker or dealer registered under section 15(b) of the Act (15 U.S.C. 78o(b)), including a broker or dealer also registered as a security-based swap dealer or major security-based swap participant under section 15F(b) of the Act (15 U.S.C. 78o-8(b)). A security-based swap dealer or major security-based swap participant registered under section 15F(b) of the Act that is not also registered as a broker or dealer under section 15(b) of the Act is subject to the record maintenance and preservation requirements under § 240.18a-6.

(a) Every broker or dealer subject to § 240.17a-3 must preserve for a period of not less than six years, the first two years in an easily accessible place, all records required to be made pursuant to §§ 240.17a-3(a)(1), (a)(2), (a)(3), (a)(5), (a)(21), (a)(22), and analogous records created pursuant to § 240.17a-3(d).

(b) Every broker or dealer subject to § 240.17a-3 must preserve for a period of not less than three years, the first two years in an easily accessible place:

(1) All records required to be made pursuant to § 240.17a-3(a)(4), (a)(6), (a)(7), (a)(8), (a)(9), (a)(10), (a)(11), (a)(16), (a)(18), (a)(19), (a)(20), (a)(24), (a)(25), (a)(26), (a)(27), (a)(28), (a)(29), and (a)(30), and analogous records created pursuant to § 240.17a-3(e).

(2) * * *

(3) All bills receivable or payable (or copies thereof), paid or unpaid, relating to the business of such, broker or dealer, as such.

(4) Originals of all communications received and copies of all communications sent (and any approvals thereof) by the broker or dealer (including inter-office memoranda and communications) relating to its business as such, including all communications which are subject to rules of a self-regulatory organization of which the broker or dealer is a member regarding communications with the public. As used in this paragraph (b)(4), the term communications includes sales scripts and recordings of telephone calls required to be maintained pursuant to section 15F(g)(1) of the Act (15 U.S.C. 78o-10(g)(1)).

(5) All trial balances, computations of aggregate indebtedness and net capital (and working papers in connection therewith), financial statements, branch office reconciliations, and internal audit working papers, relating to the business of such broker or dealer, as such.

(6) * * *

(7) All written agreements (or copies thereof) entered into by such broker or dealer relating to its business as such, including agreements with respect to any account. Written agreements with respect to a security-based swap customer or non-customer, including governing documents or any document establishing the terms and conditions of the customer's or non-customer's securities-based swaps must be maintained with the customer's or non-customer's account records.

(8) Records which contain the following information in support of amounts included in the report prepared as of the audit date on Form X-17A-5 (§ 249.617 of this chapter) Part II, or Part IIA or Part IIB, or Form SBS (§ 249.617 of this chapter), as applicable, and in the annual financial statements required by § 240.17a-5(d) and § 240.17a-12(b):

(i) Money balance and position, long or short, including description, quantity, price, and valuation of each security including contractual commitments in customers' accounts, in cash and fully secured accounts, partly secured accounts, unsecured accounts, and in securities accounts payable to customers;

* * * * *

(v) Description of futures commodity contracts or swaps, contract value on trade date, market value, gain or loss, and liquidating equity or deficit in customers' and non-customers' accounts;

(vi) Description of futures commodity contracts or swaps, contract value on trade date, market value, gain or loss, and liquidating equity or deficit in trading and investment accounts;

(vii) Description, money balance, quantity, price, and valuation of each spot commodity, and swap position or commitments in customers' and non-customers' accounts;

(viii) Description, money balance, quantity, price, and valuation of each spot commodity, and swap position or commitments in trading and investment accounts;

* * * * *

(xiii) Detail relating to information for possession or control requirements under § 240.15c3-3 and reported on the schedule in Part II or IIA of Form X-17A-5, or Form SBS (§ 249.617 of this chapter), as applicable;

(xiv) Detail relating to information for possession or control requirements under § 240.18a-4 [as proposed at 77 FR 70214, Nov. 23, 2012] and reported on Form SBS (§ 249.617 of this chapter);

(xv) Detail of all items, not otherwise substantiated, which are charged or credited in the Computation of Net Capital pursuant to § 240.15c3-1, such as cash margin deficiencies, deductions related to securities values and undue concentration, aged securities differences, and insurance claims receivable;

(xvi) Detail relating to the calculation of the risk margin amount pursuant to § 240.15c3-1(c)(16); and

* * * * *

(14) A copy of information required to be reported under Regulation SBSR § 242.901 et seq. of this chapter;

(15) Copies of documents, communications, disclosures, and notices related to business conduct standards as required under § 240.15Fh-1 through § 240.15Fh-6 and § 240.15Fk-1 [as proposed at 76 FR 42396, July 18, 2011];

(16) Copies of documents used to make a reasonable determination with respect to special entities, including information relating to the financial status, the tax status, the investment or financing objectives of the special entity as required under section 15F(h)(4)(C) and (5)(A) of the Act (15 U.S.C. 78o-10(h)(4)(C) and (5)(A)).

(c) Every broker or dealer subject to § 240.17a-3 must preserve for a period of not less than six years after the closing of any customer's account any account cards or records which relate to the terms and conditions with respect to the opening and maintenance of the account.

(d) Every broker or dealer subject to § 240.17a-3 must preserve during the life of the enterprise and of any successor enterprise all partnership articles or, in the case of a corporation, all articles of incorporation or charter, minute books, and stock certificate books (or, in the case of any other form of legal entity, all records such as articles of organization or formation, and minute books used for a purpose similar to those records required for corporations or partnerships), all Forms BD (§ 249.501 of this chapter), all Forms BDW (§ 249.501a of this chapter), all Forms SBSE-BD (§ 249.617 of this chapter), all Forms SBSE-W (§ 249.617 of this chapter), all amendments to these forms, all licenses or other documentation showing the registration of the broker or dealer with any securities regulatory authority.

(e) Every broker or dealer subject to § 240.17a-3 must maintain and preserve in an easily accessible place:

(1) All records required under § 240.17a-3(a)(12) until at least three years after the associated person's employment and any other connection with the broker or dealer has terminated.

(2) All records required under § 240.17a-3(a)(13) until at least three years after the termination of employment or association of those persons required by § 240.17f-2 to be fingerprinted.

(3) All records required pursuant to § 240.17a-3(a)(15) during the life of the enterprise.

(4) All records required pursuant to § 240.17a-3(a)(14) for three years.

* * * * *

(f) * * *

(3) * * *

(vii) For every broker or dealer exclusively using electronic storage media for some or all of its record preservation under this section, at least one third party (the undersigned), who has access to and the ability to download information from the broker's or dealer's electronic storage media to any acceptable medium under this section, must file with the designated examining authority for the broker or dealer the following undertakings with respect to such records:

The undersigned hereby undertakes to furnish promptly to the U.S. Securities and Exchange Commission (“Commission”), its designees or representatives, any self-regulatory organization of which it is a member, or any State securities regulator having jurisdiction over the broker or dealer, upon reasonable request, such information as deemed necessary by the staffs of the Commission, any self-regulatory organization of which it is a member, or any State securities regulator having jurisdiction over the broker or dealer to download information kept on the broker's or dealer's electronic storage media to any medium acceptable under § 240.17a-4. Furthermore, the undersigned hereby undertakes to take reasonable steps to provide access to information contained on the broker's or dealer's electronic storage media, including, as appropriate, arrangements for the downloading of any record required to be maintained and preserved by the broker or dealer pursuant to §§ 240.17a-3 and 17a-4 in a format acceptable to the staffs of the Commission, any self-regulatory organization of which it is a member, or any State securities regulator having jurisdiction over the broker or dealer. Such arrangements will provide specifically that in the event of a failure on the part of a broker or dealer to download the record into a readable format and after reasonable notice to the broker or dealer, upon being provided with the appropriate electronic storage medium, the undersigned will undertake to do so, as the staffs of the Commission, any self-regulatory organization of which it is a member, or any State securities regulator having jurisdiction over the broker or dealer may request.

(g) If a person who has been subject to § 240.17a-3 ceases to transact a business in securities directly with others than members of a national securities exchange, or ceases to transact a business in securities through the medium of a member of a national securities exchange, or ceases to be registered pursuant to section 15 of the Act (15 U.S.C. 78o) such person must, for the remainder of the periods of time specified in this section, continue to preserve the records which it theretofore preserved pursuant to this section.

* * * * *

(m) * * *

(1) The term office has the meaning set forth in § 240.17a-3(f)(1).

(2) The term principal has the meaning set forth in § 240.17a-3(f)(2).

(3) The term securities regulatory authority has the meaning set forth in § 240.17a-3(f)(3).

(4) The term associated person has the meaning set forth in § 240.17a-3(f)(4).

(5) The term business as such includes the business as a security-based swap dealer or major security-based swap participant with respect to a broker or dealer that is registered under section 15F of the Act (15 U.S.C. 78o-10) as a security-based swap dealer or major security-based swap participant.

4. Section 240.17a-5 is amended by:

a. Revising the heading;

b. Adding an undesignated introductory paragraph;

c. Revising paragraph (a) introductory text and removing paragraph (a)(1);

d. Redesignating paragraphs (a)(2), (a)(3), (a)(4), (a)(5), (a)(6), and (a)(7) as paragraphs (a)(1) (a)(2), (a)(3), (a)(4), (a)(5), and (a)(6), respectively;

e. Revising newly redesignated paragraphs (a)(1) introductory text, (a)(1)(ii), (a)(1)(iii), and (a)(1)(iv);

f. Adding paragraph (a)(1)(v);

g. In newly redesignated paragraphs (a)(2) and (a)(6), removing the word “shall” and adding in its place “will”;

h. Revising newly redesignated paragraphs (a)(3), (a)(4), and (a)(5);

i. Revising paragraph (b)(1);

j. In paragraphs (b)(3), (b)(4), and (b)(5), removing the word “shall” and adding in its place “will” wherever it appears;

k. In paragraphs (c)(1) introductory text, (c)(2), (c)(2)(i), and (c)(2)(ii) removing the word “shall” and adding in its place “must” wherever it appears;

l. Revising paragraph (c)(3);

m. In paragraph (c)(4)(iii), removing the word “shall” and adding in its place “must” where it appears;

n. In paragraph (c)(5)(i)(C), adding “(c)(2)” before “(iv)”;

o. In paragraph (c)(5)(iii)(C), removing the word “Home” and adding in its place “home” wherever it appears;

p. Revising paragraphs (d)(1)(i)(B)(1), (d)(1)(i)(B)(2), (d)(2)(i), (d)(2)(ii), (d)(2)(iii), (d)(3)(i)(A)(4), (d)(3)(i)(A)(5), (d)(3)(i)(C);

q. In paragraph (d)(3)(ii), adding the phrase “§ 240.18a-4,” after the phrase “§ 240.17a-13,”;

r. Revising paragraphs (d)(3)(iii), (e)(1)(ii), (e)(2), and (e)(3);

s. Revising paragraphs (f)(2)(ii)(E) and (f)(2)(ii)(F);

t. In the fifth sentence of paragraph (f)(3)(v)(B), adding the word “the” before the phrase “independent public accountant does not agree”;

u. Revising paragraphs (g)(2)(i), (g)(2)(ii), (h), and note to paragraph (h);

v. Revising paragraphs (i)(3)(iii)(A) and (i)(3)(iii)(B), and (i)(4);

w. Removing and reserving paragraph (j);

x. In paragraph (k) introductory text, removing the word “shall” and adding in its place “must” wherever it appears, and removing the phrase “Market Regulation”, and adding tin its place “Trading and Markets”;

y. In paragraph (l), removing the phrase “Securities Exchange Act of 1934”, and adding in its place “Act,” and removing the word “shall” and adding in its place “must”;

z. In paragraph (m)(1), removing the word “shall” and adding in its place “must”;

aa. In paragraph (m)(2), removing “(48 Stat. 882; 15 U.S.C. 78c)” and “(78 Stat. 565; 15 U.S.C. 78c)” and adding in their place “(15 U.S.C. 78c)” and “(15 U.S.C. 78c)”, respectively;

bb. In paragraph (m)(4), removing the phrase “shall” and adding in its place “will”;

cc. In paragraph (n)(2), removing the word “shall” and adding in its place “must”; and

dd. Revising paragraph (o).

The additions and revisions read as follows:

§ 240.17a-5 Reports to be made by certain brokers and dealers.

Section 240.17a-5 applies to a broker or dealer registered under section 15(b) of the Act (15 U.S.C. 78o(b)), including a broker or dealer also registered as a security-based swap dealer or major security-based swap participant under section 15F(b) of the Act (15 U.S.C. 78o-8(b)). A security-based swap dealer or major security-based swap participant registered under section 15F(b) of the Act that is not also registered as a broker or dealer under section 15(b) of the Act is subject to the reporting requirements under § 240.18a-7.

(a) Monthly and Quarterly Reports.

(1) Filing of Reports

(i) * * *

(ii) Every broker or dealer subject to this paragraph (a) who clears transactions or carries customer accounts and that is not registered as a security-based swap dealer or major security-based swap participant under section 15F of the Act (15 U.S.C. 78o-10) must file with the Commission an executed Part II of Form X-17A-5 (§ 249.617 of this chapter) within 17 business days after the end of the calendar quarter and within 17 business days after the end of the fiscal year of the broker or dealer where that date is not the end of a calendar quarter. Certain of such brokers or dealers must file with the Commission an executed Part IIA in lieu thereof if the nature of their business is limited as described in the instructions to Part II of Form X-17A-5 (§ 249.617 of this chapter).

(iii) Every broker or dealer that neither clears transactions nor carries customer accounts and that is not registered as a security-based swap dealer or major security-based swap participant under section 15F of the Act (15 U.S.C. 78o-10) must file with the Commission an executed Part IIA of Form X-17A-5 (§ 249.617 of this chapter) within 17 business days after the end of each calendar quarter and within 17 business days after the end of the fiscal year of the broker or dealer where that date is not the end of a calendar quarter.

(iv) Every broker or dealer that is registered as a security-based swap dealer or major security-based swap participant under section 15F of the Act (15 U.S.C. 78o-10) must file with the Commission an executed Form SBS (§ 249.617 of this chapter) within 17 business days after the end of each month.

(v) Upon receiving written notice from the Commission or the examining authority designated pursuant to section 17(d) of the Act (15 U.S.C. 78q(d)) (“designated examining authority”), a broker or dealer who receives such notice must file with the Commission on a monthly basis, or at such times as will be specified, an executed Part II or Part IIA of Form X-17A-5 (§ 249.617 of this chapter), or an executed Form SBS (§ 249.617 of this chapter), and such other financial or operational information as will be required by the Commission or the designated examining authority.

(2) The reports provided for in this paragraph (a) that must be filed with the Commission will be considered filed when received at the Commission's principal office in Washington, DC, and the regional office of the Commission for the region in which the broker or dealer has its principal place of business. All reports filed pursuant to this paragraph (a) will be deemed to be confidential.

(3) The provisions of paragraph (a)(1) of this section will not apply to a member of a national securities exchange or a registered national securities association if said exchange or association maintains records containing the information required by Part I, Part II, or Part IIA of Form X-17A-5 (§ 249.617 of this chapter) or Form SBS (§ 249.617 of this chapter), as to such member, and transmits to the Commission a copy of the applicable parts of Form X-17A-5 (§ 249.617 of this chapter) or Form SBS (§ 249.617 of this chapter) as to such member, pursuant to a plan, the procedures and provisions of which have been submitted to and declared effective by the Commission. Any such plan filed by a national securities exchange or a registered national securities association may provide that when a member is also a member of one or more national securities exchanges, or of one or more national securities exchanges and a registered national securities association, the information required to be submitted with respect to any such member may be submitted by only one specified national securities exchange or registered national securities association. For the purposes of this section, a plan filed with the Commission by a national securities exchange or a registered national securities association will not become effective unless the Commission, having due regard for the fulfillment of the Commission's duties and responsibilities under the provisions of the Act, declares the plan to be effective. Further, the Commission, in declaring any such plan effective, may impose such terms and conditions relating to the provisions of the plan and the period of its effectiveness as may be deemed necessary or appropriate in the public interest, for the protection of investors, or to carry out the Commission's duties and responsibilities under the Act.

(4) Every broker or dealer subject to this paragraph (a) must file Form Custody (§ 249.639 of this chapter) with its designated examining authority within 17 business days after the end of each calendar quarter and within 17 business days after the end of the fiscal year of the broker or dealer where that date is not the end of a calendar quarter. The designated examining authority must maintain the information obtained through the filing of Form Custody and must promptly transmit that information to the Commission at such time as it transmits the applicable part of Form X-17A-5 (§ 249.617 of this chapter), or Form SBS (§ 249.617 of this chapter) as required in paragraph (a)(2) of this section.

(5) Each broker or dealer that computes certain of its capital charges in accordance with § 240.15c3-1e must file the following additional reports with the Commission:

(i) For each product for which the broker or dealer calculates a deduction for market risk other than in accordance with § 240.15c3-1e(b)(1) or (b)(3), the product category and the amount of the deduction for market risk within 17 business days after the end of the month;

(ii) A graph reflecting, for each business line, the daily intra-month VaR within 17 business days after the end of the month;

(iii) The aggregate value at risk for the broker or dealer within 17 business days after the end of the month;

(iv) For each product for which the broker or dealer uses scenario analysis, the product category and the deduction for market risk within 17 business days after the end of the month;

(v) Credit risk information on derivatives exposures within 17 business days after the end of the month, including:

(A) Overall current exposure;

(B) Current exposure (including commitments) listed by counterparty for the 15 largest exposures;

(C) The ten largest commitments listed by counterparty;

(D) The broker's or dealer's maximum potential exposure listed by counterparty for the 15 largest exposures;

(E) The broker's or dealer's aggregate maximum potential exposure;

(F) A summary report reflecting the broker's or dealer's current and maximum potential exposures by credit rating category; and

(G) A summary report reflecting the broker's or dealer's current exposure for each of the top ten countries to which the broker or dealer is exposed (by residence of the main operating group of the counterparty);

(vi) Regular risk reports supplied to the broker's or dealer's senior management in the format described in the application;

(vii) The results of the liquidity stress test required by § 240.15c3-1(f) within 17 business days after the end of the month;

(viii) A report identifying the number of business days for which the actual daily net trading loss exceeded the corresponding daily VaR within 17 business days after the end of each calendar quarter; and

(ix) The results of backtesting of all internal models used to compute allowable capital, including VaR and credit risk models, indicating the number of backtesting exceptions within 17 business days after the end of the calendar quarter.

* * * * *

(b) * * *

(1) If a broker or dealer holding any membership interest in a national securities exchange or registered national securities association ceases to be a member in good standing of such exchange or association, such broker or dealer must, within two business days after such event, file with the Commission Part II or Part IIA of Form X-17A-5 (§ 249.617 of this chapter) or Form SBS (§ 249.617 of this chapter) as determined by the standards set forth in paragraphs (a)(1) (ii), (iii), and (iv) of this section as of the date of such event. The report must be filed at the Commission's principal office in Washington, DC, and with the regional office of the Commission for the region in which the broker or dealer has its principal place of business: Provided, however, That such report need not be made or filed if the Commission, upon written request or upon its own motion, exempts such broker or dealer, either unconditionally or on specified terms and conditions, from such requirement: Provided, further, That the Commission may, upon request of the broker or dealer, grant extensions of time for filing the report specified herein for good cause shown.

* * * * *

(c) * * *

(3) Unaudited statements to be furnished. Unaudited statements dated 6 months from the date of the audited statements required to be furnished by paragraphs (c)(1) and (c)(2) of this section must be furnished within 65 days after the date of the unaudited statements. The unaudited statements may be furnished 70 days after that time limit has expired if the broker or dealer sends them with the next mailing of the broker's or dealer's quarterly customer statements of account. In that case, the broker or dealer must include a statement in that mailing of the amount of the broker's or dealer's net capital and its required net capital in accordance with § 240.15c3-1, as of a fiscal month end that is within the 75-day period immediately preceding the date the statements are sent to customers. The unaudited statements must contain the information specified in paragraphs (c)(2)(i) and (c)(2)(ii) of this section.

* * * * *

(d) * * *

(1) * * *

(i) * * *

(B)(1) If the broker or dealer did not claim it was exempt from § 240.15c3-3 throughout the most recent fiscal year or the broker or dealer is subject to § 240.18a-4 [as proposed at 77 FR 70214, Nov. 23, 2012], a compliance report as described in paragraph (d)(3) of this section executed by the person who makes the oath or affirmation under paragraph (e)(2) of this section; or

(2) If the broker or dealer did claim it was exempt from § 240.15c3-3 throughout the most recent fiscal year and the broker or dealer is not subject § 240.18a-4 [as proposed at 77 FR 70214, Nov. 23, 2012], an exemption report as described in paragraph (d)(4) of this section executed by the person who makes the oath or affirmation under paragraph (e)(2) of this section;

* * * * *

(2) * * *

(i) A Statement of Financial Condition, a Statement of Income, a Statement of Cash Flows, a Statement of Changes in Stockholders' or Partners' or Sole Proprietor's Equity, and a Statement of Changes in Liabilities Subordinated to Claims of General Creditors. The statements must be prepared in accordance with U.S. generally accepted accounting principles and must be in a format that is consistent with the statements contained in Form X-17A-5 (§ 249.617 of this chapter) Part II, Part IIA or Form SBS (§ 249.617 of this chapter), as applicable. If the Statement of Financial Condition filed in accordance with instructions to Form X-17A-5, Part II, Part IIA, or Form SBS, as applicable, is not consolidated, a summary of financial data, including the assets, liabilities, and net worth or stockholders' equity, for subsidiaries not consolidated in the applicable Part II, Part IIA, or Form SBS Statement of Financial Condition as filed by the broker or dealer must be included in the notes to the financial statements reported on by the independent public accountant.

(ii) Supporting schedules that include, from Part II or Part IIA of Form X-17A-5 (§ 249.617 of this chapter), or Form SBS (§ 249.617 of this chapter), as applicable, including a Computation of Net Capital under § 240.15c3-1, a Computation for Determination of the Reserve Requirements under Exhibit A of § 240.15c3-3, and, if applicable, under Exhibit A of § 240.18a-4 [as proposed at 77 FR 70214, Nov. 23, 2012], and Information Relating to the Possession or Control Requirements under § 240.15c3-3, and, if applicable, under § 240.18a-4 [as proposed at 77 FR 70214, Nov. 23, 2012].

(iii) If either the Computation of Net Capital under § 240.15c3-1 or the Computation for Determination of the Reserve Requirements Under Exhibit A of § 240.15c3-3, or, if applicable Exhibit A of § 240.18a-4 [as proposed at 77 FR 70214, Nov. 23, 2012] in the financial report is materially different from the corresponding computation in the most recent Part II or Part IIA of Form X-17A-5 (§ 249.617 of this chapter) or Form SBS (§ 249.617 of this chapter), as applicable, filed by the broker or dealer pursuant to paragraph (a) of this section, a reconciliation, including appropriate explanations, between the computation in the financial report and the computation in the most recent Part II or Part IIA of Form X-17A-5 or Form SBS (§ 249.617 of this chapter), as applicable, filed by the broker or dealer. If no material differences exist, a statement so indicating must be included in the financial report.

* * * * *

(3) * * *

(i) * * *

(A) * * *

(4) The broker or dealer was in compliance with §§ 240.15c3-1, 240.15c3-3(e) and, if applicable, 240.18a-4(c) [as proposed at 77 FR 70214, Nov. 23, 2012] as of the end of the most recent fiscal year; and

(5) The information the broker or dealer used to state whether it was in compliance with §§ 240.15c3-1, 240.15c3-3(e) and, if applicable, 240.18a-4(c) [as proposed at 77 FR 70214, Nov. 23, 2012] was derived from the books and records of the broker or dealer.

* * * * *

(C) If applicable, a description of an instance of non-compliance with §§ 240.15c3-1, 240.15c3-3(e) or, if applicable, 240.18a-4(c) [as proposed at 77 FR 70214, Nov. 23, 2012] as of the end of the most recent fiscal year.

* * * * *

(iii) The broker or dealer is not permitted to conclude that its Internal Control Over Compliance was effective during the most recent fiscal year if there were one or more material weaknesses in its Internal Control Over Compliance during the most recent fiscal year. The broker or dealer is not permitted to conclude that its Internal Control Over Compliance was effective as of the end of the most recent fiscal year if there were one or more material weaknesses in its internal control as of the end of the most recent fiscal year. A material weakness is a deficiency, or a combination of deficiencies, in Internal Control Over Compliance such that there is a reasonable possibility that non-compliance with §§ 240.15c3-1, 240.15c3-3(e) or 240.18a-4(c) [as proposed at 77 FR 70214, Nov. 23, 2012] will not be prevented or detected on a timely basis or that non-compliance to a material extent with § 240.15c3-3, except for paragraph (e), § 240.18a-4 [as proposed at 77 FR 70214, Nov. 23, 2012], except for paragraph (c), § 240.17a-13 or any Account Statement Rule will not be prevented or detected on a timely basis. A deficiency in Internal Control Over Compliance exists when the design or operation of a control does not allow the management or employees of the broker or dealer, in the normal course of performing their assigned functions, to prevent or detect on a timely basis non-compliance with § 240.15c3-1, § 240.15c3-3, § 240.17a-13, § 240.18a-4 [as proposed at 77 FR 70214, Nov. 23, 2012], or any Account Statement Rule.

* * * * *

(e) * * *

(1) * * *

(ii) A broker or dealer that files an annual report under paragraph (d) of this section that is not covered by a report prepared by an independent public accountant must include in the oath or affirmation required by paragraph (e)(2) of this section a statement of the facts and circumstances relied upon as a basis for exemption from the requirement that the annual report filed under paragraph (d) of this section be covered by reports prepared by an independent public accountant.

(2) The broker or dealer must attach to each of the confidential and non-confidential portions of the annual reports separately bound under paragraph (e)(3) of this section a complete and executed Part III of Form X-17A-5 (§ 249.617 of this chapter). The oath or affirmation made in Part III of Form X-17A-5 must be made before a person duly authorized to administer such oaths or affirmations. If the broker or dealer is a sole proprietorship, the oath or affirmation must be made by the proprietor; if a partnership, by a general partner; if a corporation, by a duly authorized officer; or if a limited liability company or limited liability partnership, by the chief executive officer, chief financial officer, manager, managing member, or those members vested with management authority for the limited liability company or limited liability partnership.

(3) The annual reports filed under paragraph (d) of this section are not confidential, except that, if the Statement of Financial Condition in a format that is consistent with Form X-17A-5 (§ 249.617 of this chapter), Part II, Part IIA or Form SBS (§ 249.617 of this chapter) is bound separately from the balance of the annual reports filed under paragraph (d) of this section, and each page of the balance of the annual reports is stamped “confidential,” then the balance of the annual reports will be deemed confidential to the extent permitted by law. However, the annual reports, including the confidential portions, will be available for official use by any official or employee of the U. S. or any State, by national securities exchanges and registered national securities associations of which the broker or dealer filing such a report is a member, by the Public Company Accounting Oversight Board, and by any other person if the Commission authorizes disclosure of the annual reports to that person as being in the public interest. Nothing contained in this paragraph may be construed to be in derogation of the rules of any registered national securities association or national securities exchange that give to customers of a broker or dealer the right, upon request to the broker or dealer, to obtain information relative to its financial condition.

* * * * *

(f) * * *

(2) * * *

(ii) * * *

(E) A representation that the independent public accountant has undertaken the items enumerated in paragraphs (g)(1) and (2) of this section.

(F) Except as provided in paragraph (f)(2)(iii) of this section, a representation that the broker or dealer agrees to allow representatives of the Commission or its designated examining authority, if requested in writing for purposes of an examination of the broker or dealer, to review the audit documentation associated with the reports of the independent public accountant filed under paragraph (d)(1)(i)(C) of this section. For purposes of this paragraph, “audit documentation” has the meaning provided in standards of the Public Company Accounting Oversight Board. The Commission anticipates that, if requested, it will accord confidential treatment to all documents it may obtain from an independent public accountant under this paragraph to the extent permitted by law.

* * * * *

(g) * * *

(2)(i) To prepare an independent public accountant's report based on an examination of the statements required under paragraphs (d)(3)(i)(A)(2) through (5) of this section in the compliance report required to be filed by the broker or dealer under paragraph (d)(1)(i)(B)(1) of this section in accordance with standards of the Public Company Accounting Oversight Board; or

(ii) To prepare an independent public accountant's report based on a review of the statements required under paragraphs (d)(4)(i) through (iii) of this section in the exemption report required to be filed by the broker or dealer under paragraph (d)(1)(i)(B)(2) of this section, in accordance with standards of the Public Company Accounting Oversight Board.

(h) Notification of non-compliance or material weakness. If, during the course of preparing the independent public accountant's reports required under paragraph (d)(1)(i)(C) of this section, the independent public accountant determines that the broker or dealer is not in compliance with § 240.15c3-1, § 240.15c3-3, § 240.17a-13, or § 240.18a-4 [as proposed at 77 FR 70214, Nov. 23, 2012] or any rule of the designated examining authority of the broker or dealer that requires account statements to be sent to the customers of the broker or dealer, as applicable, or the independent public accountant determines that any material weaknesses (as defined in paragraph (d)(3)(iii) of this section) exist, the independent public accountant must immediately notify the chief financial officer of the broker or dealer of the nature of the non-compliance or material weakness. If the notice from the accountant concerns an instance of non-compliance that would require a broker or dealer to provide a notification under § 240.15c3-1, § 240.15c3-3, or § 240.17a-11, or if the notice concerns a material weakness, the broker or dealer must provide a notification in accordance with § 240.15c3-1, § 240.15c3-3, or § 240.17a-11, as applicable, and provide a copy of the notification to the independent public accountant. If the independent public accountant does not receive the notification within one business day, or if the independent public accountant does not agree with the statements in the notification, then the independent public accountant must notify the Commission and the designated examining authority within one business day. The report from the accountant must, if the broker or dealer failed to file a notification, describe any instances of non-compliance that required a notification under §§ 240.15c3-1, 240.15c3-3, or 240.17a-11, or any material weaknesses. If the broker or dealer filed a notification, the report from the accountant must detail the aspects of the notification of the broker or dealer with which the accountant does not agree.

Note to paragraph (h). The attention of the broker or dealer and the independent public accountant is called to the fact that under § 240.17a-11(a)(1), among other things, a broker or dealer whose net capital declines below the minimum required pursuant to § 240.15c3-1 must give notice of such deficiency that same day in accordance with § 240.17a-11(h) and the notice must specify the broker or dealer's net capital requirement and its current amount of net capital. The attention of the broker or dealer and accountant also is called to the fact that under § 240.15c3-3(i), if a broker or dealer shall fail to make a reserve bank account or special account deposit, as required by § 240.15c3-3, the broker or dealer must immediately notify the Commission and the regulatory authority for the broker or dealer, which examines such broker or dealer as to financial responsibility and must promptly thereafter confirm such notification in writing.

* * * * *

(i) * * *

(3) * * *

(iii)(A) The opinion of the independent public accountant with respect to the statements required under paragraphs (d)(3)(i)(A)(2) through (5) of this section in the compliance report required under paragraph (d)(1)(i)(B)(1) of this section; or

(B) The conclusion of the independent public accountant with respect to the statements required under paragraphs (d)(4)(i) through (iii) of this section in the exemption report required under paragraph (d)(1)(i)(B)(2) of this section.

(4) Exceptions. Any matters to which the independent public accountant takes exception must be clearly identified, the exceptions must be specifically and clearly stated, and, to the extent practicable, the effect of each such exception on any related items contained in the annual reports required under paragraph (d) of this section must be given.

* * * * *

(j) [Reserved].

* * * * *

(o) Filing requirements. For purposes of filing requirements as described in this section, filing will be deemed to have been accomplished upon receipt at the Commission's principal office in Washington, DC, with duplicate originals simultaneously filed at the locations prescribed in the particular paragraph of this section which is applicable.

* * * * *

5. Section 240.17a-11 is amended by:

a. Revising the heading;

b. Adding an undesignated introductory paragraph;

c. Removing paragraph (a);

d. Redesignating paragraphs (b), (c), (d), (e), (f), (g), (h), and (i) as paragraphs (a), (b), (c), (d), (g), (h), (i), and (j), respectively;

e. Revising newly redesignated paragraphs (a)(1), (a)(2), and paragraph (b) introductory text;

f. Adding paragraph (b)(6);

g. Revising newly redesignated paragraphs (c) and (d);

h. Adding paragraphs (e) and (f); and

i. Revising newly redesignated paragraphs (g), (h), (i), and (j).

The revisions and additions read as follows:

§ 240.17a-11 Notification provisions for brokers and dealers.

Section 240.17a-11 applies to a broker or dealer registered under section 15(b) of the Act (15 U.S.C. 78o(b)), including a broker or dealer also registered as a security-based swap dealer or major security-based swap participant under section 15F(b) of the Act (15 U.S.C. 78o-8(b)). A security-based swap dealer or major security-based swap participant registered under section 15F(b) of the Act that is not also registered as a broker or dealer under section 15(b) of the Act is subject to the notification requirements under § 240.18a-8.

(a)(1) Every broker or dealer whose net capital declines below the minimum amount required pursuant to § 240.15c3-1, or is insolvent as that term is defined in § 240.15c3-1(c)(16), must give notice of such deficiency that same day in accordance with paragraph (h) of this section. The notice must specify the broker or dealer's net capital requirement and its current amount of net capital. If a broker or dealer is informed by its designated examining authority or the Commission that it is, or has been, in violation of § 240.15c3-1 and the broker or dealer has not given notice of the capital deficiency under this section, the broker or dealer, even if it does not agree that it is, or has been, in violation of § 240.15c3-1, must give notice of the claimed deficiency, which notice may specify the broker's or dealer's reasons for its disagreement.

(2) In addition to the requirements of paragraph (b)(1) of this section, an OTC derivatives dealer or broker or dealer permitted to compute net capital pursuant to the alternative method of § 240.15c3-1e must also provide notice if its tentative net capital falls below the minimum amount required pursuant to § 240.15c3-1. The notice must specify the dealer's tentative net capital requirements, and current amount of net capital and tentative net capital, of the OTC derivatives dealer or the broker or dealer permitted to compute net capital pursuant to the alternative method of § 240.15c3-1e.

(b) Every broker or dealer must send notice promptly (but within 24 hours) after the occurrence of the events specified in paragraph (b)(1), (b)(2), (b)(3) or (b)(4) of this section in accordance with paragraph (h) of this section:

* * * * *

(6) If the broker or dealer is registered as a major security-based swap participant and the level of tangible net worth of the broker or dealer falls below $20 million.

(c) Every broker or dealer that fails to make and keep current the books and records required by § 240.17a-3, must give notice of this fact that same day in accordance with paragraph (h) of this section, specifying the books and records which have not been made or which are not current. The broker or dealer must also transmit a report in accordance with paragraph (h) of this section within 48 hours of the notice stating what the broker or dealer has done or is doing to correct the situation.

(d) Whenever any broker or dealer discovers, or is notified by an independent public accountant under § 240.17a-12(i)(2), of the existence of any material inadequacy as defined in § 240.17a-12(h)(2), or whenever any broker or dealer discovers, or is notified by an independent public accountant under § 240.17a-5(h), of the existence of any material weakness as defined in § 240.17a-5(d)(3)(iii), the broker or dealer must:

(1) Give notice, in accordance with paragraph (h) of this section, of the material inadequacy or material weakness within 24 hours of the discovery or notification of the material inadequacy or material weakness; and

(2) Transmit a report in accordance with paragraph (h) of this section, within 48 hours of the notice stating what the broker or dealer has done or is doing to correct the situation.

(e) A broker or dealer that has been authorized by the Commission to compute net capital pursuant to § 240.15c3-1e must give immediate notice in writing in accordance with paragraph (h) of this section if a liquidity stress test conducted pursuant to § 240.15c3-1(f) indicates that the amount of liquidity reserve is insufficient.

(f) If a broker-dealer registered with the Commission as a security-based swap dealer under section 15F(b) of the Act (15 U.S.C. 78o-10(b)) fails to make in its special account for the exclusive benefit of security-based swap customers a deposit, as required by § 240.18a-4(c) [as proposed at 77 FR 70214, Nov. 23, 2012], the broker-dealer must give immediate notice in writing in accordance with paragraph (h) of this section.

(g) Every national securities exchange or national securities association that learns that a broker or dealer has failed to send notice or transmit a report as required by this section, even after being advised by the securities exchange or the national securities association to send notice or transmit a report, must immediately give notice of such failure in accordance with paragraph (h) of this section.

(h) Every notice or report required to be given or transmitted by this section must be given or transmitted to the principal office of the Commission in Washington, DC, the regional office of the Commission for the region in which the broker or dealer has its principal place of business, the designated examining authority of which such broker or dealer is a member, and the Commodity Futures Trading Commission if the broker or dealer is registered as a futures commission merchant with such Commission. For the purposes of this section, “notice” must be given or transmitted by facsimile transmission. The report required by paragraphs (c) or (d)(2) of this section may be transmitted by overnight delivery.

(i) Other notice provisions relating to the Commission's financial responsibility or reporting rules are contained in § 240.15c3-1, § 240.15c3-1d, § 240.15c3-3, § 240.17a-5, and § 240.17a-12.

(j) The provisions of this section will not apply to a broker or dealer registered pursuant to section 15(b)(11)(A) of the Act (15 U.S.C. 78o(b)(11)(A)) that is not a member of either a national securities exchange pursuant to section 6(a) of the Act (15 U.S.C. 78f(a)) or a national securities association registered pursuant to section 15A(a) of the Act (15 U.S.C. 78o-3(a)).

* * * * *

6. Section 240.18a-1 [as proposed at 77 FR 70214, Nov. 23, 2012] is revised by adding paragraph (c)(1)(x) to read as follows:

§ 240.18a-1 Net capital requirements for security-based swap dealers for which there is not a prudential regulator.

* * * * *

(c) * * *

(1) * * *

(x)(A) Deducting the market value of all short securities differences (which shall include securities positions reflected on the securities record which are not susceptible to either count or confirmation) unresolved after discovery in accordance with the following schedule:

Differences¹ | Number of business days after discovery
25 percent | 7
50 percent | 14
75 percent | 21
100 percent | 28
¹ Percentage of market value of short securities differences.

(B) Deducting the market value of any long securities differences, where such securities have been sold by the broker or dealer before they are adequately resolved, less any reserves established therefor;

(C) The designated examining authority for a broker or dealer may extend the periods in (x)(A) of this section for up to 10 business days if it finds that exceptional circumstances warrant an extension.

* * * * *

7. Sections 240.18a-5 through 240.18a-9 are added to read as follows:

§ 240.18a-5 Records to be made by certain security-based swap dealers and major security-based swap participants.

Section 240.18a-5 applies to a security-based swap dealer or major security-based swap participant registered under section 15F(b) of the Act (15 U.S.C. 78o-8(b)) that is not also registered as a broker or dealer under section 15(b) of the Act (15 U.S.C. 78o(b)). A broker or dealer registered under section 15(b) of the Act, including a broker or dealer registered as a security-based swap dealer or major security-based swap participant under section 15F(b) of the Act, is subject to the books and records requirements under § 240.17a-3.

(a) This paragraph applies only to security-based swap dealers and major security-based swap participants registered under section 15F of the Act (15 U.S.C. 78o-10) for which there is no prudential regulator. Each such security-based swap dealer and major security-based swap participant subject to this paragraph must make and keep the following books and records:

(1) Blotters (or other records of original entry) containing an itemized daily record of all purchases and sales of securities (including security-based swaps), all receipts and deliveries of securities (including certificate numbers), all receipts and disbursements of cash and all other debits and credits. Such records must show the account for which each such purchase or sale was effected, the name and amount of securities, the unit and aggregate purchase or sale price, if any, the trade date, and the name or other designation of the person from whom purchased or received or to whom sold or delivered. For security-based swaps, such records must also show, for each purchase or sale, the type of security-based swap, the reference security, index, or obligor, the date and time of execution, the effective date, the termination or maturity date, the notional amount, the unique transaction identifier, and the unique counterparty identifier.

(2) Ledgers (or other records) reflecting all assets and liabilities, income and expense, and capital accounts.

(3) Ledger accounts (or other records) itemizing separately as to each account for every customer or non-customer of such security-based swap dealer or major security-based swap participant, all purchases and sales, receipts and deliveries of securities and commodities for such account and all other debits and credits to such account, and in addition, in the case of security-based swaps, ledger accounts (or other records) itemizing separately, the type of security-based swap, the reference security, index, or obligor, the date and time of execution, the effective date, the termination or maturity date, the notional amount, the unique transaction identifier, and the unique counterparty identifier.

(4) A securities record or ledger reflecting separately for each:

(i) Security, other than a security-based swap, as of the clearance dates all “long” or “short” positions (including securities in safekeeping and securities that are the subject of repurchase or reverse repurchase agreements) carried by such security-based swap dealer or major security-based swap participant for its account or the account of its customers and showing the locations of all securities long and the offsetting position to all securities short, including long security count differences and short security count differences classified by the date of the physical count and verification in which they were discovered, and, in all cases, the name or designation of the account in which each position is carried.

(ii) Security-based swap, the reference security, index, or obligor, the unique transaction identifier, the unique counterparty identifier, whether it is a “long” or “short” position in the security-based swap, whether the security-based swap is cleared or not cleared, and if cleared, identification of the clearing agency where the security-based swap is cleared.

(5) A memorandum of each purchase or sale of a security-based swap for the account of the security-based swap dealer or major security-based swap participant showing the price. The memorandum must also include the type of security-based swap, the reference security, index, or obligor, the date and time of execution, the effective date, the termination or maturity date, the notional amount, the unique transaction identifier, and the unique counterparty identifier. An order entered pursuant to the exercise of discretionary authority must be so designated.

(6) With respect to a security other than a security-based swap, copies of confirmations of all purchases and sales of securities. With respect to a security-based swap, copies of the security-based swap trade acknowledgement and verification made in compliance with § 240.15Fi-1 [as proposed at 76 FR 3859, Jan. 21, 2011].

(7) For each security-based swap account, a record of the unique counterparty identifier, the name and address of such counterparty, and the signature of each person authorized to transact business in the security-based swap account.

(8) A record of all puts, calls, spreads, straddles and other options in which such security-based swap dealer or major security-based swap participant has any direct or indirect interest or which such security-based swap dealer or major security-based swap participant has granted or guaranteed, containing, at least, an identification of the security, and the number of units involved.

(9) A record of the proof of money balances of all ledger accounts in the form of trial balances, and a record of the computation of net capital or tangible net worth, as applicable, as of the trial balance date, pursuant to § 240.18a-1 or § 240.18a-2 [as proposed at 77 FR 70214, Nov. 23, 2012], respectively. Such trial balances and computations must be prepared currently at least once per month.

(10)(i) A questionnaire or application for employment executed by each “associated person” (as defined in paragraph (c) of this section) of the security-based swap dealer or major security-based swap participant which questionnaire or application must be approved in writing by an authorized representative of the security-based swap dealer or major security-based swap participant and must contain at least the following information with respect to the associated person:

(A) The associated person's name, address, social security number, and the starting date of the associated person's employment or other association with the security-based swap dealer or major security-based swap participant;

(B) The associated person's date of birth;

(C) A complete, consecutive statement of all the associated person's business connections for at least the preceding ten years, including whether the employment was part-time or full-time;

(D) A record of any denial of membership or registration, and of any disciplinary action taken, or sanction imposed, upon the associated person by any federal or state agency, or by any national securities exchange or national securities association, including any finding that the associated person was a cause of any disciplinary action or had violated any law;

(E) A record of any denial, suspension, expulsion or revocation of membership or registration of any broker, dealer, security-based swap dealer or major security-based swap participant with which the associated person was associated in any capacity at the time such action was taken;

(F) A record of any permanent or temporary injunction entered against the associated person, or any broker, dealer, security-based swap dealer or major security-based swap participant with which the associated person was associated in any capacity at the time such injunction was entered;

(G) A record of any arrest or indictment for any felony, or any misdemeanor pertaining to securities, commodities, banking, insurance or real estate (including, but not limited to, acting or being associated with a broker or dealer, security-based swap dealer, major security-based swap participant, investment company, investment adviser, futures sponsor, bank, or savings and loan association), fraud, false statements or omissions, wrongful taking of property or bribery, forgery, counterfeiting or extortion, and the disposition of the foregoing; and

(H) A record of any other name or names by which the associated person has been known or which the associated person has used.

(ii) A record listing every associated person of the security-based swap dealer, major security-based swap participant which shows, for each associated person, every office of the security-based swap dealer or major security-based swap participant where the associated person regularly conducts the business of handling funds or securities or effecting any transactions in, or inducing or attempting to induce the purchase or sale of any security, for the security-based swap dealer or major security-based swap participant and the Central Registration Depository number, if any, and every internal identification number or code assigned to that person by the security-based swap dealer or major security-based swap participant.

(11) A report of the results of the monthly liquidity stress test, a record of the assumptions underlying the liquidity stress test, and the liquidity funding plan required under § 240.18a-1(f) [as proposed at 77 FR 70214, Nov. 23, 2012], if applicable.

(12) A record of the daily calculation of the amount of equity and, if applicable, the margin amount for each account of a counterparty required under § 240.18a-3(c) [as proposed at 77 FR 70214, Nov. 23, 2012].

(13) A record of compliance with possession or control requirements under § 240.18a-4(b) [as proposed at 77 FR 70214, Nov. 23, 2012].

(14) A record of the reserve computation required under § 240.18a-4(c) [as proposed at 77 FR 70214, Nov. 23, 2012].

(15) A record of each security-based swap transaction that is not verified under § 240.15Fi-1 [as proposed at 76 FR 3859, Jan. 21, 2011] within five business days of execution that includes, at a minimum, the unique transaction identifier and unique counterparty identifier.

(16) A record that demonstrates the security-based swap dealer or major security-based swap participant has complied with the business conduct standards as required under § 240.15Fh-6 [as proposed at 76 FR 42396, July 18, 2011].

(17) A record that demonstrates the security-based swap dealer or major security-based swap participant has complied with the business conduct standards as required under § 240.15Fh-1 through § 240.15Fh-5, and § 240.15Fk-1 [as proposed at 76 FR 42396, July 18, 2011].

(b) This paragraph applies only to security-based swap dealers and major security-based swap participants registered under section 15F of the Act (15 U.S.C. 78o-10) for which there is a prudential regulator. Each security-based swap dealer and major security-based swap participant subject to this paragraph must make and keep the following books and records:

(1) For security-based swaps and any other positions related to the firm's business as a security-based swap dealer or a major security-based swap participant, blotters (or other records of original entry) containing an itemized daily record of all purchases and sales of securities (including security-based swaps), all receipts and deliveries of securities (including certificate numbers), all receipts and disbursements of cash and all other debits and credits. Such records must show, the account for which each such purchase and sale was effected, the name and amount of securities, the unit and aggregate purchase or sale price, if any (includes the contract price for security-based swaps), the trade date, and the name or other designation of the person from whom purchased or received or to whom sold or delivered. For security-based swaps, such records must also show, for each purchase and sale, the type of security-based swap, the reference security, index, or obligor, the date and time of execution, the effective date, the termination or maturity date, the notional amount, the unique transaction identifier, and the unique counterparty identifier.

(2) Ledger accounts (or other records) itemizing separately as to each account for every security-based swap customer or non-customer and of such security-based swap dealer or major security-based swap participant, all purchases, sales, receipts and deliveries of securities and commodities for such account and all other debits and credits to such account, and in addition, for security-based swaps, the type of security-based swap, the reference security, index, or obligor, the date and time of execution, the effective date, the termination or maturity date, the notional amount, the unique transaction identifier, and the unique counterparty identifier.

(3) For security-based swaps and any securities positions related to the firm's business as a security-based swap dealer or a major security-based swap participant, a securities record or ledger reflecting separately for each:

(i) Security, other than a security-based swap, as of the clearance dates all “long” or “short” positions (including securities in safekeeping and securities that are the subjects of repurchase or reverse repurchase agreements) carried by such security-based swap dealer or major security-based swap participant for its account or for the account of its customers and showing the location of all securities long and the offsetting position to all securities short, including long security count differences and short security count differences classified by the date of the physical count and verification in which they were discovered, and in all cases the name or designation of the account in which each position is carried.

(ii) Security-based swap, the reference security, index, or obligor, the unique transaction identifier, the unique counterparty identifier, whether it is a “long” or “short” position in the security-based swap, whether the security-based swap is cleared or not cleared, and if cleared, identification of the clearing agency where the security-based swap is cleared.

(4) A memorandum of each brokerage order, and of any other instruction, given or received for the purchase or sale of a security-based swap, whether executed or unexecuted. The memorandum must show the terms and conditions of the order or instructions and of any modification or cancellation thereof; the account for which entered; the time the order was received; the time of entry; the price at which executed; the identity of each associated person, if any, responsible for the account; the identity of any other person who entered or accepted the order on behalf of the customer, or, if a customer entered the order on an electronic system, a notation of that entry; and, to the extent feasible, the time of cancellation, if applicable. The memorandum also must include the type of the security-based swap, the reference security, index, or obligor, the date and time of execution, the effective date, the termination or maturity date, the notional amount, the unique transaction identifier, and the unique counterparty identifier. An order entered pursuant to the exercise of discretionary authority must be so designated.

(5) A memorandum of each purchase or sale of a security-based swap for the account of the security-based swap dealer or major security-based swap participant showing the price. The memorandum must also include the type of security-based swap, the reference security, index, or obligor, the date and time of execution, the effective date, the termination or maturity date, the notional amount, the unique transaction identifier, and the unique counterparty identifier. An order entered pursuant to the exercise of discretionary authority must be so designated.

(6) With respect to a security other than a security-based swap, copies of confirmations of all purchases and sales of securities related to the business of a security-based swap dealer or major security-based swap participant. With respect to a security-based swap, copies of the security-based swap trade acknowledgement and verification made in compliance with § 240.15Fi-1 [as proposed at 76 FR 3859, Jan. 21, 2011].

(7) For each security-based swap account, a record of the unique counterparty identifier, the name and address of such counterparty, and the signature of each person authorized to transact business in the security-based swap account.

(8)(i) A questionnaire or application for employment executed by each “associated person” (as defined in paragraph (c) of this section) of the security-based swap dealer or major security-based swap participant whose activities relate to the business of the security-based swap dealer or major security-based swap participant, which questionnaire or application must be approved in writing by an authorized representative of the security-based swap dealer or major security-based swap participant and must contain at least the following information with respect to the associated person:

(A) The associated person's name, address, social security number, and the starting date of the associated person's employment or other association with the security-based swap dealer or major security-based swap participant;

(B) The associated person's date of birth;

(C) A complete, consecutive statement of all the associated person's business connections for at least the preceding ten years, including whether the employment was part-time or full-time;

(D) A record of any denial of membership or registration, and of any disciplinary action taken, or sanction imposed, upon the associated person by any federal or state agency, or by any national securities exchange or national securities association, including any finding that the associated person was a cause of any disciplinary action or had violated any law;

(E) A record of any denial, suspension, expulsion or revocation of membership or registration of any broker, dealer, security-based swap dealer or major security-based swap participant with which the associated person was associated in any capacity at the time such action was taken;

(F) A record of any permanent or temporary injunction entered against the associated person, or any broker, dealer, security-based swap dealer or major security-based swap participant with which the associated person was associated in any capacity at the time such injunction was entered;

(G) A record of any arrest or indictment for any felony, or any misdemeanor pertaining to securities, commodities, banking, insurance or real estate (including, but not limited to, acting or being associated with a broker or dealer, security-based swap dealer, major security-based swap participant, investment company, investment adviser, futures sponsor, bank, or savings and loan association), fraud, false statements or omissions, wrongful taking of property or bribery, forgery, counterfeiting or extortion, and the disposition of the foregoing; and

(H) A record of any other name or names by which the associated person has been known or which the associated person has used.

(ii) A record listing every associated person of the security-based swap dealer, major security-based swap participant which shows, for each associated person, every office of the security-based swap dealer or major security-based swap participant where the associated person regularly conducts the business of handling funds or securities or effecting any transactions in, or inducing or attempting to induce the purchase or sale of any security, for the security-based swap dealer or major security-based swap participant and every internal identification number or code assigned to that person by the security-based swap dealer or major security-based swap participant.

(9) A record of compliance with possession or control requirements under § 240.18a-4(b) [as proposed at 77 FR 70214, Nov. 23, 2012].

(10) A record of the reserve computation required under § 240.18a-4(c) [as proposed at 77 FR 70214, Nov. 23, 2012].

(11) A record of each security-based swap transaction that is not verified under § 240.15Fi-1 [as proposed at 76 FR 3859, Jan. 21, 2011] within five business days of execution that includes, at a minimum, the unique transaction identifier and unique counterparty identifier.

(12) A record that demonstrates the security-based swap dealer or major security-based swap participant has complied with the business conduct standards as required under § 240.15Fh-6 [as proposed at 76 FR 42396, July 18, 2011].

(13) A record that demonstrates the security-based swap dealer or major security-based swap participant has complied with the business conduct standards as required under § 240.15Fh-1 through § 240.15Fh-5 and § 240.15Fk-1 [as proposed at 76 FR 42396, July 18, 2011].

(c)(1) The term associated person means for purposes of this section a “person associated with a security-based swap dealer or major security-based swap participant” as defined under section 3(a)(70) of the Act.

(2) The term, as to a person supervised by a prudential regulator, includes only those persons whose activities relate to its business as a security-based swap dealer or major security-based swap participant.

§ 240.18a-6 Records to be preserved by certain security-based swap dealers and major security-based swap participants.

Section 240.18a-6 applies to a security-based swap dealer or major security-based swap participant registered under section 15F(b) of the Act (15 U.S.C. 78o-10(b)) that is not also registered as a broker or dealer under section 15(b) of the Act (15 U.S.C. 78o(b)). A broker or dealer registered under section 15(b) of the Act, including a broker or dealer registered as a security-based swap dealer or major security-based swap participant under section 15F(b) of the Act, is subject to the record maintenance and preservation requirements under § 240.17a-4.

(a)(1) Every security-based swap dealer or major security-based swap participant subject to § 240.18a-5(a) must preserve for a period not less than six years, the first two years in an easily accessible place, all records required to be made pursuant to paragraphs § 240.18a-5(a)(1), (a)(2), (a)(3), and (a)(4).

(2) Every security-based swap dealer or major security-based swap participant subject to § 240.18a-5(b) must preserve for a period not less than six years, the first two years in an easily accessible place, all records required to be made pursuant to paragraphs § 240.18a-5(b)(1), (b)(2), and (b)(3).

(b)(1) Every security-based swap dealer and major security-based swap participant subject to § 240.18a-5(a) must preserve for a period of not less than three years, the first two years in an easily accessible place:

(i) All records required to be made pursuant to §§ 240.18a-5(a)(5), (a)(6), (a)(7), (a)(8), (a)(9), (a)(11), (a)(12), (a)(13), (a)(14), (a)(15), (a)(16), and (a)(17);

(ii) All check books, bank statements, cancelled checks and cash reconciliations;

(iii) All bills receivable or payable (or copies thereof), paid or unpaid, relating to the business of such security-based swap dealer or major security-based swap participant, as such;

(iv) Originals of all communications received and copies of all communications sent (and any approvals thereof) by the security-based swap dealer or major security-based swap participant (including inter-office memoranda and communications) relating to its business as such. As used in this paragraph (b)(1)(iv), the term communications includes sales scripts and recordings of telephone calls required to be maintained pursuant to section 15F(g)(1) of the Act (15 U.S.C. 78o-10(g)(1));

(v) All trial balances and computations of net capital or tangible net worth requirements (and working papers in connection therewith), as applicable, financial statements, branch office reconciliations, and internal audit working papers, relating to the business of such security-based swap dealer or major security-based swap participant as such;

(vi) All guarantees of security-based swap accounts and all powers of attorney and other evidence of the granting of any discretionary authority given in respect of any security-based swap account, and copies of resolutions empowering an agent to act on behalf of a corporation.

(vii) All written agreements (or copies thereof) entered into by such security-based swap dealer or major security-based swap participant relating to its business as such, including agreements with respect to any account. Written agreements with respect to a security-based swap customer or non-customer, including governing documents or any document establishing the terms and conditions of the customer's or non-customer's securities-based swaps must be maintained with the customer's or non-customer's account records.

(viii) Records which contain the following information in support of amounts included in the report prepared as of the audit date on Form SBS (§ 249.617 of this chapter) and in annual audited financial statements required by § 240.18a-7(d):

(A) Money balance and position, long or short, including description, quantity, price, and valuation of each security including contractual commitments in security-based swap customers' accounts, in fully secured accounts, partly secured accounts, unsecured accounts, and in securities accounts payable to security-based swap customers;

(B) Money balance and position, long or short, including description, quantity, price, and valuation of each security including contractual commitments in security-based swap non-customers' accounts, in fully secured accounts, partly secured accounts, unsecured accounts, and in security-based swap accounts payable to security-based swap customers;

(C) Position, long or short, including description, quantity, price and valuation of each security including contractual commitments included in the Computation of Net Capital as commitments, securities owned, securities owned not readily marketable, and other investments owned not readily marketable;

(D) Description of futures commodity contracts or swaps, contract value on trade date, market value, gain or loss, and liquidating equity or deficit in customers' and non-customers' accounts;

(E) Description of futures commodity contracts or swaps, contract value on trade date, market value, gain or loss and liquidating equity or deficit in trading and investment accounts;

(F) Description, money balance, quantity, price, and valuation of each spot commodity, and swap position or commitments in customers' and non-customers' accounts;

(G) Description, money balance, quantity, price, and valuation of each spot commodity, and swap position or commitments in trading and investment accounts;

(H) Number of shares, description of security, exercise price, cost, and market value of put and call options including short out of the money options having no market or exercise value, showing listed and unlisted put and call options separately;

(I) Quantity, price, and valuation of each security underlying the haircut for undue concentration made in the Computation for Net Capital;

(J) Description, quantity, price, and valuation of each security and commodity position or contractual commitment, long or short, in each joint account in which the security-based swap dealer or major security-based swap participant has an interest, including each participant's interest and margin deposit;

(K) Description, settlement date, contract amount, quantity, market price, and valuation for each aged failed to deliver requiring a charge in the Computation of Net Capital pursuant to § 240.18a-1 [as proposed at 77 FR 70214, Nov. 23, 2012];

(L) Detail relating to information for possession or control requirements under § 240.18a-4 [as proposed at 77 FR 70214, Nov. 23, 2012] and reported on Form SBS (§ 249.617 of this chapter);

(M) Detail of all items, not otherwise substantiated, which are charged or credited in the Computation of Net Capital pursuant to § 240.18a-1 and § 240.18a-2 [as proposed at 77 FR 70214, Nov. 23, 2012], such as cash margin deficiencies, deductions related to securities values and undue concentration, aged securities differences, and insurance claims receivable;

(N) Detail relating to the calculation of the risk margin amount pursuant to § 240.18a-1(c)(6) [as proposed at 77 FR 70214, Nov. 23, 2012]; and;

(O) Other schedules which are specifically prescribed by the Commission as necessary to support information reported as required by § 240.18a-7;

(ix) The records required to be made pursuant to § 240.15c3-4 and the results of the periodic reviews conducted pursuant to § 240.15c3-4(d);

(x) The records required to be made pursuant to § 240.18a-1(e)(2)(iv)(F)(1) and (2) [as proposed at 77 FR 70214, Nov. 23, 2012];

(xi) A copy of information required to be reported under Regulation SBSR § 242.901 et seq. of this chapter;

(xii) Copies of documents, communications, disclosures, and notices related to business conduct standards as required under § 240.15Fh-1 through § 240.15Fh-6 and § 240.15Fk-1 [as proposed at 76 FR 42396, July 18, 2011];

(xiii) Copies of documents used to make a reasonable determination with respect to special entities, including information relating to the financial status, the tax status, the investment or financing objectives of the special entity as required under section 15F(h)(4)(C) and (5)(A) of the Act (15 U.S.C. 78o-10(h)(4)(C) and (5)(A)).

(2) Every security-based swap dealer and major security-based swap participant subject to § 240.18a-5(b) must preserve for a period of not less than three years, the first two years in an easily accessible place:

(i) All records required to be made pursuant to § 240.18a-5(b)(4), (b)(5), (b)(6), (b)(7), (b)(9), (b)(10), (b)(11), (b)(12), and (b)(13).

(ii) Originals of all communications received and copies of all communications sent (and any approvals thereof) by the security-based swap dealer or major security-based swap participant (including inter-office memoranda and communications) relating to its business as a security-based swap dealer or major security-based swap dealer. As used in this paragraph (b)(2)(ii), the term communications includes sales scripts and recordings of telephone calls required to be maintained pursuant to section 15F(g)(1) of the Act (15 U.S.C. 78o-10(g)(1)).

(iii) All guarantees of security-based swap accounts and all powers of attorney and other evidence of the granting of any discretionary authority given in respect of any security-based swap account, and copies of resolutions empowering an agent to act on behalf of a corporation.

(iv) All written agreements (or copies thereof) entered into by such security-based swap dealer or major security-based swap participant relating to its business as a security-based swap dealer or major security-based swap participant, including agreements with respect to any account. Written agreements with respect to a security-based swap customer or non-customer, including governing documents or any document establishing the terms and conditions of the customer's or non-customer's securities-based swaps must be maintained with the customer's or non-customer's account records.

(v) Records which contain detail relating to information for possession or control requirements under § 240.18a-4 [as proposed at 77 FR 70214, Nov. 23, 2012] and reported on Form SBS (§ 249.617 of this chapter) that is in support of amounts included in the report prepared as of the audit date on Form SBS (§ 249.617 of this chapter) and in annual audited financial statements required by § 240.18a-7(d).

(vi) A copy of information required to be reported under Regulation SBSR § 242.901 et seq. of this chapter;

(vii) Copies of documents, communications, disclosures, and notices related to business conduct standards as required under § 240.15Fh-1 through § 240.15Fh-6 and § 240.15Fk-1 [as proposed at 76 FR 42396, July 18, 2011]; and

(viii) Copies of documents used to make a reasonable determination with respect to special entities, including information relating to the financial status, the tax status, the investment or financing objectives of the special entity as required under sections 15F(h)(4)(C) and (5)(A) of the Act (15 U.S.C. 78o-10(h)(4)(C) and (5)(A)).

(c) Every security-based swap dealer and major security-based swap participant subject to § 240.18a-5(a) must preserve during the life of the enterprise and of any successor enterprise all partnership articles or, in the case of a corporation, all articles of incorporation or charter, minute books and stock certificate books (or, in the case of any other form of legal entity, all records such as articles of organization or formation, and minute books used for a purpose similar to those records required for corporation or partnerships), all Forms SBSE (§ 249.617 of this chapter), Forms SBSE-A, Forms SBSE-W (§ 249.617 of this chapter), all amendments to these forms, all licenses or other documentation showing the registration of the security-based swap dealer or major security-based swap participant with any securities regulatory authority.

(d) Every security-based swap dealer and major security-based swap participant subject to § 240.18a-5 must maintain and preserve in an easily accessible place:

(1) All records required under § 240.18a-5(a)(10) or (b)(8) until at least three years after the associated person's employment and any other connection with the security-based swap dealer or major security-based swap participant has terminated.

(2)(i) For security-based swap dealers and major security-based swap participants for which there is not a prudential regulator, each report which a regulatory authority has requested or required the security-based swap dealer or major security-based swap participant to make and furnish to it pursuant to an order or settlement, and each regulatory authority examination report until three years after the date of the report.

(ii) For security-based swap dealers and major security-based swap participants for which there is a prudential regulator, each report related to security-based swap activities which a regulatory authority has requested or required the security-based swap dealer or major security-based swap participant to make and furnish to it pursuant to an order or settlement, and each regulatory authority examination report until three years after the date of the report.

(3)(i) For security-based swap dealers and major security-based swap participants for which there is not a prudential regulator, each compliance, supervisory, and procedures manual, including any updates, modifications, and revisions to the manual, describing the policies and practices of the security-based swap dealer or major security-based swap participant with respect to compliance with applicable laws and rules, and supervision of the activities of each natural person associated with the security-based swap dealer or major security-based swap participant until three years after the termination of the use of the manual.

(ii) For security-based swap dealers and major security-based swap participants for which there is a prudential regulator, each compliance, supervisory, and procedures manual, including any updates, modifications, and revisions to the manual, describing the policies and practices of the security-based swap dealer or major security-based swap participant with respect to compliance with applicable laws and rules relating to security-based swap activities, and supervision of the activities of each natural person associated with the security-based swap dealer or major security-based swap participant until three years after the termination of the use of the manual.

(e) The records required to be maintained and preserved pursuant to §§ 240.18a-5 and 240.18a-6 may be immediately produced or reproduced by means of “electronic storage media” (as defined in this section) that meet the conditions set forth in this paragraph and be maintained and preserved for the required time in that form.

(1) For purposes of this section, the term electronic storage media means any digital storage medium or system that meets the applicable conditions set forth in this paragraph (e).

(2) If electronic storage media is used by a security-based swap dealer or major security-based swap participant, it must comply with the following requirements:

(i) If employing any electronic storage media other than optical disk technology (including CD-ROM), the security-based swap dealer or major security-based swap participant must notify the Commission at least 90 days prior to employing such storage media. The security-based swap dealer or major security-based swap participant must provide its own representation or one from the storage medium vendor or other third party with appropriate expertise that the selected storage media meets the conditions set forth in this paragraph (e)(2).

(ii) The electronic storage media must:

(A) Preserve the records exclusively in a non-rewritable, non-erasable format;

(B) Verify automatically the quality and accuracy of the storage media recording process;

(C) Serialize the original and, if applicable, duplicate units of storage media, and time-date for the required period of retention the information placed on such electronic storage media; and

(D) Have the capacity to readily download indexes and records preserved on the electronic storage media to any medium acceptable under this paragraph (e) as required by the Commission.

(3) If a security-based swap dealer or major security-based swap participant uses electronic storage media, it must:

(i) At all times have available, for examination by the staff of the Commission, facilities for immediate, easily readable projection or productions of electronic storage media images and for producing easily readable images;

(ii) Be ready at all times to provide, and immediately provide, any facsimile enlargement which the staff of the Commission may request;

(iii) Store separately from the original, a duplicate copy of the record stored on any medium acceptable under § 240.18a-6 for the time required; and

(iv) Organize and index accurately all information maintained on both original and any duplicate storage media.

(A) At all times, a security-based swap dealer or major security-based swap participant must be able to have such indexes available for examination by the staff of the Commission.

(B) Each index must be duplicated and the duplicate copies must be stored separately from the original copy of each index.

(C) Original and duplicate indexes must be preserved for the time required for the indexed records.

(v) The security-based swap dealer or major security-based swap participant must have in place an audit system providing for accountability regarding inputting of records required to be maintained and preserved pursuant to §§ 240.18a-5 and 240.18a-6 to electronic storage media and inputting of any changes made to every original and duplicate record maintained and preserved thereby.

(A) At all times the security-based swap dealer or major security-based swap participant must be able to have the results of such audit system available for examination by the staff of the Commission.

(B) The audit results must be preserved for the time required for the audited records.

(vi) The security-based swap dealer or major security-based swap participant must maintain, keep current, and provide promptly upon request by the staff of the Commission all information necessary to access records and indexes stored on the electronic storage media; or place in escrow and keep current a copy of the physical and logical file format of the electronic storage media, the field format of all different information types written on the electronic storage media and the source code, together with the appropriate documentation and information necessary to access records and indexes.

(vii) For every security-based swap dealer or major security-based swap participant exclusively using electronic storage media for some or all of its record preservation under this section, at least one third party (“the undersigned”), who has access to and the ability to download information from the security-based swap dealer's or major security-based swap participant's electronic storage media to any acceptable medium under this section, must file with the Commission the following undertakings with respect to such records:

The undersigned hereby undertakes to furnish promptly to the U.S. Securities and Exchange Commission (“Commission”), its designees or representatives, upon reasonable request, such information as is deemed necessary by the staff of the Commission, to download information kept on the security-based swap dealer's or major security-based swap participant's electronic storage media to any medium acceptable under § 240.18a-6 under the Act.

Furthermore, the undersigned hereby undertakes to take reasonable steps to provide access to information contained on the security-based swap dealer's or major security-based swap participant's electronic storage media, including, as appropriate, arrangements for the downloading of any record required to be maintained and preserved pursuant to §§ 240.18a-5 and 240.18a-6 under the Act in a format acceptable to the staff of the Commission. Such arrangements will provide specifically that in the event of a failure on the part of a security-based swap dealer or major security-based swap participant to download the record into a readable format and after reasonable notice to the security-based swap dealer or major security-based swap participant, upon being provided with the appropriate electronic storage medium, the undersigned will undertake to do so, as the staff of the Commission may request.

(f) If the records required to be maintained and preserved pursuant to the provisions of §§ 240.18a-5 and 240.18a-6 are prepared or maintained by a third party on behalf of the security-based swap dealer or major security-based swap participant, the third party must file with the Commission a written undertaking in form acceptable to the Commission, signed by a duly authorized person, to the effect that such records are the property of the security-based swap dealer or major security-based swap participant and will be surrendered promptly on request of the security-based swap dealer or major security-based swap participant and including the following provision:

With respect to any books and records maintained or preserved on behalf of [SBSD or MSBSP], the undersigned hereby undertakes to permit examination of such books and records at any time or from time to time during business hours by representatives or designees of the Securities and Exchange Commission, and to promptly furnish to said Commission or its designee true, correct, complete, and current hard copy of any or all or any part of such books and records.

Agreement with an outside entity will not relieve such security-based swap dealer or major security-based swap participant from the responsibility to prepare and maintain records as specified in this section or in § 240.18a-5.

(g) Every security-based swap dealer and major security-based swap participant subject to this section must furnish promptly to a representative of the Commission legible, true, complete, and current copies of those records of the security-based swap dealer or major security-based swap participant that are required to be preserved under this section, or any other records of the security-based swap dealer or major security-based swap participant subject to examination or required to be made or maintained pursuant to section 15F of the Act (15 U.S.C. 78o-10), which are requested by a representative of the Commission.

(h) When used in this section:

(1) The term securities regulatory authority means the Commission, any self-regulatory organization, or any securities commission (or any agency or office performing like functions) of the States; the Commodities Futures Trading Commission and a prudential regulator to the extent the prudential regulator oversees security-based swap activities.

(2) The term associated person has the meaning set forth in § 240.18a-5(c).

§ 240.18a-7 Reports to be made by certain security-based swap dealers and major security-based swap participants.

Section 240.18a-7 applies to a security-based swap dealer or major security-based swap participant registered under section 15F(b) of the Act (15 U.S.C. 78o-8(b)) that is not also registered as a broker or dealer under section 15(b) of the Act (15 U.S.C. 78o(b)). A broker or dealer registered under section 15(b) of the Act, including a broker or dealer registered as a security-based swap dealer or major security-based swap participant under section 15F(b) of the Act, is subject to the reporting requirements under § 240.17a-5.

(a)(1) Every security-based swap dealer or major security-based swap participant for which there is no prudential regulator must file an executed Form SBS with the Commission or its designee within 17 business days after the end of each month.

(2) Every security-based swap dealer or major security-based swap participant for which there is a prudential regulator must file an executed Form SBS with the Commission or its designee within 17 business days after the end of each calendar quarter.

(3) Security-based swap dealers that have been authorized by the Commission to compute net capital pursuant to § 240.18a-1(d) [as proposed at 77 FR 70214, Nov. 23, 2012], must file the following:

(i) For each product for which the security-based swap dealer calculates a deduction for market risk other than in accordance with a model approved pursuant to §§ 240.18a-1(e)(1)(i) and (iii) [as proposed at 77 FR 70214, Nov. 23, 2012], the product category and the amount of the deduction for market risk within 17 business days after the end of the month;

(ii) A graph reflecting, for each business line, the daily intra-month value at risk within 17 business days after the end of the month;

(iii) The aggregate value at risk for the security-based swap dealer within 17 business days after end of the month;

(iv) For each product for which the security-based swap dealer uses scenario analysis, the product category and the deduction for market risk within 17 business days after the end of the month;

(v) Credit risk information on security-based swap, mixed swap and swap exposures, within 17 business days after the end of the month, including:

(A) Overall current exposure;

(B) Current exposure (including commitments) listed by counterparty for the 15 largest exposures;

(C) The ten largest commitments listed by counterparty;

(D) The broker's or dealer's maximum potential exposure listed by counterparty for the 15 largest exposures;

(E) The broker's or dealer's aggregate maximum potential exposure;

(F) A summary report reflecting the broker's or dealer's current and maximum potential exposures by credit rating category; and

(G) A summary report reflecting the broker's or dealer's current exposure for each of the top ten countries to which the broker or dealer is exposed (by residence of the main operating group of the counterparty);

(vi) Regular risk reports supplied to the security-based swap dealer's senior management within 17 business days after the end of the month;

(vii) The results of the liquidity stress test required by § 240.18a-1(f) [as proposed at 77 FR 70214, Nov. 23, 2012] within 17 business days after the end of the month;

(viii) A report identifying the number of business days for which the actual daily net trading loss exceeded the corresponding daily VaR within 17 business days after the end of each calendar quarter; and

(ix) The results of backtesting of all internal models used to compute allowable capital, including VaR, and credit risk models, indicating the number of backtesting exceptions within 17 business days after the end of each calendar quarter.

(b) Customer Disclosures

(1) Every security-based swap dealer or major security-based swap participant for which there is no prudential regulator must make publicly available on its Web site within 10 business days after the date the firm is required to file with the Commission the annual reports pursuant to paragraph (c) of this section:

(i) A Statement of Financial Condition with appropriate notes prepared in accordance with U.S. generally accepted accounting principles which must be audited;

(ii) A statement of the amount of the security-based swap dealer's net capital and its required net capital, computed in accordance with § 240.18a-1 [as proposed at 77 FR 70214, Nov. 23, 2012]. Such statement must include summary financial statements of subsidiaries consolidated pursuant to Appendix C of § 240.18a-1 [as proposed at 77 FR 70214, Nov. 23, 2012], where material, and the effect thereof on the net capital and required net capital of the security-based swap dealer; and

(iii) If, in connection with the most recent annual reports required under paragraph (c) of this section, the report of the independent public accountant required under paragraph (c)(1)(i)(C) of this section covering the report of the security-based swap dealer required under paragraph (c)(1)(i)(B) of this section identifies one or more material weaknesses, a copy of the report.

(2) Every security-based swap dealer or major security-based swap participant for which there is no prudential regulator must make publicly available on its Web site unaudited statements as of the date that is 6 months after the date of the most recent audited statements filed with the Commission under paragraph (c)(1) of this section. These reports must be made publicly available within 30 calendar days of the date of the statements.

(3) The information that is made publicly available pursuant to paragraphs (b)(1) and (2) of this section must also be made available in writing, upon request, to any person that has a security-based swap account. The security-based swap dealer or major security-based swap participant must maintain a toll-free telephone number to receive such requests.

(c) Annual reports. (1)(i) Except as otherwise provided in paragraph (c)(1)(iii) of this section, every security-based swap dealer or major security-based swap participant for which there is no prudential regulator registered under section 15F of the Act (15 U.S.C. 78o-10) must file annually, as applicable:

(A) A financial report as described in paragraph (c)(2) of this section;

(B) For a security-based swap dealer, a compliance report as described in paragraph (c)(3) of this section; and

(C) A report prepared by an independent public accountant, under the engagement provisions in paragraph (e) of this section, covering each report required to be filed under paragraphs (c)(1)(i)(A) and (B) of this section, as applicable.

(ii) The reports required to be filed under this paragraph (c) must be as of the same fiscal year end each year, unless a change is approved in writing by the Commission. The original request for a change should be filed at the Commission's principal office in Washington, DC. A copy of the written approval must be sent to the regional office of the Commission for the region in which the security-based swap dealer or major security-based swap participant has its principal place of business.

(iii) A security-based swap dealer or major security-based swap participant succeeding to and continuing the business of another security-based swap dealer or major security-based swap participant is not required to file reports under this paragraph (c) as of a date in the fiscal year in which the succession occurs if the predecessor security-based swap dealer or major security-based swap participant has filed the reports in compliance with this paragraph (c) as of a date in such fiscal year.

(2) Financial report. The financial report must contain:

(i) A Statement of Financial Condition, a Statement of Income, a Statement of Cash Flows, a Statement of Changes in Stockholders' or Partners' or Sole Proprietor's Equity, and Statement of Changes in Liabilities Subordinated to Claims of General Creditors. The statements must be prepared in accordance with U.S. generally accepted accounting principles and must be in a format that is consistent with the statements contained in Form SBS (§ 249.617 of this chapter).

(ii) Supporting schedules that include, from Form SBS (§ 249.617 of this chapter), including a Computation of Net Capital under § 240.18a-1 [as proposed at 77 FR 70214, Nov. 23, 2012], the Computation for Determination of Tangible Net Worth under § 240.18a-2 [as proposed at 77 FR 70214, Nov. 23, 2012], a Computation for Determination of the Reserve Requirements under Exhibit A of § 240.18a-4 [as proposed at 77 FR 70214, Nov. 23, 2012], and Information Relating to the Possession or Control Requirements Under § 240.18a-4 [as proposed at 77 FR 70214, Nov. 23, 2012], as applicable.

(iii) If either the Computation of Net Capital under § 240.18a-1 [as proposed at 77 FR 70214, Nov. 23, 2012], the Computation for Determination of Tangible Net Worth under § 240.18a-2 [as proposed at 77 FR 70214, Nov. 23, 2012] or the Computation for Determination of the Reserve Requirements under § 240.18a-4 [as proposed at 77 FR 70214, Nov. 23, 2012] in the financial report is materially different from the corresponding computation in the most recent Form SBS (§ 249.617 of this chapter) filed pursuant to paragraph (a) of this section, a reconciliation, including appropriate explanations, between the computation in the financial report and the computation in the most recently filed report, or if no material differences exist, a statement so indicating must be included in the financial report.

(3) Compliance report. (i) The compliance report must contain:

(A) Statements as to whether:

(1) The security-based swap dealer has established and maintained Internal Control Over Compliance as that term is defined in paragraph (c)(3)(ii) of this section;

(2) The Internal Control Over Compliance of the security-based swap dealer was effective during the most recent fiscal year;

(3) The Internal Control Over Compliance of the security-based swap dealer was effective as of the end of the most recent fiscal year;

(4) The security-based swap dealer was in compliance with §§ 240.18a-1 and 240.18a-4(c) [as proposed at 77 FR 70214, Nov. 23, 2012];

(5) The information used to assert compliance with §§ 240.18a-1 and 240.18a-4(c) [as proposed at 77 FR 70214, Nov. 23, 2012] was derived from the books and records of the security-based swap dealer; and

(B) If applicable, a description of each identified material weakness in the Internal Control Over Compliance of the security-based swap dealer during the most recent fiscal year;

(C) If applicable, a description of an instance of non-compliance with §§ 240.18a-1 or 240.18a-4 [as proposed at 77 FR 70214, Nov. 23, 2012] as of the end of the most recent fiscal year.

(ii) The term Internal Control Over Compliance means internal controls that have the objective of providing the security-based swap dealer with reasonable assurance that non-compliance with §§ 240.18a-1, 240.18a-4(c) [as proposed at 77 FR 70214, Nov. 23, 2012], or 240.18a-9 will be prevented or detected on a timely basis.

(iii) The security-based swap dealer is not permitted to conclude that its Internal Control Over Compliance was effective during the most recent fiscal year if there were one or more material weaknesses in its Internal Control Over Compliance during the most recent fiscal year. The security-based swap dealer is not permitted to conclude that its Internal Control Over Compliance was effective as of the end of the most recent fiscal year if there were one or more material weaknesses in its internal control as of the end of the most recent fiscal year. A material weakness is a deficiency, or a combination of deficiencies, in Internal Control Over Compliance such that there is a reasonable possibility that non-compliance with §§ 240.18a-1 or 240.18a-4(c) [as proposed at 77 FR 70214, Nov. 23, 2012] will not be prevented, or detected on a timely basis or that non-compliance to a material extent with § 240.18a-4 [as proposed at 77 FR 70214, Nov. 23, 2012], except for paragraph (c), or § 240.18a-9 will not be prevented or detected on a timely basis. A deficiency in Internal Control Over Compliance exists when the design or operation of a control does not allow the management or employees of the security-based swap dealer in the normal course of performing their assigned functions, to prevent or detect on a timely basis non-compliance with § 240.18a-1,§ 240.18a-4 [as proposed at 77 FR 70214, Nov. 23, 2012], or § 240.18a-9.

(4) The annual reports must be filed not more than 60 calendar days after the end of the fiscal year of the security-based swap dealer or major security-based swap participant.

(5) The annual reports must be filed at the regional office of the Commission for the region in which the security-based swap dealer or major security-based swap participant has its principal place of business and the Commission's principal office in Washington, DC.

(d) Nature and form of reports. The annual reports filed pursuant to paragraph (c) of this section must be prepared and filed in accordance with the following requirements:

(1) The security-based swap dealer or major security-based swap participant must attach to each of the confidential and non-confidential portions of the annual reports separately bound under paragraph (e)(2) of this section a complete and executed Part III of Form X-17A-5 (§ 249.617 of this chapter). The oath or affirmation made in Part III of Form X-17A-5 must be made before a person duly authorized to administer such oaths or affirmations. If the security-based swap dealer or major security-based swap participant is a sole proprietorship, the oath or affirmation must be made by the proprietor; if a partnership, by a general partner; if a corporation, by a duly authorized officer; or if a limited liability company or limited liability partnership, by the chief executive officer, chief financial officer, manager, managing member, or those members vested with management authority for the limited liability company or limited liability partnership.

(2) The annual reports filed under paragraph (c) of this section are not confidential, except that, if the Statement of Financial Condition is in a format that is consistent with Form SBS (§ 249.617 of this chapter), and is bound separately from the balance of the annual reports filed under paragraph (c) of this section, and each page of the balance of the annual report is stamped “confidential,” then the balance of the annual reports will be deemed confidential to the extent permitted by law. However, the annual reports, including the confidential portions, will be available for official use by any official or employee of the U.S. or any State, by the Public Company Accounting Oversight Board, and by any other person if the Commission authorizes disclosure of the annual reports to that person as being in the public interest. Nothing contained in this paragraph (d)(2) may be construed to be in derogation of the right of customers of a security-based swap dealer or major security-based swap participant, upon request to the security-based swap dealer or major security-based swap participant, to obtain information relative to its financial condition.

(e)(1) Qualifications of independent public accountant. The independent public accountant must be qualified and independent in accordance with § 210.2-01 of this chapter. In addition, the accountant must be registered with the Public Company Accounting Oversight Board.

(2) Statement regarding independent public accountant. (i) Every security-based swap dealer or major security-based swap participant that is required to file annual reports under paragraph (c) of this section must file no later than December 10 of each year (or 30 days after effective date of registration as a security-based swap dealer or major security-based swap participant if earlier) a statement as prescribed in paragraph (e)(2)(ii) of this section with the Commission's principal office in Washington, DC and the regional office of the Commission for the region in which its principal place of business is located. Such statement must be dated no later than December 1 (or 20 calendar days after the effective date of its registration as a security-based swap dealer or major security-based swap participant, if earlier). If the engagement of an independent public accountant is of a continuing nature, providing for successive engagements, no further filing is required. If the engagement is for a single year, or if the most recent engagement has been terminated or amended, a new statement must be filed by the required date.

(ii) The statement must be headed “Statement regarding independent public accountant under Rule 18a-7(e)(2)” and must contain the following information and representations:

(A) Name, address, telephone number and registration number of the security-based swap dealer or major security-based swap participant;

(B) Name, address, and telephone number of the independent public accountant;

(C) The date of the fiscal year of the annual reports of the security-based swap dealer or major security-based swap participant covered by the engagement;

(D) Whether the engagement is for a single year or is of a continuing nature;

(E) A representation that the independent public accountant has undertaken the items enumerated in paragraphs (f)(1) and (2) of this section.

(3) Replacement of accountant. A security-based swap dealer or major security-based swap participant must file a notice which must be received by the Commission's principal office in Washington, DC and the regional office of the Commission for the region in which its principal place of business is located not more than 15 business days after:

(i) The security-based swap dealer or major security-based swap participant has notified the independent public accountant that provided the reports the security-based swap dealer or major security-based swap participant filed under paragraph (c)(1)(i)(C) of this section for the most recent fiscal year that the independent public accountant's services will not be used in future engagements; or

(ii) The security-based swap dealer or major security-based swap participant has notified an independent public accountant that was engaged to provide the reports required under paragraph (c)(1)(i)(C) of this section that the engagement has been terminated; or

(iii) An independent public accountant has notified the security-based swap dealer or major security-based swap participant that the independent public accountant would not continue under an engagement to provide the reports required under paragraph (c)(1)(i)(C) of this section; or

(iv) A new independent public accountant has been engaged to provide the reports required under paragraph (c)(1)(i)(C) of this section without any notice of termination having been given to or by the previously engaged independent public accountant.

(v) The notice must include:

(A) The date of notification of the termination of the engagement or of the engagement of the new independent public accountant, as applicable; and

(B) The details of any issues arising during the 24 months (or the period of the engagement, if less than 24 months) preceding the termination or new engagement relating to any matter of accounting principles or practices, financial statement disclosure, auditing scope or procedure, or compliance with applicable rules of the Commission, which issues, if not resolved to the satisfaction of the former independent public accountant, would have caused the independent public accountant to make reference to them in the report of the independent public accountant. The issues required to be reported include both those resolved to the former independent public accountant's satisfaction and those not resolved to the former accountant's satisfaction. Issues contemplated by this section are those which occur at the decision-making level—that is, between principal financial officers of the security-based swap dealer or major security-based swap participant and personnel of the accounting firm responsible for rendering its report. The notice must also state whether the accountant's report filed under paragraph (c)(1)(i)(C) of this section for any of the past two fiscal years contained an adverse opinion or a disclaimer of opinion or was qualified as to uncertainties, audit scope, or accounting principles, and must describe the nature of each such adverse opinion, disclaimer of opinion, or qualification. The security-based swap dealer or major security-based swap participant must also request the former independent public accountant to furnish the security-based swap dealer or major security-based swap participant with a letter addressed to the Commission stating whether the independent public accountant agrees with the statements contained in the notice of the security-based swap dealer or major security-based swap participant and, if not, stating the respects in which the independent public accountant does not agree. The security-based swap dealer or major security-based swap participant must file three copies of the notice and the accountant's letter, one copy of which must be manually signed by the sole proprietor, or a general partner or a duly authorized corporate, limited liability company, or limited liability partnership officer or member, as appropriate, and by the independent public accountant, respectively.

(f) Engagement of the independent public accountant. The independent public accountant engaged by the security-based swap dealer or major security-based swap participant to provide the reports required under paragraph (c)(1)(i)(C) of this section must, as part of the engagement, undertake the following, as applicable:

(1) To prepare an independent public accountant's report based on an examination of the financial report required to be filed by the security-based swap dealer or major security-based swap participant under paragraph (c)(1)(i)(A) of this section in accordance with standards of the Public Company Accounting Oversight Board; and

(2) To prepare an independent public accountant's report based on an examination of the statements required under paragraphs (c)(3)(i)(A)(2) through (5) of this section in the compliance report required to be filed by the security-based swap dealer under paragraph (c)(1)(i)(B) of this section in accordance with standards of the Public Company Accounting Oversight Board.

(g) Notification of non-compliance or material weakness. If, during the course of preparing the independent public accountant's reports required under paragraph (c)(1)(i)(C) of this section, the independent public accountant determines that:

(1) A security-based swap dealer is not in compliance with § 240.18a-1, § 240.18a-4 [as proposed at 77 FR 70214, Nov. 23, 2012], or § 240.18a-9, or the independent public accountant determines that any material weaknesses (as defined in paragraph (c)(3)(iii) of this section) exist, the independent public accountant must immediately notify the chief financial officer of the security-based swap dealer of the nature of the non-compliance or material weakness. If the notice from the accountant concerns an instance of non-compliance that would require a security-based swap dealer to provide a notification under § 240.18a-8 or if the notice concerns a material weakness, the security-based swap dealer must provide a notification in accordance with § 240.18a-8, as applicable, and provide a copy of the notification to the independent public accountant. If the independent public accountant does not receive the notification within one business day, or if the independent public accountant does not agree with the statements in the notification, then the independent public accountant must notify the Commission within one business day. The report from the accountant must, if the security-based swap dealer failed to file a notification, describe any instances of non-compliance that required a notification under § 240.18a-8 or any material weakness. If the security-based swap dealer filed a notification, the report from the accountant must detail the aspects of the notification of the security-based swap dealer with which the accountant does not agree; or

(2) A major security-based swap participant is not in compliance with § 240.18a-2 [as proposed at 77 FR 70214, Nov. 23, 2012], the independent public accountant must immediately notify the chief financial officer of the major security-based swap participant of the nature of the non-compliance. If the notice from the accountant concerns an instance of non-compliance that would require a major security-based swap participant to provide a notification under § 240.18a-8, the major security-based swap participant must provide a notification in accordance with § 240.18a-8 and provide a copy of the notification to the independent public accountant. If the independent public accountant does not receive the notification within one business day, or if the independent public accountant does not agree with the statements in the notification, then the independent public accountant must notify the Commission within one business day. The report from the accountant must, if the major security-based swap participant failed to file a notification, describe any instances of non-compliance that required a notification under § 240.18a-8. If the major security-based swap participant filed a notification, the report from the accountant must detail the aspects of the notification of the major security-based swap participant with which the accountant does not agree.

Note to paragraph (g): The attention of the security-based swap dealer, major security-based swap participant, and the independent public accountant is called to the fact that under § 240.18a-8(a), among other things, a security-based swap dealer or major security-based swap participant whose net capital or tangible net worth, as applicable, declines below the minimum required pursuant to § 240.18a-1 or § 240.18a-2 [as proposed at 77 FR 70214, Nov. 23, 2012], as applicable, must give notice of such deficiency that same day in accordance with § 240.18a-8(h) and the notice must specify the security-based swap dealer's net capital requirement and its current amount of net capital, or the extent of the major security-based swap participant's failure to maintain positive tangible net worth, as applicable.

(h) Reports of the independent public accountant required under paragraph (c)(1)(i)(C) of this section.

(1) Technical requirements. The independent public accountant's reports must:

(i) Be dated;

(ii) Be signed manually;

(iii) Indicate the city and state where issued; and

(iv) Identify without detailed enumeration the items covered by the reports.

(2) Representations. The independent public accountant's reports must:

(i) State whether the examinations were made in accordance with standards of the Public Company Accounting Oversight Board; and

(ii) Identify any examination procedures deemed necessary by the independent public accountant under the circumstances of the particular case which have been omitted and the reason for their omission.

(iii) Nothing in this section may be construed to imply authority for the omission of any procedure that independent public accountants would ordinarily employ in the course of an examination for the purpose of expressing the opinions required under this section.

(3) Opinion to be expressed. The independent public accountant's reports must state clearly:

(i) The opinion of the independent public accountant with respect to the financial report required under paragraph (c)(1)(i)(C) of this section and the accounting principles and practices reflected in that report; and

(ii) The opinion of the independent public accountant with respect to the financial report required under paragraph (c)(1)(i)(C) of this section, as to the consistency of the application of the accounting principles, or as to any changes in those principles which have a material effect on the financial statements; and

(iii) The opinion of the independent public accountant with respect to the statements required under paragraphs (c)(3)(i)(A)(2) through (5) of this section in the compliance report required under paragraph (c)(1)(i)(B) of this section.

(4) Exceptions. Any matters to which the independent public accountant takes exception must be clearly identified, the exceptions must be specifically and clearly stated, and, to the extent practicable, the effect of each such exception on any related items contained in the annual reports required under paragraph (c) of this section must be given.

(i) Extensions and exemptions—on written request of a security-based swap dealer or major security-based swap participant to the Commission or on its own motion, the Commission may grant an extension of time or an exemption from any of the requirements of this section either unconditionally or on specified terms and conditions.

(j) Notification of change of fiscal year—

(1) In the event any security-based swap dealer or major security-based swap participant for which there is no prudential regulator finds it necessary to change its fiscal year, it must file, with the Commission's principal office in Washington, DC and the regional office of the Commission for the region in which the security-based swap dealer or major security-based swap participant has its principal place of business, a notice of such change.

(2) Such notice must contain a detailed explanation of the reasons for the change. Any change in the filing period for the annual reports must be approved by the Commission.

(k) Filing Requirements. For purposes of filing requirements as described in this section, filing will be deemed to have been accomplished upon receipt at the Commission's principal office in Washington, DC, with duplicate originals simultaneously filed at the locations prescribed in the particular paragraph of this section which is applicable.

§ 240.18a-8 Notification provisions for security-based swap dealers and major security-based swap participants.

Section 240.18a-8 applies to a security-based swap dealer or major security-based swap participant registered under section 15F(b) of the Act (15 U.S.C. 78o-8(b)) that is not also registered as a broker or dealer under section 15(b) of the Act (15 U.S.C. 78o(b)). A broker or dealer registered under section 15(b) of the Act (15 U.S.C. 78o(b)), including a broker or dealer registered as a security-based swap dealer or major security-based swap participant under section 15F(b) of the Act (15 U.S.C. 78o-10(b)), is subject to the notification requirements under § 240.17a-11.

(a)(1)(i) Every security-based swap dealer for which there is no prudential regulator whose net capital declines below the minimum amount required pursuant to § 240.18a-1 [as proposed at 77 FR 70214, Nov. 23, 2012] must give notice that same day in accordance with paragraph (h) of this section. The notice must specify the security-based swap dealer's net capital requirement and its current amount of net capital. If a security-based swap dealer is informed by the Commission that it is, or has been, in violation of § 240.18a-1 [as proposed at 77 FR 70214, Nov. 23, 2012] and the security-based swap dealer has not given notice of the capital deficiency under this section, the security-based swap dealer, even if it does not agree that it is, or has been, in violation of § 240.18a-1 [as proposed at 77 FR 70214, Nov. 23, 2012], must give notice of the claimed deficiency, which notice may specify the security-based swap dealer's reasons for its disagreement.

(ii) Every security-based swap dealer for which there is no prudential regulator whose tentative net capital declines below the minimum amount required pursuant to § 240.18a-1 [as proposed at 77 FR 70214, Nov. 23, 2012] must give notice that same day in accordance with paragraph (h) of this section. The notice must specify the security-based swap dealer's tentative net capital requirement and its current amount of tentative net capital, as appropriate. If a security-based swap is informed by the Commission that it is, or has been, in violation of § 240.18a-1 [as proposed at 77 FR 70214, Nov. 23, 2012] and the security-based swap dealer has not given notice of the capital deficiency under this section, the security-based swap dealer, even if it does not agree that it is, or has been, in violation of § 240.18a-1 [as proposed at 77 FR 70214, Nov. 23, 2012], must give notice of the claimed deficiency, which notice may specify the security-based swap dealer's reasons for its disagreement.

(2) Every major security-based swap participant for which there is no prudential regulator who fails to maintain a positive tangible net worth pursuant to § 240.18a-2 [as proposed at 77 FR 70214, Nov. 23, 2012] must give notice that same day in accordance with paragraph (h) of this section. The notice must specify the extent to which the firm has failed to maintain positive tangible net worth. If a major security-based swap participant is informed by the Commission that it is, or has been, in violation of § 240.18a-2 [as proposed at 77 FR 70214, Nov. 23, 2012] and the major security-based swap participant has not given notice of the capital deficiency under this section, the major security-based swap participant, even if it does not agree that it is, or has been, in violation of § 240.18a-2 [as proposed at 77 FR 70214, Nov. 23, 2012], must give notice of the claimed deficiency, which notice may specify the major security-based swap participant's reasons for its disagreement.

(b) Every security-based swap dealer or major security-based swap participant for which there is no prudential regulator must send notice promptly (but within 24 hours) after the occurrence of the events specified in paragraphs (b)(1), (b)(2), (b)(3), or (b)(4) of this section, as applicable, in accordance with paragraph (i) of this section:

(1) If a computation made by a security-based swap dealer pursuant to § 240.18a-1 [as proposed at 77 FR 70214, Nov. 23, 2012] shows that its total net capital is less than 120 percent of the security-based swap dealer's required minimum net capital;

(2) If a computation made by a security-based swap dealer authorized by the Commission to compute net capital pursuant to § 240.18a-1(d) [as proposed at 77 FR 70214, Nov. 23, 2012] shows that its total tentative net capital is less than 120 percent of the security-based swap dealer's required minimum tentative net capital;

(3) If the level of tangible net worth of a major security-based swap participant falls below $20 million;

(4) The occurrence of the fourth and each subsequent backtesting exception under § 240.18a-1(d)(9) [as proposed at 77 FR 70214, Nov. 23, 2012] during any 250 business day measurement period.

(c) Every security-based swap dealer that files a notice of adjustment of its reported capital category with the Federal Reserve Board, the Office of the Comptroller of the Currency or the Federal Deposit Insurance Corporation must give notice of this fact that same day by transmitting a copy notice of the adjustment of reported capital category in accordance with paragraph (h) of this section.

(d) Every security-based swap dealer or major security-based swap participant that fails to make and keep current the books and records required by §§ 240.18a-5 must give notice of this fact that same day in accordance with paragraph (h) of this section, specifying the books and records which have not been made or which are not current. The security-based swap dealer or major security-based swap participant must also transmit a report in accordance with paragraph (h) of this section within 48 hours of the notice stating what the security-based swap dealer or major security-based swap participant has done or is doing to correct the situation.

(e) Whenever any security-based swap dealer for which there is no prudential regulator discovers, or is notified by an independent public accountant under § 240.18a-7(g), of the existence of any material weakness, as defined in § 240.18a-7(c)(3)(iii), the security-based swap dealer must:

(1) Give notice, in accordance with paragraph (h) of this section, of the material weakness within 24 hours of the discovery or notification of the material weakness; and

(2) Transmit a report in accordance with paragraph (h) of this section within 48 hours of the notice stating what the security-based swap dealer has done or is doing to correct the situation.

(f) A security-based swap dealer that has been authorized by the Commission to compute net capital pursuant to § 240.18a-1(d) [as proposed at 77 FR 70214, Nov. 23, 2012] must give immediate notice in writing in accordance with paragraph (h) of this section if a liquidity stress test conducted pursuant to § 240.18a-1(f) [as proposed at 77 FR 70214, Nov. 23, 2012] indicates that the amount of liquidity reserve is insufficient.

(g) If a security-based swap dealer fails to make in its special account for the exclusive benefit of security-based swap customers a deposit, as required by § 240.18a-4(c) [as proposed at 77 FR 70214, Nov. 23, 2012], the security-based swap dealer must give immediate notice in writing in accordance with paragraph (h) of this section.

(h) Every notice or report required to be given or transmitted by this section must be given or transmitted to the principal office of the Commission in Washington, DC, the regional office of the Commission for the region in which the security-based swap dealer or major security-based swap participant has its principal place of business, and the Commodity Futures Trading Commission if the security-based swap dealer or major security-based swap participant is registered as a futures commission merchant with such Commission. For the purposes of this section, “notice” must be given or transmitted by facsimile transmission. The report required by paragraphs (d) or (e)(2) of this section may be transmitted by overnight delivery.

§ 240.18a-9 Quarterly security counts to be made by certain security-based swap dealers.

Section 240.18a-9 applies to a security-based swap dealer registered under 15F(b) of the Act (15 U.S.C. 78o-8(b)) that is not also registered as a broker or dealer under section 15(b) of the Act (15 U.S.C. 78o(b)); provided, however, that this § 240.18a-9 does not apply to a security-based swap dealer that has a prudential regulator. A broker or dealer registered under section 15(b) of the Act, including a broker or dealer registered as a security-based swap dealer or major security-based swap participant under section 15F(b) of the Act, is subject to the securities count requirements under § 240.17a-13.

(a) Any security-based swap dealer that is subject to the provisions of this rule must at least once in each calendar quarter-year:

(1) Physically examine and count all securities held including securities that are the subjects of repurchase or reverse repurchase agreements;

(2) Account for all securities in transfer, in transit, pledged, loaned, borrowed, deposited, failed to receive, failed to deliver, subject to repurchase or reverse repurchase agreements or otherwise subject to its control or direction but not in its physical possession by examination and comparison of the supporting detailed records with the appropriate ledger control accounts;

(3) Verify all securities in transfer, in transit, pledged, loaned, borrowed, deposited, failed to receive, failed to deliver, subject to repurchase or reverse repurchase agreements or otherwise subject to its control or direction but not in its physical possession, where such securities have been in said status for longer than thirty days;

(4) Compare the results of the count and verification with its records; and

(5) Record on the books and records of the security-based swap dealer all unresolved differences setting forth the security involved and date of comparison in a security count difference account no later than 7 business days after the date of each required quarterly security examination, count, and verification in accordance with the requirements provided in paragraph (b) of this section. Provided, however, that no examination, count, verification, and comparison for the purpose of this section is within 2 months of or more than 4 months following a prior examination, count, verification, and comparison made hereunder.

(b) The examination, count, verification, and comparison may be made either as of a date certain or on a cyclical basis covering the entire list of securities. In either case the recordation must be effected within 7 business days subsequent to the examination, count, verification, and comparison of a particular security. In the event that an examination, count, verification, and comparison is made on a cyclical basis, it may not extend over more than 1 calendar quarter-year, and no security may be examined, counted, verified, or compared for the purpose of this rule within 2 months of or more than 4 months after a prior examination, count, verification, and comparison.

(c) The examination, count, verification, and comparison must be made or supervised by persons whose regular duties do not require them to have direct responsibility for the proper care and protection of the securities or the making or preservation of the subject records.

(d) The Commission may, upon written request, exempt from the provisions of this section, either unconditionally or on specified terms and conditions, any security-based swap dealer that satisfies the Commission that it is not necessary in the public interest and for the protection of investors to subject the particular security-based swap dealer to certain or all of the provisions of this section, because of the special nature of its business, the safeguards it has established for the protection of customers' funds and securities, or such other reason as the Commission deems appropriate.

* * * * *

PART 249—FORMS, SECURITIES EXCHANGE ACT OF 1934

8. The authority citation for part 249 continues to read, in part, as follows:

Authority: 15 U.S.C. 78a et seq. and 7201 et seq.; 12 U.S.C. 5461 et seq.; and 18 U.S.C. 1350, unless otherwise noted.

* * * * *

9. Subpart G is amended by revising the heading to read as follows:

Subpart G—Forms for Reports To Be Made by Certain Exchange Members, Brokers, Dealers, Security-Based Swap Dealers, and Major Security-Based Swap Participants

* * * * *

10. Section 249.617 is revised to read as follows:

§ 249.617 Form X-17A-5 and FOCUS Report Form SBS, information required of certain brokers, dealers, security-based swap dealers, and major security-based swap participants pursuant to sections 15F and 17 of the Securities Exchange Act of 1934 and § 240.17a-5, § 240.17a-10 and § 240.17a-11, § 240.17a-12, and § 240.18a-7 of this chapter, as applicable.

Appropriate parts of Form X-17A-5 and FOCUS Report Form SBS, as applicable, shall be used by brokers, dealers, security-based swap dealers, and major security-based swap participants required to file reports under § 240.17a-5, § 240.17a-10, and § 240.17a-11, § 240.17a-12, and § 240.18a-7 of this chapter, as applicable.

* * * * *

11. Part III of Form X-17A-5 (referenced in § 249.617 of this chapter) is revised to read as follows:

Note: The text of Part III of Form X-17A-5 does not and this amendment will not appear in the Code of Federal Regulations.

BILLING CODE 8011-01-P

12. FOCUS Report Form SBS and the instructions thereto (referenced in § 249.617 of this chapter) are added to read as follows:

Note: The text of FOCUS Report Form SBS and the instructions thereto will not appear in the Code of Federal Regulations.

* * * * *

By the Commission.
Date: April 17, 2014.
Kevin M. O'Neill,
Deputy Secretary.

[FR Doc. 2014-09108 Filed 5-1-14; 8:45 am]

BILLING CODE 8011-01-P